DEPARTMENT OF THE INTERIOR

Fish and Wildlife Service

50 CFR Part 17

RIN 1018-AT90

Endangered and Threatened Wildlife and Plants; Critical Habitat for the Perdido Key Beach Mouse, Choctawhatchee Beach Mouse, and St. Andrew Beach Mouse

AGENCY: Fish and Wildlife Service, Interior.

ACTION: Proposed rule.

SUMMARY: We, the U.S. Fish and Wildlife Service (Service), propose to revise critical habitat for the endangered Perdido Key beach mouse (Peromyscus polionotus trissyllepsis) and Choctawhatchee beach mouse (Peromyscus polionotus allophrys), and designate critical habitat for the endangered St. Andrew beach mouse (Peromyscus polionotus peninsularis) pursuant to the Endangered Species Act of 1973, as amended (Act). We are proposing 5 units of critical habitat totaling approximately 1,264 acres (ac) (511 hectares (ha)) for the Perdido Key beach mouse, 5 units totaling approximately 2,334 ac (944 ha) for the Choctawhatchee beach mouse, and 3 units totaling approximately 2,610 ac (1,056 ha) for the St. Andrew beach mouse. In total, approximately 6,208 ac (2,511 ha) fall within the boundaries of the proposed critical habitat designation. The proposed critical habitat is located in Baldwin County, Alabama, and Escambia, Okaloosa, Walton, Bay, and Gulf Counties, Florida.

DATES: We will accept comments from all interested parties until February 13, 2006. We must receive requests for public hearings, in writing, at the address shown in the ADDRESSES section by January 30, 2006.

ADDRESSES: If you wish to comment, you may submit your comments and information concerning this proposal by any one of several methods:

1. You may submit written comments and information to the Field Supervisor, U.S. Fish and Wildlife Service, Panama City Fish and Wildlife Office, 1601 Balboa Avenue, Panama City, Florida 32405.

2. You may hand-deliver written comments to our Office, at the above address.

3. You may send comments by electronic mail (e-mail) to flbeachmice@fws.gov. Please see the Public Comments Solicited section below for file format and other information about electronic filing.

4. You may fax your comments to 850-763-2177.

5. Federal eRulemaking Portal: http://www.regulations.gov. Follow the instructions for submitting comments.

Comments and materials received, as well as supporting documentation used in the preparation of this proposed rule, will be available for public inspection, by appointment, during normal business hours at the Panama City U.S. Fish and Wildlife Service Office at the above address.

FOR FURTHER INFORMATION CONTACT: Field Supervisor, U.S. Fish and Wildlife Service, Panama City, Florida 32405, (telephone 850-769-0552; facsimile 850-763-2177).

SUPPLEMENTARY INFORMATION:

Public Comments Solicited

We intend that any final action resulting from this proposal will be as accurate and as effective as possible. Therefore, comments or suggestions from the public, other concerned governmental agencies, the scientific community, industry, or any other interested party concerning this proposed rule are hereby solicited. Comments particularly are sought concerning:

(1) The reasons any habitat should or should not be determined to be critical habitat as provided by section 4 of the Act, including whether the benefit of designation will outweigh any threats to the species due to designation;

(2) Specific information on the amount and distribution of Perdido Key beach mouse, Choctawhatchee beach mouse, and St. Andrew beach mouse habitat, and what areas should be included in the designations that were occupied at the time of listing that contain the features that are essential for the conservation of the species and why and what areas that were not occupied at the listing are essential to the conservation of the species and why;

(3) Land use designations and current or planned activities in the subject areas and their possible impacts on proposed critical habitat;

(4) Any foreseeable economic, national security, or other potential impacts resulting from the proposed designation and, in particular, any impacts on small entities;

(5) Whether our approach to designating critical habitat could be improved or modified in any way to provide for greater public participation and understanding, or to assist us in accommodating public concerns and comments; and

(6) Information from the Department of Defense to assist the Secretary of the Interior in evaluating critical habitat on lands administered by or under the control of the Department of Defense based on any benefit provided by an Integrated Natural Resources Management Plan (INRMP) to the conservation of the Choctawhatchee beach mouse and St. Andrew beach mouse; and information regarding impacts to national security associated with the proposed designation of critical habitat.

(7) Whether we should split Unit 5 into two units, since part of the unit is occupied and part of the unit is not occupied by the species. This unit is all within the St. Andrew State Park.

If you wish to comment, you may submit your comments and materials concerning this proposal by any one of several methods (see ADDRESSES section). Please submit comments electronically to flbeachmice@fws.gov in ASCII file format and avoid the use of special characters or any form of encryption. Please also include “Attn: Beach mouse critical habitat” in your e-mail subject header and your name and return address in the body of your message. If you do not receive a confirmation from the system that we have received your electronic message, contact us directly by calling the Panama City U.S. Fish and Wildlife Service Office at phone number 850-769-0552. Please note that the Internet address flbeachmice@fws.gov will be closed out at the termination of the public comment period.

Our practice is to make comments, including names and home addresses of respondents, available for public review during regular business hours. Individual respondents may request that we withhold their home addresses from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety. Comments and materials received will be available for public inspection, by appointment, during normal business hours at the above address.

Designation of Critical Habitat Provides Little Additional Protection to Species

In 30 years of implementing the Act, the Service has found that the designation of statutory critical habitat provides little additional protection to most listed species, while consuming significant amounts of available conservation resources. The Service's present system for designating critical habitat has evolved since its original statutory prescription into a process that provides little real conservation benefit, is driven by litigation and the courts rather than biology, limits our ability to fully evaluate the science involved, consumes enormous agency resources, and imposes huge social and economic costs. The Service believes that additional agency discretion would allow our focus to return to those actions that provide the greatest benefit to the species most in need of protection.

Role of Critical Habitat in Actual Practice of Administering and Implementing the Act

While attention to and protection of habitat is paramount to successful conservation actions, we have consistently found that, in most circumstances, the designation of critical habitat is of little additional value for most listed species, yet it consumes large amounts of conservation resources. Sidle (1987) stated, “Because the Act can protect species with and without critical habitat designation, critical habitat designation may be redundant to the other consultation requirements of section 7.” Currently, only 470 species or 37.5 percent of the 1,253 listed species in the U.S. under the jurisdiction of the Service have designated critical habitat.

We address the habitat needs of all 1,253 listed species through conservation mechanisms such as listing, section 7 consultations, the section 4 recovery planning process, the section 9 protective prohibitions of unauthorized take, section 6 funding to the States, and the section 10 incidental take permit process. The Service believes that it is these measures that may make the difference between extinction and survival for many species.

We note, however, that the August 6, 2004 Ninth Circuit judicial opinion (Gifford Pinchot Task Force v. United States Fish and Wildlife Service) found our definition of adverse modification was invalid. In response to the decision, the Director has provided guidance to the Service based on the statutory language. In this rule, our analysis of the consequences and relative costs and benefits of the critical habitat designation is based on application of the statute consistent with the Ninth Circuit's ruling and the Director's guidance.

Procedural and Resource Difficulties in Designating Critical Habitat

We have been inundated with lawsuits for our failure to designate critical habitat, and we face a growing number of lawsuits challenging critical habitat determinations once they are made. These lawsuits have subjected the Service to an ever-increasing series of court orders and court-approved settlement agreements, compliance with which now consumes nearly the entire listing program budget. This leaves the Service with little ability to prioritize its activities to direct scarce listing resources to the listing program actions with the most biologically urgent species conservation needs.

The consequence of the critical habitat litigation activity is that limited listing funds are used to defend active lawsuits, to respond to Notices of Intent (NOIs) to sue relative to critical habitat, and to comply with the growing number of adverse court orders. As a result, listing petition responses, the Service's own proposals to list critically imperiled species, and final listing determinations on existing proposals are all significantly delayed.

The accelerated schedules of court ordered designations have left the Service with almost no ability to provide for adequate public participation or to ensure a defect-free rulemaking process before making decisions on listing and critical habitat proposals due to the risks associated with noncompliance with judicially-imposed deadlines. This in turn fosters a second round of litigation in which those who fear adverse impacts from critical habitat designations challenge those designations. The cycle of litigation appears endless, is very expensive, and in the final analysis provides relatively little additional protection to listed species.

The costs resulting from the designation include legal costs, the cost of preparation and publication of the designation, the analysis of the economic effects and the cost of requesting and responding to public comment, and in some cases the costs of compliance with the National Environmental Policy Act (NEPA). None of these costs result in any benefit to the species that is not already afforded by the protections of the Act enumerated earlier, and they directly reduce the funds available for direct and tangible conservation actions.

Background

We intend to discuss only those topics directly relevant to the designation of critical habitat in this proposed rule. For more information on the Perdido Key beach mouse and Choctawhatchee beach mouse, please refer to the final listing rule published in the Federal Register on June 6, 1985 (50 FR 23872), and for the St. Andrew beach mouse, please refer to the final listing rule published on December 18, 1998 (63 FR 70053).

The Perdido Key beach mouse, Choctawhatchee beach mouse, and St. Andrew beach mouse are three of five subspecies of the oldfield mouse that inhabit coastal dune communities along the Gulf coast of Florida and Alabama. Historically, Perdido Key beach mice were thought to occur in coastal dune habitat on Perdido Key between Perdido Bay, Alabama, to the west and Pensacola Bay, Florida, to the east (Bowen 1968). The effects of Hurricane Frederic (1979) coupled with increased habitat fragmentation due to human development led to the extirpation of all but one population of Perdido Key beach mice. Fewer than 30 individuals at Gulf State Park (at the westernmost end of Perdido Key) were once the only known existing population of Perdido Key beach mice (Holler et al. 1989). Beach mice from this site were used to reestablish mice at Gulf Islands National Seashore (GINS) (1986-1988; Holler et al. 1989). In 2000, ten Perdido Key beach mice (five pairs) were relocated from GINS-Perdido Key Area to Perdido Key State Park. In February of 2001, this relocation was supplemented with an additional 32 mice (16 pairs). Perdido Key beach mice were released on both north and south sides of Highway 292 in suitable habitat. Two years of quarterly survey trapping (standard protocol for determining presence or absence of beach mice) indicated that the relocations of mice to Perdido Key State Park were successful and this is now considered an established population (Service 2004a). Presently, beach mouse habitat exists on public lands in areas along 8.4 miles (mi) (13.5 kilometers (km)) of coastline on Perdido Key at GINS and Perdido Key State Park. Perdido Key beach mice were trapped on private lands between GINS and Perdido Key State Park in 2004, increasing documentation of current occurrences of the mouse. Perdido Key beach mice are believed to be extirpated at Gulf State Park since 1998 (Auburn University 1999), though two years of quarterly trapping to determine absence of beach mice has not been conducted.

Choctawhatchee beach mice were once present along the coastal dunes between Choctawhatchee Bay and St. Andrew Bay, Florida (Bowen 1968). Based on trapping data, four general areas of occupancy currently exist: (1) Topsail Hill Preserve State Park (and adjacent eastern and western private lands), (2) Shell Island (includes St. Andrew State Park mainland, Tyndall Air Force Base (AFB), and private land inholdings), (3) Grayton Beach State Park (and adjacent eastern private lands), and (4) West Crooked Island (Tyndall AFB) and adjacent private lands. Approximately 96 percent of the lands known to be occupied by Choctawhatchee beach mice are public lands. Translocations to establish mice on private lands at Camp Creek/WaterSound in Walton County, Florida, began in March 2003, and the population was supplemented in March 2005 (Service 2003a, 2005). Topsail Hill Preserve State Park served as the source for the translocations (total of 36 mice, 18 pairs). Furthermore, as the viability of beach mouse populations on the St. Andrew State Park mainland and Henderson Beach State Park is uncertain, these sites may be considered for future translocation projects.

The geographical range of St. Andrew beach mice is identified as St. Joseph spit in Gulf County, Florida, to the east entrance of St. Andrew Bay, including Cape Sand Blas and Money Bayou in Bay County, Florida (Bowen 1968). The St. Andrew beach mouse currently consists of two core populations, East Crooked Island (Tyndall AFB) and adjacent private lands, and St. Joseph Peninsula State Park and adjacent private lands. Specific areas of private lands between the two core populations have been trapped since listing and presence has recently been established in one area (Moyers and Shea 2002; S.S. Shea, St. Joe Timberland Co., personal communication (pers. comm.), 2005). The current population at East Crooked Island is a result of translocations of beach mice from St. Joseph Peninsula State Park to Crooked Island (1997-1998). The persistence of St. Andrew beach mice on other public lands, such as Eglin AFB lands at Cape San Blas and Rish Park, is uncertain at this time. As there are currently only two core populations of this subspecies, and limited viable opportunities exist on public lands, a reestablishment project on private lands may be considered for this subspecies. Preliminary discussions have had favorable support.

Since the listing of these subspecies, research has refined previous knowledge of beach mouse habitat requirements and factors that influence their use of habitat. The findings most pertinent to this revision of critical habitat and prudency determination involve the role of scrub dune habitat. Coastal dune habitat is generally categorized as: primary dunes (characterized by sea oats (Uniola paniculata) and other grasses), secondary dunes (similar to primary dunes but also frequently include such plants as woody goldenrod (Chrysoma pauciflosculosa), false rosemary (Conradina canescens)), and interior or scrub dunes (often dominated by scrub oaks (Quercus geminata) and yaupon holly (Ilex vomitoria)). Contrary to the early belief that beach mice were restricted to (Howell 1909, 1921; Ivey 1949) or preferred the frontal dunes (Blair 1951; Pournelle and Barrington 1953; Bowen 1968), more recent research has shown that scrub habitat serves an invaluable role in the persistence of beach mouse populations (Swilling et al. 1998; Sneckenberger 2001). Beach mice occupy scrub dunes on a permanent basis and studies have found no detectable differences in beach mouse body mass, home range size, dispersal, reproduction, survival, food quality, and burrow site availability between scrub and frontal dunes (Swilling et al. 1998; Swilling 2000; Sneckenberger 2001). The transition from scrub habitat to maritime forest, which is characterized by large trees (pines and oaks), thick leaf litter, and dense understory, frequently serves to delineate the northern or landward extent of suitable beach mouse habitat.

While seasonally abundant, the availability of food resources in the primary and secondary dunes fluctuates (Sneckenberger 2001). In contrast, the scrub habitat provides a more stable level of food resources which becomes crucial when food is scarce or nonexistent in the primary and secondary dunes. This suggests that access to primary, secondary, and scrub dune habitat is essential to beach mice at the individual level.

In addition to providing burrow sites, food resources, and cover, scrub dune habitat also serves as a high-elevation refuge during storm events and as a population source as the primary and secondary dunes recover (Swilling et al. 1998; Sneckenberger 2001). Hurricanes can severely affect beach mice and their habitat, as tidal surge and wave action overwash habitat, leaving a flat sand surface denuded of vegetation; sand is deposited inland, completely or partially covering vegetation; blowouts between the Gulf of Mexico and bays and lagoons leave patchy landscapes of bare sand; primary dunes are sheared or eroded; and habitat is completely breached, creating channels from the Gulf of Mexico to bays and lagoons. Until frontal (primary and secondary) dune topography and vegetation redevelop, scrub habitat maintains beach mouse populations and provides the majority of food resources and potential burrow sites (Lynn 2000; Sneckenberger 2001). While storms temporarily reduce population densities (often severely), this disturbance regime maintains open habitat and retards succession, yielding a habitat more suitable for beach mice than one lacking disturbance. The low-nutrient soil of the coastal dune ecosystem often receives a pulse of nutrients from the deposition of vegetative debris along the coastline (Lomascolo and Aide 2001). Therefore, as the primary and secondary dunes recover, beach mice recolonize this habitat readily as food plants develop to take advantage of the newly available nutrients. Recovery times vary depending upon factors such as hurricane characteristics (that is, severity, amount of associated rain, directional movement of the storm eye, storm speed), successional stage of habitat prior to hurricane, elevation, and restorative actions post hurricane. Depending on these factors, recovery of habitat may take from one year to more than 40 years (Traylor-Holzer et al. 2005).

Species that are protected across their ranges have lower probabilities of extinction (Soule and Wilcox 1980). Despite local extirpations due to storm events or the harsh, stochastic nature of coastal ecosystems, beach mouse populations naturally recover and persist. Historically, extirpated areas would be recolonized as population densities increase and dispersal occurs from adjacent populated areas. In addition, from a genetic perspective, beach mice recover well from population size reductions (Wooten 1994), provided sufficient habitat is available for population expansion after the bottleneck occurs. As human development has fragmented the coastal dune landscape, beach mice can no longer recolonize along these areas as they did in the past (Holliman 1983). As a continuous presence of beach mice or suitable habitat along the coastline is no longer possible and any hurricane can impact the entire range of a subspecies, the probability of beach mice persisting would be enhanced by the presence of contiguous tracts of suitable habitat occupied by multiple independent populations (Danielson 2005). The history of the Perdido Key beach mouse clearly illustrates the need for multiple populations (a now extirpated population was the source of the two remaining populations of the subspecies (Holler et al. 1989; Service 2004a)). While maintaining multiple populations of beach mouse subspecies provides protection from total loss (extinction) (Oli et al. 2001), conservation of a subspecies necessitates protection of genetic variability throughout its range (Ehrlich 1988). Conservation of a species over a range of habitat types where it is known to occur reduces the chance of losing disjunct populations, which represent an important conservation value for their adaptation to local environmental conditions and their genetic uniqueness (Fahrig and Merriam 1994). This includes “peripheral” populations (populations on the fringes of the natural range of the species/subspecies), which in many cases are thought to be highly desirable because of their distinct genetic characters or adaptations due to divergent natural selection (Lesica and Allendorf 1995). Preservation of natural populations is therefore crucial, as the loss of a population of beach mice can result in a permanent loss of alleles (Wooten and Holler 1999). This loss of genetic variability cannot be regained through translocations or other efforts.

Previous Federal Actions

The Perdido Key beach mouse and Choctawhatchee beach mouse were listed as endangered on June 6, 1985 (50 FR 23872). Critical habitat was designated for the Perdido Key beach mouse and the Choctawhatchee beach mouse at the time of listing, consisting primarily of primary and secondary dunes and did not include high-elevation (scrub dune) habitat. A recovery plan for these beach mice was completed in 1987. On November 5, 1991, the Service received a petition from the Alabama Conservancy to revise critical habitat for the Perdido Key beach mouse through an emergency rule. A notice announcing our finding that the petitioned action was warranted, but would be delayed until higher priority actions had been completed, was published on June 18, 1993 (58 FR 33606). On February 2, 1999, the Service was petitioned by the Sierra Club and Biodiversity Legal Foundation to revise critical habitat for the Perdido Key beach mouse, Choctawhatchee beach mouse, and the Alabama beach mouse (Peromyscus polionotus ammobates). The Service published a 90-day finding on November 18, 1999 (64 FR 63004). The 12-month finding, published September 26, 2000 (65 FR 57800), found that revision of critical habitat for the three subspecies of beach mice was warranted. Since that time, critical habitat revision has been precluded due to other higher priority listing and critical habitat actions. On June 17, 2003, a lawsuit was filed in the U.S. District Court for the Southern District of Alabama (Sierra Club and Center for Biological Diversity v. Norton et al., 1:03-CV-00377-CB) alleging that the Service violated the Endangered Species Act by failing to revise critical habitat for the Perdido Key, Choctawhatchee, and Alabama beach mice and that the revision was withheld or unreasonably delayed under the Administrative Procedure Act. In a December 2004 declaration, we stated we would submit a proposed revision for the Perdido Key beach mouse and the Choctawhatchee beach mouse by November 15, 2005, and a final revision by September 30, 2006. The proposed revision of critical habitat for the Alabama beach mouse will be published in a separate determination.

The St. Andrew beach mouse was listed as endangered on December 18, 1998 (63 FR 70053). The designation of critical habitat was found to be not prudent at the time of listing. In 2003, a lawsuit was filed against the Service in 2003 by the Center for Biological Diversity (Center for Biological Diversity v. Norton, 4:03CV315-WS/WCS), challenging the “not prudent” determination. On July 27, 2004, the U.S. District Court for the Northern District of Florida granted the Service's motion for voluntary remand and ordered the Service to publish a new final decision with respect to the designation of critical habitat for the St. Andrew beach mouse on or before September 30, 2006. A recovery plan for this subspecies is currently under development.

For more information on previous Federal actions concerning the Perdido Key beach mouse and Choctawhatchee beach mouse, please refer to the final listing rule published in the Federal Register on June 6, 1985 (50 FR 23872). For more information on previous Federal actions concerning the St. Andrew beach mouse, please refer to the final listing rule published in the Federal Register on December 18, 1998 (63 FR 70053).

Critical Habitat

Critical habitat is defined in section 3 of the Act as: (i) The specific areas within the geographical area occupied by a species, at the time it is listed in accordance with the Act, on which are found those physical or biological features (I) essential to the conservation of the species and (II) that may require special management considerations or protection; and (ii) specific areas outside the geographical area occupied by a species at the time it is listed, upon a determination that such areas are essential for the conservation of the species. “Conservation” means the use of all methods and procedures that are necessary to bring an endangered or a threatened species to the point at which listing under the Act is no longer necessary.

Critical habitat receives protection under section 7 of the Act through the prohibition against destruction or adverse modification of critical habitat with regard to actions carried out, funded, or authorized by a Federal agency. Section 7 requires consultation on Federal actions that are likely to result in the destruction or adverse modification of critical habitat. The designation of critical habitat does not affect land ownership or establish a refuge, wilderness, reserve, preserve, or other conservation area. Such designation does not allow government or public access to private lands.

To be included in a critical habitat designation, the habitat within the area occupied by the species at the time of listing must first have features that are essential to the conservation of the species. Critical habitat designations identify, to the extent known using the best scientific and commercial data available, habitat areas that provide essential life cycle needs of the species (i.e., areas on which are found the primary constituent elements, as defined at 50 CFR 424.12(b)).

Habitat occupied at the time of listing may be included in critical habitat only if the essential features thereon may require special management or protection. Thus, we do not include areas where existing management is sufficient to conserve the species. (As discussed below, such areas may also be excluded from critical habitat pursuant to section 4(b)(2).) Accordingly, when the best available scientific data do not demonstrate that the conservation needs of the species so require, we will not designate critical habitat in areas outside the geographical area occupied by the species at the time of listing. An area currently occupied by the species but was not known to be occupied at the time of listing will likely be essential to the conservation of the species and, therefore, included in the critical habitat designation.

The Service's Policy on Information Standards Under the Endangered Species Act, published in the Federal Register on July 1, 1994 (59 FR 34271), and Section 515 of the Treasury and General Government Appropriations Act for Fiscal Year 2001 (Pub. L. 106-554; H.R. 5658) and the associated Information Quality Guidelines issued by the Service, provide criteria, establish procedures, and provide guidance to ensure that decisions made by the Service represent the best scientific and commercial data available. They require Service biologists, to the extent consistent with the Act and with the use of the best scientific and commercial data available, to use primary and original sources of information as the basis for recommendations to designate critical habitat. When determining which areas are critical habitat, one primary source of information is generally the listing package for the species. Additional information sources include the recovery plan for the species, articles in peer-reviewed journals, conservation plans developed by States and counties, scientific status surveys and studies, biological assessments, or other unpublished materials and expert opinion or personal knowledge. All information is used in accordance with the provisions of Public Law 106-554 and the associated Information Quality Guidelines.

Section 4 of the Act requires that we designate critical habitat on the basis of the best scientific data available. Habitat is often dynamic, and species may move from one area to another over time. Furthermore, we recognize that designation of critical habitat may not include all of the habitat areas that may eventually be determined to be necessary for the recovery of the species. For these reasons, critical habitat designations do not signal that habitat outside the designation is unimportant or may not be required for recovery.

Areas that support populations, but are outside the critical habitat designation, will continue to be subject to conservation actions implemented under section 7(a)(1) of the Act and to the regulatory protections afforded by the section 7(a)(2) jeopardy standard, as determined on the basis of the best available information at the time of the action. Federally funded or permitted projects affecting listed species outside their designated critical habitat areas may still result in jeopardy findings in some cases. Similarly, critical habitat designations made on the basis of the best available information at the time of designation will not control the direction and substance of future recovery plans, habitat conservation plans, or other species conservation planning efforts if new information available to these planning efforts calls for a different outcome.

Prudency Determination

Section 4(a)(3) of the Act and its implementing regulations (50 CFR 424.12) require that, to the maximum extent prudent and determinable, we designate critical habitat at the time a species is listed as endangered or threatened. Our regulations at 50 CFR 424.12(a)(1) state that the designation of critical habitat is not prudent when one or both of the following situations exist: (1) The species is threatened by taking or other activity and the identification of critical habitat can be expected to increase the degree of threat to the species or (2) such designation of critical habitat would not be beneficial to the species. In our December 18, 1998, final rule (63 FR 70053), we determined that the designation of critical habitat was not prudent for the St. Andrew beach mouse due to the lack of additional conservation benefit from such designation. However, several of our determinations that the designation of critical habitat would not be prudent have been overturned by court decisions. For example, Conservation Council for Hawaii v. Babbitt, (2 F. Supp. 2d 1280 [D. Hawaii 1998]), Natural Resources Defense Council v. U.S. Department of the Interior, (13 F. 3d 1121, 1125 [9th Cir. 1997]).

We are already working with Federal and State agencies, private individuals, and organizations in carrying out conservation activities for the St. Andrew beach mouse and in conducting surveys for additional occurrences of the species and to assess habitat conditions. However, the designation may provide additional information to individuals, local and State governments, and other entities engaged in long-range planning, since areas with features essential to the conservation of the species are more clearly defined and, to the extent currently feasible, the primary constituent elements of the habitat necessary to the survival of the subspecies are specifically identified. Moreover, although the low numbers and restricted range of these mice make it unlikely that their populations could withstand even moderate collecting pressure or vandalism, we do not have specific evidence for taking, collection, vandalism, trade, or unauthorized human disturbance.

Accordingly, we withdraw our previous determination that the designation of critical habitat will not benefit the St. Andrew beach mouse and now determine that the designation of critical habitat is prudent for this subspecies. At this time, we have sufficient information necessary to identify specific areas that meet the definition of critical habitat and are, therefore, proposing critical habitat for the St. Andrew beach mouse (see “Methods” section below for a discussion of information used in our reevaluation).

Methods

As required by section 4(b)(1)(A) of the Act, we used the best scientific data available in determining areas that contain the features that are essential to the conservation of the Perdido Key beach mouse, Choctawhatchee beach mouse, and St. Andrew beach mouse. We have reviewed the overall approach to conservation of the three subspecies of beach mice undertaken by the local, State, and Federal agencies operating within the species' range since their listing, and the recovery plan for Perdido Key and Choctawhatchee beach mice (1987).

We reviewed the available information pertaining to the historic and current distributions, previously designated critical habitat, life histories, habitats of, and threats to the beach mice. We reviewed available information that pertains to the habitat requirements of these subspecies, including material received since completion of the 1987 recovery plan. This material includes data in reports submitted during section 7 consultations and by biologists holding section 10(a)(1)(A) recovery permits; research published in peer-reviewed articles and presented in academic theses and agency reports; regional Geographic Information System (GIS) coverages; and beach mouse habitat maps developed by the Service and Florida Fish and Wildlife Conservation Commission (FWC), as well as our own site-specific species and habitat information, recent biological surveys, reports and communication with other qualified biologists or experts, and unpublished species occurrence data contained within our files.

Four steps were conducted to identify critical habitat units. First, based on a compilation of information listed above on the known occurrences of the three subspecies of beach mice, we created maps indicating the areas and habitat features associated with these occurrences. The habitat units were delineated using ArcView (Environmental Systems Research Institute, Inc.), a computer GIS program, to evaluate GIS and locality data derived from a variety of Federal, State, and local agencies, and from private organizations and individuals. Our mapping process was based on the need to exclude areas that lack essential habitat features, while simultaneously accounting for the dynamic nature of coastal habitat. We depicted the mapped shoreline according to the mean high water line (MHWL), though the land configurations of these coastal areas change dramatically through time. Landward boundaries of the units, which frequently consist of urban areas or maritime forest are more stable and provide easily discernable landmarks when visiting a proposed critical habitat unit. Habitat delineation included current and historic species occurrence locations. The Service has developed a trapping protocol for establishing absence of beach mice (see ADDRESSES to request a copy). In summary, this protocol requires two years of quarterly trapping with no beach mice captured to document absence. Presence of beach mice, however, can be successfully documented by the capture of one beach mouse, or the observation of beach mouse tracks or beach mouse burrows by a beach mouse expert or similarly qualified biologist.

Second, we identified, in accordance with section 3(5)(A)(i) of the Act and regulations at 50 CFR 424.12, the physical and biological habitat features (also called primary constituent elements, or PCEs) at those sites that are essential to the conservation of the species. We mapped critical habitat unit boundaries at each site based on the extent of habitat containing sufficient PCEs to support biological function. The mapping itself was the third step. The fourth and final step was to determine and identify any areas that do not meet the definition of critical habitat under section 3(5)(A) of the Act, and to identify other areas that may be subject to an approved INRMP that provides a benefit to the species and may be exempted under section 4(a)(3), and to identify units that may be considered for exclusion based on section 4(b)(2) of the Act (see the Application of Sections 3(5)(A) and 4(a)(3) and Exclusions Under Section 4(b)(2) of the Act, below, for a detailed description).

Primary Constituent Elements

In accordance with section 3(5)(A)(i) of the Act and regulations at 50 CFR 424.12, we are required to base critical habitat determinations on the best scientific data available and to consider those physical and biological features (primary constituent elements (PCEs)) that are essential to the conservation of the species, and that may require special management considerations and protection. These include, but are not limited to: space for individual and population growth and for normal behavior; food, water, air, light, minerals, or other nutritional or physiological requirements; cover or shelter; sites for breeding, reproduction, and rearing (or development) of offspring; and habitats that are protected from disturbance or are representative of the historic geographical and ecological distributions of a species.

The specific PCEs essential for the Perdido Key beach mouse, Choctawhatchee beach mouse, and St. Andrew beach mouse are derived from their biological needs as described in the Background section of this proposal and in additional detail below.

Space for Individual and Population Growth and Normal Behavior

Long-term trapping data have shown that beach mouse densities are cyclic and fluctuate by magnitudes on a seasonal and annual basis. These fluctuations can be a result of reproduction rates, food availability, habitat quality and quantity, catastrophic events, disease, and predation (Blair 1951; Bowen 1968; Smith 1971; Hill 1989; Rave and Holler 1992; Swilling et al. 1998; Swilling 2000; Sneckenberger 2001). Without suitable habitat sufficient in size to support the natural cyclic nature of beach mouse populations as they expand, subspecies are at risk from local extirpation and extinction, and may not attain the densities necessary to persist through storm events and seasonal fluctuations of resources. The conservation of multiple large, contiguous tracts of habitat is a key to the persistence of beach mice.

At present, such large parcels exist mainly on public lands. Protection, management, and conservation of beach mice on public areas have been complicated by increased recreational use by humans as public lands are rapidly becoming the only natural areas left on the coast. Where protection of large contiguous tracts of beach mouse habitat along the coast is not possible, establishing multiple independent populations is the best defense against local and complete extinctions due to storms and other stochastic events (Danielson 2005). Protecting multiple populations increases the chance of at least one population within the range of a subspecies surviving episodic storm events and persisting while vegetation and dune structure recover.

Habitat Connectivity

Habitat loss and fragmentation associated with residential and commercial real estate development is the primary threat contributing to the endangered status of beach mice (Holler 1992a; Humphrey 1992). Coastal development has fragmented all the subspecies into disjunct populations. Isolation of habitats by imposing barriers to species movement is an effect of fragmentation that equates to reduction in total habitat (Noss and Csuti 1997). Furthermore, isolation of small populations of beach mice reduces or precludes gene flow between populations and can result in the loss of genetic diversity. Selander et al. (1971) found that allozyme variation in beach mouse populations (Perdido Key beach mice, Choctawhatchee beach mice, and Alabama beach mice) was significantly lower than the variation detected in adjacent inland populations. Correlations between genetic variation (heterozygosity) and other factors have been well-researched with oldfield mice. Lower levels of heterozygosity have been linked to less efficient feeding, fewer demonstrations of social dominance and exploratory behavior, and smaller body size (Garten 1976, Teska et al. 1990). Research focused on inbreeding depression in oldfield mice (including one beach mouse subspecies) determined that the effects of inbreeding negatively influenced factors such as litter size, number of litters, and juvenile survivorship (Lacy et al. 1995). Demographic factors, such as predation (especially by domestic cats), diseases, and competition with house mice, are intensified in small, isolated populations which may be rapidly extirpated by these pressures. Especially when coupled with events such as storms, reduced food availability, and reduced reproductive success, isolated populations may experience severe declines or extirpation (Caughley and Gunn 1996). The strength of influence these factors have on populations or individuals is largely dependent on the degree of isolation.

Connectivity becomes essential where mice occupy fragmented areas lacking one or more habitat types. If scrub habitat is lacking from a particular tract, adjacent or connected tracts with scrub habitat are necessary for food and burrow sites when resources are scarce in the frontal dunes, and are essential to beach mouse populations during and immediately after hurricanes. Trapping data suggest that beach mice occupying the scrub following hurricanes recolonize the frontal dunes once vegetation and some dune structure have recovered (Swilling et al. 1998; Sneckenberger 2001). Similarly, when frontal dune habitat is lacking from a tract and a functional pathway to frontal dune habitat does not exist, beach mice may not be able to obtain the resources necessary to expand the population and reach the densities necessary to persist through the harsh summer season or the next storm. Functional pathways may allow for natural behavior such as dispersal and exploratory movements, as well as gene flow to maintain genetic variability of the population within fragmented or isolated areas. To that end, contiguous tracts or functionally connected patches of suitable habitat are features that are essential to the long-term conservation of beach mice.

Food Resources and Vegetative Cover

Beach mice feed primarily upon seeds and fruits, but have been shown to prey on insects. Beach mice appear to forage on food items based on availability and have shown no preferences for particular seeds or fruits (Moyers 1996). Research suggests that the availability of food resources fluctuates seasonally in Gulf Coast coastal dune habitat; specifically, food resources may be limited during winter and spring in the scrub habitat and limited in the frontal dunes in the summer and fall (Sneckenberger 2001). Nutritional analysis of foods available in each habitat revealed that seeds of plant species in both habitats provide a similar range of nutritional quality. The frontal dunes appear to have more species of high-quality foods, but these sources are primarily grasses and annuals that produce large quantities of small seeds in a short period of time. Foods available in the scrub consist of larger seeds and fruits that are produced throughout a greater length of time and linger in the landscape. Consequently, large, contiguous tracts containing both frontal dune and scrub habitat types are necessary to provide both: (1) A large quantity of food resources coinciding with the reproductive season, and (2) a relatively stable source of food resources when availability is reduced.

Foraging activities and other natural behaviors of beach mice are influenced by many factors. Artificial lighting alters behavior patterns causing beach mice to avoid otherwise suitable habitat and decreases the amount of time they are active in those areas (Bird et al. 2004). Within the relatively sparsely vegetated frontal dune and scrub dune habitat occupied by beach mice, the presence of vegetative cover reduces predation risk and perceived predation risk of foraging beach mice, and allows for normal movements, activity, and foraging patterns. Foraging in sites with vegetative cover is greater and more efficient than in sites without cover (Bird 2002). Beach mice have also been found to prefer coastal dune habitat (that is, not maritime forest) with increased percent cover of vegetation, and decreased distance between vegetated patches (Smith 2003). Behavioral modification or increased predation in response to these factors can result in population decreases and restricted use of available habitat.

Burrow Sites

Beach mice use burrows to avoid predators, protect young, store food, and serve as refugia between foraging bouts and during periods of rest. Beach mice have been shown to select burrow sites based on a suite of abiotic and biotic factors. A limitation in one or more factors may result in a shortage of suitable sites, and the availability of potential burrow sites in each habitat may vary seasonally. Beach mice tend to construct burrows in areas with greater plant cover, less soil compaction, steep slopes, and higher elevations above sea level (Lynn 2000; Sneckenberger 2001). These factors are likely important in minimizing energy costs of burrow construction and maintenance while maximizing the benefits of burrow use by making a safe and physiologically efficient refuge. Similar to food resources, this fluctuation in availability of burrow sites suggests that a combination of large, contiguous tracts of habitat with burrow sites in primary, secondary, and scrub dune habitat is essential to beach mice at the individual level.

Habitats Protected From Anthropogenic Disturbance

Artificial lighting, non-native species, and refuse can directly and indirectly increase predation pressure on beach mice beyond their natural levels. Free-roaming and feral pets are believed to have a devastating effect on beach mouse persistence (Bowen 1968; Linzey 1978) and are considered to be the main cause of the loss of at least one population of beach mice (Holliman 1983). Cat tracks have been observed in areas of low trapping success for beach mice (Auburn University 1999). The population and habitat viability analysis for the Alabama beach mouse indicated that if each population had as few as one feral cat that ate one mouse a day, rapid extinction of the species occurred in over 99 percent of all iterations (Traylor-Holzer et al. 2005). Refuse may attract competitors (house mice (Mus musculus)) and predators (such as coyotes (Canis latrans) and red foxes (Vulpes vulpes)), unsettling the natural predator/prey balance and competing with beach mice for resources. This issue is of particular importance and has the most impact when beach mouse populations are at low densities. This influx of development-related predators and competitors is believed to be the final cause of the extinction of the pallid beach mouse (Peromyscus polionotus decoloratus) (Humphrey 1992).

Beyond the direct effects of mortality due to predation, beach mouse habitat use and foraging patterns are influenced by these anthropogenic disturbances. Artificial lighting, for example, influences beach mouse foraging patterns and natural movements (for example, avoidance of an otherwise suitable area) due to an increased risk of predation in the lighted areas. Beach mice avoid areas with artificial lighting or reduce the time spent foraging in lighted areas (Bird et al. 2004). Consequently, because of these anthropogenic factors, mice may be unable to gather necessary food resources or fail to utilize otherwise suitable habitat.

PCEs for the Perdido Key Beach Mouse, Choctawhatchee Beach Mouse, and St. Andrew Beach Mouse

PCEs previously determined for the Perdido Key beach mouse and Choctawhatchee beach mouse included “dunes and interdunal areas, and associated grasses and shrubs that provide food and cover” (50 FR 23872). These elements did not address many of the requirements that we now know are crucial for long-term persistence of beach mice, including the need for scrub dune habitat. Based on our current knowledge of the life history, biology, and ecology of the species and the requirements of the habitat to sustain the essential life history functions of the species, we have determined that the Perdido Key beach mouse, Choctawhatchee beach mouse, and St. Andrew beach mouse's primary constituent elements include:

1. A contiguous mosaic of primary, secondary, and scrub vegetation and dune structure, with a balanced level of competition and predation and few or no competitive or predaceous nonnative species present, that collectively provide foraging opportunities, cover, and burrow sites.

2. Primary and secondary dunes, generally dominated by sea oats (Uniola paniculata), that, despite occasional temporary impacts and reconfiguration from tropical storms and hurricanes, provide abundant food resources, burrow sites, and protection from predators.

3. Scrub dunes, generally dominated by scrub oaks (Quercus spp.), that provide food resources and burrow sites, and provide elevated refugia during and after intense flooding due to rainfall and/or hurricane-induced storm surge.

4. Functional, unobstructed habitat connections that facilitate genetic exchange, dispersal, natural exploratory movements, and recolonization of locally extirpated areas.

5. A natural light regime within the coastal dune ecosystem, compatible with the nocturnal activity of beach mice, necessary for normal behavior, growth, and viability of all life stages.

Criteria Used To Identify Critical Habitat

Stabilization of the Perdido Key, Choctawhatchee, and St. Andrew beach mice at their present populations and distributions will not achieve conservation of these subspecies. Protection and enhancement of existing populations and their habitat, plus reestablishment of populations in suitable areas within their historic ranges, are necessary for the subspecies survival and recovery. Core beach mouse populations (that is, populations that have been either relatively persistent in the recent past, or have recently maintained healthy densities) remain isolated and are vulnerable to natural and anthropogenic factors that may further reduce or degrade habitat or directly reduce beach mouse population sizes. Maximizing the number of independent populations is critical to species survival. Protection of a single, isolated, minimally viable population risks the extirpation or extinction of a species as a result of harsh environmental conditions, catastrophic events, or genetic deterioration over several generations (Kautz and Cox 2001). To reduce the risk of extinction through these processes, it is important to establish multiple protected populations across the landscape (Soulé and Simberloff 1986; Wiens 1996). To reduce overall risk to the subspecies, we aimed to propose units for each subspecies spaced throughout their respective historic ranges, depending on relative fragmentation, size, and health of habitat, as well as availability of areas with beach mouse PCEs.

Based on these considerations, an area was considered for designation where it possesses one or more of the PCEs and one of the following characteristics: (1) Supports a core population of beach mice; (2) was occupied by Perdido Key beach mouse, Choctawhatchee beach mouse, or St. Andrew beach mouse at the time of listing; or (3) is currently occupied by the beach mouse and is an area essential to the conservation of the species because it represents an existing population needed for conservation.

Following the strategy outlined above, we began by mapping coastal dune communities within the historic range of each subspecies of beach mouse. These areas were refined by using aerial map coverages to eliminate features such as housing developments and other areas that are unlikely to contribute to the conservation of beach mice. We then focused on areas supporting beach mice as well as areas that contain the PCEs for the subspecies. Because both the Perdido Key beach mouse and the St. Andrew beach mouse have been reduced to one location in the past, with additional populations re-established by biologists since, and translocations are currently underway for the Choctawhatchee beach mice, we believe that limiting the proposed designation to occupied areas would not yield sufficient habitat for the persistence of beach mice. As previously discussed, the fragmentation of the species' historic habitat coupled with the stochasticity of the landscape due to tropical storms makes multiple populations necessary for species conservation. Consequently, we are proposing units which were not occupied at the time of listing. These areas, however, are currently occupied by the species, have one or more of the PCEs, are within the historic range of the species, and are essential to their conservation. See below for a more explicit discussion of why these areas are essential to the conservation of the beach mice.

The combined extent of these mapped areas is defined as the habitat that contains features that are essential to the conservation of the subspecies. Although these areas proposed for designation represent only a small proportion of each subspecies' historic range, they include a significant proportion of the remaining intact coastal communities and reflect the habitat types historically occupied by beach mice. Areas not containing the PCEs, such as wetlands and maritime forests, were not included within the proposed designation. Field reconnaissance was done in a few areas for ground-truthing. We eliminated highly degraded tracts, and small, isolated, or highly fragmented tracts that provide no long-term conservation value. The remaining areas are proposed as five distinct units for the Perdido Key beach mouse, five distinct units for the Choctawhatchee beach mouse, and three distinct units for the St. Andrew beach mouse.

Section 10(a)(1)(B) of the Act authorizes us to issue permits for the take of listed species incidental to otherwise lawful activities. An incidental take permit application must be supported by a habitat conservation plan (HCP) that identifies conservation measures that the permittee agrees to implement for the species to minimize and mitigate the impacts of the requested incidental take. We often exclude non-Federal public lands and private lands that are covered by an existing operative HCP under section 10(a)(1)(B) of the Act from designated critical habitat because the benefits of exclusion outweigh the benefits of inclusion as discussed in section 4(b)(2) of the Act. As discussed in further detail below (see “Application of Sections 3(5)(A) and 4(a)(3) and Exclusions Under Section 4(b)(2) of the Act”), we are proposing two areas for exclusion that are currently protected through Habitat Conservation Plans that provide protection and habitat management for Choctawhatchee beach mice.

When determining the boundaries of proposed critical habitat for the Perdido Key beach mouse, Choctawhatchee beach mouse, and the St. Andrew beach mouse, we made every effort to avoid including within the boundaries of the map contained within this proposed rule developed areas such as buildings, paved areas, and other structures that lack PCEs. The scale of the maps prepared under the parameters for publication within the Code of Federal Regulations may not reflect the exclusion of such developed areas. Any such structures and the land under them inadvertently left inside critical habitat boundaries shown on the maps of this proposed rule have been excluded by text in the proposed rule and are not proposed for designation as critical habitat. Therefore, Federal actions limited to these areas would not trigger section 7 consultation, unless they affect the species and/or primary constituent elements in adjacent critical habitat. It is important to note that the maps provided in this proposed rule (see “Proposed Regulation Promulgation” section) are for illustrative purposes. For the precise legal definition of critical habitat, please refer to the narrative unit descriptions in the “Proposed Regulation Promulgation” section of this rule.

Special Management Considerations or Protections

When designating critical habitat, we assess whether the areas are determined to be occupied at the time of listing and contain the PCEs which may require special management considerations or protections. As discussed in more detail in the unit descriptions below, we find that all of the PCEs in the areas we are proposing for designation may require special management considerations or protections due to threats to the subspecies and/or its habitat. Such management considerations and protections include: management of non-native predators and competitors, management of non-native plants, protection of beach mice and their habitat from threats by road construction, urban and commercial development, heavy machinery, and recreational activities.

Proposed Critical Habitat Designation

Critical habitat for the Perdido Key, Choctawhatchee, and St. Andrew beach mice includes habitat throughout the subspecies' ranges in Baldwin County, Alabama, and Escambia, Okaloosa, Walton, Bay, and Gulf Counties, Florida. Lands proposed for critical habitat designation are under private, local agency, county, State, and Federal ownership. For each of the three subspecies, a brief description of each unit, and reasons why it is essential for the conservation of the beach mouse, are presented below. Some units were not known to be occupied at the time of listing. However, these areas are essential to the conservation of each beach mouse subspecies for two main reasons. First, at the time of listing, beach mice were thought to be restricted to the frontal dune habitat and researchers did not focus on scrub habitat. Consequently, occurrence information of beach mice in scrub habitat was sparse even in the relatively recent past. However, scrub habitat is now known to be invaluable to beach mice and inclusion of this habitat in critical habitat is a main stimulus of this redesignation. Second, as the coastal dune environment changes dramatically through time, so do beach mouse populations. As dunes erode or build and habitat and food resources fluctuate, beach mouse populations respond accordingly, either through short or long-term movements, or through local extinctions. As habitat improves in the future, densities increase or beach mice recolonize the recovering areas. Because of this aspect of their biology, and the fact that so few natural areas remain, these areas containing PCEs where beach mice had not been detected at the time of listing are important to the subspecies' persistence. We have proposed only those areas that we believe to be essential to the conservation of the subspecies. For these reasons listed above, we propose areas that were not known to be occupied at the time of listing but contain one or more of the PCEs and are essential to the conservation of the beach mice.

Perdido Key Beach Mouse

We are proposing five units as critical habitat for the Perdido Key beach mouse: (1) Gulf State Park Unit, (2) West Perdido Key Unit, (3) Perdido Key State Park Unit, (4) Gulf Beach Unit, and (5) Gulf Islands National Seashore Unit. Table 1 provides, by County, the approximate area (acres/hectares) determined to meet the definition of critical habitat for the Perdido Key beach mouse.

TABLE 1.—Areas Determined To Meet the Definition of Critical Habitat for the Perdido Key Beach Mouse and the Area Proposed for Exclusion From the Final Critical Habitat Designation, if Applicable
County, state | Areas meeting the definition of critical habitat (acres/hectares) | Area proposed for exclusion from the final critical habitat designation (acres/hectares)
Escambia, Florida | 1116/452 | NA
Baldwin, Alabama | 148/59 | NA
Total | 1264/511 | NA

The approximate area encompassed within each proposed critical habitat unit is shown in Table 2.

TABLE 2.—Critical Habitat Units Proposed for the Perdido Key Beach Mouse.
(Area estimates reflect all land within critical habitat unit boundaries. Effort was taken to remove areas without PCEs.)
Critical habitat unit | Federal acres/hectares | State acres/hectares | Local and private acres/hectares | Total acres/hectares
1. Gulf State Park Unit | 0 | 115/46 | 0 | 115/46
2. West Perdido Key Unit | 0 | 0 | 147/59 | 147/59
3. Perdido Key State Park Unit | 0 | 238/96 | 0 | 238/96
4. Gulf Beach Unit | 0 | 0 | 162/66 | 162/66
5. Gulf Islands National Seashore Unit | 602/244 | 0 | 0 | 602/244
Total | 602/244 | 353/142 | 309/125 | 1264/511

As the Perdido Key beach mouse would be extinct without the aid of re-establishment programs (Holler et al. 1989; Service 2004a), the unoccupied habitat is considered essential for its persistence and all of the habitat being designated contains features essential to the subspecies. We present brief descriptions of all units, and reasons why they meet the definition of critical habitat for the Perdido Key beach mouse, below.

PKBM-1: Gulf State Park Unit

Unit 1 consists of 115 ac (46 ha) in southern Baldwin County, Alabama, on the westernmost region of Perdido Key. This unit encompasses essential features of beach mouse habitat within the boundary of Gulf State Park from the west tip of Perdido Key at Perdido Pass east to approximately 1.0 mi (1.6 km) west of where the Alabama-Florida State line bisects Perdido Key and the area from the mean high water line (MHWL) north to the seaward extent of the maritime forest. This unit was occupied by the species at the time of listing. Perdido Key beach mice were known to inhabit this unit during surveys in 1979 and 1982, and by 1986 this was the only known existing population of the subspecies (Humphrey and Barbour 1981; Holler et al. 1989). This population was a core population and was the donor site for the reestablishment of Perdido Key beach mice into Gulf Islands National Seashore in 1986. This project ultimately saved Perdido Key beach mice from extinction as the population at Gulf State Park was considered extirpated in 1998 due to tropical storms and predators (Auburn University 1999).

Beach mouse habitat in this unit consists of primary, secondary, and scrub dune habitat. Because scrub habitat is separated from the frontal dunes by a highway in some areas, the population inhabiting this unit can be especially vulnerable to hurricane impacts, and therefore further linkage to scrub habitat and/or habitat management would improve connectivity. This unit is managed by the Alabama Department of Conservation and Natural Resources and provides PCEs 2, 3, 4, and 5. While a management plan exists for this Park, it does not adequately address the threats to beach mice. Threats specific to this unit that may require special management considerations include presence of feral cats as well as other predators at unnatural levels and high recreational use that may result in soil compaction, damage to dunes, and/or a decrease in habitat quality. This unit, which contains interior scrub habitat as well as primary and secondary dunes, serves as an expansion of the original critical habitat designation (50 FR 23872).

PKBM-2: West Perdido Key Unit

Unit 2 consists of 114 ac (46 ha) in southern Escambia County, Florida, and 33 ac (13 ha) in southern Baldwin County, Alabama. This unit encompasses essential features of beach mouse habitat from approximately 1.0 mi (1.6 km) west of where the Alabama-Florida State line bisects Perdido Key east to 2.0 mi (3.2 km) east of the State line and areas from the MHWL north to the seaward extent of human development or maritime forest. This unit consists of private lands and ultimately includes essential features of beach mouse habitat between Perdido Key State Park (Unit 3) and Gulf State Park (Unit 1). Beach mouse habitat in this unit consists of primary, secondary, and scrub dune habitat and provides PCEs 2, 3, and 4. Habitat fragmentation and other threats specific to this unit are mainly due to development. Consequently, threats to this unit that may require special management considerations include habitat fragmentation and habitat loss, artificial lighting, presence of feral cats as well as other predators at unnatural levels, excessive foot traffic and soil compaction, and damage to dune vegetation and structure. This area was not known to be occupied at the time of listing. While no trapping has been conducted on these private lands to confirm absence for sections 7 and 10 permitting, sign of beach mouse presence was confirmed in 2005 through observations of beach mouse burrows and tracks (S. Sneckenberger, personal observation, 2005), and this unit is adjacent to contiguous, occupied beach mouse habitat (PKBM-3). Therefore, we have determined this unit to be currently occupied. This unit provides essential connectivity between two core population areas (Perdido Key State Park and Gulf State Park), provides habitat for expansion, natural movements, and recolonization, and is therefore essential to the conservation of the species. Specifically, this unit may have historically provided for the recolonization of Gulf State Park (PKBM-1) and/or may facilitate similar recolonization in the future as the habitat recovers from recent hurricane events.

PKBM-3: Perdido Key State Park Unit

Unit 3 consists of 238 ac (96 ha) in southern Escambia County, Florida. This unit encompasses essential features of beach mouse habitat within the boundary of Perdido Key State Park from approximately 2.0 mi (3.2 km) east of the Alabama-Florida State line to 4.0 mi (6.4 km) east of the State line and the area from the MHWL north to the seaward extent of the maritime forest. Beach mouse habitat in this unit consists of primary, secondary and scrub dune habitat. Trapping efforts in this area were limited in the past. In 2000, a relocation program began to reestablish mice at Perdido Key State Park. This project is considered a success and the population occupying this unit now considered a core population. This unit provides PCEs 2, 3, 4, and 5 and is essential to the conservation of the species. Improving and/or restoring habitat connections would increase habitat quality and provide more functional connectivity for dispersal, exploratory movements, and population expansion. This unit is managed by the Florida Park Service. While a management plan exists for this Park, it does not adequately address the threats to beach mice. Threats specific to this unit that may require special management considerations include presence of feral cats as well as other predators at unnatural levels and high recreational use that may result in soil compaction, damage to dunes, and/or a decrease in habitat quality. This unit serves as a re-designation and expansion of a zone included in the initial critical habitat designation (50 FR 23872); however, the zone did not include scrub habitat, which we now know is necessary for the long-term persistence of beach mouse populations.

PKBM-4: Gulf Beach Unit

Unit 4 consists of 162 ac (66 ha) in southern Escambia County, Florida. This unit includes essential features of beach mouse habitat between Gulf Islands National Seashore and Perdido Key State Park from approximately 4.0 mi (6.4 km) east of the Alabama-Florida State line to 6.0 mi (9.7 km) east of the State line and areas from the MHWL north to the seaward extent of human development or maritime forest. This unit consists of private lands. Beach mouse habitat in this unit consists of primary, secondary, and scrub dune habitat. Habitat fragmentation and other threats specific to this unit are mainly due to development. Consequently, threats to this unit that may require special management considerations include habitat fragmentation and habitat loss, artificial lighting, presence of feral cats as well as other predators at unnatural levels, excessive foot traffic and soil compaction, and damage to dune vegetation and structure. While not known to be occupied at the time of listing, presence of beach mice has recently been confirmed within the unit as a result of trapping efforts in conjunction with permitting (Service 2004b). This unit provides PCEs 2, 3, and 4 and is essential to the conservation of the species. This unit includes high-elevation scrub habitat and serves as a refugia during storm events and as an important source population if storms extirpate or greatly reduce local populations. This unit currently provides essential connectivity between two core populations (Gulf Islands National Seashore (Unit 5) and Perdido Key State Park (Unit 3)) and provides essential habitat for expansion, natural movements, and recolonization (PCE 4).

PKBM-5: Gulf Islands National Seashore Unit

Unit 5 consists of 602 ac (244 ha) in southern Escambia County, Florida, on the easternmost region of Perdido Key. This unit encompasses essential features of beach mouse habitat within the boundary of Gulf Islands National Seashore-Perdido Key Area (also referred to as Johnson Beach) from approximately 6.0 mi (9.7 km) east of the Alabama-Florida State line to the eastern tip of Perdido Key at Pensacola Bay and the area from the MHWL north to the seaward extent of the maritime forest. Beach mouse habitat in this unit consists mainly of primary and secondary dune habitat, but provides the longest contiguous expanse of frontal dune habitat within the historic range of the Perdido Key beach mouse. Perdido Key beach mice were known to inhabit this unit in 1979, though the population was impacted by Hurricane Frederic (1979) and no beach mice were captured during surveys in 1982 and 1986 (Humphrey and Barbour 1981; Holler et al. 1989) therefore, the unit was unoccupied at the time of listing. In 1986, Perdido Key beach mice were reestablished at this unit as a part of Service recovery efforts. This reestablishment project was identified as the most urgent recovery need for the mouse (Service 1987; Holler et al. 1989). The project is considered a success, as the population inhabiting this unit is considered a core population. In 2000 and 2001, Perdido Key beach mice captured from this site served as donors to re-establish beach mice at Perdido Key State Park (Unit 3).

Unit 5, in its entirety, possesses all five PCEs and is essential to the conservation of the species. However, most of this unit consists of frontal dunes, making the population inhabiting this unit particularly threatened by storm events. Threats specific to this unit that may require special management considerations include presence of feral cats as well as other predators at unnatural levels and high recreational use that may result in soil compaction, damage to dunes, and/or a decrease in habitat quality. This unit is managed by the National Park Service-Gulf Islands National Seashore. While a management plan exists for the National Seashore, it is over 20 years old and does not adequately address the threats to beach mice. This unit is included in the initial critical habitat designation (50 FR 23872).

Choctawhatchee Beach Mouse

We are proposing five units as critical habitat for the Choctawhatchee beach mouse: (1) Henderson Beach Unit, (2) Topsail Hill Unit, (3) Grayton Beach Unit, (4) Deer Lake Unit, and (5) West Crooked Island/Shell Island Unit. Table 3 below provides approximate area determined to meet the definition of critical habitat for the Choctawhatchee beach mouse and area proposed for exclusion from the final critical habitat designation by County.

TABLE 3.—Areas Determined To Meet the Definition of Critical Habitat for the Choctawhatchee Beach Mouse and the Area Proposed for Exclusion From the Final Critical Habitat designation
County, state | Definitional areas (acres/hectares) | Area proposed for exclusion from the final critical habitat designation (acres/hectares)
Bay, Florida | 1649/667 | NA
Walton, Florida | 589/238 | 87/35
Okaloosa, Florida | 96/39 | NA
Total | 2334/944 | 87/35

The approximate area encompassed within each proposed critical habitat unit is shown in Table 4.

TABLE 4.—Critical Habitat Units Proposed for the Choctawhatchee Beach Mouse
(Area estimates reflect all land within critical habitat unit boundaries. Effort was taken to remove areas without PCEs.)
Critical Habitat Unit | Federal acres/hectares | State acres/hectares | Local and private acres/hectares | Total acres/hectares
1. Henderson Beach Unit | 0 | 96/39 | 0 | 96/39
2. Topsail Hill Unit | 0 | 273/110 | 28/11 | 301/121
3. Grayton Beach Unit | 0 | 152/62 | 20/8 | 172/70
4. Deer Lake Unit | 0 | 38/15 | 78/32 | 116/47
5. West Crooked Island/Shell Island Unit | 1237/500 | 374/151 | 38/16 | 1649/667
Total | 1237/500 | 933/377 | 164/67 | 2334/944

We present brief descriptions of all units, and reasons why they meet the definition of critical habitat for the Choctawhatchee beach mouse, below.

CBM-1: Henderson Beach Unit

Unit 1 consists of 96 ac (39 ha) in Okaloosa County, Florida. This unit encompasses essential features of beach mouse habitat within the boundary of Henderson Beach State Park from 0.5 mi (0.8 km) east of the intersection of Highway 98 and Scenic Highway 98 to 0.25 mi (0.4 km) west of Matthew Boulevard and the area from the MHWL north to the seaward extent of the maritime forest. This westernmost unit provides primary, secondary, and scrub dune habitat and possesses PCEs 2 and 3. This unit is within the historic range of the subspecies, however it was not known to be occupied at the time of listing and current occupancy is unknown as no recent efforts have been made to document beach mouse presence or absence. This unit is essential because it includes protected, high-elevation scrub habitat, and it may serve as a refuge during storm events and as an important source population if storms extirpate or greatly reduce local populations or populations to the east.

This unit is managed by the Florida Park Service and is essential to the conservation of the species. While a management plan exists for this Park, it does not adequately address the threats to beach mice. Threats specific to this unit that may require special management considerations include habitat fragmentation, presence of feral cats as well as other predators at unnatural levels, and high recreational use that may result in soil compaction, damage to dunes, and/or a decrease in habitat quality.

CBM-2: Topsail Hill Unit

Unit 2 consists of 301 ac (121 ha) in Walton County, Florida. This unit encompasses essential features of beach mouse habitat within the boundary of Topsail Hill Preserve State Park, as well as adjacent private lands from 0.1 mi (0.2 km) east of Gulf Pines to 0.5 mi (0.8 km) west of the inlet of Oyster Lake and the area from the MHWL north to the seaward extent of human development or maritime forest. This unit provides primary, secondary, and scrub dune habitat and possesses all five PCEs. Its large, contiguous, high-quality habitat allows for natural movements and population expansion. Beach mice were confirmed present in the unit in 1979 (Humphrey 1992), were present at the time of listing, and this unit continues to support a core population of Choctawhatchee beach mice. Beach mice have been captured recently on private lands within the unit, east of the park (Service 2003a). The population of Choctawhatchee beach mice inhabiting this unit appears to harbor unique genetic variation, and displays a relatively high degree of genetic divergence considering the close proximity of this population to other populations (Wooten and Holler 1999).

This unit has portions with different ownership, purposes, and mandates. Threats specific to this unit that may require special management considerations include artificial lighting from private development, presence of feral cats as well as other predators at unnatural levels, and high recreational use that may result in soil compaction, damage to dunes, and/or a decrease in habitat quality. This unit was included in the initial critical habitat designation (50 FR 23872); however, the original zone did not include scrub habitat which we now know is necessary for the long-term persistence of beach mouse populations. While a management plan exists for the State Park within this unit, it does not adequately address the threats to beach mice.

CBM-3: Grayton Beach Unit

Unit 3 consists of 172 ac (70 ha) in Walton County, Florida. This unit encompasses essential features of beach mouse habitat within the boundary of Grayton Beach State Park, as well as adjacent private lands and inholdings, from 0.3 mi (0.5 km) west of the inlet of Alligator Lake east to 0.8 mi (1.3 km) west of Seagrove Beach and the area from the MHWL north to the seaward extent of human development or maritime forest. This unit provides primary, secondary, and scrub dune habitat, possesses PCEs 2, 3, 4, and 5, and is essential to the conservation of the species. Beach mice were not detected in the unit in 1979 (Humphrey 1992), however they were found to be present in 1995 after Hurricane Opal (Gore 1994). While it seems likely that beach mice were present at the time of listing (and may have been present, but not detected, in 1979), we do not have data to confirm this assumption. Therefore, we consider this unit to be unoccupied at the time of listing. A program to strengthen/reestablish the population began in 1997 and 1998, and yielded a persistent population at the State park. Further relocations, specifically in the west portion of Grayton Beach State Park, are under consideration. Recent evidence of beach mice on park lands was documented in 2004 (Service 2004c). Beach mice are also known to currently occupy the private lands east of the park within the unit. This unit includes private lands that we are proposing for exclusion (see “Application of Sections 3(5)(A) and 4(a)(3) and Exclusions Under Section 4(b)(2) of the Act,” below). The proposed excluded area is not included in the total acreage of this unit.

Threats specific to this unit that may require special management considerations include artificial lighting from private development, presence of feral cats as well as other predators at unnatural levels, and high recreational use that may result in soil compaction, damage to dunes, and/or a decrease in habitat quality. This unit was included in the initial critical habitat designation (50 FR 23872); however, the revised zone includes scrub habitat which we now know is necessary for the long-term persistence of beach mouse populations. While a management plan exists for the State Park within this unit, it does not adequately address the threats to beach mice.

CBM-4: Deer Lake Unit

Unit 4 consists of 116 ac (47 ha) in Walton County, Florida. This unit encompasses essential features of beach mouse habitat within the boundary of Deer Lake State Park as well as adjacent private lands from approximately 1 mi (1.6 km) east of the Camp Creek Lake inlet west to approximately 0.5 mi (0.8 km) west of the inlet of Deer Lake and the area from the MHWL north to the seaward extent of maritime forest or human development. This unit provides primary, secondary, and scrub dune habitat, possesses PCEs 2, 3, 4, and 5, and is essential to the conservation of the species. Because trapping efforts in this area have been limited to incidental trapping, and beach mice were not detected in 1998 (Auburn University 1999), we consider this unit to be unoccupied at the time of listing. Choctawhatchee beach mice were translocated from Topsail Hill Preserve State Park to private lands in this unit in 2003 and 2005 (Service 2003a, 2005). Trapping and/or tracking surveys confirm the continued health of this population, and tracking within the adjacent State park lands have indicated expansion of the population into the park. This unit includes private lands that we are proposing for exclusion (see “Application of Sections 3(5)(A) and 4(a)(3) and Exclusions Under Section 4(b)(2) of the Act,” below). The proposed excluded area is not included in the total acreage of this unit.

Threats specific to this unit that may require special management considerations include artificial lighting from private development, presence of feral cats as well as other predators at unnatural levels, and high residential use that may result in soil compaction, damage to dunes, and/or a decrease in habitat quality. While a management plan exists for the State Park within this unit, it does not adequately address the threats to beach mice.

CBM-5: West Crooked Island/Shell Island Unit

Unit 5 consists of 1,649 ac (667 ha) in Bay County, Florida. This unit encompasses essential features of beach mouse habitat within the boundaries of St. Andrew State Park mainland from 0.1 mi (0.2 km) east of Venture Boulevard east to the entrance channel of St. Andrew Sound, Shell Island east of the entrance of St. Andrew Sound east to East Pass, and West Crooked Island southwest of East Bay and east of the entrance channel of St. Andrew Sound, and areas from the MHWL north to the seaward extent of the maritime forest. Shell Island consists of State lands, Tyndall AFB lands, as well as small private inholdings. Choctawhatchee beach mice were known to inhabit the majority of Shell Island in 1987 (Holler 1992b) and were again confirmed present in 1998 (Auburn University 1999), 2002, and 2003 (Service 2002a, 2003b). Because beach mice inhabited nearly the entirety of suitable habitat on the island less than two years prior to listing and were reconfirmed after listing, we consider this area to be occupied at the time of listing. The West Crooked Island population is the result of a natural expansion of the Shell Island population after the two islands became connected in 1998 and 1999, a result of Hurricanes Opal and Georges (Lynn 2004). (Shell Island was connected to the mainland prior to the 1930s when a navigation inlet severed the connection on the western end.) Beach mice were documented at St. Andrew State Park mainland as late as the 1960s (Bowen 1968), though no records of survey efforts exist again until Humphrey and Barbour (1981) and Meyers (1983) at which time beach mice were not detected. Therefore, it seems likely that this area was not occupied at the time of listing. Current beach mouse population levels at this site are unknown, and trapping to document the absence of mice has not been conducted. Similar to the original designation, this Park is proposed as critical habitat because it has features essential to the Choctawhatchee beach mouse. It is also within the historic range of the mouse and is essential to the conservation of the species. This unit supports the easternmost population of the Choctawhatchee beach mouse, with the next known population 22 miles to the west.

This unit provides primary, secondary, and scrub dune habitat and possesses all five PCEs. Portions of this unit are managed by the Florida Park Service, while the remaining areas are federally (Tyndall AFB) and privately owned. Threats specific to this unit that may require special management considerations include artificial lighting from existing and proposed development, presence of feral cats as well as other predators at unnatural levels, and high residential/recreational use that may result in soil compaction, damage to dunes, and/or a decrease in habitat quality. While a management plan exists for the State Park, it does not adequately address the threats to beach mice. This unit is included in the initial critical habitat designation (50 FR 23872); however, the revised zone includes scrub habitat, which we now know is necessary for the long-term persistence of beach mouse populations. This revision also expands the previously designated unit to include West Crooked Island.

St. Andrew Beach Mouse

We are proposing three units as critical habitat for the St. Andrew beach mouse: (1) East Crooked Island Unit, (2) Palm Point Unit, and (3).St. Joseph Peninsula Unit Table 5 below provides approximate area determined to meet the definition of critical habitat for the St. Andrew beach mouse by County. Urban development and the lack of available suitable habitat limited us to these areas. The large size and high quality of habitat in Unit 1 is considered to alleviate some of the need for additional units/independent populations.

Table 5.—Areas Determined To Meet the Definition of Critical Habitat for the St. Andrew Beach Mouse and the Area Proposed for Exclusion From the Final Critical Habitat Designation
County, state | Definitional areas (area/hectares | Area proposed for exclusion from the final critical habitat designation (acres/hectares)
Gulf, Florida | 1640/663 | NA
Bay, Florida | 970/393 | NA
Total | 2610/1056 | NA

The approximate area encompassed within each proposed critical habitat unit is shown in Table 6.

Table 6.—Critical Habitat Units Proposed for the St. Andrew beach mouse
(Area estimates reflect all land within critical habitat unit boundaries. Effort was taken to remove areas without PCEs.)
Critical habitat unit | Federal acres/hectares | State acres/hectares | Local and private acres/hectares | Total acres/hectares
1. East Crooked Island Unit | 649/263 | 0 | 321/130 | 970/393
2. Palm Point Unit | 0 | 0 | 139/56 | 139/56
3. St. Joseph Peninsula Unit | 0 | 1280/518 | 221/89 | 1501/607
Total | 649/263 | 1280/518 | 681/275 | 2610/1056

We present brief descriptions of all units, and reasons why they meet the definition of critical habitat for the St. Andrew beach mouse, below.

SABM-1: East Crooked Island Unit

Unit 1 consists of 970 ac (393 ha) in Bay County, Florida. This unit encompasses essential features of beach mouse habitat on East Crooked Island from the entrance of St. Andrew Sound to 1 mi (1.6 km) west of Mexico Beach, including Raffield Peninsula, and the area from the MHWL to the seaward extent of the maritime forest. Beach mouse habitat in this unit consists of primary, secondary, and scrub dune habitat and possesses all five PCEs. St. Andrew beach mice were known to inhabit the unit in 1986 and 1989 (James 1992), though the population was presumably extirpated due to impacts from hurricanes. The East Crooked Island population was reestablished with donors from St. Joseph State Park in 1997. This unit was occupied at the time of listing. Recent trapping confirms present occupation of mice (Service 2002b; Moyers and Shea 2002). This unit maintains connectivity along the island and this unit is essential to provide a donor population following storm events.

The majority of this unit is federally owned (Tyndall AFB), while the remaining is privately owned. While the existing Integrated Natural Resources Management Plan (INRMP) for Tyndall AFB does not adequately address beach mouse conservation, a revision to the INRMP is currently under development. Threats specific to this unit that may require special management considerations include artificial lighting both on Tyndall AFB and private lands, presence of feral cats as well as other predators at unnatural levels, and high recreational and military use that may result in soil compaction, damage to dunes, and/or a decrease in habitat quality.

SABM-Unit 2: Palm Point

Unit 2 consists of 139 ac (56 ha) in Gulf County, Florida. This unit encompasses habitat from Palm Point 1.25 mi (2.0 km) northwest of the inlet of the Gulf County Canal to the southeastern boundary of St. Joe Beach and the area from the MHWL to the seaward extent of the maritime forest. We consider beach mice to have been present in this unit at the time of listing, because St. Andrew beach mice were documented in the area by Bowen (1968) and recent trapping has documented current presence within the unit (S.S. Shea, pers. comm., 2005). Since St. Andrew beach mice are currently limited to two core populations, protecting this mainland site located within the species' historic range is needed for the subspecies' long-term persistence. As other viable opportunities are limited or nonexistent, this unit is essential to reduce the threats of stochastic events to this subspecies. Furthermore, as this unit is on the mainland, it is somewhat buffered from the effects of storm events. This area provides frontal and secondary dune habitat, but may provide limited connectivity between habitats. It provides PCEs 2, 3, and 4. Threats specific to this unit that may require special management considerations include proposed development and its associated habitat fragmentation, habitat loss, artificial lighting, presence of feral cats as well as other predators at unnatural levels, and high residential use that may result in soil compaction, damage to dunes, and/or a decrease in habitat quality.

SABM-Unit 3: St. Joseph Peninsula

Unit 3 consists of 1,501 ac (607 ha) in Gulf County, Florida. This unit encompasses essential features of beach mouse habitat within the boundary of St. Joseph Peninsula State Park (Park) as well as south of the Park to the peninsula's constriction north of Cape San Blas (also known as the “stumphole” region) and area from the MHWL to the seaward extent of the maritime forest. Beach mouse habitat in this unit consists of primary, secondary, and scrub dune habitat, and provides a relatively contiguous expanse of habitat within the historic range of the St. Andrew beach mouse. This unit possesses all five PCEs and was occupied at the time of listing. St. Andrew beach mice were known to inhabit this unit in 1986 and 1987 (James 1992), 1989, 1992, 1993, and 1994 (Gore 1994) and the Park presently supports a core population. In addition, recent tracking efforts suggest that mice continue to occupy private lands south of the Park. The Park alone does not provide sufficient habitat to allow for population expansion along the peninsula, which is necessary for a population anchored by the tip of a historically dynamic peninsula. A continuous presence of beach mice along the peninsula is the species' best defense against local and complete extinctions due to storm events. The population of St. Andrew beach mice inhabiting this unit appears to possess unique genetic variation, and displays greater than expected genetic divergence from other populations (Wooten and Holler 1999).

Portions of this unit are managed by the Florida Park Service, while the remaining area is federally (Eglin AFB) or privately owned. While a management plan exists for the State Park within this unit, it does not adequately address the threats to beach mice. Threats specific to this unit that may require special management considerations include artificial lighting from private development, habitat fragmentation and habitat loss, presence of feral cats as well as other predators at unnatural levels, and high recreational use that may result in soil compaction, damage to dunes, and/or a decrease in habitat quality. The population inhabiting this unit may also be particularly susceptible to hurricanes due to its placement within St. Joseph Bay (the peninsula is a thin barrier peninsula with a north-south orientation).

Effects of Critical Habitat Designation

Section 7 Consultation

Section 7 of the Act requires Federal agencies, including the Service, to ensure that actions they fund, authorize, or carry out are not likely to destroy or adversely modify critical habitat. Such alterations include, but are not limited, to alterations adversely modifying any of those physical or biological features that were the basis for determining the habitat to be critical. We are currently reviewing the regulatory definition of adverse modification in relation to the conservation of the species.

Section 7(a) of the Act requires Federal agencies, including the Service, to evaluate their actions with respect to any species that is proposed or listed as endangered or threatened and with respect to its critical habitat, if any is proposed or designated. Regulations implementing this interagency cooperation provision of the Act are codified at 50 CFR part 402.

Section 7(a)(4) of the Act requires Federal agencies to confer with us on any action that is likely to jeopardize the continued existence of a proposed species or result in destruction or adverse modification of proposed critical habitat. Conference reports provide conservation recommendations to assist the agency in eliminating conflicts that may be caused by the proposed action. We may issue a formal conference report if requested by a Federal agency. Formal conference reports on proposed critical habitat contain an opinion that is prepared according to 50 CFR 402.14, as if critical habitat were designated. We may adopt the formal conference report as the biological opinion when the critical habitat is designated, if no substantial new information or changes in the action alter the content of the opinion (see 50 CFR 402.10(d)). Until such time as a proposed designation is finalized, any reasonable and prudent alternatives or reasonable and prudent measures included in a conference report are advisory.

If a species is listed or critical habitat is designated, section 7(a)(2) requires Federal agencies to ensure that activities they authorize, fund, or carry out are not likely to jeopardize the continued existence of such a species or to destroy or adversely modify its critical habitat. If a Federal action may affect a listed species or its critical habitat, the responsible Federal agency (action agency) must enter into consultation with us. Through this consultation, the action agency ensures that their actions do not destroy or adversely modify critical habitat.

When we issue a biological opinion concluding that a project is likely to result in the destruction or adverse modification of critical habitat, we also provide reasonable and prudent alternatives to the project, if any are identifiable. “Reasonable and prudent alternatives” are defined at 50 CFR 402.02 as alternative actions identified during consultation that can be implemented in a manner consistent with the intended purpose of the action, that are consistent with the scope of the Federal agency's legal authority and jurisdiction, that are economically and technologically feasible, and that the Director believes would avoid destruction or adverse modification of critical habitat. Reasonable and prudent alternatives can vary from slight project modifications to extensive redesign or relocation of the project. Costs associated with implementing a reasonable and prudent alternative are similarly variable.

Regulations at 50 CFR 402.16 require Federal agencies to reinitiate consultation on previously reviewed actions in instances where critical habitat is subsequently designated and the Federal agency has retained discretionary involvement or control over the action or such discretionary involvement or control is authorized by law. Consequently, some Federal agencies may request reinitiation of consultation or conference with us on actions for which formal consultation has been completed, if those actions may affect designated critical habitat or adversely modify or destroy proposed critical habitat.

Federal activities that may affect the three subspecies of beach mice or their critical habitat will require section 7 consultation. Activities on private or State lands requiring a permit from a Federal agency, such as a permit from the U.S. Army Corps of Engineers under section 404 of the Clean Water Act, a section 10(a)(1)(B) permit from the Service, or some other Federal action, including funding (e.g., Federal Highway Administration or Federal Emergency Management Agency funding), will also continue to be subject to the section 7 consultation process. Federal actions not affecting listed species or critical habitat and actions on non-Federal and private lands that are not federally funded, authorized, or permitted do not require section 7 consultation.

Section 4(b)(8) of the Act requires us to briefly evaluate and describe in any proposed or final regulation that designates critical habitat those activities involving a Federal action that may destroy or adversely modify such habitat, or that may be affected by such designation. Activities that may destroy or adversely modify critical habitat may also jeopardize the continued existence of these three subspecies of beach mice. Federal activities that, when carried out, may adversely affect critical habitat for these three subspecies of beach mice include, but are not limited to:

(1) Actions that would significantly alter dune structure and stability, soil compaction levels, and substrate characteristics. Such activities could include, but are not limited to, excessive foot traffic; military missions; dredging and disposal operations; the use of construction, utility, or off-road vehicles in beach mouse habitat; and sand contamination from gravel, clay, or construction debris. These activities, even if temporary, could alter burrow construction, reduce the availability of potential burrow sites, and degrade or destroy beach mouse habitat.

(2) Actions that would significantly alter the natural vegetation of the coastal dune community. Such activities could include, but are not limited to, allowing non-native species to establish in the area, landscaping with plants that do not reflect habitat type prior to disturbance, and landscaping that yields excessive leaf litter. These activities could alter beach mouse foraging activities and degrade or destroy beach mouse habitat.

(3) Actions that would significantly alter the natural predator/prey balance of the coastal dune community by impacting the quality of the habitat. Such activities could include, but are not limited to, allowing unprotected refuse in the area and allowing or encouraging feral cat communities. These activities could alter beach mouse foraging activities and the availability of foraging resources, and directly alter beach mouse survival.

(4) Actions that would significantly alter natural lighting. Such activities could include, but are not limited to, allowing artificial lighting that does not comply with wildlife-friendly lighting specifications. These activities could alter beach mouse foraging activities, increase predation upon beach mice, and reduce the use of otherwise suitable beach mouse habitat.

(5) Actions that would directly result in a significant loss of habitat and/or elimination or degradation of functional pathways within and among critical habitat units. Such activities could include, but are not limited to, residential or commercial development and associated use, road widening and maintenance, and land clearing. These activities eliminate beach mouse habitat; reduce connectivity necessary for gene flow; reduce all necessary resources, such as food, mates, burrow sites, and refugia from storms; and decrease space available to conduct natural behaviors, thereby limiting their ability to persist.

For the Perdido Key beach mouse, we consider the five proposed critical habitat units to be occupied by the subspecies currently and/or at the time of listing. The presence of this subspecies in Unit 1 (Gulf State Park) is presumed to be dangerously low or extirpated due to direct impacts from hurricanes. If the population inhabiting this unit does not recover or rebound naturally, beach mice from other populations may be translocated to this site. We consider all of these units included in this proposed designation to contain the features that are essential to the conservation of the Perdido Key beach mouse, and if unoccupied at the time of listing, are essential to the conservation of the species.

For the Choctawhatchee beach mouse, we consider four of the five proposed critical habitat units to be occupied by the subspecies currently and/or at the time of listing. The presence of this subspecies in Unit 1 (Henderson Beach) is unknown at this time. Beach mice were documented at St. Andrew State Park mainland as late as the 1960s (Bowen 1968), though no records of survey efforts exist again until Humphrey and Barbour (1981) and Meyers (1983) at which time beach mice were not detected. The extent of these surveys is not certain, and we have since developed survey protocol to document occupied versus unoccupied habitat. Trapping has not been conducted to confirm presence or absence at either proposed unit. If mice are absent from these sites, reestablishment would provide crucial recovery support for Choctawhatchee beach mice. These units are within the historic range of the subspecies and provide habitat features that are essential to a subspecies in a rapidly growing and increasingly fragmented region. Loss of either of these units would result in a significant collapse of the subspecies' range. We consider all of the units included in this proposed designation to contain the features essential to the conservation of the Choctawhatchee beach mouse, and if unoccupied at the time of listing, are essential to the conservation of the species.

For the St. Andrew beach mouse, we consider the three proposed critical habitat units to be occupied by the subspecies currently and/or at the time of listing. We consider all three units included in this proposed designation to contain the features that are essential to the conservation of the St. Andrew beach mouse.

Application of Sections 3(5)(A) and 4(a)(3) and Exclusions Under Section 4(b)(2) of the Act

Section 3(5)(A) of the Act defines “critical habitat” as the specific areas within the geographical area occupied by the species at the time of listing on which are found those physical and biological features (i) essential to the conservation of the species and (ii) which may require special management considerations or protection. Therefore, areas within the geographical area occupied by the species at the time of listing that do not contain the features essential for the conservation of the species are not, by definition, critical habitat. Similarly, areas within the geographical area occupied by the species at the time of listing that do not require special management or protection also are not, by definition, critical habitat. To determine whether an area requires special management, we first determine if the essential features located there generally require special management to address applicable threats. If those features do not require special management, or if they do in general but not for the particular area in question because of the existence of an adequate management plan or for some other reason, then the area does not require special management.

We consider a current plan to provide adequate management or protection if it meets three criteria: (1) The plan is complete and provides a conservation benefit to the species (i.e., the plan must maintain or provide for an increase in the species' population, or the enhancement or restoration of its habitat within the area covered by the plan); (2) the plan provides assurances that the conservation management strategies and actions will be implemented (i.e., those responsible for implementing the plan are capable of accomplishing the objectives, and have an implementation schedule or adequate funding for implementing the management plan); and (3) the plan provides assurances that the conservation strategies and measures will be effective (i.e., it identifies biological goals, has provisions for reporting progress, and is of a duration sufficient to implement the plan and achieve the plan's goals and objectives).

Furthermore, Section 318 of the Fiscal Year 2004 National Defense Authorization Act (Pub. L. No. 108-136) addresses the relationship of INRMPs to critical habitat by adding a new section 4(a)(3)(B) to the Endangered Species Act. This provision prohibits the Service from designating as critical habitat any lands or other geographical areas owned or controlled by the Department of Defense, or designated for its use, that are subject to an INRMP prepared under section 101 of the Sikes Act (16 U.S.C. 670a), if the Secretary of the Interior determines in writing that such a plan provides a benefit to the species for which critical habitat is proposed for designation. Eglin AFB has an INRMP in place that provides a framework for managing natural resources, and we request information from DOD on the benefit of Eglin's INRMP for the St. Andrew beach mouse to assist the Secretary of the Interior in meeting our section 4(a)(3) responsibilities. Tyndall AFB is currently updating its INRMP. Lands with physical and biological features essential to the conservation of the St. Andrew beach mouse and the Choctawhatchee beach mouse on those installations are proposed as critical habitat. However, we specifically solicit comments on the inclusion or exclusion of such areas, as well as supporting information contained in the INRMP for any request for exclusion.

Finally, section 4(b)(2) of the Act states that critical habitat shall be designated, and revised, on the basis of the best available scientific data after taking into consideration the economic impact, national security impact, and any other relevant impact of specifying any particular area as critical habitat. An area may be excluded from critical habitat if it is determined that the benefits of exclusion outweigh the benefits of specifying a particular area as critical habitat, unless the failure to designate such area as critical habitat will result in the extinction of the species.

In our critical habitat designations, we use both the provisions outlined in sections 3(5)(A) and 4(b)(2) of the Act to evaluate those specific areas that we consider proposing as critical habitat as well as for those areas that are formally proposed for designation as critical habitat. Lands we have found do not meet the definition of critical habitat under section 3(5)(A) or have excluded pursuant to section 4(b)(2) include those covered by the following types of plans if they provide assurances that the conservation measures they outline will be implemented and effective: (1) Legally operative HCPs that cover the species, (2) draft HCPs that cover the species and have undergone public review and comment (i.e., pending HCPs), (3) Tribal conservation plans that cover the species, (4) State conservation plans that cover the species, and (5) National Wildlife Refuge System Comprehensive Conservation Plans.

Habitat Conservation Plans

Section 10(a)(1)(B) of the ESA authorizes us to issue to non-Federal entities a permit for the incidental take of endangered and threatened species. This permit allows a non-Federal landowner to proceed with an activity that is legal in all other respects, but that results in the incidental taking of a listed species (i.e., take that is incidental to, and not the purpose of, the carrying out of an otherwise lawful activity). The ESA specifies that an application for an incidental take permit must be accompanied by a habitat conservation plan, and specifies the content of such a plan. The purpose of conservation plans is to describe and ensure that the effects of the permitted action on covered species are adequately minimized and mitigated, and that the action does not appreciably reduce the survival and recovery of the species. There are currently two legally operative HCPs in existence for the Choctawhatchee beach mouse covering areas that would otherwise meet the criteria for critical habitat: Stallworth Preserve (issued in 1995, with amendments in 1995 and 1998), WaterSound and WaterColor (issued in 2000) in Walton County, Florida, totaling 87 ac (35 ha). These HCPs provide for the conservation of Choctawhatchee beach mice and in general include activities like habitat protection, enhancement and restoration; partnership in the implementation and monitoring of beach mouse translocation programs on the property, native landscaping, predator control, and through adaptive management, assurances that the conservation effort will be effective. The two HCPs include beach mouse population monitoring (trapping several times a year), outdoor lighting guidelines, beach access that minimizes impact beach mouse habitat (elevated dune walkovers), as well as dune revegetation and restoration. The two HCPs include the continued maintenance of the remaining undisturbed beach mouse habitat.

(1) Benefits of Inclusion of the Stallworth Preserve, WaterSound and WaterColor HCPs

The principal regulatory benefit of critical habitat is that federally authorized, funded, or carried out activities require consultation pursuant to section 7 of the Act to ensure that they will not destroy or adversely modify critical habitat. In the Gifford Pinchot Task Force v. U.S. Fish and Wildlife Service, 378 F. 3d 1059, (9th Cir 2004), the Court has ruled that adverse modification evaluations require consideration of impacts on the recovery of species. Conducting section 7 consultations would provide benefits on HCP lands with a Federal nexus by helping ensure the integrity of these lands is maintained. For example, if a federally funded road project was proposed to go across respective HCP lands that were designated as critical habitat, a consultation would need to be conducted to ensure the designated critical habitat was not destroyed or adversely modified.

Designation of critical habitat serves to educate landowners, state and local governments, and the public, regarding the potential conservation value of the area. This helps focus, prioritize, and revitalize conservation efforts, such as dune restoration projects, or more extensive monitoring of beach mouse populations.

(2) Benefits of Exclusion of the Stallworth Preserve, WaterSound, and WaterColor HCPs

We identified a number of possible benefits of excluding the area covered by the two HCPs from critical habitat designation. First, to the extent designation would provide any additional protection of beach mice habitat, costs associated with that protection would be avoided. Second, exclusion would reduce largely redundant administrative costs of section 7 consultation. Third, exclusion would help to foster an atmosphere of cooperation in the conservation of endangered species. HCPs and other conservation partnership efforts typically provide far greater conservation benefits to species than the limited benefits arising from critical habitat designation. The latter benefits are restricted to actions with a Federal nexus, and can require only that the action not adversely modify the habitat. It cannot compel, and in practice may discourage, the sort of active management actions that generally are needed to recover listed species.

Currently, two of our HCP sites are involved in translocation efforts. With this cooperation we are able to partner with private land owners in habitat restoration, beach mouse translocations, and population monitoring, thereby facilitating recolonization of previously inhabited areas, encouraging and providing suitable habitat for the long-term persistence of beach mice, obtaining more information on the subspecies, and improving and discovering new techniques and opportunities that will assist in the recovery of several beach mouse subspecies. Fourth, exclusion would provide an incentive for participation in the development of new HCPs. The exclusion of HCP lands from critical habitat designations is an important incentive for participation in the HCP program; on the other hand, failure to exclude HCP lands could undermine the conservation benefits provided by the HCP program, and, more generally the partnerships required to conserve most listed species.

It is possible although unlikely, that any Federal action will be proposed that would be likely to destroy or adversely modify the habitat proposed as critical within the area governed by these HCPs. If such a project was proposed, due to the specific way in which jeopardy and adverse modification are analyzed for the Choctawhatchee beach mouse, it would likely also jeopardize the continued existence of the species. In addition, we expect that the benefit of informing the public of the importance of this area to the Choctawhatchee beach mouse's conservation would be slight due to the fact that there has already been a designation of critical habitat for beach mice in this area, including public notice and comment, the HCPs themselves underwent public review and comment, and this proposal is undergoing public review and comment. Therefore, we assign relatively little weight to the benefits of designating this area as critical habitat.

In contrast, although the benefits of encouraging participation in HCPs, particularly large-scale HCPs, and, more broadly, helping to foster cooperative conservation are indirect, enthusiastic HCP participation and an atmosphere of cooperation are crucial to the long-term effectiveness of the endangered species program. Therefore, we assign great weight to these benefits of exclusion. To the extent that there are regulatory benefits of including, there would be associated costs that could be avoided by excluding the area from the designation. However, as we expect the regulatory benefits to be slight, we likewise give little weight to avoidance of those associated costs, as well as the additional transaction costs related to section 7 compliance.

Therefore, we have determined that the benefits of inclusion of the areas covered by these HCPs are small, while the benefits of exclusion are more significant. Through these measures identified above, we believe that for these three sites, the benefits of exclusion outweigh the benefits of inclusion. Because we anticipate that little if any conservation benefit to the Choctawhatchee beach mouse will be foregone as a result of excluding these areas, the exclusion will not result in the extinction of the Choctawhatchee beach mouse. Accordingly, we are soliciting comments on whether to exercise discretion under section 4(b)(2) to exclude the areas covered by these HCPs from the designation of critical habitat for the Choctawhatchee beach mouse.

Economic Analysis

An analysis of the economic impacts of proposing critical habitat for these three subspecies of beach mice is being prepared. We will announce the availability of the draft economic analysis as soon as it is completed, at which time we will seek public review and comment. At that time, copies of the draft economic analysis will be available for downloading from the Internet at http://www.fws.gov/panamacity, or by contacting the Panama City U.S. Fish and Wildlife Service Office directly (see ADDRESSES section). For further explanation, see the “Regulatory Flexibility Act” and “Regulatory Planning and Review” discussions below.

Peer Review

In accordance with our joint policy published in the Federal Register on July 1, 1994 (59 FR 34270), we will seek the expert opinions of at least three appropriate and independent specialists regarding this proposed rule. The purpose of such review is to ensure that our critical habitat designation is based on scientifically sound data, assumptions, and analyses. We will send these peer reviewers copies of this proposed rule immediately following its publication in the Federal Register. We will invite these peer reviewers to comment, during the public comment period, on the specific assumptions and conclusions regarding the proposed designation of critical habitat.

We will consider all comments and information received during the comment period on this proposed rule, including those of the peer reviews, during preparation of a final rulemaking. Accordingly, the final decision may differ from this proposal.

Public Hearings

The Act provides for one or more public hearings on this proposal, if requested. Requests for public hearings must be made in writing at least 15 days prior to the close of the public comment period. We intend to schedule public hearings once the draft economic analysis is available such that we can take public comment on both issues, the proposed designation and economic analysis simultaneously. However, we can schedule public hearings on this proposal prior to that time, if any are requested, and announce the dates, times, and places of those hearings in the Federal Register and local newspapers at least 15 days prior to the first hearing.

Clarity of the Rule

Executive Order 12866 requires each agency to write regulations and notices that are easy to understand. We invite your comments on how to make this proposed rule easier to understand, including answers to questions such as the following: (1) Are the requirements in the proposed rule clearly stated? (2) Does the proposed rule contain technical jargon that interferes with the clarity? (3) Does the format of the proposed rule (grouping and order of the sections, use of headings, paragraphing, and so forth) aid or reduce its clarity? (4) Is the description of the notice in the SUPPLEMENTARY INFORMATION section of the preamble helpful in understanding the proposed rule? (5) What else could we do to make this proposed rule easier to understand?

Send a copy of any comments on how we could make this proposed rule easier to understand to: Office of Regulatory Affairs, Department of the Interior, Room 7229, 1849 C Street, NW., Washington, DC 20240. You may e-mail your comments to this address: Exsec@ios.doi.gov.

Required Determinations

Regulatory Planning and Review

In accordance with Executive Order 12866, this document is a significant rule in that it may raise novel legal and policy issues, but it is not anticipated to have an annual effect on the economy of $100 million or more or affect the economy in a material way. Due to the tight timeline for publication in the Federal Register, the Office of Management and Budget (OMB) has not formally reviewed this rule. We are preparing a draft economic analysis of this proposed action, which will be available for public comment, to determine the economic consequences of designating the specific area as critical habitat. This economic analysis also will be used to determine compliance with Executive Order 12866, Regulatory Flexibility Act, Small Business Regulatory Enforcement Fairness Act, and Executive Order 12630.

Within these areas, the types of Federal actions or authorized activities that we have identified as potential concerns are listed above in the section on Section 7 Consultation. The availability of the draft economic analysis will be announced in the Federal Register and in local newspapers so that it is available for public review and comments. When available, the draft economic analysis can be obtained from the internet website at www.fws.gov/panamacity or by contacting the Panama City U.S. Fish and Wildlife Service Office directly (see ADDRESSES section).

Regulatory Flexibility Act (5 U.S.C. 601 et seq.)

Under the Regulatory Flexibility Act (5 U.S.C. 601 et seq., as amended by the Small Business Regulatory Enforcement Fairness Act (SBREFA) of 1996), whenever an agency is required to publish a notice of rulemaking for any proposed or final rule, it must prepare and make available for public comment a regulatory flexibility analysis that describes the effects of the rule on small entities (that is, small businesses, small organizations, and small government jurisdictions). However, no regulatory flexibility analysis is required if the head of the agency certifies the rule will not have a significant economic impact on a substantial number of small entities. The SBREFA amended the Regulatory Flexibility Act (RFA) to require Federal agencies to provide a statement of the factual basis for certifying that the rule will not have a significant economic impact on a substantial number of small entities.

At this time, the Service lacks the available economic information necessary to provide an adequate factual basis for the required RFA finding. Therefore, the RFA finding is deferred until completion of the draft economic analysis for the proposed designation prepared pursuant to section 4(b)(2) of the ESA and E.O. 12866. This draft economic analysis will provide the required factual basis for the RFA finding. Upon completion of the draft economic analysis, the Service will publish a notice of its availability of and reopen the public comment period for the proposed designation for an additional 60 days. The Service will include with the notice of availability, as appropriate, an initial regulatory flexibility analysis or a certification that the rule will not have a significant economic impact on a substantial number of small entities, accompanied by the factual basis for that determination. The Service has concluded that deferring the RFA finding until completion of the draft economic analysis is necessary to meet the purposes and requirements of the RFA. Deferring the RFA finding in this manner will ensure that the Service makes a sufficiently informed determination based on adequate economic information and provides the necessary opportunity for public comment.

Executive Order 13211

On May 18, 2001, the President issued an Executive Order (E.O. 13211) on regulations that significantly affect energy supply, distribution, and use. Executive Order 13211 requires agencies to prepare Statements of Energy Effects when undertaking certain actions. This proposed rule to revise critical habitat for the Perdido Key and Choctawhatchee beach mouse, and designate critical habitat for the St. Andrew beach mouse is not a significant regulatory action under Executive Order 12866, and it is not expected to significantly affect energy supplies, distribution, or use. Therefore, this action is not a significant energy action and no Statement of Energy Effects is required.

Unfunded Mandates Reform Act (2 U.S.C. 1501 et seq.)

In accordance with the Unfunded Mandates Reform Act (2 U.S.C. 1501), the Service makes the following findings:

(a) This rule will not produce a Federal mandate. In general, a Federal mandate is a provision in legislation, statute, or regulation that would impose an enforceable duty upon State, local, tribal governments, or the private sector and includes both “Federal intergovernmental mandates” and “Federal private sector mandates.” These terms are defined in 2 U.S.C. 658(5)-(7). “Federal intergovernmental mandate” includes a regulation that “would impose an enforceable duty upon State, local, or tribal governments” with two exceptions. It excludes “a condition of Federal assistance.” It also excludes “a duty arising from participation in a voluntary Federal program,” unless the regulation “relates to a then-existing Federal program under which $500,000,000 or more is provided annually to State, local, and tribal governments under entitlement authority,” if the provision would “increase the stringency of conditions of assistance” or “place caps upon, or otherwise decrease, the Federal Government's responsibility to provide funding,” and the State, local, or tribal governments “lack authority” to adjust accordingly. At the time of enactment, these entitlement programs were: Medicaid; AFDC work programs; Child Nutrition; Food Stamps; Social Services Block Grants; Vocational Rehabilitation State Grants; Foster Care, Adoption Assistance, and Independent Living; Family Support Welfare Services; and Child Support Enforcement. “Federal private sector mandate” includes a regulation that “would impose an enforceable duty upon the private sector, except (i) a condition of Federal assistance or (ii) a duty arising from participation in a voluntary Federal program.”

The designation of critical habitat does not impose a legally binding duty on non-Federal government entities or private parties. Under the Act, the only regulatory effect is that Federal agencies must ensure that their actions do not destroy or adversely modify critical habitat under section 7. While non-Federal entities that receive Federal funding, assistance, or permits, or that otherwise require approval or authorization from a Federal agency for an action, may be indirectly impacted by the designation of critical habitat, the legally binding duty to avoid destruction or adverse modification of critical habitat rests squarely on the Federal agency. Furthermore, to the extent that non-Federal entities are indirectly impacted because they receive Federal assistance or participate in a voluntary Federal aid program, the Unfunded Mandates Reform Act would not apply; nor would critical habitat shift the costs of the large entitlement programs listed above on to State governments.

(b) Due to current public knowledge of the species' protection, the prohibition against take of the species both within and outside of the designated areas, and the fact that critical habitat provides no incremental restrictions, we do not anticipate that this rule will significantly or uniquely affect small governments. As such, a Small Government Agency Plan is not required. We will, however, further evaluate this issue as we conduct our economic analysis and revise this assessment if appropriate.

Federalism

In accordance with Executive Order 13132, the rule does not have significant Federalism effects. A Federalism assessment is not required. In keeping with DOI and Department of Commerce policy, we requested information from, and coordinated development of, this proposed critical habitat designation with appropriate State resource agencies in Florida and Alabama. The proposed designation of critical habitat in areas currently occupied by the beach mice imposes no additional restrictions to those currently in place and, therefore, has little incremental impact on State and local governments and their activities. The designation may have some benefit to these governments in that the areas that contain the features essential to the conservation of the species are more clearly defined, and the primary constituent elements of the habitat necessary to the conservation of the species are specifically identified. While making this definition and identification does not alter where and what federally sponsored activities may occur, it may assist these local governments in long-range planning (rather than waiting for case-by-case section 7 consultations to occur).

Civil Justice Reform

In accordance with Executive Order 12988, the Office of the Solicitor has determined that the rule does not unduly burden the judicial system and meets the requirements of sections 3(a) and 3(b)(2) of the Order. We have proposed designating critical habitat in accordance with the provisions of the Endangered Species Act. This proposed rule uses standard property descriptions and identifies the primary constituent elements within the proposed areas to assist the public in understanding the habitat needs of the beach mice.

Paperwork Reduction Act of 1995 (44 U.S.C. 3501 et seq.)

This rule does not contain any new collections of information that require approval by OMB under the Paperwork Reduction Act. This rule will not impose recordkeeping or reporting requirements on State or local governments, individuals, businesses, or organizations. An agency may not conduct or sponsor, and a person is not required to respond to, a collection of information unless it displays a currently valid OMB control number.

National Environmental Policy Act

It is our position that, outside the Tenth Circuit, we do not need to prepare environmental analyses as defined by the NEPA in connection with designating critical habitat under the Endangered Species Act of 1973, as amended. We published a notice outlining our reasons for this determination in the Federal Register on October 25, 1983 (48 FR 49244). This assertion was upheld in the courts of the Ninth Circuit (Douglas County v. Babbitt, 48 F.3d 1495 (9th Cir. Ore. 1995), cert. denied 116 S. Ct. 698 (1996).

Government-to-Government Relationship With Tribes

In accordance with the President's memorandum of April 29, 1994, “Government-to-Government Relations with Native American Tribal Governments” (59 FR 22951), Executive Order 13175, and the Department of Interior's manual at 512 DM 2, we readily acknowledge our responsibility to communicate meaningfully with recognized Federal Tribes on a government-to-government basis. We have determined that there are no tribal lands occupied at the time of listing containing the features essential for the conservation and no tribal lands that are unoccupied areas that are essential for the conservation of the three subspecies of beach mice. Therefore, critical habitat for the beach mice has not been designated on Tribal lands.

References Cited

A complete list of all references cited in this rulemaking is available upon request from the Field Supervisor, Panama City U.S. Fish and Wildlife Service Office (see ADDRESSES section).

Author(s)

The primary author of this package is the Panama City U.S. Fish and Wildlife Service Office.

List of Subjects in 50 CFR Part 17

Endangered and threatened species, Exports, Imports, Reporting and recordkeeping requirements, Transportation.

Proposed Regulation Promulgation

Accordingly, we propose to amend part 17, subchapter B of chapter I, title 50 of the Code of Federal Regulations, as set forth below:

PART 17—[AMENDED]

1. The authority citation for part 17 continues to read as follows:

Authority: 16 U.S.C. 1361-1407; 16 U.S.C. 1531-1544; 16 U.S.C. 4201-4245; Pub. L. 99-625, 100 Stat. 3500; unless otherwise noted.

2. In § 17.11(h), revise the entry for “Mouse, St. Andrew beach” under “MAMMALS” to read as follows:

§ 17.11 Endangered and threatened wildlife.

* * * * *

(h) * * *

Species: Common name | Species: Scientific name | Historic range | Vertebrate population where endangered or threatened | Status | When listed | Critical habitat | Special rules
Mammals
* * * * * * *
Mouse, St. Andrew beach | Peromyscus polionotus peninsularis | U.S.A. (FL) | Entire | E | 655 | 17.95(a) | NA
* * * * * * *

3. In § 17.95, amend paragraph (a) by revising the entries for “Choctawhatchee beach mouse” and “Perdido Key beach mouse” and adding an entry for “St. Andrew beach mouse” under “MAMMALS” to read as follows:

§ 17.95 Critical habitat—fish and wildlife.

(a) Mammals:

* * * * *

Choctawhatchee Beach Mouse (Peromyscus polionotus allophrys)

(1) Critical habitat units are depicted for Okaloosa, Walton, and Bay Counties, Florida, on the maps below.

(2) The primary constituent elements of critical habitat for the Choctawhatchee beach mouse (CBM) are the habitat components that provide:

(i) A contiguous mosaic of primary, secondary, and scrub vegetation and dune structure, with a balanced level of competition and predation and few or no competitive or predaceous nonnative species present, that collectively provide foraging opportunities, cover, and burrow sites;

(ii) Primary and secondary dunes, generally dominated by sea oats (Uniola paniculata), that, despite occasional temporary impacts and reconfiguration from tropical storms and hurricanes, provide abundant food resources, burrow sites, and protection from predators;

(iii) Scrub dunes, generally dominated by scrub oaks (Quercus spp.), that provide food resources and burrow sites, and provide elevated refugia during and after intense flooding due to rainfall and/or hurricane-induced storm surge;

(iv) Functional, unobstructed habitat connections that facilitate genetic exchange, dispersal, natural exploratory movements, and re-colonization of locally extirpated areas; and

(v) A natural light regime within the coastal dune ecosystem, compatible with the nocturnal activity of beach mice, necessary for normal behavior, growth, and viability of all life stages.

(3) Critical habitat does not include man-made structures existing on the effective date of this rule and not containing one or more of the primary constituent elements, such as buildings, aqueducts, airports, driveways, and roads, and the land on which such structures are located.

(4) Critical Habitat Map Units. Data layers defining map units were created by delineating habitats that contained one or more of the primary constituent elements defined in paragraph (2), over 1999 and 2004 digital ortho photography at a scale of at least 1:4000.

(5) Note: Map 1—Index Map of Critical Habitat Units for the Choctawhatchee beach mouse follows:

BILLING CODE 4310-55-P

BILLING CODE 4310-55-C

(6) CBM—Unit 1: Henderson Beach Unit, Okaloosa County, Florida.

(i) General Description: Unit 1 consists of 96 ac (39 ha) in Okaloosa County, Florida. This unit encompasses essential features of beach mouse habitat within the boundary of Henderson Beach State Park from 0.5 mile east of the intersection of Highway 98 and Scenic Highway 98 to 0.25 mile west of Matthew Boulevard and the area from the mean high water level (MHWL) north to the seaward extent of the maritime forest.

(ii) Coordinates: From USGS 1:24,000 quadrangle map Destin, Florida, land bounded by the following UTM 16 NAD 83 coordinates (E,N): 553127.73, 3361659.7; 553118.25, 3361738.27; 553113.59, 3361734.19; 553108.89, 3361731.3; 553107.43, 3361726.11; 553109.17, 3361720.21; 553113.27, 3361714.76; 553117.31, 3361712.08; 553120.24, 3361706.21; 553125.11, 3361701.97; 553129.54, 3361699.7; 553134.76, 3361697.45; 553141.19, 3361694.44; 553145.3, 3361688.99; 553149.37, 3361685.13; 553154.57, 3361683.67; 553157.2, 3361689.68; 553160.7, 3361692.54; 553166.37, 3361688.32; 553172.09, 3361682.12; 553173.43, 3361676.21; 553168.76, 3361672.13; 553163.31, 3361667.63; 553160.25, 3361662.8; 553153.21, 3361658.26; 553149.32, 3361655; 553151.1, 3361647.11; 553152.37, 3361643.97; 553151.71, 3361638.8; 553151.79, 3361635.24; 553155.06, 3361631.75; 553159.13, 3361627.89; 553161.59, 3361624.78; 553162.1, 3361620.03; 553159.37, 3361617.98; 553153.02, 3361617.83; 553145.5, 3361616.85; 553143.5, 3361617.19; 553138.78, 3361615.49; 553134.39, 3361616.18; 553126.77, 3361619.16; 553115.13, 3361623.63; 553107.05, 3361629.38; 553102.11, 3361636.39; 553099.86, 3361647.04; 553098.42, 3361656.91; 553098.17, 3361666.82; 553094.35, 3361692.88; 553091.71, 3361703.13; 553082.59, 3361718.36; 553082.04, 3361724.69; 553082.21, 3361733.81; 553087.65, 3361738.7; 553102.32, 3361739.86; 553118.25, 3361738.27.

553049.41, 3361533.76; 553017.61, 3361459.57; 553019.48, 3361499.16; 553019.48, 3361499.2; 553025.28, 3361498.13; 553030.65, 3361489.93; 553037.96, 3361483.38; 553046.44, 3361477.64; 553054.5, 3361473.08; 553063.45, 3361469.29; 553063.28, 3361457.75; 553017.61, 3361459.57; 553019.8, 3361505.86; 553023.58, 3361585.86; 553027.92, 3361582.42; 553029.07, 3361569.57; 553036.3, 3361566.58; 553034.25, 3361536.8; 553031.17, 3361516.9; 553025.8, 3361509.24; 553023.5, 3361505.61; 553019.8, 3361505.86; 553033.7, 3361499.32; 553038.2, 3361521.83; 553041.16, 3361562.74; 553040.97, 3361569.87; 553034.97, 3361572.1; 553033.94, 3361581.59; 553040.67, 3361581.15; 553053.05, 3361578.68; 553057.69, 3361583.55; 553059.88, 3361585.95; 553065.12, 3361585.75; 553063.92, 3361502.29; 553056.15, 3361502.85; 553054.68, 3361498.06; 553057.67, 3361489.41; 553052.92, 3361488.9; 553045.02, 3361487.12; 553039.81, 3361488.97; 553033.7, 3361499.32; 553047.11, 3361482.81; 553063.63, 3361481.97; 553063.53, 3361475.26; 553047.11, 3361482.81.

553532.22, 3361485.97; 552500.53, 3361413.61; 552500.59, 3361443.35; 552503.32, 3361525.63; 552507.28, 3361622.45; 552507.33, 3361636.56; 552512.49, 3361636.69; 552516.5, 3361635.21; 552522.6, 3361629.41; 552528.64, 3361625.99; 552537.4, 3361625.41; 552545.28, 3361627.99; 552548.97, 3361623.32; 552555.01, 3361620.3; 552557.74, 3361622.35; 552558.76, 3361629.11; 552565.31, 3361637.6; 552566.76, 3361643.18; 552568.58, 3361649.57; 552566.04, 3361656.25; 552569.5, 3361660.69; 552577.51, 3361658.12; 552581.14, 3361655.83; 552579.76, 3361647.47; 552582.81, 3361636.45; 552584.24, 3361626.97; 552589.56, 3361620.76; 552592.46, 3361616.07; 552587.8, 3361611.59; 552586.38, 3361604.82; 552589.4, 3361594.98; 552597.48, 3361589.63; 552602.17, 3361592.92; 552600.85, 3361598.04; 552602.36, 3361601.25; 552609.15, 3361599.83; 552613.84, 3361602.72; 552613.31, 3361608.26; 552615.21, 3361611.87; 552624.24, 3361616.06; 552630.86, 3361621.38; 552635.09, 3361627.03; 552635.79, 3361631.01; 552629.37, 3361633.63; 552624.34, 3361627.96; 552622.12, 3361621.56; 552613.45, 3361618.57; 552600.74, 3361618.65; 552594.28, 3361622.85; 552602.1, 3361627.8; 552602.41, 3361631.38; 552602.3, 3361635.74; 552602.51, 3361643.27; 552613.5, 3361648.7; 552621.33, 3361653.25; 552627.31, 3361652.61; 552636.77, 3361655.62; 552644.73, 3361655.02; 552651.24, 3361648.84; 552657.78, 3361641.47; 552662.41, 3361630.88; 552664.21, 3361622.2; 552668.58, 3361622.31; 552674.91, 3361623.65; 552676.66, 3361616.96; 552683.44, 3361615.94; 552686.08, 3361621.55; 552684.36, 3361627.06; 552689, 3361631.93; 552690.46, 3361637.12; 552695.91, 3361641.62; 552701.04, 3361643.33; 552712.66, 3361639.25; 552720.65, 3361637.47; 552727.45, 3361635.65; 552734.28, 3361632.65; 552740.32, 3361629.23; 552740.87, 3361622.9; 552740.98, 3361618.55; 552741.1, 3361613.79; 552749.16, 3361609.23; 552761.48, 3361609.14; 552768.93, 3361612.89; 552771.17, 3361618.89; 552774.22, 3361624.12; 552779.79, 3361623.47; 552785.51, 3361617.27; 552788.42, 3361612.19; 552785.75, 3361607.36; 552787.13, 3361599.86; 552797.53, 3361596.95; 552805.88, 3361596.76; 552814.65, 3361595.79; 552816.92, 3361600.2; 552819.69, 3361600.67; 552825.36, 3361596.45; 552829.05, 3361591.78; 552836.25, 3361589.58; 552838.55, 3361593.21; 552841.65, 3361596.45; 552846.25, 3361602.91; 552850.84, 3361610.16; 552855.56, 3361612.26; 552857.82, 3361617.07; 552861.26, 3361622.7; 552856.21, 3361634.08; 552854.09, 3361639.57; 552861.51, 3361644.51; 552871.09, 3361642.77; 552874.73, 3361640.08; 552877.61, 3361636.19; 552878.93, 3361631.07; 552881.02, 3361626.76; 552881.13, 3361622.4; 552885.94, 3361620.54; 552882.51, 3361614.9; 552876.68, 3361609.61; 552877.27, 3361601.69; 552881.38, 3361596.24; 552882.74, 3361589.54; 552889.58, 3361586.14; 552896.31, 3361587.1; 552901.49, 3361586.43; 552900.19, 3361590.76; 552903.26, 3361595.2; 552907.01, 3361588.16; 552911.35, 3361589.06; 552905.48, 3361601.6; 552902.9, 3361609.46; 552907.26, 3361609.96; 552915.6, 3361610.17; 552918.02, 3361608.64; 552915.74, 3361604.62; 552917, 3361601.88; 552921.7, 3361604.38; 552922.86, 3361605.59; 552926.04, 3361605.67; 552926.72, 3361610.45; 552929.36, 3361616.06; 552932.57, 3361614.55; 552929.53, 3361609.33; 552929.69, 3361602.59; 552935.41, 3361596.39; 552935.6, 3361588.47; 552936.57, 3361581.35; 552937.89, 3361576.23; 552947.39, 3361577.66; 552954.87, 3361580.62; 552961.72, 3361576.82; 552966.18, 3361572.97; 552971.85, 3361568.75; 552980.65, 3361566.19; 552981.71, 3361571.76; 552978.79, 3361577.24; 552982.25, 3361581.69; 552988.27, 3361579.46; 552991.72, 3361584.3; 552989.64, 3361588.21; 552985.25, 3361588.9; 552978.49, 3361589.13; 552981.55, 3361593.96; 552986.65, 3361596.86; 552982.51, 3361603.5; 552977.68, 3361606.15; 552969.26, 3361609.12; 552969.94, 3361613.89; 552978.99, 3361617.29; 552987.72, 3361617.5; 552997.64, 3361618.14; 553001.68, 3361615.47; 552999.84, 3361609.48; 553002.35, 3361604.38; 553007.32, 3361596.18; 553013.38, 3361591.87; 553020.63, 3361588.19; 553023.58, 3361585.86; 553019.8, 3361505.86; 553014.29, 3361505.71; 553014.34, 3361499.9; 553019.48, 3361499.2; 553017.61, 3361459.57; 553063.28, 3361457.75; 553063.74, 3361490; 553066.6, 3361494.56; 553063.92, 3361502.29; 553065.12, 3361585.75; 553059.88, 3361585.95; 553062.73, 3361588.83; 553069.21, 3361583.83; 553082.4, 3361580.59; 553087.15, 3361581.11; 553095.9, 3361580.93; 553101.89, 3361579.49; 553102.96, 3361584.67; 553103.16, 3361592.6; 553099.11, 3361595.67; 553094.25, 3361599.52; 553094.5, 3361605.47; 553097.9, 3361607.75; 553093.11, 3361613.36; 553089.76, 3361620.42; 553085.54, 3361630.22; 553082.47, 3361642.04; 553082.01, 3361660.26; 553082.5, 3361672.56; 553079.21, 3361677.24; 553075.43, 3361685.47; 553071.19, 3361696.07; 553066.92, 3361708.25; 553064.7, 3361717.71; 553067.92, 3361715.81; 553074.34, 3361713.59; 553078.03, 3361708.92; 553084.82, 3361691.25; 553087.86, 3361681.02; 553088.49, 3361671.52; 553089.59, 3361659.26; 553089.92, 3361645.79; 553091.08, 3361631.15; 553096.99, 3361617.03; 553103.79, 3361607.47; 553105.41, 3361605.66; 553114.91, 3361599.23; 553124.56, 3361594.71; 553142.98, 3361588.83; 553155.42, 3361583.98; 553163.41, 3361582.2; 553168.25, 3361579.14; 553172.36, 3361573.7; 553176.83, 3361569.45; 553185.24, 3361566.88; 553197.62, 3361564.41; 553207.57, 3361563.47; 553212.29, 3361565.56; 553217.4, 3361567.67; 553223.75, 3361567.83; 553230.56, 3361565.62; 553236.63, 3361561.01; 553247.21, 3361552.36; 553254.33, 3361537.48; 553257.97, 3361518.93; 553259.32, 3361496.77; 553257.56, 3361471.35; 553256.14, 3361448.72; 553254.5, 3361443.33; 553247.28, 3361436.27; 553203.58, 3361437.12; 553203.09, 3361456.93; 553190.75, 3361457.81; 553189.25, 3361438.35; 553019.01, 3361446.44; 553016.92, 3361450.75; 553012.49, 3361453.02; 553011.82, 3361464.1; 553009.61, 3361473.16; 553000.69, 3361480.47; 552994.64, 3361483.89; 552994.89, 3361489.84; 552951.17, 3361490.75; 552870.83, 3361494.31; 552783.37, 3361496.52; 552720.9, 3361500.13; 552642.9, 3361505.73; 552597.62, 3361505.01; 552584.24, 3361499.93; 552577.28, 3361476.37; 552585.82, 3361468.25; 552658.66, 3361462.91; 552663.37, 3361465.01; 552666.76, 3361472.63; 552670.14, 3361464.39; 552691.51, 3361467.69; 552695.61, 3361462.64; 552722.58, 3361464.49; 552727.04, 3361461.03; 552733.05, 3361458.8; 552783.15, 3361457.27; 552888.55, 3361452.34; 552898.89, 3361452.19; 552911.46, 3361457.66; 552929.77, 3361456.52; 552932.46, 3361460.16; 552937.28, 3361457.9; 552939.4, 3361452.4; 552954.89, 3361452.78; 552958.9, 3361451.3; 552966.07, 3361448.44; 552995.16, 3361447.04; 553007.18, 3361442.97; 553015.67, 3361436.84; 553247.1, 3361428.68; 553254.19, 3361430.84; 553262.54, 3361437.63; 553266.7, 3361471.18; 553267.64, 3361513.62; 553264.8, 3361531.79; 553260.05, 3361547.13; 553243.21, 3361568.31; 553257.49, 3361585.31; 553264.26, 3361584.69; 553269.09, 3361582.03; 553270.02, 3361576.5; 553264.96, 3361572.41; 553263.51, 3361566.83; 553268.03, 3361560.6; 553271.01, 3361552.74; 553275.46, 3361549.28; 553282.15, 3361551.83; 553284.89, 3361553.48; 553292.46, 3361552.88; 553298.89, 3361549.86; 553301.38, 3361545.56; 553303.96, 3361537.7; 553311.45, 3361539.87; 553314.47, 3361546.28; 553322.3, 3361550.84; 553330.54, 3361555; 553336.17, 3361552.37; 553336.74, 3361545.64; 553328.51, 3361541.08; 553318.29, 3361536.47; 553316.43, 3361531.27; 553323.68, 3361527.48; 553330.87, 3361525.68; 553337.32, 3361521.87; 553347.05, 3361514.19; 553351.77, 3361515.89; 553348.49, 3361520.17; 553347.57, 3361525.3; 553348.27, 3361528.88; 553355, 3361529.84; 553366.14, 3361529.32; 553372.62, 3361524.33; 553377.52, 3361518.9; 553382.96, 3361523.79; 553391.59, 3361528.37; 553402.22, 3361532.2; 553417, 3361528.99; 553425.09, 3361523.25; 553435.45, 3361521.92; 553441.7, 3361526.43; 553435.68, 3361528.66; 553428.85, 3361532.06; 553422.8, 3361535.48; 553414.36, 3361539.63; 553405.15, 3361542.58; 553395.1, 3361547.08; 553386.67, 3361550.44; 553379.35, 3361557.4; 553373.64, 3361563.6; 553368.74, 3361568.63; 553364.57, 3361576.85; 553359.3, 3361581.09; 553351.65, 3361585.26; 553345.32, 3361583.91; 553337.07, 3361580.14; 553330.29, 3361581.16; 553328.2, 3361585.47; 553337.65, 3361588.88; 553345.53, 3361591.45; 553349.4, 3361595.9; 553348.05, 3361602.21; 553348.26, 3361609.75; 553348.06, 3361617.67; 553353.29, 3361615.03; 553356.65, 3361607.58; 553364.36, 3361601.43; 553375.88, 3361601.32; 553377.21, 3361595.8; 553381.29, 3361591.54; 553384.41, 3361593.6; 553382.72, 3361597.92; 553384.97, 3361603.13; 553391.25, 3361606.45; 553390.35, 3361610.39; 553395.82, 3361614.1; 553396.46, 3361620.45; 553397.54, 3361624.84; 553405.46, 3361626.23; 553411.38, 3361627.56; 553421.03, 3361623.04; 553428.57, 3361623.23; 553436.49, 3361624.22; 553444.16, 3361619.65; 553449.06, 3361614.22; 553454.24, 3361613.56; 553454.89, 3361619.52; 553458.04, 3361620.39; 553462.41, 3361620.5; 553466.35, 3361621.78; 553470.42, 3361617.92; 553473.15, 3361619.97; 553475.85, 3361623.21; 553472.99, 3361626.31; 553470.92, 3361629.82; 553473.63, 3361632.67; 553481.59, 3361632.07; 553486.4, 3361630.6; 553490.05, 3361627.52; 553495.59, 3361628.45; 553495.88, 3361632.42; 553503.4, 3361633.8; 553512.25, 3361629.26; 553517.17, 3361623.04; 553524.45, 3361618.06; 553530.89, 3361614.66; 553534.91, 3361612.77; 553538.19, 3361608.49; 553543.48, 3361603.47; 553549.95, 3361598.87; 553562.37, 3361594.82; 553563.86, 3361598.82; 553562.55, 3361603.54; 553556.81, 3361610.93; 553557.48, 3361615.71; 553560.69, 3361614.6; 553567.17, 3361609.6; 553570.27, 3361612.85; 553572.59, 3361615.29; 553581.37, 3361613.52; 553585.85, 3361609.27; 553594.2, 3361609.08; 553606.16, 3361607.4; 553616.15, 3361604.87; 553623.77, 3361601.88; 553634.13, 3361600.95; 553645.29, 3361599.24; 553654.12, 3361595.89; 553664.18, 3361590.59; 553671.97, 3361580.88; 553672.14, 3361574.14; 553670.34, 3361566.56; 553668.17, 3361557.79; 553669.14, 3361550.68; 553676.8, 3361546.11; 553678.16, 3361539.4; 553685.7, 3361539.99; 553692.86, 3361539.37; 553696.21, 3361532.71; 553702.1, 3361535.24; 553701.18, 3361540.37; 553697.79, 3361549.01; 553699.24, 3361554.59; 553702.34, 3361557.84; 553707.88, 3361558.77; 553712.16, 3361562.44; 553713.97, 3361569.23; 553710.67, 3361574.3; 553712.51, 3361580.29; 553719.2, 3361582.83; 553727.54, 3361583.04; 553732.05, 3361577.21; 553736.88, 3361574.55; 553745.67, 3361572.78; 553748.15, 3361568.88; 553747.11, 3361562.91; 553751.54, 3361560.24; 553759.91, 3361559.26; 553769.89, 3361557.13; 553772.23, 3361559.17; 553775.36, 3361560.83; 553781.32, 3361560.98; 553783.79, 3361557.47; 553787.1, 3361552; 553792.01, 3361546.58; 553794.06, 3361543.85; 553791.39, 3361539.43; 553792.79, 3361531.14; 553798.77, 3361530.09; 553803.03, 3361534.56; 553803.31, 3361539.32; 553808.78, 3361543.03; 553817.89, 3361544.04; 553824.16, 3361547.77; 553832.87, 3361548.77; 553843.23, 3361547.84; 553849.7, 3361543.24; 553852.2, 3361538.55; 553850.3, 3361534.93; 553854.38, 3361530.67; 553863.49, 3361531.69; 553867.58, 3361527.04; 553872.45, 3361522.8; 553876.72, 3361526.86; 553878.92, 3361534.45; 553879.99, 3361539.23; 553889.93, 3361539.08; 553898.64, 3361540.09; 553911.45, 3361536.05; 553919.73, 3361538.63; 553924.88, 3361539.55; 553934.82, 3361539; 553941.23, 3361536.78; 553948.89, 3361532.21; 553951.74, 3361529.51; 553957.69, 3361530.05; 553961.28, 3361529.35; 553963.36, 3361525.83; 553968.98, 3361523.2; 553971.83, 3361520.49; 553976.63, 3361519.02; 553983.07, 3361516.01; 553987.1, 3361513.34; 553989.93, 3361511.42; 553992.39, 3361508.31; 553992.52, 3361503.16; 553998.61, 3361497.76; 554005.35, 3361498.72; 554014.49, 3361498.55; 554020.03, 3361499.48; 554028.85, 3361496.13; 554030.58, 3361490.63; 554034.97, 3361489.54; 554037.09, 3361484.05; 554038.42, 3361478.53; 554043.29, 3361474.69; 554051.6, 3361475.68; 554057.53, 3361477.02; 554064.32, 3361475.6; 554066.2, 3361480.01; 554071.74, 3361480.94; 554078.06, 3361482.28; 554077.93, 3361487.43; 554074.26, 3361491.31; 554073.74, 3361496.45; 554077.65, 3361498.92; 554083.19, 3361499.85; 554087.23, 3361497.18; 554089.14, 3361500; 554087.1, 3361502.33; 554083.84, 3361505.42; 554087.76, 3361507.5; 554093.79, 3361504.87; 554099.77, 3361503.83; 554099.68, 3361507.79; 554097.94, 3361513.7; 554095.46, 3361517.6; 554098.16, 3361520.84; 554103.7, 3361521.77; 554106.78, 3361525.81; 554112.3, 3361527.53; 554116.64, 3361528.43; 554116.91, 3361533.59; 554120.83, 3361536.06; 554129.57, 3361535.88; 554134.45, 3361531.25; 554138.12, 3361527.37; 554144.99, 3361522.79; 554149.48, 3361518.14; 554152.82, 3361511.48; 554157.2, 3361511.19; 554161.91, 3361513.29; 554169.17, 3361509.11; 554171.3, 3361503.22; 554169.86, 3361497.24; 554176.7, 3361493.84; 554186.71, 3361490.52; 554195.01, 3361492.31; 554201.69, 3361495.25; 554211.49, 3361500.64; 554217.75, 3361504.76; 554229.63, 3361506.24; 554245.57, 3361504.26; 554256.74, 3361502.16; 554266.82, 3361496.46; 554271.32, 3361491.02; 554277.01, 3361486.01; 554281.89, 3361481.37; 554282.07, 3361474.24; 554285.73, 3361470.76; 554285.87, 3361465.22; 554284.49, 3361456.86; 554290.86, 3361456.22; 554297.71, 3361452.43; 554305.23, 3361453.41; 554305.11, 3361458.16; 554303.4, 3361463.27; 554298.93, 3361467.12; 554294.08, 3361470.57; 554297.97, 3361473.84; 554306.69, 3361474.85; 554319.41, 3361474.37; 554326.97, 3361473.76; 554333.08, 3361467.97; 554336.8, 3361462.11; 554337.78, 3361454.61; 554336.75, 3361447.84; 554337.28, 3361442.7; 554341.77, 3361437.66; 554347.41, 3361434.63; 554350.95, 3361436.3; 554350.38, 3361443.02; 554355.44, 3361447.51; 554357.67, 3361453.51; 554364.76, 3361456.06; 554373.52, 3361455.09; 554378.77, 3361451.65; 554381.68, 3361446.57; 554389.24, 3361445.97; 554397.11, 3361449.33; 554399.64, 3361443.45; 554398.17, 3361438.26; 554395.13, 3361433.03; 554394.86, 3361427.87; 554399.31, 3361424.41; 554407.71, 3361422.24; 554414.03, 3361423.59; 554416.64, 3361430.79; 554422.15, 3361432.51; 554429.33, 3361431.5; 554432.63, 3361426.42; 554431.59, 3361420.45; 554436.9, 3361414.64; 554445.76, 3361409.7; 554448.06, 3361413.33; 554447.82, 3361422.83; 554448.04, 3361429.98; 554453.19, 3361430.5; 554458.1, 3361425.07; 554462.98, 3361420.43; 554471.75, 3361419.07; 554478.17, 3361416.45; 554483.07, 3361411.42; 554494.66, 3361408.53; 554501.8, 3361409.1; 554501.68, 3361413.86; 554501.18, 3361417.81; 554506.34, 3361417.94; 554510.68, 3361419.23; 554513.33, 3361424.45; 554508.87, 3361428.31; 554502.98, 3361425.39; 554498.31, 3361421.31; 554490.31, 3361423.88; 554483.46, 3361427.68; 554482.86, 3361435.59; 554491.62, 3361435.02; 554500.03, 3361432.45; 554501.88, 3361437.65; 554510.22, 3361437.85; 554517.04, 3361435.25; 554522.62, 3361434.59; 554519.57, 3361429.36; 554519.3, 3361424.2; 554527.27, 3361423.21; 554533.15, 3361426.53; 554542.67, 3361427.16; 554550.24, 3361426.16; 554556.31, 3361421.55; 554563.85, 3361422.13; 554563.91, 3361403.5; 554559.96, 3361386.76; 554521, 3361387.78; 554512.96, 3361391.54; 554504.44, 3361398.47; 554491.63, 3361402.51; 554482.51, 3361401.89; 554475.83, 3361398.95; 554472.39, 3361393.31; 554469.8, 3361385.72; 554470.04, 3361375.81; 554474.17, 3361369.57; 554481.82, 3361365.4; 554500.51, 3361364.67; 554517.24, 3361363.1; 554518.02, 3361299.3; 554455.55, 3361303.31; 554271.98, 3361320.18; 553983.78, 3361342.8; 553712.6, 3361351.96; 553581.37, 3361357.04; 553412.45, 3361360.01; 553272, 3361368.43; 553200.32, 3361374.99; 553038.04, 3361382.48; 552934.28, 3361385.47; 552885.79, 3361386.25; 552832.07, 3361389.69; 552726.03, 3361388.26; 552500.53, 3361413.61.

(7) CBM-Unit 2: Topsail Hill Unit, Walton County, Florida.

(i) General Description: Unit 2 consists of 301 ac (121 ha) in Walton County, Florida. This unit encompasses essential features of beach mouse habitat within the boundary of Topsail Hill Preserve State Park, as well as adjacent private lands from 0.1 mile east of Gulf Pines 0.5 mile west of the inlet of Oyster Lake and the area from the MHWL north to the seaward extent of human development or maritime forest.

(ii) Coordinates: From USGS 1:24,000 quadrangle map Miramar Beach, Florida, land bounded by the following UTM 16 NAD 83 coordinates (E,N): 568237.02, 3359100.24; 565790.59, 3360018.31; 565796.34, 3360020.57; 565803.96, 3360017.2; 565810.66, 3360019.37; 565817.86, 3360017.55; 565818.85, 3360009.64; 565824.39, 3360010.97; 565832.3, 3360012.35; 565838.06, 3360003.81; 565842.44, 3360003.92; 565846.95, 3359998.04; 565849.54, 3360006.03; 565847.76, 3360013.17; 565845.89, 3360024.98; 565839.14, 3360024.82; 565834.08, 3360036.18; 565828.88, 3360037.67; 565826.72, 3360044.73; 565832.24, 3360046.87; 565836.86, 3360052.1; 565836.25, 3360061.2; 565847.92, 3360071.04; 565854.41, 3360065.27; 565860.36, 3360065.79; 565861.85, 3360054.35; 565866.39, 3360047.28; 565872.87, 3360041.95; 565867.78, 3360039.01; 565857.25, 3360047.49; 565852.69, 3360039.01; 565846.27, 3360041.66; 565841.64, 3360051.85; 565839.51, 3360041.87; 565843.74, 3360031.67; 565850.75, 3360021.55; 565857.1, 3360005.85; 565864.71, 3360002.85; 565874.64, 3360003.1; 565885.06, 3359999.8; 565890.85, 3359990.01; 565897.62, 3359989.43; 565906.33, 3359990.83; 565911.61, 3359986.22; 565917.25, 3359983.18; 565929.51, 3359985.42; 565932.65, 3359970.89; 565939.68, 3359975.8; 565947.64, 3359975.19; 565946.99, 3359969.24; 565958.42, 3359973.08; 565963.68, 3359969.22; 565966.15, 3359965.72; 565972.62, 3359961.51; 565975.07, 3359958.45; 565986.16, 3359959.91; 565997.72, 3359958.58; 566005.34, 3359956.02; 566007.5, 3359948.96; 566017.17, 3359943.2; 566010.47, 3359940.66; 566011.06, 3359933.56; 566018.61, 3359932.94; 566022.34, 3359927.1; 566028.95, 3359932.82; 566035.43, 3359927.8; 566041.93, 3359922.4; 566050.5, 3359913.13; 566057.66, 3359916.99; 566066.75, 3359919.21; 566076.94, 3359920.15; 566079.91, 3359912.67; 566077.34, 3359908.73; 566082.12, 3359903.98; 566093.56, 3359906.64; 566104.8, 3359907.04; 566109.7, 3359896.74; 566123.29, 3359893.89; 566127, 3359888.49; 566136.57, 3359886.73; 566144.51, 3359887.3; 566144.72, 3359878.57; 566149.95, 3359875.95; 566158.26, 3359877.72; 566167.75, 3359879.14; 566175.93, 3359869.48; 566182.85, 3359863.28; 566189.77, 3359856.71; 566197.51, 3359864.83; 566203.13, 3359862.6; 566207.27, 3359871.81; 566202.28, 3359880.8; 566202.44, 3359890.36; 566194.67, 3359899.28; 566187.28, 3359908.96; 566177.9, 3359918.66; 566170.19, 3359924.83; 566175.99, 3359931.28; 566177.35, 3359940.87; 566180.43, 3359944.87; 566168.57, 3359958.07; 566155.84, 3359958.56; 566146.23, 3359966.38; 566132.61, 3359966.29; 566134.92, 3359974.02; 566134.3, 3359982.69; 566139.63, 3359976.51; 566146.44, 3359973.5; 566155.63, 3359966.86; 566163.28, 3359963.12; 566166.33, 3359968.31; 566174.38, 3359968.63; 566184.45, 3359962.95; 566191.7, 3359954.27; 566198.5, 3359952.88; 566202.42, 3359939.11; 566203.54, 3359926.03; 566196.03, 3359924.29; 566197.39, 3359917.58; 566205.41, 3359914.59; 566213.31, 3359916.35; 566217.44, 3359910.15; 566223.48, 3359906.74; 566221.65, 3359900.7; 566213.23, 3359903.67; 566213.77, 3359897.76; 566219.94, 3359889.54; 566217.47, 3359876.81; 566218.44, 3359869.72; 566222.63, 3359861.08; 566217.63, 3359854.65; 566220.99, 3359847.18; 566226.64, 3359843.76; 566235.09, 3359839.23; 566238.77, 3359835.32; 566244.93, 3359827.55; 566241.54, 3359819.54; 566245.7, 3359812.09; 566252.78, 3359814.7; 566259.07, 3359817.97; 566266.54, 3359820.53; 566272.44, 3359823.11; 566282.6, 3359819.12; 566283.43, 3359812.65; 566289.47, 3359809.61; 566288.08, 3359801.65; 566289.39, 3359796.94; 566295.22, 3359802.26; 566306.71, 3359802.92; 566318.45, 3359794.47; 566320.98, 3359788.23; 566328.29, 3359782.42; 566331.34, 3359771.01; 566337.46, 3359764.85; 566343.47, 3359762.63; 566348.46, 3359770.25; 566349.01, 3359763.95; 566351.96, 3359757.29; 566348.12, 3359752.01; 566356.53, 3359749.03; 566361.64, 3359751.16; 566373.99, 3359749.9; 566370.09, 3359762.85; 566375.37, 3359774.47; 566383.83, 3359769.56; 566385.94, 3359764.43; 566392.18, 3359769.39; 566397.36, 3359768.71; 566406.23, 3359763.75; 566412.51, 3359766.71; 566411.88, 3359776.19; 566415.73, 3359781.03; 566424.52, 3359778.87; 566426.28, 3359772.17; 566429.53, 3359769.07; 566435.47, 3359770.03; 566433.26, 3359778.72; 566437.88, 3359784.76; 566448.64, 3359783.84; 566454.61, 3359785.8; 566460.46, 3359790.31; 566466.66, 3359796.4; 566474.97, 3359798.16; 566486.94, 3359796.09; 566497.71, 3359794.36; 566504.52, 3359791.41; 566502.26, 3359788.85; 566496.64, 3359788.78; 566498.47, 3359779.71; 566506.57, 3359773.17; 566515.35, 3359771.82; 566523.62, 3359774.4; 566529.03, 3359780.9; 566528.42, 3359789.19; 566535.93, 3359790.94; 566541.34, 3359797.44; 566546.88, 3359797.95; 566555.02, 3359789.85; 566554.89, 3359789.66; 566559.23, 3359784.77; 566565.56, 3359780.62; 566573.5, 3359780.82; 566582.01, 3359773.91; 566587.69, 3359769.31; 566592.86, 3359769; 566598.13, 3359764.63; 566603.5, 3359762.08; 566607.48, 3359756.31; 566613.11, 3359753.64; 566619.58, 3359754.55; 566622.29, 3359752; 566628.95, 3359750.85; 566636.89, 3359751.05; 566640.86, 3359751.15; 566646.11, 3359752.59; 566650.43, 3359754.57; 566656.58, 3359758.15; 566664.45, 3359760.97; 566676.33, 3359762.58; 566685.62, 3359761.5; 566693.26, 3359761.06; 566695.12, 3359752.49; 566708.49, 3359747.52; 566713.94, 3359741.1; 566708.01, 3359739.76; 566704.15, 3359735.3; 566711.04, 3359732.97; 566709.97, 3359728.2; 566709.66, 3359721.14; 566716.62, 3359716.07; 566710.82, 3359709.99; 566706.15, 3359705.88; 566703.12, 3359712.67; 566698.31, 3359714.55; 566696.05, 3359709.32; 566688.33, 3359706.07; 566684.39, 3359704.66; 566681.85, 3359700.6; 566683.73, 3359693.59; 566687.55, 3359686.82; 566687.65, 3359679.64; 566693.7, 3359676.36; 566701.59, 3359678.55; 566706.78, 3359677.12; 566717.48, 3359678.57; 566723.69, 3359687.34; 566726.99, 3359698.47; 566733.31, 3359680.9; 566736.24, 3359675.04; 566731.3, 3359666.18; 566731.52, 3359657.51; 566723.17, 3359657.3; 566716.85, 3359655.96; 566713.4, 3359653.75; 566715.96, 3359644.01; 566720.65, 3359634.14; 566714.32, 3359633.17; 566707.76, 3359637.88; 566701.8, 3359638.1; 566697.89, 3359635.26; 566695.73, 3359629.96; 566700.92, 3359625.41; 566699.79, 3359606.78; 566695.15, 3359602.29; 566690.89, 3359600.5; 566690.63, 3359595.31; 566686.97, 3359598.41; 566686.84, 3359603.52; 566685.5, 3359609.48; 566688.04, 3359616.35; 566685.16, 3359620.09; 566682.39, 3359625.32; 566676.93, 3359631.81; 566676.83, 3359635.74; 566672.08, 3359634.99; 566670.15, 3359638.19; 566667.51, 3359638.13; 566659.57, 3359637.93; 566653.01, 3359634.96; 566647.38, 3359637.57; 566642.32, 3359638.88; 566638.32, 3359640.09; 566626.8, 3359634.68; 566625.05, 3359641.07; 566624.95, 3359645; 566624.82, 3359650.3; 566631.84, 3359655.41; 566636.48, 3359660.71; 566636.25, 3359669.82; 566631.78, 3359674.07; 566623.86, 3359673.07; 566614.96, 3359679.15; 566608.65, 3359677.06; 566606.73, 3359685.56; 566603.88, 3359693.42; 566591.15, 3359694.04; 566582.58, 3359698.14; 566575.89, 3359700.66; 566571.41, 3359705.04; 566558.27, 3359705.9; 566549.89, 3359707.69; 566550.03, 3359717.62; 566549.56, 3359720.79; 566544.6, 3359728.6; 566538.56, 3359731.57; 566536.47, 3359735.89; 566531.53, 3359742.51; 566527.04, 3359746.02; 566526.73, 3359745.57; 566521.14, 3359746.62; 566514.03, 3359745.26; 566506.41, 3359747.82; 566497.83, 3359741.24; 566491.82, 3359743.08; 566486.68, 3359737.34; 566483.38, 3359731.39; 566476.38, 3359726.78; 566468.76, 3359728.28; 566462.13, 3359722.93; 566456.36, 3359717.17; 566445.2, 3359716.96; 566435.08, 3359724.64; 566428.54, 3359731.59; 566422.43, 3359721.95; 566421.38, 3359716.12; 566426.86, 3359713.69; 566438.38, 3359713.23; 566444.44, 3359709.01; 566448.37, 3359700.06; 566453.61, 3359697; 566457.29, 3359692.35; 566463.59, 3359689.95; 566468.83, 3359691.82; 566473.51, 3359695.87; 566477.76, 3359700.35; 566479.64, 3359704.39; 566486.41, 3359704.12; 566493.21, 3359702.35; 566498.84, 3359699.31; 566503.33, 3359694.68; 566506.27, 3359688.38; 566520.68, 3359685.3; 566527.06, 3359686.02; 566545.25, 3359689.66; 566542.94, 3359686.42; 566541.57, 3359678.02; 566537.64, 3359676.36; 566531.97, 3359680.15; 566526.4, 3359677.77; 566513.22, 3359683.31; 566500.87, 3359681.57; 566492.97, 3359680.06; 566487.75, 3359677.31; 566487.61, 3359671.69; 566481.33, 3359668.72; 566474.74, 3359667.75; 566477.49, 3359663.51; 566483.15, 3359659.65; 566491.99, 3359655.13; 566496.28, 3359653.74; 566501.6, 3359652.56; 566506.99, 3359648.69; 566511.1, 3359643.55; 566516.39, 3359643.68; 566524.34, 3359643.88; 566528.11, 3359651.9; 566533.16, 3359661.27; 566537.9, 3359665.69; 566548.64, 3359662.09; 566551.26, 3359655.66; 566559.92, 3359659.06; 566562.96, 3359664.32; 566569.33, 3359660.6; 566572.01, 3359652.24; 566566.17, 3359644.29; 566567.91, 3359637.59; 566570.41, 3359633.29; 566568.91, 3359629.69; 566576.08, 3359628.68; 566587.13, 3359632.14; 566584.15, 3359623.7; 566588.16, 3359622.24; 566593.09, 3359615.99; 566596.76, 3359612.53; 566602.42, 3359607.92; 566608, 3359607.62; 566618.55, 3359598.4; 566622.24, 3359594.12; 566621.27, 3359580.17; 566628.55, 3359580.04; 566635.5, 3359588.14; 566638.53, 3359593.77; 566645.62, 3359596.69; 566646.21, 3359604.64; 566639.81, 3359606.48; 566636.26, 3359608.26; 566637.7, 3359614.6; 566642.42, 3359613.66; 566649.17, 3359613.83; 566658.55, 3359604.13; 566667.78, 3359599.99; 566680.94, 3359597.94; 566687.89, 3359590.19; 566695.95, 3359585.64; 566698.54, 3359593.64; 566700.4, 3359598.43; 566706.83, 3359595.46; 566711.03, 3359586.39; 566719.03, 3359584.22; 566729.86, 3359580.24; 566731.7, 3359586.16; 566735.16, 3359590.99; 566741.44, 3359593.76; 566742.11, 3359598.71; 566747.63, 3359603.47; 566751.2, 3359600.87; 566755.78, 3359603.36; 566758.17, 3359607.79; 566755.67, 3359612.91; 566762.38, 3359614.63; 566768.78, 3359612.86; 566769.68, 3359624.37; 566776.2, 3359634.02; 566785.38, 3359632.25; 566791.21, 3359621.34; 566798.09, 3359616.7; 566798.09, 3359600.1; 566808.53, 3359596.36; 566808.81, 3359600.68; 566806.58, 3359613.67; 566808.43, 3359619.27; 566814.99, 3359607.63; 566822.53, 3359592.34; 566832.09, 3359594.07; 566838.75, 3359595.11; 566845.02, 3359601.14; 566851.32, 3359604.04; 566858.26, 3359596.72; 566850.89, 3359589.36; 566856.96, 3359581.71; 566866.92, 3359583.83; 566871.58, 3359579.76; 566878.41, 3359581.86; 566876.19, 3359591.3; 566881.79, 3359589.44; 566892.86, 3359591.71; 566898.51, 3359588.29; 566905.5, 3359578.98; 566908.58, 3359582.61; 566911.27, 3359586.61; 566916.76, 3359589.12; 566922.14, 3359580.95; 566923.84, 3359595.54; 566927.67, 3359601.56; 566939.11, 3359601.22; 566943.33, 3359594.46; 566942.16, 3359577.76; 566945.13, 3359569.91; 566950.16, 3359561.92; 566960.68, 3359564.8; 566966.04, 3359572.92; 566959.75, 3359589.68; 566965.24, 3359588.76; 566973.74, 3359583.04; 566974.08, 3359572.62; 566984.4, 3359569.38; 566988.15, 3359562.73; 566992.21, 3359559.28; 567001.94, 3359556.58; 567009.84, 3359552.97; 567013.14, 3359547.93; 567017.66, 3359542.11; 567023.62, 3359537.33; 567030.54, 3359535.69; 567040.91, 3359533.76; 567048.88, 3359532.65; 567058.22, 3359530.26; 567067.51, 3359534.61; 567072.06, 3359527.17; 567070.39, 3359519.95; 567077.43, 3359519; 567083.43, 3359517.15; 567089.12, 3359512.48; 567101.64, 3359520.41; 567105.07, 3359510.13; 567099.68, 3359503.32; 567091.97, 3359504.63; 567086.87, 3359496.57; 567089.29, 3359489.58; 567088.41, 3359476.82; 567091.79, 3359468.98; 567093.09, 3359459.77; 567097.22, 3359453.25; 567101.39, 3359445.43; 567110.68, 3359444.35; 567104.55, 3359451.06; 567106.66, 3359462.6; 567115.29, 3359466.44; 567121.66, 3359466.16; 567129.91, 3359469.55; 567125.86, 3359473; 567120.59, 3359477.24; 567114.2, 3359478.65; 567103.44, 3359480; 567100.91, 3359485.5; 567108.05, 3359497.1; 567116.84, 3359500.12; 567115.39, 3359510.83; 567109, 3359511.67; 567108.87, 3359516.97; 567107.43, 3359522.18; 567101.93, 3359529.97; 567096.53, 3359533.83; 567092.46, 3359537.66; 567084.32, 3359545.39; 567077.55, 3359551.84; 567072.48, 3359558.14; 567070.76, 3359563.59; 567069.02, 3359569.54; 567066.34, 3359576.66; 567065.06, 3359588.36; 567071.52, 3359580.78; 567072.85, 3359580.81; 567078.15, 3359580.95; 567081.99, 3359586.35; 567083.65, 3359591.2; 567094.34, 3359593.02; 567093.28, 3359603.73; 567097.95, 3359607.41; 567103.62, 3359603.55; 567111.89, 3359606.13; 567118.35, 3359602.36; 567123.83, 3359605.24; 567136.11, 3359604.11; 567132.95, 3359614.02; 567130.16, 3359619.25; 567129.93, 3359628.49; 567126.31, 3359633.45; 567121.7, 3359640.15; 567114.99, 3359643.97; 567109.69, 3359643.84; 567106.12, 3359646.44; 567109.02, 3359654.94; 567106.65, 3359659.62; 567101.22, 3359664.73; 567097.77, 3359675.7; 567092.53, 3359679.13; 567081.45, 3359676.85; 567077.27, 3359669.45; 567074.69, 3359666.76; 567077.54, 3359661.59; 567070.98, 3359656.06; 567065.75, 3359653.3; 567061.68, 3359657.2; 567068.18, 3359667.41; 567062.91, 3359671.65; 567055.04, 3359668.71; 567049.31, 3359675.37; 567052.26, 3359684.5; 567051.41, 3359689.47; 567055.71, 3359692.76; 567062.54, 3359689.74; 567075.36, 3359684.94; 567083.29, 3359685.89; 567089.18, 3359688.47; 567093.41, 3359691.45; 567104.25, 3359690.03; 567114.1, 3359693.4; 567127.94, 3359696.17; 567145.64, 3359703.29; 567153.89, 3359706.68; 567160.26, 3359703.4; 567167.58, 3359696.47; 567158.87, 3359695.07; 567149.41, 3359692.02; 567151.91, 3359687.71; 567160.59, 3359690.3; 567160.42, 3359680.81; 567155.48, 3359671.95; 567148.54, 3359679.14; 567128.18, 3359683.19; 567123.3, 3359671.96; 567125.08, 3359664.01; 567119.85, 3359650.84; 567129.96, 3359643.97; 567137.95, 3359642.17; 567146.73, 3359640.02; 567156.29, 3359639.07; 567161.61, 3359632.89; 567169.89, 3359635.85; 567170.34, 3359648.97; 567170.21, 3359654.52; 567164.91, 3359659.76; 567160.71, 3359668.89; 567164.62, 3359671.61; 567168.59, 3359671.71; 567176.6, 3359669.29; 567180.7, 3359664.08; 567188.67, 3359662.97; 567196.58, 3359664.66; 567204.55, 3359663.67; 567212.47, 3359664.68; 567208.16, 3359678; 567209.29, 3359685.95; 567215.84, 3359688.74; 567221.24, 3359684.94; 567226.61, 3359682.39; 567241.7, 3359671.71; 567253.6, 3359661.96; 567262.83, 3359663.5; 567266.11, 3359664.39; 567268.08, 3359665.25; 567272.76, 3359668.92; 567281.23, 3359669.2; 567282.11, 3359676.27; 567278.12, 3359687.66; 567283.44, 3359686.48; 567291.42, 3359685.3; 567298.29, 3359680.67; 567307.44, 3359680.08; 567311.32, 3359683.74; 567320.47, 3359688.77; 567327.58, 3359690.13; 567325.57, 3359696.76; 567326.77, 3359706.41; 567331.89, 3359708.78; 567340.31, 3359719.23; 567344.35, 3359718.7; 567343.28, 3359730.23; 567335.2, 3359735.33; 567341.69, 3359740.74; 567337.45, 3359751.25; 567342.76, 3359750.82; 567350.47, 3359744.26; 567357.45, 3359750.74; 567363.86, 3359749.34; 567361.51, 3359742.54; 567364.43, 3359732.06; 567364.76, 3359718.84; 567370.55, 3359703.5; 567375.13, 3359695.31; 567385.73, 3359700.69; 567385, 3359711.66; 567380.93, 3359715.49; 567384, 3359719.94; 567393.82, 3359710.44; 567396.98, 3359701.16; 567397.46, 3359691.87; 567404.08, 3359681.54; 567409.53, 3359684.11; 567416.93, 3359689.41; 567420.35, 3359696.24; 567424.94, 3359695.23; 567430.29, 3359692.74; 567436.19, 3359698.26; 567445.34, 3359697.67; 567451.27, 3359701.19; 567460.57, 3359700.11; 567462.02, 3359694.84; 567466.12, 3359689.64; 567472.81, 3359687.18; 567480.82, 3359684.76; 567483.56, 3359680.83; 567488.04, 3359676.32; 567484.67, 3359667.87; 567476.11, 3359660.85; 567476.24, 3359655.55; 567481.06, 3359653.11; 567483.2, 3359646.86; 567483.21, 3359646.67; 567488.35, 3359647.92; 567492.26, 3359650.64; 567498.67, 3359658.73; 567504.24, 3359648.32; 567505.56, 3359648.35; 567510.72, 3359653.78; 567513.24, 3359659.09; 567513.01, 3359668.39; 567515.48, 3359669.13; 567519.47, 3359668.42; 567521.78, 3359671.66; 567528.93, 3359667.41; 567536.87, 3359667.6; 567540.81, 3359669.08; 567547.18, 3359672.73; 567553.97, 3359672.02; 567557.9, 3359673.43; 567562.18, 3359676.22; 567564.55, 3359677.09; 567569.72, 3359677.72; 567572.81, 3359680.48; 567579.04, 3359685.76; 567581.3, 3359691.18; 567587.86, 3359694.03; 567594.34, 3359699.43; 567599.81, 3359692.95; 567592.45, 3359689.27; 567582.81, 3359677.55; 567581.89, 3359667.41; 567581.31, 3359661.78; 567576.76, 3359652.99; 567574.61, 3359640.82; 567577.55, 3359637.52; 567580.84, 3359632.86; 567586.14, 3359627.44; 567590.92, 3359624.06; 567596.95, 3359620.4; 567602.95, 3359618.99; 567607.32, 3359618.72; 567612.26, 3359617.97; 567616.93, 3359615.78; 567624.9, 3359614.79; 567631.46, 3359606.59; 567629.97, 3359598.56; 567635.74, 3359594.02; 567636.88, 3359586.87; 567642.27, 3359583.01; 567650.31, 3359579.27; 567655.63, 3359578.09; 567655.38, 3359577.96; 567658.23, 3359576.78; 567657.73, 3359565.28; 567661.36, 3359561.07; 567667.97, 3359561.23; 567675.94, 3359567.73; 567685.97, 3359563.61; 567685.28, 3359557.66; 567678.65, 3359554.32; 567671.4, 3359542.65; 567679.42, 3359539.67; 567685.12, 3359533.88; 567692.22, 3359544.6; 567696.26, 3359542.08; 567701.65, 3359538.28; 567705.69, 3359535.7; 567715.09, 3359530.69; 567722.15, 3359531.24; 567727.13, 3359525.68; 567726, 3359517.72; 567735.6, 3359517.27; 567738.91, 3359511.8; 567747.41, 3359509.01; 567755.35, 3359509.21; 567763.3, 3359505.29; 567767.46, 3359501.58; 567768.84, 3359498.93; 567774.24, 3359495.13; 567778.28, 3359492.61; 567779.7, 3359488.65; 567779.72, 3359484.34; 567785.47, 3359476.87; 567792.63, 3359476.3; 567796.86, 3359482.71; 567802.28, 3359488.02; 567807.5, 3359489.34; 567811.63, 3359482.83; 567814.54, 3359474.03; 567820.17, 3359471.8; 567823.87, 3359469.96; 567827.94, 3359466.06; 567834.62, 3359463.61; 567837.68, 3359454.38; 567838.25, 3359447.28; 567845.47, 3359445.08; 567855.49, 3359441.34; 567865.49, 3359450.01; 567868.34, 3359447.34; 567871.6, 3359444.23; 567878.11, 3359439.09; 567893.5, 3359427.17; 567901.18, 3359405.57; 567915.33, 3359404.49; 567921.74, 3359403.65; 567924.78, 3359406.35; 567928.72, 3359407.76; 567937.94, 3359409.36; 567943.27, 3359408.12; 567949.13, 3359403.95; 567956.36, 3359400.95; 567963.23, 3359396.38; 567974.51, 3359406.14; 567981.54, 3359411.06; 567988.22, 3359414.04; 567996.06, 3359416.04; 568006.87, 3359407.07; 568013.73, 3359398; 568021.83, 3359391.59; 568026.34, 3359382.46; 568032.78, 3359379.81; 568042.37, 3359376.93; 568050.04, 3359372.31; 568057.29, 3359368.55; 568064.19, 3359362.8; 568069.51, 3359356.19; 568074.71, 3359354.69; 568076.43, 3359349.61; 568080.93, 3359344.17; 568076.61, 3359326.65; 568078.36, 3359319.95; 568084.88, 3359313.74; 568091.2, 3359315.08; 568091.58, 3359321.65; 568100.92, 3359323.63; 568103.5, 3359315.39; 568110, 3359309.99; 568117.65, 3359305.44; 568122.25, 3359296.81; 568136.01, 3359302.71; 568145.15, 3359302.56; 568150.81, 3359319.93; 568154.05, 3359328.13; 568162.3, 3359331.52; 568167.18, 3359327.27; 568173.23, 3359329.23; 568177.96, 3359325.16; 568180.88, 3359319.3; 568179.09, 3359311.33; 568184.05, 3359303.9; 568195.39, 3359311.3; 568202.99, 3359308.74; 568209.09, 3359303.34; 568219.26, 3359293.66; 568226.04, 3359292.64; 568232.53, 3359287.69; 568242.07, 3359287.11; 568249.36, 3359282.11; 568258.78, 3359270.86; 568276.45, 3359271.05; 568277.81, 3359269.77; 568280.52, 3359267.21; 568284.55, 3359264.63; 568291.21, 3359263.48; 568298.57, 3359252.05; 568310.99, 3359247.99; 568322.39, 3359230.86; 568333.04, 3359234.06; 568341.36, 3359234.51; 568349.3, 3359246.76; 568359.25, 3359246.19; 568368.2, 3359241.54; 568373.32, 3359235.05; 568379.54, 3359233.46; 568380.81, 3359225.75; 568391.01, 3359219.51; 568392.87, 3359211.88; 568397.55, 3359211.75; 568401.93, 3359211.85; 568404.35, 3359209.92; 568406.44, 3359206.47; 568411.67, 3359203.36; 568412.19, 3359198.12; 568422.24, 3359194.13; 568427.5, 3359189.89; 568435.26, 3359180.97; 568442.88, 3359178.35; 568458.46, 3359170.99; 568448.78, 3359156.46; 568450.69, 3359152.01; 568456.44, 3359144.6; 568463.3, 3359145.02; 568471.81, 3359145.54; 568479.71, 3359152.48; 568489.24, 3359150.41; 568498.85, 3359145.9; 568509.62, 3359146.73; 568517.29, 3359142.17; 568526.09, 3359139.58; 568530, 3359132.44; 568542.02, 3359125.68; 568549.31, 3359118.75; 568555.07, 3359120.26; 568556.25, 3359126.03; 568566.21, 3359123.97; 568572.25, 3359120.94; 568575.49, 3359114.65; 568580.41, 3359107.72; 568589.39, 3359102.7; 568599.61, 3359091.09; 568607.18, 3359079.98; 568616.89, 3359070.73; 568626.72, 3359071.16; 568620.17, 3359078.93; 568616.78, 3359083.34; 568618.68, 3359086.94; 568627.8, 3359087.98; 568639.23, 3359079.4; 568645.36, 3359072.37; 568649.46, 3359067.35; 568658.49, 3359067.7; 568664.81, 3359069.05; 568672.36, 3359073.04; 568685.79, 3359065.32; 568703.74, 3359070.01; 568720.2, 3359066.3; 568729.3, 3359068.52; 568741.18, 3359065.82; 568751.32, 3359061.58; 568766.47, 3359062.64; 568775.62, 3359059; 568774.76, 3359045.86; 568777.29, 3359035.75; 568784.7, 3359029.07; 568788.54, 3359034.35; 568796.44, 3359036.48; 568806.4, 3359035.16; 568809.9, 3359038.43; 568804.9, 3359047.8; 568810.21, 3359058.23; 568816.45, 3359062.38; 568820.42, 3359062.48; 568819.17, 3359080.68; 568827.5, 3359093.68; 568833.58, 3359092.52; 568840.13, 3359085.13; 568846.51, 3359085.91; 568865.47, 3359086.38; 568875.01, 3359084.25; 568887.07, 3359082.74; 568895.87, 3359080.58; 568899, 3359072.98; 568913.55, 3359074.15; 568912.83, 3359081.13; 568919.17, 3359082.1; 568932, 3359081.48; 568937.68, 3359076.87; 568945.62, 3359077.07; 568948.03, 3359075.57; 568949.75, 3359070.81; 568954.98, 3359068.19; 568958.61, 3359065.47; 568962.49, 3359069.19; 568970.28, 3359079.18; 568973.6, 3359079.76; 568982.97, 3359076.44; 568994.88, 3359073.24; 569003.68, 3359071.08; 569013.6, 3359071.33; 569024.45, 3359066.48; 569036.83, 3359063.6; 569045.98, 3359064.39; 569061.09, 3359068.32; 569067.18, 3359075.53; 569073.2, 3359085.79; 569080.44, 3359083.72; 569091.15, 3359084.74; 569098.46, 3359094.03; 569104.56, 3359088.25; 569113.73, 3359103.15; 569122.34, 3359108.55; 569130.23, 3359110.68; 569134.04, 3359101.28; 569143.68, 3359097.15; 569149.11, 3359090.05; 569160.85, 3359093.65; 569167.43, 3359078.76; 569173.94, 3359078.49; 569175.05, 3359065.84; 569165.82, 3359069.17; 569162.86, 3359060.73; 569161.87, 3359052.41; 569166.87, 3359043.42; 569172.3, 3359032.44; 569178.14, 3359037.33; 569183.75, 3359035.91; 569185.69, 3359021.28; 569192.06, 3359021.07; 569200.85, 3359018.48; 569204.76, 3359005.53; 569213.14, 3359003.74; 569222.34, 3359001.59; 569228, 3358997.36; 569237.65, 3358993.23; 569238.59, 3358986.57; 569247.74, 3358985.99; 569255.56, 3358975.51; 569268.78, 3358971.03; 569281.88, 3358971.35; 569292.19, 3358972.42; 569304.36, 3358978.28; 569317.98, 3358989.73; 569327.97, 3359003.84; 569332.55, 3359011.44; 569337.71, 3358995.71; 569349.88, 3358985.71; 569355.93, 3358981.93; 569347.6, 3358965.43; 569344.29, 3358954.24; 569345.86, 3358939.23; 569357.11, 3358934.39; 569371.89, 3358930.76; 569379.31, 3358920.65; 569374.06, 3358907.84; 569373.03, 3358885.22; 569379.64, 3358890.94; 569403.04, 3358892.7; 569412.17, 3358892.93; 569420.09, 3358894.31; 569434.8, 3358893.87; 569439.47, 3358887.68; 569457.89, 3358891.69; 569467.91, 3358888.38; 569478.65, 3358887.46; 569490.77, 3358879.46; 569498.23, 3358867.35; 569514.46, 3358853.89; 569518.14, 3358849.99; 569516.31, 3358842.83; 569520.92, 3358833.76; 569530.46, 3358834; 569537.11, 3358837.35; 569535.18, 3358851.6; 569540.96, 3358858.86; 569550.19, 3358855.09; 569558.23, 3358851.36; 569570.64, 3358847.29; 569576.51, 3358835.14; 569585.66, 3358834.62; 569588.74, 3358838.25; 569598.21, 3358825.38; 569603.33, 3358842.99; 569607.06, 3358852.57; 569616.34, 3358846.87; 569625.86, 3358847.85; 569630.28, 3358842.72; 569628.21, 3358833.24; 569643.31, 3358832.87; 569653.06, 3358824.37; 569659.58, 3358817.79; 569665.63, 3358814; 569672.7, 3358817.36; 569677.6, 3358812.8; 569685.08, 3358805.56; 569694.25, 3358804.23; 569700.79, 3358796.46; 569710.28, 3358791.7; 569719.53, 3358787.19; 569724.94, 3358777.83; 569731.28, 3358768.62; 569740.4, 3358770.1; 569749.66, 3358780.63; 569759.59, 3358773.95; 569760.91, 3358769.17; 569766.94, 3358766.57; 569771.79, 3358769.63; 569780.51, 3358770.28; 569789.67, 3358769.32; 569781.73, 3358757.39; 569770.69, 3358750.19; 569764.62, 3358747.91; 569762.79, 3358741.5; 569761.01, 3358733.15; 569767.39, 3358732.13; 569776.89, 3358733.55; 569786.07, 3358731.78; 569795.31, 3358727.64; 569805.85, 3358727.65; 569802.99, 3358738.5; 569806.11, 3358747.51; 569815.67, 3358746.56; 569818.72, 3358751.82; 569823.09, 3358751.49; 569835.19, 3358744.3; 569845.79, 3358733.82; 569854.61, 3358714.25; 569869.71, 3358708.07; 569883.1, 3358696.54; 569894.67, 3358701.32; 569900.54, 3358704.65; 569904.22, 3358716.67; 569912.36, 3358725.17; 569921.33, 3358731.76; 569941.21, 3358731.07; 569952.98, 3358730.36; 569971.91, 3358720.16; 569989.89, 3358715.8; 570005.43, 3358711.31; 570014.92, 3358711.55; 570029.91, 3358704.49; 570046.68, 3358701.35; 570056.73, 3358702.6; 570060.75, 3358717.37; 570062.95, 3358724.16; 570056.3, 3358736.3; 570055.27, 3358745.76; 570052.43, 3358757.43; 570047.12, 3358763.22; 570040.19, 3358771.98; 570025.65, 3358779.36; 570014.22, 3358778.08; 570002.05, 3358786.27; 569991.23, 3358791.8; 569985.56, 3358795.66; 569982.86, 3358806.83; 569976.5, 3358807.04; 569966.39, 3358815.35; 569967.67, 3358828.11; 569972.31, 3358833.35; 569977.35, 3358838.22; 569979.41, 3358849.94; 569980.31, 3358863.26; 569988.15, 3358867.45; 569992.72, 3358875.12; 569999.76, 3358880.04; 570002.18, 3358893.96; 570009.05, 3358889.38; 570014.73, 3358885.15; 570022.97, 3358888.92; 570026.33, 3358897.74; 570024.44, 3358907.74; 570027.86, 3358916.38; 570035.25, 3358922.12; 570046.29, 3358925.95; 570055.89, 3358923.07; 570059.68, 3358930.28; 570056.12, 3358946.05; 570053.39, 3358960.21; 570054.14, 3358963.23; 570141.94, 3358960.73; 570165.76, 3358960.01; 570201.75, 3358958.96; 570214.42, 3358955.1; 570225.12, 3358940.32; 570216.28, 3358928.23; 570206.38, 3358927.18; 570194.24, 3358888.05; 570182, 3358852.41; 570158.21, 3358802.69; 570163.02, 3358785.76; 570172.41, 3358770.14; 570181.66, 3358765.63; 570199.91, 3358766.52; 570207.46, 3358750.85; 570208.09, 3358725.89; 570220.86, 3358707.17; 570221.95, 3358679.04; 570220.12, 3358659.83; 570221.16, 3358646.87; 570227.53, 3358631.73; 570250.76, 3358607.59; 570269.11, 3358604.48; 570276.22, 3358590.36; 570291, 3358587.17; 570300.39, 3358583.35; 570300.19, 3358576.23; 570306.07, 3358565.57; 570314.25, 3358553.79; 570337.83, 3358540.89; 570360.75, 3358539.21; 570372.73, 3358539.88; 570377.74, 3358534.76; 570389.42, 3358532.43; 570390.36, 3358539.95; 570400.52, 3358538.33; 570402.03, 3358547.54; 570418.71, 3358547.95; 570431.4, 3358548.83; 570448.32, 3358532.39; 570464.51, 3358529.8; 570484.36, 3358522.11; 570508.06, 3358522.7; 570523.65, 3358530.33; 570533.78, 3358537.51; 570547.24, 3358540.4; 570550.02, 3358552.09; 570563.87, 3358566.66; 570575.43, 3358578.75; 570572.14, 3358593.4; 570586.86, 3358595.57; 570589.95, 3358611.63; 570598.39, 3358623.77; 570606.41, 3358637.45; 570620.29, 3358638.54; 570622.88, 3358629.93; 570611.7, 3358615.79; 570613.84, 3358609.85; 570622.89, 3358597.41; 570632.97, 3358591.29; 570642.98, 3358588.41; 570647.28, 3358575.41; 570645.22, 3358562.69; 570666.18, 3358550.53; 570683.03, 3358550.95; 570707.07, 3358551.92; 570714.69, 3358548.55; 570720.86, 3358546.9; 570723.46, 3358537.47; 570728.64, 3358531.05; 570735.6, 3358525.98; 570742.3, 3358520.96; 570752.86, 3358518.97; 570758.93, 3358511.2; 570761.24, 3358498.27; 570777.25, 3358503.54; 570788.54, 3358501.94; 570798.49, 3358493.58; 570803.23, 3358484.33; 570802.02, 3358472.69; 570800.39, 3358462.53; 570805.78, 3358457.05; 570819.94, 3358455.9; 570817.35, 3358451.02; 570816.26, 3358447.57; 570816.27, 3358444.28; 570817.38, 3358440.25; 570819.28, 3358437.45; 570822.09, 3358435.08; 570822.05, 3358430.46; 570816.02, 3358422.78; 570816.99, 3358400.86; 570821.78, 3358399.62; 570821.51, 3358367.23; 570808.96, 3358371.1; 570752.55, 3358386.75; 570713.25, 3358399.5; 570698.53, 3358399.51; 570682.03, 3358408.22; 570657.99, 3358416.3; 570643.11, 3358423.48; 570605.59, 3358430.86; 570563.46, 3358447.29; 570493.08, 3358465.33; 570450.71, 3358475.77; 570387.62, 3358488.13; 570341.7, 3358497.29; 570304.13, 3358506.66; 570273.73, 3358514.2; 570233.75, 3358524.32; 570180.16, 3358538.85; 570083.36, 3358561.8; 570019.79, 3358580.45; 569981.14, 3358590.1; 569931.31, 3358608.03; 569870.54, 3358627.37; 569792.61, 3358653.84; 569722.34, 3358674.2; 569642.36, 3358695.69; 569572.77, 3358713.75; 569497.38, 3358730.73; 569436.94, 3358747.59; 569394.24, 3358760.01; 569347.88, 3358774.22; 569302.09, 3358785.38; 569250.3, 3358801.7; 569196.4, 3358811.98; 569128.99, 3358829.35; 569061.75, 3358838.67; 569020.65, 3358852.13; 568976.01, 3358866.63; 568926.65, 3358881.45; 568841.81, 3358904.38; 568816.95, 3358911.19; 568788.94, 3358918.3; 568759.41, 3358923.81; 568662.35, 3358944.88; 568594.23, 3358963.17; 568494.12, 3358984.91; 568449.11, 3358998.65; 568375.33, 3359015.48; 568340.59, 3359028.42; 568300.76, 3359038.36; 568288.55, 3359040.43; 568264.53, 3359045.32; 568245.99, 3359049.92; 568221.28, 3359055.36; 568189.6, 3359063.75; 568131.92, 3359074.75; 568076.31, 3359090.04; 568009.05, 3359110.53; 567868.23, 3359153.24; 567809.17, 3359170.5; 567772.62, 3359178.02; 567722.56, 3359186.46; 567704.35, 3359186.94; 567651.09, 3359200.29; 567612.66, 3359207.21; 567574.4, 3359222.36; 567529.41, 3359236.23; 567413.69, 3359263.39; 567376.61, 3359268.78; 567303.4, 3359285.25; 567285.49, 3359287.31; 567247.6, 3359295.36; 567207.25, 3359304.66; 567178.84, 3359307.45; 567144.88, 3359314.91; 567124.1, 3359320.33; 567116.86, 3359323.33; 567077.96, 3359337.85; 567039.54, 3359349.19; 567008.77, 3359356.36; 566954.05, 3359367.68; 566901.73, 3359377.87; 566869.14, 3359379.43; 566804.88, 3359395.63; 566731.05, 3359408.41; 566659.48, 3359420.49; 566599.85, 3359435.12; 566533.59, 3359452.33; 566508.37, 3359458.26; 566474.02, 3359464.9; 566429.64, 3359472.29; 566385.93, 3359489.31; 566317.41, 3359506.53; 566252.75, 3359518.41; 566147.85, 3359547.84; 566031.36, 3359570.36; 565888.43, 3359598.53; 565780.65, 3359618.9; 565652.01, 3359643.8; 565651.96, 3359831.9; 565685.98, 3359831.99; 565680.2, 3359820.48; 565689.37, 3359818.78; 565685.29, 3359804.94; 565687.47, 3359797.07; 565695.58, 3359790.53; 565704.67, 3359792.37; 565699.72, 3359799.81; 565700.65, 3359810.13; 565706.96, 3359812.22; 565710.35, 3359803.63; 565718.65, 3359805.02; 565732.53, 3359806.11; 565733.15, 3359797.45; 565729.36, 3359790.18; 565735.2, 3359778.83; 565743.57, 3359777.86; 565753.55, 3359776.11; 565760.2, 3359779.89; 565762.8, 3359787.07; 565763.01, 3359795.01; 565782.95, 3359791.94; 565790.71, 3359783.39; 565795.06, 3359784.31; 565798.93, 3359788.34; 565803.29, 3359788.89; 565805.64, 3359774.27; 565817.65, 3359770.58; 565821.86, 3359776.61; 565821.89, 3359791.72; 565823.78, 3359795.7; 565831.82, 3359791.97; 565835.19, 3359799.98; 565827.81, 3359809.28; 565825.68, 3359823.03; 565818.6, 3359827.72; 565815.23, 3359835.57; 565811.05, 3359844.14; 565800.72, 3359844.32; 565806.58, 3359831.73; 565806.39, 3359823.8; 565800.39, 3359825.65; 565791.31, 3359832.23; 565790.73, 3359965; 565794.1, 3359966.64; 565800.08, 3359965.6; 565802.65, 3359958.49; 565795.62, 3359953.19; 565794.59, 3359946.8; 565799.11, 3359940.98; 565810.46, 3359931.77; 565816.56, 3359926.37; 565813.11, 3359921.1; 565808.73, 3359921.43; 565804.92, 3359914.97; 565801.72, 3359916.08; 565799.16, 3359906.9; 565799, 3359896.97; 565804.72, 3359890.8; 565811.94, 3359888.17; 565825.15, 3359884.13; 565832.42, 3359879.57; 565834.64, 3359870.51; 565830.58, 3359857.36; 565833.57, 3359849.07; 565825.09, 3359838.56; 565828.98, 3359826.36; 565830.17, 3359821.83; 565836.65, 3359805.13; 565854.19, 3359803.2; 565851.86, 3359817; 565841.55, 3359820.05; 565848.97, 3359825.79; 565855.66, 3359823.83; 565862.79, 3359824.45; 565865.29, 3359819.76; 565871.03, 3359812.73; 565870.42, 3359805.22; 565862.06, 3359806.2; 565863.51, 3359795.5; 565869.25, 3359788.15; 565880.41, 3359787.18; 565887.77, 3359794.54; 565890.52, 3359800.29; 565902.17, 3359795.39; 565901.83, 3359788.15; 565897.88, 3359791.73; 565892.34, 3359791.16; 565893.18, 3359784.37; 565896.94, 3359777.29; 565908.13, 3359778.87; 565913.37, 3359787.62; 565918.51, 3359788.56; 565924.92, 3359791.21; 565926.84, 3359805.43; 565928.47, 3359808.34; 565933.65, 3359807.66; 565941.68, 3359799.81; 565947.97, 3359802.34; 565953.65, 3359813.59; 565947.29, 3359818.3; 565949.58, 3359821.92; 565959.37, 3359827.34; 565967.36, 3359821.48; 565970.73, 3359813.64; 565968.65, 3359801.66; 565973.88, 3359798.67; 565982.85, 3359789.72; 566001.47, 3359791.8; 566006.85, 3359783.19; 566001.29, 3359782.68; 565994.99, 3359780.9; 565992.5, 3359784.84; 565984.16, 3359784.63; 565978.7, 3359780.5; 565971.9, 3359766.47; 565971.27, 3359743.86; 565979.31, 3359740.12; 565976.79, 3359733.82; 565983.11, 3359731.48; 565991.75, 3359734.87; 565987.17, 3359747.93; 565978.22, 3359756.45; 565989.89, 3359750.81; 565996.64, 3359750.98; 566002.19, 3359746.62; 566009.6, 3359736.13; 566017.53, 3359736.7; 566020.58, 3359742.33; 566022.98, 3359741.58; 566033.09, 3359734.28; 566038.76, 3359730.11; 566038.45, 3359710.62; 566049.91, 3359712.91; 566053.39, 3359701.13; 566059.27, 3359704.4; 566067.41, 3359712.15; 566076.89, 3359714.76; 566079.86, 3359706.53; 566085.53, 3359702.68; 566093.37, 3359706.87; 566100.6, 3359703.49; 566090.16, 3359692.49; 566109.25, 3359691.78; 566116.24, 3359697.88; 566134.76, 3359704.33; 566149.43, 3359703.76; 566160.29, 3359699.78; 566177.36, 3359700.64; 566185.82, 3359696.05; 566191.34, 3359697.81; 566194.22, 3359693.51; 566201.28, 3359702.11; 566223.45, 3359700.54; 566232.35, 3359694.08; 566233.75, 3359701.23; 566227.98, 3359710.2; 566227, 3359717.29; 566237.33, 3359717.18; 566248.03, 3359718.63; 566248.59, 3359728.13; 566257.83, 3359723.61; 566260.76, 3359733.61; 566263.87, 3359736.87; 566271.06, 3359735.05; 566278.21, 3359735.23; 566281.65, 3359724.58; 566287.68, 3359721.61; 566292.96, 3359716.93; 566298.59, 3359714.32; 566297.66, 3359704; 566302.56, 3359698.94; 566312.4, 3359702.74; 566310.51, 3359714.24; 566308.43, 3359718.13; 566303.01, 3359728.73; 566299.97, 3359738.95; 566295.81, 3359746.34; 566290.2, 3359747.83; 566286.49, 3359753.67; 566282.39, 3359758.75; 566276.79, 3359760.17; 566274.93, 3359754.94; 566268.58, 3359755.22; 566266.8, 3359762.29; 566264.26, 3359768.97; 566258.87, 3359761.72; 566253.21, 3359766.32; 566244, 3359768.47; 566238.34, 3359772.7; 566234.55, 3359765.49; 566228.78, 3359773.65; 566229.23, 3359787.52; 566225.1, 3359793.78; 566218.15, 3359801.54; 566214.41, 3359808.56; 566197, 3359805.39; 566186.29, 3359804.68; 566176.42, 3359802.07; 566169.84, 3359795.16; 566172.13, 3359782.92; 566167.53, 3359776.5; 566161.53, 3359778.29; 566159.8, 3359783.8; 566161.88, 3359795.4; 566163.33, 3359801.37; 566177.4, 3359810.39; 566192.44, 3359813.2; 566201.15, 3359814.17; 566201.74, 3359822.55; 566200.26, 3359834; 566191.16, 3359832.96; 566183.8, 3359841.08; 566176.58, 3359843.71; 566166.59, 3359845.83; 566151.13, 3359844.64; 566146.26, 3359848.89; 566143.26, 3359857.55; 566135.93, 3359849.07; 566124.37, 3359850.34; 566114.08, 3359848.9; 566115.45, 3359841.82; 566104.26, 3359844.66; 566097.94, 3359842.57; 566093.44, 3359848.02; 566080.02, 3359859.92; 566077.12, 3359865.4; 566070.81, 3359862.88; 566063.14, 3359868.24; 566055.56, 3359869.24; 566047.69, 3359866.3; 566042.14, 3359865.35; 566031.51, 3359866.4; 566035.65, 3359871.12; 566023.28, 3359889.04; 566016.16, 3359888.12; 566000.73, 3359885.36; 565992.06, 3359887.21; 565988.49, 3359898.1; 565982.89, 3359904.4; 565979.53, 3359923.23; 565971.58, 3359923.47; 565966.38, 3359924.9; 565961.82, 3359931.97; 565950.74, 3359930.44; 565939.52, 3359934.54; 565930.02, 3359932.74; 565925.2, 3359934.62; 565917.61, 3359936.8; 565919.03, 3359943.14; 565910.76, 3359940.56; 565901.95, 3359943.16; 565897.83, 3359948.98; 565893.15, 3359945.31; 565895.07, 3359932.25; 565892.5, 3359923.88; 565885.12, 3359933.19; 565878.54, 3359942.14; 565873.4, 3359940.83; 565868.6, 3359942.7; 565863.51, 3359939.02; 565861.17, 3359937.4; 565854.17, 3359936.1; 565848.77, 3359941.03; 565849.34, 3359949.78; 565841.97, 3359958.71; 565836.31, 3359962.94; 565831.27, 3359957.64; 565824.16, 3359955.9; 565815.47, 3359958.93; 565818.74, 3359966.44; 565810.39, 3359966.61; 565805.01, 3359963.48; 565803.87, 3359973.19; 565796.93, 3359976.51; 565790.7, 3359979.73; 565790.59, 3360018.31; 568291.7, 3359192.83; 568289.08, 3359186.39; 568292.81, 3359180.56; 568297.27, 3359176.67; 568301.55, 3359180.77; 568308.06, 3359174.19; 568316.56, 3359167.66; 568318.32, 3359160.96; 568312.08, 3359155.94; 568316.85, 3359149.88; 568317.95, 3359137.61; 568313.4, 3359128.75; 568318.67, 3359124.95; 568326.18, 3359126.32; 568325.93, 3359120.39; 568316.51, 3359115.78; 568325.03, 3359108.88; 568334.09, 3359096.87; 568343.44, 3359103.34; 568347.32, 3359107.06; 568355.71, 3359104.83; 568362.03, 3359106.61; 568369.55, 3359107.61; 568371.34, 3359099.72; 568383.68, 3359098.41; 568395.52, 3359101.51; 568400.59, 3359105.94; 568398.76, 3359115.45; 568399.67, 3359129.21; 568407.56, 3359128.72; 568416.47, 3359122.19; 568421.34, 3359115.57; 568427.68, 3359118.54; 568429.09, 3359126.13; 568422.92, 3359134.65; 568417.62, 3359140.08; 568423.11, 3359142.59; 568426.9, 3359149.86; 568420.54, 3359150.45; 568420, 3359155.62; 568422.68, 3359160.05; 568422.52, 3359166.36; 568417.14, 3359174.96; 568410.4, 3359174.42; 568400.91, 3359173; 568397.17, 3359179.21; 568398.26, 3359185.98; 568391.87, 3359185.01; 568384.47, 3359178.52; 568371.99, 3359185.33; 568360.35, 3359185.04; 568357.68, 3359196.77; 568355.63, 3359204.34; 568348.09, 3359201.28; 568335.44, 3359201.09; 568328.83, 3359212.66; 568319.93, 3359217.75; 568309.12, 3359227.34; 568307.13, 3359217.18; 568303.28, 3359212.34; 568295.11, 3359215.51; 568292.06, 3359210.63; 568297.79, 3359203.65; 568299.49, 3359199.33; 568291.7, 3359192.83; 568206.09, 3359190.45; 568202.65, 3359179.13; 568205.22, 3359171.64; 568216.88, 3359166; 568224.29, 3359155.45; 568243.23, 3359145.24; 568253.66, 3359140.76; 568266.45, 3359137.89; 568273.63, 3359142.19; 568280.09, 3359148.53; 568276.63, 3359159.93; 568263.7, 3359168.35; 568249.49, 3359170.56; 568242.21, 3359175.93; 568239.51, 3359182.79; 568229.69, 3359194.41; 568222.04, 3359198.22; 568213.38, 3359194.82; 568206.09, 3359190.45; 567709.01, 3359415.98; 567700.51, 3359422.14; 567695.08, 3359429.74; 567692.24, 3359435.04; 567686.99, 3359438.47; 567681.33, 3359450.57; 567677.26, 3359454.4; 567673.66, 3359463.11; 567668.57, 3359464.86; 567666.54, 3359450.57; 567658.46, 3359451.62; 567655.84, 3359460.67; 567650.38, 3359461.66; 567646.21, 3359453.19; 567641.39, 3359458.82; 567638.6, 3359463.99; 567633.43, 3359467.67; 567626.66, 3359472.56; 567621.67, 3359465.69; 567614.91, 3359465.53; 567611.15, 3359472.99; 567606.58, 3359481.18; 567599.27, 3359487.74; 567584.11, 3359490.11; 567573.58, 3359493.53; 567567.91, 3359498.13; 567559.57, 3359500.36; 567551.36, 3359496.85; 567551.15, 3359488.92; 567540.43, 3359484.78; 567537.11, 3359490.25; 567540.04, 3359500.63; 567535.32, 3359502.82; 567524.04, 3359509.28; 567515.45, 3359514.25; 567518.47, 3359517.01; 567509.31, 3359517.97; 567505.36, 3359517.06; 567498.57, 3359518.45; 567489.35, 3359521.84; 567480.49, 3359530.05; 567473.31, 3359533.99; 567468.08, 3359536.24; 567465.58, 3359540.98; 567474.8, 3359553.76; 567466.83, 3359554.87; 567460.84, 3359556.28; 567453.56, 3359555.92; 567446.88, 3359558.37; 567442.81, 3359562.2; 567438.74, 3359566.1; 567434.6, 3359572.61; 567427.99, 3359572.45; 567424.09, 3359569.67; 567424.22, 3359564.43; 567425.66, 3359559.16; 567421.4, 3359560.05; 567417.43, 3359559.95; 567414.31, 3359557.94; 567409.18, 3359556.63; 567408.4, 3359561.35; 567400.3, 3359567.77; 567392.36, 3359567.57; 567385.83, 3359563.48; 567383.28, 3359559.42; 567382.05, 3359555.45; 567379.15, 3359549.51; 567379.75, 3359541.6; 567378.61, 3359534.21; 567381.49, 3359525.04; 567384.57, 3359507.63; 567396.71, 3359498.82; 567402.44, 3359491.85; 567402.54, 3359485.73; 567407.22, 3359489.41; 567409.89, 3359493.4; 567416.77, 3359491.02; 567426.03, 3359486.06; 567432.19, 3359477.91; 567438.21, 3359475.25; 567438.82, 3359466.59; 567450.13, 3359458.94; 567450.14, 3359458.76; 567457.35, 3359456.87; 567463.93, 3359458.35; 567469.16, 3359461.16; 567473, 3359466.5; 567474.26, 3359469.22; 567472.8, 3359474.43; 567468.67, 3359480.94; 567468.57, 3359484.93; 567469.8, 3359488.9; 567476.31, 3359493.05; 567480.15, 3359498.39; 567481.12, 3359509.4; 567497.07, 3359506.99; 567502.78, 3359501.2; 567500.82, 3359484.48; 567504.59, 3359476.27; 567509.03, 3359474.01; 567513.1, 3359470.12; 567519.38, 3359472.65; 567532.75, 3359478.53; 567538.45, 3359472.74; 567545.65, 3359470.55; 567549.85, 3359461.54; 567552.73, 3359457.62; 567555.6, 3359454.13; 567558.43, 3359452.2; 567562.05, 3359450.36; 567565.68, 3359448.07; 567567.82, 3359442.13; 567571.13, 3359436.66; 567573.63, 3359432.41; 567580.07, 3359428.95; 567578.75, 3359421.55; 567582.72, 3359421.65; 567586.53, 3359424.37; 567591.87, 3359425.87; 567595.88, 3359424.66; 567602.27, 3359430.31; 567609.21, 3359439.6; 567618.47, 3359434.27; 567625.63, 3359434.08; 567633.02, 3359424.33; 567641.48, 3359420.17; 567650.53, 3359423.58; 567655, 3359419.32; 567659.45, 3359416.25; 567662.75, 3359411.21; 567666.48, 3359404.56; 567671.32, 3359401.94; 567679.77, 3359398.15; 567685.64, 3359401.48; 567692.02, 3359400.45; 567696.14, 3359394.62; 567695.6, 3359384.25; 567695.39, 3359376.75; 567689.01, 3359377.34; 567684.42, 3359370.92; 567687.43, 3359364.82; 567699.44, 3359361.12; 567707.48, 3359357.39; 567715.52, 3359353.59; 567721.38, 3359353.98; 567727.34, 3359353.76; 567731, 3359362.65; 567735.77, 3359366.64; 567738.03, 3359371.81; 567747.75, 3359376.11; 567748.27, 3359367.64; 567752.27, 3359366.42; 567757.69, 3359363.62; 567759.02, 3359358.1; 567763.11, 3359353.46; 567773.12, 3359350.15; 567772.36, 3359357.68; 567782.11, 3359356.68; 567787.19, 3359347.44; 567790.77, 3359343.84; 567797.22, 3359339.63; 567806.01, 3359336.04; 567811.21, 3359340.1; 567815.15, 3359341.51; 567819.18, 3359338.99; 567825.39, 3359337.21; 567828.47, 3359341.28; 567840.32, 3359340.83; 567841.74, 3359345.11; 567835.08, 3359347; 567834.91, 3359353.74; 567840.8, 3359356.63; 567841.74, 3359351.1; 567846.72, 3359350.22; 567845.26, 3359355.49; 567837.5, 3359361.73; 567835.43, 3359369.48; 567827.42, 3359380.15; 567822.07, 3359382.7; 567819.51, 3359378.64; 567808.83, 3359382.37; 567802.19, 3359383.52; 567796.76, 3359388.63; 567784.91, 3359387.65; 567778.03, 3359396.09; 567768.83, 3359393.24; 567764.92, 3359390.52; 567755.72, 3359387.61; 567750.5, 3359384.86; 567742.46, 3359388.65; 567737.13, 3359389.83; 567730.42, 3359393.6; 567730.25, 3359400.21; 567728.83, 3359404.17; 567720.36, 3359406.77; 567715.45, 3359412.58; 567709.01, 3359415.98; 565355.41, 3359759.6; 565790.59, 3360018.31; 565790.7, 3359979.73; 565786.12, 3359974.18; 565782.98, 3359966.37; 565784.29, 3359961.65; 565790.73, 3359965; 565791.31, 3359832.23; 565784.66, 3359836.74; 565775.56, 3359834.52; 565767.64, 3359832.39; 565760.54, 3359846.07; 565757.11, 3359840.43; 565745.66, 3359837.4; 565739.53, 3359844.37; 565728.98, 3359853.22; 565717.44, 3359853.75; 565712.08, 3359846.06; 565698.94, 3359846.54; 565688.97, 3359864.53; 565678.97, 3359867.46; 565668.71, 3359864.02; 565657.34, 3359858.19; 565658.85, 3359845.55; 565664.14, 3359840.5; 565674.68, 3359847.94; 565679.24, 3359840.13; 565685.18, 3359841.02; 565685.98, 3359831.99; 565651.96, 3359831.9; 565652.01, 3359643.8; 565558.25, 3359663.33; 565509.06, 3359672.79; 565480.73, 3359677.58; 565360.78, 3359697.64; 565291.09, 3359704.22; 565246.8, 3359711.86; 565163.78, 3359733.21; 565121.3, 3359741.65; 565089.09, 3359748.78; 565033.52, 3359756.89; 564919.52, 3359787.78; 564921.51, 3359819.54; 564926.56, 3359824.04; 564930.9, 3359825.71; 564932.23, 3359835.67; 564929.73, 3359840.79; 564934.41, 3359844.46; 564934.2, 3359852.76; 564930.02, 3359861.39; 564929.39, 3359870.12; 564931.68, 3359874.48; 564935.5, 3359880.57; 564935.36, 3359886.12; 564930.03, 3359892.3; 564938.65, 3359897.25; 564942.68, 3359894.98; 564943.61, 3359889.45; 564942.96, 3359883.88; 564947.33, 3359883.98; 564950.84, 3359886.51; 564953.18, 3359888.5; 564957.61, 3359885.86; 564955.74, 3359881.07; 564960.26, 3359874.82; 564965.82, 3359875.33; 564966.54, 3359878.53; 564971.69, 3359878.66; 564970.2, 3359874.69; 564971.85, 3359872.36; 564975.76, 3359874.83; 564978.12, 3359875.63; 564983.32, 3359874.58; 564987.73, 3359872.75; 564990.23, 3359868; 564993.03, 3359867.32; 564995.88, 3359864.59; 564997.57, 3359860.69; 565007.78, 3359871.25; 565005.21, 3359878.74; 565005.88, 3359883.94; 565009.84, 3359884.41; 565015.93, 3359879.38; 565018.1, 3359871.94; 565023.7, 3359870.08; 565027.01, 3359859.05; 565036.11, 3359860.46; 565035.34, 3359865.63; 565033.48, 3359870.26; 565034.54, 3359875.47; 565036.48, 3359877.52; 565039.66, 3359877.16; 565039.96, 3359881.53; 565045.55, 3359880.11; 565050.29, 3359881.42; 565053.88, 3359881.13; 565053.6, 3359875.94; 565054.48, 3359872.41; 565056.69, 3359863.72; 565059.93, 3359861.05; 565063.08, 3359862.69; 565064.6, 3359865.1; 565066.92, 3359867.97; 565069.37, 3359865.22; 565068.29, 3359860.82; 565073.53, 3359863.39; 565078.7, 3359862.7; 565084.72, 3359860.48; 565090.68, 3359860.25; 565089.67, 3359869.72; 565096.51, 3359865.52; 565099.41, 3359860.85; 565104.11, 3359858.15; 565107.57, 3359852.31; 565112.65, 3359855.62; 565118.98, 3359851.4; 565120.39, 3359842.7; 565112.98, 3359836.59; 565115.48, 3359832.28; 565130.68, 3359828.28; 565154.87, 3359829.69; 565176.48, 3359829.48; 565182.61, 3359838.31; 565192.08, 3359841.35; 565198.06, 3359834.7; 565191.83, 3359835.42; 565186.71, 3359833.29; 565186.06, 3359827.72; 565194.8, 3359827.56; 565195.42, 3359818.84; 565197.46, 3359810.9; 565208.63, 3359809.24; 565218.94, 3359809.49; 565216.18, 3359814.98; 565208.94, 3359817.99; 565209.92, 3359827.13; 565220.18, 3359829.38; 565235.7, 3359828.95; 565243.21, 3359829.95; 565253.55, 3359829.77; 565261.76, 3359835.15; 565272.03, 3359837.4; 565281.43, 3359842.76; 565285.52, 3359848.41; 565289.88, 3359848.9; 565295.43, 3359849.03; 565299.3, 3359853.5; 565307.66, 3359852.89; 565315.92, 3359856.28; 565318, 3359868.2; 565327.49, 3359854.57; 565338.12, 3359842.16; 565337.58, 3359831.85; 565324.32, 3359821.97; 565311.42, 3359812.97; 565292.65, 3359806.95; 565274.45, 3359804.13; 565260.56, 3359803.41; 565251.82, 3359803.19; 565242.51, 3359804.52; 565225.02, 3359804.9; 565219.61, 3359804.77; 565205.71, 3359804.42; 565189.75, 3359807.21; 565149.63, 3359817.27; 565120.4, 3359825.66; 565106.69, 3359834.43; 565089.86, 3359839.95; 565064.78, 3359842.13; 565052.52, 3359845.82; 565039.5, 3359852.18; 565029.28, 3359853.18; 564988.25, 3359857.72; 564958.31, 3359863.28; 564958.42, 3359858.98; 564958.13, 3359854.97; 564988.76, 3359853.36; 565015.44, 3359850.46; 565030.62, 3359847.65; 565031.79, 3359842.88; 565029.55, 3359836.52; 565023.75, 3359830.38; 565014.19, 3359831.39; 564983.65, 3359829.39; 564986.83, 3359813.23; 564988.59, 3359806.16; 564994.28, 3359801.12; 565003.44, 3359800.16; 565011.76, 3359800.8; 565024.91, 3359799.94; 565026.11, 3359821.01; 565029.23, 3359823.84; 565034.65, 3359829.15; 565041.84, 3359843.56; 565045.37, 3359839.65; 565050.95, 3359838.98; 565046.73, 3359806.85; 565043.47, 3359803.96; 565042.66, 3359794.45; 565044.67, 3359787.7; 565043.78, 3359781.37; 565044.76, 3359773.9; 565058.31, 3359772.62; 565068.27, 3359771.68; 565076.19, 3359772.68; 565076.32, 3359782.99; 565076.72, 3359793.3; 565076.97, 3359799.24; 565066.6, 3359800.98; 565059.73, 3359805.55; 565056.05, 3359809.39; 565052.87, 3359815.31; 565053.46, 3359823.62; 565057.82, 3359834.41; 565060.9, 3359838.48; 565083.59, 3359836.67; 565087.99, 3359835.15; 565084.31, 3359829.13; 565081.78, 3359818.77; 565082.17, 3359803.36; 565081.93, 3359796.99; 565083.51, 3359791.47; 565087.26, 3359790.38; 565088.3, 3359780.48; 565085.76, 3359770.92; 565093.64, 3359767.93; 565117.09, 3359767.7; 565118.26, 3359783.96; 565105.06, 3359788.01; 565089.61, 3359792.06; 565088.2, 3359800.32; 565089.2, 3359808.65; 565088.81, 3359824.13; 565094.15, 3359833; 565101.31, 3359832.36; 565107.35, 3359829.33; 565120.11, 3359821.72; 565133.49, 3359816.49; 565152.29, 3359811.4; 565142.02, 3359809.21; 565129.36, 3359806.9; 565126.33, 3359801.27; 565128.03, 3359796.57; 565127.38, 3359784.63; 565126.42, 3359765.56; 565137.25, 3359761.52; 565158.37, 3359758.86; 565157.99, 3359789.76; 565153.44, 3359797.2; 565150.22, 3359799.05; 565145.1, 3359797.36; 565143.6, 3359793.39; 565141.3, 3359790.53; 565136.14, 3359789.59; 565132.83, 3359795.06; 565133.44, 3359802.63; 565150.84, 3359806.25; 565158.3, 3359809.62; 565183.91, 3359802.32; 565184.81, 3359798.35; 565180.68, 3359788.32; 565173.95, 3359786.97; 565172.67, 3359775.07; 565167.13, 3359773.75; 565165.99, 3359756.24; 565183.77, 3359753.87; 565192.86, 3359752.48; 565191.71, 3359776.29; 565182.57, 3359776.51; 565182.78, 3359783.63; 565190.73, 3359799.68; 565198.67, 3359799.88; 565210.17, 3359800.54; 565220.82, 3359765.9; 565205.05, 3359766.76; 565205.07, 3359750.09; 565220.47, 3359748.04; 565233.75, 3359747.25; 565233.61, 3359763.04; 565227.23, 3359770.06; 565220.63, 3359779.45; 565218.03, 3359788.5; 565218.27, 3359794.43; 565222.17, 3359797.28; 565239.69, 3359796.15; 565248.04, 3359795.54; 565276.22, 3359797.05; 565274.95, 3359783.91; 565272.31, 3359778.29; 565249.53, 3359783.28; 565245.48, 3359780.81; 565243.7, 3359762.54; 565240.94, 3359761.66; 565240.8, 3359751.35; 565267.13, 3359746.89; 565267.92, 3359731.42; 565305.09, 3359722.42; 565310.01, 3359747.95; 565295.49, 3359751.15; 565276.2, 3359749.48; 565277.14, 3359759.81; 565284.96, 3359765.18; 565280.86, 3359786.06; 565281.72, 3359799.19; 565285.62, 3359802.03; 565303.07, 3359803.65; 565324.93, 3359813.31; 565336.22, 3359823.07; 565345.24, 3359827.67; 565351.64, 3359825.45; 565362.29, 3359813.05; 565380.99, 3359795.65; 565400.21, 3359779.52; 565412.36, 3359770.27; 565419.24, 3359765.33; 565429.21, 3359763.95; 565492.14, 3359765.51; 565476.52, 3359754.45; 565474.82, 3359742.92; 565462.91, 3359742.62; 565460.58, 3359724.34; 565485.52, 3359695.99; 565500.68, 3359693.99; 565507.35, 3359696.53; 565517.36, 3359693.59; 565521.27, 3359712.36; 565526.2, 3359737.45; 565507.78, 3359743.73; 565503.26, 3359765.78; 565530.05, 3359766.45; 565529.97, 3359769.63; 565447.77, 3359768.4; 565431.45, 3359769.19; 565422.66, 3359770.97; 565413.4, 3359776.29; 565398.67, 3359787.79; 565381.96, 3359804.42; 565361.59, 3359824.89; 565349.47, 3359838.51; 565346.96, 3359844; 565387.39, 3359863.61; 565415.71, 3359875.05; 565426.65, 3359882.44; 565431.03, 3359890.1; 565435.77, 3359899.33; 565446.94, 3359937.63; 565452.27, 3359949.37; 565456.03, 3359946.97; 565467.59, 3359945.69; 565481.25, 3359940.1; 565488.6, 3359931.92; 565487.68, 3359920.84; 565493.17, 3359917.73; 565490.6, 3359914.92; 565492.66, 3359911.85; 565496.65, 3359911.14; 565517.25, 3359898.17; 565529.63, 3359911.52; 565530.95, 3359921.92; 565546.33, 3359927.04; 565569.37, 3359921.24; 565575.13, 3359913.02; 565580.59, 3359901.67; 565587.72, 3359902.28; 565585.54, 3359893.86; 565587.36, 3359884.79; 565602.37, 3359886.42; 565606.62, 3359890.89; 565617.05, 3359889.09; 565623.39, 3359887.69; 565627.32, 3359891.34; 565623.54, 3359899.99; 565624.38, 3359913.87; 565628.92, 3359920.72; 565625.18, 3359929.37; 565616.35, 3359933.08; 565629.29, 3359940.52; 565647.14, 3359941.4; 565654.82, 3359936.03; 565666.73, 3359920.47; 565676.28, 3359919.52; 565689.34, 3359905.55; 565697.24, 3359907.74; 565697.5, 3359913.31; 565690.54, 3359919.13; 565695.88, 3359928.37; 565702.97, 3359933.23; 565707.84, 3359942.53; 565723.42, 3359939.36; 565731.8, 3359937.57; 565739.99, 3359937.52; 565752.29, 3359938.26; 565755.37, 3359942.71; 565748.89, 3359947.29; 565743.22, 3359951.9; 565745.43, 3359958.69; 565751.65, 3359963.97; 565753.45, 3359971.19; 565750.93, 3359977.06; 565743.35, 3359978.06; 565736.62, 3359977.52; 565733.61, 3359986.55; 565730.29, 3359992.4; 565734.92, 3359997.7; 565727.49, 3360009; 565717.6, 3360007.13; 565713.49, 3360012.59; 565711.18, 3360016.34; 565715.41, 3360021.63; 565720.9, 3360024.88; 565721.73, 3360033.02; 565731.21, 3360035.25; 565740.02, 3360032.29; 565741.47, 3360027.76; 565749.55, 3360032.52; 565754.95, 3360039.4; 565753.26, 3360043.29; 565744.17, 3360041.5; 565739.26, 3360046.94; 565739.06, 3360054.86; 565743.42, 3360055.34; 565749.49, 3360050.75; 565751.7, 3360057.92; 565753.63, 3360060.34; 565759.74, 3360054.19; 565768.1, 3360053.58; 565765.04, 3360048.76; 565763.59, 3360042.8; 565767.28, 3360038.52; 565765.07, 3360031.72; 565763.25, 3360025.31; 565751.95, 3360015.91; 565750.99, 3360006.78; 565752.75, 3359999.7; 565758.92, 3359991.11; 565767.61, 3359993.33; 565772.91, 3360004.13; 565780.72, 3360009.51; 565782.98, 3360014.31; 565790.03, 3360018.04; 565790.59, 3360018.31; 565354.85, 3359798.19; 565339.76, 3359798.25; 565338.91, 3359783.94; 565335.74, 3359783.86; 565332.82, 3359789.34; 565320.9, 3359789.05; 565319.85, 3359767.98; 565315.97, 3359764.33; 565314.47, 3359744.5; 565332.08, 3359738.94; 565350.01, 3359737.02; 565354.37, 3359769.65; 565354.85, 3359798.19.

565385.47, 3359900.44; 565306.21, 3359932.58; 565312, 3359939.46; 565325.39, 3359944.54; 565328.6, 3359937.44; 565328.85, 3359927.58; 565334.03, 3359926.9; 565336.78, 3359928.15; 565340.94, 3359920.7; 565337.57, 3359911.94; 565335.93, 3359903.97; 565355.58, 3359906.83; 565362.69, 3359908.2; 565364.64, 3359899.5; 565382.92, 3359899.96; 565385.13, 3359916.68; 565381.43, 3359927.7; 565386.07, 3359933; 565385.73, 3359940.48; 565395.6, 3359943.1; 565396.02, 3359947.85; 565391.11, 3359953.72; 565393.06, 3359965.19; 565386.66, 3359982.89; 565391.7, 3359988.57; 565395.52, 3359994.6; 565391.8, 3360000.06; 565385.51, 3360003.53; 565385.36, 3360009.45; 565390.69, 3360012.71; 565400.23, 3360012.94; 565413.96, 3360009.79; 565431.83, 3360010.23; 565431.2, 3360003.47; 565440.93, 3359994.97; 565442.61, 3359986.27; 565452.94, 3359985.72; 565464.72, 3359981.27; 565452.5, 3359961.55; 565447.56, 3359952.31; 565441, 3359937.1; 565433.33, 3359909.57; 565425.97, 3359893.91; 565419.82, 3359885.45; 565404.17, 3359875.51; 565388.04, 3359869.62; 565371.52, 3359862.84; 565351.49, 3359853.61; 565345.92, 3359853.47; 565340.96, 3359855.72; 565347.43, 3359866.99; 565349.99, 3359876.17; 565361.31, 3359883.94; 565356.63, 3359896.56; 565350.17, 3359901.14; 565344.4, 3359899; 565335.08, 3359890.09; 565333.6, 3359896.36; 565328.51, 3359899.05; 565319.81, 3359897.21; 565315.65, 3359904.66; 565306.9, 3359921.48; 565306.21, 3359932.58.

570911.21, 3358455.9; 570873.81, 3358463.48; 570875.99, 3358472.71; 570898.65, 3358472.09; 570909.04, 3358469.6; 570916.24, 3358466.91; 570934.06, 3358453.93; 570939.83, 3358446.14; 570945.2, 3358453.45; 570946.91, 3358448.75; 570948.62, 3358443.61; 570946.8, 3358436.83; 570936.81, 3358438.45; 570919.23, 3358442.38; 570877.43, 3358445.72; 570873.81, 3358463.48.

570939.5, 3358351.38; 570819.31, 3358367.36; 570819.53, 3358399.83; 570824.89, 3358402.9; 570837.25, 3358400.83; 570844.75, 3358402.95; 570849.62, 3358414.62; 570852.58, 3358423.38; 570852.31, 3358434.11; 570878.5, 3358434.63; 570895.98, 3358435.56; 570914.3, 3358432.77; 570925.87, 3358431.94; 570924.24, 3358417.66; 570922.2, 3358404.13; 570916.05, 3358379.75; 570959.2, 3358369.77; 570963.37, 3358361.95; 570983.72, 3358358.83; 570988.75, 3358364.14; 570991.6, 3358361.4; 570995.46, 3358349.64; 571015.05, 3358344.94; 571020.4, 3358353; 571024.62, 3358374.08; 571024.14, 3358394.73; 571032.86, 3358395.39; 571040.48, 3358392.77; 571053.52, 3358379.23; 571049.46, 3358367.21; 571038.78, 3358364.32; 571038.27, 3358336.34; 571040.47, 3358329.34; 571059.69, 3358323.07; 571054.37, 3358297.6; 571015.53, 3358308.81; 570973.52, 3358321.31; 570924.77, 3358331.53; 570849.45, 3358356.62; 570819.31, 3358367.36.

(iii) Note: Map 2 of Units 1 and 2 follows:

BILLING CODE 4310-55-P

BILLING CODE 4310-55-C

(8) CBM—Unit 3: Grayton Beach Unit, Walton County, Florida.

(i) General Description: Unit 3 consists of 172 ac (70 ha) in Walton County, Florida. This unit encompasses essential features of beach mouse habitat within the boundary of Grayton Beach State Park, as well as adjacent private lands and inholdings, from 0.3 mile west of the inlet of Alligator Lake east to 0.8 mile west of Seagrove Beach and the area from the MHWL north to the seaward extent of human development or maritime forest.

(ii) Coordinates: From USGS 1:24,000 quadrangle map Grayton Beach, Florida, land bounded by the following UTM 16 NAD 83 coordinates (E,N): 578136.1, 3356102.15; 578222.77, 3356036.73; 578222.16, 3356000.38; 578077.28, 3356072.88; 578050.5, 3356079.33; 578039.08, 3356101.21; 578064.26, 3356111.33; 578073.84, 3356125.86; 578094.18, 3356138.66; 578138.88, 3356162.31; 578160.71, 3356162.85; 578185.78, 3356145.69; 578197.27, 3356130.86; 578209.61, 3356114.13; 578204.08, 3356113.24; 578206.15, 3356109.73; 578211.73, 3356108.62; 578209.79, 3356091.16; 578207.08, 3356088.34; 578209.49, 3356086.78; 578215.44, 3356087.37; 578218.54, 3356091; 578222.89, 3356091.48; 578232.2, 3356084.6; 578226.62, 3356085.65; 578218.4, 3356080.26; 578219.72, 3356076.98; 578223.42, 3356075.39; 578233.12, 3356074.2; 578230.76, 3356069.71; 578226.33, 3356069.1; 578223.25, 3356065.84; 578223.24, 3356065.02; 578222.77, 3356036.73

578526.99, 3355943.76; 578222.77, 3356036.73; 578223.24, 3356065.02; 578247.08, 3356056.69; 578256.82, 3356049; 578278.74, 3356045.99; 578292.8, 3356040.03; 578296.22, 3356030.19; 578312.43, 3356033.34; 578317.44, 3356039.84; 578331.96, 3356046.56; 578341.17, 3356038.68; 578361.68, 3356034.19; 578375.91, 3356021.06; 578386.33, 3356017.39; 578399.12, 3356014.52; 578413.26, 3356004.95; 578430.41, 3355996.89; 578446.41, 3355998.22; 578457.43, 3356002.86; 578473.52, 3355994.96; 578486.44, 3355986.17; 578491.41, 3355978.36; 578502.7, 3355971.53; 578512.2, 3355973.32; 578541.91, 3355976.81; 578559.84, 3355974.88; 578639.16, 3355948.7; 578652.01, 3355943.09; 578678.89, 3355933.08; 578697.75, 3355925.62; 578721.77, 3355906.37; 578744.29, 3355907.37; 578760.47, 3355895.84; 578777.28, 3355891.14; 578795.1, 3355893.52; 578795.66, 3355903.09; 578818.25, 3355888.98; 578830.98, 3355887.98; 578831.08, 3355875.69; 578831.08, 3355875.06; 578831.68, 3355796.73; 578831.68, 3355795.92; 578590.91, 3355891.63; 578562.44, 3355902.41; 578224.91, 3355998.21; 578222.31, 3355999.51; 578222.77, 3356036.73

579563.63, 3355823.2; 579228.36, 3355773.14; 579231.38, 3355779.2; 579249.62, 3355780.47; 579251.43, 3355803.11; 579246.59, 3355806.55; 579245.96, 3355815.65; 579251.24, 3355827.27; 579250.95, 3355838.75; 579249.91, 3355848.27; 579253.46, 3355849.92; 579252.44, 3355858.64; 579267.7, 3355867.69; 579271.88, 3355875.73; 579269.61, 3355887.16; 579274.31, 3355890.08; 579281.1, 3355887.88; 579289.57, 3355867.05; 579297.32, 3355859.32; 579310.43, 3355859.27; 579314.13, 3355854.61; 579320.8, 3355857.96; 579334.8, 3355854.32; 579333.06, 3355828.12; 579337.95, 3355807.64; 579329.29, 3355804.24; 579319.68, 3355791.33; 579312.26, 3355785.96; 579294.53, 3355784.77; 579295.69, 3355780.8; 579282.33, 3355775.29; 579275.02, 3355765.62; 579255.63, 3355767.95; 579244.6, 3355758.5; 579240.05, 3355750.08; 579233.37, 3355743.8; 579240.18, 3355744.9; 579245.94, 3355752.97; 579252.23, 3355755.56; 579263.34, 3355755.84; 579268.83, 3355759.1; 579276.37, 3355758.91; 579283.11, 3355764.7; 579289.55, 3355772.72; 579309.71, 3355776.41; 579320.74, 3355780.62; 579329.83, 3355782.46; 579344.97, 3355796.33; 579355.25, 3355814.37; 579357.42, 3355823.54; 579362.38, 3355831.59; 579367.13, 3355848; 579350.86, 3355863.02; 579335.86, 3355874.94; 579339.05, 3355890.88; 579341.61, 3355899.68; 579368.92, 3355935.64; 579382.27, 3355947.2; 579378.07, 3355951.34; 579379.14, 3355956.12; 579384.29, 3355956.62; 579391.89, 3355954.87; 579402.92, 3355947.22; 579413.65, 3355942.3; 579416.14, 3355938.37; 579414.74, 3355930.41; 579421.47, 3355931.39; 579424.94, 3355940.27; 579426.23, 3355953.23; 579427.32, 3355972.8; 579429.12, 3355980.39; 579434.86, 3355972.98; 579442.28, 3355973.54; 579445.01, 3355980.42; 579447.41, 3355990.34; 579451.56, 3356004.74; 579447.68, 3356011.32; 579465.2, 3356026.05; 579480.82, 3356026.07; 579484.7, 3356024.91; 579486.52, 3356020.28; 579494.03, 3356017.22; 579497.71, 3356028.86; 579502.19, 3356029.41; 579505.03, 3356038.16; 579501.59, 3356048.37; 579511.81, 3356052.99; 579520.72, 3356051.28; 579527.04, 3356068.48; 579539.71, 3356070.36; 579547.64, 3356065.75; 579557.58, 3356065.62; 579569.17, 3356063.1; 579588.1, 3356068.75; 579620.65, 3356069.94; 579640.63, 3356065.69; 579658.81, 3356058.65; 579661.58, 3356053.91; 579669.27, 3356052.98; 579674.66, 3356055.05; 579675.65, 3356063; 579675.07, 3356070.91; 579679.48, 3356069.03; 579683.19, 3356063.94; 579683.82, 3356054.09; 579694.22, 3356051.16; 579699.38, 3356056.91; 579717.28, 3356050.93; 579735.6, 3356033.53; 579757.62, 3356031.77; 579783.85, 3356010.57; 579790.18, 3356000.86; 579806.08, 3355995.26; 579809.82, 3355988.62; 579817.36, 3355989.24; 579820.09, 3355996.49; 579828.52, 3355992.7; 579827.85, 3355982.32; 579833.54, 3355977.72; 579837.83, 3355980.57; 579840.08, 3355986.18; 579845.66, 3355985.14; 579854.91, 3355965.14; 579848.6, 3355963.42; 579844.29, 3355960.57; 579844.58, 3355953.83; 579844.39, 3355945.9; 579852.77, 3355944.24; 579859.73, 3355935.98; 579853.38, 3355919.84; 579853.81, 3355902.56; 579860.53, 3355888.43; 579871.56, 3355887.08; 579874.5, 3355880.85; 579862.05, 3355870.05; 579869.67, 3355851.27; 579877.03, 3355848.39; 579900.29, 3355861.14; 579899.88, 3355620.58; 579899.74, 3355594.59; 579897.43, 3355594.82; 579898.26, 3355538.38; 579899.83, 3355538.42; 579899.83, 3355527.97; 579899.8, 3355466.83; 579819.34, 3355495.99; 579594.51, 3355573.24; 579226.97, 3355678.77; 579226.98, 3355679.59; 579228.36, 3355773.14.

579029.73, 3355761.34; 578831.08, 3355875.69; 578844.13, 3355869.33; 578850.56, 3355865.68; 578844.26, 3355848.05; 578866.64, 3355842.3; 578866.53, 3355831.19; 578892.97, 3355822.29; 578914.47, 3355820.89; 578921.75, 3355815.52; 578939.28, 3355813.14; 578961.7, 3355806.58; 578964.63, 3355801.1; 578985.76, 3355798.07; 578986.71, 3355791.72; 579010.25, 3355787.56; 579012.71, 3355784.88; 579034.22, 3355782.23; 579034.76, 3355777.06; 579042.03, 3355772.81; 579057.95, 3355771.58; 579078.25, 3355769.47; 579078.88, 3355760.37; 579100.74, 3355760.1; 579124.64, 3355758.2; 579145.77, 3355754.48; 579166.93, 3355750.63; 579170.78, 3355755.47; 579173.36, 3355763.47; 579192.83, 3355763.2; 579194.49, 3355776.29; 579228.37, 3355773.89; 579228.36, 3355773.14; 579226.98, 3355679.59; 579212.01, 3355688.58; 579196.17, 3355693.12; 579152.2, 3355703.88; 578965.68, 3355758.74; 578857.2, 3355790.5; 578831.68, 3355796.73; 578831.08, 3355875.06; 578831.08, 3355875.69.

579985.47, 3355453.39; 579899.83, 3355527.97; 579926.14, 3355527.9; 579925.54, 3355519.96; 579929.82, 3355518.47; 579929.77, 3355508.14; 579923.2, 3355505.06; 579924.59, 3355497.17; 579924.91, 3355484.44; 579944.84, 3355481.82; 579955.44, 3355487.2; 579977.31, 3355486.18; 579982.99, 3355481.95; 579996.51, 3355481.1; 579996.39, 3355485.85; 580002.77, 3355485.19; 580002.99, 3355492.38; 579998.81, 3355500.58; 579995.23, 3355516.72; 579989.57, 3355520.2; 579985.78, 3355529.22; 580004.51, 3355527.31; 580020.41, 3355526.9; 580023.11, 3355482.14; 580050.11, 3355482.81; 580050.26, 3355461.03; 580050.53, 3355450.36; 580056.07, 3355451.25; 580056.18, 3355462.74; 580071.14, 3355460.62; 580070.48, 3355391.74; 580011.68, 3355414.75; 579936.25, 3355444.21; 579907.78, 3355454.99; 579899.8, 3355466.83; 579899.83, 3355527.97; 580031.71, 3355472.05; 580031.9, 3355464.57; 580042.24, 3355464.01; 580042.03, 3355472.31; 580031.71, 3355472.05.

580114.28, 3355500.94; 580144.94, 3355473.27; 580122.56, 3355473.6; 580083.3, 3355474.19; 580083.98, 3355478.91; 580107.63, 3355486.24; 580105.77, 3355497.68; 580111.65, 3355500.64; 580109.05, 3355525.54; 580103.86, 3355526.6; 580104.87, 3355533.74; 580118.98, 3355525.35; 580124.14, 3355493.77; 580145.25, 3355493.87; 580144.94, 3355473.27.

580347.34, 3355406.96; 580296.09, 3355494.86; 580293.36, 3355504.28; 580307.12, 3355508.31; 580331.43, 3355515.41; 580388.42, 3355532.06; 580401.31, 3355487.49; 580384.86, 3355491.14; 580368.96, 3355491.18; 580354.77, 3355486.46; 580347.78, 3355479.92; 580349.14, 3355473.21; 580359.04, 3355470.58; 580375.31, 3355459.63; 580377.42, 3355445.63; 580386.48, 3355441.68; 580380.86, 3355428.05; 580368.44, 3355416.19; 580361.68, 3355400.61; 580356.28, 3355378.25; 580352.85, 3355340.89; 580351.06, 3355332.92; 580352.88, 3355323.48; 580361.65, 3355322.13; 580366.53, 3355317.88; 580369.15, 3355308.4; 580371.4, 3355297.78; 580371.26, 3355287.48; 580301.97, 3355305.98; 580301.98, 3355306.79; 580304.35, 3355466.29; 580296.09, 3355494.86.

580229.04, 3355502.75; 580287.75, 3355496.32; 580274.97, 3355492.56; 580259.57, 3355488.06; 580196.22, 3355469.54; 580196.31, 3355475.54; 580153.72, 3355476.18; 580154.15, 3355504.86; 580187.37, 3355514.57; 580186.52, 3355517.5; 580154.2, 3355508.05; 580154.42, 3355523.31; 580169.16, 3355527.67; 580186.77, 3355524.36; 580203.05, 3355524.86; 580210.25, 3355532.81; 580229.13, 3355526.33; 580231.78, 3355512.75; 580238.89, 3355493.5; 580253.34, 3355491.92; 580293.37, 3355504.29; 580296.09, 3355494.86; 580304.35, 3355466.29; 580301.98, 3355306.79; 580277.9, 3355319.24; 580272.73, 3355321.23; 580275.37, 3355489.52; 580288.6, 3355493.39; 580287.75, 3355496.32.

580216.77, 3355473.97; 580259.57, 3355488.06; 580274.97, 3355492.56; 580287.75, 3355496.32; 580288.6, 3355493.39; 580275.37, 3355489.52; 580272.73, 3355321.25; 580257.14, 3355327.92; 580259.53, 3355484.86; 580196.17, 3355466.38; 580194.43, 3355350.52; 580191.4, 3355351.44; 580193.22, 3355472.56; 580144.94, 3355473.27; 580145.65, 3355521.18; 580154.42, 3355523.34; 580154.19, 3355508.07; 580186.52, 3355517.52; 580187.37, 3355514.6; 580154.15, 3355504.89; 580153.72, 3355476.21; 580196.31, 3355475.56; 580196.22, 3355469.56; 580259.57, 3355488.06.

580226.98, 3355408.12; 580194.43, 3355350.5; 580196.17, 3355466.34; 580259.53, 3355484.86; 580257.14, 3355327.9; 580238.93, 3355337.37; 580194.43, 3355350.5.

581230.58, 3355064.85; 582083.47, 3354790.15; 582083.57, 3354754.07; 582083.69, 3354710.43; 582083.7, 3354709.62; 581830.2, 3354796.95; 581699.62, 3354838.46; 581507.86, 3354904.61; 581305.24, 3354967.74; 581180.87, 3355022.58; 581020.65, 3355074.46; 580857.54, 3355130.71; 580621.55, 3355209.24; 580480.68, 3355242.57; 580384.99, 3355279.08; 580384.4, 3355302.85; 580377.73, 3355314.98; 580377.47, 3355325.27; 580381.75, 3355329.31; 580393.43, 3355338.78; 580394.45, 3355361.34; 580392.09, 3355376.39; 580396.29, 3355399.09; 580400.65, 3355415.81; 580406.62, 3355431.06; 580409.47, 3355443.81; 580416.63, 3355443.99; 580427.04, 3355440.69; 580451.31, 3355423.44; 580476.84, 3355380.06; 580498.35, 3355353.63; 580522.63, 3355336; 580547.82, 3355329.51; 580559.74, 3355329.81; 580574.82, 3355330.18; 580582.8, 3355328.82; 580586.96, 3355321.37; 580591.73, 3355321.49; 580598.38, 3355326.03; 580614, 3355336.71; 580620.05, 3355348.73; 580624.58, 3355358.39; 580628.84, 3355379.1; 580634.88, 3355391.55; 580633.26, 3355408.55; 580632.7, 3355423.58; 580629.39, 3355452.03; 580630.4, 3355459.23; 580636.68, 3355462.94; 580645.92, 3355479.97; 580645.89, 3355491.7; 580664.08, 3355494.9; 580683.15, 3355495; 580694.77, 3355491.36; 580705.22, 3355486.44; 580701.46, 3355477.6; 580713.78, 3355477.91; 580726.78, 3355482.23; 580724.91, 3355493.3; 580738.03, 3355492.81; 580738.84, 3355487.21; 580737.63, 3355477.75; 580737.95, 3355464.65; 580750.05, 3355457.4; 580758.46, 3355454.49; 580776.93, 3355455.26; 580787.23, 3355457.14; 580799.68, 3355459.07; 580813.04, 3355459.72; 580826.1, 3355466.47; 580837.6, 3355467.51; 580865.94, 3355462.28; 580871.72, 3355453.75; 580881.42, 3355447.62; 580888.97, 3355447; 580894.28, 3355441.2; 580892.12, 3355432.34; 580887.59, 3355417.56; 580881.06, 3355406.72; 580873.39, 3355397.67; 580868.21, 3355387.43; 580872.06, 3355376.41; 580870.68, 3355368.07; 580864.66, 3355370.67; 580864.77, 3355366.36; 580866.06, 3355362.03; 580872.67, 3355360.57; 580870.69, 3355344.66; 580869.92, 3355334.78; 580875.98, 3355330.93; 580886.94, 3355321.72; 580886.73, 3355314.53; 580891.71, 3355305.17; 580903.64, 3355305.09; 580910.75, 3355290.97; 580909.27, 3355286.94; 580895.6, 3355277.49; 580884.58, 3355272.47; 580873.16, 3355269; 580873.67, 3355264.27; 580885.16, 3355265.74; 580889.43, 3355269.4; 580905.18, 3355275.35; 580902.54, 3355253.87; 580906.47, 3355239.74; 580912.27, 3355229.96; 580922.75, 3355224.29; 580951.57, 3355215.45; 580987.61, 3355204.11; 581131.78, 3355158.94; 581267.5, 3355117.87; 581257.3, 3355112.87; 581254.12, 3355096.94; 581272.14, 3355091.46; 581287.27, 3355089.84; 581285.08, 3355082.23; 581298.25, 3355079.81; 581300.12, 3355084.6; 581353.25, 3355072.87; 581361.92, 3355076.21; 581369.23, 3355085.94; 581372.34, 3355104.25; 581368.53, 3355114.08; 581326.43, 3355129.27; 581301.38, 3355134.51; 581289.77, 3355133.1; 581288.81, 3355139.82; 581289.36, 3355149.76; 581285.53, 3355159.59; 581272.88, 3355156.9; 581276.36, 3355145.44; 581286.62, 3355147.69; 581285.22, 3355140.16; 581287.03, 3355131.47; 581272.07, 3355125.92; 581264.89, 3355127.36; 581100.83, 3355181.52; 581082.68, 3355184.25; 581067.87, 3355188.63; 581064.55, 3355194.48; 581067.54, 3355201.73; 581071.95, 3355208.9; 581074.84, 3355220.08; 581087.75, 3355227.95; 581114.3, 3355238.54; 581132.45, 3355243.36; 581159.94, 3355256.34; 581160.38, 3355263.04; 581152.07, 3355277.94; 581144.41, 3355282.49; 581128.04, 3355285.27; 581116.62, 3355281.8; 581090.73, 3355275.6; 581073.96, 3355262.95; 581061.45, 3355254.71; 581055.54, 3355245.01; 581061.91, 3355228.5; 581063.26, 3355213.92; 581057.61, 3355201.48; 581050.63, 3355194.94; 580990.18, 3355212.85; 580930.11, 3355231.59; 580917.63, 3355238.39; 580912.14, 3355251.37; 580912.96, 3355266.06; 580917.97, 3355287.97; 580925.56, 3355302.45; 580945.33, 3355290.65; 580954.95, 3355303.18; 580962.34, 3355309.67; 580980.49, 3355329.98; 580990.6, 3355339.34; 581002.13, 3355338.82; 581004.75, 3355345.25; 581012.75, 3355359.31; 581026.05, 3355367.26; 581032.19, 3355376.46; 581024.06, 3355383.75; 581026.51, 3355396.55; 581033.72, 3355403.03; 581058.03, 3355407.19; 581081.94, 3355404.67; 581090.78, 3355400.52; 581106.57, 3355388.99; 581118.55, 3355386.54; 581121.16, 3355377.49; 581128.55, 3355351.89; 581130.09, 3355338.07; 581144.81, 3355321.27; 581155.1, 3355301.98; 581157.93, 3355289.19; 581168.85, 3355281.91; 581177.87, 3355270.65; 581189.49, 3355266.57; 581195.09, 3355257.59; 581205.77, 3355234.82; 581199.46, 3355225.99; 581197.1, 3355216.44; 581201.58, 3355212.18; 581200.97, 3355204.61; 581196.83, 3355200.39; 581201.97, 3355190.72; 581216.91, 3355181.29; 581222.88, 3355170.33; 581217.64, 3355152.03; 581234.1, 3355150.75; 581238.77, 3355163.54; 581244.52, 3355171.99; 581259.16, 3355181.53; 581265.33, 3355189.17; 581276.27, 3355196.62; 581275.63, 3355205.72; 581308.19, 3355191.05; 581319.94, 3355181.86; 581330.65, 3355175.69; 581337.17, 3355168.74; 581345.19, 3355165.75; 581362.29, 3355156.31; 581364.27, 3355150; 581357.25, 3355151.45; 581352.73, 3355141.41; 581363.52, 3355139.3; 581368.53, 3355145.36; 581371.63, 3355141.44; 581384.74, 3355131.72; 581389.51, 3355132.4; 581412.83, 3355121.49; 581429.01, 3355110.03; 581450.84, 3355095.09; 581511.08, 3355053.77; 581514.4, 3355048.29; 581517.09, 3355035.69; 581524.55, 3355027.63; 581544.66, 3355022.08; 581561.54, 3355022.12; 581592.06, 3355024.51; 581623.87, 3355023.67; 581644.96, 3355023.01; 581666.03, 3355022.35; 581676.19, 3355013.11; 581684.91, 3355014.14; 581687.99, 3355018.15; 581697.89, 3355019.21; 581724.95, 3355017.51; 581748.38, 3355018.47; 581762.87, 3355010.53; 581768.3, 3354999.93; 581763.72, 3354992.32; 581750.93, 3354995.93; 581747.73, 3354989.05; 581764.58, 3354982.73; 581760.85, 3354973.15; 581777.57, 3354971.19; 581784.45, 3354966.62; 581786.06, 3354955.92; 581795.97, 3354951.3; 581802.87, 3354944.85; 581816.35, 3354946.37; 581816.81, 3354927.78; 581821.7, 3354923.16; 581832.01, 3354923.79; 581836.91, 3354918.35; 581842.72, 3354908.2; 581844.58, 3354897.51; 581851.42, 3354889.13; 581852.87, 3354883.85; 581860.28, 3354889.6; 581866.57, 3354892.12; 581876.15, 3354879.94; 581889.08, 3354865.72; 581902.5, 3354853.38; 581916.16, 3354847.41; 581910.4, 3354855.2; 581911.41, 3354862.34; 581921.79, 3354860.6; 581940.66, 3354847.33; 581949.5, 3354848.62; 581956.49, 3354839.3; 581996.23, 3354823.25; 582050.34, 3354804.37; 582082.08, 3354790.86; 582083.47, 3354790.15.

580131.85, 3355422.1; 580071.14, 3355460.62; 580081.63, 3355462.18; 580083.3, 3355474.19; 580122.56, 3355473.6; 580144.94, 3355473.27; 580193.23, 3355472.51; 580191.4, 3355351.42; 580168.43, 3355358.47; 580135.99, 3355369.33; 580089.62, 3355385.03; 580074.55, 3355390.15; 580070.48, 3355391.74; 580071.14, 3355460.62.

582291.03, 3354655.74; 582083.47, 3354790.15; 582083.47, 3354790.96; 582152.58, 3354758.97; 582153.65, 3354747.88; 582136.48, 3354751.45; 582122.78, 3354759.04; 582104.8, 3354762.96; 582092.74, 3354768.59; 582086.82, 3354766.82; 582086.2, 3354759.69; 582091.07, 3354755.88; 582093.96, 3354751.58; 582098.73, 3354751.7; 582115.56, 3354746.12; 582134.68, 3354744.23; 582150.78, 3354735.95; 582157.29, 3354729.37; 582167.82, 3354721.7; 582181.78, 3354719.68; 582194.1, 3354719.17; 582193.88, 3354728.28; 582202.29, 3354725.31; 582202.91, 3354716.58; 582212.96, 3354712.09; 582209.93, 3354706.08; 582211.65, 3354700.57; 582221.17, 3354701.62; 582257.1, 3354694.59; 582266.05, 3354686.44; 582279.74, 3354678.86; 582290.88, 3354677.95; 582300.69, 3354683; 582306.77, 3354694.64; 582311.59, 3354692.38; 582311.02, 3354684; 582318.69, 3354678.26; 582334.41, 3354670.29; 582346.52, 3354662.66; 582359.22, 3354662.6; 582372.88, 3354656.64; 582379.99, 3354642.52; 582398.01, 3354637.04; 582421.15, 3354633.24; 582431.04, 3354635.05; 582434.73, 3354630.02; 582434.08, 3354624.08; 582437.74, 3354621.73; 582445.65, 3354622.37; 582451.12, 3354626.44; 582463.12, 3354623.18; 582474.39, 3354617.9; 582474.15, 3354610.78; 582480.15, 3354608.93; 582481.27, 3354612.52; 582487.28, 3354609.92; 582498.6, 3354603.02; 582487.94, 3354583.4; 582469.66, 3354567.84; 582378.29, 3354599.28; 582286, 3354635.44; 582083.69, 3354710.43; 582083.57, 3354754.07; 582083.47, 3354790.15.

(9) CBM—Unit 4: Deer Lake Unit, Walton County, Florida.

(i) General Description: Unit 4 consists of 116 ac (47 ha) in Walton County, Florida. This unit encompasses essential features of beach mouse habitat within the boundary of Deer Lake State Park as well as adjacent private lands from approximately 1 mile east of the Camp Creek Lake inlet west to approximately 0.5 mile west of the inlet of Deer Lake and the area from the MHWL north to the seaward extent of maritime forest or human development.

(ii) Coordinates: From USGS 1:24,000 quadrangle map Point Washington, Florida, land bounded by the following UTM 16 NAD 83 coordinates (E,N): 587936.95, 3352709.03; 588073.1, 3352728.14; 587973.52, 3352737.87; 587972.96, 3352695.34; 587965.98, 3352695.17; 587954.26, 3352687.32; 587937.81, 3352677.8; 587956.31, 3352684.63; 587965.27, 3352691.59; 587972.94, 3352691.1; 587972.73, 3352623.17; 587921.05, 3352640.8; 587885.12, 3352655.89; 587858.02, 3352670.32; 587833.03, 3352673.19; 587798.42, 3352686.69; 587832.63, 3352716.88; 587832.11, 3352741.78; 587891.48, 3352734.89; 587904.93, 3352734.48; 587907.05, 3352744.83; 587903.48, 3352763.78; 587890.72, 3352765.4; 587889.84, 3352780.55; 587888.2, 3352786.75; 587906.94, 3352784.03; 587924.42, 3352784.47; 587943.15, 3352781.81; 587945.35, 3352773.5; 587944.88, 3352741.4; 587962.39, 3352740.65; 587961.47, 3352777.46; 587970.93, 3352783.25; 587978.85, 3352784.26; 587990.99, 3352775.45; 587992.36, 3352784.6; 587993.06, 3352788.61; 588000.13, 3352791.54; 588000.76, 3352798.29; 587997.66, 3352810.89; 587993.77, 3352823.09; 587999.46, 3352833.91; 587995.02, 3352848.97; 587997.19, 3352857.32; 588011.25, 3352855.61; 588020.79, 3352855.1; 588021.85, 3352812.68; 588019.25, 3352805.87; 588020.5, 3352787.3; 588038.35, 3352788.56; 588037.08, 3352815.87; 588035.92, 3352838; 588035.4, 3352855.09; 588044.97, 3352853.39; 588047.17, 3352844.71; 588055.98, 3352842.12; 588067.52, 3352841.66; 588075.49, 3352850.08; 588074.08, 3352768.16; 588073.1, 3352728.14.

588091.29, 3352780.16; 588073.1, 3352727.82; 588074.09, 3352767.84; 588075.5, 3352849.76; 588081.43, 3352856.54; 588092.52, 3352842.14; 588102.83, 3352827.29; 588115.24, 3352823.29; 588121.46, 3352813.09; 588126.56, 3352799.79; 588134.79, 3352803.93; 588140.75, 3352804.08; 588147.59, 3352800.69; 588148.28, 3352790.72; 588148.82, 3352783.68; 588153.8, 3352775.06; 588163.71, 3352777.24; 588165.4, 3352773.73; 588158.34, 3352769.99; 588161.19, 3352767.26; 588165.89, 3352768.25; 588173.94, 3352764.08; 588183.82, 3352767.82; 588193.66, 3352770.12; 588201.12, 3352773.49; 588209.62, 3352768.9; 588203.19, 3352754.51; 588191.56, 3352742.73; 588172.2, 3352738.25; 588153.96, 3352736.98; 588142.05, 3352733.13; 588127.05, 3352732.76; 588116.68, 3352733.68; 588102.96, 3352726.22; 588088.17, 3352713.99; 588077.18, 3352708.91; 588067.67, 3352707.49; 588050.31, 3352703.12; 588030.3, 3352708.56; 588013.92, 3352711.71; 587998.57, 3352706.21; 588002.02, 3352695.55; 587997.38, 3352690.32; 587989.01, 3352691.3; 587980.57, 3352695.02; 587972.96, 3352695.2; 587973.52, 3352737.73; 588073.1, 3352727.82.

588443.73, 3352509.8; 587972.93, 3352691.28; 587977.94, 3352690.47; 587985.95, 3352687.92; 587998.73, 3352685.43; 588010.65, 3352685.72; 588015.36, 3352688.21; 588018.52, 3352688.73; 588020.67, 3352682.04; 588036.72, 3352691.56; 588038.15, 3352698.33; 588043.66, 3352700.41; 588056.04, 3352697.97; 588102.37, 3352704.3; 588110.71, 3352704.08; 588127.94, 3352698.2; 588164.16, 3352699.85; 588187.44, 3352702.43; 588206.05, 3352705.27; 588220.08, 3352700.06; 588223.37, 3352687.53; 588244.25, 3352687.18; 588250.09, 3352691.69; 588255.32, 3352689.08; 588257.13, 3352680.38; 588264.75, 3352677.83; 588276.37, 3352657.89; 588295.24, 3352650.43; 588302.6, 3352657.73; 588308.29, 3352650.82; 588317.7, 3352657.3; 588328.99, 3352665.19; 588344.36, 3352672.26; 588349.54, 3352669.64; 588365.69, 3352677.16; 588372.51, 3352674.52; 588371.86, 3352684.8; 588374.42, 3352693.23; 588378.74, 3352695.71; 588380.16, 3352702.12; 588382.89, 3352704.12; 588384.64, 3352697.86; 588382.34, 3352694.24; 588376.87, 3352690.92; 588378.91, 3352688.98; 588382.92, 3352687.51; 588381.92, 3352679.94; 588376.95, 3352671.51; 588359.68, 3352661.59; 588348.39, 3352653.75; 588349.39, 3352645.85; 588332.51, 3352637.5; 588338.66, 3352630.1; 588346.71, 3352625.93; 588349.43, 3352628.37; 588368.77, 3352633.22; 588382.74, 3352630.83; 588388.66, 3352616.68; 588385.08, 3352601.11; 588378.03, 3352597; 588377.78, 3352590.62; 588382.57, 3352589.93; 588384.41, 3352580.11; 588395.03, 3352583.94; 588395.74, 3352572.03; 588389.03, 3352567.99; 588383.05, 3352569.03; 588382.04, 3352563.76; 588386.57, 3352557.13; 588395.06, 3352551.41; 588405.13, 3352546.11; 588412.33, 3352543.92; 588417.05, 3352546.03; 588416.29, 3352560.31; 588424.53, 3352564.82; 588434.38, 3352568.25; 588435.38, 3352575.83; 588441.59, 3352581.54; 588455.62, 3352576.33; 588465.47, 3352579.76; 588470.08, 3352586.18; 588475.52, 3352605.05; 588482.19, 3352610.71; 588493.32, 3352610.17; 588505.76, 3352604.93; 588519.63, 3352606.46; 588530.06, 3352603.16; 588516.13, 3352587.77; 588521.95, 3352577.55; 588528.87, 3352571.04; 588530.79, 3352557.61; 588528.13, 3352553.17; 588515.82, 3352552.43; 588504.34, 3352549.46; 588500.51, 3352545.3; 588503.87, 3352537.9; 588515.99, 3352530.27; 588522.87, 3352525.26; 588531.94, 3352527.86; 588531.05, 3352515.97; 588531.68, 3352506.44; 588536.4, 3352492.32; 588545.5, 3352494.11; 588551.35, 3352498.63; 588554.74, 3352489.97; 588545.68, 3352487; 588544.75, 3352475.86; 588552.37, 3352473.31; 588563.83, 3352476.34; 588565.97, 3352484.01; 588570.13, 3352493.98; 588564.4, 3352500.95; 588561.81, 3352508.81; 588552.84, 3352518.52; 588554, 3352533.21; 588559.04, 3352540.08; 588563.89, 3352551.32; 588574.18, 3352554.69; 588583.14, 3352559.72; 588590.47, 3352570.58; 588594.29, 3352560.75; 588600.92, 3352565.66; 588600.67, 3352573.65; 588602.97, 3352593.12; 588603.58, 3352600.69; 588608.8, 3352598.44; 588616.04, 3352596.56; 588622.19, 3352605.46; 588638.02, 3352607.85; 588632.71, 3352611.71; 588619.89, 3352615.76; 588610.26, 3352619.46; 588599.34, 3352627.11; 588591.73, 3352631.67; 588599.59, 3352634.98; 588614.33, 3352632.98; 588623.63, 3352627.28; 588637.98, 3352624.89; 588636.99, 3352632.8; 588646.53, 3352633.03; 588654.98, 3352628.44; 588651.53, 3352639.46; 588655.8, 3352642; 588661.76, 3352643.28; 588666.63, 3352639.09; 588673, 3352637.31; 588672.53, 3352641.61; 588681.3, 3352640.64; 588685.61, 3352642.68; 588690.25, 3352647.98; 588693.62, 3352639.01; 588701.93, 3352639.97; 588717.91, 3352638.37; 588717.43, 3352623.75; 588724.34, 3352619.87; 588735.48, 3352618.96; 588753.23, 3352608.72; 588755.94, 3352610.79; 588752.21, 3352617.44; 588752.84, 3352622.26; 588765.62, 3352619.77; 588774.76, 3352621.56; 588782.32, 3352620.94; 588790.39, 3352614.08; 588814.67, 3352612.69; 588828, 3352605.84; 588832.46, 3352600.03; 588846.05, 3352597.24; 588855.16, 3352582.36; 588861.58, 3352581.71; 588870.31, 3352582.3; 588874.72, 3352580.42; 588872.95, 3352569.76; 588883.54, 3352577.45; 588892.6, 3352578.55; 588901.68, 3352581.52; 588905.76, 3352578.44; 588906.32, 3352572.09; 588914.73, 3352569.93; 588911.6, 3352563.17; 588911.38, 3352562.66; 588728.45, 3352322.32; 588728.13, 3352321.87; 588677.31, 3352338.08; 588530.76, 3352399.79; 588298.1, 3352504.24; 588188.01, 3352552.62; 588123.18, 3352570.79; 588087.86, 3352583.08; 588057.67, 3352598.94; 587972.72, 3352623.35; 587972.93, 3352691.28.

589371.4, 3352145.91; 588728.45, 3352322.32; 588911.38, 3352562.66; 588911.6, 3352563.17; 588915.11, 3352570.37; 588920.57, 3352558.59; 588919.95, 3352551.45; 588913.04, 3352544.16; 588901.63, 3352540.32; 588896.9, 3352538.58; 588899.4, 3352533.52; 588905.85, 3352530.5; 588912.11, 3352531.41; 588910.73, 3352523.07; 588903.29, 3352521.32; 588899.8, 3352517.68; 588903.94, 3352511.04; 588914, 3352503.3; 588907.12, 3352492.83; 588912.11, 3352486.65; 588912.24, 3352478.28; 588914.42, 3352470.41; 588922.55, 3352466.31; 588934.17, 3352462.66; 588935.51, 3352456.7; 588942.78, 3352448.52; 588950.22, 3352453.07; 588948.86, 3352460.16; 588943.04, 3352469.94; 588940.02, 3352479.41; 588952.58, 3352488.84; 588959.75, 3352488.27; 588977.34, 3352483.9; 588978.33, 3352475.62; 589002.87, 3352474.24; 589005.99, 3352466.39; 588999.92, 3352455.19; 589002.93, 3352445.34; 589010.18, 3352441.96; 589017.75, 3352425.11; 589025.39, 3352421.3; 589031.3, 3352420.64; 589034.3, 3352427.83; 589041.46, 3352430.44; 589048.46, 3352433.36; 589051.38, 3352427.88; 589059.09, 3352421.7; 589057.33, 3352414.98; 589059.47, 3352409.1; 589063.23, 3352402.02; 589067.34, 3352396.56; 589060.28, 3352392.83; 589060.52, 3352383.35; 589067.75, 3352376.72; 589067.58, 3352371.22; 589071.32, 3352364.2; 589084.44, 3352361.28; 589089.71, 3352357.04; 589092.78, 3352361.12; 589089.84, 3352367.35; 589100.52, 3352369.61; 589098.06, 3352359.69; 589102.65, 3352350.69; 589111.51, 3352346.16; 589125.49, 3352343.33; 589135.39, 3352344.39; 589144.57, 3352340.18; 589145.05, 3352336.64; 589150.25, 3352335.21; 589152.5, 3352340.82; 589157.22, 3352342.87; 589164.43, 3352340.68; 589174.45, 3352336.99; 589181.81, 3352328.81; 589188.33, 3352321.86; 589196.48, 3352313.76; 589203.06, 3352307.62; 589213.93, 3352299.52; 589220.81, 3352294.14; 589230.68, 3352284.09; 589242.65, 3352282.45; 589260.56, 3352281.27; 589270.73, 3352271.66; 589277.11, 3352270.57; 589284.96, 3352271.14; 589293.09, 3352267.04; 589299.67, 3352258.09; 589306.73, 3352262.2; 589312.51, 3352266.27; 589318.54, 3352266.49; 589327.85, 3352259.6; 589336.3, 3352255.01; 589342.86, 3352247.24; 589350.54, 3352241.94; 589360.54, 3352252.05; 589362.01, 3352257.21; 589367.61, 3352255.35; 589370.28, 3352244.37; 589385.37, 3352244.74; 589386.65, 3352256.64; 589369.01, 3352263.31; 589355.56, 3352276.9; 589353.36, 3352285.52; 589354.76, 3352292.74; 589365.89, 3352291.02; 589384.72, 3352281.37; 589384.94, 3352264.15; 589399.17, 3352264.5; 589406.98, 3352254.4; 589407.6, 3352248.48; 589413.09, 3352248.18; 589421.17, 3352258.68; 589430.47, 3352268.47; 589439.1, 3352272.99; 589446.26, 3352272.42; 589448.92, 3352277.6; 589458.54, 3352273.91; 589465.9, 3352265.35; 589467.83, 3352251.92; 589485.53, 3352243.62; 589490.68, 3352244.19; 589498.33, 3352239.63; 589506.05, 3352233.08; 589531.19, 3352228.53; 589547.51, 3352227.75; 589560.38, 3352221.7; 589574.02, 3352200.69; 589578.03, 3352182.94; 589592.03, 3352179.29; 589601.41, 3352185.52; 589605.19, 3352193.54; 589594.17, 3352205.13; 589588.58, 3352206.55; 589579.93, 3352218.26; 589581.38, 3352224.22; 589588.3, 3352233.14; 589594.97, 3352236.86; 589608.86, 3352207.93; 589620.58, 3352213.71; 589621.09, 3352225.21; 589626.53, 3352216.67; 589624.75, 3352205.89; 589638.93, 3352197.19; 589631.06, 3352191.75; 589631.67, 3352186.27; 589638.02, 3352183.62; 589650.29, 3352185.49; 589653.95, 3352182.02; 589636.78, 3352172.54; 589640.48, 3352167.08; 589658.27, 3352168.27; 589665.01, 3352171.69; 589675.73, 3352169.08; 589685.29, 3352155.15; 589688.96, 3352148.44; 589690.41, 3352138.17; 589695.61, 3352137.11; 589700.7, 3352126.94; 589704.7, 3352122.67; 589713.37, 3352125.63; 589714.7, 3352120.11; 589708.87, 3352114.85; 589710.63, 3352108.15; 589720.5, 3352110.77; 589723.21, 3352114.02; 589733.64, 3352112.72; 589737.27, 3352094.58; 589750.01, 3352093.71; 589755.21, 3352089.03; 589760.31, 3352092.34; 589763.37, 3352096.79; 589769.15, 3352091; 589777.25, 3352084.84; 589794.32, 3352082.89; 589800.5, 3352073.93; 589817.98, 3352073.93; 589821.52, 3352075.64; 589827.22, 3352069.42; 589833.52, 3352072.38; 589842.37, 3352068.23; 589841.75, 3352061.04; 589843.03, 3352057.14; 589847.14, 3352054.49; 589858.36, 3352066.7; 589865.6, 3352063.26; 589873.66, 3352055.91; 589871.26, 3352040.8; 589869.76, 3352036.77; 589874.14, 3352036.88; 589878.37, 3352042.16; 589886.26, 3352044.73; 589899.57, 3352039.57; 589896.01, 3352036.24; 589900.08, 3352032.4; 589909.73, 3352027.46; 589917.21, 3352014.98; 589918.9, 3352010.28; 589916.3, 3352005.03; 589934.68, 3352015.04; 589937.56, 3352011.12; 589933.34, 3352005.45; 589926.67, 3352002.1; 589913.56, 3352001.78; 589909.7, 3351997.37; 589907.9, 3351989.78; 589915.06, 3351989.58; 589917.61, 3351985.71; 589925.17, 3351985.09; 589936.31, 3351981.74; 589942.66, 3351968.85; 589951.7, 3351956.84; 589967, 3351948.86; 589987.94, 3351950.94; 590009.63, 3351957.42; 590014.35, 3351944.05; 589998.51, 3351941.72; 589960.11, 3351938.39; 589897.93, 3351943.14; 589852.71, 3351959.12; 589838.8, 3351956.34; 589831.31, 3351954.15; 589800.28, 3351955.38; 589779.7, 3351967.97; 589714.22, 3352012.29; 589675, 3352008.13; 589656.05, 3352002.53; 589645.54, 3351994.34; 589632.76, 3351980.54; 589618.56, 3351976.63; 589601.83, 3351978.15; 589592.53, 3351984.66; 589569.12, 3351999.55; 589557.12, 3352002.44; 589540.81, 3352002.84; 589528.07, 3352003.71; 589506.03, 3352011.47; 589483.7, 3352014.84; 589458.76, 3352011.1; 589382.06, 3352042.83; 589031.99, 3352193.54; 588728.45, 3352322.32.

589996.96, 3351859.71; 590144.84, 3351858.1; 590155.43, 3351847.31; 590157.73, 3351836.26; 590165.58, 3351822.97; 590181.64, 3351816.63; 590207.94, 3351797.49; 590212.45, 3351791.61; 590228.14, 3351784.07; 590254.4, 3351766.94; 590302.49, 3351750.66; 590320.97, 3351738.63; 590326.06, 3351729.46; 590324.95, 3351726.62; 590314.13, 3351729.97; 590304.97, 3351730.93; 590299.84, 3351729.62; 590299.14, 3351725.6; 590302.81, 3351721.76; 590312.47, 3351716.82; 590330.53, 3351709.72; 590354.2, 3351700.82; 590383.24, 3351695.8; 590401.7, 3351688.33; 590407.64, 3351677.18; 590430.54, 3351662.9; 590456.98, 3351658.56; 590467.59, 3351659.45; 590499.2, 3351634.89; 590510.15, 3351626.05; 590521.45, 3351618.78; 590515.79, 3351606.72; 590502.95, 3351596.09; 590486.84, 3351588.58; 590473.36, 3351591.61; 590449.21, 3351603.68; 590410.57, 3351619.57; 590315.92, 3351670.34; 590244.38, 3351703.01; 590160.52, 3351739.56; 590063.48, 3351771.04; 589957.56, 3351815.41; 589843.88, 3351860.7; 589806.61, 3351873.69; 589749.82, 3351888.13; 589544.86, 3351968.8; 589472.46, 3352003.07; 589491.14, 3352003.17; 589511.53, 3351998.49; 589531.13, 3351992.68; 589546.71, 3351989.88; 589563.81, 3351989.12; 589594.92, 3351968.49; 589609.72, 3351964.92; 589642.37, 3351962.11; 589662.45, 3351969.36; 589682.27, 3351986.89; 589694.88, 3351991.2; 589702.52, 3351987.84; 589733.42, 3351975.93; 589752.88, 3351960.13; 589781.04, 3351946.6; 589795.05, 3351942.14; 589822.46, 3351942.07; 589837.54, 3351943.63; 589848.68, 3351942.73; 589895.64, 3351924.05; 589922.29, 3351922.34; 589960.07, 3351921.28; 590002.61, 3351920.41; 590032.35, 3351922.71; 590043.44, 3351924.17; 590046.71, 3351921.07; 590045.25, 3351915.48; 590059.5, 3351917.46; 590070.51, 3351922.48; 590087.86, 3351927.65; 590098.8, 3351935.04; 590103.2, 3351933.97; 590110.3, 3351920.29; 590117.07, 3351903.79; 590129.81, 3351886.69; 590144.84, 3351858.1.

(iii) Note: Map 3 of Units 3 and 4 follows:

BILLING CODE 4310-55-P

BILLING CODE 4310-55-C

(10) CBM—Unit 5: West Crooked Island/ Shell Island Unit, Bay County, Florida.

(i) General Description: Unit 5 consists of 1,649 ac (667 ha) in Bay County, Florida. This unit encompasses essential features of beach mouse habitat within the boundaries of St. Andrew State Park mainland from 0.1 mile east of trailer park road east to the entrance channel of St. Andrew Sound, Shell Island east of the entrance of St. Andrew Sound east to East Pass, and West Crooked Island southwest of East Bay and east of the entrance channel of St. Andrew Sound, and areas from the MHWL north to the seaward extent of the maritime forest. Shell Island consists of State lands, Tyndall Air Force Base lands, as well as small private inholdings.

(ii) Coordinates: From USGS 1:24,000 quadrangle maps Panama City, Beacon Beach, and Long Point, Florida, land bounded by the following UTM 16 NAD 83 coordinates (E,N): 620962.07, 3334745.86; 620978.22, 3334694.43; 620963.77, 3334700.01; 620976.15, 3334719.99; 620956.7, 3334712.88; 620956.66, 3334745.41; 620948.27, 3334763.05; 620928.14, 3334789.51; 620941.26, 3334789.03; 620978.37, 3334767.36; 620984.33, 3334751.28; 620994.82, 3334745.55; 620996, 3334720.43; 620977.67, 3334704.34; 620978.22, 3334694.43.

621115.29, 3334512.76; 621027.54, 3334677.02; 621042.28, 3334675.83; 621059.27, 3334679.82; 621060.65, 3334656.44; 621061.4, 3334642.23; 621051.64, 3334635.24; 621048.65, 3334627.99; 621059.23, 3334617.95; 621063.55, 3334604.2; 621091.01, 3334602.89; 621105.19, 3334592.2; 621106.52, 3334602.91; 621092.44, 3334625.15; 621100.13, 3334635.27; 621117.48, 3334624.97; 621118.44, 3334618.25; 621133.23, 3334615.07; 621141.8, 3334605.79; 621136.35, 3334585.8; 621138.72, 3334570.44; 621145.26, 3334563.87; 621157.36, 3334572.1; 621172.61, 3334571.05; 621173.34, 3334542.35; 621169.33, 3334538.13; 621161.41, 3334525.63; 621149.18, 3334521.2; 621149.38, 3334513.03; 621166.25, 3334497.04; 621175.44, 3334489.28; 621190.74, 3334497.59; 621207.85, 3334496.46; 621215.02, 3334495.83; 621222.46, 3334500.38; 621237.23, 3334497.95; 621161.08, 3334456.02; 621156.94, 3334462.66; 621151.19, 3334470.07; 621141.15, 3334474.18; 621130.03, 3334473.9; 621131.83, 3334481.44; 621129.52, 3334494.05; 621132.53, 3334500.87; 621127.2, 3334507.42; 621121.2, 3334508.95; 621113.77, 3334503.59; 621105.71, 3334508.13; 621102.71, 3334517.17; 621109.43, 3334522.58; 621118.13, 3334519.99; 621120.4, 3334525.16; 621113.44, 3334532.92; 621108.79, 3334543.54; 621104.33, 3334531.88; 621098.28, 3334535.34; 621097.56, 3334548; 621094.56, 3334556.23; 621087.71, 3334560.42; 621079, 3334559.02; 621075.23, 3334566.48; 621073.05, 3334574.35; 621066.92, 3334580.88; 621057.57, 3334589.38; 621054.34, 3334575.44; 621043.47, 3334581.54; 621036.93, 3334604.34; 621030.52, 3334606.18; 621017.33, 3334608.97; 621015.44, 3334620.85; 621001.32, 3334629.23; 621006.55, 3334642.78; 621008.29, 3334652.38; 620993.35, 3334661.49; 621005.24, 3334662.98; 621014.21, 3334669.57; 621013.99, 3334678.3; 621027.54, 3334677.02.

621011.69, 3334454.98; 621105.55, 3334420.17; 621103.74, 3334416.94; 621091.67, 3334407.08; 621075.22, 3334397.56; 621051.7, 3334384.29; 621035.12, 3334379.94; 621017.74, 3334375.89; 621004.21, 3334376.48; 620990.68, 3334377.64; 620973.98, 3334377.28; 620954.83, 3334380.36; 620953.09, 3334386.69; 620949.35, 3334392.9; 620941.36, 3334394.32; 620932.72, 3334390.11; 620925.95, 3334391.06; 620920.91, 3334394.18; 620920.53, 3334433; 620917.84, 3334647.42; 620943.22, 3334636.07; 620952.01, 3334634.3; 620955.42, 3334624.89; 620964.75, 3334617.95; 620982.66, 3334616.84; 620986.14, 3334605; 620981.1, 3334583.9; 620988.2, 3334570.22; 621004.93, 3334569.02; 620999.23, 3334554.21; 621010.4, 3334553.3; 621017.76, 3334563.91; 621024.64, 3334559.34; 621013.85, 3334545.96; 621008.41, 3334540.64; 621012.94, 3334531.2; 621022.53, 3334528.64; 621029.3, 3334532.05; 621036.71, 3334534.17; 621045.49, 3334532.4; 621045.76, 3334525.35; 621041.13, 3334520.11; 621043.67, 3334510.19; 621049.33, 3334510.39; 621059.33, 3334503.84; 621063.49, 3334496.39; 621056.38, 3334494.22; 621052.54, 3334492.62; 621050.73, 3334485.83; 621048.1, 3334476.59; 621052.57, 3334472.33; 621060.98, 3334473.42; 621070.04, 3334476.27; 621074.08, 3334470.5; 621072, 3334458.15; 621079.83, 3334450.92; 621086.2, 3334446.59; 621092.08, 3334434.19; 621098.7, 3334423.93; 621105.55, 3334420.17.

621134.29, 3334358.78; 621024.33, 3334366.63; 621050, 3334373.26; 621075.14, 3334384.57; 621120.6, 3334410.31; 621147.97, 3334412.49; 621153.83, 3334400.34; 621164.8, 3334393.13; 621193.64, 3334399.78; 621206.9, 3334408.1; 621225.28, 3334420.05; 621242.42, 3334433.59; 621259.69, 3334442.33; 621264.4, 3334428.59; 621265.55, 3334414.76; 621265.21, 3334399.77; 621250.87, 3334381.87; 621232.94, 3334370.24; 621202.8, 3334351.63; 621169.49, 3334331.07; 621135.92, 3334307.25; 621114.85, 3334293.18; 621103.39, 3334288.96; 621091.03, 3334290.27; 621082.99, 3334294; 621059.43, 3334314.45; 621043.32, 3334322.72; 621028.39, 3334346.94; 621015.66, 3334348.18; 621005.21, 3334352.29; 621003.03, 3334360.16; 621008.45, 3334365.85; 621024.33, 3334366.63.

621508.01, 3333970.37; 621883.15, 3333499.89; 621861.99, 3333488.25; 621843.41, 3333484.22; 621828.35, 3333482.66; 621811.6, 3333484.61; 621795.21, 3333488.94; 621774.59, 3333502.35; 621752.2, 3333529.25; 621694.63, 3333605.52; 621669.77, 3333640.42; 621650.21, 3333665.02; 621638.96, 3333681.97; 621622.12, 3333703.77; 621614.29, 3333714.68; 621608.05, 3333725.64; 621593.27, 3333744.68; 621577.58, 3333766.51; 621566.56, 3333793.2; 621559.11, 3333820.79; 621552.25, 3333840.78; 621540.17, 3333862.33; 621529.13, 3333876.66; 621516.11, 3333889; 621503.05, 3333902.53; 621488.44, 3333914.09; 621477.46, 3333924.49; 621463.1, 3333942.36; 621454.03, 3333955.24; 621444.88, 3333969.3; 621440.19, 3333984.23; 621422.43, 3334026.55; 621414.13, 3334038.32; 621399.44, 3334053.81; 621382.49, 3334065.99; 621365.03, 3334080.22; 621354.05, 3334088.75; 621343.79, 3334103.48; 621334.7, 3334115.23; 621324.87, 3334128.41; 621314.33, 3334136.82; 621306.97, 3334143.06; 621299.69, 3334148.44; 621288.86, 3334152.1; 621277.63, 3334156.19; 621266.87, 3334157.48; 621254.62, 3334155.92; 621241.47, 3334155.65; 621224.85, 3334154.42; 621208.62, 3334150.52; 621193.13, 3334149.69; 621180.04, 3334150.93; 621161.92, 3334159.96; 621147.19, 3334175.13; 621142.16, 3334185.68; 621137, 3334201.03; 621124.32, 3334230.8; 621116.95, 3334255.21; 621118.04, 3334275.09; 621124.26, 3334280.37; 621130.4, 3334289.64; 621149.96, 3334302.05; 621185.16, 3334324.72; 621250.5, 3334365.63; 621266.49, 3334377.51; 621275.36, 3334388.04; 621282.53, 3334403.26; 621301.53, 3334390.69; 621317.33, 3334381.79; 621331.78, 3334388.64; 621339.82, 3334385.29; 621336.32, 3334366.16; 621326.58, 3334340.94; 621314.56, 3334328.34; 621331.42, 3334312.35; 621347.87, 3334312.76; 621370, 3334323; 621366.23, 3334346.68; 621383.65, 3334333.26; 621410.97, 3334306.23; 621424.69, 3334281.98; 621424.64, 3334267.69; 621388.94, 3334249.37; 621394.97, 3334240.04; 621413.39, 3334225.77; 621424.48, 3334212.06; 621443.99, 3334209.49; 621465.98, 3334188.7; 621474.29, 3334174.61; 621481.92, 3334155.39; 621491.05, 3334140.13; 621503.53, 3334133.71; 621526.41, 3334109.31; 621523.83, 3334101.32; 621509.74, 3334095.16; 621509.04, 3334072.79; 621526.74, 3334064.56; 621525.36, 3334055.79; 621512.55, 3334060.21; 621506.87, 3334045.83; 621519.93, 3334017.38; 621532.37, 3334013.64; 621536.69, 3334005.51; 621545.43, 3333985.19; 621551.86, 3333968.81; 621560.61, 3333952.36; 621598.1, 3333978.27; 621607.76, 3333962.16; 621608.17, 3333945.75; 621612.59, 3333933.5; 621629.25, 3333925.74; 621637.79, 3333913.66; 621642.31, 3333897.36; 621646.63, 3333889.22; 621650.95, 3333881.15; 621663.49, 3333873.23; 621680.17, 3333865.47; 621690.37, 3333849.75; 621693.43, 3333828.85; 621706.08, 3333816.81; 621718.94, 3333796.65; 621694.16, 3333800.09; 621681.72, 3333803.9; 621673.8, 3333791.4; 621680.05, 3333770.64; 621691.18, 3333754.88; 621699.41, 3333755.09; 621711.75, 3333755.4; 621719.97, 3333755.6; 621732.51, 3333747.74; 621744.96, 3333743.93; 621760.51, 3333761.99; 621770.93, 3333742.84; 621775.64, 3333729.1; 621761.92, 3333723.82; 621749.59, 3333723.51; 621741.57, 3333715.07; 621737.66, 3333706.8; 621737.87, 3333698.56; 621734.27, 3333678; 621733.96, 3333663.82; 621738.9, 3333656.82; 621751.03, 3333665.06; 621784.53, 3333676.2; 621808.21, 3333683.91; 621820.55, 3333684.22; 621824.76, 3333680.27; 621820.96, 3333667.81; 621822.81, 3333655.37; 621813.15, 3333651.2; 621813.19, 3333642.83; 621811.06, 3333632.48; 621810.04, 3333625.71; 621815.45, 3333615.92; 621822.51, 3333606.3; 621835.16, 3333594.32; 621847.81, 3333582.28; 621856.45, 3333566.08; 621856.55, 3333562.02; 621862.72, 3333553.69; 621859.7, 3333531.83; 621877.22, 3333530.27; 621899.07, 3333530.44; 621898.05, 3333524.05; 621890.18, 3333520.67; 621892.08, 3333508.86; 621883.15, 3333499.89.

621005.6, 3334164.58; 621156.94, 3334119.45; 621152.34, 3334112.59; 621138.89, 3334112.19; 621134.58, 3334107.4; 621103.46, 3334051.06; 621083.49, 3334039.44; 621058.44, 3334038.63; 621024.16, 3334012.61; 620874.41, 3334167.03; 620844.22, 3334206.91; 620859.42, 3334234.64; 620907.98, 3334342.48; 620911.58, 3334357.24; 620915.99, 3334357.97; 620935.08, 3334329.86; 620957.32, 3334314.94; 620971.6, 3334300.25; 620978.26, 3334286.19; 620987.1, 3334282.48; 620993.34, 3334287.38; 621007.36, 3334298.84; 621013.9, 3334291.08; 621029.46, 3334291.03; 621042.42, 3334311.21; 621042.23, 3334318.76; 621061.57, 3334308.13; 621072.7, 3334292.56; 621081.49, 3334290.03; 621104.05, 3334280.17; 621104.8, 3334264.02; 621109.3, 3334243.54; 621117.48, 3334218.77; 621126.03, 3334194.76; 621133.24, 3334176.72; 621145.98, 3334160; 621166.98, 3334146.67; 621156.94, 3334119.45.

621611.47, 3333575.96; 621899.95, 3333472.78; 621900.32, 3333455.69; 621896.66, 3333442.86; 621888.54, 3333433.54; 621877.5, 3333430.15; 621852.03, 3333463.15; 621804.87, 3333436.5; 621862.56, 3333355.11; 621873.62, 3333342.28; 621884.5, 3333336.25; 621898.81, 3333336.17; 621911.12, 3333336.11; 621927.47, 3333334.14; 621949.34, 3333333.88; 621982.75, 3333332.35; 621982.47, 3333312.49; 621978.98, 3333308.84; 621967.81, 3333310.56; 621965.99, 3333288.48; 621971.61, 3333286.06; 621992.29, 3333285.4; 622009.33, 3333287.45; 622008.39, 3333309.21; 621989.25, 3333311.1; 621990.31, 3333332.54; 622007.81, 3333332.17; 622032.06, 3333331.59; 622043.61, 3333331.07; 622052.74, 3333331.3; 622057.23, 3333326.29; 622075.72, 3333333.87; 622067.41, 3333348.33; 622052.91, 3333340.04; 622052.63, 3333335.66; 622050.24, 3333335.23; 622047.35, 3333340.34; 622048.19, 3333354.22; 622054.53, 3333354.75; 622057.47, 3333348.52; 622075.82, 3333357.22; 622070.43, 3333370.63; 622055.53, 3333361.89; 622054.02, 3333359.11; 622050.45, 3333358.64; 622050.87, 3333373.7; 622054.41, 3333375.35; 622055.73, 3333370.26; 622074.91, 3333381.42; 622068.28, 3333392.74; 622052.67, 3333381.3; 622052.36, 3333393.53; 621968.9, 3333393.43; 621923.57, 3333394.29; 621904.82, 3333397.37; 621896.73, 3333403.1; 621887.99, 3333418.36; 621896.52, 3333426.88; 621899.91, 3333434.52; 621904.78, 3333446.13; 621910.26, 3333465.3; 621908.98, 3333475.01; 621906.49, 3333488.99; 621899.48, 3333498.74; 621914.9, 3333517.73; 621925.15, 3333537.03; 621925.65, 3333517.19; 621915.48, 3333485.53; 621915.02, 3333472.04; 621919.73, 3333458.24; 621927.08, 3333450.49; 621925.89, 3333444.28; 621934.71, 3333441.32; 621933.02, 3333429.42; 621941.44, 3333426.45; 621940.4, 3333420.49; 621953.56, 3333418.45; 621952.17, 3333410.86; 621958.31, 3333403.9; 621967.87, 3333402.51; 621975.31, 3333407.45; 621991.19, 3333407.84; 621994.87, 3333403.63; 622003.98, 3333405.42; 622009.79, 3333411.12; 622021.66, 3333413.42; 622030.58, 3333405.71; 622043.66, 3333407.6; 622053.97, 3333424.09; 622067.49, 3333424.06; 622092.11, 3333425.05; 622103.83, 3333432.9; 622127.29, 3333432.8; 622144.08, 3333428.91; 622158.72, 3333437.33; 622166.78, 3333449.02; 622175.07, 3333451.17; 622180.71, 3333448.19; 622177.32, 3333440.55; 622155.8, 3333420.72; 622140.75, 3333387.19; 622137.39, 3333369.01; 622137.93, 3333347.61; 622144.08, 3333349.45; 622145.35, 3333330.63; 622139.59, 3333297.27; 622136.62, 3333273.41; 622123.66, 3333260.54; 622088.23, 3333238.11; 622059.32, 3333211.79; 622032.7, 3333163.93; 621995.93, 3333109.51; 621950.18, 3333158.3; 621925.08, 3333183.27; 621909.61, 3333197.17; 621890.82, 3333211.5; 621867.61, 3333233.51; 621840.27, 3333261.79; 621795.65, 3333297.5; 621748.76, 3333344.7; 621683.83, 3333397.75; 621604.06, 3333456.05; 621443.71, 3333605.78; 621389.69, 3333651.99; 621266.54, 3333778.11; 621129.36, 3333922.86; 621042.23, 3333988.91; 621066.17, 3334016.85; 621085.32, 3333998.29; 621121.05, 3333983.71; 621146.88, 3333968.5; 621176.94, 3333958.21; 621191.23, 3333990.28; 621231.17, 3333967.06; 621248.81, 3334008.33; 621274.52, 3334060.54; 621268.54, 3334076.62; 621175.2, 3334121.84; 621169.09, 3334126.49; 621170.19, 3334131.64; 621178.23, 3334141.83; 621190.57, 3334141.33; 621205.68, 3334140.9; 621221.09, 3334144.09; 621236.52, 3334147.23; 621258.74, 3334148.59; 621271.49, 3334147.29; 621291.97, 3334139.13; 621301.22, 3334134.99; 621311.78, 3334125.71; 621322.82, 3334113.31; 621333.93, 3334098.55; 621344.18, 3334086.13; 621351.96, 3334076.4; 621365.73, 3334066.45; 621382.35, 3334053.38; 621397.4, 3334039.9; 621408.77, 3334030.26; 621415.83, 3334018.14; 621425.84, 3333999.79; 621432.06, 3333973.35; 621437.52, 3333962; 621445.36, 3333950.34; 621454.85, 3333936.28; 621474.89, 3333914.19; 621490.01, 3333897.9; 621502.23, 3333885.91; 621518.08, 3333871.64; 621528.71, 3333860.42; 621534.9, 3333851.09; 621541.96, 3333839.34; 621548.84, 3333818.54; 621555.71, 3333797.67; 621564.37, 3333769.74; 621575.29, 3333746.66; 621589.2, 3333730.35; 621600.73, 3333715.15; 621618.79, 3333691.82; 621633.66, 3333670.04; 621648.02, 3333652.17; 621668.56, 3333625.72; 621688.35, 3333597.25; 621722.12, 3333550.53; 621745.91, 3333521.04; 621762.66, 3333502.8; 621777.71, 3333488.94; 621795.43, 3333480.27; 621807.43, 3333477.01; 621826.93, 3333475.51; 621847.19, 3333476.39; 621864.18, 3333480.38; 621874.83, 3333483.45; 621887.33, 3333491.69; 621899.95, 3333472.78; 621996.16, 3333194.73; 621990.25, 3333192.58; 621985.62, 3333187.72; 621987.37, 3333180.65; 621991.46, 3333176.38; 621998.21, 3333176.55; 622003.3, 3333179.49; 622005.56, 3333184.66; 622003.8, 3333191.36; 621996.16, 3333194.73; 622071.85, 3333314.36; 622058.5, 3333307.72; 622061.47, 3333300.24; 622074.04, 3333306.11; 622071.85, 3333314.36; 622093.43, 3333325.2; 622095.2, 3333317.76; 622108.61, 3333322.03; 622107.22, 3333329.92; 622093.43, 3333325.2; 621924.56, 3333323.77; 621912.23, 3333323.84; 621907.18, 3333319.34; 621910.83, 3333300.39; 621928.99, 3333305.65; 621924.56, 3333323.77.

622066.27, 3333307.03; 622071.85, 3333314.36; 622074.04, 3333306.11; 622061.47, 3333300.24; 622058.5, 3333307.72; 622071.85, 3333314.36.

623389.94, 3333035.44; 623323.45, 3333193.47; 623349.05, 3333170.77; 623377.48, 3333146.51; 623420.48, 3333096.41; 623444, 3333062.16; 623462.08, 3333038.02; 623477.02, 3333028.91; 623477.98, 3333013.08; 623475.86, 3332991.8; 623465.44, 3332983.61; 623457.48, 3332983.41; 623449.86, 3332969.99; 623436.92, 3332956.43; 623423.79, 3332950.79; 623413.37, 3332942.6; 623405.48, 3332939.72; 623397.59, 3332936.9; 623378.88, 3332941.73; 623370.78, 3332946.77; 623358.82, 3332956.52; 623349.47, 3332949.17; 623342.03, 3332960.1; 623332.88, 3332960.62; 623335.1, 3332951.56; 623334.17, 3332941.23; 623325.99, 3332932.41; 623315.18, 3332938.01; 623303.8, 3332931.79; 623301.89, 3332928.31; 623303.63, 3333200.47; 623323.45, 3333193.47.

623207.01, 3333030.35; 623301.89, 3332928.31; 623301.88, 3332926.77; 623299.51, 3332922.52; 623301.58, 3332915.71; 623300.16, 3332757.18; 623272.59, 3332791.82; 623238.88, 3332831.8; 623235.27, 3332853.49; 623239.65, 3332869.08; 623213.98, 3332894.16; 623212.26, 3332915.15; 623197.27, 3332926.26; 623190.01, 3332930.82; 623190.3, 3332919.34; 623177.76, 3332911.91; 623173.18, 3332920.54; 623159.54, 3332925.31; 623140.57, 3332921.28; 623134.66, 3332902.9; 623110.39, 3332919.71; 623113.08, 3332955.48; 623120.41, 3332979.83; 623127.22, 3333025.19; 623132.41, 3333039.62; 623143.96, 3333070.43; 623184.81, 3333120.96; 623208.89, 3333143.42; 623228.03, 3333156.94; 623253.69, 3333179.37; 623275.96, 3333194.6; 623303.63, 3333200.47; 623301.89, 3332928.31.

623723.2, 3332414.74; 623301.58, 3332915.71; 623311.98, 3332906.98; 623319, 3332896.8; 623331.66, 3332883.26; 623337.5, 3332872.29; 623347.93, 3332868.25; 623353.74, 3332858.84; 623352.44, 3332846.95; 623370.63, 3332835.11; 623377.77, 3332835.29; 623387.33, 3332818.48; 623402.21, 3332811.68; 623412.56, 3332795.33; 623422.77, 3332784.48; 623425.83, 3332773.44; 623446.89, 3332758.12; 623458.49, 3332739.37; 623467.6, 3332740.41; 623481.18, 3332721.71; 623490.29, 3332723.56; 623498.97, 3332709.86; 623518.81, 3332711.17; 623527.48, 3332698.34; 623535.17, 3332692.98; 623541.43, 3332681.21; 623562.79, 3332685.31; 623579.21, 3332684.47; 623595.06, 3332687.49; 623600.65, 3332677.08; 623591.73, 3332671.8; 623589.32, 3332657.82; 623601.68, 3332655.76; 623606.02, 3332625.78; 623621.71, 3332617.81; 623635.88, 3332607.49; 623648, 3332584.39; 623662.83, 3332579.64; 623677.37, 3332570.08; 623687.16, 3332560.4; 623703.64, 3332552.89; 623710.7, 3332540.77; 623731.36, 3332547.9; 623739.12, 3332556.09; 623750.91, 3332554.07; 623768.73, 3332556.52; 623779.31, 3332546.49; 623787.43, 3332536.08; 623790.42, 3332522.92; 623793.48, 3332507.08; 623799.04, 3332496.67; 623809.93, 3332486.33; 623825.98, 3332481.43; 623841.85, 3332484.51; 623846.68, 3332503.17; 623857.03, 3332513.98; 623870.51, 3332506.39; 623873.69, 3332485.31; 623873.95, 3332474.7; 623861.03, 3332461.15; 623861.29, 3332450.54; 623869.65, 3332434.83; 623872.71, 3332419.05; 623872.85, 3332413.75; 623883.65, 3332406.09; 623894.33, 3332403.68; 623913.89, 3332394.87; 623933.57, 3332402.48; 623942.31, 3332418.55; 623957.82, 3332413.26; 623965.15, 3332411.2; 623963.54, 3332397.49; 623960.78, 3332379; 623960.21, 3332354.39; 623996.24, 3332363.85; 624009.25, 3332374.79; 624022.46, 3332377.81; 624033.45, 3332365.79; 624025.84, 3332348.74; 624016.02, 3332332.45; 624026.05, 3332328.71; 624032.16, 3332309.13; 624035.08, 3332298.66; 624032.69, 3332287.99; 624040.98, 3332274.96; 624062.87, 3332270.95; 624069.1, 3332276.29; 624078.75, 3332287.64; 624088.66, 3332288.64; 624091.48, 3332273.54; 624083.91, 3332257.5; 624096.46, 3332247.26; 624108.2, 3332242.19; 624111.19, 3332229.03; 624100.84, 3332218.16; 624095.9, 3332206.42; 624082.93, 3332191.24; 624083.46, 3332170.09; 624086.44, 3332156.87; 624108.28, 3332133.64; 624127.19, 3332120.82; 624143.46, 3332107.99; 624146.23, 3332102.75; 624132.84, 3332107.72; 624124.73, 3332112.83; 624090.23, 3332111.96; 624080.03, 3332110.89; 624067.63, 3332129.56; 624057.86, 3332132.37; 624041.8, 3332137.21; 624022, 3332142.33; 624017.92, 3332146.6; 624012.52, 3332155.95; 624001.58, 3332152.12; 623988.32, 3332151.78; 623978.34, 3332155.47; 623975.23, 3332168.87; 623973.13, 3332173.56; 623958.41, 3332174; 623952.89, 3332187.97; 623948.73, 3332195.55; 623940.38, 3332195.34; 623928.53, 3332205.9; 623917.91, 3332205.64; 623904.79, 3332200; 623897.03, 3332191.88; 623897.23, 3332183.95; 623897.76, 3332162.74; 623906.94, 3332150.11; 623909.03, 3332136.56; 623917.41, 3332120.85; 623923.11, 3332105.14; 623931.4, 3332092.11; 623950.18, 3332084.59; 623962.99, 3332071.06; 623959.33, 3332058.67; 623951.47, 3332039.06; 623946.93, 3332061.17; 623941.66, 3332065.4; 623927.16, 3332073.34; 623927.1, 3332059.86; 623937.85, 3332047.2; 623940.76, 3332036.73; 623927.7, 3332028.41; 623938.58, 3332018.13; 623941.56, 3332004.91; 623947.01, 3331999.8; 623960.47, 3331992.15; 623968.76, 3331979.13; 623971.82, 3331963.35; 623969.3, 3331957.98; 623955.77, 3331968.19; 623950.25, 3331976.04; 623944.82, 3331981.21; 623942.36, 3331973.16; 623942.63, 3331962.61; 623942.96, 3331949.33; 623937.74, 3331937.21; 623931.52, 3331931.93; 623930.05, 3331942.57; 623933.81, 3331951.03; 623923.37, 3331955.51; 623915.11, 3331967.98; 623912.97, 3331980.41; 623923.12, 3331999.2; 623917.48, 3332012.3; 623903.94, 3332022.51; 623896.05, 3332019.69; 623872.3, 3332013.78; 623858.22, 3332017.3; 623853.62, 3332026.67; 623853.12, 3332037.15; 623847.41, 3332052.92; 623837.27, 3332060.34; 623841.37, 3332081.86; 623838.45, 3332092.4; 623830.02, 3332110.73; 623821.73, 3332123.75; 623808.32, 3332128.72; 623778.52, 3332151.82; 623775.48, 3332167.6; 623777.92, 3332175.65; 623769.63, 3332188.68; 623758.68, 3332201.63; 623753.11, 3332212.11; 623750.85, 3332196.13; 623740.04, 3332203.79; 623737.13, 3332214.33; 623738.14, 3332224.34; 623744.75, 3332227.75; 623744.35, 3332243.66; 623743.95, 3332259.57; 623732.93, 3332275.15; 623716.6, 3332290.66; 623675.33, 3332347.86; 623661.27, 3332357.18; 623658.21, 3332368.65; 623669.8, 3332381.99; 623663.65, 3332389.39; 623650.53, 3332389.06; 623643.59, 3332396.82; 623633.45, 3332404.86; 623636.58, 3332410.43; 623615.01, 3332423.19; 623596.3, 3332427.96; 623585.35, 3332440.98; 623563.45, 3332466.9; 623541.29, 3332503.43; 623522.34, 3332507.94; 623520.49, 3332518.57; 623524.73, 3332523.42; 623520.08, 3332534.79; 623494.08, 3332541.32; 623488.41, 3332545.54; 623478.47, 3332561.9; 623482.55, 3332573.11; 623451.17, 3332601.79; 623440.69, 3332596.22; 623441.02, 3332582.99; 623436.88, 3332571.59; 623416.27, 3332585.31; 623409.39, 3332590.31; 623418.34, 3332597.66; 623413.62, 3332616.76; 623402.15, 3332640.88; 623379.24, 3332650.98; 623345.03, 3332699.69; 623320.06, 3332746.82; 623307.25, 3332747.87; 623300.16, 3332757.18; 623301.58, 3332915.71.

624324.69, 3331250.34; 623608.09, 3331788.91; 623616.14, 3331784.74; 623622.23, 3331779.78; 623627.93, 3331773.18; 623633.63, 3331775.63; 623633.54, 3331779.06; 623633.4, 3331784.8; 623628.69, 3331789.24; 623625.17, 3331791.46; 623625, 3331798.32; 623627.21, 3331801.81; 623625.89, 3331808.71; 623624.56, 3331815.54; 623619.88, 3331818.86; 623616.32, 3331823.39; 623611.65, 3331825.52; 623603.56, 3331827.62; 623597.77, 3331828.66; 623594.25, 3331832.01; 623594.13, 3331836.56; 623596.37, 3331838.93; 623598.59, 3331842.42; 623601.91, 3331847.12; 623606.48, 3331848.36; 623607.46, 3331855.25; 623599.27, 3331860.79; 623593.5, 3331861.83; 623589.95, 3331865.17; 623588.75, 3331867.45; 623588.64, 3331872.01; 623590.79, 3331877.8; 623594.03, 3331885.94; 623593.94, 3331889.37; 623589.23, 3331893.81; 623585.71, 3331897.15; 623582.19, 3331899.37; 623582.11, 3331902.8; 623581.85, 3331910.35; 623571.8, 3331914.91; 623564.94, 3331919.04; 623560.77, 3331926.86; 623559, 3331934.37; 623546.8, 3331945.18; 623546.26, 3331950.72; 623550.67, 3331965.06; 623546.55, 3331986.37; 623551.47, 3331996.42; 623558.33, 3331991.85; 623563.22, 3331987.23; 623561.07, 3331962.2; 623552.11, 3331954.8; 623555.55, 3331944.59; 623565.06, 3331940.27; 623567.21, 3331946.06; 623570.65, 3331946.15; 623576.5, 3331942.86; 623576.55, 3331940.56; 623576.64, 3331937.13; 623576.7, 3331934.82; 623580.28, 3331929.16; 623580.34, 3331926.86; 623579.26, 3331924.58; 623585.1, 3331921.23; 623590.84, 3331921.38; 623594.26, 3331922.65; 623597.7, 3331922.74; 623600.06, 3331920.48; 623601.3, 3331917.08; 623602.48, 3331915.93; 623607.1, 3331914.92; 623609.4, 3331914.98; 623610.59, 3331913.88; 623612.94, 3331911.63; 623615.27, 3331910.57; 623617.63, 3331908.32; 623619.98, 3331906.07; 623620.01, 3331904.94; 623621.26, 3331901.54; 623625.97, 3331897.04; 623630.59, 3331896.03; 623637.49, 3331896.21; 623640.96, 3331895.11; 623641.08, 3331890.55; 623640.05, 3331885.91; 623640.22, 3331879.05; 623640.34, 3331874.43; 623639.24, 3331872.15; 623638.21, 3331867.51; 623632.46, 3331867.36; 623629.02, 3331867.28; 623624.39, 3331868.35; 623622.15, 3331865.98; 623619.91, 3331863.62; 623618.9, 3331857.85; 623622.53, 3331851.07; 623628.38, 3331846.6; 623643.45, 3331842.42; 623646.99, 3331839.08; 623648.22, 3331835.61; 623648.36, 3331829.93; 623653.05, 3331826.56; 623648.59, 3331820.76; 623646.47, 3331813.78; 623646.58, 3331809.23; 623646.7, 3331804.61; 623649.08, 3331801.24; 623653.77, 3331797.92; 623659.61, 3331794.64; 623661.97, 3331792.38; 623662.08, 3331787.83; 623663.37, 3331782.12; 623666.94, 3331777.59; 623670.52, 3331771.94; 623676.37, 3331768.65; 623677.64, 3331764.13; 623677.9, 3331753.77; 623678.1, 3331745.72; 623673.49, 3331745.61; 623669.99, 3331747.83; 623666.59, 3331745.43; 623666.71, 3331740.88; 623669.24, 3331731.77; 623670.45, 3331729.49; 623675.22, 3331722.74; 623672.95, 3331721.56; 623670.77, 3331716.89; 623674.3, 3331713.54; 623682.47, 3331709.13; 623689.3, 3331711.61; 623696.26, 3331709.47; 623698.64, 3331706.1; 623704.54, 3331700.5; 623708.11, 3331696.04; 623712.62, 3331689.28; 623709.65, 3331680.91; 623702.92, 3331678.74; 623721.87, 3331680.28; 623726.08, 3331684.69; 623731.8, 3331686.27; 623734.7, 3331684.91; 623743.33, 3331685.12; 623747.63, 3331685.23; 623751.8, 3331691.08; 623756.12, 3331691.19; 623756.22, 3331686.88; 623759.25, 3331681.22; 623758.06, 3331671.2; 623756.76, 3331665.42; 623759.71, 3331662.63; 623761.26, 3331658.36; 623758.56, 3331651.11; 623752.92, 3331646.66; 623751.48, 3331646.63; 623747.18, 3331646.52; 623744.09, 3331655.05; 623743.9, 3331662.23; 623742.21, 3331672.24; 623737.68, 3331680.67; 623730.58, 3331677.62; 623729.2, 3331667.1; 623729.4, 3331660.99; 623723.85, 3331658.85; 623720.97, 3331658.78; 623721.12, 3331653.04; 623719.79, 3331648.7; 623723.17, 3331640.61; 623720.19, 3331632.92; 623724.19, 3331629.34; 623732.44, 3331635.35; 623741.99, 3331634.4; 623745.7, 3331629.31; 623741.49, 3331623.28; 623743.59, 3331617.77; 623750.43, 3331615.14; 623746.64, 3331610.67; 623748.19, 3331606.4; 623754,

3331603.68; 623758.43, 3331599.48; 623762.85, 3331595.29; 623768.59, 3331595.43; 623781.29, 3331589.38; 623783.29, 3331582.88; 623786.34, 3331575.78; 623792.15, 3331573.05; 623798.21, 3331564.46; 623792.44, 3331561.63; 623792.59, 3331555.89; 623791.1, 3331547.18; 623796.79, 3331541.83; 623804.57, 3331537.53; 623813.33, 3331532.01; 623824.86, 3331530.86; 623826.3, 3331530.9; 623830.68, 3331528.14; 623838.07, 3331528.2; 623840.77, 3331531.39; 623840.95, 3331540.51; 623841.93, 3331548.89; 623847.88, 3331549.42; 623853.76, 3331552.38; 623857.21, 3331557.21; 623859.8, 3331564.76; 623864, 3331572.05; 623867.87, 3331576.08; 623870.63, 3331576.58; 623878.93, 3331578.73; 623883.32, 3331577.65; 623886.58, 3331574.61; 623899.29, 3331559.45; 623909.08, 3331547.15; 623909.68, 3331541.48; 623910.62, 3331535.95; 623911.05, 3331532.53; 623915.82, 3331531.84; 623919.94, 3331528.63; 623927.78, 3331532.82; 623931.87, 3331528.18; 623937.97, 3331522.78; 623943.62, 3331518.93; 623947.23, 3331517.83; 623955.4, 3331522.97; 623969.78, 3331519.77; 623974.36, 3331511.96; 623979.89, 3331515.47; 623989.58, 3331508.97; 623997.31, 3331502.05; 624005.69, 3331500.7; 624013.7, 3331498.09; 624021.65, 3331497.92; 624035.21, 3331494.45; 624030.64, 3331488.22; 624039.17, 3331481.31; 624044.62, 3331469.96; 624045.96, 3331464.01; 624046.43, 3331459.02; 624051.33, 3331455.84; 624060.93, 3331453.71; 624070.18, 3331449.2; 624076.25, 3331444.98; 624082.38, 3331438.39; 624092.84, 3331433.1; 624100.67, 3331435.85; 624111.05, 3331433.68; 624122.7, 3331429.23; 624131.17, 3331423.89; 624137.45, 3331429.47; 624145.26, 3331432.98; 624151.72, 3331428.77; 624154.3, 3331421.35; 624170.63, 3331421.57; 624186.23, 3331418.03; 624192.72, 3331413.01; 624201.99, 3331407.69; 624215.12, 3331407.2; 624227.82, 3331407.96; 624244.21, 3331404; 624262, 3331407.63; 624276.06, 3331401.62; 624280.16, 3331396.6; 624285.62, 3331385.19; 624299.16, 3331384.35; 624307.99, 3331381.01; 624324.07, 3331373.49; 624330.48, 3331371.28; 624343.08, 3331376.34; 624352.91, 3331380.58; 624365.78, 3331374.53; 624375.12, 3331366.47; 624392.42, 3331358.16; 624402.56, 3331349.74; 624407.86, 3331344.69; 624411.94, 3331340.42; 624416.36, 3331338.98; 624421.59, 3331336.3; 624426.93, 3331329.32; 624434.59, 3331325.14; 624441.14, 3331317.38; 624453.64, 3331310.57; 624469.87, 3331297.5; 624476.73, 3331292.93; 624488.51, 3331282.92; 624500.01, 3331268.1; 624503.73, 3331262.64; 624501.67, 3331249.17; 624499.92, 3331236.26; 624501.96, 3331218.15; 624505.83, 3331222.12; 624509.57, 3331215.85; 624512.9, 3331210; 624516.61, 3331204.97; 624520.26, 3331201.51; 624522.4, 3331195.57; 624527.28, 3331191.32; 624531.38, 3331186.3; 624537.83, 3331182.91; 624545.82, 3331181.49; 624549.12, 3331176.45; 624553.58, 3331172.57; 624559.32, 3331165.97; 624562.97, 3331162.5; 624562.33, 3331156.93; 624567.13, 3331155.49; 624575.95, 3331152.53; 624580.11, 3331145.08; 624584.73, 3331135.71; 624582.98, 3331126.18; 624588.25, 3331121.94; 624596.18, 3331122.51; 624603.81, 3331135.38; 624611.14, 3331128.07; 624611.75, 3331119.72; 624616.49, 3331121.03; 624622.85, 3331121.19; 624629.85, 3331127.35; 624635.9, 3331139.37; 624641.8, 3331157.74; 624646.52, 3331159.05; 624648.8, 3331147.62; 624644.27, 3331138.77; 624642.71, 3331121.68; 624643.31, 3331113.4; 624656.91, 3331125.66; 624665.27, 3331125.06; 624664.03, 3331111.55; 624666.15, 3331106.04; 624667.57, 3331096.96; 624673.76, 3331103.49; 624675.03, 3331116.57; 624679.62, 3331123.8; 624687.98, 3331122.82; 624682.84, 3331106.46; 624677.6, 3331077.8; 624687.39, 3331083.6; 624695.43, 3331095.29; 624697.52, 3331106.83; 624705.41, 3331109.03; 624713.32, 3331110.79; 624722.63, 3331120.13; 624733.74, 3331120.85; 624730.56, 3331105.29; 624735.53, 3331096.67; 624742.36, 3331094.1; 624749.56, 3331091.91; 624756.75, 3331091.28; 624762.06, 3331085.48; 624775.36, 3331093.31; 624783.48, 3331102.62; 624791.56, 3331097.71; 624787.91, 3331084.51; 624784.12, 3331077.3; 624786.7, 3331069.43; 624790.48, 3331061.6; 624794.15, 3331057.32; 624802.08, 3331058.33; 624809.13, 3331062.88; 624816.7, 3331061.88; 624816.13, 3331052.76; 624820.58, 3331050.06; 624825.45, 3331046.25; 624832.59, 3331046.43; 624839.41, 3331044.23; 624834.4, 3331023.75; 624836.91, 3331018.7; 624847, 3331026.94; 624862.3, 3331034.44; 624869.15, 3331030.68; 624872.59, 3331020.09; 624876.28, 3331016.19; 624877.22, 3331010.28; 624884.51, 3331004.91; 624895.21, 3331006.36; 624900.94, 3330999.39; 624900.75, 3330991.46; 624898.57, 3330983.48; 624901.12, 3330976.8; 624904.43, 3330971.33; 624903.18, 3330958.19; 624899.12, 3330945.41; 624903.64, 3330939.97; 624914.14, 3330950.47; 624923.72, 3330947.22; 624929.83, 3330941.44; 624934.82, 3330932.83; 624942.36, 3330934.51; 624953.57, 3330947.47;

624965.43, 3330963.75; 624976.51, 3330981.44; 624985.5, 3330989.1; 624997.68, 3330993.46; 625007.13, 3330981.02; 625021.88, 3330979.4; 625036.25, 3330976.64; 625047.37, 3330976.92; 625051.12, 3330970.27; 625055.8, 3330957.65; 625061.65, 3330946.75; 625069.46, 3330936.21; 625078.45, 3330926.51; 625078.61, 3330904.35; 625082.11, 3330891.77; 625085.18, 3330880.3; 625092.75, 3330879.3; 625099.25, 3330873.91; 625107.03, 3330864.62; 625113.56, 3330858.41; 625130.99, 3330876.33; 625140.67, 3330870.21; 625151.22, 3330862.17; 625153.41, 3330853.92; 625155.72, 3330841.25; 625156.97, 3330838.9; 625162.58, 3330837.11; 625169.38, 3330834.85; 625181.03, 3330830.4; 625185.84, 3330828.96; 625189.75, 3330833.3; 625198.28, 3330823.71; 625202.79, 3330818.64; 625209.61, 3330815.69; 625208.68, 3330807.24; 625213.22, 3330799.12; 625216.23, 3330789.64; 625222.49, 3330777.94; 625224.69, 3330769.26; 625226.06, 3330762.99; 625224.65, 3330755.4; 625221.21, 3330749.75; 625223.34, 3330744.25; 625229.28, 3330747.52; 625234.21, 3330754.83; 625236.77, 3330765.5; 625243.85, 3330766.55; 625243.67, 3330759.37; 625240.93, 3330742.26; 625241.22, 3330737.46; 625238.76, 3330733.84; 625241.61, 3330731.17; 625256.91, 3330754.96; 625263.98, 3330756.38; 625276.57, 3330745.59; 625279.93, 3330740.06; 625285.18, 3330737; 625292.21, 3330737.18; 625305.47, 3330735.95; 625313.36, 3330732.41; 625314.45, 3330720.51; 625316.96, 3330715.46; 625320.22, 3330711.98; 625320.76, 3330706.81; 625331.98, 3330703.16; 625341.52, 3330702.59; 625345.96, 3330700.33; 625351.96, 3330698.92; 625359.05, 3330707.59; 625368.33, 3330718.12; 625380.2, 3330703.75; 625381.08, 3330694.47; 625386.4, 3330688.24; 625368.73, 3330685.98; 625369.05, 3330673.32; 625372.5, 3330663.1; 625381.1, 3330652.65; 625386.66, 3330653.16; 625388, 3330658.37; 625380.23, 3330671.6; 625382.46, 3330677.65; 625387.61, 3330678.15; 625397.48, 3330665.29; 625404.43, 3330657.54; 625403.38, 3330645.46; 625399.18, 3330629.32; 625387.78, 3330618.11; 625385.96, 3330611.32; 625386.12, 3330605.02; 625383.88, 3330599.03; 625384.48, 3330591.12; 625388.6, 3330585.67; 625393.83, 3330582.99; 625400.97, 3330583.17; 625408.6, 3330580.61; 625411.21, 3330571.13; 625413.3, 3330567.25; 625424.3, 3330572.27; 625427.31, 3330563.23; 625429.79, 3330559.73; 625434.61, 3330557.48; 625440, 3330548.88; 625446.86, 3330544.31; 625453.34, 3330539.73; 625461.37, 3330536.74; 625466.81, 3330541.25; 625475.13, 3330542.65; 625475.39, 3330547.77; 625476.82, 3330554.55; 625478.3, 3330558.58; 625486.63, 3330559.6; 625491.41, 3330559.28; 625495.03, 3330557; 625496.79, 3330550.68; 625502.36, 3330550.07; 625509.54, 3330549.44; 625513.7, 3330557.47; 625515.21, 3330576.55; 625515.86, 3330582.5; 625519.45, 3330603.75; 625541.27, 3330605.48; 625562.47, 3330600.09; 625570.48, 3330597.54; 625575.34, 3330594.1; 625579.26, 3330580.72; 625580.19, 3330574.75; 625591.04, 3330570.28; 625591.64, 3330562.37; 625593.52, 3330548.18; 625597.69, 3330542.73; 625594.58, 3330540.28; 625587.14, 3330551.58; 625574.3, 3330556.37; 625568.76, 3330555.05; 625556.15, 3330551.55; 625551.39, 3330544.56; 625554.58, 3330527.98; 625556.6, 3330511.36; 625555.91, 3330497.67; 625577.28, 3330501.39; 625593, 3330508.53; 625603.59, 3330507.42; 625609.13, 3330514.86; 625621.31, 3330514.17; 625625.95, 3330510.11; 625631.67, 3330497.39; 625633.89, 3330487.96; 625637.13, 3330485.67; 625644.25, 3330483.72; 625650.93, 3330480.64; 625656.4, 3330478.22; 625663.15, 3330478.02; 625667.53, 3330478.13; 625681.45, 3330483.78; 625691.17, 3330486.21; 625696.03, 3330482.78; 625704.08, 3330479.05; 625708.9, 3330476.36; 625711.41, 3330471.68; 625712.9, 3330465.91; 625721.95, 3330469.32; 625729.74, 3330475.88; 625736.48, 3330476.43; 625745.11, 3330474.9; 625740.21, 3330470.59; 625736.81, 3330463.39; 625737.89, 3330446.19; 625732, 3330433.93; 625727.43, 3330425.89; 625724.12, 3330415.07; 625720.54, 3330399.56; 625728.43, 3330401.69; 625735.92, 3330398.13; 625743.15, 3330410.61; 625749.46, 3330412.77; 625759.39, 3330403.28; 625762.05, 3330392.67; 625765.4, 3330386.02; 625773.74, 3330385.79; 625789.39, 3330374.13; 625802.29, 3330366.9; 625808.75, 3330362.76; 625811.3, 3330355.65; 625812.4, 3330343.81; 625817.05, 3330333.19; 625817.21, 3330326.89; 625826.39, 3330325.12; 625834.01, 3330322.13; 625843.64, 3330318.82; 625853.31, 3330313.88; 625859.92, 3330303.37; 625863.37, 3330292.78; 625865.87, 3330288.47; 625874.2, 3330289.06; 625880.25, 3330285.28; 625883.28, 3330275.8; 625890.69, 3330280.73; 625894.51, 3330287.2; 625900.44, 3330288.16; 625907.6, 3330288.71; 625914.52, 3330297.63; 625922.07, 3330297.38; 625933.23, 3330280.62; 625942.48, 3330245.21; 625941.14, 3330234.87; 625943.59, 3330232.12; 625948.77, 3330231.88; 625955.9,

3330232.87; 625959.58, 3330244.45; 625965.44, 3330248.53; 625975.01, 3330246.83; 625983.68, 3330250.17; 625992.06, 3330249.2; 625999.31, 3330245.01; 626001.15, 3330234.76; 626004.08, 3330228.9; 626008.98, 3330223.91; 626010.39, 3330215.2; 626004.48, 3330197.57; 626007.06, 3330189.71; 626012.23, 3330189.47; 626018.52, 3330192.43; 626026.69, 3330199.32; 626034.99, 3330201.52; 626042.34, 3330209.26; 626053.47, 3330209.54; 626064.41, 3330216.93; 626067.59, 3330216.64; 626069.85, 3330205.96; 626075.04, 3330204.9; 626082.07, 3330194.03; 626078.03, 3330164.96; 626083.53, 3330167.85; 626086.09, 3330177.03; 626091.99, 3330179.17; 626102.04, 3330174.68; 626103.8, 3330167.61; 626108.65, 3330164.55; 626116.15, 3330166.73; 626128.62, 3330160.68; 626128.58, 3330146.82; 626136.61, 3330143.46; 626141.54, 3330136.85; 626139.81, 3330126.5; 626131.7, 3330117.56; 626121.16, 3330121.6; 625709.38, 3330333.67; 625710.98, 3330211.17; 625667.14, 3330241.78; 625647.64, 3330258.02; 625625.86, 3330279.07; 625587.25, 3330301.64; 625568.91, 3330310.16; 625548.73, 3330320.52; 625526.95, 3330331.89; 625503.92, 3330346.73; 625475.66, 3330363.88; 625414.55, 3330398.42; 625381.46, 3330417.5; 625348.32, 3330438.33; 625309.72, 3330460.83; 625285.56, 3330485.51; 625261.53, 3330504.82; 625242.49, 3330522.69; 625219.86, 3330537.6; 625164.14, 3330556.37; 625124.23, 3330578.77; 625088.53, 3330623.44; 625005.3, 3330676.85; 624947.88, 3330710.67; 624930.88, 3330723.29; 624914.85, 3330732.19; 624850.83, 3330781.58; 624818.75, 3330808.93; 624776.67, 3330838.4; 624737.08, 3330863.93; 624715.01, 3330872.49; 624673.41, 3330898.85; 624628.64, 3330924.26; 624581.75, 3330955.98; 624554.29, 3330973.14; 624521.38, 3330996.22; 624471.97, 3331016.45; 624449.99, 3331033.13; 624442.44, 3331047.3; 624396.91, 3331084.86; 624372.12, 3331098.59; 624245.08, 3331175.74; 624227.4, 3331192.46; 624201.03, 3331211.9; 624177.59, 3331228.54; 624143.79, 3331257.78; 624126.18, 3331271.69; 624098.45, 3331288.16; 624075.33, 3331305.94; 624042.09, 3331331.32; 624016.37, 3331349.21; 623988.56, 3331368.61; 623963.67, 3331386.65; 623943.07, 3331404.74; 623906.22, 3331426.04; 623801.06, 3331498.3; 623768.67, 3331522.08; 623746.75, 3331540.57; 623719.64, 3331559.68; 623691.64, 3331582.39; 623658.3, 3331610.2; 623612.54, 3331645.76; 623573.86, 3331682.3; 623476.36, 3331762.5; 623395.39, 3331825.83; 623291.29, 3331895.94; 623263.75, 3331921.4; 623213.98, 3331956.6; 623174.9, 3331988.15; 623143.72, 3332011.52; 623112.09, 3332035.76; 623055.93, 3332072.74; 623033.86, 3332096.4; 623013.02, 3332116.86; 622880.19, 3332222.14; 622656.44, 3332390.56; 622631.76, 3332410.16; 622614.36, 3332425.14; 622532.71, 3332479.4; 622507.85, 3332535.83; 622527.13, 3332574.77; 622565.49, 3332582.47; 622611.92, 3332585.2; 622650.52, 3332598.9; 622666.13, 3332610.35; 622664.85, 3332629.35; 622669.15, 3332648.13; 622686.45, 3332655.3; 622726.23, 3332638.45; 622767.22, 3332620.44; 622805.7, 3332607.17; 622828.87, 3332602.57; 622881.81, 3332599.91; 622906.01, 3332601.33; 622927.67, 3332608.99; 622946.11, 3332619; 622940.86, 3332606.2; 622932.25, 3332600.8; 622934.18, 3332587.37; 622934.84, 3332576.71; 622926.92, 3332575.7; 622924.84, 3332579.2; 622902.9, 3332582.65; 622891.44, 3332580.36; 622885.24, 3332589.69; 622878, 3332593.13; 622872.04, 3332593.36; 622863.36, 3332574.47; 622862.54, 3332565.84; 622868.34, 3332550.82; 622879.06, 3332542.41; 622890.36, 3332528.02; 622889.88, 3332516.09; 622893.27, 3332507.5; 622886.17, 3332505.69; 622882.73, 3332514.72; 622883.34, 3332523.1; 622880.47, 3332520.66; 622872.7, 3332514.91; 622863.61, 3332512.31; 622858.4, 3332503.81; 622850.16, 3332498.86; 622841.75, 3332501.83; 622832.42, 3332504.41; 622822.44, 3332521.95; 622813.31, 3332516.91; 622808.15, 3332511.47; 622811.19, 3332495.7; 622805.31, 3332476.32; 622820.1, 3332458.84; 622830.97, 3332448.5; 622839.28, 3332435.47; 622852.4, 3332441.11; 622860.16, 3332449.23; 622878.67, 3332452.32; 622884.26, 3332441.91; 622876.56, 3332431.11; 622884.51, 3332429.18; 622895.21, 3332428.89; 622911.19, 3332426.67; 622924.67, 3332419.08; 622932.63, 3332419.28; 622940.59, 3332419.48; 622945.82, 3332422.23; 622953.78, 3332422.43; 622956.51, 3332419.88; 622956.71, 3332411.89; 622956.91, 3332403.97; 622965.22, 3332396.31; 622967.92, 3332388.39; 622970.65, 3332385.78; 622978.81, 3332378.05; 622976.28, 3332372.68; 622981.87, 3332362.21; 622988.11, 3332350.95; 623005.53, 3332337.9; 623018.11, 3332343.33; 623027.58, 3332339.51; 623036.93, 3332353.36; 623045.69, 3332358.51; 623053.58, 3332361.39; 623057.4, 3332365.73; 623054.47, 3332371.96; 623059.9, 3332376.91; 623067.4, 3332379.47; 623076.07, 3332382.43; 623083.48, 3332371.94; 623076, 3332368.95; 623077.71,

3332364.62; 623076.45, 3332351.1; 623071.15, 3332341.11; 623062.78, 3332341.65; 623060.89, 3332337.67; 623061.47, 3332330.94; 623063.22, 3332324.24; 623068.19, 3332316.44; 623070.84, 3332308.83; 623071.41, 3332299.1; 623066.34, 3332295.36; 623057.84, 3332297.95; 623052.95, 3332290.27; 623047.24, 3332295.69; 623031.9, 3332305.23; 623022.09, 3332316.47; 623014.84, 3332318.03; 623008.72, 3332310.58; 622996.4, 3332310.64; 622988.67, 3332317.62; 622990.76, 3332325.36; 622985.24, 3332333.21; 622970.48, 3332340.95; 622963.32, 3332345.52; 622956.58, 3332356.08; 622960.56, 3332364.36; 622960.3, 3332374.9; 622952.07, 3332385.31; 622946.56, 3332393.1; 622936, 3332390.21; 622928.24, 3332382.09; 622922.88, 3332384.58; 622917.43, 3332389.75; 622914.65, 3332394.98; 622906.21, 3332413.31; 622893.08, 3332407.67; 622889.39, 3332397.84; 622886.35, 3332397.89; 622888.47, 3332393.2; 622887.33, 3332391.17; 622886.4, 3332384.72; 622880.85, 3332369.6; 622894.25, 3332367.5; 622899.62, 3332381.56; 622908.79, 3332375.48; 622917.88, 3332378.08; 622929.88, 3332374.83; 622936.11, 3332353.13; 622923.76, 3332332.29; 622942.92, 3332326.84; 622956.51, 3332313.95; 622978.28, 3332293.27; 622984.45, 3332295.73; 622995.77, 3332288.09; 622989.7, 3332261.78; 622995.27, 3332251.31; 623004.57, 3332254.16; 623012.14, 3332253.61; 623029.98, 3332244.25; 623038.14, 3332236.53; 623048.54, 3332223.62; 623061.29, 3332222.75; 623067.31, 3332220.1; 623072.25, 3332197.62; 623083.98, 3332189.61; 623089.6, 3332171.53; 623104.95, 3332146.13; 623111.47, 3332139.55; 623116.67, 3332138.5; 623119.86, 3332121.91; 623127.75, 3332124.11; 623145.11, 3332101.45; 623151.59, 3332108.85; 623161.72, 3332101.18; 623168.33, 3332075.56; 623169.39, 3332065.29; 623176.83, 3332069.1; 623181.98, 3332085.83; 623194.02, 3332086.13; 623202.49, 3332076.05; 623196.73, 3332055.11; 623199.65, 3332044.57; 623206.23, 3332043.24; 623213.97, 3332046.25; 623218.23, 3332024.5; 623237.75, 3332022.19; 623243.88, 3332031.89; 623256.87, 3332036.59; 623259.39, 3332031.09; 623253.9, 3332028.58; 623256.38, 3332019.53; 623269.65, 3332018.24; 623269.65, 3332026.98; 623266.53, 3332031.27; 623269.66, 3332034.1; 623276.19, 3332038.26; 623285.88, 3332031.76; 623288.9, 3332022.35; 623296.18, 3332017.35; 623301.5, 3332011.18; 623304.22, 3332004.82; 623314.53, 3331998.77; 623321.36, 3331984.65; 623327.81, 3331981.69; 623336.17, 3331980.71; 623342.15, 3331980.05; 623348.57, 3331977.84; 623353.87, 3331972.42; 623357.55, 3331968.14; 623363.58, 3331965.54; 623368.03, 3331962.85; 623372.08, 3331959.76; 623371.51, 3331950.64; 623375.3, 3331942.43; 623379.08, 3331933.78; 623382.87, 3331925.58; 623387, 3331919.75; 623394.37, 3331910.82; 623402.11, 3331903.46; 623410.52, 3331900.87; 623422.08, 3331899.6; 623433.58, 3331900.26; 623439.64, 3331896.48; 623448.48, 3331892.71; 623446.71, 3331884.36; 623451.59, 3331880.11; 623461.97, 3331877.63; 623466.84, 3331873.75; 623472.34, 3331871.96; 623481.45, 3331862.26; 623487.64, 3331853.3; 623494.05, 3331851.09; 623502.84, 3331849.31; 623512.45, 3331846; 623520.19, 3331839.01; 623524.3, 3331833.62; 623527.59, 3331828.9; 623528.3, 3331817.05; 623528.84, 3331811.14; 623532.62, 3331803.31; 623536.73, 3331797.85; 623543.21, 3331792.83; 623547.95, 3331794.14; 623551, 3331798.96; 623559.21, 3331804.35; 623566.31, 3331806.9; 623573.49, 3331805.89; 623581.1, 3331802.9; 623590.43, 3331796.02; 623598.89, 3331791.05; 623608.09, 3331788.91; 625657.78, 3330371.95; 625637.08, 3330331.23; 625664.35, 3330317.62; 625685.05, 3330358.4; 625657.78, 3330371.95.

625661.06, 3330344.79; 625657.78, 3330371.95; 625685.05, 3330358.4; 625664.35, 3330317.62; 625637.08, 3330331.23; 625657.78, 3330371.95.

626504.06, 3329824.25; 625838.06, 3330151.49; 625804.88, 3330169.39; 625740.18, 3330197.86; 625710.99, 3330211.17; 625709.39, 3330333.67; 626121.17, 3330121.6; 626119.55, 3330110.7; 626123.64, 3330099.37; 626083.45, 3330120.09; 626069.91, 3330127.11; 626042.78, 3330141.1; 626015.72, 3330155.03; 626000.11, 3330128.79; 625984.49, 3330102.56; 626011.57, 3330088.63; 626025.22, 3330081.54; 626038.44, 3330074.76; 626052.21, 3330067.62; 626092.84, 3330046.66; 626119.92, 3330032.74; 626144.92, 3330074.73; 626148.36, 3330071.34; 626152.26, 3330074.25; 626156.65, 3330073.92; 626158.57, 3330067.92; 626133.44, 3330025.71; 626160.61, 3330011.72; 626187.63, 3329997.8; 626201.15, 3329990.77; 626228.55, 3329976.66; 626241.77, 3329969.82; 626268.86, 3329955.89; 626300.15, 3330008.3; 626232.23, 3330043.36; 626218.68, 3330050.33; 626194.06, 3330063.04; 626192.51, 3330070.52; 626181.27, 3330090.59; 626255.33, 3330052; 626308.52, 3330024.56; 626324.13, 3330050.79; 626270.94, 3330078.23; 626280.36, 3330093.95; 626307.42, 3330080.02; 626320.97, 3330073; 626333.5, 3330066.57; 626358.43, 3330108.34; 626360.05, 3330108.81; 626359.5, 3330110.11; 626362.15, 3330114.73; 626365.18, 3330110.13; 626372.77, 3330108.7; 626374.98, 3330104.26; 626348.07, 3330059.07; 626361.61, 3330052.05; 626402.22, 3330031.09; 626429.32, 3330017.11; 626456.41, 3330003.18; 626482.49, 3329989.73; 626506.35, 3330029.47; 626512.44, 3330024.44; 626518.98, 3330018.74; 626472, 3329940.21; 626485.56, 3329933.25; 626512.7, 3329919.26; 626539.82, 3329905.27; 626553.39, 3329898.25; 626615.59, 3329866.17; 626627.97, 3329883.96; 626660.94, 3329934.16; 626674.49, 3329927.95; 626639.72, 3329874.14; 626632.05, 3329863.08; 626716.43, 3329814.77; 626724.41, 3329828.14; 626739.94, 3329852.62; 626752.23, 3329843.44; 626739.12, 3329823.08; 626725.94, 3329801.58; 626792.35, 3329763.55; 626805.59, 3329756.02; 626858.49, 3329725.7; 626892.3, 3329782.42; 626905.51, 3329806.41; 626905.76, 3329806.35; 626909.01, 3329805.87; 626920.95, 3329805.36; 626921.41, 3329805.31; 626910.2, 3329779.25; 626874.35, 3329716.61; 626887.59, 3329709.08; 626900.79, 3329701.48; 626927.25, 3329686.35; 627298.74, 3329473.71; 627285.39, 3329459.96; 627206.06, 3329505.4; 627179.59, 3329520.53; 627153.15, 3329535.66; 627121.96, 3329483.31; 627148.38, 3329468.12; 627174.86, 3329453; 627254.2, 3329407.61; 627246, 3329393.81; 627206.29, 3329416.52; 627179.86, 3329431.65; 627166.62, 3329439.24; 627113.72, 3329469.5; 627107.83, 3329459.61; 627093.66, 3329465.62; 627100.63, 3329477.28; 627074.19, 3329492.48; 627060.97, 3329500.01; 627047.72, 3329507.6; 627034.53, 3329515.14; 627021.29, 3329522.73; 626994.85, 3329537.86; 626968.39, 3329552.99; 626960.56, 3329539.85; 626947.19, 3329547.09; 626955.16, 3329560.58; 626928.73, 3329575.71; 626915.49, 3329583.31; 626902.29, 3329590.84; 626889.05, 3329598.44; 626875.83, 3329605.97; 626862.59, 3329613.56; 626849.39, 3329621.16; 626822.91, 3329636.29; 626809.91, 3329614.49; 626796.46, 3329620.95; 626809.72, 3329643.82; 626730.35, 3329689.27; 626703.91, 3329704.4; 626677.45, 3329719.53; 626661.06, 3329691.96; 626659.98, 3329690.12; 626646.77, 3329697.03; 626647.78, 3329699.55; 626707.1, 3329799.05; 626621.55, 3329848.03; 626555.21, 3329752.53; 626551.24, 3329746.82; 626538.68, 3329753.37; 626542.01, 3329760.07; 626559.56, 3329785.35; 626462.68, 3329835.29; 626435.54, 3329849.28; 626422.01, 3329856.31; 626406.35, 3329830.07; 626404.51, 3329826.65; 626391.12, 3329834.12; 626392.83, 3329837.03; 626408.44, 3329863.27; 626381.35, 3329877.26; 626313.68, 3329912.2; 626300.11, 3329919.16; 626286.59, 3329926.19; 626273.02, 3329933.15; 626257.4, 3329906.91; 626243.87, 3329913.88; 626259.5, 3329940.11; 626232.4, 3329954.1; 626218.88, 3329961.07; 626205.31, 3329968.09; 626178.26, 3329982.02; 626164.69, 3329989.04; 626151.17, 3329996.01; 626137.63, 3330003.03; 626124.07, 3330009.99; 626113.42, 3329992.11; 626100.09, 3329999.78; 626110.53, 3330016.96; 626069.92, 3330037.91; 625975.11, 3330086.84; 625968.46, 3330075.75; 625955.55, 3330083.75; 625961.56, 3330093.8; 625933.14, 3330108.49; 625935.59, 3330113.81; 625920.23, 3330124.16; 625915.93, 3330116.81; 625907.4, 3330121.78; 625893.88, 3330128.74; 625880.31, 3330135.77; 625838.07, 3330157.56; 625838.06, 3330151.49; 626472.04, 3329851.07; 626570.05, 3329800.47; 626605.14, 3329850.98; 626503.32, 3329903.48; 626489.76, 3329910.51; 626476.19, 3329917.53; 626462.62, 3329924.49; 626447.01, 3329898.26; 626431.38, 3329872.02; 626444.92, 3329865.06; 626458.47, 3329858.03; 626472.04, 3329851.07; 626928.45, 3329664.6; 626862.35, 3329702.45; 626831.15, 3329650.1; 626884.05, 3329619.78; 626897.25, 3329612.19; 626910.49, 3329604.66; 626923.71, 3329597.06; 626950.15, 3329581.93; 626963.39, 3329574.34; 626978.97, 3329600.57; 626994.59, 3329626.75; 626941.68, 3329657.01; 626928.45, 3329664.6; 626716.89, 3329785.69; 626685.67, 3329733.34; 626817.91, 3329657.64; 626849.12, 3329709.98; 626716.89, 3329785.69; 626313.67, 3330001.34; 626282.43, 3329948.87; 626417.82, 3329879.05; 626449.1, 3329931.46; 626313.67, 3330001.34; 626989.83, 3329559.21; 627003.05, 3329551.68; 627029.53, 3329536.55; 627042.73, 3329528.95; 627095.63, 3329498.63; 627108.87, 3329491.1; 627124.45, 3329517.27; 627140.06, 3329543.45; 627073.92, 3329581.3; 627060.7, 3329588.89; 627021.02, 3329611.56; 627007.83, 3329619.15; 626976.63, 3329566.8; 626989.83, 3329559.21; 626433.47, 3329994.43; 626419.93, 3330001.39; 626352.22, 3330036.33; 626338.67, 3330043.29; 626323.04, 3330017.06; 626336.61, 3330010.09; 626404.27, 3329975.15; 626417.84, 3329968.19; 626431.37, 3329961.16; 626457.46, 3329947.71; 626473.09, 3329973.95; 626447, 3329987.4; 626433.47, 3329994.43; 625893.87, 3330217.89; 625838.22, 3330246.58; 625838.12, 3330178.09; 625862.63, 3330165.48; 625876.15, 3330158.45; 625889.67, 3330151.49; 625903.24, 3330144.52; 625916.77, 3330137.5; 625943.86, 3330123.51; 625970.95, 3330109.58; 625986.58, 3330135.82; 626002.2, 3330161.99; 625974.99, 3330176.04; 625961.47, 3330183.07; 625948.05, 3330189.97; 625920.96, 3330203.96; 625907.39, 3330210.92; 625893.87, 3330217.89.

625893.08, 3330172.05; 625907.38, 3330210.93; 625920.95, 3330203.96; 625948.05, 3330189.98; 625932.39, 3330163.74; 625918.83, 3330170.76; 625905.32, 3330177.73; 625889.67, 3330151.49; 625876.14, 3330158.45; 625862.62, 3330165.48; 625838.11, 3330178.1; 625838.21, 3330246.58; 625893.86, 3330217.89; 625878.23, 3330191.72; 625891.77, 3330184.69; 625907.38, 3330210.93.

625892.81, 3330201.28; 625893.86, 3330217.89; 625907.38, 3330210.93; 625891.77, 3330184.69; 625878.23, 3330191.72; 625893.86, 3330217.89.

625945.93, 3330156.73; 625889.67, 3330151.49; 625905.32, 3330177.73; 625918.83, 3330170.76; 625932.39, 3330163.74; 625948.05, 3330189.98; 625961.46, 3330183.07; 625974.98, 3330176.05; 626002.19, 3330162; 625986.57, 3330135.82; 625959.35, 3330149.81; 625943.85, 3330123.51; 625916.76, 3330137.5; 625903.24, 3330144.53; 625889.67, 3330151.49.

626333.18, 3330162.11; 626347.3, 3330146.95; 626327.69, 3330146.83; 626318.46, 3330166.01; 626320.66, 3330173.19; 626309.75, 3330180.09; 626308.28, 3330191.16; 626325.24, 3330180.85; 626358.07, 3330166.39; 626352.61, 3330155.89; 626347.3, 3330146.95.

625859.18, 3330143.4; 625880.3, 3330135.77; 625877.15, 3330130.45; 625838.05, 3330151.5; 625838.06, 3330157.56; 625880.3, 3330135.77.

626365.86, 3330150.12; 626358.07, 3330166.39; 626361.02, 3330165.09; 626374.92, 3330156.7; 626384.42, 3330151; 626377.72, 3330140.72; 626373.21, 3330133.18; 626352.32, 3330147.08; 626347.3, 3330146.95; 626352.61, 3330155.89; 626358.07, 3330166.39.

626041.77, 3330107.33; 626000.1, 3330128.8; 626015.71, 3330155.03; 626042.77, 3330141.11; 626069.9, 3330127.12; 626083.44, 3330120.09; 626067.81, 3330093.86; 626052.2, 3330067.62; 626038.44, 3330074.77; 626025.21, 3330081.55; 626011.56, 3330088.63; 626027.14, 3330114.87; 626000.1, 3330128.8.

625965.21, 3330129.67; 625986.57, 3330135.82; 625970.95, 3330109.59; 625943.85, 3330123.51; 625959.35, 3330149.81; 625986.57, 3330135.82.

626385.26, 3330136.08; 626384.42, 3330151; 626397.3, 3330140.65; 626391.83, 3330132.59; 626385.36, 3330121.69; 626379, 3330129.52; 626373.21, 3330133.18; 626377.72, 3330140.72; 626384.42, 3330151.

625896.53, 3330123.39; 625877.15, 3330130.45; 625880.3, 3330135.77; 625893.87, 3330128.75; 625907.39, 3330121.79; 625915.92, 3330116.82; 625912.21, 3330110.48; 625877.15, 3330130.45.

626378.25, 3330090.56; 626402.16, 3330136.72; 626408.44, 3330131.63; 626404.74, 3330124.49; 626361.6, 3330052.05; 626348.06, 3330059.08; 626374.97, 3330104.26; 626376.56, 3330100.12; 626386.35, 3330105.92; 626386.39, 3330120.15; 626385.36, 3330121.69; 626391.83, 3330132.59; 626397.3, 3330140.65; 626402.16, 3330136.72.

626005.82, 3330108.72; 626011.56, 3330088.63; 625984.49, 3330102.56; 626000.1, 3330128.8; 626027.14, 3330114.87; 626011.56, 3330088.63.

626252.41, 3330075.47; 626181.26, 3330090.59; 626181.92, 3330096.16; 626180.55, 3330102.43; 626176.52, 3330104.7; 626180.38, 3330109.17; 626193.52, 3330108.69; 626204.7, 3330106.6; 626211.1, 3330098.08; 626231.03, 3330095.21; 626237.38, 3330103.05; 626249.09, 3330095.42; 626260.05, 3330102.06; 626257.88, 3330110; 626260.82, 3330116.25; 626269.94, 3330120.04; 626272.32, 3330113.23; 626278.86, 3330109.96; 626287.43, 3330101.5; 626293.77, 3330102.03; 626299.98, 3330110.87; 626310.88, 3330112.51; 626315.23, 3330119.36; 626320.79, 3330134.67; 626327.08, 3330134.58; 626328.3, 3330126.06; 626324.47, 3330124.97; 626322.83, 3330120.74; 626325.12, 3330109.81; 626307.41, 3330080.03; 626280.35, 3330093.96; 626270.93, 3330078.24; 626324.12, 3330050.8; 626308.51, 3330024.56; 626255.32, 3330052; 626181.26, 3330090.59.

626440.29, 3330057.1; 626408.44, 3330131.63; 626428.22, 3330115.71; 626456.01, 3330085.82; 626501.81, 3330034.66; 626518.97, 3330018.74; 626512.43, 3330024.44; 626506.34, 3330029.47; 626482.48, 3329989.73; 626456.4, 3330003.18; 626429.31, 3330017.11; 626402.21, 3330031.1; 626361.6, 3330052.05; 626404.74, 3330124.49; 626408.44, 3330131.63.

626098.56, 3330078.01; 626123.64, 3330099.37; 626126.35, 3330093.02; 626144.92, 3330074.73; 626119.91, 3330032.74; 626092.83, 3330046.67; 626052.2, 3330067.62; 626067.81, 3330093.86; 626083.44, 3330120.09; 626123.64, 3330099.37.

625945.18, 3330096.21; 625955.54, 3330083.75; 625928.81, 3330100.23; 625933.14, 3330108.5; 625961.55, 3330093.81; 625955.54, 3330083.75.

626359.19, 3330114.57; 626359.49, 3330110.11; 626356.24, 3330118.21; 626359.8, 3330118.3; 626362.14, 3330114.74; 626359.49, 3330110.11.

626332.92, 3330086.01; 626325.12, 3330109.81; 626328.32, 3330105.65; 626343.47, 3330104.03; 626358.43, 3330108.34; 626333.49, 3330066.58; 626320.96, 3330073; 626307.41, 3330080.03; 626325.12, 3330109.81.

626039.49, 3330044.15; 626100.08, 3329999.78; 626047.24, 3330030.35; 625990.55, 3330062.08; 625968.45, 3330075.75; 625975.1, 3330086.84; 626069.91, 3330037.91; 626110.53, 3330016.96; 626100.08, 3329999.78.

626195.43, 3330010.89; 626158.56, 3330067.92; 626159.65, 3330064.52; 626167.6, 3330064.34; 626171.68, 3330060.2; 626162.61, 3330044.99; 626176.22, 3330037.96; 626203.04, 3330024.09; 626218.67, 3330050.33; 626232.22, 3330043.37; 626216.56, 3330017.13; 626244.17, 3330002.91; 626257.42, 3329996.06; 626241.76, 3329969.82; 626228.54, 3329976.67; 626201.14, 3329990.77; 626187.62, 3329997.8; 626160.6, 3330011.73; 626133.43, 3330025.72; 626158.56, 3330067.92.

626190.64, 3330038.13; 626194.96, 3330058.35; 626194.05, 3330063.05; 626218.67, 3330050.33; 626203.04, 3330024.09; 626176.22, 3330037.96; 626162.61, 3330044.99; 626171.68, 3330060.2; 626173.32, 3330058.49; 626172.31, 3330051.35; 626177.12, 3330049.91; 626180.68, 3330050.37; 626189.94, 3330045.49; 626199.01, 3330048.84; 626194.96, 3330058.35.

626258.35, 3329995.59; 626232.22, 3330043.37; 626300.14, 3330008.31; 626268.85, 3329955.9; 626241.76, 3329969.82; 626257.42, 3329996.06; 626244.17, 3330002.91; 626216.56, 3330017.13; 626232.22, 3330043.37.

626378.25, 3330005.75; 626417.84, 3329968.19; 626404.27, 3329975.16; 626336.6, 3330010.1; 626323.03, 3330017.06; 626338.66, 3330043.3; 626352.21, 3330036.33; 626419.93, 3330001.39; 626433.46, 3329994.43; 626417.84, 3329968.19.

626125.51, 3329997.16; 626137.62, 3330003.04; 626126.55, 3329984.47; 626113.41, 3329992.11; 626124.06, 3330010; 626137.62, 3330003.04.

626514.91, 3329967.47; 626518.97, 3330018.74; 626522.16, 3330015.76; 626549.17, 3330000.96; 626557.83, 3329995.25; 626555.31, 3329990.81; 626512.69, 3329919.27; 626485.55, 3329933.25; 626471.99, 3329940.22; 626518.97, 3330018.74.

626138.86, 3329989.73; 626137.62, 3330003.04; 626151.16, 3329996.01; 626139.6, 3329976.62; 626126.55, 3329984.47; 626137.62, 3330003.04.

626365.76, 3329940.18; 626313.66, 3330001.34; 626449.09, 3329931.46; 626417.81, 3329879.05; 626282.42, 3329948.87; 626313.66, 3330001.34.

626172.45, 3329971.06; 626151.16, 3329996.01; 626164.68, 3329989.05; 626178.25, 3329982.02; 626205.3, 3329968.09; 626191.88, 3329945.53; 626139.6, 3329976.62; 626151.16, 3329996.01.

626432.41, 3329977.8; 626433.46, 3329994.43; 626446.99, 3329987.4; 626431.36, 3329961.17; 626417.84, 3329968.19; 626433.46, 3329994.43.

626546.67, 3329946.55; 626557.83, 3329995.25; 626561.29, 3329992.96; 626565.61, 3329988.83; 626580.66, 3329975.35; 626576.28, 3329966.5; 626539.81, 3329905.28; 626512.69, 3329919.27; 626555.31, 3329990.81; 626557.83, 3329995.25.

626600.37, 3329916.84; 626586.9, 3329970.2; 626605.55, 3329955.62; 626636.48, 3329942.54; 626648.49, 3329939.28; 626660.93, 3329934.17; 626627.96, 3329883.96; 626615.58, 3329866.17; 626553.39, 3329898.25; 626539.81, 3329905.28; 626576.28, 3329966.5; 626580.66, 3329975.35; 626586.9, 3329970.2.

626452.22, 3329967.56; 626446.99, 3329987.4; 626473.08, 3329973.95; 626457.46, 3329947.72; 626431.36, 3329961.17; 626446.99, 3329987.4.

626205.37, 3329953.24; 626205.3, 3329968.09; 626218.87, 3329961.07; 626205.01, 3329937.81; 626191.88, 3329945.53; 626205.3, 3329968.09.

626232.25, 3329937.61; 626218.87, 3329961.07; 626232.39, 3329954.11; 626259.49, 3329940.12; 626243.86, 3329913.88; 626205.01, 3329937.81; 626218.87, 3329961.07.

626278.75, 3329913.05; 626300.1, 3329919.17; 626284.49, 3329892.93; 626257.39, 3329906.92; 626273.01, 3329933.15; 626286.58, 3329926.19; 626300.1, 3329919.17.

626518.25, 3329861.5; 626458.46, 3329858.04; 626444.91, 3329865.06; 626431.37, 3329872.03; 626447, 3329898.26; 626462.61, 3329924.5; 626476.18, 3329917.54; 626489.75, 3329910.51; 626503.31, 3329903.49; 626605.13, 3329850.99; 626570.04, 3329800.48; 626472.03, 3329851.08; 626487.65, 3329877.31; 626474.09, 3329884.27; 626458.46, 3329858.04.

626299.08, 3329902.6; 626300.1, 3329919.17; 626313.67, 3329912.2; 626298.02, 3329885.97; 626284.49, 3329892.93; 626300.1, 3329919.17.

626685.98, 3329874.66; 626674.48, 3329927.95; 626678.64, 3329925.75; 626692.15, 3329909.86; 626705.9, 3329885.23; 626737.68, 3329854.32; 626739.93, 3329852.63; 626724.4, 3329828.14; 626716.43, 3329814.77; 626632.04, 3329863.09; 626639.71, 3329874.14; 626674.48, 3329927.95.

626353.22, 3329873.5; 626313.67, 3329912.2; 626381.34, 3329877.26; 626408.43, 3329863.27; 626392.82, 3329837.04; 626391.11, 3329834.12; 626298.02, 3329885.97; 626313.67, 3329912.2.

626473.06, 3329867.66; 626458.46, 3329858.04; 626474.09, 3329884.27; 626487.65, 3329877.31; 626472.03, 3329851.08; 626458.46, 3329858.04.

626482.03, 3329804.4; 626538.67, 3329753.37; 626498.05, 3329774.57; 626404.51, 3329826.66; 626406.34, 3329830.07; 626422, 3329856.31; 626435.53, 3329849.28; 626462.67, 3329835.3; 626559.55, 3329785.36; 626542, 3329760.07; 626538.67, 3329753.37.

626629.16, 3329774.94; 626646.76, 3329697.04; 626551.23, 3329746.82; 626555.2, 3329752.54; 626621.55, 3329848.03; 626707.09, 3329799.05; 626647.77, 3329699.56; 626646.76, 3329697.04.

626815.72, 3329761.62; 626752.22, 3329843.45; 626764.41, 3329834.33; 626806.94, 3329818.79; 626830.13, 3329813.01; 626855.2, 3329811.64; 626875.49, 3329810.59; 626905.5, 3329806.41; 626892.29, 3329782.42; 626858.48, 3329725.7; 626805.58, 3329756.02; 626828.32, 3329794.17; 626814.82, 3329796.7; 626812.56, 3329797.52; 626792.34, 3329763.56; 626725.93, 3329801.59; 626739.11, 3329823.08; 626752.22, 3329843.45.

627086.95, 3329675.29; 626921.4, 3329805.32; 626948.4, 3329804.12; 627004.54, 3329799.98; 627019.07, 3329791.6; 627039.78, 3329773.9; 627053.91, 3329765.14; 627077.12, 3329758.98; 627116.4, 3329745.67; 627159.14, 3329737.26; 627189.5, 3329731.65; 627221.57, 3329720.6; 627226.52, 3329713.17; 627259.82, 3329701.34; 627297.54, 3329689.61; 627299.56, 3329646.15; 627298.73, 3329473.72; 626927.24, 3329686.36; 626900.78, 3329701.49; 626887.58, 3329709.08; 626874.34, 3329716.61; 626910.19, 3329779.25; 626921.4, 3329805.32.

626810.33, 3329778.89; 626792.34, 3329763.56; 626812.56, 3329797.52; 626814.82, 3329796.7; 626828.32, 3329794.17; 626805.58, 3329756.02; 626792.34, 3329763.56.

626681.94, 3329697.82; 626659.97, 3329690.13; 626661.05, 3329691.96; 626677.44, 3329719.53; 626703.91, 3329704.4; 626687.48, 3329676.83; 626687.05, 3329676.01; 626659.97, 3329690.13.

626748.38, 3329661.53; 626703.91, 3329704.4; 626730.34, 3329689.27; 626809.71, 3329643.83; 626796.45, 3329620.96; 626746.94, 3329644.81; 626687.05, 3329676.01; 626687.48, 3329676.83; 626703.91, 3329704.4.

626879.8, 3329657.34; 626884.05, 3329619.79; 626831.14, 3329650.11; 626862.34, 3329702.45; 626928.45, 3329664.6; 626912.87, 3329638.43; 626899.63, 3329645.96; 626884.05, 3329619.79.

630126.1, 3328203.03; 630406.03, 3328243.4; 630414.41, 3328241.99; 630437.83, 3328233.65; 630455.47, 3328219.67; 630469.03, 3328218.08; 630480.76, 3328209.64; 630492.76, 3328206.38; 630504.37, 3328203.49; 630511.25, 3328198.92; 630533.58, 3328195.48; 630551.08, 3328195.55; 630562.19, 3328196.2; 630554.01, 3328157.98; 630564.05, 3328153.86; 630566.61, 3328146.81; 630576.57, 3328145.88; 630583.91, 3328138.13; 630587.26, 3328132.22; 630597.09, 3328136.47; 630601.83, 3328121.48; 630611.44, 3328118.97; 630610.04, 3328111.01; 630620.12, 3328105.34; 630617.35, 3328089.41; 630617.08, 3328083.85; 630617.58, 3328080.3; 630626, 3328076.96; 630628.95, 3328070.66; 630630.47, 3328057.22; 630634.4, 3328043.83; 630641.34, 3328051.93; 630649.9, 3328059.27; 630653.8, 3328046.32; 630659.42, 3328044.46; 630668.49, 3328063.35; 630680.13, 3328058.47; 630680.23, 3328070.39; 630692.96, 3328069.53; 630690.47, 3328089.25; 630702, 3328089.54; 630710.3, 3328075.46; 630718.35, 3328087.21; 630725.94, 3328085.77; 630733.28, 3328078.47; 630739.41, 3328103.16; 630740.24, 3328117.47; 630734.46, 3328126.44; 630733.74, 3328138.72; 630742.01, 3328157.97; 630743.39, 3328166.3; 630734.34, 3328178.37; 630720.74, 3328181.59; 630716.53, 3328190.97; 630715.21, 3328196.12; 630725.5, 3328197.57; 630739.86, 3328195.93; 630755.86, 3328191.96; 630771.97, 3328184.81; 630788.21, 3328169.43; 630797.66, 3328153.87; 630818.53, 3328134.05; 630846.25, 3328112.15; 630855.03, 3328105.32; 630864.93, 3328090.08; 630876.52, 3328079.08; 630892.59, 3328070.43; 630913.4, 3328052.91; 630927.11, 3328048.7; 630940.91, 3328040.06; 630977.44, 3328026.68; 630991.47, 3328021.92; 631004.83, 3328019.07; 631013.88, 3328019.3; 631029.78, 3328017.45; 631050.86, 3328015.11; 631072.33, 3328014.84; 631089.54, 3328010.09; 631102.43, 3328003.3; 631121.04, 3327990.28; 631131.15, 3327967.94; 631151.59, 3327945.98; 631174.08, 3327935.75; 631200.52, 3327928.05; 631218.12, 3327923.37; 631232.56, 3327918.55; 631241.45, 3327912.85; 631249.45, 3327910.68; 631258.65, 3327908.1; 631274.4, 3327897.82; 631284.47, 3327892.89; 631303.39, 3327883.51; 631316.77, 3327872.73; 631326.88, 3327865.87; 631338.95, 3327860.18; 631354.08, 3327859.38; 631367.62, 3327858.16; 631385.98, 3327855.43; 631418.45, 3327859.81; 631445.15, 3327856.92; 631465.07, 3327855.05; 631482.99, 3327853.94; 631506.01, 3327839.42; 631524.53, 3327830.02; 631538.93, 3327810.53; 631561.61, 3327794.06; 631571.5, 3327780.01; 631582.24, 3327764.05; 631595.78, 3327747.35; 631603.77, 3327730.14; 631616.41, 3327717.34; 631629.03, 3327705.36; 631642.73, 3327698.22; 631654.7, 3327696.09; 631670.36, 3327690.17; 631692.53, 3327678.06; 631705.05, 3327669.64; 631717.44, 3327666.76; 631728.32, 3327661.11; 631742.39, 3327654.72; 631754.41, 3327651.03; 631769.54, 3327649.85; 631791.07, 3327647.21; 631803.81, 3327646.78; 631817.63, 3327645.32; 631831.1, 3327647.28; 631842.16, 3327649.93; 631862.43, 3327650.44; 631880.6, 3327654.45; 631895.15, 3327660.75; 631915.11, 3327658.07; 631945.51, 3327649.35; 631961.78,

3327650.94; 631977.74, 3327648.6; 632006.05, 3327612.79; 632022.72, 3327566.89; 632020.19, 3327525.19; 632015.3, 3327514.33; 631996.07, 3327520.59; 631967.58, 3327530.98; 631961.26, 3327545.12; 631960.04, 3327562.13; 631954.27, 3327570.29; 631942.32, 3327555.69; 631933.61, 3327538.06; 631929.84, 3327530.03; 631913.2, 3327543.91; 631919.57, 3327559.49; 631910, 3327560.43; 631900.23, 3327553.88; 631890.44, 3327548.08; 631878.9, 3327548.98; 631871.19, 3327539.29; 631871.96, 3327524.21; 631872.91, 3327502.07; 631869.96, 3327477.78; 631856.06, 3327445.71; 631870.02, 3327443.69; 631883.87, 3327430.56; 631903.18, 3327437.04; 631924.85, 3327444.26; 631949.11, 3327444.12; 631970.82, 3327433.93; 631976.07, 3327462.22; 631978.13, 3327475.38; 631988.35, 3327479.57; 631992.87, 3327473.75; 631990.46, 3327459.4; 631995.72, 3327439.37; 631997.3, 3327424.74; 632000.88, 3327408.53; 632012.79, 3327409.27; 632016.14, 3327417.66; 632023.07, 3327427.32; 632027.8, 3327444.48; 632038.45, 3327447.56; 632043.37, 3327473.03; 632033.28, 3327479.14; 632019.84, 3327476.43; 632025.5, 3327488.43; 632036.57, 3327506.19; 632041.81, 3327519.37; 632054.79, 3327524.44; 632072.69, 3327508.28; 632085.78, 3327493.13; 632083.15, 3327456.17; 632073.07, 3327445.62; 632061.62, 3327426.73; 632064.35, 3327413.69; 632074.86, 3327422.32; 632084.35, 3327411.7; 632081.7, 3327403.08; 632102.92, 3327396.87; 632116.3, 3327401.2; 632128.77, 3327412.56; 632129.17, 3327427.62; 632130, 3327442.31; 632134.06, 3327454.71; 632140.86, 3327452.88; 632144.03, 3327437.54; 632148.06, 3327419.42; 632154.01, 3327404.46; 632161.35, 3327396.72; 632174.98, 3327392.69; 632177.71, 3327378.53; 632166.77, 3327375.38; 632152.59, 3327365.6; 632142.09, 3327357.03; 632149.14, 3327344.91; 632163.48, 3327344.08; 632183.88, 3327338.6; 632199.65, 3327343.81; 632192.09, 3327359.85; 632196.36, 3327369.32; 632201.07, 3327382.3; 632192.82, 3327394.32; 632188.14, 3327406.13; 632186.24, 3327418.75; 632189.42, 3327434.32; 632194.92, 3327436.83; 632199.36, 3327449.98; 632209.55, 3327455.8; 632225.85, 3327455.02; 632253.84, 3327448.61; 632268.98, 3327447.43; 632280.26, 3327441.35; 632277.97, 3327421.87; 632287.31, 3327413.74; 632300.75, 3327432.75; 632312.06, 3327441.34; 632333.38, 3327446.62; 632353.72, 3327444.38; 632376.56, 3327437.03; 632393.87, 3327428.35; 632414.11, 3327413.82; 632428.22, 3327405.81; 632445.57, 3327395.57; 632458.37, 3327392.33; 632473.25, 3327385.53; 632484.99, 3327376.71; 632488.57, 3327360.94; 632487.75, 3327346.25; 632501.23, 3327347.78; 632509.05, 3327336.93; 632516.43, 3327328.37; 632535.96, 3327325.68; 632545.25, 3327319.98; 632555.43, 3327310.31; 632561.36, 3327311.28; 632579.26, 3327326.77; 632588.85, 3327324.64; 632597.7, 3327305.07; 632602.18, 3327284.96; 632609.4, 3327266.92; 632620.77, 3327241.05; 632628.84, 3327220.59; 632618.19, 3327201.72; 632615.26, 3327192.09; 632625.17, 3327193.15; 632636.61, 3327196.25; 632649.32, 3327196.57; 632659.08, 3327203.56; 632676.89, 3327206.75; 632694.55, 3327215.5; 632732.61, 3327203.78; 632749.71, 3327172.13; 632755.11, 3327162.71; 632765.13, 3327159.41; 632772.69, 3327158.85; 632784.3, 3327155.96; 632799.64, 3327146.42; 632819.25, 3327125.13; 632835.12, 3327110.86; 632842.71, 3327093.19; 632848.9, 3327068.75; 632847.19, 3327057.66; 632856.05, 3327053.52; 632863.86, 3327027.12; 632869.7, 3327016.16; 632882.28, 3327006.17; 632899.21, 3326996.74; 632923.52, 3326996.97; 632940.09, 3327003.38; 632959.22, 3327001.87; 632973.86, 3326988.38; 632986.74, 3326966.1; 633000.17, 3326922.43; 633007.89, 3326884.55; 633008.92, 3326843.75; 633009.49, 3326804.94; 632993.07, 3326762.89; 632964.16, 3326742.74; 632930.37, 3326743.08; 632886.52, 3326748.34; 632821.28, 3326766.49; 632780.36, 3326813.03; 632714.11, 3326854.99; 632693.33, 3326875.44; 632682.24, 3326889.46; 632616.79, 3326926.14; 632530.13, 3326983.33; 632490.29, 3327000.61; 632409.57, 3327040.59; 632315.84, 3327087.61; 632279.61, 3327120.78; 631739.39, 3327353.32; 631702.64, 3327386.92; 631649.38, 3327403.06; 631624.71, 3327419.85; 631588.8, 3327425.69; 631556.2, 3327434.55; 631526.44, 3327447.34; 631493.39, 3327473.23; 631445.33, 3327487.88; 631407.24, 3327505.27; 631355.08, 3327535.98; 631324.01, 3327554.99; 631287.96, 3327566; 631253.48, 3327577.43; 631205.48, 3327605.5; 631132.4, 3327650.48; 631068.66, 3327687.71; 631004.84, 3327728.55; 630958.18, 3327749.91; 630893.07, 3327794.65; 630820.96, 3327817.06; 630756.8, 3327839.6; 630724.67, 3327868.13; 630679.14, 3327892.77; 630630.8, 3327918.52; 630597.29, 3327954.88; 630544.13, 3327951.17; 630503.13, 3327937.47; 630457.05, 3327936.75; 630424.66, 3327944.23; 630404.02, 3327961; 630351.41, 3327982.28; 630316.54, 3328009.62; 630287.11, 3328026.36; 630250.62,

3328038.48; 630217.99, 3328071.81; 630181.44, 3328087.12; 630132.76, 3328110.05; 630102.25, 3328122.39; 630051.88, 3328149.66; 629902.9, 3328225.56; 629432.34, 3328445.25; 629174.5, 3328550.94; 628990.82, 3328602.94; 628928.71, 3328642.02; 628896.62, 3328661; 628870.32, 3328679.75; 628846.1, 3328685.07; 628800.52, 3328697.47; 628768.49, 3328710.21; 628731.78, 3328729.64; 628706.49, 3328744.8; 628660.95, 3328754.95; 628628.86, 3328769.94; 628594.59, 3328782.62; 628560.18, 3328799.86; 628539.48, 3328812.88; 628501, 3328840.51; 628445.92, 3328842.12; 628355.19, 3328901.45; 628084.78, 3329032.98; 627688.08, 3329207.72; 627563.94, 3329248.98; 627534.65, 3329273.9; 627506.88, 3329287.87; 627457.89, 3329307.68; 627434.3, 3329329.24; 627380.78, 3329354.87; 627347.14, 3329365.13; 627314.51, 3329382.16; 627281.62, 3329394.38; 627269.53, 3329396.14; 627262.91, 3329397.6; 627242.72, 3329388.33; 627245.99, 3329393.81; 627254.19, 3329407.61; 627285.38, 3329459.96; 627298.73, 3329473.72; 627299.56, 3329646.15; 627297.54, 3329689.61; 627315.9, 3329683.71; 627334.67, 3329684.68; 627343.15, 3329680.96; 627352.77, 3329671.34; 627407.11, 3329619.14; 627433.69, 3329589.66; 627444.78, 3329574.9; 627462.67, 3329559.12; 627477.14, 3329552.74; 627497.62, 3329544.51; 627528.86, 3329535; 627580.52, 3329517.95; 627580.5, 3329518.19; 627581.26, 3329517.71; 627628.52, 3329489.25; 627651.67, 3329485.9; 627663.3, 3329481.39; 627670.92, 3329478.83; 627690.55, 3329472.21; 627708.89, 3329470.24; 627734.85, 3329465.39; 627755.63, 3329459.3; 627775.93, 3329462.06; 627791.77, 3329462.46; 627802.92, 3329469.54; 627826.43, 3329474.44; 627846.03, 3329466.07; 627857.56, 3329457.37; 627869.93, 3329451.31; 627895.93, 3329444.85; 627915.68, 3329449.72; 627930.58, 3329458.02; 627943.73, 3329456.73; 627957.18, 3329457.63; 627980.57, 3329461.65; 628003.97, 3329463.8; 628026.05, 3329470.28; 628038.24, 3329475.4; 628052.39, 3329482.06; 628080.9, 3329486.33; 628120.47, 3329493.32; 628153.23, 3329502.45; 628177.67, 3329512.8; 628209.64, 3329502.37; 628214.94, 3329498.07; 628227.34, 3329494.82; 628228.86, 3329481.75; 628218.25, 3329461.26; 628216.03, 3329438.6; 628207.51, 3329414.23; 628199.21, 3329412.46; 628179.93, 3329404.8; 628171.25, 3329408.76; 628161.66, 3329419.82; 628139.04, 3329418.44; 628123.73, 3329407.57; 628114.67, 3329407.34; 628107.92, 3329407.73; 628103.43, 3329411.99; 628077.97, 3329413.35; 628057.27, 3329414.39; 628034.5, 3329403.51; 628015.9, 3329384.44; 628034.24, 3329382.1; 628038.15, 3329384.63; 628046.29, 3329376.91; 628049.91, 3329375.75; 628051.22, 3329370.66; 628053.39, 3329363.6; 628054.79, 3329355.27; 628056.22, 3329345.82; 628046.16, 3329335.27; 628026.04, 3329330.64; 627995.79, 3329330.82; 627999.58, 3329302.88; 628017.73, 3329301.03; 628037.87, 3329310.59; 628049.18, 3329310.87; 628058.46, 3329302.05; 628054.11, 3329295.2; 628038.39, 3329290.31; 628029.56, 3329281.04; 628027.6, 3329267.01; 628033, 3329258.03; 628059.25, 3329257.07; 628057.73, 3329241.11; 628073.97, 3329225.72; 628086.62, 3329228.04; 628099.97, 3329218.45; 628106.91, 3329211.51; 628107.2, 3329200.03; 628131.12, 3329204.56; 628167.49, 3329198.67; 628174.73, 3329180.82; 628190.15, 3329188.63; 628203.18, 3329192.14; 628206.76, 3329168.07; 628222.64, 3329166.23; 628228, 3329169.36; 628235.62, 3329166.37; 628243.05, 3329171.36; 628251.55, 3329165.21; 628259.26, 3329159.03; 628267, 3329151.3; 628269.57, 3329144.25; 628280.82, 3329139.41; 628292.04, 3329135.7; 628299.79, 3329127.97; 628316.56, 3329123.39; 628333.04, 3329117.69; 628338.44, 3329108.34; 628344.55, 3329102.12; 628351.71, 3329101.93; 628357.61, 3329088.97; 628362.49, 3329084.78; 628369.79, 3329077.29; 628378.79, 3329079.83; 628385.58, 3329080; 628400.71, 3329081.75; 628411.52, 3329078.84; 628418.75, 3329075.46; 628422.82, 3329056.53; 628432.82, 3329054.03; 628443.28, 3329036.25; 628445.54, 3329053.98; 628460.99, 3329055.55; 628479.56, 3329044.47; 628485.33, 3329035.94; 628498.52, 3329033.46; 628509.46, 3329009.2; 628521.69, 3328997.21; 628521.53, 3328986.28; 628532.81, 3328997.49; 628545.99, 3328994.64; 628561.9, 3328994.23; 628557.82, 3328983.01; 628567.97, 3328974.59; 628568.83, 3328955.95; 628568.17, 3328950.81; 628575.39, 3328948.19; 628582.42, 3328953.11; 628592.89, 3328947.44; 628601.88, 3328937.74; 628620.01, 3328927.9; 628636.99, 3328916.84; 628648.76, 3328923.06; 628666.68, 3328921.58; 628687.27, 3328908.61; 628701.38, 3328900.6; 628713.36, 3328898.53; 628730.99, 3328908.53; 628737.07, 3328888.46; 628743.03, 3328873.12; 628752.8, 3328863.51; 628769.02, 3328850.81; 628778.78, 3328857.79; 628790.78, 3328854.54; 628799.91, 3328854.77; 628805.41, 3328842.23; 628812.86, 3328845.98; 628826.15, 3328854.99; 628847.5,

3328875; 628855.12, 3328888.24; 628874.18, 3328904.2; 628901.76, 3328914.01; 628925.31, 3328910.23; 628938.6, 3328903.01; 628950.73, 3328895.02; 628968.85, 3328885.55; 628984.73, 3328870.9; 629002.95, 3328857.5; 629007.5, 3328850.44; 629019.68, 3328840.07; 629024.6, 3328818.78; 629033.42, 3328798.09; 629055.15, 3328812.31; 629071.78, 3328798.81; 629082.34, 3328790.39; 629094.4, 3328784.77; 629108.38, 3328782.31; 629115.83, 3328770.2; 629109.83, 3328756.19; 629119.62, 3328746.14; 629125.95, 3328731.25; 629136.94, 3328721.17; 629139.93, 3328712.94; 629146.85, 3328706.81; 629152.81, 3328706.96; 629162.29, 3328708.76; 629168.83, 3328717.66; 629177.67, 3328729.37; 629183.34, 3328741; 629191.25, 3328726.9; 629202.03, 3328725.24; 629205.23, 3328739.55; 629209.94, 3328742.04; 629217.78, 3328731.13; 629219.58, 3328706.64; 629229.23, 3328686.66; 629248.64, 3328689.52; 629269.56, 3328694.79; 629279.04, 3328681.54; 629278.68, 3328648.64; 629277.6, 3328628.01; 629271.6, 3328614; 629275.36, 3328606.54; 629289.96, 3328610.9; 629298.05, 3328605.11; 629306.26, 3328595.02; 629313.55, 3328589.27; 629320.81, 3328585.52; 629324.66, 3328590.74; 629324.34, 3328603.4; 629339, 3328604.58; 629347.54, 3328612.73; 629360.24, 3328629.28; 629369.02, 3328627.94; 629359.52, 3328642.37; 629368.47, 3328649.71; 629382.65, 3328655.25; 629397.14, 3328647.68; 629410.39, 3328642.09; 629423.18, 3328639.6; 629434.94, 3328630.41; 629443.35, 3328627.81; 629461.53, 3328631.45; 629474.82, 3328640.9; 629490.63, 3328644.11; 629506.18, 3328642.5; 629522.55, 3328639.35; 629531.98, 3328627.67; 629557.91, 3328592.24; 629566.5, 3328567.11; 629558.74, 3328543.94; 629561.05, 3328531.27; 629570.19, 3328531.12; 629586.26, 3328540.26; 629595.52, 3328551.17; 629606.7, 3328548.71; 629626.84, 3328538.48; 629653.39, 3328541.52; 629681.38, 3328535.1; 629699.03, 3328544.29; 629709.32, 3328546.48; 629733.85, 3328551.09; 629745.66, 3328539.47; 629754.17, 3328517.15; 629764.38, 3328506.29; 629782.19, 3328509.11; 629788.37, 3328516.76; 629790.3, 3328534.29; 629800.1, 3328555.51; 629809.68, 3328569.67; 629823.32, 3328580.31; 629831.88, 3328572.16; 629829.57, 3328553.13; 629835.06, 3328540.53; 629847.68, 3328528.99; 629853.15, 3328548.54; 629858.96, 3328570.1; 629878.9, 3328582.33; 629890.05, 3328589.42; 629905.83, 3328592.06; 629917.14, 3328592.35; 629937.15, 3328601.03; 629943.96, 3328582.97; 629948.35, 3328566.42; 629940.73, 3328553.55; 629930.38, 3328554.48; 629934.42, 3328536.35; 629935.42, 3328527.64; 629937.64, 3328518.2; 629935.17, 3328506.66; 629924.74, 3328494.47; 629941.09, 3328460.42; 629942.05, 3328454.08; 629950.92, 3328449.19; 629939.29, 3328432.6; 629935.04, 3328421.19; 629925.43, 3328419.95; 629921, 3328438.13; 629906.68, 3328438.15; 629899.41, 3328442.71; 629879.86, 3328429.92; 629878.07, 3328406.53; 629892.6, 3328382.3; 629900.71, 3328375.76; 629904.68, 3328368.49; 629918.25, 3328368.84; 629931.66, 3328375.91; 629940.1, 3328373.57; 629948.5, 3328355.93; 629968.37, 3328356.55; 629991, 3328357.12; 629995.42, 3328361.72; 630010.96, 3328373.41; 630017.52, 3328382.63; 630025.14, 3328390; 630038.95, 3328394.28; 630051.57, 3328398.16; 630059.38, 3328403.54; 630074.06, 3328404.72; 630084.58, 3328397.05; 630086.74, 3328358.65; 630110.81, 3328364.63; 630121.68, 3328383; 630132.87, 3328387.78; 630134.8, 3328401.37; 630150.24, 3328417.56; 630154.42, 3328431.21; 630163.71, 3328443.05; 630168.06, 3328443.91; 630170.67, 3328435.3; 630175.35, 3328422.68; 630186.23, 3328417.03; 630191.06, 3328446.11; 630195.26, 3328452.96; 630203.97, 3328441.51; 630202.34, 3328416.62; 630196.24, 3328398.68; 630202.91, 3328394.04; 630192.59, 3328369.62; 630199.23, 3328360.11; 630201.78, 3328348.88; 630193.07, 3328335.11; 630179.67, 3328327.97; 630169.1, 3328323.83; 630151.81, 3328331.76; 630146.21, 3328324.32; 630124.76, 3328317.16; 630103.35, 3328315.06; 630095.09, 3328311.67; 630091.99, 3328308.04; 630090.87, 3328305.2; 630092.56, 3328301.68; 630098.2, 3328298.27; 630104.66, 3328294.87; 630114.12, 3328297.48; 630120.16, 3328294.45; 630134.54, 3328291.69; 630140.7, 3328283.92; 630150.32, 3328280.54; 630158.74, 3328278; 630166.5, 3328269.08; 630162.48, 3328287.21; 630164.4, 3328305.49; 630179.13, 3328304.67; 630186.72, 3328303.3; 630195.41, 3328304.71; 630199.05, 3328302.8; 630204.35, 3328297.38; 630223.99, 3328306.61; 630234.2, 3328311.61; 630244.41, 3328300.76; 630259.98, 3328297.97; 630237.82, 3328277.99; 630230.77, 3328258.4; 630225.85, 3328248.79; 630237, 3328247.89; 630245.14, 3328256.02; 630256.59, 3328259.05; 630276.57, 3328270.23; 630292.03, 3328272.24; 630300.76, 3328272.84; 630316.95, 3328276.8; 630333.34, 3328272.91; 630351.11, 3328277.29; 630367.33, 3328280.88; 630375.9, 3328256.12; 630380.74, 3328237.58; 630381.57, 3328220.56; 630387.68, 3328214.78; 630396.73, 3328218.2; 630406.03, 3328243.4.

626912.86, 3329623.54; 626928.45, 3329664.6; 626941.68, 3329657.01; 626925.78, 3329630.33; 626910.48, 3329604.66; 626897.24, 3329612.19; 626884.05, 3329619.79; 626899.63, 3329645.96; 626912.87, 3329638.43; 626928.45, 3329664.6.

626952.53, 3329618.37; 626941.68, 3329657.01; 626994.58, 3329626.75; 626978.96, 3329600.58; 626965.77, 3329608.11; 626950.14, 3329581.94; 626923.71, 3329597.07; 626910.48, 3329604.66; 626925.78, 3329630.33; 626941.68, 3329657.01.

626829.64, 3329618.69; 626849.38, 3329621.17; 626837.48, 3329601.16; 626809.9, 3329614.49; 626822.9, 3329636.29; 626849.38, 3329621.17.

626850.03, 3329608.02; 626849.38, 3329621.17; 626862.58, 3329613.57; 626851.31, 3329594.65; 626841.5, 3329599.24; 626837.48, 3329601.16; 626849.38, 3329621.17.

626998.82, 3329589.19; 627021.01, 3329611.56; 627005.64, 3329585.77; 626989.82, 3329559.21; 626976.62, 3329566.81; 627007.82, 3329619.16; 627021.01, 3329611.56.

626870.18, 3329597.5; 626889.04, 3329598.44; 626879.04, 3329581.62; 626851.31, 3329594.65; 626862.58, 3329613.57; 626875.82, 3329605.97; 626889.04, 3329598.44.

627064.94, 3329551.34; 627021.01, 3329611.56; 627060.69, 3329588.9; 627073.91, 3329581.3; 627140.06, 3329543.45; 627124.44, 3329517.28; 627108.86, 3329491.1; 627095.62, 3329498.64; 627042.72, 3329528.96; 627029.52, 3329536.55; 627003.04, 3329551.68; 626989.82, 3329559.21; 627005.64, 3329585.77; 627021.01, 3329611.56.

626964.55, 3329591.19; 626950.14, 3329581.94; 626965.77, 3329608.11; 626978.96, 3329600.58; 626963.38, 3329574.34; 626950.14, 3329581.94.

626890.66, 3329586.82; 626889.04, 3329598.44; 626902.29, 3329590.85; 626892.89, 3329575.07; 626879.04, 3329581.62; 626889.04, 3329598.44.

626924.02, 3329568.94; 626902.29, 3329590.85; 626915.48, 3329583.31; 626928.72, 3329575.72; 626955.15, 3329560.59; 626947.19, 3329547.09; 626909.45, 3329567.24; 626892.89, 3329575.07; 626902.29, 3329590.85.

626997.54, 3329526.64; 627034.52, 3329515.14; 627025.2, 3329499.49; 626964.65, 3329537.73; 626960.55, 3329539.86; 626968.38, 3329552.99; 626994.85, 3329537.87; 627021.28, 3329522.74; 627034.52, 3329515.14.

627203.67, 3329471.64; 627285.38, 3329459.96; 627254.19, 3329407.61; 627174.85, 3329453; 627148.37, 3329468.13; 627121.95, 3329483.32; 627153.15, 3329535.67; 627179.58, 3329520.54; 627206.05, 3329505.41; 627285.38, 3329459.96.

627043.08, 3329500.02; 627025.2, 3329499.49; 627034.52, 3329515.14; 627047.72, 3329507.61; 627060.96, 3329500.01; 627052.13, 3329485.18; 627034.79, 3329493.99; 627030.49, 3329496.19; 627025.2, 3329499.49.

627063.16, 3329489.21; 627074.18, 3329492.48; 627065.79, 3329478.35; 627052.13, 3329485.18; 627060.96, 3329500.01; 627074.18, 3329492.48.

627083.2, 3329478.69; 627065.79, 3329478.35; 627074.18, 3329492.48; 627100.62, 3329477.29; 627093.65, 3329465.63; 627075.98, 3329473.17; 627065.79, 3329478.35.

627137.22, 3329451.93; 627107.82, 3329459.62; 627113.71, 3329469.5; 627166.61, 3329439.25; 627165.32, 3329437.03; 627156.66, 3329441.49; 627130.62, 3329449.95; 627107.82, 3329459.62.

627205.65, 3329413.63; 627166.61, 3329439.25; 627179.85, 3329431.65; 627206.29, 3329416.52; 627245.99, 3329393.81; 627242.72, 3329388.33; 627220.94, 3329398.73; 627206.34, 3329409.85; 627182.03, 3329428.27; 627165.32, 3329437.03; 627166.61, 3329439.25.

630001.61, 3328555.56; 629997.56, 3328569.65; 630005.73, 3328576.22; 630003.77, 3328591.59; 630010.03, 3328611.16; 630013.23, 3328625.91; 630021.25, 3328623; 630019.66, 3328607.47; 630017.45, 3328600.68; 630020.58, 3328586.9; 630017.7, 3328574.53; 630009.25, 3328563.58; 630015.06, 3328553.42; 630000.38, 3328536.82; 629987.57, 3328524.58; 629981.97, 3328541.92; 629993.91, 3328556.89; 629997.56, 3328569.65.

635846.85, 3325504.81; 633480.08, 3327242.33; 633509.77, 3327247.07; 633525.99, 3327234.37; 633525.81, 3327210.21; 633520.84, 3327183.68; 633531.46, 3327159.6; 633537.76, 3327130.42; 633541.03, 3327098.79; 633561.68, 3327080.27; 633591.16, 3327046.18; 633611.76, 3327017.36; 633629.92, 3326959.51; 633639.01, 3326930.03; 633657.82, 3326909.46; 633668, 3326890.62; 633681.12, 3326868.04; 633698.62, 3326836.02; 633724.11, 3326811.13; 633747.04, 3326807.46; 633769.51, 3326798.79; 633783.36, 3326785.65; 633792.82, 3326767.91; 633802.99, 3326732.03; 633815.52, 3326708.12; 633831.61, 3326685.18; 633846.18, 3326674.43; 633868.96, 3326669.45; 633883.23, 3326671; 633899.09, 3326672.58; 633913.2, 3326680.49; 633928.16, 3326686.36; 633938.66, 3326679.51; 633948.49, 3326672.89; 633969.21, 3326650.19; 633984.31, 3326634.71; 633998.94, 3326622.35; 634022.5, 3326617.39; 634041.02, 3326608.74; 634058.79, 3326590.27; 634071.43, 3326584.97; 634090.43, 3326586.57; 634108.69, 3326578.04; 634134.32, 3326612.71; 634139.37, 3326632.63; 634151.69, 3326664.27; 634156.74, 3326700.04; 634163.59, 3326728.37; 634163.95, 3326745.42; 634162.06, 3326757.3; 634149.46, 3326768.47; 634149.44, 3326784.7; 634149.88, 3326799; 634139.23, 3326811.84; 634117.55, 3326835.45; 634104.89, 3326849.37; 634105.15, 3326870.41; 634103.63, 3326899.34; 634096.26, 3326923.31; 634092.21, 3326942.25; 634092.67, 3326955.31; 634099.82, 3326955.92; 634115.73, 3326955.51; 634130.28, 3326945.58; 634139.04, 3326929.13; 634162.01, 3326916.66; 634182.98, 3326889.41; 634206.45, 3326872.59; 634222.6, 3326862.69; 634235.61, 3326851.47; 634270.3, 3326815.52; 634285.36, 3326801.6; 634306.46, 3326768.49; 634318.14, 3326762.79; 634339.2, 3326762.94; 634351.89, 3326764.07; 634363.8, 3326748.52; 634382.49, 3326732.7; 634412.1, 3326708.91; 634434.21, 3326682.87; 634470.12, 3326661.99; 634491.48, 3326650.23; 634496.82, 3326643.25; 634511.92, 3326644; 634519.71, 3326634.28; 634536.9, 3326629.96; 634543.99, 3326617.1; 634564.09, 3326608.05; 634587.19, 3326590.78; 634614.06, 3326581.16; 634634.97, 3326571.82; 634651.56, 3326575.36; 634665.24, 3326568.96; 634673.65, 3326566.43; 634682.2, 3326558.71; 634699.49, 3326550.85; 634715.56, 3326543.7; 634735.97, 3326538.28; 634746.05, 3326532.54; 634765, 3326521.97; 634781.5, 3326514.02; 634790.88, 3326504.77; 634810.36, 3326504.07; 634832.17, 3326506.18; 634844.69, 3326514.05; 634857.1, 3326526.66; 634869.84, 3326541.22; 634882.31, 3326551.08; 634895.8, 3326552.61; 634914.63, 3326545.97; 634924.06, 3326535.09; 634938.72, 3326521.17; 634949.92, 3326517.89; 634951.76, 3326508.45; 634969.04, 3326500.95; 634979.95, 3326493.68; 634990.14, 3326483.63; 634994.86, 3326469.89; 635004.74, 3326456.66; 635020.9, 3326446.33; 635032.28, 3326436.31; 635043.15, 3326430.66; 635057.55, 3326427.03; 635080.85, 3326416.94; 635088.15, 3326411.57; 635119.05, 3326415.53; 635140.34, 3326421.99; 635149.96, 3326419.05; 635165.6, 3326413.89; 635184.7, 3326412.81; 635190.02, 3326407.02; 635210.6, 3326410.28; 635228.75, 3326415.48; 635241.6, 3326410.25; 635242.29, 3326398.41; 635248.9, 3326389.08; 635262.14, 3326383.86; 635274.8, 3326386.55; 635290.71, 3326386.14; 635300.97, 3326388.77; 635312.78, 3326393.07; 635330.6, 3326395.89; 635351.24, 3326397.16; 635364.14, 3326389.99; 635382.57, 3326384.09; 635387.09, 3326378.64; 635398.1, 3326383.29; 635400.66, 3326375.87; 635404.96, 3326363.24; 635361.77, 3326294.8; 635317.9, 3326253.61; 635288.17, 3326218.78; 635270.16, 3326223.88; 635253.08, 3326223.45; 635247.71, 3326231.68; 635248.66, 3326241.2; 635237.26, 3326252.02; 635233.04, 3326261.84; 635221.25, 3326256.36; 635196.81, 3326263.67; 635162.15, 3326266.8; 635157.7, 3326285.66; 635141.38, 3326286.87; 635120.04, 3326297.82; 635076.3, 3326298.72; 635029.35, 3326316.14; 634985.84, 3326323.34; 634934.93, 3326324.5; 634890.61, 3326332.87; 634892.43, 3326355.14; 634876.09, 3326357.1; 634857.5, 3326353.45; 634845.42, 3326359.45; 634834.52, 3326350.49; 634825.4,

3326349.83; 634836.96, 3326364.04; 634826.29, 3326377.25; 634832.03, 3326385.7; 634829.9, 3326391.58; 634813.38, 3326384.42; 634800.47, 3326393.77; 634787.88, 3326387.34; 634773.46, 3326391.34; 634752.14, 3326401.54; 634735.97, 3326396.77; 634719.55, 3326401.47; 634696.2, 3326397.76; 634690.8, 3326375.4; 634679.81, 3326385.8; 634663.28, 3326395.31; 634623.64, 3326406.24; 634595.15, 3326417.38; 634539.82, 3326435.84; 634460.22, 3326455.99; 634398.21, 3326456.05; 634379.22, 3326452.77; 634375.86, 3326444.38; 634380, 3326421.89; 634393.81, 3326410.31; 634416.15, 3326391.08; 634423.52, 3326382.53; 634433.45, 3326367.36; 634453.21, 3326355.94; 634471.94, 3326338.56; 634499.08, 3326317.83; 634516.97, 3326302.05; 634532.58, 3326281.84; 634548.88, 3326265.96; 634566.08, 3326246.23; 634596.32, 3326229.14; 634623.66, 3326216.72; 634645.45, 3326209.4; 634662.98, 3326201.85; 634686.57, 3326187.96; 634700.25, 3326174.26; 634741.57, 3326159.07; 634760.7, 3326157.56; 634772.74, 3326152.68; 634789.66, 3326127.76; 634817.82, 3326099.13; 634841.76, 3326079.13; 634863.88, 3326053.53; 634895.9, 3326028.56; 634915.87, 3326009.27; 634937.45, 3325988.78; 634966.96, 3325974.67; 634985.86, 3325960.66; 635014.13, 3325959; 635041.07, 3325962.49; 635057.41, 3325963.46; 635079.82, 3325968.52; 635107.09, 3325992.24; 635129.63, 3326012.28; 635143.2, 3326025.67; 635167.6, 3326035.4; 635190.06, 3326043.52; 635228.1, 3326047.66; 635240.81, 3326048.36; 635253.14, 3326016.58; 635246.54, 3325994.19; 635230.76, 3325973.94; 635226.46, 3325955.23; 635229.54, 3325943.82; 635240.76, 3325940.11; 635248.59, 3325944.68; 635257.42, 3325956.82; 635265.43, 3325970.51; 635285.35, 3326000.35; 635300.72, 3326021.34; 635314.48, 3326027.24; 635320.95, 3326038.08; 635333.4, 3326049.13; 635323.66, 3326057.19; 635333.6, 3326087.96; 635342.3, 3326090.18; 635346.95, 3326095.04; 635348.76, 3326086.35; 635335.22, 3326024.14; 635330.1, 3325990.74; 635316.31, 3325970.17; 635309.99, 3325952.97; 635287.67, 3325923.88; 635262.51, 3325897.09; 635241.69, 3325871.59; 635231.48, 3325851.49; 635248.48, 3325854.72; 635267.47, 3325873.8; 635286.1, 3325892.13; 635312.14, 3325930.86; 635326.9, 3325960.13; 635344.04, 3325989.53; 635349.03, 3326012.63; 635352.82, 3326051.55; 635356.29, 3326088.78; 635362.84, 3326110.86; 635374.34, 3326127.44; 635402.96, 3326127.35; 635438.8, 3326109.21; 635459.87, 3326108.99; 635474.52, 3326111.3; 635491.02, 3326119.27; 635497.12, 3326129.35; 635491.74, 3326137.89; 635477.4, 3326138.71; 635460.58, 3326144.28; 635449.87, 3326158.68; 635444.36, 3326172.4; 635441.61, 3326187; 635434.46, 3326202.68; 635422.71, 3326211.12; 635414.17, 3326218.83; 635404.78, 3326228.9; 635395.51, 3326233.41; 635391.35, 3326240.86; 635403.8, 3326267.7; 635434.34, 3326301.37; 635448.08, 3326324.31; 635459.42, 3326347.57; 635459.17, 3326357.49; 635447.75, 3326368.31; 635503.67, 3326436.33; 635517.27, 3326433.05; 635539.3, 3326426.11; 635540.68, 3326403.18; 635528.88, 3326398.51; 635520.35, 3326405.04; 635524.52, 3326382.11; 635522.57, 3326365.02; 635511.19, 3326358.8; 635517.41, 3326348.65; 635529.51, 3326341.84; 635536.4, 3326352.32; 635551, 3326356.62; 635556.55, 3326357.19; 635562.16, 3326355.34; 635574.82, 3326357.65; 635585.02, 3326347.17; 635589.43, 3326329.87; 635604.68, 3326323.89; 635613.93, 3326319.75; 635617.18, 3326301.23; 635622.6, 3326307.3; 635636.11, 3326306.82; 635645.08, 3326298.37; 635655.41, 3326280.59; 635666.82, 3326269.39; 635676.54, 3326262.09; 635678.06, 3326249.45; 635691.24, 3326246.97; 635706.58, 3326237.5; 635724.25, 3326230.39; 635736.58, 3326214.47; 635746.88, 3326200.06; 635753.11, 3326189.48; 635759.38, 3326177.34; 635773.53, 3326198.73; 635778.67, 3326200.42; 635778.97, 3326188.57; 635774.56, 3326174.16; 635777.27, 3326160.75; 635788.37, 3326161.84; 635796.55, 3326152.93; 635798.79, 3326142.69; 635816.81, 3326153.82; 635827.89, 3326155.28; 635832.28, 3326139.16; 635843.26, 3326129.14; 635856.93, 3326122.74; 635869.53, 3326111.95; 635880.26, 3326112.22; 635902.59, 3326109.22; 635912.95, 3326092.44; 635921.13, 3326083.16; 635941.44, 3326081.67; 635950.8, 3326073.54; 635964.24, 3326075.88; 635973.53, 3326054.33; 635977.2, 3326035.01; 635985.04, 3326039.14; 636000.86, 3326026.86; 636015.86, 3326015.38; 636041.81, 3326010.85; 636053.46, 3326005.59; 636069.11, 3326015.53; 636071.92, 3325998.94; 636084.27, 3325997.63; 636094.79, 3325989.96; 636099.45, 3325979.03; 636129.88, 3325969.87; 636135.27, 3325960.9; 636146.19, 3325953.62; 636148.08, 3325942.18; 636157.77, 3325935.68; 636169.78, 3325932.42; 636174.1, 3325918.68; 636185.91, 3325907.49; 636194.39, 3325902.14; 636206.97, 3325892.16; 636217.54, 3325882.88; 636222.51, 3325875.07; 636247.16, 3325874.88; 636244.57,

3325898.6; 636259.42, 3325893.05; 636265.23, 3325882.89; 636276.52, 3325876.43; 636287.36, 3325872.34; 636296.37, 3325861.89; 636300.02, 3325843.32; 636314.3, 3325844.86; 636319.39, 3325831.57; 636330.79, 3325821.12; 636332.41, 3325804.12; 636340.72, 3325805.52; 636359.08, 3325786.56; 636367.35, 3325789.96; 636376.97, 3325786.64; 636389.82, 3325796.83; 636388.11, 3325786.11; 636401.41, 3325779.33; 636400.51, 3325767.01; 636414.78, 3325768.93; 636418.07, 3325749.22; 636426.78, 3325749.82; 636435.02, 3325754.77; 636429.74, 3325774.49; 636440.57, 3325770.76; 636453.53, 3325761.6; 636454.28, 3325747.33; 636441.42, 3325737.08; 636428.03, 3325731.99; 636420.47, 3325716.76; 636422.58, 3325696.21; 636408.51, 3325702.6; 636392.21, 3325718.42; 636371.56, 3325732.94; 636345.09, 3325742.58; 636311.37, 3325755.65; 636271.27, 3325769.68; 636232.14, 3325792.85; 636206.43, 3325803.32; 636173.7, 3325824.72; 636138.24, 3325843.61; 636120.02, 3325856.64; 636099.26, 3325860.86; 636084.21, 3325874.4; 636045.69, 3325888.1; 636029, 3325904.28; 636000.73, 3325921.8; 635974.61, 3325933.06; 635933.14, 3325937.95; 635895.38, 3325954.04; 635838.83, 3325974.03; 635766.5, 3325989.62; 635700.18, 3326003.06; 635673.48, 3326005.94; 635659.34, 3326015.08; 635648.06, 3326020.78; 635623.42, 3326020.91; 635612.68, 3326036.5; 635577.89, 3326029.32; 635542.72, 3326021.25; 635492.86, 3326014.69; 635474.64, 3326011.8; 635456.85, 3326008.23; 635432.32, 3326004.05; 635410.71, 3325994.33; 635385.34, 3325975.9; 635373.02, 3325962.42; 635373.81, 3325930.98; 635369.65, 3325917.39; 635370.21, 3325894.93; 635375.06, 3325881.57; 635393.19, 3325877.53; 635399.97, 3325878.64; 635406.7, 3325877.87; 635429.01, 3325887.42; 635441.22, 3325897.47; 635450.12, 3325907.24; 635464.28, 3325912.72; 635482.27, 3325920.23; 635504.68, 3325925.29; 635517.87, 3325939.1; 635535.43, 3325957.52; 635541.22, 3325966.59; 635555.39, 3325957.09; 635574.94, 3325937.73; 635593.29, 3325919.53; 635603.07, 3325925.77; 635624.95, 3325909.27; 635654.2, 3325900.09; 635675.02, 3325894.24; 635693.33, 3325877.29; 635726.92, 3325872.45; 635743.37, 3325878.55; 635762.15, 3325890.51; 635773.08, 3325898.71; 635780.65, 3325913.95; 635800.61, 3325910.14; 635817.51, 3325901.83; 635837.22, 3325892.77; 635848.12, 3325893.48; 635871.34, 3325890.39; 635908.89, 3325898.89; 635942.5, 3325905.66; 635965.38, 3325897.12; 635979.88, 3325889.19; 635995.26, 3325878.03; 636007.84, 3325852.19; 636024.24, 3325832.38; 636040.59, 3325814.56; 636073.77, 3325791.24; 636083.18, 3325780.8; 636085.2, 3325763.81; 636083.74, 3325743.11; 636097.71, 3325725.23; 636102.55, 3325706.32; 636097.98, 3325682.85; 636086.03, 3325683.74; 636083.27, 3325667.38; 636094.5, 3325647.06; 636106.16, 3325642.24; 636115.9, 3325634.55; 636114.82, 3325613.93; 636121.42, 3325588.69; 636141.16, 3325578.51; 636151.45, 3325564.47; 636150.73, 3325545.41; 636153.76, 3325535.63; 636151.62, 3325526.4; 636150.61, 3325519.26; 636158.66, 3325515.09; 636160.52, 3325504.09; 636166.39, 3325492.31; 636164.79, 3325476.79; 636178.02, 3325472.38; 636184.16, 3325480.9; 636217.04, 3325485.66; 636222.75, 3325542.48; 636228.82, 3325553.75; 636222.29, 3325576.18; 636220.94, 3325598.31; 636215.72, 3325616.47; 636223.03, 3325625.77; 636238.13, 3325625.71; 636249.84, 3325634.37; 636249.31, 3325608.14; 636251.55, 3325566.62; 636256.4, 3325548.08; 636263.61, 3325530.03; 636290.8, 3325507.37; 636321.63, 3325498.59; 636349.61, 3325460.85; 636350.69, 3325434.34; 636344.38, 3325416.7; 636341.72, 3325396.04; 636345.27, 3325381.46; 636360.57, 3325373.54; 636372.2, 3325353.61; 636380.81, 3325327.29; 636381.75, 3325290.05; 636385.74, 3325273.86; 636413.3, 3325252.77; 636429.34, 3325215.53; 636449.99, 3325185.09; 636464.41, 3325180.71; 636466.22, 3325187.93; 636494.48, 3325170.79; 636501.31, 3325151.55; 636496.37, 3325127.2; 636495.89, 3325098.66; 636498.24, 3325069.01; 636514.01, 3325058.29; 636529.8, 3325046.83; 636543.02, 3325011.46; 636559.34, 3324963.12; 636593.95, 3324923.1; 636600.1, 3324907.09; 636596.94, 3324890.71; 636593.72, 3324860.92; 636606.11, 3324826.34; 636622.23, 3324802.15; 636635.37, 3324769.58; 636661.04, 3324729.03; 636679.97, 3324703.72; 636710.84, 3324693.02; 636746.28, 3324690.72; 636792.54, 3324700.26; 636821.71, 3324709.67; 636864.27, 3324724.66; 636901.69, 3324738.27; 636944.85, 3324744.11; 636971.58, 3324755.89; 636996.69, 3324753.71; 637030.79, 3324763.31; 637041.68, 3324765.96; 637044.93, 3324747.81; 637043.77, 3324730.37; 637024.64, 3324700.92; 637023.7, 3324686.66; 637027.48, 3324651.86; 637027.29, 3324612.22; 637003.13, 3324545.82; 637000.65, 3324528.71; 636991.66, 3324511.82; 636991.83, 3324489.6; 636995.89, 3324470.66; 637006.52, 3324458.7; 637015.67, 3324442.63; 637017.61, 3324428.45;

637012.72, 3324407.67; 637007.37, 3324393.3; 637012.49, 3324371.58; 637021.31, 3324352.76; 637020.21, 3324333.69; 637014.82, 3324310.96; 637011.39, 3324289.46; 637005.33, 3324261.59; 637006.85, 3324233.11; 636994.12, 3324201.82; 636981.87, 3324167.87; 636973.2, 3324117.71; 636975.36, 3324063.02; 636994.09, 3324017.36; 637019.12, 3323976.17; 637036.52, 3323958.56; 637079.19, 3323921.56; 637113.94, 3323899.09; 637156.16, 3323879.93; 637202.87, 3323871.99; 637231.58, 3323868.34; 637261.83, 3323866.36; 637283.38, 3323863.28; 637302.6, 3323857.46; 637324.97, 3323852.84; 637344.78, 3323839.86; 637351.72, 3323832.92; 637343.66, 3323821.23; 637306.38, 3323818.29; 637296.89, 3323800.64; 637297.09, 3323792.71; 637280.27, 3323781.18; 637268.59, 3323771.77; 637260.18, 3323758.89; 637249.53, 3323755.44; 637241.17, 3323740.18; 637235.39, 3323732.86; 637232.76, 3323711.38; 637225.57, 3323712.82; 637216.29, 3323702.29; 637228.04, 3323693.84; 637225.62, 3323679.11; 637216.75, 3323668.59; 637208.76, 3323638.67; 637201.27, 3323620.63; 637205.55, 3323608.44; 637200.22, 3323598.82; 637196.61, 3323584.43; 637191.42, 3323570.01; 637192.93, 3323557.37; 637202.84, 3323558.44; 637205.45, 3323549.01; 637196.26, 3323551.15; 637192.04, 3323545.49; 637189.13, 3323534.31; 637195.8, 3323522.18; 637188.81, 3323515.7; 637190, 3323499.87; 637194.47, 3323496.36; 637200.17, 3323506.81; 637211.63, 3323509.09; 637220.22, 3323499.82; 637220.33, 3323479.22; 637226.35, 3323477; 637228.57, 3323467.51; 637232.34, 3323460.49; 637238.68, 3323460.65; 637240.65, 3323446.03; 637246.81, 3323438.25; 637259.13, 3323438.19; 637267.23, 3323432.03; 637274.58, 3323408.8; 637286.58, 3323390.07; 637297.86, 3323399.53; 637306.59, 3323400.5; 637306.16, 3323385.82; 637300.83, 3323377; 637314.44, 3323372.54; 637313.03, 3323365.76; 637309.47, 3323364.93; 637311.38, 3323352.68; 637318.06, 3323339.73; 637325.79, 3323332.81; 637332.08, 3323335.34; 637335.29, 3323333.86; 637333.86, 3323328.27; 637331.37, 3323316.29; 637333.58, 3323307.67; 637347.3, 3323299.65; 637348.94, 3323281.83; 637360.73, 3323271.08; 637370.69, 3323254.67; 637380.85, 3323245.81; 637392.9, 3323240.93; 637401.17, 3323243.51; 637407.03, 3323232.17; 637414.83, 3323222.51; 637425.1, 3323209.66; 637437.94, 3323204.05; 637444.6, 3323208.15; 637448.3, 3323218.98; 637456.97, 3323238.3; 637469.92, 3323249.18; 637475.73, 3323255.25; 637479.5, 3323263.28; 637478.32, 3323278.35; 637473.34, 3323286.9; 637471.92, 3323295.61; 637452.21, 3323305.04; 637450, 3323314.09; 637445.39, 3323323.09; 637440, 3323332.07; 637443.79, 3323339.28; 637437.58, 3323349.05; 637439.4, 3323355.84; 637444, 3323362.7; 637449.78, 3323369.96; 637454.48, 3323372.89; 637449.03, 3323384.23; 637440.14, 3323389.57; 637429.23, 3323396.78; 637421.17, 3323400.95; 637416.99, 3323409.21; 637428.36, 3323415.42; 637441.85, 3323416.14; 637444.46, 3323422.95; 637453.25, 3323421.61; 637463.96, 3323422.25; 637471.74, 3323429.19; 637480.79, 3323432.6; 637495.97, 3323444.84; 637487.3, 3323458.11; 637475.93, 3323467.75; 637467.19, 3323483.01; 637465.65, 3323496.83; 637476.34, 3323498.66; 637489.88, 3323497.81; 637499.58, 3323507.17; 637494.5, 3323519.34; 637485.95, 3323527.05; 637478.24, 3323533.6; 637470.44, 3323542.95; 637460.36, 3323548.63; 637454.58, 3323557.6; 637445.25, 3323564.48; 637436.21, 3323576.92; 637428.76, 3323588.22; 637417.93, 3323592.32; 637410.03, 3323590.56; 637404.79, 3323592.8; 637398.87, 3323607.32; 637392.98, 3323619.84; 637386.92, 3323623.69; 637387.48, 3323633.19; 637378.33, 3323633.77; 637375.27, 3323644.37; 637380.94, 3323656; 637374.84, 3323661.4; 637368.1, 3323660.85; 637364.76, 3323667.14; 637365.84, 3323671.47; 637378.74, 3323680.16; 637395.92, 3323677.04; 637417.99, 3323684.33; 637430.46, 3323694.14; 637445.16, 3323694.51; 637456.9, 3323701.92; 637471.05, 3323707.83; 637482.81, 3323714.49; 637491.24, 3323727; 637503.45, 3323731.24; 637515.42, 3323745.4; 637525.66, 3323764.33; 637531.87, 3323786.27; 637531.35, 3323806.86; 637543.49, 3323814.34; 637557.64, 3323820.63; 637570.46, 3323832.06; 637586.12, 3323841.57; 637597.38, 3323852.53; 637605.05, 3323863.46; 637614.66, 3323876.37; 637621.83, 3323891.22; 637627.21, 3323898.85; 637635.54, 3323899.06; 637640.67, 3323884.96; 637648.15, 3323872.03; 637658.95, 3323869.56; 637670.01, 3323856.36; 637681, 3323830.48; 637697, 3323810.65; 637703.25, 3323799.33; 637698.1, 3323782.9; 637690.93, 3323768.05; 637681.16, 3323761.5; 637685.17, 3323743.75; 637694.16, 3323734.49; 637705.16, 3323723.65; 637713.79, 3323712.39; 637717.25, 3323701.74; 637712.59, 3323681.39; 637707.47, 3323663.85; 637702.71, 3323647.87; 637707.11, 3323631.32; 637700.98, 3323621.67; 637697.28, 3323610.84; 637697.72, 3323593.44; 637702.38, 3323582.44; 637705.02, 3323572.21;

637704.52, 3323560.34; 637700.43, 3323549.5; 637693.56, 3323538.21; 637687.6, 3323521.83; 637678.82, 3323507.75; 637671.6, 3323494.46; 637671.9, 3323482.61; 637675, 3323470.02; 637671.13, 3323450.44; 637665.6, 3323433.26; 637664.79, 3323418.2; 637672.55, 3323409.65; 637683.53, 3323400.07; 637696.86, 3323375.81; 637705.29, 3323356.98; 637711.84, 3323333.74; 637722.64, 3323299.55; 637723.08, 3323282.15; 637725.82, 3323267.92; 637733.64, 3323257.44; 637735.79, 3323251.13; 637738.52, 3323236.9; 637740.45, 3323223.91; 637745.36, 3323202.24; 637743.51, 3323165.3; 637739.52, 3323135.05; 637748.17, 3323107.18; 637757.94, 3323097.88; 637775.48, 3323095.95; 637782.06, 3323087; 637782.82, 3323073.16; 637789.57, 3323057.47; 637797.77, 3323047.38; 637808.32, 3323038.53; 637821.23, 3323031.3; 637836.16, 3323022.57; 637850.04, 3323008.25; 637863.19, 3322990.72; 637869.67, 3322970.29; 637866.57, 3322951.61; 637861.88, 3322932.83; 637864.48, 3322908.73; 637863.38, 3322888.85; 637861.02, 3322872.19; 637866.49, 3322844.55; 637871.76, 3322824.89; 637892.16, 3322804; 637897.29, 3322789.83; 637911.75, 3322783.83; 637923.01, 3322731.43; 637928.83, 3322705.42; 637939.29, 3322684.64; 637957.15, 3322670.43; 637970.49, 3322645.79; 637974.55, 3322626.48; 637984.63, 3322605.32; 638001.1, 3322582.39; 638017.39, 3322566.95; 638028.99, 3322548.2; 638035.29, 3322519.39; 638041.23, 3322504.13; 638059.23, 3322484.35; 638075.97, 3322466.55; 638088.5, 3322442.64; 638098.89, 3322424.68; 638110.92, 3322420.24; 638126.72, 3322408.71; 638143.49, 3322389.72; 638159.25, 3322363.96; 638170.54, 3322341.65; 638197.55, 3322311.43; 638227.72, 3322297.15; 638219.98, 3322247.45; 638155.71, 3322228.1; 638125.6, 3322264.42; 638111.27, 3322296.15; 638091.21, 3322335.28; 638058.06, 3322373.34; 638020.4, 3322416.4; 637971.48, 3322464.66; 637938.33, 3322502.72; 637899.89, 3322544.95; 637866.05, 3322594.41; 637846.1, 3322644.66; 637746, 3322721.04; 637710.19, 3322769.64; 637679.97, 3322801.4; 637624.02, 3322876.52; 637558.14, 3322919.62; 637485.94, 3323008.19; 637444.59, 3323056.27; 637367.79, 3323138.42; 637324.28, 3323192.39; 637300.69, 3323229.49; 637269.57, 3323265.54; 637218.24, 3323315.37; 637193.06, 3323352; 637160.85, 3323399.95; 637127.56, 3323442.74; 637087.94, 3323485.32; 637058.07, 3323505.1; 637023.02, 3323568.89; 636977.59, 3323636.35; 636940.18, 3323701.2; 636880.33, 3323758; 636829.53, 3323802.28; 636813.75, 3323860.13; 636796.59, 3323894.59; 636787.73, 3323930.45; 636779.27, 3323974.43; 636708.71, 3324061.05; 636673.36, 3324122.83; 636632.42, 3324186.41; 636567.83, 3324272.8; 636496.48, 3324360.2; 636435.29, 3324422.46; 636375.32, 3324499.04; 636289.81, 3324642.77; 636201.06, 3324757.83; 636123.51, 3324869.3; 636051.68, 3324943.59; 635980.85, 3325009.59; 635908.79, 3325061.28; 635826.26, 3325134.48; 635738.99, 3325206.44; 635717.3, 3325246.72; 635685.58, 3325290.68; 635652.57, 3325334.8; 635570.27, 3325398.89; 635530.28, 3325424.04; 635471.94, 3325451.91; 635405.11, 3325501.35; 635330.73, 3325519.7; 635278.5, 3325541.8; 635196.74, 3325599.98; 635151.57, 3325641.66; 635138.57, 3325684.16; 635116.69, 3325716.07; 635093.85, 3325754.76; 635049.34, 3325786.16; 634991.96, 3325823.54; 634946.86, 3325862.05; 634931.56, 3325901.67; 634922.46, 3325937.28; 634872.35, 3325972.28; 634802.23, 3326007.97; 634748.88, 3326041.15; 634703.03, 3326071.46; 634687.93, 3326095.86; 634641.89, 3326124.41; 634566.38, 3326149.42; 634493.83, 3326173; 634457.25, 3326189.49; 634408.63, 3326226.35; 634384.62, 3326264.19; 634349.97, 3326282.36; 634305.06, 3326297.84; 634261.18, 3326320.14; 634212.79, 3326363.3; 634165.23, 3326389.45; 634094.6, 3326415.82; 634008.99, 3326453.68; 633959.74, 3326467.92; 633914.21, 3326476.33; 633830.27, 3326495.19; 633774.21, 3326527.49; 633760.7, 3326543.38; 633738.79, 3326586.71; 633717.12, 3326622.81; 633695.63, 3326671.39; 633681.67, 3326706.62; 633667.35, 3326737.79; 633661.16, 3326760.91; 633652.83, 3326776.19; 633630.64, 3326820.82; 633614.52, 3326861.24; 633602.67, 3326889.85; 633593.97, 3326919.4; 633577.01, 3326961.36; 633550.9, 3327003.53; 633539.27, 3327039.69; 633528.59, 3327068.76; 633510.73, 3327098.84; 633486.25, 3327140.23; 633475.72, 3327163.38; 633465.98, 3327187.29; 633466.9, 3327213.47; 633480.08, 3327242.33.

636703.03, 3325565.89; 636459.2, 3325736.96; 636462.55, 3325730.3; 636470.16, 3325727.69; 636475, 3325725.06; 636472.7, 3325721.82; 636467.63, 3325718.13; 636468.57, 3325711.79; 636474.27, 3325706.82; 636474.39, 3325702.07; 636474.52, 3325696.9; 636478.28, 3325689.88; 636485.82, 3325690.07; 636490.46, 3325695.3; 636493.26, 3325694.62; 636498.17, 3325689.19; 636502.48, 3325691.23; 636504.6, 3325701.59; 636503.27, 3325707.11; 636499.7, 3325707.46; 636495.22, 3325711.28; 636491.29, 3325709.62; 636488.13, 3325708.73; 636486.38, 3325715.05; 636485, 3325722.51; 636480.14, 3325726; 636480.42, 3325730.75; 636486.09, 3325726.53; 636494.68, 3325717.19; 636501.17, 3325711.86; 636506.79, 3325709.57; 636510.83, 3325707.3; 636522.86, 3325702.86; 636531.3, 3325699.14; 636542.19, 3325693.05; 636553.83, 3325688.59; 636571.02, 3325684.66; 636582.54, 3325684.57; 636589.51, 3325676.01; 636598.12, 3325666.3; 636603.8, 3325661.33; 636599.59, 3325655.23; 636601.7, 3325650.16; 636606.62, 3325644.36; 636611.4, 3325643.29; 636610.78, 3325636.91; 636614.08, 3325632.25; 636619.19, 3325634.37; 636627.18, 3325632.58; 636625.72, 3325627.36; 636633.09, 3325619.24; 636639.77, 3325621.78; 636641.63, 3325627.01; 636642.3, 3325631.77; 636647.83, 3325633.47; 636658.11, 3325619.87; 636682.29, 3325622.48; 636693.91, 3325618.78; 636704.19, 3325605.18; 636721.56, 3325594.13; 636742.45, 3325585.54; 636765.49, 3325570.26; 636794.01, 3325558.25; 636819.72, 3325547.85; 636839.02, 3325538.78; 636856.63, 3325533.67; 636875, 3325530.58; 636886.25, 3325525.74; 636900.37, 3325517.73; 636913.27, 3325510.57; 636931.62, 3325507.47; 636942.86, 3325502.95; 636958.03, 3325500.96; 636968.53, 3325494.1; 636968.05, 3325481.79; 636964.33, 3325471.4; 636952.33, 3325474.66; 636949.39, 3325465.09; 636944.1, 3325454.22; 636940.78, 3325444.28; 636929.83, 3325452.68; 636926.34, 3325449.03; 636927.39, 3325439.13; 636931.62, 3325428.94; 636926, 3325415.31; 636910.66, 3325409.37; 636898.89, 3325418.63; 636877.62, 3325426.83; 636840.39, 3325437.75; 636817.91, 3325445.93; 636779.99, 3325452.46; 636751.34, 3325453.36; 636728.73, 3325467.84; 636719.15, 3325485.01; 636717.91, 3325502.46; 636710.98, 3325525.26; 636697.08, 3325524.91; 636670.29, 3325530.97; 636637.31, 3325546.37; 636609.56, 3325559.16; 636574.01, 3325581.67; 636552.86, 3325600.55; 636540.53, 3325616.91; 636520.43, 3325625.89; 636498.67, 3325638.01; 636482.48, 3325649.16; 636468.02, 3325670.95; 636462, 3325688.65; 636453.88, 3325695.57; 636445.64, 3325707.28; 636437.52, 3325713.82; 636441.37, 3325718.66; 636448.81, 3325723.59; 636455.84, 3325728.14; 636459.2, 3325736.96.

638535.15, 3324031.44; 638050.91, 3324390.44; 638044.17, 3324390.27; 638021.29, 3324399.24; 637997.94, 3324410.95; 637990.69, 3324430.56; 637978.62, 3324436.18; 637965.53, 3324435.1; 637955.99, 3324434.86; 637937.44, 3324461.3; 637916.68, 3324481; 637888.42, 3324498.15; 637854.05, 3324505.21; 637831.8, 3324505.02; 637808.93, 3324513.56; 637797.02, 3324528.37; 637781.44, 3324531.91; 637764.48, 3324526.73; 637754.27, 3324521.3; 637741.89, 3324524.17; 637724.66, 3324529.73; 637709.41, 3324534.83; 637692.95, 3324541.6; 637676.8, 3324551.49; 637660.17, 3324564.93; 637647.96, 3324576.11; 637649.07, 3324594.8; 637637.94, 3324610.38; 637621.83, 3324619.08; 637613.35, 3324639.85; 637592.48, 3324647.68; 637570.59, 3324648.69; 637552.31, 3324649.04; 637527.5, 3324655.54; 637507.47, 3324661.77; 637486.95, 3324671.56; 637470.63, 3324688.19; 637459.03, 3324707.31; 637434.14, 3324732.09; 637413.56, 3324744.62; 637400.71, 3324765.33; 637390.86, 3324793.61; 637387.34, 3324822.48; 637387.27, 3324856.94; 637381.71, 3324888.14; 637370.48, 3324918.63; 637366.89, 3324934.4; 637360.23, 3324946.53; 637328.73, 3325002.91; 637291.28, 3325037.67; 637258.24, 3325086.78; 637224.41, 3325120.39; 637201.58, 3325158.7; 637182.25, 3325168.89; 637174.65, 3325186.55; 637165.81, 3325205.74; 637145.22, 3325234.13; 637133.04, 3325270.59; 637128.65, 3325287.14; 637107.94, 3325304.04; 637090.22, 3325313.52; 637068.95, 3325321.28; 637045.46, 3325328; 637053.3, 3325332.5; 637055.88, 3325340.49; 637068.07, 3325345.61; 637059.94, 3325352.89; 637051.37, 3325361.79; 637046.75, 3325371.98; 637049, 3325376.84; 637069.93, 3325382.11; 637076.92, 3325388.59; 637079.89, 3325397.41; 637075.29, 3325406.03; 637080.41, 3325407.72; 637091.93, 3325403.14; 637101.86, 3325403.39; 637115.27, 3325407.29; 637122.88, 3325405.11; 637125.8, 3325400; 637134.89, 3325401.85; 637144.82, 3325402.1; 637151.6, 3325401.46; 637160.89, 3325395.33; 637162.23, 3325389.43; 637172.37, 3325381.38; 637180.43, 3325376.84; 637184.18, 3325370.57; 637181.11, 3325365.75; 637184.52, 3325357.09; 637192.87, 3325356.49; 637187.83, 3325351.62; 637186.37, 3325346.47; 637191.62, 3325343.04; 637197.94, 3325344.76; 637204.69, 3325345.3; 637203.66, 3325338.16; 637203.85, 3325330.61; 637207.91, 3325327.59; 637218.66, 3325326.62; 637227.8, 3325326.85; 637234.96, 3325327.03; 637245.22, 3325329.72; 637250.44, 3325327.42; 637243.83, 3325321.76; 637239.21, 3325316.09; 637237.42, 3325308.49; 637242.3, 3325303.43; 637252.18, 3325305.68; 637253.13, 3325299.77; 637253.77, 3325290.67; 637256.91, 3325291.94; 637265.1, 3325298.07; 637271.24, 3325306.97; 637282.59, 3325313.62; 637287.96, 3325305.39; 637296.85, 3325299.68; 637302.66, 3325290.34; 637308.93, 3325278.2; 637314.4, 3325266.04; 637323.69, 3325259.91; 637336.03, 3325259.85; 637340.26, 3325249.65; 637353.81, 3325247.62; 637363.99, 3325238.33; 637375.97, 3325235.88; 637379.13, 3325221.29; 637388.4, 3325215.97; 637396.44, 3325212.18; 637391.12, 3325202.93; 637403.17, 3325198.12; 637414.5, 3325190.1; 637419.03, 3325183.47; 637424.4, 3325175.24; 637431.66, 3325171.87; 637440.4, 3325171.27; 637446.97, 3325163.51; 637445.36, 3325148.43; 637446.87, 3325135.79; 637454.66, 3325126.44; 637435.48, 3325114.47; 637444.8, 3325107.59; 637455.73, 3325099.56; 637457.99, 3325088.88; 637449.84, 3325081.56; 637440.03, 3325076.57; 637446.57, 3325068.8; 637460.84, 3325070.35; 637476.79, 3325068.38; 637467.59, 3325055.04; 637471.72, 3325049.21; 637480.23, 3325042.31; 637483.91, 3325038.41; 637494.76, 3325033.94; 637502.06, 3325028.19; 637513.25, 3325025.66; 637517.08, 3325015.84; 637519.42, 3325002.04; 637524.88, 3324990.31; 637527.44, 3324982.82; 637541.45, 3324979.24; 637549.36, 3324980.63; 637557.71, 3324980.84; 637559.22, 3324968.14; 637568.14, 3324961.25; 637582.53, 3324958.06; 637588.6, 3324953.84; 637597.96, 3324944.96; 637603.84, 3324932.81; 637614.38, 3324924.34; 637623.82, 3324912.34; 637631.86, 3324908.92; 637640.79, 3324901.66; 637655.09, 3324902.39; 637663.11, 3324899.41; 637667.32, 3324890.03; 637675.47, 3324882.31; 637687.86, 3324879.43; 637691.25, 3324870.78; 637697.76, 3324865.45; 637707.44, 3324859.33; 637712.77, 3324852.72; 637720.44, 3324848.54; 637725.7, 3324844.74; 637731.09, 3324835.77; 637739.02, 3324836.34; 637746.05, 3324825.84; 637745.4, 3324819.83; 637763.22, 3324822.65; 637767.09, 3324811.27; 637766.07, 3324804.5; 637778.38, 3324804.81; 637789.97, 3324802.35; 637800.01, 3324798.24; 637806.11, 3324792.84; 637798.36, 3324785.09; 637803.32, 3324777.72; 637811.72, 3324775.12; 637824.1, 3324772.69; 637834.63, 3324765.4; 637842.84, 3324754.93; 637851.56, 3324740.05; 637864.11, 3324731.25; 637868.65, 3324724.62; 637893.65, 3324726.06; 637901.05, 3324715.95; 637912.82, 3324706.76; 637929.13, 3324705.98; 637933.06, 3324692.16; 637948.52, 3324694.17; 637965.36, 3324687.86; 637966.38, 3324679.14; 637977.21, 3324675.48; 637986.45, 3324671.35; 637985.52, 3324661.02; 637991.37, 3324650.06; 638007.69, 3324648.85; 638008.68, 3324641.38; 638006.09, 3324633.39; 638018.01, 3324633.69; 638026.39, 3324632.28; 638037.7, 3324625.44; 638043.81, 3324619.67; 638041.28, 3324609.3; 638047.44, 3324601.53; 638061.76, 3324601.08; 638073.48, 3324593.45; 638088.04, 3324583.52; 638087.54, 3324571.58; 638091.37, 3324561.81; 638105.38, 3324557.8; 638122.28, 3324549.92; 638128.88, 3324540.16; 638138.21, 3324532.47; 638152.35, 3324524.09; 638160.91, 3324515.56; 638184.57, 3324507.48; 638188.48, 3324494.1; 638192.7, 3324484.28; 638210.18, 3324484.72; 638219.79, 3324481.78; 638237.65, 3324467.18; 638253.36, 3324459.27; 638253.96, 3324450.93; 638264.77, 3324448.01; 638274.86, 3324441.96; 638287.88, 3324430.37; 638293.28, 3324421.02; 638300.6, 3324414.08; 638298.87, 3324404.12; 638288.53, 3324388.37; 638278.81, 3324379.83; 638273.36, 3324375.69; 638279.2, 3324364.35; 638283.1, 3324351.78; 638294.7, 3324348.52; 638315.32, 3324366.89; 638322.91, 3324380.94; 638331.07, 3324388.26; 638337.25, 3324394.78; 638344.47, 3324392.97; 638340.4, 3324380.57; 638351.24, 3324376.47; 638370.86, 3324371.03; 638384.54, 3324363.83; 638391.6, 3324352.14; 638402.31, 3324353.22; 638403.05, 3324339.32; 638410.73, 3324334.4; 638424.69, 3324332.75; 638435.62, 3324324.72; 638438.76, 3324310.13; 638451.31, 3324301.71; 638467.96, 3324303.32; 638475.95, 3324301.96; 638485.16, 3324299.01; 638491.02, 3324286.86; 638499.9, 3324281.52; 638510.21, 3324282.97; 638510.26, 3324265.12; 638517.91, 3324261.38; 638525.13, 3324258.75; 638531.68, 3324250.99; 638536.6, 3324245.18; 638534.45, 3324236.01; 638547.67, 3324231.98; 638560.88, 3324227.94; 638575.3, 3324224; 638578.67, 3324216.15; 638584.14, 3324204.37; 638600.46, 3324203.22; 638601.07, 3324194.87; 638606.49, 3324184.71; 638612.82, 3324185.68; 638616.94, 3324179.85; 638611.58, 3324172.16; 638621.26, 3324166.48; 638617.12, 3324157.26; 638628.87, 3324148.81; 638635.54, 3324136.31; 638640.85, 3324130.51; 638648.91, 3324126.35; 638653.05, 3324119.71; 638661.61, 3324111.56; 638674.02, 3324107.94; 638683.63, 3324105.44; 638694.65, 3324093.42; 638700.56, 3324080.08; 638706.3, 3324073.48; 638716.46, 3324064.63; 638728.12, 3324058.99; 638733.8, 3324054.33; 638739.51, 3324048.54; 638751.97, 3324043.3; 638754.89, 3324037.82; 638767.28, 3324034.95; 638765.18, 3324023.84; 638778.74, 3324021.81; 638786.61, 3324025.13; 638789.67, 3324014.16; 638795.79, 3324007.95; 638793.63, 3323999.15; 638805.21, 3323996.7; 638811.65, 3323994.05; 638803.9, 3323985.93; 638812.74, 3323981.84; 638826.01, 3323976.19; 638836.13, 3323968.95; 638838.07, 3323954.7; 638839.52, 3323944.44; 638844.99, 3323933.09; 638849.3, 3323919.72; 638870.95, 3323911.96; 638880.57, 3323892.73; 638892.94, 3323875.25; 638909.1, 3323864.92; 638928.93, 3323866.6; 638922.33, 3323876.36; 638924.24, 3323879.6; 638937.77, 3323879.12; 638957.69, 3323877.25; 638959.94, 3323867.01; 638953.53, 3323852.99; 638959.95, 3323834.93; 638977.11, 3323832.17; 638990.57, 3323834.45; 638995.96, 3323840.95; 639005.46, 3323842.75; 639010.18, 3323829.01; 639020.42, 3323816.97; 639028.77, 3323817.18; 639037.33, 3323808.29; 639049.63, 3323809.03; 639065.25, 3323804.62; 639074.58, 3323796.93; 639079.49, 3323791.56; 639070.52, 3323784.96; 639070.75, 3323775.86; 639083.89, 3323775; 639089.2, 3323769.2; 639099.37, 3323759.91; 639096.92, 3323746.36; 639102.84, 3323732.66; 639104.76, 3323720.03; 639105.05, 3323708.55; 639123.5, 3323701.47; 639128.9, 3323692.11; 639126.05, 3323679.31; 639131.41, 3323671.51; 639139.85, 3323668.17; 639144.42, 3323660.36; 639144.66, 3323650.87; 639156.16, 3323651.97; 639158.77, 3323642.93; 639165.26, 3323637.53; 639166.65, 3323630.02; 639175.53, 3323624.31; 639194.33, 3323619.6; 639198.03, 3323615.33; 639211.7, 3323608.55; 639213.93, 3323599.12; 639229.17, 3323594.32; 639229.42, 3323584.41; 639244.99, 3323581.24; 639255.9, 3323574.4; 639265.61, 3323567.9; 639280.09, 3323560.71; 639286.22, 3323554.13; 639299.01, 3323551.33; 639315.53, 3323558.49; 639322.44, 3323551.92; 639326.53, 3323547.21; 639329.07, 3323541.72; 639342.17, 3323542.05; 639345.97, 3323533.47; 639348.93, 3323525.99; 639347.88, 3323520.41; 639335.35, 3323528.83; 639328.94, 3323530.67; 639325.13, 3323524.21; 639317.55, 3323525.58; 639313.03, 3323515.6; 639301.5, 3323531.54; 639290.57, 3323539.19; 639287, 3323538.73; 639290.42, 3323529.7; 639295.88, 3323517.91; 639304.5, 3323507.02; 639308, 3323494.06; 639319.41, 3323483.61; 639334, 3323472.12; 639346.43, 3323452.21; 639354.75, 3323437.75; 639356.7, 3323423.5; 639351.91, 3323407.96; 639343.6, 3323406.94; 639343.92, 3323394.28; 639348.11, 3323385.64; 639355.11, 3323376.33; 639364.04, 3323369; 639378.43, 3323365.43; 639386.21, 3323356.89; 639400.16, 3323339.39; 639412.93, 3323321.86; 639416.52, 3323305.34; 639421.15, 3323295.16; 639425.8, 3323284.54; 639434.74, 3323276.09; 639444.49, 3323267.97; 639451.43, 3323261.03; 639459.2, 3323252.11; 639474.93, 3323243.39; 639477.96, 3323233.54; 639492.4, 3323227.98; 639498.56, 3323236.43; 639500.89, 3323253.97; 639488.07, 3323258.39; 639480.27, 3323268.06; 639470.53, 3323275.74; 639464.32, 3323285.51; 639456.11, 3323295.6; 639449.42, 3323308.92; 639449.85, 3323323.6; 639445.61, 3323334.23; 639438.65, 3323341.98; 639432.76, 3323354.5; 639430.48, 3323366.31; 639426.98, 3323378.95; 639415.58, 3323389.72; 639419.73, 3323398.18; 639409.76, 3323415.72; 639410.31, 3323425.66; 639405.38, 3323431.91; 639403.05, 3323445.33; 639414.3, 3323440.43; 639430.64, 3323454.7; 639430.6, 3323471.74; 639428.58, 3323489.17; 639427.5, 3323500.26; 639427.16, 3323513.73; 639433.38, 3323519.01; 639442.47, 3323520.8; 639450.25, 3323511.88; 639453.7, 3323501.29; 639457.22, 3323487.52; 639454, 3323473.96; 639445.31, 3323471.74; 639449.63, 3323457.99; 639463.76, 3323449.23; 639477.19, 3323436.9; 639487.34, 3323428.42; 639490.02, 3323417; 639486.33, 3323405.79; 639472.89, 3323402.65; 639482.73, 3323391.03; 639481.86, 3323377.9; 639477.81, 3323365.13; 639487.85, 3323361.01; 639494.86, 3323351.33; 639499.95, 3323354.2; 639507.36, 3323359.94; 639512.97, 3323358.09; 639519.05, 3323353.12; 639514.6, 3323340.27; 639501.87, 3323341.2; 639499.26, 3323334.39; 639508.56, 3323327.89; 639510.36, 3323320; 639521.31, 3323310.73; 639529.32, 3323308.56; 639536.76, 3323313.12; 639540.87, 3323323.15; 639548.99, 3323316.61; 639549.75, 3323302.77; 639554.34, 3323293.71; 639551.11, 3323280.21; 639554.84, 3323273.93; 639567.9, 3323266.08; 639574.03, 3323259.5; 639585.23, 3323240.37; 639592.59, 3323233; 639600.51, 3323218.15; 639610.3, 3323208.48; 639616.08, 3323199.51; 639634.51, 3323194.04; 639644.34, 3323198.22; 639651.76, 3323187.73; 639655.47, 3323182.65; 639656.93, 3323172.01; 639663.84, 3323165.82; 639666.86, 3323155.97; 639691.29, 3323149.09; 639696.96, 3323160.72; 639709.17, 3323149.54; 639709.47, 3323137.63; 639712.1, 3323127.77; 639721.92, 3323116.97; 639731.26, 3323108.84; 639741.04, 3323099.59; 639753.98, 3323090.37; 639755.15, 3323075.79; 639760.55, 3323066.38; 639766.64, 3323061.41; 639775.64, 3323051.28; 639782.04, 3323049.88; 639782.61, 3323043.15; 639792.9, 3323029.18; 639806.03, 3323028.26; 639810.21, 3323020.06; 639819.44, 3323016.74; 639824.66, 3323014.87; 639829.54, 3323026.48; 639834.83, 3323036.91; 639840.46, 3323034.31; 639846.31, 3323038.83; 639851.88, 3323022.74; 639855.06, 3323007.33; 639868.62, 3323005.68; 639877.32, 3323007.08; 639887.61, 3323008.97; 639890.99, 3323001.12; 639893.28, 3322989.26; 639891.64, 3322975.36; 639904.25, 3322963.75; 639917.04, 3322960.96; 639926.31, 3322956.01; 639937.95, 3322951.56; 639948.21, 3322954.19; 639954.75, 3322947.61; 639960.59, 3322936.27; 639961.73, 3322922.82; 639967.78, 3322919.41; 639980.03, 3322922.47; 639988.5, 3322917.56; 639997.93, 3322905.88; 640009.33, 3322895.05; 640021.53, 3322884.31; 640024.84, 3322879.59; 640023.34, 3322875.62; 640017.77, 3322875.85; 639996.87, 3322885.25; 639973.15, 3322895.76; 639943.47, 3322906.13; 639911.77, 3322918; 639879.61, 3322932.61; 639842.02, 3322957.44; 639810.67, 3322970.51; 639778.38, 3322989.92; 639752.54, 3323006.31; 639724.42, 3323017.9; 639692.68, 3323030.96; 639621.87, 3323064.88; 639598.43, 3323080.52; 639572.84, 3323096.79; 639550.47, 3323116.83; 639519.39, 3323135.52; 639483.81, 3323175.01; 639460.87, 3323185.92; 639440.01, 3323194.13; 639433.77, 3323220.57; 639423.47, 3323234.92; 639380.21, 3323269.28; 639344.44, 3323284.61; 639276.57, 3323327.72; 639241, 3323366.84; 639217.88, 3323401.15; 639205.76, 3323424.63; 639182.04, 3323445.32; 639147.22, 3323460.42; 639108.62, 3323478.05; 639084.44, 3323490.92; 639061.81, 3323505.4; 639054.17, 3323524.62; 639033.66, 3323534.46; 639016.03, 3323555.37; 638993.71, 3323573.47; 638981.22, 3323595.75; 638972.73, 3323617.33; 638957.22, 3323633.17; 638937.08, 3323643.77; 638916.8, 3323644.44; 638905.32, 3323658.45; 638887.41, 3323674.67; 638868.62, 3323695.17; 638843.88, 3323714.39; 638822.91, 3323726.16; 638807.87, 3323739.64; 638800.11, 3323747.75; 638790.43, 3323753.06; 638774.6, 3323766.52; 638753.61, 3323779.1; 638711.02, 3323781.21; 638681, 3323789.57; 638661.33, 3323797.75; 638632.2, 3323801.38; 638595.77, 3323811.95; 638565.32, 3323821.92; 638522.99, 3323829.16; 638507.34, 3323850.99; 638479.88, 3323868.15; 638466.03, 3323897.51; 638438.74, 3323907.12; 638420.6, 3323917.34; 638400.25, 3323936.3; 638388.2, 3323957.35; 638385.35, 3323975.13; 638368.03, 3324000.48; 638361.7, 3324014.99; 638351.87, 3324041.71; 638331.41, 3324049.49; 638310.07, 3324060.44; 638282.37, 3324055.37; 638241.69, 3324060.72; 638234.01, 3324065.64; 638202.35, 3324076.39; 638180.2, 3324071.84; 638158.49, 3324065.74; 638134.34, 3324061.94; 638128.14, 3324071.34; 638109.11, 3324085.09; 638096.81, 3324099.89; 638088.56, 3324128.21; 638096.63, 3324138.71; 638111.1, 3324132.33; 638130.04, 3324122.14; 638148.86, 3324116.62; 638152.58, 3324126.64; 638162.08, 3324128.5; 638181.92, 3324129.75; 638194.79, 3324123.33; 638205.85, 3324110.56; 638215.73, 3324097.33; 638235.25, 3324079.59; 638242.92, 3324090.9; 638256.45, 3324105.85; 638274.69, 3324123.41; 638290.03, 3324145.58; 638306.97, 3324166.98; 638313.58, 3324189; 638323.49, 3324205.48; 638324.66, 3324222.55; 638341.57, 3324245.2; 638354.65, 3324262.57; 638353.75, 3324281.96; 638326.94, 3324289.59; 638300.83, 3324300.42; 638276.74, 3324310.11; 638269.67, 3324337.71; 638252.93, 3324355.52; 638228.47, 3324363.64; 638214.54, 3324364.47; 638206.81, 3324355.54; 638190.95, 3324353.95; 638162.17, 3324361.16; 638131.7, 3324371.06; 638118.91, 3324373.55; 638102.03, 3324365.2; 638083.01, 3324378.58; 638065.7, 3324387.25; 638050.91, 3324390.44.

638046.7, 3324313.61; 638054.88, 3324375.49; 638087.53, 3324357.28; 638083.42, 3324346.87; 638082.07, 3324321.87; 638079.37, 3324302.76; 638072.33, 3324282.36; 638069.15, 3324251.01; 638061.63, 3324233.77; 638051.81, 3324229.16; 638044.35, 3324257.12; 638037.41, 3324280.29; 638028.52, 3324301.92; 638016.81, 3324340.45; 638005.87, 3324363.96; 638009.89, 3324378.36; 638019.19, 3324387.7; 638049.24, 3324378.1; 638054.88, 3324375.49.

639402.02, 3321050.13; 638922.38, 3321476.99; 638943.97, 3321503.69; 638978.7, 3321513.68; 639032.71, 3321515.04; 639051.34, 3321517.51; 639067.22, 3321518.28; 639078.59, 3321524.5; 639098.06, 3321530.17; 639114.27, 3321533.32; 639131.32, 3321534.94; 639143.93, 3321539.25; 639158.62, 3321540; 639168.86, 3321543.44; 639177.98, 3321544.86; 639179.38, 3321536.59; 639172.73, 3321532.43; 639165.66, 3321529.13; 639157.58, 3321518.19; 639148.09, 3321516.39; 639139.88, 3321510.62; 639128.88, 3321505.6; 639116.2, 3321504.1; 639109.6, 3321513.79; 639097.68, 3321513.49; 639084.39, 3321514.78; 639078.35, 3321502.71; 639063.3, 3321500.33; 639046.83, 3321491.61; 639036.18, 3321488.16; 639034.46, 3321477.44; 639011.64, 3321452.27; 639011.05, 3321444.7; 639019.54, 3321438.61; 639024.34, 3321421.69; 639032.33, 3321419.9; 639028.25, 3321408.68; 639038.26, 3321405.75; 639039.77, 3321393.12; 639043.5, 3321387.28; 639056.31, 3321384.05; 639061.57, 3321380.18; 639060.28, 3321367.92; 639077.75, 3321369.11; 639089.95, 3321373.41; 639094.16, 3321364.4; 639105.33, 3321362.68; 639118, 3321364.56; 639122.52, 3321359.12; 639116.42, 3321348.67; 639117.08, 3321338.39; 639119.42, 3321324.59; 639134.21, 3321320.59; 639157.22, 3321322.79; 639185.77, 3321325.07; 639198.1, 3321325.38; 639207.98, 3321327.63; 639216.78, 3321325.48; 639227.19, 3321322.12; 639236.31, 3321322.79; 639233.82, 3321311.24; 639240.23, 3321293.55; 639245.21, 3321285.37; 639243.27, 3321251.99; 639243.97, 3321240.15; 639254.36, 3321222.55; 639267.5, 3321221.26; 639275.94, 3321217.54; 639272.24, 3321206.34; 639268.85, 3321199.51; 639288.11, 3321192.07; 639305.66, 3321190.14; 639317.83, 3321180.52; 639326.82, 3321186.3; 639338.66, 3321189.78; 639346.58, 3321190.79; 639347.67, 3321179.34; 639351.92, 3321168.33; 639367.9, 3321165.18; 639384.68, 3321161.23; 639407.24, 3321149.88; 639420.89, 3321143.91; 639433.97, 3321129.95; 639437.06, 3321117.73; 639463.48, 3321088.37; 639470.21, 3321064.26; 639472.33, 3321043.71; 639477.01, 3321031.16; 639470.53, 3321020.26; 639477.55, 3321009.76; 639485.63, 3321004.78; 639495.41, 3320995.54; 639500.1, 3320982.61; 639510.61, 3320975.32; 639514.76, 3320968.31; 639525.58, 3320964.96; 639521.51, 3320953.38; 639526.47, 3320946.01; 639534.65, 3320936.67; 639540.81, 3320928.89; 639548.88, 3320924.35; 639550, 3320910.9; 639562.31, 3320911.58; 639582.59, 3320911.34; 639591.24, 3320930.6; 639608.68, 3320932.6; 639607.01, 3320973.01; 639607.03, 3320987.68; 639604.21, 3321005.02; 639602.59, 3321022.02; 639599.82, 3321037; 639601.49, 3321049.34; 639603.87, 3321065.69; 639609.34, 3321069.39; 639596.45, 3321076.18; 639597.01, 3321085.68; 639606.52, 3321102.59; 639608.27, 3321111.74; 639599.16, 3321126.18; 639595.65, 3321139.2; 639599.08, 3321161.08; 639595.12, 3321176.02; 639587.33, 3321184.94; 639579.1, 3321196.22; 639577.63, 3321207.29; 639576.27, 3321214; 639572.92, 3321220.66; 639574.08, 3321237.35; 639582.68, 3321243.12; 639580, 3321255.35; 639580.46, 3321268.79; 639578.58, 3321279.85; 639579.15, 3321288.98; 639584.98, 3321293.93; 639589.72, 3321295.24; 639587.06, 3321305.84; 639585.23, 3321315.72; 639576.53, 3321313.88; 639573.52, 3321322.92; 639578.34, 3321336.52; 639574.4, 3321351.09; 639580.97, 3321358; 639578.57, 3321374.23; 639572.72, 3321385.95; 639582.09, 3321392.55; 639589.06, 3321400.22; 639589.63, 3321408.6; 639576.38, 3321413.82; 639578.11, 3321424.16; 639585.48, 3321431.84; 639600.37, 3321440.14; 639612.94, 3321446.01; 639598.64, 3321445.28; 639589.24, 3321455.72; 639587.85, 3321463.61; 639579.45, 3321449.91; 639572.05, 3321444.23; 639557.34, 3321444.24; 639546.73, 3321454.64; 639536.91, 3321466.32; 639536.65, 3321476.61; 639521.86, 3321479.42; 639508.19, 3321485.38; 639493.72, 3321492.2; 639482.87, 3321496.67; 639467.85, 3321493.48; 639458.31, 3321477.82; 639470.7, 3321459.1; 639483.95, 3321453.87; 639492.09, 3321446.53; 639490.35, 3321436.62; 639499.19, 3321432.85; 639496.69, 3321421.67; 639494.7, 3321406.2; 639501.29, 3321396.82; 639510.42, 3321397.05; 639519.77, 3321373.5; 639521.61, 3321363.68; 639528.16, 3321355.92; 639522.15, 3321342.29; 639530.27, 3321335.75; 639536.86, 3321326.37; 639546.43, 3321309.19; 639551, 3321301.75; 639545.02, 3321286.18; 639538.43, 3321295.88; 639535.77, 3321306.92; 639521.04, 3321323.22; 639515.91, 3321337.32; 639512.01, 3321350.33; 639510.01, 3321366.51; 639505.29, 3321380.32; 639495.78, 3321395.12; 639484.39, 3321404.76; 639479.84, 3321412.13; 639476.68, 3321427.16; 639469.35, 3321434.09; 639451.67, 3321441.2; 639440.61, 3321454.78; 639429.76, 3321459.25; 639416.13, 3321463.65; 639409.15, 3321472.21; 639397.75, 3321467.56; 639385.21, 3321460.5; 639374.49, 3321459.85; 639363.75, 3321459.96; 639364.25, 3321471.89; 639359.35, 3321476.89; 639361.97, 3321483.32; 639369.4, 3321488.63; 639381.36, 3321486.99; 639389.93, 3321494.33; 639380.98, 3321502.03; 639368.16, 3321506.08; 639356.16, 3321508.89; 639343.14, 3321505.45; 639334.06, 3321502.84; 639329.95, 3321508.23; 639319.88, 3321513.54; 639313.8, 3321518.19; 639298.25, 3321519.73; 639290.43, 3321514.79; 639287.15, 3321502.85; 639277.22, 3321502.6; 639270.31, 3321492.87; 639261.39, 3321499.83; 639258.09, 3321504.49; 639252.04, 3321507.89; 639239.5, 3321500.84; 639239.77, 3321506.4; 639233.93, 3321516.93; 639225.51, 3321519.9; 639220.6, 3321509.85; 639211.7, 3321515.99; 639210.63, 3321526.64; 639217.68, 3321530.81; 639217.04, 3321540.72; 639218.05, 3321547.86; 639242.23, 3321550.03; 639267.19, 3321553.84; 639287.72, 3321558.73; 639318.21, 3321563.43; 639340, 3321566.42; 639387.87, 3321575.55; 639408.91, 3321576.45; 639439.14, 3321575.66; 639458.97, 3321577.34; 639478.98, 3321571.85; 639505.21, 3321556.28; 639523.51, 3321540.08; 639528.19, 3321543.75; 639550.66, 3321535.21; 639568.61, 3321532.54; 639585.81, 3321528.98; 639604.25, 3321522.32; 639630.23, 3321516.61; 639653.32, 3321515.2; 639676.51, 3321509.85; 639686.64, 3321502.18; 639688.73, 3321482.44; 639689.62, 3321462.61; 639694.57, 3321440.14; 639683.07, 3321407.39; 639686.59, 3321363.04; 639686.78, 3321339.26; 639687.69, 3321319.49; 639676.84, 3321308.48; 639674.7, 3321298.13; 639672.21, 3321286.58; 639670.83, 3321278.62; 639663.65, 3321279.62; 639661.59, 3321266.52; 639667.61, 3321264.3; 639662.3, 3321254.62; 639660.23, 3321241.89; 639664.64, 3321224.59; 639662.66, 3321208.68; 639661.84, 3321193.99; 639659.35, 3321182.38; 639658.05, 3321170.86; 639659.73, 3321151.12; 639660.89, 3321136.85; 639655.47, 3321115.31; 639648.68, 3321101.28; 639644.91, 3321092.88; 639638.48, 3321079.98; 639645.99, 3321065.94; 639634.21, 3321060.09; 639630.93, 3321048.52; 639619.72, 3321035.94; 639619.1, 3321013.33; 639624.61, 3320999.61; 639623.4, 3320984.91; 639621.01, 3320969.37; 639632.26, 3320958.97; 639636.4, 3320984.05; 639650.37, 3321007.68; 639658.13, 3321057.32; 639667.55, 3321104.5; 639692.51, 3321170.55; 639701.56, 3321158.1; 639703.5, 3321144.29; 639705.87, 3321113.83; 639715.81, 3321097.79; 639716.36, 3321072.27; 639730.74, 3321041.92; 639746.67, 3321008.99; 639754.16, 3320995.69; 639770.41, 3320966.39; 639779.29, 3320929.35; 639796.46, 3320910.8; 639805.78, 3320887.63; 639823.65, 3320857.18; 639824.71, 3320830.61; 639839.85, 3320782.24; 639843.43, 3320766.1; 639852.83, 3320725.08; 639857.14, 3320695.47; 639858.8, 3320661.43; 639873.4, 3320634.02; 639884.76, 3320609.34; 639889.98, 3320591.68; 639889.53, 3320578.19; 639881.1, 3320565.3; 639870.5, 3320560.23; 639855.86, 3320557.11; 639837.84, 3320562.59; 639790.64, 3320621.64; 639763.05, 3320659.83; 639665.27, 3320738.21; 639502.9, 3320839.98; 639452.48, 3320900.89; 639371.89, 3320975.76; 639300.92, 3321046.95; 639213.36, 3321129.95; 639132.62, 3321195.33; 639103.31, 3321238.16; 639050.99, 3321279.67; 639027.13, 3321311.15; 638931.36, 3321389.2; 638917.3, 3321426.49; 638914.06, 3321460.11; 638922.38, 3321476.99.

639454.86, 3321332.99; 639403.33, 3321419.76; 639410.58, 3321415.94; 639411.91, 3321410.86; 639412, 3321407.24; 639412.62, 3321398.14; 639420.3, 3321393.59; 639427.88, 3321391.79; 639425.37, 3321397.28; 639426.02, 3321402.85; 639428.38, 3321403.72; 639435.77, 3321410.27; 639439.27, 3321413.11; 639444.1, 3321410.86; 639445.38, 3321407.33; 639450.03, 3321396.71; 639453.39, 3321389.31; 639457.67, 3321377.12; 639466.42, 3321377.34; 639473.61, 3321375.9; 639478.46, 3321372.46; 639479.82, 3321365.75; 639480.1, 3321354.71; 639481.81, 3321349.57; 639487.05, 3321347.33; 639488.44, 3321339.44; 639486.89, 3321337.4; 639486.27, 3321330.65; 639489.54, 3321327.55; 639490.88, 3321321.27; 639498.85, 3321320.66; 639501.99, 3321321.93; 639505.29, 3321317.27; 639503.01, 3321313.22; 639506.44, 3321303.44; 639511.58, 3321304.32; 639515.21, 3321302.47; 639519.35, 3321295.84; 639514.69, 3321291.35; 639515.27, 3321283.81; 639518.72, 3321273.6; 639519.68, 3321266.88; 639515.45, 3321261.22; 639511.42, 3321263.49; 639504.47, 3321270.87; 639503.94, 3321276.41; 639500.93, 3321285.45; 639498.02, 3321290.49; 639492.98, 3321300.73; 639488.96, 3321302.56; 639483.46, 3321300.49; 639478.72, 3321299.18; 639472.59, 3321305.71; 639474.32, 3321316.11; 639471.86, 3321319.17; 639473.34, 3321323.2; 639478.76, 3321329.27; 639477.39, 3321336.35; 639468.05, 3321343.67; 639467.9, 3321349.6; 639460.76, 3321349.04; 639454.21, 3321340.95; 639456.81, 3321332.71; 639455.35, 3321327.12; 639444.64, 3321326.41; 639438.94, 3321331.83; 639432.89, 3321335.67; 639434.25, 3321344.38; 639431.36, 3321349.11; 639422.57, 3321350.45; 639417.37, 3321351.88; 639418.05, 3321356.27; 639416.68, 3321363.41; 639410.82, 3321359.27; 639409.75, 3321354.5; 639406.55, 3321355.23; 639404.85, 3321359.49; 639401.08, 3321367.33; 639399.71, 3321374.03; 639393.92, 3321383.44; 639390.04, 3321395.2; 639393.51, 3321399.66; 639396.85, 3321408.48; 639396.28, 3321415.58; 639403.33, 3321419.76.

(iii) Note: Map 4 of Unit 5 follows:

BILLING CODE 4310-55-P

PERDIDO KEY BEACH MOUSE (peromyscus polionotus trissyllepsis)

(1) Critical habitat units are depicted for Escambia County, Florida, and Baldwin County, Alabama, on the maps below.

(2) The primary constituent elements of critical habitat for the Perdido Key beach mouse (PKBM) are the habitat components that provide:

(i) A contiguous mosaic of primary, secondary, and scrub vegetation and dune structure, with a balanced level of competition and predation and few or no competitive or predaceous nonnative species present, that collectively provide foraging opportunities, cover, and burrow sites;

(ii) Primary and secondary dunes, generally dominated by sea oats (Uniola paniculata), that, despite occasional temporary impacts and reconfiguration from tropical storms and hurricanes, provide abundant food resources, burrow sites, and protection from predators;

(iii) Scrub dunes, generally dominated by scrub oaks (Quercus spp.), that provide food resources and burrow sites, and provide elevated refugia during and after intense flooding due to rainfall and/or hurricane-induced storm surge;

(iv) Functional, unobstructed habitat connections that facilitate genetic exchange, dispersal, natural exploratory movements, and re-colonization of locally extirpated areas; and

(v) A natural light regime within the coastal dune ecosystem, compatible with the nocturnal activity of beach mice, necessary for normal behavior, growth, and viability of all life stages.

(3) Critical habitat does not include man-made structures existing on the effective date of this rule and not containing one or more of the primary constituent elements, such as buildings, aqueducts, airports, driveways, and roads, and the land on which such structures are located.

(4) Critical Habitat Map Units. Data layers defining map units were created by delineating habitats which contained one or more of the primary constituent elements defined in paragraph (2), over 1999 and 2004 digital ortho photography at a scale of at least 1:4000.

(5) Note: Map 1—Index of Proposed Critical Habitat Units for the Perdido Key beach mouse follows:

BILLING CODE 4310-55-C

(6) PKBM—Unit 1: Gulf State Park Unit, Baldwin County, Alabama.

(i) General Description: Unit 1 consists of 115 ac (46 ha) in southern Baldwin County, Alabama, on the westernmost region of Perdido Key. This unit encompasses essential features of beach mouse habitat within the boundary of Gulf State Park from the west tip of Perdido Key at Perdido Pass east to approximately 1 mile west of where the Alabama-Florida state line bisects Perdido Key and the area from the mean high water line (MHWL) north to the seaward extent of the maritime forest.

(ii) Coordinates: From USGS 1:24,000 quadrangle map Orange Beach, Alabama, land bounded by the following UTM 16 NAD 83 coordinates (E,N): 447646.9, 3349472.01; 447492.27, 3349555.8; 447493.46, 3349550.54; 447492.6, 3349542.06; 447487.33, 3349540.88; 447466.1, 3349542.49; 447426.82, 3349545.78; 447375.87, 3349549.84; 447340.75, 3349556.4; 447277.86, 3349571.81; 447233.09, 3349583.43; 447195.9, 3349587.83; 447123.74, 3349592.44; 447082.29, 3349597.8; 447078.83, 3349609.34; 447082.64, 3349627.4; 447085.56, 3349638.04; 447109.06, 3349630.15; 447163.55, 3349611.36; 447228.62, 3349592.84; 447286.11, 3349581.52; 447357.41, 3349568.43; 447388.22, 3349564.94; 447403.2, 3349558.95; 447426.52, 3349558.45; 447454.05, 3349559.11; 447492.27, 3349555.8; 447753.29, 3349711.25; 447760.77, 3349736.04; 447763.66, 3349748; 447753.63, 3349752.12; 447755.48, 3349774.36; 447753.59, 3349787; 447754.47, 3349799.71; 447754.38, 3349820.32; 447753.74, 3349830.21; 447759.54, 3349836.69; 447811.82, 3349827.24; 447838.09, 3349825.09; 447856.72, 3349827.12; 447881.09, 3349821.36; 447907.36, 3349819.61; 447927.64, 3349818.91; 447956.65, 3349818.81; 447976.22, 3349830.77; 447992.63, 3349834.16; 448018.4, 3349831.12; 448037.09, 3349811.22; 448055.79, 3349802.71; 448074.4, 3349792.17; 448096.41, 3349792.7; 448114.76, 3349793.13; 448137.03, 3349782.68; 448148.04, 3349782.94; 448177.22, 3349790.96; 448191.45, 3349809.62; 448209.62, 3349817.37; 448223.94, 3349832.37; 448249.45, 3349840.3; 448279.8, 3349846.35; 448291.4, 3349859.7; 448311.29, 3349863.75; 448329.64, 3349864.19; 448368.33, 3349865.9; 448395.77, 3349862.11; 448408.04, 3349866.45; 448418.04, 3349851.65; 448427.89, 3349850.68; 448440.83, 3349857.72; 448448.65, 3349863.06; 448458.22, 3349861.71; 448474.31, 3349870.02; 448470.39, 3349848.77; 448469.37, 3349841.61; 448469.94, 3349834.09; 448470.06, 3349746.49; 448388.1, 3349722.76; 448274.81, 3349701.74; 448066.73, 3349652.82; 447964.62, 3349624.75; 447754.92, 3349599.15; 447753.29, 3349711.25; 446828.18, 3349177.08; 446788.74, 3349181.69; 446769.28, 3349208.86; 446767.28, 3349247.92; 446775.25, 3349280.06; 446782.18, 3349322.24; 446795.01, 3349350.69; 446801.51, 3349377.8; 446802.73, 3349409.54; 446811.99, 3349454.15; 446837.56, 3349514.61; 446896.76, 3349564.39; 446887.98, 3349582.41; 446896.11, 3349607.97; 446929.73, 3349630.57; 446953.02, 3349637.08; 446969.73, 3349626.62; 446984.14, 3349637.95; 446975.34, 3349650.69; 447000.06, 3349663.57; 447022.45, 3349657.76; 446993.88, 3349639.64; 446978.89, 3349585.37; 447068.47, 3349561.35; 447073.43, 3349586.44; 447084.44, 3349589.07; 447091.86, 3349585.59; 447128.34, 3349583; 447157.81, 3349580.13; 447188.5, 3349576.11; 447214.39, 3349573.56; 447263.87, 3349564.83; 447299.49, 3349553.79; 447327.56, 3349543.36; 447355.96, 3349535.32; 447401.54, 3349530.72; 447419.98, 3349527.5; 447464.09, 3349524.89; 447482.44, 3349525.33; 447508.12, 3349525.95; 447511.26, 3349547.99; 447515.63, 3349553.8; 447584.64, 3349549.75; 447669.02, 3349551.76; 447727.64, 3349556.83; 447771.68, 3349563.09; 447773.34, 3349543.71; 447819.71, 3349544.38; 447859.81, 3349556.32; 447908.03, 3349560; 447904.75, 3349580.93; 448004.65, 3349606.71; 448136.88, 3349636.19; 448391.19, 3349691.65; 448518.76, 3349723.23; 448524.37, 3349644.98; 448526.52, 3349626.07; 448221.97, 3349557.49; 447946.22, 3349481.14; 447525.39, 3349356.93; 447160.19, 3349255.19; 446914.86, 3349191.2; 446828.18, 3349177.08.

(7) PKBM—Unit 2: West Perdido Key Unit, Escambia County, Florida, and Baldwin County, Alabama.

(i) General Description: Unit 2 consists of 114 ac (46 ha) in southern Escambia County, Florida, and 33 ac (13 ha) in southern Baldwin County, Alabama. This unit encompasses essential features of beach mouse habitat from approximately 1 mile west of where the Alabama-Florida state line bisects Perdido Key east to 2 miles east of the state line and areas from the MHWL north to the seaward extent of human development or maritime forest.

(ii) Coordinates: From USGS 1:24,000 quadrangle maps Orange Beach, Alabama, and Perdido Bay, Florida, land bounded by the following UTM 16 NAD 83 coordinates (E,N): 451993.83, 3350371.03; 452703.05, 3350634.99; 452704.03, 3350638.18; 452710.36, 3350639.39; 452712.53, 3350637.33; 452713.66, 3350634.18; 452713.79, 3350628.9; 452714.04, 3350618.34; 452713.24, 3350607.75; 452706.89, 3350607.6; 452702.62, 3350608.55; 452703.05, 3350634.99; 453782.71, 3350897.59; 453793.28, 3350898.9; 453796.56, 3350894.75; 453795.98, 3350874.65; 453797.45, 3350857.78; 453794.37, 3350853.47; 453785.62, 3350864.89; 453784.28, 3350876.49; 453782.71, 3350897.59; 450607.54, 3350204.19; 450615.96, 3350206.51; 450619.29, 3350200.25; 450619.64, 3350185.46; 450620.07, 3350167.5; 450618.16, 3350159; 450611.83, 3350157.79; 450608.58, 3350160.88; 450606.26, 3350169.28; 450608.12, 3350179.9; 450608.93, 3350190.49; 450608.77, 3350196.82; 450607.54, 3350204.19; 451881.55, 3350474.76; 451896.33, 3350477.22; 451896.6, 3350465.6; 451895.88, 3350451.84; 451894.09, 3350438.06; 451890.91, 3350437.98; 451891.01, 3350433.76; 451890.13, 3350426.34; 451883.8, 3350425.13; 451884.13, 3350455.79; 451882.76, 3350468.44; 451881.55, 3350474.76; 450624.43, 3350206.71; 450631.79, 3350209; 450631.94, 3350202.66; 450633.1, 3350198.46; 450633.38, 3350186.84; 450633.56, 3350179.45; 450632.65, 3350173.08; 450635.96, 3350167.88; 450645.46, 3350169.16; 450645.64, 3350161.77; 450640.5, 3350155.3; 450635.23, 3350154.12; 450629.86, 3350157.16; 450624.41, 3350163.37; 450622.51, 3350198.21; 450624.43, 3350206.71; 451488.8, 3350547.04; 451486.14, 3350528.67; 451481.23, 3350526.18; 451480.66, 3350531.56; 451479.21, 3350574.06; 451443.72, 3350573.86; 451444.14, 3350574.42; 451446.66, 3350577.81; 451450.92, 3350580.5; 451452.58, 3350585.93; 451485.88, 3350587.38; 451486.86, 3350582.65; 451496.61, 3350582.02; 451499.58, 3350575.62; 451488.8, 3350547.04; 450383.09, 3350287.25; 450382.53, 3350310.49; 450397.2, 3350317.18; 450408.85, 3350317.46; 450423.63, 3350319.93; 450436.31, 3350321.29; 450455.24, 3350327.02; 450458.47, 3350324.99; 450459.75, 3350315.5; 450444.98, 3350313.04; 450440.75, 3350312.94; 450440.97, 3350303.43; 450399.93, 3350291.88; 450383.09, 3350287.25; 453015.92, 3350797.85; 453023.26, 3350800.16; 453023.39, 3350794.88; 453031.86, 3350795.08; 453034.25, 3350783.51; 453044.87, 3350783.75; 453046.03, 3350735.15; 453019.66, 3350730.29; 453015.92, 3350797.85; 450422.77, 3350179.33; 450422.23, 3350201.51; 450422.66, 3350227.94; 450422.12, 3350250.13; 450427.19, 3350259.76; 450432.21, 3350271.51; 450430.89, 3350282.05; 450439.29, 3350285.42; 450443.57, 3350283.41; 450440.36, 3350196.66; 450435.07, 3350196.53; 450435.42, 3350181.74; 450422.77, 3350179.33; 451937.55, 3350481.38; 451958.6, 3350487.17; 451971.25, 3350489.58; 451970.75, 3350466.32; 451969.27, 3350439.86; 451966.58, 3350419.71; 451956.01, 3350418.4; 451947.52, 3350419.26; 451944.19, 3350425.52; 451942.98, 3350431.83; 451943.55, 3350451.93; 451942.21, 3350463.52; 451937.55, 3350481.38; 451666.83, 3350567.39; 451674.24, 3350567.57; 451679.69, 3350561.36; 451689.19, 3350562.64; 451695.14, 3350580.68; 451703.51, 3350585.1; 451713.63, 3350561.04; 451713.17, 3350534.68; 451713.83, 3350507.21; 451703.07, 3350515.33; 451696.06, 3350522.11; 451685.44, 3350522.91; 451684.18, 3350531.34; 451680.27, 3350538.04; 451669.53, 3350543.15; 451666.83, 3350567.39; 451405.16, 3350583.71; 451417.86, 3350584.41; 451419.36, 3350571.37; 451417.02, 3350536.43; 451418.01, 3350478.98; 451411.54, 3350466.94; 451392.65, 3350470.91; 451392.01, 3350497.32; 451394.32, 3350532.34; 451403.43, 3350540.07; 451403.22, 3350548.79; 451400.78, 3350551.11; 451403.84, 3350555.94; 451403.19, 3350561.01; 451395.73, 3350562.95; 451394.72, 3350571.57; 451403.42, 3350573.37; 451405.16, 3350583.71; 451930.48, 3350526.11; 451932.49, 3350530.13; 451942.72, 3350534.34; 451947.14, 3350537.71; 451946.11, 3350546.44; 451943.92, 3350552.7; 451936.14, 3350553.73; 451932.25, 3350554.05; 451930.93, 3350558.29; 451936.1, 3350561.93; 451943.31, 3350559.33; 451940.8, 3350564.42; 451940.69, 3350569.17; 451944.88, 3350576.41; 451940.48, 3350576.85; 451941.12, 3350584.24; 451944.29, 3350584.72; 451943.23, 3350589.74; 451940.89, 3350593.75; 451944.82, 3350595.43; 451948.3, 3350599.48; 451947.29, 3350607.76; 451951.96, 3350612.65; 451952.18, 3350620.18; 451954.1, 3350622.61; 451959.36, 3350618.77; 451956.28, 3350614.73; 451957.21, 3350609.2; 451960.13, 3350608.47; 451963.53, 3350610.54; 451964.55, 3350617.7; 451969.34, 3350617.03; 451970.22, 3350613.48; 451967.17, 3350607.86; 451973.2, 3350605.23; 451977.53, 3350606.92; 451977.63, 3350602.56; 451977.04, 3350594.22; 451976.76, 3350589.06; 451972.82, 3350581.69; 451966.97, 3350578.91; 451971.96, 3350573.88; 451971.11, 3350567.81; 451966.44, 3350566.68; 451962.15, 3350567.19; 451955.89, 3350564.78; 451956.52, 3350555.28; 451959.38, 3350551.78; 451966.62, 3350548.39; 451969.8, 3350554.34; 451973.17, 3350556.87; 451979.53, 3350556.62; 451980.5, 3350549.12; 451976.29, 3350542.67; 451970.01, 3350539.35; 451965.4, 3350532.9; 451963.55, 3350527.31; 451959.28, 3350525.17; 451952.32, 3350526.02; 451952.14, 3350533.35; 451948.67, 3350533.47; 451948.85, 3350527.35; 451944.13, 3350525.26; 451941.54, 3350524.34; 451937.84, 3350522.33; 451928.95, 3350521.59; 451930.48, 3350526.11; 453147.41, 3350803.69; 453142.42, 3350788.61; 453137.09, 3350787.42; 453139.57, 3350854.72; 453138.43, 3350865.43; 453144.36, 3350874.24; 453150.85, 3350885.1; 453157, 3350893.57; 453164.77, 3350900.89; 453169.9, 3350902.6; 453170.14, 3350892.69; 453168.94, 3350876.41; 453167.4, 3350857.75; 453168.67, 3350805.06; 453167.49, 3350795.14; 453158.12, 3350801.82; 453147.41, 3350803.69; 452001.33, 3350604.46; 452004.74, 3350595.03; 452006.03, 3350585.55; 452002.95, 3350581.24; 451999.85, 3350578; 452003.1, 3350574.91; 452007.24, 3350579.23; 452013.64, 3350577.27; 452021.08, 3350576.39; 452025.34, 3350575.44; 452029.68, 3350571.31; 452028.77, 3350564.95; 452031.97, 3350563.97; 452032.08, 3350559.74; 452033.39, 3350549.21; 452033.57, 3350541.81; 452035.68, 3350541.86; 452038.78,

3350545.11; 452035.33, 3350556.65; 452036.18, 3350565.13; 452033.84, 3350574.58; 452036.86, 3350581; 452042.13, 3350582.18; 452049.59, 3350580.25; 452053.85, 3350579.29; 452054.03, 3350571.9; 452054.21, 3350564.5; 452050.08, 3350560.17; 452050.2, 3350554.89; 452052.47, 3350548.61; 452052.75, 3350536.99; 452049.73, 3350530.57; 452041.26, 3350530.37; 452030.82, 3350523.78; 452027.42, 3350533.21; 452022.93, 3350543.67; 452011.3, 3350542.34; 452011.46, 3350536; 452020, 3350533.03; 452024.29, 3350531.02; 452023.38, 3350524.66; 452016.07, 3350520.25; 452009.77, 3350517.99; 452002.36, 3350517.81; 451994.97, 3350516.58; 451985.44, 3350516.35; 451983.98, 3350533.23; 451982.76, 3350583.93; 451982.38, 3350599.78; 451992.91, 3350602.14; 452001.33, 3350604.46; 450499.59, 3350334.35; 450512.17, 3350339.93; 450518.65, 3350334.8; 450527.2, 3350331.83; 450534.43, 3350339.41; 450544.01, 3350336.54; 450543.28, 3350322.79; 450545.04, 3350205.5; 450514.49, 3350199.41; 450515.08, 3350262.84; 450515.68, 3350326.27; 450502.94, 3350327.03; 450499.59, 3350334.35; 451834.39, 3350514.14; 451832.67, 3350519.45; 451838.51, 3350522.33; 451843.31, 3350521.26; 451842.63, 3350526.22; 451845.91, 3350528.85; 451852.11, 3350528.03; 451855.8, 3350530.28; 451855.17, 3350524.74; 451859.95, 3350523.86; 451862.44, 3350519.17; 451869.59, 3350518.95; 451868.38, 3350528.22; 451862.42, 3350528.47; 451860.99, 3350530.02; 451864.4, 3350536.64; 451868.09, 3350540.29; 451870.15, 3350545.29; 451873.1, 3350546.15; 451871.53, 3350537.2; 451875.72, 3350536.51; 451879.49, 3350536.21; 451881.87, 3350536.46; 451885.51, 3350541.7; 451892.21, 3350543.64; 451892.29, 3350548.59; 451891.79, 3350553.73; 451884.93, 3350558.33; 451877.73, 3350560.13; 451873.56, 3350560.02; 451872.89, 3350569.53; 451866.85, 3350566.33; 451862.15, 3350566.63; 451862.53, 3350576.21; 451863.56, 3350584.17; 451860.26, 3350594.07; 451865.05, 3350598.66; 451867.19, 3350602.99; 451869.47, 3350606.31; 451869.79, 3350609.49; 451865.78, 3350610.9; 451864.82, 3350618.09; 451863.9, 3350623.22; 451866.58, 3350627.25; 451870.94, 3350627.75; 451876.22, 3350623.12; 451882.58, 3350622.88; 451885.86, 3350618.6; 451888.63, 3350619.06; 451893.39, 3350619.57; 451895.77, 3350619.76; 451898.84, 3350619.22; 451902.86, 3350622.17; 451906.52, 3350618.69; 451912.14, 3350616.45; 451919.16, 3350621.77; 451921.66, 3350617.07; 451918.37, 3350613.58; 451919.3, 3350600.37; 451915.4, 3350601.29; 451914.63, 3350595.5; 451917.5, 3350591.61; 451925.21, 3350592.37; 451925.74, 3350587.29; 451924.27, 3350580.33; 451921.16, 3350573.94; 451919.29, 3350566.97; 451913.66, 3350569.71; 451908.32, 3350560.47; 451912.4, 3350555.81; 451912.92, 3350550.67; 451913.87, 3350544.35; 451911.04, 3350536.37; 451906.11, 3350536.63; 451903.04, 3350538.75; 451899.67, 3350538.87; 451898.42, 3350541.41; 451888.52, 3350540.38; 451889.01, 3350536.43; 451884.88, 3350535.15; 451885.38, 3350522.29; 451880.28, 3350520.16; 451876.73, 3350519.28; 451877.23, 3350514.94; 451871.13, 3350512.65; 451865.71, 3350515.29; 451866.05, 3350509.36; 451857.34, 3350508.36; 451857.81, 3350513.72; 451855.05, 3350513.06; 451854.13, 3350518.38; 451849.84, 3350515.31; 451845.06, 3350514.56; 451839.94, 3350514.08; 451834.39, 3350514.14; 452962.77, 3350805.04; 452964.66, 3350813.56; 452970.74, 3350825.33; 452974.9, 3350828.6; 452982.44, 3350823.5; 452984.73, 3350816.15; 452995.45, 3350811.12; 453004.98, 3350811.35; 453013.47, 3350811.53; 453014.37, 3350730.17; 452985.98, 3350721.03; 452963.85, 3350716.27; 452962.77, 3350805.04; 450352.08, 3350300.17; 450360.45, 3350303.62; 450368.97, 3350302.68; 450368.35, 3350284.7; 450380.02, 3350283.92; 450383.57, 3350267.18; 450398.82, 3350269.8; 450396.94, 3350240.01; 450396.42, 3350173.41; 450390.95, 3350180.68; 450384.57, 3350181.58; 450358.25, 3350174.61; 450355.43, 3350205.12; 450381.72, 3350213.14; 450376.82, 3350240.51; 450355.8, 3350233.66; 450354.46, 3350245.26; 450359.58, 3350252.78; 450358.29, 3350262.26; 450345.53, 3350264.07; 450341.58, 3350252.35; 450350.25, 3350244.1; 450351.7, 3350183.89; 450345.34, 3350183.74; 450344.01, 3350195.33; 450345.31, 3350229.19; 450323.18, 3350224.43; 450323.73, 3350245.58; 450325.41, 3350263.59; 450351.68, 3350272.67; 450352.08, 3350300.17; 452961.76, 3350715.17; 452944.84, 3350712.67; 452926.94, 3350708.01; 452896.41, 3350700.92; 452897.21, 3350711.51; 452900.22, 3350717.94; 452898.39, 3350749.61; 452897.86, 3350771.79; 452904.06, 3350778.28; 452916.67, 3350782.81; 452916.57, 3350787.04; 452927.13, 3350788.35; 452927.96, 3350797.88; 452936.43, 3350798.08; 452947.02, 3350798.34; 452952.14, 3350805.86; 452959.7, 3350800.73; 452960.37, 3350728.87; 452961.76, 3350715.17; 452779.43, 3350674.87; 452757.35, 3350668; 452750.92, 3350671.01;

452746.48, 3350679.36; 452744.77, 3350706.28; 452754.34, 3350710.66; 452782.86, 3350717.62; 452805.09, 3350724.81; 452810.67, 3350737.88; 452807.62, 3350780.18; 452803.63, 3350813.91; 452808.72, 3350822.49; 452806.34, 3350847.86; 452821.98, 3350851.37; 452825.42, 3350838.9; 452840.06, 3350840.3; 452840.17, 3350792.59; 452811.6, 3350790.85; 452811.91, 3350778.17; 452840.55, 3350776.53; 452839.3, 3350740.78; 452816, 3350740.22; 452816.84, 3350726.27; 452830.71, 3350721.5; 452839.75, 3350721.76; 452842.48, 3350696.46; 452838.42, 3350688.96; 452779.43, 3350674.87; 450547.49, 3350324.92; 450561.28, 3350324.19; 450566.35, 3350333.83; 450559.77, 3350343.18; 450586.16, 3350346.99; 450591.84, 3350331.27; 450603.49, 3350331.54; 450615.34, 3350323.37; 450615.63, 3350222.97; 450549.48, 3350207.56; 450548.25, 3350292.25; 450547.49, 3350324.92; 452716.99, 3350739.66; 452724.84, 3350716.41; 452763.08, 3350728.01; 452752.89, 3350753.28; 452761.35, 3350755.6; 452758.35, 3350791.67; 452779.52, 3350797.5; 452790.15, 3350798.81; 452799.96, 3350789.48; 452801.09, 3350742.74; 452798.15, 3350732.04; 452719.99, 3350707.38; 452701.88, 3350703.16; 452660.61, 3350691.54; 452642.4, 3350689.56; 452628.63, 3350691.84; 452622.04, 3350700.19; 452618.44, 3350717.11; 452617.14, 3350726.64; 452634.16, 3350728.11; 452635.45, 3350718.58; 452640.83, 3350716.58; 452646.2, 3350714.58; 452648.23, 3350718.88; 452654.44, 3350726.47; 452656.34, 3350736.08; 452659.46, 3350739.35; 452663.64, 3350742.64; 452659.25, 3350747.85; 452653.93, 3350747.72; 452650.61, 3350752.95; 452642.21, 3350747.44; 452639.02, 3350747.36; 452639.88, 3350755.89; 452669.47, 3350766.16; 452680.06, 3350768.54; 452683.59, 3350754.81; 452689.43, 3350733.69; 452707.4, 3350739.43; 452697, 3350773.2; 452712.87, 3350777.83; 452713.1, 3350768.27; 452709.93, 3350767.13; 452710.19, 3350756.51; 452710.37, 3350749.07; 452716.76, 3350749.22; 452721.12, 3350745.07; 452716.99, 3350739.66; 450916.02, 3350287.31; 450857.03, 3350273.21; 450851.53, 3350281.54; 450849.99, 3350301.58; 450848.47, 3350320.57; 450849.2, 3350334.33; 450849.95, 3350347.03; 450856.83, 3350369.39; 450857.69, 3350377.87; 450866.13, 3350379.13; 450865.98, 3350385.47; 450872.18, 3350391.96; 450873.04, 3350400.43; 450872.61, 3350418.39; 450876.38, 3350437.51; 450883.57, 3350447.19; 450882.98, 3350471.49; 450892.51, 3350471.72; 450897.66, 3350478.18; 450912.48, 3350478.54; 450918.94, 3350474.46; 450918.41, 3350452.25; 450918.62, 3350399.41; 450915.85, 3350382.43; 450916.88, 3350295.78; 450916.02, 3350287.31; 451489.88, 3350479.66; 451489.12, 3350511.35; 451491.85, 3350531.09; 451498.62, 3350557.03; 451504.59, 3350573.03; 451504.26, 3350586.76; 451500.73, 3350601.47; 451503.67, 3350611.06; 451513.82, 3350608.51; 451509.96, 3350554.51; 451505.7, 3350533.4; 451506.09, 3350517.16; 451511.66, 3350500.25; 451521.25, 3350498.1; 451535.17, 3350497.24; 451552.25, 3350497.65; 451568.31, 3350507.15; 451567.25, 3350523.71; 451565.79, 3350540.59; 451565.33, 3350559.6; 451552.29, 3350573.03; 451553.02, 3350586.79; 451555.49, 3350610.69; 451564.55, 3350613.69; 451562.37, 3350605.31; 451569.15, 3350599.87; 451569.42, 3350593.19; 451575.11, 3350593.66; 451579.21, 3350599.04; 451585.03, 3350604.66; 451593.34, 3350606.45; 451603.14, 3350595.19; 451612.97, 3350599.39; 451622.58, 3350602.19; 451631.3, 3350591.83; 451630.6, 3350577.02; 451632.22, 3350553.8; 451647.07, 3350552.64; 451662.92, 3350553.56; 451660.12, 3350449.91; 451629.43, 3350443.61; 451623.63, 3350486.67; 451613.7, 3350486.77; 451596.78, 3350484.33; 451594.84, 3350477.66; 451585.77, 3350475.07; 451583.88, 3350471.06; 451588.07, 3350462.04; 451596.77, 3350463.83; 451604.77, 3350461.25; 451620.99, 3350464.41; 451623.87, 3350443.48; 451598.21, 3350436.92; 451579.63, 3350432.9; 451566.31, 3350429.7; 451553.5, 3350433.62; 451553.32, 3350441.01; 451551, 3350449.41; 451545.01, 3350451.5; 451546.65, 3350466.2; 451545.85, 3350482.83; 451539.55, 3350485.08; 451531.06, 3350486.44; 451526.7, 3350485.94; 451518.35, 3350485.63; 451502.99, 3350480.62; 451489.88, 3350479.66; 452229.34, 3350643.46; 452234.37, 3350649.13; 452230.66, 3350671.24; 452227.35, 3350692.96; 452235.69, 3350693.16; 452242.42, 3350694.11; 452241.52, 3350698.45; 452248.23, 3350700.59; 452249.21, 3350692.69; 452255.99, 3350691.66; 452259.76, 3350700.08; 452264.13, 3350700.18; 452271.74, 3350697.59; 452276.79, 3350702.47; 452282.03, 3350699.42; 452291.58, 3350698.46; 452297.38, 3350705.34; 452300.04, 3350710.16; 452305.96, 3350711.88; 452319.45, 3350712.6; 452324.5, 3350717.48; 452332.33, 3350722.42; 452338.68, 3350722.58; 452344.12, 3350727.86; 452352.47, 3350727.27; 452362.3, 3350731.86; 452364.38, 3350727.95; 452359.27, 3350725.45; 452358.68, 3350717.11; 452365.13, 3350696.65; 452365.14,

3350679.61; 452369.46, 3350665.44; 452376.54, 3350651.74; 452382.49, 3350652.28; 452384.51, 3350584.54; 452340.63, 3350575.57; 452342.86, 3350581.96; 452347.58, 3350584.06; 452357.92, 3350583.51; 452364.95, 3350588.44; 452364.02, 3350594.36; 452367.99, 3350600.57; 452362.22, 3350603.04; 452357.33, 3350603.48; 452350.95, 3350604.39; 452343.51, 3350605.27; 452337.22, 3350601.65; 452332.63, 3350594.4; 452329.59, 3350588.38; 452334.89, 3350582.96; 452331.48, 3350576.14; 452319.56, 3350575.86; 452319.86, 3350580.22; 452316.52, 3350586.88; 452310.5, 3350589.12; 452304.52, 3350590.16; 452304.8, 3350594.93; 452295.15, 3350599.85; 452289.63, 3350598.13; 452292.17, 3350591.45; 452295.42, 3350588.76; 452299.46, 3350585.68; 452297.98, 3350581.29; 452304.47, 3350575.5; 452302.2, 3350571.08; 452291.83, 3350572.81; 452288.98, 3350575.52; 452290.43, 3350581.11; 452292.3, 3350586.3; 452282.99, 3350593.21; 452282.31, 3350588.44; 452278.69, 3350590.34; 452274.27, 3350592.21; 452276.44, 3350584.73; 452280.54, 3350579.68; 452283.48, 3350573.01; 452279.52, 3350572.52; 452275.79, 3350578.77; 452271.61, 3350587.39; 452267.97, 3350590.08; 452263.72, 3350585.22; 452257.5, 3350579.52; 452252.02, 3350575.83; 452251.77, 3350569.87; 452247.42, 3350568.98; 452245.16, 3350580.42; 452238.88, 3350593.74; 452229.73, 3350593.92; 452229.99, 3350616.13; 452229.14, 3350635.13; 452229.34, 3350643.46; 452586.29, 3350643.82; 452589.65, 3350636.5; 452594.03, 3350630.27; 452575.48, 3350623.6; 452472.77, 3350598.94; 452465.48, 3350600.76; 452465.76, 3350609.48; 452459.58, 3350625.99; 452456.15, 3350636.48; 452453.4, 3350660.71; 452448.52, 3350689.15; 452449.15, 3350707.13; 452452.1, 3350716.71; 452460.15, 3350710.42; 452462.86, 3350713.65; 452459.9, 3350721.11; 452456.92, 3350729.37; 452459.55, 3350735.38; 452467.52, 3350734.38; 452477.42, 3350735.8; 452484.12, 3350738.34; 452486.13, 3350754.54; 452485.52, 3350762.55; 452492.62, 3350764.71; 452500.13, 3350782.72; 452517.41, 3350791.06; 452522.81, 3350771.28; 452537.48, 3350779.01; 452545.98, 3350778.15; 452548.31, 3350767.56; 452548.13, 3350752.95; 452574.51, 3350746.45; 452575.13, 3350755.6; 452599.62, 3350759.73; 452612.16, 3350757.54; 452610.95, 3350750.89; 452611.29, 3350705.72; 452617.09, 3350684.72; 452624.66, 3350678.56; 452657.41, 3350682.52; 452719.5, 3350699.86; 452729.03, 3350700.09; 452733.47, 3350691.74; 452738.03, 3350678.1; 452739.35, 3350667.57; 452734.15, 3350663.21; 452644.5, 3350646.27; 452636.89, 3350654.54; 452632.17, 3350674.51; 452618.56, 3350667.85; 452618.76, 3350659.4; 452606.1, 3350656.98; 452594.43, 3350657.76; 452585.7, 3350652.75; 452586.29, 3350643.82; 451758.79, 3350379.88; 451764.08, 3350380.01; 451766.61, 3350363.16; 451795.1, 3350368.07; 451792.78, 3350376.47; 451824.52, 3350378.28; 451822.41, 3350465.96; 451871.9, 3350475.19; 451877.52, 3350466.2; 451879.7, 3350419.75; 451869.39, 3350407.87; 451854.66, 3350403.29; 451858.3, 3350384.35; 451875.21, 3350385.82; 451877.08, 3350396.43; 451912.02, 3350397.27; 451911.49, 3350419.45; 451903.95, 3350424.56; 451898.4, 3350434.99; 451901.04, 3350457.25; 451902.65, 3350478.43; 451930.13, 3350481.2; 451934.7, 3350467.57; 451936.09, 3350453.86; 451936.55, 3350434.85; 451923.99, 3350428.21; 451919.98, 3350418.6; 451921.45, 3350401.72; 451941.62, 3350400.09; 451968.07, 3350401.78; 451988.21, 3350401.2; 452030.44, 3350407.5; 452034.35, 3350421.33; 452034.13, 3350474.18; 452045.53, 3350485.02; 452060.02, 3350499.11; 452061.44, 3350484.34; 452056.34, 3350475.77; 452050.14, 3350469.28; 452039.07, 3350467.98; 452039.83, 3350457.4; 452049.39, 3350456.57; 452049.72, 3350442.84; 452046.67, 3350437.48; 452041.63, 3350426.79; 452049.3, 3350416.41; 452062.96, 3350420.96; 452063.59, 3350438.94; 452059.25, 3350443.07; 452057.68, 3350464.17; 452064.82, 3350475.97; 452068.7, 3350490.86; 452070.25, 3350426.42; 452073.58, 3350420.16; 452123.19, 3350427.69; 452122.89, 3350440.36; 452129.37, 3350435.23; 452127.4, 3350428.84; 452149.54, 3350432.56; 452173.79, 3350437.37; 452189.57, 3350441.98; 452218.09, 3350445.83; 452224.29, 3350453.36; 452243.37, 3350451.72; 452270.83, 3350455.55; 452279.25, 3350458.9; 452288.8, 3350457.04; 452293.17, 3350451.86; 452305.72, 3350458.5; 452305.59, 3350463.78; 452327.68, 3350470.65; 452348.9, 3350470.08; 452358.61, 3350462.91; 452401.75, 3350474.54; 452427.06, 3350480.41; 452449.2, 3350484.13; 452469.34, 3350484.59; 452485.2, 3350486.02; 452494.6, 3350490.5; 452513.66, 3350490.95; 452510.99, 3350514.14; 452498.28, 3350513.84; 452490.63, 3350524.21; 452492.26, 3350588.72; 452567.58, 3350605.87; 452565.91, 3350566.17; 452547.96, 3350563.63; 452546.24, 3350523.97; 452558.92, 3350525.33; 452555.02, 3350511.5; 452563.51, 3350510.64; 452565.25,

3350526.54; 452574.73, 3350528.88; 452574.97, 3350607.1; 452607.72, 3350611.06; 452607.38, 3350537.06; 452598.96, 3350534.75; 452601.14, 3350510.99; 452637.56, 3350515.59; 452632.35, 3350535; 452613.94, 3350551.47; 452610.58, 3350603.18; 452612.94, 3350614.35; 452637.14, 3350621.28; 452642.65, 3350591.26; 452635.96, 3350582.14; 452636.85, 3350567.87; 452634.79, 3350565.71; 452636.75, 3350549.39; 452643.25, 3350543.2; 452661.13, 3350548.92; 452658.26, 3350558.87; 452654.83, 3350569.36; 452651.87, 3350581.46; 452649.4, 3350596.2; 452643.44, 3350623.54; 452667.64, 3350630.46; 452668.07, 3350612.5; 452682.2, 3350598.04; 452671.42, 3350584.55; 452664.7, 3350576.48; 452666.27, 3350555.38; 452687.37, 3350559.06; 452686.89, 3350579.13; 452689.29, 3350590.26; 452688.5, 3350600.31; 452675.49, 3350612.68; 452672.94, 3350630.59; 452696.08, 3350637.48; 452696.4, 3350603.12; 452692.37, 3350594.57; 452693, 3350568.16; 452722.7, 3350566.75; 452724.13, 3350595.33; 452719.62, 3350606.84; 452720.9, 3350641.76; 452763.54, 3350651.78; 452766.63, 3350634.39; 452768.1, 3350617.52; 452766.8, 3350604.3; 452756.34, 3350598.76; 452754.92, 3350592.89; 452748.2, 3350584.82; 452749.59, 3350571.12; 452763.46, 3350567.22; 452769.01, 3350579.49; 452768.63, 3350595.33; 452775.05, 3350614.01; 452773.53, 3350633; 452768.81, 3350652.97; 452858.34, 3350675.19; 452861.94, 3350657.31; 452862.83, 3350620.33; 452843.48, 3350610.87; 452842.27, 3350594.47; 452845.72, 3350582.93; 452867.88, 3350586.63; 452866.09, 3350617.24; 452865.45, 3350643.65; 452862.6, 3350674.23; 452872.52, 3350680.29; 452875.35, 3350650.76; 452883.89, 3350647.79; 452887.27, 3350639.42; 452889.11, 3350651.09; 452893.3, 3350653.3; 452888.68, 3350669.05; 452881.27, 3350668.87; 452876.78, 3350679.33; 452983.11, 3350707.24; 452985.16, 3350667.1; 452982.59, 3350641.68; 452970.19, 3350628.7; 452971.71, 3350608.67; 452984.44, 3350607.92; 452989.59, 3350614.38; 452985.97, 3350633.3; 452986.86, 3350640.72; 452988.41, 3350664.01; 452986.29, 3350707.32; 453028.42, 3350717.84; 453029.65, 3350711.51; 453017.07, 3350705.92; 453018.54, 3350689.04; 453017.89, 3350671.08; 453019.41, 3350652.09; 453022.84, 3350641.6; 453026.29, 3350631.09; 453046.26, 3350637.91; 453075.85, 3350640.74; 453078.12, 3350634.45; 453086.59, 3350634.65; 453105.5, 3350641.45; 453133.94, 3350648.47; 453148.74, 3350649.88; 453170.85, 3350655.69; 453184.49, 3350661.3; 453193.86, 3350667.87; 453218.14, 3350671.62; 453257.02, 3350685.24; 453273.86, 3350689.87; 453287.65, 3350689.14; 453293.9, 3350693.52; 453323.4, 3350700.57; 453326.65, 3350697.47; 453344.6, 3350700.02; 453353.98, 3350706.58; 453364.98, 3350710.57; 453370.49, 3350724.95; 453369.72, 3350733.93; 453362.64, 3350742.73; 453365.98, 3350757.1; 453359.38, 3350767.51; 453351.14, 3350780.5; 453343.5, 3350789.83; 453350.24, 3350794.77; 453463.37, 3350827.58; 453465.69, 3350796.48; 453445.2, 3350790.15; 453455.89, 3350763.48; 453479.06, 3350769.32; 453468.42, 3350793.88; 453469.16, 3350828.27; 453512.42, 3350835.65; 453516.18, 3350811.43; 453526.07, 3350796.87; 453521.86, 3350795.71; 453522.93, 3350774.05; 453538.28, 3350773.91; 453535.57, 3350798.15; 453529.22, 3350798; 453517.17, 3350814.62; 453515.57, 3350836.78; 453528.23, 3350839.2; 453532.9, 3350821.34; 453537.39, 3350810.88; 453543.87, 3350805.75; 453547.65, 3350780.47; 453558.34, 3350776.5; 453568.36, 3350779.36; 453568.37, 3350799.99; 453562.38, 3350807.76; 453555.49, 3350807.08; 453541.57, 3350813.09; 453531.41, 3350839.27; 453565.8, 3350848.41; 453584.46, 3350853.19; 453586.35, 3350834.15; 453590.14, 3350819.13; 453585.65, 3350809.37; 453583.15, 3350800.73; 453573.2, 3350798.78; 453572.24, 3350794.25; 453575.98, 3350771.09; 453588.66, 3350772.45; 453585.93, 3350797.75; 453591, 3350807.38; 453593.88, 3350818.08; 453590.49, 3350828.51; 453588.47, 3350853.01; 453590.71, 3350854.77; 453594.5, 3350838.12; 453602.99, 3350814.56; 453610.55, 3350808.4; 453610.78, 3350798.89; 453605.46, 3350799.82; 453607.05, 3350777.67; 453617.62, 3350778.97; 453620.87, 3350775.88; 453625.08, 3350777.04; 453624.95, 3350782.32; 453632.8, 3350787.24; 453627.23, 3350798.74; 453623.31, 3350806.59; 453610.4, 3350814.74; 453603.77, 3350826.21; 453594.06, 3350856.08; 453664.14, 3350870.99; 453667.03, 3350861.02; 453671.52, 3350850.55; 453672.96, 3350834.73; 453673.19, 3350825.23; 453664.82, 3350820.8; 453666.03, 3350814.49; 453660.84, 3350810.13; 453666.54, 3350793.36; 453671.93, 3350789.26; 453683.56, 3350790.59; 453689.65, 3350802.35; 453681.86, 3350816.98; 453678.46, 3350826.41; 453674.64, 3350852.74; 453668.89, 3350871.63; 453735.29, 3350886.94; 453747.12, 3350878.79; 453747.28, 3350872.45; 453748.74, 3350855.57; 453768.76, 3350860.28; 453763.99,

3350882.36; 453759.7, 3350884.38; 453760.58, 3350891.8; 453776.39, 3350896.38; 453781.44, 3350862.68; 453775.26, 3350854.09; 453775.82, 3350831.89; 453795.89, 3350834.48; 453804.44, 3350830.48; 453822.44, 3350830.91; 453826.52, 3350837.35; 453826.34, 3350845.78; 453830.32, 3350856.45; 453829.97, 3350871.24; 453826.44, 3350884.92; 453824.97, 3350901.79; 453835.77, 3350905.26; 453837.42, 3350781.57; 453760.4, 3350768.1; 453697.23, 3350751.79; 453582.57, 3350717.34; 453497.31, 3350694.16; 453375.32, 3350656.36; 453257.43, 3350623.94; 453175.3, 3350602.95; 453083.6, 3350582.79; 452998.22, 3350564.89; 452884.39, 3350539.97; 452754.93, 3350504.1; 452628.45, 3350476.77; 452524.18, 3350451.02; 452447.21, 3350435.44; 452351.28, 3350415.17; 452237.43, 3350391.31; 452155.65, 3350375.09; 452081.85, 3350359.58; 451991.22, 3350339.44; 451924.69, 3350330.45; 451859.24, 3350320.43; 451769.41, 3350310.89; 451769.41, 3350310.89; 451649.99, 3350298.52; 451523.5, 3350271.18; 451402.47, 3350237.63; 451202.24, 3350192.68; 451034.69, 3350153.1; 450914.58, 3350124.86; 450834.59, 3350102.87; 450737.55, 3350084.69; 450597.48, 3350049.63; 450480.68, 3350016.19; 450366.83, 3349992.32; 450291.95, 3349977.85; 450240.94, 3349965.09; 450150.23, 3349948.99; 450150.42, 3350009.76; 450160.82, 3350011.71; 450213.79, 3350011.92; 450212.02, 3350044.2; 450231.06, 3350045.71; 450230.37, 3350074.23; 450244.09, 3350076.67; 450240.2, 3350106.18; 450247.36, 3350116.92; 450266.24, 3350124.77; 450282.07, 3350127.26; 450349.44, 3350145.78; 450349.94, 3350124.65; 450321.38, 3350122.91; 450318.74, 3350100.65; 450352.57, 3350103.58; 450353.33, 3350071.89; 450317.3, 3350072.08; 450319.85, 3350054.17; 450344.08, 3350060.04; 450345.52, 3350044.22; 450376.28, 3350042.84; 450380.23, 3350051.84; 450380.96, 3350065.59; 450381.85, 3350075.74; 450378.61, 3350122.17; 450370.04, 3350126.19; 450367.33, 3350147.71; 450381.02, 3350151.21; 450380.31, 3350136.4; 450386.58, 3350099.11; 450391.9, 3350098.18; 450393.09, 3350092.92; 450420.41, 3350102.03; 450426.92, 3350095.84; 450415.35, 3350092.39; 450417.7, 3350082.94; 450442.02, 3350081.85; 450486.37, 3350090.92; 450492.42, 3350103.75; 450495.37, 3350113.33; 450519.54, 3350118.59; 450514.22, 3350166.63; 450525.68, 3350171.58; 450527.36, 3350148.98; 450525.82, 3350121.91; 450529.25, 3350111.42; 450571.24, 3350108.28; 450587.05, 3350111.83; 450590.47, 3350145.73; 450587.98, 3350180.47; 450584.6, 3350188.85; 450584.92, 3350200.56; 450601.29, 3350199.82; 450604.72, 3350189.33; 450601.97, 3350171.29; 450603.62, 3350147.02; 450605.28, 3350121.69; 450617.61, 3350118.9; 450625.82, 3350129.66; 450640.65, 3350130.02; 450641.91, 3350121.59; 450671.24, 3350129.95; 450688.61, 3350137.43; 450710.18, 3350146.48; 450735.11, 3350149.57; 450770.8, 3350158.05; 450801.85, 3350167.7; 450804.14, 3350160.35; 450813.67, 3350160.58; 450812.44, 3350167.95; 450850.68, 3350163.58; 450878.14, 3350167.41; 450877.83, 3350180.08; 450901.1, 3350181.7; 450898.37, 3350251.39; 450886.67, 3350253.23; 450878.1, 3350257.25; 450878.95, 3350265.73; 450948.43, 3350284.3; 450951.01, 3350265.34; 450941.45, 3350266.16; 450941.03, 3350239.73; 450947.41, 3350238.83; 450947.62, 3350206.67; 450940.31, 3350202.27; 450942.64, 3350193.87; 450952.29, 3350188.82; 450961.67, 3350195.38; 450959.4, 3350201.67; 450968.31, 3350206.56; 450968.92, 3350225.6; 450996.08, 3350219.38; 451013, 3350219.86; 451010.9, 3350264.13; 451005.95, 3350292.64; 451032.32, 3350297.49; 451038.64, 3350211.94; 451066.12, 3350214.71; 451089.29, 3350220.55; 451122.95, 3350230.87; 451138.73, 3350235.47; 451152.52, 3350233.77; 451169.43, 3350238.11; 451176.54, 3350248.08; 451231.43, 3350256.8; 451237.34, 3350254.21; 451250.54, 3350255.14; 451253.56, 3350261.55; 451279.91, 3350267.47; 451314.65, 3350276.75; 451333.31, 3350276.86; 451359.54, 3350283.56; 451376.77, 3350293.04; 451403.31, 3350290.5; 451431.19, 3350300.07; 451482.79, 3350312.93; 451488.83, 3350303.12; 451500.4, 3350306.57; 451505.39, 3350319.37; 451563.4, 3350330.27; 451586.37, 3350345.54; 451591.77, 3350341.44; 451617.05, 3350346.35; 451616.42, 3350373.74; 451604.75, 3350374.51; 451600.33, 3350381.81; 451597, 3350388.07; 451601.24, 3350388.17; 451598.87, 3350398.68; 451597.66, 3350405; 451595.38, 3350411.29; 451595.16, 3350420.79; 451717.43, 3350446.97; 451723.73, 3350449.24; 451724.67, 3350410.15; 451701.63, 3350399.03; 451699.79, 3350387.36; 451699.16, 3350369.37; 451704.59, 3350364.22; 451736.02, 3350378.71; 451758.79, 3350379.88; 450912.08, 3350186.8; 450914.09, 3350170.38; 450944.72, 3350174.28; 450941.7, 3350188.56; 450912.08, 3350186.8.

(8) PKBM—Unit 3: Perdido Key State Park Unit, Escambia County, Florida.

(i) General Description: Unit 3 consists of 238 ac (96 ha) in southern Escambia County, Florida. This unit encompasses essential features of beach mouse habitat within the boundary of Perdido Key State Park from approximately 2 miles east of the Alabama-Florida state line to 4 miles east of the state line and the area from the MHWL north to the seaward extent of the maritime forest.

(ii) Coordinates: From USGS 1:24,000 quadrangle map Perdido Bay, Florida, land bounded by the following UTM 16 NAD 83 coordinates (E,N): 455621.62, 3351458.88; 453257.58, 3350904.44; 453254.26, 3350917.23; 453243.75, 3350913.81; 453240.29, 3350925.36; 453247.8, 3350930.76; 453266.31, 3350945.01; 453287.1, 3350948.75; 453293.56, 3350957.28; 453304.3, 3350951.2; 453307.22, 3350961.84; 453312.72, 3350973.93; 453318.59, 3350973.74; 453318.26, 3350987.47; 453306.46, 3350993.53; 453320.42, 3351005.3; 453354.81, 3351009.49; 453352.19, 3351030.56; 453343.44, 3351041.98; 453350.93, 3351069.98; 453334.3, 3351069.24; 453335.11, 3351079.83; 453352.32, 3351078.33; 453351.11, 3351095.75; 453383.68, 3351130.67; 453392.08, 3351134.05; 453401.76, 3351127.94; 453398.49, 3351117.04; 453399.11, 3351091.42; 453407.07, 3351065.97; 453425.39, 3351063.44; 453442.62, 3351059.15; 453457.24, 3351067.96; 453455.2, 3351048.81; 453459.35, 3351038.88; 453458.55, 3351022.61; 453468.79, 3351028.07; 453479.38, 3351028.32; 453481.65, 3351022.03; 453488.13, 3351016.9; 453496.35, 3351016.84; 453509.9, 3351018.69; 453515.14, 3350998.97; 453518.96, 3350988.78; 453513.14, 3350983.09; 453523.52, 3350964.71; 453521.52, 3350950.06; 453530.87, 3350939.91; 453531.03, 3350916.53; 453541.83, 3350896.97; 453550.25, 3350901.06; 453554.18, 3350913.84; 453550.5, 3350934.89; 453541.67, 3350949.48; 453545.4, 3350970.71; 453555.76, 3350988.96; 453555.4, 3351003.6; 453550.66, 3351016.29; 453543.61, 3351036.28; 453531.06, 3351038.01; 453520.97, 3351061.03; 453519.56, 3351075.79; 453527.61, 3351090.83; 453541.93, 3351105.82; 453530.48, 3351123.86; 453526.55, 3351134.75; 453515.81, 3351123.51; 453508.38, 3351126.99; 453502.88, 3351152.55; 453502.62, 3351163.12; 453509.93, 3351167.52; 453529.6, 3351160.46; 453537.21, 3351149.66; 453541.05, 3351142.42; 453555.99, 3351131.79; 453560.54, 3351133.85; 453567.88, 3351137.2; 453589.1, 3351128.92; 453600.02, 3351132.85; 453599.58, 3351151.15; 453581.16, 3351157.6; 453569.7, 3351172.41; 453595.2, 3351180.34; 453606.3, 3351176.95; 453610.23, 3351166.05; 453610.41, 3351158.73; 453614.52, 3351140.52; 453613.04, 3351109.74; 453630.16, 3351100.61; 453637.5, 3351100.78; 453652.55, 3351096.94; 453659.33, 3351079.14; 453667.99, 3351053.9; 453666.63, 3351040.2; 453680.62, 3351031.02; 453689.01, 3351038.43; 453705.94, 3351037.47; 453716.32, 3351044.56; 453726.05, 3351036.34; 453744.28, 3351036.58; 453737.36, 3351059.8; 453729.59, 3351085.78; 453723.99, 3351103.88; 453714.19, 3351117.27; 453702.83, 3351131.65; 453698.82, 3351155.13; 453697, 3351186.79; 453705, 3351193.96; 453720.92, 3351198.14; 453727.28, 3351183.5; 453732.16, 3351177; 453729.16, 3351169.4; 453732.67, 3351156.01; 453739.08, 3351150.82; 453757.95, 3351129.3; 453780.31, 3351124.25; 453779.8, 3351112.35; 453789.19, 3351101.87; 453798.84, 3351108.31; 453806.26, 3351104.82; 453810.87, 3351092.48; 453826.85, 3351088.9; 453838.67, 3351076.5; 453847.06, 3351087.49; 453860.52, 3351083.95; 453858.95, 3351105.05; 453870.87, 3351108.98; 453912.75, 3351114.8; 453908.35, 3351122.11; 453893.36, 3351128.07; 453878.61, 3351134.13; 453875.18, 3351139.43; 453873.64, 3351155.08; 453865.09, 3351158.05; 453859.6, 3351166.37; 453867.71, 3351181.37; 453877.22, 3351182.65; 453877.26, 3351205.4; 453866.08, 3351212.46; 453862.15, 3351223.35; 453843.89, 3351219.25; 453840.4, 3351211.85; 453851.93, 3351190.15; 453852.2, 3351179.17; 453843.66, 3351168.11; 453830.93, 3351168.86; 453821.56, 3351176.77; 453816.1, 3351168.5; 453829.12, 3351156.13; 453821.78, 3351152.79; 453813.14, 3351163.48; 453812.54, 3351148.92; 453820.93, 3351144.31; 453816.89, 3351135.76; 453804.14, 3351137.56; 453789.16, 3351143.55; 453783.69, 3351150.82; 453777.03, 3351163.34; 453786.25, 3351173.93; 453786.07, 3351183.64; 453797.7, 3351184.98; 453796.18, 3351203.97; 453810.99, 3351203.47; 453815.94, 3351219.24; 453818.03, 3351225.96; 453838.68, 3351224.74; 453858.3, 3351230.59; 453880.4, 3351227.45; 453906.17, 3351224.41; 453918.44, 3351229.03; 453924.78, 3351213.87; 453926.6, 3351203.46; 453937.24, 3351197.83; 453941.2, 3351209.55; 453950.55, 3351210.82; 453969.07, 3351203.94; 453976.58, 3351196.79; 453980.43, 3351189.56; 453991.7, 3351178.84; 454005.42, 3351182.55; 454020.68, 3351179.16; 454018.85, 3351196.61; 454026.94, 3351212.66; 454038.78, 3351205.61; 454035.25, 3351190.08; 454039.4, 3351179.99; 454047.26, 3351158.2; 454055.13, 3351136.41; 454077.14, 3351136.94; 454088.15, 3351137.21; 454093.16, 3351146.6; 454102.56, 3351152.11; 454117.23, 3351148.89; 454122.61, 3351155.76; 454122.33, 3351167.38; 454135.89, 3351176.16; 454147.64, 3351172.21; 454163.34, 3351179.99; 454152.5, 3351190.3; 454150.08, 3351202.92; 454153.96, 3351217.81; 454149.39, 3351231.44; 454155.9, 3351252.61; 454151.83, 3351262.16; 454158.44, 3351267.07; 454166.31, 3351245.28; 454177.05, 3351226.82; 454185.36, 3351216.44; 454205.74, 3351223.28; 454218.29, 3351220.89; 454229.12, 3351228.47; 454257.45, 3351231.92; 454269.47, 3351229.44; 454276.9, 3351225.96; 454279.11, 3351212.35; 454273.94, 3351196.59; 454268.17, 3351182.5; 454256.12, 3351174.19; 454248.56, 3351160.89; 454260.23, 3351155.97; 454269.01, 3351147.63; 454275.54, 3351140.39; 454289.93, 3351142.03; 454308.1, 3351149.79; 454346.78, 3351173.81; 454344.52, 3351161.65; 454337.54, 3351146.84; 454356.24, 3351132.64; 454370.91, 3351132.99; 454383.06, 3351133.93; 454393.16, 3351050.13; 454259.82, 3351020.46; 454175.97, 3350996.48; 454062.76, 3350971.79; 453927.63, 3350942.92; 453734.15, 3350898.01; 453573.51, 3350861.2; 453456.55, 3350840.09; 453351.02, 3350814.91; 453319.38, 3350808.87; 453284.61, 3350800.63; 453255.17, 3350791.47; 453239.41, 3350785.81; 453240.65, 3350795.13; 453252.8, 3350801.99; 453252.19, 3350827.34; 453240.34, 3350835.51; 453238.9, 3350851.33; 453247.19, 3350858.93; 453257.58, 3350904.44; 453835.77, 3350905.26; 453973.2, 3350936.55; 453981.82, 3350930.42; 453994.73, 3350922.27; 454014.14, 3350907.94; 454040.57, 3350910.68; 454051.65, 3350905.08; 454070.27, 3350909.28; 454079.54, 3350920.07; 454108.94, 3350931.35; 454122.42, 3350943.3; 454130.49, 3350960.4; 454001.89, 3350933.01; 453991.09, 3350941.21; 454110.19, 3350967.31; 454139.71, 3350968.58; 454304.13, 3351008.95; 454388.27, 3351027.14; 454389.15, 3351007.34; 454409.63, 3350998.21; 454434.55, 3351002.88; 454465.72, 3351007.08; 454486.75, 3351012.85; 454489.63, 3351020.21; 454486.81, 3351034.46; 454498.15, 3351051.17; 454742.76, 3351106.18; 454998, 3351165.4; 455197.31, 3351203.86; 455211.78, 3351197.08; 455217.88, 3351175.24; 455229.15, 3351164.52; 455243.92, 3351161.21; 455269.42, 3351169.15; 455309.6, 3351177.43; 455316.76, 3351184.93; 455316.78, 3351209.13; 455308.03, 3351220.55; 455302.53, 3351228.87; 455310.51, 3351234.93; 455322.87, 3351236.35; 455704.01, 3351319.87; 456148.85, 3351387.97; 456419.46, 3351431.07; 456428.3, 3351369.03; 456430.63, 3351362.78; 456430.02, 3351338.59; 456424.48, 3351321.01; 456352.66, 3351308.62; 456246.79, 3351284.11; 456176.58, 3351274.11; 456062.92, 3351258.68; 455970.76, 3351241.7; 455830.67, 3351207.69; 455644.19, 3351164.12; 455466.91, 3351134.51; 455231.29, 3351063.33; 455133.43, 3351035.62; 455048.06, 3351016.67; 454963.71, 3350999.85; 454885.53, 3350990.58; 454798.88, 3350981.1; 454731.47, 3350964.69; 454634.86, 3350928.56; 454546.66, 3350917.56; 454464.36, 3350903.31; 454383.22, 3350890.27; 454306.59, 3350877.36; 454225.36, 3350862.73; 454123.01, 3350845.48; 454027.13, 3350823.11; 453939.68, 3350803.05; 453837.42, 3350781.57; 453835.77, 3350905.26; 455298.31, 3351139.98; 455302.68, 3351134.8; 455308.98, 3351137.07; 455304.59, 3351143.3; 455298.31, 3351139.98; 454143.72, 3350909.4; 454135.25, 3350909.2; 454136.48, 3350901.83; 454142.84, 3350901.98; 454143.72, 3350909.4; 454089.94, 3350898.6; 454082.53, 3350898.42; 454083.79, 3350890; 454091.18, 3350891.23; 454089.94, 3350898.6; 454036.17, 3350887.8; 454037.38, 3350881.49; 454045.8, 3350883.8; 454044.59, 3350890.12; 454036.12, 3350889.91; 454036.17, 3350887.8; 455261.41, 3351132.76; 455266.83, 3351127.6; 455275.22, 3351130.97; 455267.66, 3351137.14; 455261.41, 3351132.76; 455206.47, 3351126.16; 455206.62, 3351119.82; 455215.17, 3351116.85; 455217.16, 3351122.19; 455211.77, 3351126.28; 455206.47, 3351126.16; 455354.16, 3351152.95; 455359.63, 3351145.68; 455367.97, 3351151.16; 455360.41, 3351157.33; 455354.16, 3351152.95; 453996.99, 3350886.86; 453998.28, 3350877.38; 454008.84, 3350878.69; 454005.41, 3350889.18; 453996.99, 3350886.86; 454871.49, 3351419.62; 454871.23, 3351430.31; 454866.49, 3351437.83; 454884.66, 3351445.59; 454891.91, 3351449.43; 454906.5, 3351453.44; 454924.84, 3351453.88; 454939.6, 3351450.57; 454959.51, 3351443.92; 454978.23, 3351441.6; 454985.01, 3351424.32; 454974.36, 3351420.89; 454980.23, 3351399.31; 454980.01, 3351384.16; 454998.49, 3351389.18; 455013.87, 3351380.62; 455030.67, 3351375.86; 455041.91, 3351371.38; 455040.94, 3351385.97; 455028.71, 3351409.99; 455015.52, 3351429.75; 455003.62, 3351440.04; 455009.77, 3351448.64; 455031.95, 3351451.29; 455026.99, 3351437.43; 455036.8, 3351418.42; 455052.7, 3351418.01; 455050.39, 3351433.76; 455084.74, 3351458.89; 455103.91, 3351455.12; 455114.32, 3351462.77; 455158.84, 3351465.34; 455173.59, 3351465.25; 455199.83, 3351467.79; 455236.04, 3351467.8; 455243.51, 3351463.97; 455258.6, 3351463.77; 455273.98, 3351476.11; 455293.04, 3351485.6; 455297.9, 3351465.1; 455306.2, 3351457.85; 455313.44, 3351465.43; 455310.96, 3351480.16; 455321.35, 3351488.87; 455333.4, 3351472.25; 455347.56, 3351481.75; 455363.81, 3351485.66; 455371.95, 3351499.59; 455374.84, 3351511.29; 455387.35, 3351520.05; 455381.77, 3351531.54; 455383.56, 3351545.32; 455404.7, 3351550.9; 455428.85, 3351561.17; 455466.42, 3351561.49; 455495.81, 3351562.2; 455522.36, 3351564.82; 455557.3, 3351560.53; 455569.73, 3351572.45; 455582.6, 3351587.66; 455658.1, 3351603.74; 455665.53, 3351608.67; 455688.1, 3351618.65; 455720.85, 3351630.42; 455742.69, 3351638.26; 455771.95, 3351642.63; 455793.33, 3351647.01; 455819.65, 3351643.77; 455863.85, 3351637.5; 455887.99, 3351626.69; 455912.77, 3351620.54; 455970.6, 3351611.22; 456003.79, 3351618.88; 456021.77, 3351616.63; 456037.84, 3351623.93; 456051.55, 3351612.05; 456081.88, 3351628.64; 456112.16, 3351639.19; 456131.26, 3351645.67; 456148.88, 3351661.95; 456164.07, 3351670.33; 456178.33, 3351671.11; 456188.89, 3351672.42; 456185.02, 3351649.65; 456188.42, 3351648.1; 456198.9, 3351652.58; 456209.29, 3351648.25; 456220.35, 3351650.9; 456229.21, 3351663.48; 456248.37, 3351658.7; 456258.91, 3351649.84; 456290.2, 3351653.76; 456294.75, 3351676.01; 456313.24, 3351670.56; 456317.05, 3351660.74; 456316.66, 3351644.09; 456317.97, 3351622.71; 456316.08, 3351608.05; 456303.01, 3351596.94; 456301.1, 3351580.69; 456291.11, 3351578.15; 456287.7, 3351567.08; 456295.39, 3351552.62; 456308.39, 3351549.5; 456313.71, 3351548.57; 456329.65, 3351546.84; 456343.53, 3351535.46; 456358.64, 3351517.51; 456374.6, 3351527.83; 456380.04, 3351543.66; 456370.71, 3351557.34; 456357.63, 3351572.88; 456343.61, 3351583.11; 456345.16, 3351606.4; 456341.53, 3351625.34; 456345.28, 3351645.51; 456358.87, 3351660.35; 456358.7, 3351667.67; 456384.38, 3351668.28; 456424.33, 3351669.24; 456426.04, 3351448.96; 456375.17, 3351441; 456269.04, 3351427.47; 456027.69, 3351388.73; 455710.94, 3351340.12; 455524.33, 3351301.83; 455128.77, 3351217.05; 454948.99, 3351174.89; 454904.66, 3351164.38; 454896.4, 3351199.07; 454891.99, 3351206.36; 454884.5, 3351209.35; 454868.67, 3351206.86; 454862.99, 3351222.58; 454819.83, 3351210.97; 454820.3, 3351367.66; 454817.2, 3351408.57; 454826.14, 3351416.45; 454856.73, 3351425.89; 454871.49, 3351419.62.

(iii) Note: Map 2 of Units 1, 2, and 3 follows:

BILLING CODE 4310-55-P

BILLING CODE 4310-55-C

(9) PKBM—Unit 4: Gulf Beach Unit, Escambia County, Florida.

(i) General Description: Unit 4 consists of 162 ac (66 ha) in southern Escambia County, Florida. This unit includes essential features of beach mouse habitat between Gulf Islands National Seashore and Perdido Key State Park from approximately 4 miles east of the Alabama-Florida State line to 6 miles east of the State line and areas from the MHWL north to the seaward extent of human development or maritime forest.

(ii) Coordinates: From USGS 1:24,000 quadrangle map Perdido Bay, Florida, land bounded by the following UTM 16 NAD 83 coordinates (E,N): 457418.45, 3351766.05; 456424.33, 3351669.24; 456454.09, 3351669.95; 456460.85, 3351674.93; 456491.64, 3351678.43; 456523.29, 3351684.34; 456532.43, 3351694.62; 456550.37, 3351698.07; 456566.16, 3351685.76; 456578.84, 3351687.26; 456601.78, 3351691.77; 456612.31, 3351687.85; 456622.42, 3351676.01; 456635.18, 3351673.94; 456644.26, 3351676.53; 456637.88, 3351682.12; 456636.62, 3351690.54; 456647.33, 3351685.52; 456648.56, 3351695.66; 456653.7, 3351696.98; 456671.96, 3351681.16; 456634.44, 3351637.87; 456593.26, 3351588.26; 456571.55, 3351609.94; 456551.71, 3351597.83; 456536.99, 3351593.25; 456516.87, 3351592.77; 456495.54, 3351598.6; 456490.42, 3351591.08; 456473.22, 3351601.24; 456469.17, 3351593.74; 456464.83, 3351597.87; 456459.69, 3351591.4; 456455.4, 3351593.41; 456439.82, 3351580.36; 456444.21, 3351574.12; 456438.99, 3351570.82; 456444.42, 3351565.67; 456432.95, 3351557.99; 456440.54, 3351550.78; 456451.4, 3351547.34; 456442.96, 3351538.15; 456459.1, 3351527.97; 456472.74, 3351533.58; 456496.11, 3351530.97; 456563.03, 3351479.72; 456565.81, 3351469.33; 456524.65, 3351462.8; 456454.15, 3351450.94; 456426.04, 3351448.96; 456424.33, 3351669.24; 456424.48, 3351321.01; 456430.02, 3351338.59; 456430.63, 3351362.78; 456564.5, 3351385.46; 456586.64, 3351390.22; 456587.35, 3351393.63; 456614.78, 3351398.52; 456620.28, 3351390.19; 456648.03, 3351392.74; 456700.47, 3351403.74; 456698.05, 3351416.37; 456719.2, 3351417.93; 456731.86, 3351420.35; 456735.26, 3351410.91; 456769.12, 3351412.78; 456764.43, 3351431.7; 456792.99, 3351433.44; 456800.36, 3351435.73; 456803.68, 3351429.47; 456817.4, 3351431.91; 456821.51, 3351437.29; 456819.91, 3351459.45; 456816.56, 3351466.77; 456807.81, 3351478.19; 456802.34, 3351485.45; 456822.35, 3351490.16; 456824.95, 3351470.14; 456825.56, 3351444.79; 456829.07, 3351431.13; 456847.12, 3351429.45; 456871.67, 3351432.98; 456926.58, 3351440.64; 456935.89, 3351438.97; 456993.19, 3351446.46; 457036.45, 3351453.84; 457029.58, 3351519.21; 457058.09, 3351523.07; 457062.16, 3351486.17; 457070.75, 3351481.09; 457071.02, 3351459.12; 457090.3, 3351461.47; 457117.56, 3351462.35; 457118.42, 3351470.83; 457156.38, 3351478.08; 457159.02, 3351467.35; 457184.62, 3351466.08; 457211.91, 3351471.07; 457248.66, 3351473.95; 457246.95, 3351489.05; 457264.52, 3351491.54; 457266.87, 3351480.21; 457284.42, 3351483.74; 457291.68, 3351483.91; 457294.59, 3351492.26; 457302.89, 3351492.46; 457305.08, 3351487.34; 457316.46, 3351488.64; 457313.72, 3351499.82; 457314.58, 3351508.3; 457335.68, 3351511.97; 457334.42, 3351520.4; 457340.82, 3351518.44; 457358.23, 3351520.69; 457357.79, 3351495.84; 457374.33, 3351498.31; 457365.85, 3351534.89; 457357.33, 3351536.8; 457356.06, 3351556.63; 457352.57, 3351569.23; 457366.02, 3351571.89; 457374.68, 3351520.31; 457378.89, 3351521.46; 457371.32, 3351572.02; 457390.27, 3351576.7; 457392.9, 3351555.62; 457384.51, 3351552.25; 457386, 3351534.32; 457427.14, 3351541.65; 457419.82, 3351581.64; 457503.24, 3351593.15; 457502.54, 3351578.33; 457493.19, 3351570.71; 457489.28, 3351556.88; 457496.9, 3351548.6; 457490.7, 3351542.11; 457494.15, 3351530.57; 457516.29, 3351535.33; 457522.54, 3351539.7; 457550.02, 3351542.48; 457561.82, 3351536.42; 457569, 3351546.1; 457585.95, 3351546.51; 457608.18, 3351547.04; 457616.73, 3351544.07; 457628.28, 3351548.58; 457709.53, 3351562.15; 457727.48, 3351564.7; 457727.15, 3351578.43; 457725.96, 3351583.69; 457755.51, 3351588.62; 457753.46, 3351629.8; 457764, 3351632.16; 457766.35, 3351578.31; 457755.81, 3351575.95; 457758.24, 3351563.32; 457770.94, 3351563.62; 457769.22, 3351591.06; 457783.04, 3351589.28; 457786.39, 3351581.96; 457793.86, 3351580.03; 457799.23, 3351576.99; 457802.28, 3351582.34; 457810.33, 3351577.46; 457814.88, 3351586.87; 457823.48, 3351581.79; 457830.71, 3351589.37; 457845.54, 3351589.72; 457848.64, 3351592.97; 457860.21, 3351596.42; 457863.51, 3351591.21; 457872.99, 3351593.55; 457870.52, 3351608.29; 457869.13, 3351622; 457865.32,

3351648.33; 457872.7, 3351649.57; 457874.6, 3351614.73; 457878.39, 3351589.45; 457895.26, 3351593.03; 457911.06, 3351596.58; 457907.4, 3351616.57; 457903.44, 3351649.24; 457909.69, 3351653.62; 457963.51, 3351662.31; 457967.26, 3351616.41; 457969.22, 3351601.14; 458060.19, 3351607.55; 458063.47, 3351597.71; 458097.45, 3351599.99; 458086.8, 3351646.24; 458133.51, 3351653.48; 458139.17, 3351627.41; 458146.71, 3351622.31; 458155.1, 3351625.68; 458187.98, 3351624.35; 458210.11, 3351629.11; 458212.93, 3351643.98; 458210.46, 3351658.72; 458241.12, 3351661.56; 458247.49, 3351660.66; 458260.18, 3351662.02; 458273.89, 3351664.46; 458303.41, 3351670.46; 458301.06, 3351646.92; 458325.37, 3351649.62; 458340.85, 3351655.5; 458353.41, 3351662.14; 458367.17, 3351662.47; 458376.8, 3351658.47; 458389.46, 3351660.89; 458391.78, 3351652.49; 458403.35, 3351655.94; 458406.35, 3351663.41; 458434.76, 3351671.49; 458437.74, 3351680.02; 458479.08, 3351678.89; 458516.02, 3351685.06; 458529.55, 3351694.9; 458538.02, 3351695.11; 458546.6, 3351691.08; 458576.44, 3351694.74; 458581.31, 3351701.43; 458589.58, 3351710.08; 458637.43, 3351709.74; 458676.63, 3351711.18; 458739.6, 3351712.15; 458741.86, 3351730.19; 458756.78, 3351731.19; 458774.55, 3351725.4; 458787.91, 3351730.9; 458801.31, 3351734.33; 458804.24, 3351741.64; 458811.62, 3351745.25; 458821.07, 3351748.65; 458835.16, 3351749.33; 458843.17, 3351754.73; 458850.74, 3351762.39; 458853.87, 3351772.42; 458862.55, 3351776.16; 458874.82, 3351776.89; 458884.32, 3351778.31; 458896.58, 3351780.58; 458902.29, 3351774.38; 458911.71, 3351779.36; 458911.75, 3351794.03; 458909.02, 3351808.63; 458907.68, 3351817.66; 458910.73, 3351823.02; 458921.35, 3351824.38; 458928.7, 3351824.51; 458931.5, 3351815.51; 458934.42, 3351763.34; 458954.48, 3351765.94; 458958.85, 3351760.76; 458989.4, 3351767.83; 459010.48, 3351772.56; 459015.02, 3351759.99; 459080.48, 3351773.1; 459120.76, 3351780.28; 459145.81, 3351784.26; 459188.94, 3351792.26; 459218.91, 3351797.12; 459236.51, 3351798.58; 459235.3, 3351805.79; 459244.63, 3351806.02; 459245.24, 3351823.63; 459268.75, 3351826.32; 459293.03, 3351832.5; 459313.02, 3351835.84; 459337.2, 3351839.28; 459331.34, 3351866.93; 459352.08, 3351871.97; 459360.89, 3351846.06; 459379.43, 3351851.68; 459373.67, 3351875.35; 459398.83, 3351880.17; 459402.12, 3351857.4; 459421.77, 3351859.94; 459427.96, 3351861.13; 459445.51, 3351864.65; 459441.85, 3351887.33; 459466.59, 3351894.14; 459470.25, 3351871.45; 459491.87, 3351878.18; 459494.07, 3351873.06; 459514.71, 3351877.69; 459511.99, 3351861.07; 459522.41, 3351859.25; 459537.96, 3351859.62; 459545.22, 3351859.8; 459572.33, 3351854.24; 459589.44, 3351851.93; 459605.58, 3351851.93; 459622.15, 3351853.36; 459635.52, 3351857.82; 459645.87, 3351859.1; 459651.96, 3351864.43; 459657.25, 3351880.07; 459658.58, 3351848.02; 459574.09, 3351824.26; 459385.17, 3351785.58; 459270.46, 3351767.31; 459167.89, 3351749.83; 459032.84, 3351726.42; 458956.05, 3351714.64; 458903.74, 3351702.63; 458835.68, 3351685.47; 458781.01, 3351679.79; 458679.09, 3351666.62; 458544.51, 3351645.58; 458415.74, 3351625.58; 458289.18, 3351601.41; 458088.68, 3351568.07; 457983.13, 3351551.8; 457839.55, 3351530.39; 457720.33, 3351509.56; 457584.17, 3351488.33; 457400.43, 3351462.79; 457164.03, 3351424.36; 457037.43, 3351402.3; 456936.11, 3351386.13; 456862.21, 3351374.85; 456750.3, 3351358.43; 456606.63, 3351341.24; 456424.48, 3351321.01; 456567.34, 3351537.94; 456569.21, 3351542.74; 456569.9, 3351547.12; 456572.61, 3351549.96; 456620.68, 3351604.45; 456671.15, 3351662.58; 456680.02, 3351659.95; 456681.47, 3351665.53; 456689.38, 3351666.91; 456696.94, 3351666.7; 456704.21, 3351661.72; 456709.69, 3351665.02; 456715.11, 3351671.1; 456737.47, 3351683.13; 456736.02, 3351693.79; 456726.44, 3351700.09; 456724.07, 3351711.35; 456735.32, 3351706.07; 456740.43, 3351714.96; 456739.22, 3351722.17; 456744.31, 3351726.44; 456743.15, 3351731.58; 456732.78, 3351731.33; 456737.79, 3351738.7; 456750.3, 3351735.89; 456754.15, 3351748.41; 456772.82, 3351754.06; 456784.31, 3351760.67; 456799.27, 3351770.19; 456792.35, 3351785.63; 456775.66, 3351788.32; 456801.19, 3351816.68; 456835.61, 3351855.95; 456879.65, 3351907.74; 456882.22, 3351901.55; 456899.3, 3351900.29; 456910.25, 3351891.04; 456923.48, 3351895.22; 456920.88, 3351915.24; 456926.37, 3351920.2; 456939.85, 3351920.52; 456950.24, 3351925.63; 456969.26, 3351932.09; 456991.95, 3351911.66; 457010.15, 3351903.64; 457031.15, 3351911.54; 457040.91, 3351902.26; 457047.3, 3351908.03; 457056.45, 3351903.65; 457068.67, 3351913.26; 457078.01, 3351907.32; 457136.99, 3351916.19; 457160.11, 3351924.15; 457208.74, 3351928.48; 457223.55, 3351929.13; 457254.3, 3351928.52; 457286,

3351930.26; 457302.42, 3351929.17; 457368.29, 3351934.61; 457422.58, 3351935.78; 457432.26, 3351929.61; 457449.05, 3351936.35; 457492.39, 3351940.56; 457522.11, 3351938.1; 457548.46, 3351944.02; 457576.65, 3351949.09; 457602.53, 3351945.84; 457609.72, 3351951.83; 457622.55, 3351946.85; 457643.68, 3351949.47; 457653.32, 3351960.86; 457675.77, 3351952.68; 457691.95, 3351957.03; 457704.42, 3351950.99; 457729.54, 3351947.23; 457742.88, 3351937.64; 457756.86, 3351934.41; 457770.55, 3351942.85; 457784.73, 3351931.9; 457793.32, 3351938.45; 457798.29, 3351946.5; 457816.18, 3351939.72; 457831.16, 3351933.73; 457836.2, 3351944.42; 457847.96, 3351946.1; 457860.03, 3351940.05; 457875.85, 3351942.81; 457883.56, 3351936.25; 457898.14, 3351938.36; 457910.91, 3351932.37; 457927.28, 3351934.02; 457937.42, 3351932.38; 457951.32, 3351931.45; 457965.86, 3351930.54; 457978.43, 3351932.73; 457985.49, 3351927.86; 457997.42, 3351930.67; 458014.36, 3351934.85; 458029.83, 3351944; 458239.05, 3351933.99; 458242.51, 3351790.33; 458263.59, 3351795.06; 458267.45, 3351766.61; 458254.77, 3351765.25; 458259.54, 3351743.17; 458264.91, 3351740.13; 458269.56, 3351723.33; 458128.1, 3351701.97; 458129.91, 3351714.69; 458129.71, 3351723.15; 458126.33, 3351731.52; 458121.03, 3351731.39; 458116.59, 3351739.74; 458115.41, 3351745; 458117.37, 3351751.39; 458117.22, 3351757.73; 458107.65, 3351762.21; 458095.18, 3351762.94; 458075.53, 3351762.24; 458064.97, 3351760.93; 458063, 3351754.54; 458055.64, 3351752.25; 458038.85, 3351745.51; 458037.56, 3351754.99; 458040.57, 3351772.8; 458051.11, 3351775.17; 458050.96, 3351781.51; 458040.34, 3351782.31; 458040.06, 3351793.93; 458034.43, 3351823.08; 458026.43, 3351821.31; 458000.03, 3351822.42; 458000.51, 3351828.73; 458021.51, 3351847.49; 458018.93, 3351849.95; 457997.25, 3351833.06; 457983.94, 3351835.26; 457980.63, 3351841.48; 457968.03, 3351840.55; 457967.64, 3351830.46; 457953.15, 3351829.48; 457953, 3351809.33; 457944.96, 3351802.84; 457929.08, 3351806.87; 457914.74, 3351806.78; 457849.67, 3351813.9; 457836.04, 3351808.29; 457838.81, 3351780.88; 457838.29, 3351758.67; 457836.6, 3351725.78; 457844.56, 3351659.38; 457813.95, 3351654.42; 457807.99, 3351681.76; 457805.6, 3351693.33; 457796.04, 3351694.16; 457798.99, 3351703.74; 457796.64, 3351713.2; 457780.78, 3351711.76; 457779.15, 3351691.64; 457782.71, 3351675.87; 457787.58, 3351649.56; 457696.16, 3351638.68; 457687.3, 3351704.09; 457655.01, 3351699.24; 457661.93, 3351631.75; 457602.81, 3351622.94; 457592.79, 3351687.17; 457513.6, 3351675.76; 457512.9, 3351660.95; 457476.02, 3351652.67; 457475.68, 3351633.03; 457481.49, 3351627.28; 457484.69, 3351605.11; 457384.89, 3351592.01; 457387.79, 3351603.58; 457382.07, 3351610.18; 457373.34, 3351609.57; 457367.91, 3351604.29; 457370.05, 3351597.6; 457375.76, 3351591.79; 457349.25, 3351587.2; 457286.76, 3351575.39; 457234.66, 3351568.45; 457231.91, 3351596.33; 457228.01, 3351629.35; 457226.08, 3351636.57; 457216.42, 3351635.73; 457203.02, 3351632.89; 457193.63, 3351614.04; 457180.74, 3351610.62; 457183.31, 3351589.99; 457198.81, 3351592.43; 457203.61, 3351565.63; 457160.31, 3351554.25; 457159.05, 3351563.53; 457119.8, 3351556.38; 457114.27, 3351570.74; 457111.72, 3351590.34; 457092.07, 3351587.8; 457082.71, 3351588.61; 457052.79, 3351581.68; 457053.19, 3351565.13; 457063.54, 3351566.42; 457067.22, 3351542.7; 456989.71, 3351530.49; 456978.83, 3351594.4; 456927.16, 3351585.92; 456933.74, 3351528.12; 456879.98, 3351520.62; 456872.46, 3351574.26; 456849.58, 3351576.82; 456828.87, 3351575.29; 456812.35, 3351571.78; 456779.25, 3351567.89; 456751.3, 3351565.15; 456715.12, 3351560.14; 456726.09, 3351492.1; 456701.28, 3351488.4; 456689.39, 3351551.24; 456669.6, 3351554.91; 456657.2, 3351552.54; 456642.81, 3351547.02; 456622.15, 3351543.42; 456631.53, 3351479.23; 456578.06, 3351472.4; 456569.4, 3351518.17; 456567.5, 3351531.21; 456567.34, 3351537.94; 456750.73, 3351718.31; 456750.35, 3351709.2; 456757.5, 3351692.72; 456761.31, 3351682.91; 456770.19, 3351685.66; 456775.57, 3351677.51; 456790.51, 3351674.88; 456802.7, 3351663.29; 456818.67, 3351660.1; 456827.69, 3351667.37; 456832.7, 3351674.73; 456829.46, 3351679.83; 456813.93, 3351678.42; 456810.6, 3351687.66; 456812.5, 3351694.95; 456815.43, 3351702.27; 456804.97, 3351706.15; 456798.5, 3351716.35; 456807.6, 3351725.88; 456814.89, 3351725.02; 456830.51, 3351722.29; 456842.09, 3351715.32; 456854.66, 3351710.45; 456849.6, 3351705.15; 456858.08, 3351689.98; 456863.42, 3351699.22; 456871.6, 3351689.51; 456887.38, 3351694.25; 456887.23, 3351700.59; 456897.06, 3351704.79; 456909.63, 3351710.64; 456917.29, 3351706.06; 456922.98, 3351700.65; 456929.11, 3351693.66; 456942.06, 3351700.32; 456958.19,

3351707.04; 456998.17, 3351713.15; 457019.55, 3351716.44; 457011.86, 3351730.78; 457009.53, 3351741.07; 457015.2, 3351755.81; 457015.23, 3351762.94; 457005.7, 3351770.99; 457003.35, 3351782.32; 456998.81, 3351793.67; 456982.29, 3351795.27; 456976.37, 3351782.71; 456957.72, 3351775.4; 456957.51, 3351783.85; 456949.04, 3351783.64; 456946.07, 3351775.12; 456940.49, 3351774.04; 456926.23, 3351772.11; 456912.86, 3351766.24; 456903.25, 3351760.26; 456891.75, 3351764.12; 456884.2, 3351768.72; 456873.96, 3351764.91; 456858.79, 3351767.72; 456846.32, 3351757.51; 456821.16, 3351763.25; 456815.8, 3351754.8; 456804.99, 3351758.11; 456792.61, 3351745.19; 456781.13, 3351748.02; 456770.1, 3351746.8; 456765.68, 3351743.51; 456764.74, 3351739.35; 456757.64, 3351732.97; 456750.73, 3351718.31; 457025.35, 3351773.53; 457022.49, 3351763.11; 457022.71, 3351753.8; 457028.48, 3351741.23; 457036.59, 3351729.87; 457053.45, 3351733.45; 457058.67, 3351736.74; 457058.39, 3351748.36; 457064.69, 3351750.63; 457065.91, 3351744.31; 457075.49, 3351742.43; 457077.43, 3351749.87; 457084.99, 3351743.71; 457090.29, 3351743.84; 457091.17, 3351751.26; 457100.77, 3351748.32; 457109.29, 3351746.41; 457110.2, 3351752.77; 457117.71, 3351748.73; 457116.71, 3351746.59; 457128.4, 3351744.75; 457132.46, 3351752.25; 457139.02, 3351743.95; 457137.03, 3351738.62; 457146.63, 3351735.68; 457157.27, 3351733.82; 457163.48, 3351740.31; 457177.11, 3351745.92; 457200.2, 3351737.81; 457216.7, 3351729.96; 457227.49, 3351721.76; 457238.28, 3351713.56; 457244.61, 3351714.77; 457247.43, 3351729.64; 457259.35, 3351744.57; 457272.94, 3351752.3; 457282.32, 3351758.86; 457286.27, 3351770.58; 457280.17, 3351777.99; 457283.82, 3351784.27; 457291.03, 3351792.89; 457292.13, 3351799.6; 457278.53, 3351802.26; 457273.99, 3351814.83; 457264.53, 3351811.43; 457256.06, 3351811.23; 457256.24, 3351803.84; 457269.37, 3351796.09; 457247.19, 3351783.54; 457239.65, 3351788.64; 457223.74, 3351789.32; 457216.43, 3351784.91; 457211.34, 3351776.34; 457204.76, 3351785.69; 457196.26, 3351786.55; 457189.13, 3351774.75; 457204.08, 3351769.82; 457217.95, 3351765.92; 457222.36, 3351758.63; 457224.66, 3351751.29; 457199.98, 3351764.44; 457192.67, 3351760.03; 457179.83, 3351765.01; 457170.25, 3351766.9; 457180.56, 3351778.77; 457177.08, 3351791.37; 457171.91, 3351785.96; 457160.11, 3351792.02; 457142.19, 3351788.42; 457123.08, 3351790.08; 457108.35, 3351785.5; 457091.39, 3351786.15; 457072.3, 3351786.75; 457067.49, 3351796.11; 457053.59, 3351795.77; 457041.84, 3351788.75; 457029, 3351777.74; 457025.35, 3351773.53; 457066.77, 3351698.78; 457062.96, 3351690.78; 457066.12, 3351683.93; 457073.17, 3351682.12; 457081.08, 3351686.15; 457084.84, 3351696.25; 457088.74, 3351700.3; 457093.7, 3351702.39; 457098.55, 3351708.44; 457093.12, 3351714.31; 457083.56, 3351715.14; 457072.51, 3351709.8; 457066.58, 3351706.69; 457066.77, 3351698.78; 457186.4, 3351712.32; 457184.48, 3351703.82; 457185.8, 3351693.28; 457192.25, 3351689.21; 457204.83, 3351694.79; 457215.24, 3351702.44; 457219.38, 3351706.77; 457218.16, 3351713.08; 457210.63, 3351718.18; 457202.08, 3351721.15; 457193.63, 3351719.89; 457193.76, 3351714.61; 457186.4, 3351712.32; 457724.53, 3351847.82; 457722.64, 3351838.27; 457728.19, 3351827.83; 457743.49, 3351834.39; 457761.49, 3351834.82; 457770.53, 3351844.78; 457781.14, 3351843.97; 457792.33, 3351848.39; 457813.45, 3351851.01; 457817.84, 3351844.77; 457803.19, 3351837.03; 457789.18, 3351837.21; 457784.18, 3351834.46; 457793.57, 3351830.51; 457806.6, 3351827.59; 457823.59, 3351825.89; 457834.99, 3351836.73; 457843.3, 3351843.27; 457836.9, 3351845.23; 457832.66, 3351845.13; 457836.75, 3351851.57; 457849.48, 3351850.82; 457855.58, 3351861.53; 457853.03, 3351879.44; 457850.38, 3351895.03; 457846.85, 3351898.17; 457833.05, 3351898.9; 457828.9, 3351895.63; 457821.44, 3351892.75; 457816.62, 3351894.62; 457812.23, 3351901.72; 457807.94, 3351903.73; 457800.43, 3351890.66; 457793.2, 3351893.66; 457786.09, 3351887.35; 457778.12, 3351892.3; 457770.56, 3351893.51; 457761.61, 3351892.05; 457760.7, 3351885.69; 457754.53, 3351878.14; 457743.21, 3351864.13; 457734.81, 3351860.75; 457724.53, 3351847.82; 457941.53, 3351871.07; 457936.47, 3351861.44; 457939.85, 3351853.06; 457948.32, 3351853.26; 457954.54, 3351858.7; 457965.26, 3351853.67; 457969.65, 3351847.43; 457981.29, 3351847.71; 457987.67, 3351846.81; 457987.47, 3351855.26; 457987.29, 3351862.65; 457984.94, 3351872.11; 457983.71, 3351879.48; 457979.27, 3351887.83; 457972.81, 3351891.9; 457967.6, 3351888.61; 457970.87, 3351884.46; 457967.88, 3351876.99; 457963.59, 3351879; 457963.36, 3351888.5; 457959.12, 3351888.4; 457957.13, 3351883.07; 457958.4, 3351874.64; 457961.73, 3351868.38; 457959.68, 3351865.16;

457950.13, 3351865.99; 457941.53, 3351871.07; 458438.95, 3351948.3; 458477.07, 3351949.21; 458477.25, 3351941.82; 458466.13, 3351919.35; 458537.67, 3351929.75; 458533.96, 3351819.73; 458490, 3351797.54; 458444.87, 3351779.55; 458442.47, 3351890.25; 458438.95, 3351948.3; 458928.83, 3352050.66; 458933.02, 3352052.88; 458937.36, 3352048.76; 458941.57, 3352049.91; 458947.01, 3352043.7; 458953.37, 3352043.85; 458959.85, 3352038.72; 458965.09, 3352040.96; 458965.04, 3352043.08; 458964.94, 3352047.3; 458969.07, 3352051.63; 458977.59, 3352049.72; 458983.92, 3352050.93; 458988.16, 3352051.03; 458993.45, 3352051.16; 458996.53, 3352055.46; 458999.78, 3352052.37; 459006.13, 3352052.52; 459013.52, 3352053.75; 459020.96, 3352052.87; 459021.06, 3352048.65; 459025.4, 3352044.52; 459031.7, 3352046.79; 459030.43, 3352055.21; 459034.67, 3352055.32; 459040.97, 3352057.58; 459040.82, 3352063.92; 459032.22, 3352069; 459023.65, 3352073.02; 459017.32, 3352071.81; 459010.94, 3352072.72; 459006.6, 3352076.84; 459003.35, 3352079.93; 458996.97, 3352080.84; 458989.54, 3352081.72; 458983.26, 3352078.39; 458975.74, 3352082.44; 458971.56, 3352080.23; 458965.31, 3352075.85; 458968.51, 3352074.87; 458970.73, 3352070.7; 458962.26, 3352070.49; 458959.06, 3352071.47; 458954.8, 3352072.43; 458947.38, 3352072.25; 458944.28, 3352069; 458936.8, 3352072; 458932.53, 3352072.95; 458931.17, 3352085.6; 458938.48, 3352090.01; 458944.88, 3352088.04; 458952.35, 3352086.11; 458959.73, 3352087.34; 458961.73, 3352092.68; 458963.74, 3352096.95; 458966.92, 3352097.03; 458973.4, 3352091.9; 458978.72, 3352090.97; 458983.99, 3352092.15; 458991.5, 3352088.1; 458994.65, 3352089.24; 459000.9, 3352093.62; 459010.46, 3352092.79; 459019.96, 3352094.07; 459021.12, 3352089.87; 459021.2, 3352086.7; 459027.45, 3352091.08; 459034.91, 3352089.15; 459040.31, 3352085.05; 459049.97, 3352079.99; 459056.3, 3352081.2; 459062.52, 3352086.64; 459068.77, 3352091.01; 459075.36, 3352081.66; 459083.83, 3352081.86; 459094.47, 3352080; 459107.12, 3352082.42; 459112.44, 3352081.49; 459126.16, 3352083.93; 459129.28, 3352086.12; 459130.19, 3352092.49; 459137.52, 3352095.83; 459143.77, 3352100.21; 459145.71, 3352107.66; 459157.39, 3352106.88; 459168, 3352106.08; 459173.22, 3352109.37; 459179.65, 3352106.36; 459192.36, 3352106.66; 459208.29, 3352104.93; 459225.15, 3352108.5; 459239.9, 3352112.03; 459241.87, 3352118.42; 459244.97, 3352121.66; 459255.28, 3352133.54; 459250.89, 3352139.77; 459247.53, 3352147.09; 459233.74, 3352147.82; 459210.4, 3352149.37; 459148.88, 3352152.13; 459134.06, 3352151.77; 459123.42, 3352153.63; 459111.74, 3352154.41; 459103.2, 3352157.37; 459095.76, 3352158.25; 459087.26, 3352159.11; 459073.42, 3352161.94; 459063.84, 3352163.83; 459062.6, 3352171.2; 459069.73, 3352183; 459067.49, 3352188.23; 459058.94, 3352191.19; 459057.45, 3352209.13; 459062.52, 3352218.76; 459062.29, 3352228.27; 459055.81, 3352233.4; 459053.13, 3352256.59; 459074.25, 3352259.21; 459084.82, 3352260.52; 459084.03, 3352293.27; 459082.79, 3352300.64; 459089.14, 3352300.79; 459096.58, 3352299.91; 459105.1, 3352298; 459110.42, 3352297.07; 459121.99, 3352300.52; 459129.43, 3352299.64; 459132.74, 3352294.43; 459144.46, 3352291.54; 459155.05, 3352291.8; 459163.49, 3352293.06; 459166.82, 3352199.06; 459167.15, 3352185.33; 459179.91, 3352183.52; 459194.73, 3352183.88; 459209.66, 3352180.01; 459223.42, 3352180.34; 459237.09, 3352184.89; 459255.01, 3352188.49; 459266.74, 3352185.6; 459280.55, 3352183.82; 459291.89, 3352196.78; 459548.55, 3352186.02; 459549.82, 3352220.93; 459630.3, 3352222.86; 459651, 3352185.21; 459649.57, 3352006.1; 459637.64, 3352006.35; 459626.47, 3352019.28; 459619.86, 3352029.7; 459617.49, 3352040.21; 459630.95, 3352053.22; 459630.59, 3352068; 459630.18, 3352084.91; 459621.51, 3352093.15; 459612.84, 3352101.4; 459611.5, 3352113; 459619.71, 3352123.76; 459622.38, 3352144.97; 459613.65, 3352155.33; 459622.8, 3352171.4; 459623.48, 3352187.27; 459625.56, 3352199.49; 459615.83, 3352207.91; 459558.63, 3352207.4; 459557.3, 3352174.6; 459486.3, 3352175.01; 459487.23, 3352180.32; 459374.79, 3352186.08; 459295.35, 3352185.23; 459290.23, 3352177.71; 459287.34, 3352166.02; 459295.83, 3352165.16; 459295.08, 3352152.46; 459279.22, 3352151.02; 459279.5, 3352139.4; 459259.36, 3352139.98; 459259.46, 3352135.75; 459258.13, 3352102.95; 459238.04, 3352101.41; 459224.38, 3352096.86; 459186.21, 3352098.06; 459153.3, 3352100.44; 459150.28, 3352094.03; 459149.65, 3352076.04; 459144.49, 3352070.63; 459133.82, 3352073.55; 459124.27, 3352074.38; 459115.97, 3352066.78; 459105.28, 3352070.75; 459099.03, 3352066.37; 459100.27, 3352059; 459103.47, 3352058.02; 459103.55, 3352054.85; 459107.89, 3352050.73; 459100.5, 3352049.49; 459103.8, 3352044.29; 459091.07, 3352045.04; 459092.77, 3352018.66; 459091.83, 3352013.35; 459071.72, 3352012.87; 459052.66, 3352012.41; 459053.64, 3352015.6; 459036.67, 3352016.25; 459027.12, 3352017.08; 459006.9, 3352020.83; 459003.77, 3352018.64; 458997.37, 3352020.6; 458989.95, 3352020.42; 458985.77, 3352018.21; 458983.73, 3352014.99; 458981.61, 3352014.94; 458979.36, 3352020.17; 458964.54, 3352019.81; 458963.33, 3352026.12; 458960.2, 3352023.93; 458959.25, 3352019.68; 458952.84, 3352021.64; 458945.25, 3352028.86; 458933.32, 3352040.2; 458928.83, 3352050.66; returning to 457418.45, 3351766.05.

(10) PKBM—Unit 5: Gulf Islands National Seashore, Escambia County, Florida.

(i) General Description: Unit 5 consists of 602 ac (244 ha) in southern Escambia County, Florida, on the easternmost region of Perdido Key. This unit encompasses essential features of beach mouse habitat within the boundary of Gulf Islands National Seashore—Perdido Key Area (also referred to as Johnson Beach) from approximately 6 miles east of the Alabama-Florida State line to the eastern tip of Perdido Key at Pensacola Bay and the area from the MHWL north to the seaward extent of the maritime forest.

(ii) Coordinates: From USGS 1:24,000 quadrangle map Perdido Bay, and Fort Barrancas, Florida, land bounded by the following UTM 16 NAD 83 coordinates (E,N): 464806.54, 3353248.09; 460167.32, 3352161.4; 460112.98, 3352141.46; 460076.54, 3352115.69; 460062.15, 3352097.38; 460032.76, 3352041.24; 460015.51, 3352024.29; 459999.54, 3352012.96; 459981.75, 3352007.62; 459961.62, 3352003.59; 459912.92, 3352002.9; 459885.33, 3352003.88; 459852.28, 3352012.6; 459823.72, 3352011.33; 459799.52, 3352004.41; 459708.84, 3352005.84; 459649.57, 3352006.1; 459651, 3352185.21; 459662.18, 3352177.93; 459676.32, 3352192.77; 459689.75, 3352206.83; 459690.56, 3352217.42; 459692.37, 3352230.15; 459701.27, 3352237.54; 459706.13, 3352230.01; 459707.87, 3352201.51; 459715.92, 3352173.67; 459726.9, 3352160.16; 459735.5, 3352155.08; 459753.65, 3352157.93; 459766.21, 3352155.82; 459768.17, 3352162.2; 459764.82, 3352169.52; 459771.02, 3352176.01; 459828.76, 3352173.6; 459847.49, 3352187.53; 459859.01, 3352171.16; 459890.74, 3352190.15; 459920.71, 3352199.2; 459961.02, 3352208.09; 459971.68, 3352244.02; 459986.72, 3352263.01; 459997.45, 3352279.12; 460011.09, 3352290.15; 460029.75, 3352290.6; 460041.81, 3352284.94; 460057.73, 3352267.49; 460066.23, 3352260.95; 460062.89, 3352234.71; 460077.34, 3352228.32; 460081.35, 3352243.48; 460099.25, 3352242.72; 460115.14, 3352209.8; 460127.02, 3352244.18; 460142.28, 3352237.41; 460142.29, 3352204.11; 460168.97, 3352186.72; 460167.32, 3352161.4; 464469.51, 3353268.58; 464465.93, 3353285.4; 464478.53, 3353289.94; 464496.58, 3353288.25; 464510.32, 3353289.64; 464517.47, 3353298.91; 464527.19, 3353293.22; 464538.68, 3353299.84; 464546.16, 3353303.93; 464551.08, 3353312.82; 464565.02, 3353310.56; 464583.88, 3353314.66; 464589.59, 3353306.59; 464608.58, 3353309.82; 464615.42, 3353324.93; 464620.04, 3353309.19; 464628.67, 3353300.39; 464636.93, 3353311.71; 464636.67, 3353322.27; 464655.48, 3353333.29; 464659.38, 3353347.13; 464669.74, 3353356.89; 464682.24, 3353365.65; 464695.6, 3353375.33; 464707.71, 3353364.14; 464724.85, 3353364.93; 464739.01, 3353370.82; 464756.44, 3353364.26; 464776.94, 3353348.89; 464801.65, 3353334.69; 464829.75, 3353355.45; 464822.89, 3353376.42; 464829.74, 3353397.97; 464852.31, 3353417.54; 464891.5, 3353430.92; 464926.62, 3353424.36; 464974.63, 3353410.72; 464999.13, 3353408.38; 465012.11, 3353413.85; 465010.83, 3353420.05; 465000.19, 3353421.91; 464993.74, 3353425.98; 464995.65, 3353434.49; 465008.36, 3353434.79; 465021.06, 3353435.1; 465024.37, 3353429.89; 465041.54, 3353420.79; 465063.75, 3353422.38; 465082.96, 3353416.5; 465106.39, 3353425.23; 465141.26, 3353442.2; 465160.15, 3353448.04; 465168.69, 3353447.09; 465177.29, 3353442.01; 465185.03, 3353428.46; 465205.15, 3353428.94; 465204.97, 3353436.33; 465190.44, 3353465.7; 465196.28, 3353470.59; 465200.62, 3353488.14; 465210.45, 3353476.09; 465228.25, 3353481.29; 465248.17, 3353476.99; 465264.92, 3353474.62; 465275.8, 3353483.04; 465282.37, 3353492.08; 465273.3, 3353505.74; 465268.06, 3353517.13; 465275.24, 3353526.82; 465280.25, 3353538.57; 465288.65, 3353541.94; 465301.66, 3353529.57; 465291.53, 3353510.3; 465320.61, 3353504.5; 465337.73, 3353507.58; 465349.22, 3353520.64; 465369.6, 3353515.98; 465371.35, 3353493.03; 465389.63, 3353492.68; 465403.76, 3353478.5; 465410.11, 3353483.66; 465424.43, 3353499.46; 465432.4,

3353517.01; 465421.97, 3353554.02; 465446.44, 3353560.55; 465460.12, 3353553.75; 465473.41, 3353546.14; 465472.56, 3353531.85; 465491.26, 3353530.71; 465488.14, 3353544.91; 465502.26, 3353552.38; 465526.05, 3353554.54; 465528.75, 3353541.35; 465539.57, 3353532.1; 465549.66, 3353530.93; 465562.07, 3353543.51; 465577.77, 3353553.2; 465591.54, 3353573.52; 465614.86, 3353573.02; 465627.17, 3353545.83; 465643.21, 3353539.88; 465664.99, 3353559.42; 465683.61, 3353577.84; 465708.18, 3353596.97; 465732.1, 3353610.22; 465732.23, 3353626.57; 465741.66, 3353631.03; 465751.75, 3353619.02; 465770.44, 3353618.28; 465776.68, 3353628.7; 465775.84, 3353641.4; 465782.27, 3353654.63; 465791.78, 3353639.4; 465791.73, 3353619.55; 465797.08, 3353617.56; 465812.32, 3353628.01; 465834.71, 3353638.55; 465850.03, 3353645.96; 465870.63, 3353642.58; 465891.18, 3353652.89; 465915.82, 3353652.29; 465926.83, 3353640.76; 465938.27, 3353649.49; 465952.32, 3353638.2; 465959.91, 3353630.99; 465971.4, 3353637.6; 465981.19, 3353627.27; 465991.98, 3353619.07; 466001.48, 3353620.36; 466013.65, 3353632.05; 466014.52, 3353645.55; 466008.11, 3353647.77; 466012.96, 3353660.57; 466023.78, 3353662.12; 466032.18, 3353654.3; 466049.93, 3353659.88; 466081.23, 3353663.75; 466073.3, 3353673.88; 466063.96, 3353670.91; 466058.29, 3353680.91; 466061.86, 3353692.27; 466079.49, 3353702.6; 466101.59, 3353708.68; 466113.75, 3353698.67; 466108.16, 3353677.88; 466115.68, 3353673.84; 466130.29, 3353682.64; 466142.19, 3353672.79; 466154.68, 3353681.81; 466168.5, 3353685.32; 466175.14, 3353690.23; 466187.37, 3353693.7; 466193.66, 3353696.62; 466206.88, 3353694.52; 466214.87, 3353690; 466229.18, 3353706.2; 466236.97, 3353696.47; 466248.32, 3353703.49; 466260.66, 3353685.95; 466272.51, 3353689; 466272.56, 3353703.28; 466262.24, 3353703.03; 466265.84, 3353718.18; 466285.27, 3353703.58; 466310.61, 3353706.96; 466322.11, 3353708.03; 466344.53, 3353717.39; 466365.55, 3353724.23; 466379.16, 3353730.9; 466388.19, 3353735.39; 466401.99, 3353739.68; 466415.82, 3353742.79; 466441.5, 3353748.95; 466459.61, 3353755.73; 466476.89, 3353747.82; 466486.47, 3353762.32; 466506.51, 3353771.52; 466523.62, 3353770.35; 466537.41, 3353775.04; 466553.99, 3353774.21; 466566.44, 3353785.08; 466570.39, 3353796.8; 466573.45, 3353812.77; 466555.69, 3353824.23; 466556.65, 3353833.77; 466584.79, 3353836.82; 466621.82, 3353817.07; 466637.08, 3353799.46; 466652.64, 3353807.54; 466666.74, 3353799.55; 466687.81, 3353798.87; 466702.66, 3353792.88; 466718.72, 3353802.39; 466731.07, 3353800.7; 466746.08, 3353804.63; 466752.4, 3353822.62; 466746.46, 3353832.74; 466752.45, 3353847.69; 466761.52, 3353866.93; 466775.13, 3353873.6; 466794.22, 3353873; 466814.64, 3353860.81; 466830.53, 3353861.19; 466836.34, 3353883.7; 466843.21, 3353878.71; 466860.23, 3353898.14; 466867.04, 3353928.66; 466921.24, 3353921.5; 466966.67, 3353926.82; 467017.94, 3353915.01; 467055.12, 3353905.7; 467090.79, 3353909.23; 467133.09, 3353917.78; 467175.98, 3353918.81; 467205.17, 3353921.99; 467242.29, 3353936.66; 467308.25, 3353952.91; 467315.54, 3353947.14; 467320.22, 3353950.82; 467328.57, 3353950.22; 467341.04, 3353954.85; 467352.74, 3353953.18; 467357.99, 3353955.25; 467369.04, 3353952.78; 467372.51, 3353957.23; 467379.38, 3353957.35; 467380.74, 3353961.78; 467402.21, 3353961.11; 467409.47, 3353956.53; 467419.58, 3353949.34; 467432.16, 3353954.92; 467426.07, 3353960.1; 467428.75, 3353964.13; 467437.54, 3353963.7; 467441.28, 3353972.05; 467448.27, 3353978.47; 467471.81, 3353974.67; 467488.9, 3353974.26; 467497.75, 3353958.61; 467509.87, 3353957.77; 467514.46, 3353968.53; 467515.35, 3353975.95; 467533.32, 3353977.44; 467554.45, 3353980.06; 467575.5, 3353985.85; 467605.55, 3353994.38; 467635.64, 3353998.67; 467647.94, 3353999.37; 467651.35, 3353989.54; 467656.15, 3353980.39; 467666.84, 3353976.42; 467682.94, 3353981.18; 467689.99, 3353985.31; 467694.01, 3353991.87; 467693.88, 3354005.23; 467700.36, 3354016.88; 467710.43, 3354027.43; 467725.79, 3354032.95; 467735.6, 3354037.94; 467744.23, 3354042.51; 467756.8, 3354048.76; 467770.28, 3354049.87; 467787.64, 3354054.65; 467800.89, 3354049.02; 467814.96, 3354058.87; 467830.07, 3354058.05; 467842.99, 3354065.89; 467859.98, 3354050.82; 467875.68, 3354044.87; 467893.2, 3354043.31; 467912.55, 3354048.14; 467927.72, 3354053.51; 467939.14, 3354063.29; 467950.58, 3354072.03; 467965.25, 3354078.72; 467972.74, 3354075.73; 467984.77, 3354068.5; 467990.07, 3354062.69; 467996.75, 3354046.71; 467996.95, 3354038.26; 468004.42, 3354036.32; 468020.25, 3354038.82; 468035, 3354042.34; 468047.73, 3354041.59; 468051.86, 3354045.92; 468049.51, 3354055.38; 468034.46, 3354064.53; 468024.6, 3354078.03; 468037.18, 3354083.62; 468051.98,

3354085.03; 468062.44, 3354090.57; 468078.14, 3354098.35; 468085.58, 3354097.47; 468099.47, 3354092.52; 468094.41, 3354082.88; 468100.91, 3354076.7; 468117.62, 3354086.61; 468118.45, 3354096.14; 468113.73, 3354116.11; 468126.34, 3354120.64; 468131.43, 3354129.22; 468137.55, 3354138.88; 468153.23, 3354147.72; 468159.35, 3354160.3; 468172.08, 3354156.63; 468173.97, 3354166.18; 468168.47, 3354174.51; 468183.85, 3354196.02; 468188.63, 3354217.27; 468194.55, 3354235.38; 468200.62, 3354247.16; 468218.65, 3354246.53; 468226.91, 3354257.85; 468238.85, 3354256.95; 468252.5, 3354248.4; 468274.48, 3354259.5; 468281.66, 3354277.4; 468268.6, 3354283.67; 468277.9, 3354293.41; 468287.3, 3354298.92; 468294.45, 3354266.32; 468288.45, 3354251.38; 468262.21, 3354241.24; 468263.4, 3354227.81; 468263.99, 3354211.69; 468248.19, 3354166.4; 468240.3, 3354163.51; 468244.56, 3354152.44; 468239.2, 3354141.33; 468226.19, 3354153.7; 468213.61, 3354148.11; 468207.46, 3354139.51; 468202.39, 3354129.87; 468198.46, 3354120.02; 468204.61, 3354112.24; 468213.51, 3354105.32; 468222.88, 3354112.28; 468225.47, 3354103.62; 468236.36, 3354097.15; 468239.74, 3354105.15; 468248.38, 3354111.95; 468256.13, 3354117.44; 468259.25, 3354100.59; 468269.02, 3354094.61; 468278.44, 3354095.76; 468301.92, 3354063.84; 468321.7, 3354067.49; 468347.45, 3354070.48; 468361.44, 3354066.86; 468374.81, 3354053.68; 468386.26, 3354059.13; 468404.33, 3354051.24; 468421.34, 3354054.42; 468437.05, 3354045.68; 468449.06, 3354058.26; 468471.13, 3354065.53; 468498.47, 3354068.29; 468495.38, 3354081.57; 468512.31, 3354071.28; 468524.93, 3354058.9; 468537.49, 3354065.14; 468542.53, 3354086.67; 468531.56, 3354099.73; 468524.54, 3354127.05; 468531.54, 3354144.13; 468549.35, 3354149.86; 468572.46, 3354146.84; 468588.95, 3354135.99; 468600.6, 3354136.27; 468613.51, 3354128.13; 468612.91, 3354109.09; 468613.24, 3354095.35; 468630.16, 3354096.82; 468645.89, 3354103.54; 468662.85, 3354102.89; 468674.58, 3354100; 468668.98, 3354112.55; 468664.41, 3354126.18; 468669, 3354147.18; 468677, 3354161.25; 468696.91, 3354143.1; 468724.84, 3354124.46; 468752.54, 3354126.2; 468769.17, 3354128.58; 468760.28, 3354148.57; 468763.49, 3354166.5; 468788.18, 3354177.78; 468806.69, 3354157.08; 468804.05, 3354134.82; 468806.94, 3354120.4; 468858.31, 3354139.05; 468886.53, 3354138.54; 468908.54, 3354151.08; 468950.68, 3354204.94; 469007.06, 3354239.06; 469083.64, 3354270.5; 469094.91, 3354294.57; 469127.14, 3354309.22; 469182.44, 3354339.09; 469230.84, 3354358.09; 469236.13, 3354336.42; 469230.78, 3354319.49; 469221.75, 3354307.13; 469218.74, 3354291.72; 469220.19, 3354273.01; 469263.53, 3354271.28; 469288.14, 3354288.91; 469322.59, 3354294.1; 469323.99, 3354301.27; 469295.51, 3354312.47; 469293.37, 3354335.41; 469274.36, 3354357.53; 469262.31, 3354374.16; 469252.55, 3354383.43; 469267.32, 3354385.9; 469269.61, 3354397.87; 469276.22, 3354420.22; 469277.46, 3354434.92; 469288.73, 3354464.64; 469289.3, 3354484.73; 469300.64, 3354494.93; 469319.24, 3354514.41; 469342.46, 3354507.04; 469367.89, 3354539.29; 469372.4, 3354553.32; 469363.99, 3354569.79; 469379.12, 3354582.02; 469388.8, 3354594.96; 469392.5, 3354606.54; 469404.13, 3354602.06; 469412.16, 3354617.7; 469406.56, 3354630.25; 469408.38, 3354639.82; 469425.75, 3354625.43; 469436.13, 3354634.13; 469449.79, 3354638.69; 469455.79, 3354653.63; 469473.81, 3354653.01; 469475.58, 3354637.47; 469489.98, 3354633.46; 469499.33, 3354608.32; 469518.74, 3354594.12; 469524.1, 3354602.57; 469540.31, 3354638.63; 469552.16, 3354641.3; 469569.41, 3354634.58; 469576.15, 3354651.78; 469574.95, 3354668.4; 469582.96, 3354682.07; 469577.81, 3354698.2; 469574.56, 3354717.55; 469578.4, 3354722.79; 469570.96, 3354731.94; 469576.44, 3354746.38; 469593.23, 3354753.12; 469585.37, 3354727.78; 469586.72, 3354723.78; 469602.61, 3354707.52; 469616.52, 3354707.46; 469631.22, 3354756.56; 469659.32, 3354761.2; 469681.48, 3354748.26; 469727.71, 3354742.24; 469732.26, 3354751.46; 469735.29, 3354757.48; 469738.78, 3354777.38; 469719.71, 3354767.2; 469702.04, 3354766.31; 469694.77, 3354773.55; 469708.24, 3354808.36; 469726.98, 3354821.89; 469734.9, 3354839.52; 469754.09, 3354850.69; 469775.73, 3354876.18; 469799.89, 3354881.76; 469803.86, 3354895.88; 469812.25, 3354926.6; 469803.7, 3354951.77; 469790.5, 3354971.66; 469762.33, 3354970.19; 469741.15, 3354975.23; 469733.88, 3354996.46; 469725.95, 3355012.52; 469710.58, 3355023.65; 469705.12, 3355035.81; 469686.34, 3355040.11; 469669.18, 3355027.01; 469658.96, 3355022.41; 469637.52, 3355024.78; 469638.67, 3355007.25; 469650.65, 3354988.12; 469664.12, 3354990.03; 469691.4, 3354962.54; 469670.8, 3354960.07; 469660.41, 3354945.94; 469656.15, 3354925.23; 469637.58, 3354920.82;

469632.08, 3354901.66; 469639.97, 3354887.58; 469619.02, 3354866.86; 469605.25, 3354877.63; 469586.08, 3354865.28; 469586.47, 3354849.43; 469573.47, 3354844.76; 469562.36, 3354827.84; 469551.8, 3354820.85; 469540.97, 3354808.7; 469529.48, 3354804.44; 469512.83, 3354801.34; 469494.5, 3354807.98; 469475.07, 3354820.04; 469461.16, 3354826.05; 469448.63, 3354818.35; 469450.07, 3354802.53; 469463.13, 3354790.97; 469447.3, 3354785.55; 469424.68, 3354800.86; 469417.03, 3354824.35; 469408.76, 3354843.72; 469396.91, 3354851.21; 469386.06, 3354856.5; 469370.44, 3354845.03; 469359.71, 3354845.17; 469355.5, 3354838.72; 469336.96, 3354833.12; 469311.96, 3354832.13; 469305.78, 3354841.09; 469291.25, 3354834.01; 469274.13, 3354818.93; 469259.29, 3354808.27; 469234.18, 3354811.63; 469211.29, 3354821.78; 469186.5, 3354828.32; 469156.59, 3354833.15; 469138.4, 3354845.79; 469124.34, 3354852.19; 469099.52, 3354843.67; 469085.32, 3354839.36; 469076.92, 3354825.29; 469067.68, 3354799.68; 469056.51, 3354779.33; 469049.56, 3354760.13; 469047.78, 3354746.35; 469046.14, 3354726.23; 469034.13, 3354697.4; 469029.55, 3354667.69; 469018.33, 3354649.45; 469000.84, 3354627.89; 468989.7, 3354620.64; 468971.4, 3354618.73; 468952.71, 3354605.88; 468937.3, 3354602.33; 468922.08, 3354607.12; 468906.29, 3354603.17; 468898.58, 3354609.73; 468891.12, 3354605.98; 468877.19, 3354615.41; 468873.84, 3354622.72; 468863.14, 3354626.7; 468848.35, 3354625.28; 468840.85, 3354631.33; 468836.68, 3354639.55; 468830.3, 3354640.19; 468821.96, 3354640.39; 468812.8, 3354641.36; 468806.96, 3354652.71; 468794.41, 3354662.32; 468793.07, 3354668.63; 468787.37, 3354674.04; 468777.68, 3354680.55; 468765.74, 3354681.45; 468758.67, 3354678.11; 468757.53, 3354676.1; 468749.31, 3354670.75; 468747.53, 3354662.38; 468748.51, 3354654.48; 468751.45, 3354648.21; 468754.04, 3354639.55; 468753.03, 3354631.99; 468750.03, 3354624.79; 468742.07, 3354624.99; 468734.46, 3354627.58; 468731.1, 3354635.43; 468725.86, 3354638.47; 468715.01, 3354643.37; 468707.32, 3354649.13; 468702.77, 3354656.95; 468693.23, 3354657.11; 468687.94, 3354662.14; 468681.46, 3354667.14; 468673.28, 3354676.85; 468668.41, 3354681.09; 468658.77, 3354685.62; 468649.48, 3354691.73; 468642.16, 3354698.69; 468632.26, 3354713.91; 468622.51, 3354722.8; 468617.59, 3354729.02; 468616.66, 3354734.55; 468608.91, 3354743.08; 468602.64, 3354756.01; 468600.49, 3354764.78; 468595.52, 3354770.9; 468585.96, 3354785.98; 468580.33, 3354799.59; 468576.92, 3354809.02; 468588.09, 3354815.51; 468597.69, 3354829.22; 468611, 3354837.47; 468621.1, 3354846.83; 468637.14, 3354860.15; 468649.56, 3354872.07; 468659.67, 3354879.82; 468678.8, 3354889.69; 468701.42, 3354904.61; 468715.25, 3354915.93; 468741.88, 3354929.01; 468758.78, 3354933.89; 468783.27, 3354942.29; 468802.7, 3354945.31; 468828.46, 3354946.55; 468847.12, 3354947.39; 468867.41, 3354945.9; 468886.73, 3354952.31; 468913.66, 3354955.73; 468953.96, 3354965.03; 468994.7, 3354972.35; 469018.38, 3354978.86; 469042.85, 3354985.79; 469073.96, 3354997.24; 469111.42, 3355008.85; 469132.66, 3355017.68; 469143.73, 3355019.93; 469153.98, 3355023.35; 469181.61, 3355014.5; 469210.14, 3355017.56; 469244.21, 3355021.55; 469263.69, 3355020.83; 469280, 3355020.03; 469303.9, 3355017.44; 469322.77, 3355009.17; 469340.76, 3355004.85; 469356.72, 3355002.06; 469399.53, 3354989.61; 469416.96, 3354988.83; 469456.69, 3354975.13; 469477.7, 3354974.43; 469497.54, 3354986.54; 469502.42, 3355003.57; 469497.6, 3355027.76; 469496.96, 3355054.17; 469515.23, 3355087.38; 469575.7, 3355127.94; 469624.95, 3355150.27; 469686.69, 3355190.35; 469709.06, 3355220.99; 469717.07, 3355240.21; 469733.1, 3355275.5; 469745.05, 3355309.59; 469745.37, 3355340.25; 469747.26, 3355349.81; 469758.98, 3355346.92; 469768.9, 3355331.31; 469771.55, 3355309.17; 469777.79, 3355270.21; 469796.74, 3355231.56; 469816.48, 3355203.49; 469825.3, 3355175.84; 469828.22, 3355137.07; 469829.31, 3355108.56; 469835.4, 3355086.51; 469840.15, 3355057.14; 469846.26, 3355023.46; 469862.73, 3354999.55; 469888.76, 3354974.8; 469906.83, 3354972.07; 469937.15, 3354969.64; 469964.79, 3354927.5; 469967.32, 3354904.97; 469963.31, 3354873.55; 469957.47, 3354852.41; 469919.14, 3354712.36; 469904.41, 3354590.43; 469887.91, 3354527.67; 469882.16, 3354458.82; 469879.36, 3354399.56; 469875.67, 3354332.88; 469852.24, 3354294.27; 469829.53, 3354269.41; 469798.15, 3354252.8; 469758.27, 3354237.04; 469620.05, 3354213.64; 469413.3, 3354175.9; 469150.72, 3354125.19; 468897.75, 3354071.54; 468705.93, 3354029.93; 468472.95, 3353982.05; 468354.85, 3353959.13; 468089.73, 3353898.86; 467876.76, 3353855.69; 467795.37, 3353833.66; 467704.1, 3353810.31; 467589, 3353794.86; 467465.82, 3353762.31; 467307.82,

3353723.79; 467132.79, 3353689.83; 466939.05, 3353639.72; 466650.36, 3353573.59; 466448.08, 3353526.45; 466253.99, 3353491.14; 466104.53, 3353450.55; 465894.68, 3353409.2; 465744.99, 3353378.49; 465607.97, 3353348.78; 465461.41, 3353319.89; 465387.62, 3353304.37; 465298.13, 3353281.09; 465146.47, 3353243.62; 464951.75, 3353190.32; 464766.29, 3353148.87; 464622.88, 3353112.37; 464474.67, 3353072.11; 464304.1, 3353027.85; 464172.41, 3352997.2; 463970.02, 3352954.29; 463779.9, 3352910.99; 463553.34, 3352865.91; 463397.79, 3352827.46; 463298.84, 3352800.77; 463136.67, 3352759.88; 462972.38, 3352718.94; 462823.02, 3352674.14; 462717.79, 3352644.13; 462580.14, 3352610.68; 462480.38, 3352579.35; 462257.48, 3352514.15; 462033.58, 3352440.6; 461803.27, 3352369.67; 461642.05, 3352322.13; 461476.44, 3352278.22; 461256.3, 3352224.32; 460978.37, 3352151.06; 460797.21, 3352106.55; 460554.3, 3352055.44; 460349.93, 3352012.49; 460270.17, 3351994.55; 460194.24, 3351980.05; 460146.84, 3351968.34; 460060.54, 3351952.83; 459965.56, 3351929.11; 459844.14, 3351898.1; 459658.58, 3351848.02; 459657.25, 3351880.07; 459656.77, 3351891.62; 459649.88, 3351907.84; 459646.27, 3351928.46; 459645.76, 3351992.61; 459728.73, 3351993.57; 459793, 3351992.4; 459817.11, 3351985.34; 459838.96, 3351982.76; 459858.63, 3351984.26; 459885.56, 3351992.63; 459928.03, 3351991.63; 459975.63, 3351993.75; 459990.4, 3351997.36; 460025.26, 3352015.41; 460048.2, 3352036.57; 460059.52, 3352061.02; 460075.51, 3352089.94; 460099.95, 3352114.71; 460122.78, 3352131.6; 460144.84, 3352139.53; 460162.73, 3352144.18; 460170.3, 3352138.02; 460169.55, 3352125.32; 460148.36, 3352124.34; 460145.56, 3352108.42; 460131.9, 3352103.86; 460136.52, 3352088.12; 460151.32, 3352089.53; 460155.56, 3352082.35; 460079.8, 3352067.73; 460091.79, 3352009.89; 460131.28, 3352017.95; 460155.04, 3352023.03; 460158.61, 3352007.73; 460163.1, 3351997.27; 460181.15, 3351995.59; 460197.14, 3352005.26; 460198.41, 3352026.66; 460251.63, 3352035.9; 460296.49, 3352044.39; 460288.14, 3352083.3; 460305.65, 3352085.95; 460311.02, 3352094; 460297.05, 3352153.28; 460182.1, 3352131.96; 460182.8, 3352146.78; 460221.78, 3352156.17; 460298.91, 3352167.83; 460344.83, 3352174.88; 460383.64, 3352179.78; 460428.92, 3352180.46; 460479.1, 3352175.33; 460548.64, 3352158.36; 460630.44, 3352144.07; 460697.24, 3352141.71; 460781.6, 3352152.85; 460965.17, 3352201.65; 461189.4, 3352261.33; 461407.76, 3352317.3; 461553.98, 3352356.77; 461664.4, 3352391.13; 461861, 3352453.98; 462029.11, 3352510.65; 462254.21, 3352583.83; 462475.35, 3352656.12; 462677.24, 3352719.63; 462783.53, 3352756.69; 462837.25, 3352773.02; 462926.04, 3352798.14; 463123.85, 3352849.66; 463248.68, 3352883.47; 463325.01, 3352901.81; 463336.94, 3352890.47; 463354.48, 3352893; 463364.47, 3352904.98; 463363.75, 3352920.71; 463356.68, 3352931.35; 463341.11, 3352934.55; 463328.97, 3352927.12; 463321.53, 3352914.41; 463244.68, 3352894.16; 463042.95, 3352843.36; 462928.44, 3352814.05; 462787.39, 3352772.63; 462592.9, 3352707.7; 462371.16, 3352634.75; 462206.12, 3352581.11; 461994.86, 3352510.51; 461849.15, 3352462.15; 461673.57, 3352406.15; 461567.39, 3352371.89; 461476.12, 3352349.07; 461234.72, 3352283.58; 461016.73, 3352228.67; 460873.6, 3352189.3; 460789.34, 3352168.25; 460738.18, 3352157.36; 460687.97, 3352154.19; 460638.87, 3352156.96; 460555.48, 3352171.61; 460497.07, 3352188.04; 460429.47, 3352197.67; 460363.46, 3352193.16; 460287.88, 3352180.25; 460179.52, 3352162.14; 460176.23, 3352185.99; 460256.99, 3352192.59; 460290.69, 3352197.99; 460295.71, 3352209.74; 460302.09, 3352208.83; 460313.58, 3352215.45; 460322.36, 3352202.98; 460343.44, 3352199.42; 460368.3, 3352206.36; 460399.68, 3352223.36; 460420.7, 3352241.31; 460464.71, 3352245.14; 460499.09, 3352252.7; 460530.31, 3352233.92; 460568.66, 3352225.32; 460599.66, 3352234.11; 460631.81, 3352235.27; 460698.45, 3352223.4; 460832.72, 3352240.49; 460886.11, 3352267.14; 460935.43, 3352298.05; 460953.45, 3352292.14; 460971.62, 3352296.54; 460991.32, 3352303.35; 460998.97, 3352315.82; 461013.75, 3352352.27; 461027.32, 3352361.05; 461059.45, 3352390.36; 461104.38, 3352425.77; 461124.79, 3352419.92; 461160.99, 3352385.11; 461228.42, 3352356.6; 461266.85, 3352344.45; 461344.18, 3352350.66; 461395.97, 3352377.67; 461429.4, 3352408.2; 461463.94, 3352442.32; 461495.04, 3352487.07; 461538.56, 3352560.65; 461564.62, 3352567.61; 461587.53, 3352556.67; 461598.67, 3352522.85; 461602.69, 3352488.06; 461618.62, 3352488.8; 461666.99, 3352501.39; 461677.48, 3352507.71; 461693.44, 3352504.92; 461700.76, 3352509.8; 461698.46, 3352517.14; 461681.16, 3352529.19; 461659.67, 3352543.22; 461646.82, 3352549.73; 461639.28, 3352554.83; 461628.23,

3352556.97; 461607.31, 3352562.52; 461601.84, 3352569.79; 461593.14, 3352579.09; 461577.18, 3352581.88; 461567.75, 3352577.43; 461566.49, 3352585.85; 461567.34, 3352594.33; 461573.42, 3352606.1; 461583.9, 3352610.58; 461594.64, 3352604.5; 461610.81, 3352593.26; 461632.44, 3352574.75; 461647.5, 3352565.6; 461665.74, 3352555; 461750, 3352531.65; 461815.91, 3352522.66; 461852.67, 3352519.78; 461875.97, 3352520.34; 461903.37, 3352526.28; 461933.92, 3352533.35; 461950.64, 3352543.27; 461969.21, 3352563.8; 461990.63, 3352574.34; 462032.13, 3352616.16; 462038.52, 3352633.11; 462051.05, 3352640.81; 462080.11, 3352652.98; 462130.66, 3352665.69; 462173.37, 3352673.85; 462253.74, 3352671.04; 462268.49, 3352674.56; 462304.81, 3352676.61; 462331.23, 3352687.89; 462351.4, 3352707.21; 462371.66, 3352705.16; 462429.54, 3352743.42; 462496.7, 3352759.3; 462548.97, 3352782.75; 462583.14, 3352799.42; 462614.41, 3352804.14; 462649.32, 3352822.81; 462684.81, 3352852.62; 462694.32, 3352862.31; 462705.52, 3352872.14; 462748.01, 3352867.87; 462794.95, 3352854.2; 462845.98, 3352846.97; 462869.17, 3352851.76; 462890.2, 3352858.6; 462901.72, 3352864.16; 462925.87, 3352869.45; 462947.98, 3352879.02; 462973.42, 3352878.57; 463031.07, 3352891.03; 463095.07, 3352922.69; 463217.57, 3352966.46; 463242.04, 3352986.49; 463261.52, 3353013.38; 463286.7, 3353023.5; 463311.13, 3353020.91; 463330.19, 3353021.37; 463358.81, 3353021; 463386.51, 3353014.27; 463404.46, 3353016.81; 463430.71, 3353026.95; 463457.66, 3353027.32; 463483.85, 3353019.77; 463510.32, 3353018.67; 463547.36, 3353022.36; 463594.78, 3353033.01; 463638.89, 3353048.86; 463673.3, 3353064.21; 463710.7, 3353078.58; 463743.11, 3353085.7; 463792.29, 3353102.23; 463820.79, 3353109.76; 463853.28, 3353113.71; 463911.48, 3353124.11; 463951.5, 3353126.38; 463988.78, 3353144.01; 464040.73, 3353168.44; 464097.09, 3353203.62; 464114.81, 3353215.67; 464144.6, 3353241.21; 464170.01, 3353241.82; 464189.81, 3353224.87; 464210.38, 3353215.44; 464222.11, 3353190.35; 464232.25, 3353178.32; 464239.58, 3353190.77; 464248.1, 3353184.96; 464247.8, 3353192.44; 464260.56, 3353190.63; 464272.28, 3353193.83; 464278.18, 3353206.91; 464289.53, 3353211.79; 464299.84, 3353212.83; 464308.88, 3353207.64; 464333.68, 3353226.32; 464347.53, 3353230.77; 464339.66, 3353249.61; 464323.77, 3353249.22; 464324.6, 3353258.76; 464334.08, 3353261.1; 464348.96, 3353259.34; 464353.52, 3353242.87; 464357.06, 3353231; 464366.51, 3353234.4; 464370.36, 3353250.34; 464375.68, 3353249.41; 464377.07, 3353235.71; 464390.68, 3353234.83; 464401.2, 3353245.8; 464418.06, 3353249.37; 464418.37, 3353236.7; 464427.8, 3353241.15; 464433.62, 3353250.13; 464449.5, 3353250.51; 464463.82, 3353240.96; 464476, 3353239.25; 464484.85, 3353247.81; 464473.12, 3353250.7; 464462.46, 3353253.61; 464469.51, 3353268.58; 469439.91, 3354872.05; 469431.24, 3354880.3; 469419.59, 3354880.02; 469413.17, 3354869.04; 469407.35, 3354860.7; 469412.9, 3354850.26; 469425.73, 3354845.28; 469436.72, 3354850.83; 469445.09, 3354863.47; 469439.91, 3354872.05; 469523.43, 3354844.93; 469510.7, 3354845.68; 469498.89, 3354842.81; 469495.01, 3354827.92; 469508.89, 3354810.76; 469526.05, 3354814.93; 469534.24, 3354826.75; 469531.87, 3354837.27; 469523.43, 3354844.93; returning to 464806.54, 3353248.09.

(iii) Note: Map 3 of Units 4 and 5 follows:

BILLING CODE 4310-55-P

BILLING CODE 4310-55-C

* * * * *

ST. ANDREW BEACH MOUSE (Peromyscus polionotus peninsularis)

(1) Critical habitat units are depicted for Bay and Gulf Counties, Florida, on the maps below.

(2) The primary constituent elements of critical habitat for the St. Andrew beach mouse (SABM) are the habitat components that provide:

(i) A contiguous mosaic of primary, secondary, and scrub vegetation and dune structure, with a balanced level of competition and predation and few or no competitive or predaceous nonnative species present, that collectively provide foraging opportunities, cover, and burrow sites;

(ii) Primary and secondary dunes, generally dominated by sea oats (Uniola paniculata), that, despite occasional temporary impacts and reconfiguration from tropical storms and hurricanes, provide abundant food resources, burrow sites, and protection from predators;

(iii) Scrub dunes, generally dominated by scrub oaks (Quercus spp.), that provide food resources and burrow sites, and provide elevated refugia during and after intense flooding due to rainfall and/or hurricane-induced storm surge;

(iv) Functional, unobstructed habitat connections that facilitate genetic exchange, dispersal, natural exploratory movements, and re-colonization of locally extirpated areas; and

(v) A natural light regime within the coastal dune ecosystem, compatible with the nocturnal activity of beach mice, necessary for normal behavior, growth, and viability of all life stages.

(3) Critical habitat does not include man-made structures existing on the effective date of this rule and not containing one or more of the primary constituent elements, such as buildings, aqueducts, airports, driveways, and roads, and the land on which such structures are located.

(4) Critical Habitat Map Units. Data layers defining map units were created by delineating habitats that contained one or more of the primary constituent elements defined in paragraph (2), over 1999 and 2004 digital ortho photography at a scale of at least 1:4000.

(5) Note: Map 1—Index Map of Critical Habitat Units for the St. Andrew beach mouse follows:

BILLING CODE 4310-55-P

BILLING CODE 4310-55-C

(6) SABM—Unit 1: East Crooked Island, Bay County, Florida.

(i) General Description: Unit 1 consists of 970 ac (393 ha) in Bay County, Florida. This unit encompasses essential features of beach mouse habitat on East Crooked Island from the entrance of St. Andrew Sound to 1 mile west of Mexico Beach, including Raffield Peninsula, and the area from the mean high water level (MHWL) to the seaward extent of the maritime forest.

(ii) Coordinates: From USGS 1:24,000 quadrangle maps Crooked Island, and Beacon Hill, Florida, land bounded by the following UTM 16 NAD 83 coordinates (E,N): 646283.88, 3315352.1; 649787.27, 3315506.32; 649787.92, 3315522.72; 649789.58, 3315557.88; 649799.35, 3315579.31; 649802.4, 3315493.45; 649787.27, 3315506.32; 642739.29, 3317721.73; 642749.68, 3317735.07; 642762.17, 3317744.5; 642776.8, 3317747.25; 642788.7, 3317748.34; 642809.86, 3317744.91; 642842.38, 3317747.71; 642861.45, 3317748.19; 642883.01, 3317744.38; 642926.47, 3317737.58; 642960.47, 3317734.21; 643028.95, 3317726.25; 643072.92, 3317732.51; 643102.42, 3317737.79; 643129.81, 3317744.82; 643162.4, 3317755.16; 643229.93, 3317767.43; 643268.78, 3317782.15; 643325.83, 3317789.93; 643348.81, 3317794.17; 643361.18, 3317792.5; 643377.79, 3317780.24; 643407.93, 3317782.98; 643530.15, 3317807.07; 643585.4, 3317816.03; 643613.02, 3317815.1; 643648.58, 3317823.53; 643684.79, 3317825.93; 643706.83, 3317834.42; 643711.85, 3317821.16; 643710.9, 3317811.23; 643725.27, 3317796.83; 643723.83, 3317787.37; 643750.52, 3317753.56; 643759.85, 3317746.27; 643776.56, 3317738.93; 643788.36, 3317733.41; 643797.66, 3317742.63; 643809.64, 3317742.37; 643819.24, 3317723.98; 643817.96, 3317711.66; 643831.56, 3317692.58; 643858.13, 3317695.23; 643878.9, 3317691.39; 643889.16, 3317678.57; 643900.72, 3317661.42; 643897.06, 3317649.04; 643898.82, 3317642.35; 643907.46, 3317646.53; 643911.62, 3317654.96; 643914.91, 3317634.83; 643920.94, 3317616.35; 643923.2, 3317605.7; 643940.28, 3317590.28; 643944.09, 3317597.11; 643940.12, 3317612.47; 643947.29, 3317611.86; 643952.57, 3317607.63; 643956.34, 3317583.94; 643969.99, 3317578.74; 643973.48, 3317566.54; 643969.59, 3317563.27; 643969.94, 3317553.01; 643985.48, 3317546; 643987.3, 3317537.06; 643981.61, 3317527.9; 643981.03, 3317519.56; 643997.34, 3317487.47; 644008.98, 3317483; 644012.45, 3317518.77; 644004.66, 3317559.4; 644009.32, 3317563.88; 644005.87, 3317590.35; 643997.86, 3317608.38; 643999.09, 3317622.68; 643997.22, 3317633.73; 643996.51, 3317646; 644012.55, 3317640.46; 644014.94, 3317624.66; 644013.06, 3317604.8; 644024.07, 3317593.58; 644033.07, 3317583.5; 644024.75, 3317582.5; 644018.59, 3317574.81; 644023.49, 3317569.39; 644018.34, 3317521.69; 644027.23, 3317467.25; 644027.91, 3317457.72; 644017.26, 3317454.28; 644021.52, 3317442.89; 644028.44, 3317436.72; 644037.47, 3317425.45; 644042.82, 3317416.38; 644045.86, 3317401.13; 644052.27, 3317399.17; 644054.72, 3317407.16; 644061.71, 3317403.11; 644060.35, 3317385.2; 644067.82, 3317372.71; 644057.99, 3317352.64; 644041.1, 3317344.68; 644018.55, 3317340.55; 644011.45, 3317353.84; 644009.16, 3317365.68; 644021.66, 3317374.71; 644027.68, 3317387.95; 644023.81, 3317399.74; 644029.49, 3317419.6; 644015.17, 3317442.73; 644008.14, 3317437.79; 644007.3, 3317455.21; 643998.04, 3317459.74; 643992.1, 3317443.34; 643986.05, 3317462.21; 643987.31, 3317475.32; 643994.22, 3317485.01; 643977.51, 3317517.09; 643966.98, 3317524.75; 643966.25, 3317538.21; 643959.27, 3317546.76; 643964.82, 3317550.4; 643966.4, 3317563.59; 643961.58, 3317565.45; 643959.31, 3317576.88; 643942.55, 3317579.24; 643916.95, 3317601.19; 643907.08, 3317614.41; 643900.13, 3317637.62; 643892.97, 3317637.84; 643877.36, 3317642.2; 643886.15, 3317655.9; 643873.7, 3317661.14; 643870.07, 3317678.88; 643845.52, 3317690.95; 643824.65, 3317682.89; 643803.1, 3317702.17; 643795.19, 3317716.24; 643773.62, 3317721.84; 643782.32, 3317706.4; 643795.54, 3317702.37; 643798.54, 3317693.73; 643808.93, 3317691.61; 643820.32, 3317665.74; 643808.55, 3317659.5; 643806.36, 3317667.37; 643769.38, 3317636.71; 643763.01, 3317621.09; 643753.1, 3317620.04; 643754.27, 3317614.17; 643764.43, 3317610.72; 643770.22, 3317603.43; 643776.04, 3317609.13; 643783.43, 3317615.26; 643799.35, 3317614.47; 643806.15, 3317628.52; 643817.01, 3317627.38; 643821.02, 3317615.32; 643826.8, 3317613.58; 643837.16, 3317612.65; 643848.39, 3317608.97; 643847.95, 3317594.69; 643854.41, 3317590.89; 643862.27, 3317578.8; 643868.43, 3317555.17; 643877.84, 3317548.05; 643896.69, 3317553.5; 643895.76, 3317543.17; 643903.58, 3317532.67; 643913.8, 3317521.43; 643924.15,

3317519.09; 643926.01, 3317510.24; 643933.44, 3317499.33; 643933.37, 3317486.25; 643940.27, 3317480.87; 643939.76, 3317469.37; 643925.3, 3317459.89; 643927.15, 3317480.94; 643919.64, 3317479.17; 643918.98, 3317489.46; 643906.21, 3317491.51; 643901.36, 3317510.42; 643896.25, 3317523.76; 643884.34, 3317538.92; 643871.54, 3317542.17; 643863.46, 3317550.85; 643848.77, 3317562.21; 643853.74, 3317570.26; 643846.82, 3317576.43; 643836.37, 3317580.92; 643831.19, 3317597.44; 643832.24, 3317603.01; 643826.96, 3317607.24; 643817.41, 3317607.79; 643812.78, 3317602.13; 643798.66, 3317610.49; 643782.76, 3317610.49; 643780.16, 3317603.29; 643775.32, 3317590.48; 643750.14, 3317609.83; 643724.96, 3317620.3; 643723.22, 3317626.6; 643743.89, 3317626.59; 643760.1, 3317626.17; 643762.25, 3317635.73; 643750.77, 3317649.32; 643739.26, 3317633.17; 643731.1, 3317641.29; 643732.8, 3317652.83; 643735.77, 3317660.83; 643728.2, 3317677.29; 643718.53, 3317682.59; 643715.41, 3317695.99; 643725.13, 3317697.47; 643734.45, 3317685.54; 643801.89, 3317671.22; 643802.79, 3317683.13; 643781.77, 3317696.87; 643772.31, 3317709.32; 643762.34, 3317710.65; 643754.04, 3317724.32; 643738.19, 3317738.19; 643734.45, 3317744.83; 643724.05, 3317747.34; 643717.15, 3317768.58; 643703.56, 3317771.4; 643699.83, 3317761.8; 643682.15, 3317769.28; 643681.67, 3317788.29; 643674.06, 3317790.48; 643649.1, 3317802.93; 643649.88, 3317787.89; 643642.49, 3317781.36; 643621.94, 3317792.34; 643603.11, 3317798.2; 643590.76, 3317799.48; 643580.82, 3317799.62; 643572.22, 3317793.86; 643550.42, 3317791.33; 643517.14, 3317786.92; 643499.27, 3317786.07; 643487.48, 3317781.02; 643419.83, 3317768.21; 643401.85, 3317771.73; 643386.5, 3317765.79; 643360.17, 3317769.49; 643331.25, 3317765.59; 643313.02, 3317763.54; 643281.18, 3317765.12; 643214.08, 3317746.38; 643189.45, 3317745.76; 643178.07, 3317739.92; 643147.53, 3317737.17; 643145.52, 3317722.45; 643154.73, 3317719.51; 643154.24, 3317707.61; 643139.9, 3317708.83; 643130.9, 3317703.06; 643120.45, 3317707.55; 643111.63, 3317695.04; 643097.11, 3317687.54; 643082.18, 3317696.28; 643067.8, 3317699.09; 643060.92, 3317688.21; 643046, 3317696.56; 643028.31, 3317704.44; 643016.29, 3317692.64; 643007.82, 3317681.72; 643005.39, 3317667.79; 642989.64, 3317677.7; 643002.26, 3317681.58; 642999.18, 3317693.4; 643003.77, 3317700.25; 643000.58, 3317716.42; 642995.14, 3317711.53; 642991.21, 3317693.99; 642983.26, 3317709.64; 642971.37, 3317708.55; 642964.79, 3317717.1; 642957.79, 3317710.98; 642954.93, 3317698.23; 642964.56, 3317679.05; 642980.11, 3317661.2; 642987.92, 3317651.09; 642992.42, 3317646.06; 643010.03, 3317641.35; 643022.51, 3317635.32; 643041.33, 3317629.85; 643051.38, 3317641.2; 643065.21, 3317644.32; 643074.72, 3317661.21; 643079.74, 3317635.57; 643076.31, 3317614.08; 643066.36, 3317630.08; 643059.12, 3317618.01; 643055.57, 3317600.87; 643041.55, 3317605.28; 643031.95, 3317623.27; 643022.75, 3317609.96; 643016.42, 3317608.61; 643005.82, 3317587.73; 643000.63, 3317604.25; 642989.52, 3317603.57; 642989.74, 3317610.71; 642992, 3317615.52; 643007.89, 3317615.92; 643014.24, 3317616.48; 643013.27, 3317623.19; 643007.34, 3317637.71; 642991.72, 3317642.47; 642991.89, 3317635.74; 642980.21, 3317641.78; 642963.13, 3317672.67; 642943.98, 3317691.21; 642936.58, 3317716.39; 642922.4, 3317695.82; 642918.58, 3317714.13; 642909.92, 3317721.31; 642895.39, 3317710.6; 642880.02, 3317705.45; 642877.23, 3317689.93; 642868.76, 3317679.01; 642861.75, 3317673.28; 642858.76, 3317665.68; 642861.01, 3317655.43; 642865.1, 3317650.77; 642873.08, 3317649.79; 642873.68, 3317641.87; 642880.57, 3317636.5; 642878.48, 3317624.95; 642884.78, 3317627.09; 642893.55, 3317626.12; 642888.46, 3317591.51; 642911.7, 3317600.02; 642920.62, 3317591.56; 642914.58, 3317578.73; 642916.84, 3317569.63; 642931.51, 3317571.19; 642945.05, 3317570.34; 642955.49, 3317550.39; 642957.76, 3317538.95; 642964.36, 3317529.6; 642959.07, 3317518.77; 642962.93, 3317511.24; 642972.91, 3317506.04; 642984.65, 3317497.61; 642987.48, 3317479.85; 643016.64, 3317483; 643050.08, 3317472.31; 643079.54, 3317468.73; 643097.62, 3317466.54; 643101.58, 3317456.6; 643086.38, 3317449.87; 643065.25, 3317447.23; 643049.01, 3317451.67; 643047.68, 3317441.33; 643067.98, 3317431.71; 643080.58, 3317427.53; 643092.18, 3317429.94; 643107.2, 3317422.91; 643114.06, 3317403; 643128.08, 3317393.84; 643137.42, 3317401.48; 643141.39, 3317412.15; 643153.34, 3317397.22; 643171.11, 3317410.78; 643175.59, 3317401.38; 643176.21, 3317388.68; 643192.78, 3317392.3; 643206.68, 3317387.37; 643210.07, 3317379; 643222.73, 3317381.43; 643238.25, 3317364.88; 643252.74, 3317368.45; 643286.69, 3317358.56; 643299.11, 3317354.52; 643306.85, 3317343.98; 643307.1,

3317334.29; 643310.42, 3317331.14; 643339.74, 3317325.41; 643356.19, 3317316.13; 643369.39, 3317306.76; 643385.75, 3317300.71; 643408.51, 3317298.05; 643424.79, 3317295.23; 643441.32, 3317282.71; 643457.76, 3317273.43; 643470.72, 3317273.76; 643480.36, 3317277.23; 643496.23, 3317290.56; 643499.06, 3317306.8; 643503.4, 3317308.53; 643511.94, 3317310.36; 643534.46, 3317317.39; 643550.66, 3317317.8; 643560.46, 3317314.81; 643576.57, 3317318.45; 643576.41, 3317324.91; 643576, 3317341.07; 643559.56, 3317350.35; 643546.27, 3317362.95; 643526.59, 3317372.15; 643511.35, 3317369.68; 643495.17, 3317380.9; 643476.36, 3317391; 643460.73, 3317412.51; 643447.53, 3317421.88; 643434.16, 3317437.71; 643433.67, 3317457.09; 643446.09, 3317468.42; 643450.66, 3317476.46; 643433.18, 3317476.02; 643427.38, 3317500.84; 643444.57, 3317496.92; 643450.89, 3317498.66; 643461.41, 3317491.4; 643475.54, 3317482.64; 643491.56, 3317477.89; 643505.95, 3317474.68; 643526.5, 3317463.7; 643536.21, 3317457.21; 643545.95, 3317449.13; 643558.85, 3317441.93; 643580.03, 3317438.15; 643596.14, 3317429.39; 643607.05, 3317422.53; 643609.93, 3317409.81; 643642.18, 3317400.82; 643657.45, 3317394.07; 643663.63, 3317385.51; 643666.95, 3317380.04; 643672.54, 3317369.36; 643672.79, 3317359.67; 643676.6, 3317337.14; 643688.92, 3317327.1; 643703.01, 3317318.4; 643728.93, 3317319.06; 643755.17, 3317306.79; 643791.06, 3317298; 643807.66, 3317282.25; 643806.12, 3317268.2; 643819.51, 3317257.44; 643840.96, 3317247.53; 643869.25, 3317239.67; 643881.44, 3317229.27; 643890.21, 3317222.91; 643897.1, 3317206.92; 643916.7, 3317200.95; 643933.06, 3317194.89; 643946.35, 3317182.3; 643956.31, 3317172.85; 643969.35, 3317169.95; 643967.56, 3317156.13; 643970.01, 3317137.56; 643988.87, 3317130.51; 643983.44, 3317109.76; 644002.73, 3317116.98; 644022.69, 3317129.38; 644037.84, 3317127.78; 644027.17, 3317140.98; 644031.69, 3317150.61; 644044.85, 3317133.5; 644059.09, 3317151.7; 644066.17, 3317139.19; 644067.77, 3317123.94; 644087.54, 3317111.5; 644104.15, 3317095.76; 644114.11, 3317086.31; 644121.08, 3317067.09; 644140.85, 3317054.66; 644146.16, 3317056.78; 644140.79, 3317064.97; 644158.18, 3317068.97; 644160.24, 3317081.71; 644167.58, 3317074.36; 644172.98, 3317065.38; 644171.94, 3317059.02; 644158.67, 3317033.71; 644149.27, 3317012.46; 644138.91, 3317002.88; 644124.55, 3316999.55; 644110.7, 3317013.08; 644102.7, 3317024.6; 644089.91, 3317017.81; 644077.87, 3317022.16; 644069.44, 3317009.66; 644057.67, 3317019.27; 644051.44, 3317000.68; 644044.96, 3317000.52; 644036.45, 3317009.62; 644025.95, 3317000.63; 644023.41, 3316991.06; 644013.89, 3317005.88; 643986.4, 3317008.74; 643986.07, 3317021.66; 643966.39, 3317030.86; 643937.06, 3317036.59; 643915.67, 3317038.68; 643888.32, 3317051.47; 643855.42, 3317060.39; 643838.81, 3317076.14; 643828.93, 3317082.35; 643808.1, 3317079.97; 643797.42, 3317093.57; 643787.34, 3317099.26; 643772.13, 3317103.24; 643756.67, 3317119.33; 643736.99, 3317128.53; 643714.06, 3317137.65; 643694.43, 3317142.11; 643690.89, 3317156.46; 643671.37, 3317159.2; 643658.12, 3317163.39; 643641.97, 3317168.16; 643633.83, 3317178.8; 643627.64, 3317172.31; 643602.68, 3317183.33; 643586.11, 3317200.86; 643576.88, 3317188.47; 643548.02, 3317197.78; 643523.44, 3317207.56; 643514.06, 3317200.98; 643504.84, 3317206.73; 643501.58, 3317223.26; 643487.98, 3317232.16; 643468.3, 3317241.37; 643455.42, 3317237.81; 643432.66, 3317240.47; 643423.74, 3317235.97; 643420.78, 3317227.17; 643413.85, 3317234.13; 643412.68, 3317249.16; 643406.25, 3317259.2; 643379.2, 3317252.68; 643367.7, 3317245.3; 643344.7, 3317257.65; 643322.94, 3317260.78; 643319.01, 3317274.95; 643301.68, 3317292.12; 643287.19, 3317307.04; 643276.06, 3317307.16; 643272.52, 3317291.39; 643265.42, 3317256.16; 643287.37, 3317252.74; 643297.08, 3317261.71; 643299.05, 3317246.7; 643312.62, 3317243.91; 643326.98, 3317226.79; 643342.5, 3317226.39; 643347.8, 3317205.12; 643368.76, 3317203.3; 643373.61, 3317197.05; 643388.3, 3317181.96; 643411.86, 3317165.59; 643433.04, 3317154.72; 643447.21, 3317139.22; 643464.3, 3317131.95; 643484.88, 3317119.78; 643508.58, 3317110.08; 643540.01, 3317097.7; 643559.61, 3317091.73; 643575.97, 3317085.68; 643599.68, 3317075.51; 643582.32, 3317054.85; 643597.73, 3317042.56; 643611.98, 3317029.44; 643637.09, 3317026.51; 643645.61, 3317019.98; 643653.28, 3317030.88; 643643.5, 3317040.54; 643648.15, 3317051.93; 643660.74, 3317050.09; 643673.2, 3317044.86; 643672.34, 3317031.76; 643661.73, 3317026.73; 643661.93, 3317018.81; 643670.64, 3317004.76; 643685.39, 3317002.75; 643702.02, 3317021.4; 643725.67, 3317013.28; 643746.67, 3317016.19; 643755.35, 3317002.93; 643777.05, 3317009.42; 643794.75, 3317001.15; 643803.47,

3316986.31; 643818.01, 3317001.26; 643816.68, 3316982.68; 643835.4, 3316981.17; 643851.3, 3316966.54; 643896.83, 3316961.22; 643923.15, 3316945.72; 643944.57, 3316939.52; 643965.84, 3316924.17; 644006.07, 3316912.93; 644031.21, 3316903.19; 644067.26, 3316887.93; 644080.54, 3316875.34; 644119.75, 3316863.39; 644119.91, 3316856.93; 644121.98, 3316840.54; 644139.14, 3316837.8; 644152.47, 3316851.29; 644158.71, 3316861.14; 644167.46, 3316865.47; 644171.91, 3316851.78; 644168.9, 3316839.74; 644150.86, 3316830.17; 644158.27, 3316820.05; 644178.55, 3316819.77; 644197.1, 3316824.99; 644209.73, 3316828.48; 644222.83, 3316829.21; 644237.44, 3316824.33; 644250.65, 3316814.97; 644270.09, 3316815.46; 644279.72, 3316818.93; 644279.64, 3316822.16; 644276.16, 3316831.78; 644269.35, 3316844.53; 644264.74, 3316854.05; 644268.84, 3316864.85; 644265.22, 3316882.2; 644271.76, 3316890.69; 644282.15, 3316904.43; 644279.44, 3316917.05; 644260.4, 3316915.77; 644249.98, 3316903.22; 644242.22, 3316895.89; 644229.24, 3316905.87; 644215.88, 3316907.84; 644210.35, 3316898.66; 644200.98, 3316907.54; 644197.41, 3316922.91; 644199.74, 3316940.8; 644192.14, 3316949.27; 644185.7, 3316946; 644170.32, 3316956.71; 644161.62, 3316970.76; 644178.04, 3316994.17; 644184.11, 3317010.49; 644204.88, 3317020.61; 644199.34, 3317035.13; 644200.19, 3317048.63; 644220.55, 3317061.04; 644227.38, 3317058.04; 644226.76, 3317051.28; 644232.59, 3317040.73; 644216.68, 3317041.12; 644225.4, 3317026.28; 644232.95, 3317002.02; 644256.04, 3316986.44; 644275.48, 3316986.93; 644275.86, 3317011.69; 644291.52, 3317005.35; 644306.33, 3317001.36; 644306.68, 3316987.5; 644308.6, 3316974.47; 644313.41, 3316957.15; 644334.59, 3316921.21; 644359.51, 3316894.89; 644374.57, 3316880.6; 644391.81, 3316873.48; 644415.93, 3316864.2; 644440.79, 3316852.97; 644456.32, 3316846.49; 644474.31, 3316834.76; 644488.95, 3316822.04; 644516.58, 3316814.02; 644535.17, 3316809.37; 644561.5, 3316798.11; 644597.34, 3316782.4; 644609.81, 3316771.09; 644626.84, 3316768.34; 644642.19, 3316766.85; 644659.38, 3316760.18; 644665.45, 3316750.82; 644673.55, 3316744.68; 644690.02, 3316742.98; 644703.55, 3316732.23; 644748.87, 3316727.31; 644748.8, 3316700.96; 644730.94, 3316715.57; 644724.66, 3316696.39; 644737.14, 3316678.53; 644725.95, 3316661.14; 644726.01, 3316643.31; 644726.88, 3316624.3; 644713.27, 3316612.46; 644708.7, 3316604.42; 644721.56, 3316599.19; 644731.19, 3316611.33; 644745.51, 3316595.04; 644756.88, 3316585.42; 644774.44, 3316582.69; 644790.43, 3316586.96; 644796.4, 3316581.3; 644790.56, 3316573.98; 644781.56, 3316568.6; 644791.28, 3316561.31; 644797.34, 3316557.5; 644806.68, 3316565.27; 644801.15, 3316548.48; 644791.78, 3316541.51; 644778.02, 3316551.47; 644769.35, 3316548.47; 644761.4, 3316564.13; 644748.16, 3316568.95; 644739.51, 3316584.84; 644731.24, 3316593.49; 644723.15, 3316590.89; 644710.91, 3316579.9; 644707.66, 3316551.28; 644715.06, 3316526.03; 644727.3, 3316513.32; 644748.19, 3316497.77; 644764.29, 3316496.82; 644771.32, 3316470.43; 644787.79, 3316479.17; 644800.45, 3316484.15; 644813.38, 3316476.02; 644812.6, 3316464.9; 644803.18, 3316452.21; 644824.02, 3316447.96; 644829.02, 3316436.61; 644830.93, 3316423.98; 644834.32, 3316399.88; 644845.01, 3316387.06; 644854.22, 3316367.48; 644858.95, 3316348.62; 644885.28, 3316333.12; 644899.12, 3316336.9; 644911.52, 3316320.85; 644908.77, 3316301.39; 644900.47, 3316283.43; 644905.76, 3316262.95; 644922.99, 3316257.44; 644926.52, 3316240.41; 644926.77, 3316230.72; 644923.94, 3316214.49; 644922.74, 3316204.31; 644909.46, 3316210.72; 644908.48, 3316202.37; 644872.95, 3316239.92; 644867.62, 3316230.67; 644856.92, 3316229.21; 644861.89, 3316221.41; 644873.13, 3316223.27; 644885.31, 3316206.94; 644875.84, 3316188.47; 644873.99, 3316182.87; 644859.65, 3316184.09; 644853.31, 3316186.84; 644840.35, 3316186.52; 644827.48, 3316182.96; 644820.75, 3316192.49; 644804.19, 3316208.06; 644785.45, 3316210.37; 644768.81, 3316207.96; 644760.08, 3316191.89; 644762.18, 3316171.73; 644779.61, 3316152.66; 644792.9, 3316140.06; 644812.66, 3316127.63; 644825.87, 3316118.26; 644840.02, 3316110.59; 644841.83, 3316101.66; 644886.36, 3316071; 644894.22, 3316058.91; 644909.12, 3316066.82; 644919.98, 3316061.94; 644926.7, 3316047.84; 644954.05, 3316047.65; 644973.03, 3316036.24; 644985.71, 3316020.97; 644993.32, 3316021.44; 644998.77, 3316015.76; 644997.35, 3316008.86; 645001.73, 3316001.69; 645017.57, 3315988.21; 645040.38, 3315968.5; 645066.55, 3315959.46; 645079.75, 3315950.09; 645084.4, 3315939.16; 645100.12, 3315930.44; 645122.68, 3315918.85; 645136.65, 3315907.73; 645154.45, 3315888.6; 645173.07, 3315875.2; 645198.23, 3315870.68; 645213.49, 3315864.33; 645244.87, 3315841.22; 645280.95, 3315837.49;

645303.31, 3315833.69; 645314.88, 3315832; 645325.79, 3315825.14; 645330.25, 3315805.83; 645339.87, 3315791.78; 645371.08, 3315794.57; 645388.38, 3315786.29; 645389.04, 3315770.39; 645405.64, 3315754.65; 645412.12, 3315754.81; 645434.97, 3315748.92; 645444.77, 3315745.94; 645457.89, 3315739.8; 645467.85, 3315730.35; 645494.02, 3315721.32; 645496.91, 3315707.37; 645507.55, 3315695.35; 645523.99, 3315689.74; 645536.95, 3315690.07; 645549.83, 3315693.63; 645562.38, 3315710.11; 645572.1, 3315710.35; 645585.23, 3315704.22; 645579.07, 3315691.13; 645563.28, 3315674.57; 645576.4, 3315668.44; 645589.69, 3315655.84; 645596.01, 3315662.46; 645595.68, 3315675.39; 645618.28, 3315679.19; 645644.61, 3315663.69; 645651.52, 3315645.47; 645664.84, 3315637.48; 645674.17, 3315648.27; 645687.13, 3315648.6; 645706.73, 3315642.63; 645710.02, 3315627.12; 645720.27, 3315620.34; 645717.15, 3315596.78; 645746.76, 3315598.38; 645775.83, 3315602.34; 645802, 3315593.31; 645812.13, 3315577.4; 645831.65, 3315574.66; 645821.44, 3315593.8; 645816.05, 3315617.26; 645823.94, 3315622.95; 645861.07, 3315611.51; 645871.66, 3315595.97; 645879.16, 3315571.93; 645893.88, 3315587.37; 645914.2, 3315569.64; 645930.16, 3315567.27; 645934.52, 3315552.32; 645950.69, 3315557.09; 645958.44, 3315549.35; 645970.69, 3315552.44; 645981, 3315537.64; 646003.97, 3315540.99; 646017.15, 3315538.55; 646029.12, 3315533.32; 646041.49, 3315534.8; 646040.87, 3315528.05; 646044.56, 3315523.38; 646057.86, 3315516.19; 646080.96, 3315530.25; 646094.82, 3315534.44; 646106.98, 3315522.98; 646117.46, 3315533.15; 646128.47, 3315524.19; 646144.15, 3315524.35; 646152.78, 3315526.92; 646157.19, 3315521.44; 646160.67, 3315511.83; 646177.12, 3315502.55; 646193.4, 3315499.73; 646213, 3315493.76; 646238.68, 3315504.1; 646258.06, 3315490.71; 646270.74, 3315492.22; 646284.81, 3315485.84; 646280.32, 3315475.02; 646296.22, 3315475.03; 646298.06, 3315463.57; 646318.92, 3315457.76; 646330.64, 3315450.13; 646353.38, 3315455.27; 646366.34, 3315455.6; 646376.06, 3315455.84; 646392.34, 3315453.02; 646405.38, 3315450.12; 646437.92, 3315452.04; 646453.71, 3315440.55; 646493.16, 3315436.79; 646498.66, 3315439.31; 646498.23, 3315456.34; 646477.03, 3315461.36; 646501.93, 3315467.14; 646519.5, 3315464.01; 646505.24, 3315454.79; 646511.19, 3315432.63; 646512.19, 3315419.71; 646530.34, 3315428.21; 646535.91, 3315443.81; 646533.09, 3315461.18; 646545.03, 3315460.69; 646545.25, 3315436.12; 646553.84, 3315426.43; 646555.42, 3315411.41; 646579.72, 3315409.24; 646596.41, 3315409.27; 646620.06, 3315401.54; 646637.37, 3315392.86; 646649.32, 3315376.51; 646669.12, 3315379.39; 646672.18, 3315368.37; 646692.86, 3315363.62; 646703.46, 3315373.12; 646723.23, 3315377.58; 646737.94, 3315377.16; 646752.02, 3315370.78; 646766.5, 3315364.01; 646783.7, 3315359.69; 646795.23, 3315359.58; 646802.8, 3315343.52; 646834.98, 3315359.79; 646804.91, 3315364.95; 646806.01, 3315376.17; 646819.54, 3315388.73; 646841.26, 3315378.58; 646832.53, 3315393.82; 646846.27, 3315385.05; 646856.71, 3315380.95; 646864.39, 3315375.6; 646864.91, 3315386.71; 646861.24, 3315406.04; 646847.36, 3315404.5; 646842.45, 3315410.32; 646827.33, 3315426.59; 646821.96, 3315418.92; 646818.17, 3315427.15; 646806.86, 3315434.4; 646794.95, 3315433.7; 646778.35, 3315445.57; 646770.5, 3315441.8; 646767.99, 3315431.04; 646757, 3315441.07; 646750.37, 3315451.6; 646731.96, 3315472.54; 646712.74, 3315491.25; 646703.28, 3315508.98; 646685.24, 3315509.58; 646680.33, 3315494.13; 646682.48, 3315464.16; 646670.72, 3315457.52; 646662.52, 3315467.22; 646650.31, 3315478.81; 646670.24, 3315489.12; 646669.99, 3315498.82; 646660.03, 3315508.26; 646664.12, 3315514.04; 646657.39, 3315528.93; 646674.69, 3315536.5; 646687.69, 3315541.19; 646695.3, 3315554.46; 646689.73, 3315575.88; 646678.37, 3315595.26; 646682.14, 3315634.6; 646671.96, 3315644.25; 646658.28, 3315635.18; 646653.72, 3315626.74; 646648.09, 3315613.52; 646644.68, 3315591.24; 646633.76, 3315583.03; 646626.6, 3315567.39; 646612.83, 3315561.89; 646614.78, 3315547.67; 646628.44, 3315541.68; 646644.02, 3315538.9; 646644.05, 3315521.85; 646636.86, 3315527.08; 646614.18, 3315526.5; 646594.37, 3315540.06; 646578.65, 3315532.79; 646572.06, 3315521; 646559.28, 3315523.32; 646571.93, 3315544.21; 646551.06, 3315552.01; 646536.2, 3315558.38; 646502.81, 3315558.33; 646516.36, 3315541.23; 646515.47, 3315529.31; 646511.81, 3315516.54; 646491.22, 3315516.94; 646463.42, 3315528; 646460.88, 3315534.28; 646483.38, 3315540.4; 646489.29, 3315542.53; 646499.81, 3315535.26; 646486.35, 3315564.65; 646473.03, 3315572.64; 646462.91, 3315564.06; 646463.4, 3315544.65; 646458.89, 3315550.08; 646437.33, 3315553.9; 646434.46, 3315541.54; 646423.41, 3315538.49; 646429.58, 3315518.62;

646426.51, 3315512.07; 646413.47, 3315514.98; 646403.5, 3315524.42; 646396.7, 3315537.18; 646412.57, 3315558.43; 646401.97, 3315568.86; 646386.35, 3315573.62; 646375.27, 3315587.22; 646359.41, 3315585.63; 646325.86, 3315591.92; 646314.05, 3315587.26; 646298.03, 3315592.88; 646284.99, 3315595.79; 646275.19, 3315598.77; 646278.18, 3315608.55; 646294.22, 3315615.42; 646310.25, 3315622.29; 646326.37, 3315625.93; 646332.85, 3315626.09; 646368.57, 3315623.76; 646381.2, 3315637.01; 646364.76, 3315646.29; 646335.19, 3315661.71; 646318.66, 3315674.22; 646302.38, 3315677.05; 646292.58, 3315680.03; 646285.35, 3315684.84; 646284.25, 3315696.7; 646277.75, 3315702.48; 646272.24, 3315715.08; 646272, 3315724.77; 646261.95, 3315737.45; 646274.81, 3315755.53; 646255.81, 3315752.67; 646239.87, 3315754.25; 646232.12, 3315761.98; 646220.76, 3315755.35; 646212.06, 3315769.01; 646206.09, 3315769.65; 646183.62, 3315758.1; 646164.43, 3315747.92; 646157.79, 3315754.22; 646147.82, 3315763.67; 646122.26, 3315784.86; 646118.95, 3315774.47; 646112.91, 3315777.49; 646107.97, 3315784.1; 646098.41, 3315794.75; 646088.44, 3315804.19; 646079.5, 3315809.55; 646070.98, 3315800.61; 646072.97, 3315816.52; 646067.78, 3315833.04; 646062.23, 3315841.59; 646055.13, 3315845.8; 646045.62, 3315848.57; 646037.08, 3315850.99; 646036.86, 3315845.34; 646035.79, 3315835.19; 646029.55, 3315825.34; 646019.22, 3315819.92; 646013.43, 3315828.49; 646006.9, 3315835.46; 646004.38, 3315825.09; 645994.59, 3315834.76; 645978.65, 3315852.19; 645969.82, 3315839.68; 645962.91, 3315845.85; 645944.04, 3315868.76; 645942.96, 3315880.23; 645933.56, 3315890.3; 645920.38, 3315892.74; 645914.03, 3315906.48; 645904.6, 3315919.3; 645894.35, 3315915.68; 645887.62, 3315925.21; 645864.94, 3315934.23; 645864.27, 3315932.53; 645872.6, 3315904.85; 645867.45, 3315907.25; 645859.76, 3315909.59; 645852.01, 3315914.47; 645848.08, 3315922.23; 645851.84, 3315931.05; 645841.29, 3315954.96; 645833.35, 3315952.95; 645822.79, 3315963.61; 645821.86, 3315950.05; 645815.16, 3315950.73; 645809.48, 3315964.7; 645804.65, 3315958; 645811.67, 3315947.47; 645822.22, 3315939.02; 645831.99, 3315929.75; 645836.31, 3315916.38; 645820.48, 3315913.61; 645804.94, 3315914.8; 645793.61, 3315922.84; 645783.81, 3315932.9; 645775.26, 3315941.01; 645765.25, 3315943.93; 645756.83, 3315946.88; 645749.27, 3315954.99; 645736.37, 3315962.27; 645713.42, 3315965.61; 645708.7, 3315967.44; 645704.28, 3315965.77; 645692.18, 3315972.6; 645685.92, 3315984.34; 645679.58, 3315983.39; 645669.66, 3315985.94; 645656.63, 3315998.29; 645657.17, 3316005.02; 645667.81, 3316008.85; 645682.18, 3316006.44; 645693.77, 3316003.96; 645709.27, 3315988.49; 645726.4, 3316002.8; 645709, 3316014.65; 645695.86, 3316015.51; 645682.16, 3316038.55; 645679.29, 3316026.58; 645668.51, 3316028.29; 645653.38, 3316026.11; 645640.61, 3316028.32; 645642.56, 3316048.25; 645626.66, 3316048.25; 645613, 3316038.39; 645606.71, 3316035.46; 645596.42, 3316034.01; 645595.76, 3316044.3; 645605.92, 3316051.29; 645593.71, 3316062.48; 645578.72, 3316062.26; 645558.2, 3316069.35; 645545.43, 3316071.56; 645527.45, 3316078.72; 645511.88, 3316091; 645505.71, 3316127.27; 645488.06, 3316133.69; 645479.88, 3316142.47; 645459.29, 3316160.45; 645441.28, 3316167.83; 645418.28, 3316172.32; 645397.69, 3316181.95; 645384.79, 3316189.23; 645354.17, 3316193.53; 645346.55, 3316193.33; 645331.11, 3316200.55; 645311.26, 3316216.39; 645302.32, 3316232.79; 645287.07, 3316232.41; 645266.87, 3316226.83; 645254.03, 3316231.57; 645241.07, 3316241.39; 645230.52, 3316256.34; 645217.62, 3316263.62; 645201.47, 3316262.67; 645184.78, 3316255.18; 645172.13, 3316252.33; 645151.74, 3316254.35; 645126.07, 3316263.85; 645120.73, 3316273.86; 645100.4, 3316273.34; 645082.68, 3316270.36; 645077.85, 3316260.1; 645099.15, 3316253.35; 645076.09, 3316253.57; 645083.07, 3316244.62; 645073.57, 3316243.2; 645057.73, 3316255.83; 645033.14, 3316301.63; 645026.38, 3316286; 645028.8, 3316268.62; 645018.9, 3316267.19; 645011.2, 3316281.24; 644995.89, 3316283.39; 644987.94, 3316295.87; 644967.36, 3316305.49; 644957, 3316312.83; 644948.8, 3316335.45; 644949.96, 3316368.51; 644933.8, 3316378.8; 644912, 3316382.7; 644902.03, 3316374.84; 644891.86, 3316374.59; 644884.18, 3316376.93; 644876.42, 3316381.8; 644869.23, 3316401.35; 644883.47, 3316404.8; 644896.24, 3316402.59; 644906.47, 3316400.31; 644919.18, 3316400.63; 644934.3, 3316406.09; 644957.17, 3316406.66; 644972.48, 3316404.51; 644982.9, 3316394.63; 644990.65, 3316389.76; 645003.49, 3316385.01; 645003.68, 3316377.41; 645004, 3316364.73; 645006.74, 3316357.2; 645017.86, 3316354.34; 645026.48, 3316348.74; 645037.21, 3316344.94; 645049.36, 3316345.09; 645065.44, 3316338.09; 645067.76, 3316330.23; 645049.83, 3316326.6; 645030.65,

3316330.35; 645025.75, 3316326.42; 645035.3, 3316310.41; 645041.92, 3316300.27; 645051.38, 3316303.28; 645065.6, 3316290.96; 645087.77, 3316293.21; 645098.74, 3316299.82; 645109.65, 3316308.56; 645128.24, 3316297.69; 645136.72, 3316292.35; 645146.55, 3316295.22; 645155.03, 3316295.43; 645167.25, 3316294.15; 645174.92, 3316284.3; 645198.15, 3316299.85; 645181.31, 3316305.37; 645180.76, 3316313.41; 645196.01, 3316313.79; 645203.83, 3316306.38; 645211.64, 3316298.97; 645219.59, 3316286.49; 645229.88, 3316281.68; 645240.04, 3316281.94; 645252.75, 3316282.26; 645260.44, 3316279.91; 645270.67, 3316277.64; 645280.83, 3316277.89; 645303.96, 3316268.33; 645319.15, 3316271.25; 645324.42, 3316263.78; 645334.78, 3316256.43; 645360.06, 3316262.14; 645332.75, 3316280.93; 645322.51, 3316287.54; 645313.68, 3316286.33; 645305.8, 3316296.27; 645296.55, 3316308.03; 645279.81, 3316318.44; 645261.7, 3316330.66; 645262.86, 3316319.86; 645257.75, 3316312.34; 645235.97, 3316335.57; 645216.63, 3316335.29; 645212.64, 3316348.84; 645263.86, 3316345.93; 645289.53, 3316336.43; 645309.98, 3316331.88; 645320.41, 3316322; 645330.63, 3316319.72; 645351.29, 3316307.56; 645382.04, 3316298.2; 645390.09, 3316301.91; 645390.58, 3316314.21; 645378.78, 3316325.02; 645388.04, 3316335.95; 645401.36, 3316343.82; 645411.28, 3316344.47; 645409.43, 3316354.72; 645397.06, 3316372.25; 645393.75, 3316377.32; 645400.19, 3316389.77; 645395.63, 3316413.04; 645402.18, 3316405.68; 645408.43, 3316394.34; 645412.86, 3316376.22; 645416.41, 3316345.78; 645415.49, 3316319.2; 645400.38, 3316319.61; 645395.07, 3316325.03; 645394.56, 3316313.92; 645398.8, 3316303.32; 645412.66, 3316293.9; 645425.43, 3316291.68; 645438.27, 3316286.93; 645444.92, 3316287.44; 645449.42, 3316297.86; 645457.55, 3316290.93; 645460.56, 3316310.32; 645447.47, 3316327.94; 645432.76, 3316327.96; 645429.65, 3316340.97; 645437.47, 3316346.32; 645452, 3316337.56; 645458.53, 3316330.59; 645467.53, 3316320.52; 645488.2, 3316304.78; 645507.69, 3316288.63; 645538.82, 3316283.86; 645560.25, 3316290.01; 645570.94, 3316287.05; 645571.89, 3316280.73; 645551.36, 3316275.06; 645526.19, 3316280.37; 645507.47, 3316266.03; 645556.06, 3316254.4; 645556.07, 3316246.25; 645591.15, 3316229.85; 645600.96, 3316231.52; 645612.53, 3316248.47; 645604.6, 3316260.55; 645611.52, 3316269.84; 645622.43, 3316262.98; 645627.27, 3316259.93; 645627.88, 3316251.62; 645637.2, 3316244.72; 645649.15, 3316243.84; 645652.52, 3316255.25; 645643.62, 3316257.97; 645639.78, 3316268.57; 645630.45, 3316275.87; 645644.94, 3316284.56; 645656.47, 3316268.6; 645655.27, 3316237.65; 645669.71, 3316232.46; 645675.46, 3316225.08; 645685.45, 3316222.95; 645694.14, 3316209.3; 645665.99, 3316222.46; 645652.37, 3316226.48; 645626.29, 3316236.12; 645612.37, 3316236.17; 645615.2, 3316227.76; 645617.53, 3316219.36; 645614.49, 3316215.22; 645596.11, 3316219.11; 645598.79, 3316191.83; 645628.81, 3316192.69; 645633.51, 3316174.31; 645623.99, 3316169.87; 645607.48, 3316176.82; 645597.71, 3316171.59; 645579.79, 3316188.58; 645561.82, 3316191.69; 645551.47, 3316208.08; 645569.27, 3316211.3; 645580.05, 3316225.45; 645563.71, 3316230.69; 645535.13, 3316229.44; 645518.94, 3316240.66; 645510.48, 3316241.13; 645489.74, 3316244.18; 645481.77, 3316243.42; 645468.8, 3316253.13; 645456.76, 3316259.51; 645437.66, 3316259.91; 645414.26, 3316273.59; 645404.43, 3316269.38; 645414.22, 3316259.32; 645442.36, 3316246.95; 645458.95, 3316235.47; 645441.81, 3316237.42; 645436.99, 3316223.82; 645422.65, 3316224.65; 645418.36, 3316237.22; 645411.4, 3316243.15; 645401.17, 3316245.43; 645385.54, 3316260.25; 645375.37, 3316259.99; 645375.7, 3316247.32; 645376.65, 3316236.17; 645399.27, 3316220.02; 645427.61, 3316205.52; 645442.86, 3316205.91; 645453.09, 3316203.63; 645463.45, 3316196.28; 645478.82, 3316191.6; 645501.89, 3316184.57; 645514.85, 3316174.76; 645515.17, 3316162.09; 645520.51, 3316152.08; 645530.8, 3316147.27; 645540.84, 3316152.59; 645556.41, 3316140.3; 645571.78, 3316135.62; 645594.91, 3316126.06; 645610.22, 3316123.91; 645623.52, 3316109.61; 645652.97, 3316092.51; 645684.82, 3316090.29; 645703.4, 3316079.12; 645720.72, 3316078.52; 645736.35, 3316063.7; 645731.52, 3316053.43; 645739.4, 3316043.49; 645753.74, 3316037.58; 645753.93, 3316045.91; 645766.83, 3316054.56; 645767.64, 3316035.17; 645793.67, 3316030.66; 645805.96, 3316031.76; 645823.56, 3316011.59; 645833.1, 3315995.98; 645848.63, 3315979.32; 645852.37, 3316000.7; 645862.54, 3316000.95; 645870.36, 3315993.54; 645882.46, 3315982.07; 645882.91, 3315983.28; 645900.49, 3315971.91; 645918.34, 3315973.55; 645952.33, 3315965.69; 645954.57, 3315939.98; 645980.94, 3315950.16; 645997.07, 3315941.05; 646009.06, 3315938.58; 646027.36, 3315922.39; 646039.9,

3315929.05; 646052.02, 3315921.82; 646054.2, 3315913.95; 646054.98, 3315898.91; 646073.19, 3315902.14; 646086.75, 3315900.11; 646101.26, 3315892.15; 646117.34, 3315900.88; 646128.29, 3315892.43; 646133.31, 3315898.11; 646144.3, 3315903.54; 646136.73, 3315920; 646128.06, 3315917; 646121.9, 3315909.32; 646109.61, 3315907.82; 646117.01, 3315913.95; 646117.18, 3315923.07; 646117, 3315930.2; 646111.07, 3315928.86; 646108.12, 3315935.53; 646097.16, 3315928.51; 646090.57, 3315922; 646080.62, 3315922.55; 646080.38, 3315932.05; 646077.02, 3315939.1; 646069.45, 3315939.71; 646060.03, 3315950.96; 646054.77, 3315954.4; 646042.17, 3315949.72; 646025.42, 3315951.68; 646004.75, 3315967.41; 645996.39, 3315983.84; 645985.67, 3315983.18; 645974.84, 3316002.72; 645956.23, 3316015.73; 645956.89, 3316020.9; 645947.69, 3316023.05; 645928.91, 3316026.93; 645925.47, 3316037.15; 645893.63, 3316053.11; 645891.93, 3316058.9; 645896.21, 3316061.1; 645894.38, 3316070.57; 645886.85, 3316069.59; 645851.84, 3316070.69; 645833.94, 3316071.43; 645826.08, 3316083.52; 645818.56, 3316082.14; 645809.05, 3316096.56; 645803, 3316115.83; 645794.51, 3316121.57; 645776.22, 3316137.36; 645764.41, 3316148.55; 645754.92, 3316146.73; 645735.54, 3316173.99; 645736.03, 3316186.29; 645761.09, 3316185.33; 645768.66, 3316200.59; 645787.97, 3316207.02; 645800.88, 3316152.64; 645811.12, 3316124.76; 645828.14, 3316112.11; 645876.75, 3316091.93; 645905.86, 3316072.45; 645903.9, 3316055.75; 645921.18, 3316049.73; 645924.09, 3316060.5; 645941.27, 3316041.12; 645941.53, 3316031.22; 645948.35, 3316028.61; 645953.38, 3316033.89; 645966.88, 3316034.63; 645978.15, 3316028.97; 645964.42, 3316021.88; 645988.87, 3316013.78; 645993.3, 3316027.37; 646001.55, 3316015.29; 645996.16, 3316008.41; 646019.65, 3315991.57; 646022.72, 3315980.15; 646036.54, 3315967.81; 646054.65, 3315959.15; 646059.3, 3315964.03; 646061.92, 3315970.43; 646068.69, 3315969.81; 646066.85, 3315979.67; 646066.07, 3315994.72; 646074.4, 3315979.87; 646076.86, 3315961.3; 646071.62, 3315953.34; 646084.25, 3315951.97; 646085.24, 3315944.07; 646078.4, 3315947.46; 646075.68, 3315945.02; 646088.31, 3315934.49; 646093, 3315935.94; 646101.9, 3315945.68; 646108.91, 3315951.4; 646118.44, 3315951.64; 646115.52, 3315941.26; 646123.18, 3315937.1; 646124.18, 3315929.19; 646130.58, 3315927.37; 646136.45, 3315931.09; 646142.95, 3315925.7; 646153.95, 3315906.06; 646162.15, 3315893.26; 646156.63, 3315880.96; 646158.08, 3315870.61; 646174.78, 3315855; 646172.89, 3315845.96; 646178.93, 3315837.66; 646196.27, 3315827.67; 646217.71, 3315820.38; 646211.07, 3315808.22; 646224.68, 3315801.16; 646244.45, 3315788.73; 646255.12, 3315780; 646273.72, 3315783.25; 646268.62, 3315796.2; 646274.43, 3315802.29; 646295.71, 3315812.65; 646302.61, 3315803.79; 646314.14, 3315803.69; 646327.14, 3315792.92; 646348.53, 3315775.19; 646380.08, 3315742.72; 646408.16, 3315724.97; 646427.4, 3315710.62; 646452.88, 3315693.41; 646442.04, 3315666.2; 646448.56, 3315660.02; 646458.45, 3315661.84; 646463.56, 3315669.37; 646460.72, 3315682.13; 646469, 3315684.84; 646486.02, 3315682.62; 646501.04, 3315675.6; 646510.5, 3315678.63; 646512.42, 3315665.59; 646522.46, 3315661.49; 646532.91, 3315663.46; 646552.26, 3315667.18; 646568.44, 3315672.02; 646578.18, 3315667.84; 646599.97, 3315677.31; 646629.37, 3315694.99; 646641.66, 3315695.01; 646648.4, 3315680.12; 646643.01, 3315672.85; 646638.87, 3315666.44; 646617.62, 3315668.55; 646620.03, 3315654.43; 646630.66, 3315642.81; 646640.06, 3315648.2; 646653.84, 3315653.3; 646664.26, 3315650; 646665.81, 3315667.48; 646678.86, 3315660.68; 646698.22, 3315664.4; 646708.47, 3315678.07; 646730.21, 3315681.37; 646736.43, 3315672.83; 646734.28, 3315663.66; 646715.38, 3315656.44; 646726.7, 3315633.34; 646738.74, 3315628.49; 646739.72, 3315621.38; 646724.6, 3315621.79; 646725.22, 3315613.09; 646749.39, 3315616.08; 646747.83, 3315630.7; 646761.08, 3315641.34; 646745.91, 3315643.74; 646737.4, 3315650.26; 646742.05, 3315655.13; 646750.16, 3315648.6; 646748.49, 3315667.58; 646742.95, 3315677.75; 646752.81, 3315685.17; 646769.07, 3315686.73; 646781.97, 3315685.91; 646796.24, 3315696.93; 646815.97, 3315702.58; 646832.71, 3315701.02; 646840.46, 3315693.29; 646836.74, 3315683.29; 646822.8, 3315684.12; 646819.86, 3315674.54; 646806.9, 3315668.66; 646794.75, 3315661.62; 646785.32, 3315641.56; 646794.69, 3315632.68; 646806.03, 3315624.24; 646818.02, 3315621.77; 646825.81, 3315627.91; 646831.09, 3315623.69; 646822.56, 3315615.15; 646814.59, 3315615.74; 646811.39, 3315600.99; 646792.93, 3315623.52; 646789.71, 3315609.56; 646785.84, 3315589.64; 646762.08, 3315585.87; 646769.51, 3315574.96; 646771.29, 3315552.02; 646786.43, 3315550.42; 646789.6, 3315519.58; 646804.97, 3315508.87; 646826.96,

3315519.73; 646837.79, 3315516.04; 646843.98, 3315491.22; 646856.54, 3315497.48; 646865.52, 3315535.37; 646871.32, 3315573.17; 646882.43, 3315542.53; 646874.82, 3315529.26; 646875.36, 3315507.87; 646890.87, 3315523.32; 646897.61, 3315539.74; 646893.26, 3315554.7; 646884.62, 3315581.83; 646873.72, 3315604.15; 646867.83, 3315617.08; 646875.28, 3315620.84; 646885.62, 3315620.7; 646883.17, 3315607.56; 646892.91, 3315595.03; 646948.44, 3315589.85; 646968.08, 3315588.02; 646987.08, 3315581.16; 646988.94, 3315538.79; 646996.25, 3315532.63; 647010.04, 3315521.88; 647019.34, 3315515.78; 647031.16, 3315520.04; 647026.15, 3315529.42; 647028.69, 3315539; 647041.83, 3315538.14; 647051.26, 3315542.35; 647060.14, 3315537.02; 647084.39, 3315521.38; 647095.23, 3315532.75; 647110.99, 3315522.84; 647115.04, 3315551.09; 647136.77, 3315540.54; 647126.6, 3315502.63; 647121.49, 3315484.66; 647104.23, 3315477.39; 647095.93, 3315489.56; 647082.02, 3315489.21; 647078.9, 3315471.3; 647030.94, 3315462.81; 647042.86, 3315451.53; 647088.76, 3315458.46; 647122.16, 3315458.12; 647143.86, 3315464.61; 647153.04, 3315479.11; 647159.34, 3315497.11; 647167.64, 3315506.42; 647165.22, 3315515.89; 647161.18, 3315518.56; 647154.52, 3315530.28; 647162.06, 3315546.73; 647173.88, 3315550.99; 647182.66, 3315549.62; 647186.84, 3315557.26; 647202.23, 3315561.61; 647224.87, 3315562.18; 647230.05, 3315561.92; 647240.61, 3315553.07; 647248.43, 3315558.02; 647245.04, 3315566.26; 647249.67, 3315571.93; 647264.43, 3315569.92; 647273.73, 3315595.13; 647270.17, 3315610.1; 647284.55, 3315619.83; 647297.15, 3315611.97; 647300.98, 3315602.16; 647308.56, 3315601.16; 647315.9, 3315593.81; 647333.19, 3315585.93; 647340.89, 3315596.03; 647340.49, 3315611.48; 647335.31, 3315628; 647346.78, 3315630.27; 647352.48, 3315609.01; 647373.16, 3315608.73; 647386.77, 3315620.57; 647398.3, 3315636.32; 647403.84, 3315621.8; 647409.13, 3315616.78; 647419.7, 3315623.39; 647443.58, 3315622.01; 647457.72, 3315613.25; 647476.51, 3315608.96; 647480.52, 3315607.48; 647487.12, 3315598.13; 647510.42, 3315588.41; 647507.59, 3315605.78; 647518.13, 3315613.58; 647529.79, 3315608.33; 647531.7, 3315627; 647560.56, 3315633.28; 647566.49, 3315634.62; 647558.88, 3315605.49; 647560.51, 3315588.09; 647572, 3315574.11; 647557.16, 3315563.43; 647547.57, 3315565.57; 647544.29, 3315553.59; 647534.83, 3315550.58; 647541.25, 3315532.51; 647528.93, 3315532.2; 647519.67, 3315521.26; 647497.38, 3315538.14; 647481.54, 3315535.76; 647469.69, 3315532.69; 647441.39, 3315520.08; 647446.96, 3315504.36; 647439.92, 3315499.43; 647420.2, 3315509.24; 647409.04, 3315510.54; 647392.56, 3315517.66; 647386.42, 3315508.78; 647392.91, 3315487.94; 647383.79, 3315471.46; 647401.95, 3315476.28; 647414.37, 3315472.62; 647452.92, 3315472.8; 647472.84, 3315470.93; 647487.99, 3315469.33; 647489.89, 3315457.09; 647508.76, 3315465.49; 647512.12, 3315458.44; 647527.95, 3315445.36; 647539.47, 3315445.66; 647561.62, 3315418.47; 647574.38, 3315417.2; 647608.16, 3315417.26; 647625.71, 3315414.93; 647629.46, 3315424.14; 647634.63, 3315423.88; 647639.57, 3315432.72; 647649.61, 3315429.01; 647659.84, 3315432.84; 647662.71, 3315445.2; 647673.43, 3315445.86; 647678.74, 3315455.91; 647683.52, 3315455.63; 647689.28, 3315463.31; 647705.56, 3315464.12; 647707.49, 3315450.69; 647716.43, 3315458.84; 647723.24, 3315456.63; 647745.11, 3315456.39; 647755.7, 3315446.35; 647765.52, 3315450.96; 647773.96, 3315463.07; 647792.51, 3315468.29; 647805.34, 3315464.25; 647817.34, 3315476.84; 647837.86, 3315482.3; 647865.82, 3315477.06; 647879.67, 3315495.25; 647904.19, 3315500.23; 647898.72, 3315512.38; 647935.99, 3315531.55; 647931.52, 3315535.4; 647929.23, 3315547.63; 647946.73, 3315562.74; 647943.68, 3315573.37; 647926.26, 3315555.09; 647919.58, 3315567.6; 647893.02, 3315564.56; 647888.41, 3315573.95; 647879.46, 3315566.59; 647869.74, 3315573.48; 647866.14, 3315558.72; 647853.47, 3315556.82; 647834.3, 3315560.3; 647832.49, 3315553.12; 647822.2, 3315551.27; 647816.96, 3315554.31; 647809.68, 3315543.43; 647793.18, 3315535.88; 647793.11, 3315569.96; 647789.7, 3315578.99; 647779.66, 3315567.25; 647778.92, 3315549.39; 647772.66, 3315545.66; 647757.14, 3315561.92; 647736.63, 3315555.46; 647725.55, 3315553.59; 647713.78, 3315547.35; 647698.26, 3315548.15; 647688.62, 3315552.48; 647673.15, 3315551.3; 647673.17, 3315565.96; 647692.72, 3315575.69; 647713.72, 3315581.04; 647728.35, 3315568.73; 647738.03, 3315578.88; 647751.72, 3315587.55; 647766.33, 3315591.49; 647779.94, 3315603.32; 647786.67, 3315588.83; 647798.21, 3315588.33; 647801.91, 3315599.12; 647815.67, 3315605.41; 647820.11, 3315618.21; 647812.83, 3315639.04; 647804.99, 3315642.48; 647792.77, 3315643.75; 647782.82, 3315646.6; 647784.03,

3315661.7; 647795.49, 3315664.36; 647807.58, 3315657.93; 647816.6, 3315665.5; 647812.35, 3315673.51; 647805.68, 3315677.9; 647796.98, 3315686.67; 647794, 3315699.81; 647776.01, 3315711.83; 647742.46, 3315718.12; 647726.27, 3315713.75; 647708.99, 3315705.39; 647690, 3315701.74; 647672.49, 3315702.48; 647655.97, 3315695.73; 647644.32, 3315700.58; 647627.2, 3315701.34; 647606.34, 3315693.28; 647591.07, 3315699.64; 647573.57, 3315699.99; 647567.49, 3315704.59; 647551.67, 3315701.42; 647538.2, 3315715.35; 647520.69, 3315731.95; 647514.78, 3315745.68; 647494.45, 3315747.94; 647482.76, 3315754.38; 647479.28, 3315766.19; 647481.87, 3315773.78; 647480.96, 3315809.83; 647494.03, 3315811.75; 647508.38, 3315794.27; 647528.28, 3315809.04; 647542.51, 3315828.03; 647557.45, 3315818.89; 647567.13, 3315797.73; 647577.27, 3315789.67; 647586.62, 3315797.04; 647589.97, 3315806.24; 647598.64, 3315809.23; 647605.77, 3315810.2; 647611.36, 3315809.16; 647619.21, 3315797.46; 647623.86, 3315786.48; 647643.32, 3315786.97; 647657.94, 3315790.51; 647666.34, 3315788.35; 647665.64, 3315768.9; 647673.06, 3315774.25; 647673.25, 3315782.57; 647681.86, 3315787.94; 647690.32, 3315783.4; 647702.86, 3315775; 647710.75, 3315761.32; 647723.91, 3315759.67; 647727.83, 3315777.61; 647742.57, 3315776.4; 647757.61, 3315763.3; 647769.23, 3315759.63; 647777.34, 3315753.49; 647789.51, 3315759.35; 647805.96, 3315753.42; 647810.84, 3315749.18; 647812.78, 3315735.36; 647823.92, 3315734.85; 647823.58, 3315748.31; 647832.52, 3315756.47; 647839.33, 3315754.26; 647854.58, 3315748.7; 647858.32, 3315726.2; 647874, 3315719.46; 647880.11, 3315729.13; 647883.6, 3315732.78; 647894.47, 3315727.51; 647904.95, 3315721.43; 647924.41, 3315722.32; 647920.59, 3315731.73; 647919.99, 3315740.04; 647931.9, 3315740.34; 647944.03, 3315732.33; 647965.81, 3315720.19; 647996.31, 3315724.13; 648003.52, 3315722.33; 647998.67, 3315709.53; 648020.33, 3315717.6; 648034.15, 3315721.12; 648045.05, 3315714.66; 648060.78, 3315705.54; 648078.86, 3315713.93; 648092.56, 3315706.74; 648117.51, 3315694.69; 648131.57, 3315688.7; 648160.94, 3315674.77; 648176.9, 3315656.94; 648182.33, 3315646.38; 648190.02, 3315656.88; 648194.42, 3315639.94; 648208.1, 3315633.55; 648214.28, 3315624.99; 648216.9, 3315631.39; 648222.86, 3315631.54; 648225.02, 3315624.46; 648231.09, 3315620.26; 648233.69, 3315612; 648243.66, 3315610.66; 648251.8, 3315602.94; 648251.25, 3315593.41; 648236.18, 3315591.84; 648232.03, 3315598.88; 648225.69, 3315597.92; 648222.79, 3315587.15; 648226.13, 3315580.49; 648237.48, 3315572.06; 648235.02, 3315559.31; 648244.59, 3315557.97; 648246.13, 3315528.67; 648247.13, 3315520.38; 648250.49, 3315513.32; 648257.29, 3315511.91; 648259.5, 3315502.85; 648249.58, 3315502.2; 648239.58, 3315504.73; 648237.38, 3315497.53; 648227.76, 3315500.46; 648228.35, 3315492.95; 648222.06, 3315490.01; 648223.87, 3315465.88; 648214.47, 3315444.63; 648217.11, 3315434.39; 648215.8, 3315423.26; 648217.63, 3315413.8; 648215.85, 3315405.82; 648235.47, 3315399.98; 648231.61, 3315411.37; 648232.6, 3315419.33; 648238.83, 3315424.24; 648240.21, 3315432.6; 648237.92, 3315444.43; 648244.44, 3315454.11; 648249.75, 3315448.3; 648276.89, 3315428.37; 648289.54, 3315431.07; 648297.96, 3315428.11; 648309.02, 3315431.16; 648313.23, 3315421.76; 648311.85, 3315413.4; 648323.84, 3315410.93; 648338.46, 3315414.47; 648332.06, 3315431.75; 648336.09, 3315445.32; 648344.7, 3315434.84; 648357.29, 3315439.91; 648361.96, 3315443.99; 648376.61, 3315430.49; 648381.25, 3315435.76; 648381.32, 3315448.84; 648376.34, 3315457.04; 648376.5, 3315466.56; 648378.56, 3315479.3; 648376.8, 3315485.99; 648369.51, 3315491.36; 648357.5, 3315494.62; 648351.65, 3315490.11; 648344.57, 3315487.16; 648342.46, 3315491.86; 648339.81, 3315502.5; 648339.14, 3315513.18; 648323.64, 3315513.19; 648319.47, 3315521.01; 648318.12, 3315526.92; 648322.89, 3315527.04; 648323.09, 3315534.98; 648320.07, 3315544.41; 648323.55, 3315548.07; 648326.79, 3315545.77; 648334.35, 3315546.87; 648331.17, 3315561.34; 648326.07, 3315574.29; 648309.42, 3315572.29; 648301.36, 3315576.84; 648302.31, 3315586.38; 648315.28, 3315592.26; 648323.49, 3315597.62; 648325.62, 3315607.58; 648321.19, 3315625.7; 648310.07, 3315640.88; 648307.79, 3315652.71; 648312.35, 3315660.76; 648304.22, 3315668.08; 648312.88, 3315671.47; 648320.09, 3315669.28; 648325.55, 3315673.38; 648315.97, 3315690.58; 648323.04, 3315693.93; 648326.53, 3315697.58; 648332.38, 3315701.69; 648340.79, 3315699.53; 648340.58, 3315691.99; 648351.43, 3315687.51; 648353.96, 3315681.63; 648367.66, 3315674.44; 648388.47, 3315653.16; 648390.99, 3315647.68; 648396.54, 3315648.61; 648400.31, 3315640.78; 648408.96, 3315628.71; 648417.73, 3315627.74; 648417.18, 3315618.21; 648419.01,

3315592.89; 648420.51, 3315581.04; 648412.49, 3315583.61; 648408.28, 3315593.02; 648397.58, 3315591.56; 648397.82, 3315582.05; 648391.78, 3315585.07; 648387.18, 3315578.61; 648381.76, 3315572.53; 648384.64, 3315553.18; 648396.1, 3315555.84; 648408.3, 3315545.05; 648409.5, 3315528.83; 648430.35, 3315521.83; 648434.44, 3315533.03; 648450.99, 3315539; 648453.85, 3315551.36; 648466.28, 3315594.48; 648498.29, 3315586.17; 648537.59, 3315572.5; 648564.32, 3315568.81; 648594.54, 3315568.38; 648619.37, 3315576.94; 648633.65, 3315578.09; 648657.65, 3315571.96; 648672.63, 3315561.24; 648688.91, 3315546.59; 648701.01, 3315539.36; 648711.07, 3315534.86; 648721.04, 3315533.52; 648723.86, 3315547.47; 648735.37, 3315548.15; 648736.21, 3315562.45; 648742.96, 3315562.62; 648746.7, 3315556.37; 648743.43, 3315544; 648751.03, 3315542.21; 648751.25, 3315527.28; 648770.59, 3315523.28; 648784.92, 3315522.45; 648782.87, 3315540.63; 648786.65, 3315548.26; 648776.98, 3315553.56; 648775.27, 3315558.28; 648789.25, 3315555.46; 648811.5, 3315540.17; 648809.92, 3315524.27; 648820.98, 3315511.07; 648830.17, 3315509.32; 648841.7, 3315493.76; 648842.22, 3315473.16; 648858.85, 3315460.1; 648867.08, 3315464.69; 648874.52, 3315469.22; 648876, 3315457.76; 648865.38, 3315437.67; 648860.39, 3315414.95; 648861.92, 3315401.51; 648854.15, 3315394.18; 648875.26, 3315376.88; 648875.1, 3315357.08; 648888.53, 3315308.24; 648888.37, 3315251.55; 648850.99, 3315252.2; 648849.03, 3315219.64; 648877.84, 3315212.04; 648898.61, 3315208.21; 648916.2, 3315204.29; 648928.72, 3315196.68; 648935.03, 3315198.43; 648935.44, 3315213.89; 648946.48, 3315233.2; 648937.66, 3315236.15; 648925.27, 3315238.61; 648911.63, 3315243.42; 648905.56, 3315247.63; 648903.9, 3315282.07; 648898.59, 3315318.8; 648889.46, 3315381.2; 648908.42, 3315417.35; 648916.38, 3315448.47; 648924.47, 3315474.44; 648927.81, 3315484.04; 648932.9, 3315486.94; 648940.08, 3315485.93; 648956.7, 3315473.27; 648971.76, 3315459.38; 648979.42, 3315455.22; 648986.26, 3315451.82; 648987.18, 3315446.69; 648988.04, 3315413.02; 648994.98, 3315389.81; 649004.71, 3315366.69; 649010.85, 3315359.69; 649013.02, 3315352.61; 649014.16, 3315338.76; 649021.28, 3315340.53; 649026.58, 3315335.11; 649031.89, 3315339.9; 649033.81, 3315347.87; 649025.75, 3315352.14; 649025.15, 3315360.05; 649031.28, 3315364.19; 649034.24, 3315372.72; 649044.13, 3315379.95; 649050.59, 3315376.15; 649057.05, 3315371.95; 649062.2, 3315372.87; 649073.32, 3315373.16; 649078.7, 3315380.43; 649085.8, 3315382.59; 649090.69, 3315377.95; 649096.45, 3315370.17; 649101.19, 3315371.48; 649106.87, 3315366.87; 649113.66, 3315365.45; 649113.93, 3315370.61; 649118.91, 3315377.87; 649126.84, 3315378.87; 649131.38, 3315372.24; 649125.38, 3315373.68; 649121.52, 3315369.22; 649126.11, 3315360.61; 649135.63, 3315361.25; 649134.7, 3315366.78; 649142.22, 3315368.16; 649149.21, 3315358.82; 649156.62, 3315364.55; 649169.79, 3315362.51; 649179.36, 3315361.16; 649187.4, 3315357.8; 649201.85, 3315352.22; 649204.05, 3315343.95; 649194.56, 3315341.73; 649197.55, 3315333.48; 649210.4, 3315328.65; 649204.7, 3315318.2; 649213.19, 3315312.47; 649219.16, 3315312.22; 649231.07, 3315312.92; 649241.82, 3315312; 649244.93, 3315299.4; 649257.68, 3315298.03; 649260.17, 3315283.29; 649291.58, 3315271.4; 649318.91, 3315275.26; 649354.06, 3315253.16; 649371.97, 3315250.98; 649385.64, 3315246.03; 649394.72, 3315232.78; 649420.36, 3315240.56; 649432.3, 3315255.93; 649464.48, 3315256.74; 649483.69, 3315251.68; 649503.12, 3315253.36; 649512.13, 3315258.74; 649524.94, 3315255.1; 649526.94, 3315238.89; 649538.02, 3315225.3; 649562.93, 3315231.56; 649569.35, 3315212.61; 649578.12, 3315211.65; 649580.24, 3315190.69; 649593.62, 3315180.33; 649601.66, 3315192.42; 649620.75, 3315192.11; 649622.55, 3315199.29; 649609.36, 3315202.13; 649607.38, 3315217.54; 649595.42, 3315219.22; 649612.58, 3315231.94; 649621.4, 3315228.99; 649627.12, 3315207.33; 649645.27, 3315197.09; 649658.05, 3315210.49; 649658.45, 3315225.96; 649672.28, 3315234.32; 649679.35, 3315232.44; 649683.26, 3315219.45; 649699.97, 3315219.08; 649704.66, 3315237.83; 649716.62, 3315243.52; 649720.86, 3315257.27; 649726.05, 3315272.06; 649733.64, 3315270.67; 649733.85, 3315262.35; 649744.56, 3315263.41; 649754.38, 3315268.02; 649769.98, 3315264.06; 649770.18, 3315240.67; 649802.57, 3315233.17; 649812.15, 3315231.74; 649817.14, 3315100.29; 649799.94, 3315101.91; 649795.72, 3315085.93; 649795.09, 3315069; 649818.11, 3315059.16; 649818.69, 3315059.73; 649828.47, 3314804.48; 649797.82, 3314814.32; 649715.63, 3314857.7; 649616.24, 3314889.55; 649501.16, 3314934.21; 649380.67, 3314961.82; 649351.82, 3314983.87; 649268.63, 3315003.96; 649183.89, 3315022.44; 649126.2,

3315040.01; 649045.29, 3315053.82; 648963.34, 3315066.55; 648874.83, 3315087.57; 648799.32, 3315097.3; 648730.28, 3315089.69; 648462.28, 3315081.88; 648355.01, 3315090.27; 648289.95, 3315084.93; 648245.03, 3315079.56; 648200.14, 3315073.15; 648126.71, 3315063.89; 648082.76, 3315062.26; 647967.79, 3315039.27; 647801.76, 3315044.6; 647745.32, 3315054.8; 647669.58, 3315052.89; 647513.74, 3315032.76; 647362.84, 3315011.12; 647243.51, 3315014.06; 647128.32, 3315026.21; 646939.95, 3315057.79; 646876.81, 3315060.42; 646845.97, 3315064.4; 646816.94, 3315083.06; 646776.46, 3315080.45; 646684.41, 3315081.47; 646581.79, 3315115.35; 646483.16, 3315158.84; 646429.37, 3315169.11; 646363.62, 3315191.23; 646315.93, 3315211.7; 646277.3, 3315232.76; 646253.93, 3315245.25; 646219.14, 3315268.95; 646183.2, 3315304.54; 646114.55, 3315349.55; 646060.99, 3315376.74; 646008.66, 3315386.91; 645946.17, 3315413.78; 645896.75, 3315423.22; 645801.2, 3315449.88; 645735.35, 3315476.23; 645642.06, 3315518.27; 645547.16, 3315561.33; 645485.51, 3315588.84; 645347.88, 3315690.13; 645187.51, 3315791.53; 645093.12, 3315829.98; 644913.66, 3315963; 644913.71, 3315963.1; 644772.12, 3316030.07; 644702.96, 3316077.08; 644620.09, 3316131.68; 644489.2, 3316214.39; 644336.15, 3316293.38; 644190.89, 3316378.9; 644103.97, 3316436.56; 644057.49, 3316482.56; 643971.88, 3316551.36; 643869.13, 3316606.24; 643796.81, 3316652.38; 643720.18, 3316727.35; 643631.08, 3316792.49; 643522.3, 3316881.71; 643445.7, 3316940.03; 643379.11, 3317010.89; 643353.66, 3317071.65; 643305.51, 3317110.6; 643262.16, 3317148.09; 643214.95, 3317191.83; 643183.99, 3317222.39; 643130.69, 3317255.53; 643096.3, 3317295.1; 643076.85, 3317323.85; 643050.75, 3317349.61; 643027.76, 3317378.63; 642991.89, 3317413.67; 642900.08, 3317523.4; 642837.6, 3317606.48; 642760.34, 3317690.94; 642739.29, 3317721.73; 648059.68, 3315419.32; 647943.33, 3315398; 648060.09, 3315419.15; 648063.21, 3315405.75; 648100.53, 3315407.27; 648105.55, 3315412.95; 648110.88, 3315406.74; 648115.28, 3315405.66; 648121.44, 3315413.35; 648124.55, 3315416.2; 648130.59, 3315413.18; 648133.12, 3315407.7; 648147.07, 3315406.07; 648159.71, 3315409.16; 648164.94, 3315406.92; 648173.75, 3315404.36; 648179.61, 3315408.08; 648179.37, 3315417.59; 648187.35, 3315416.6; 648190.76, 3315423.03; 648187.57, 3315439.2; 648195.14, 3315438.6; 648200.12, 3315445.86; 648197.87, 3315456.5; 648207.58, 3315465.47; 648201.41, 3315473.64; 648191.79, 3315476.96; 648182.35, 3315472.76; 648171.02, 3315480.8; 648166.52, 3315485.84; 648149.54, 3315481.05; 648150.87, 3315491.39; 648160.82, 3315491.24; 648159.83, 3315498.75; 648163.72, 3315502.02; 648174.8, 3315504.28; 648171.15, 3315522.82; 648171.78, 3315529.18; 648179.23, 3315533.33; 648171.5, 3315540.27; 648160.45, 3315537.21; 648156.72, 3315543.07; 648149.38, 3315550.41; 648149.2, 3315557.54; 648153.78, 3315565.19; 648149.5, 3315576.97; 648140.72, 3315578.34; 648137.23, 3315575.08; 648138.35, 3315562.03; 648131.71, 3315557.5; 648132.17, 3315570.59; 648128.85, 3315576.45; 648129.91, 3315581.63; 648134.93, 3315587.31; 648134.74, 3315594.83; 648130.6, 3315601.47; 648140.77, 3315608.07; 648145.33, 3315616.11; 648147.63, 3315619.74; 648143.66, 3315650.95; 648147.35, 3315662.14; 648133.03, 3315662.57; 648130.62, 3315647.85; 648126.43, 3315624.75; 648118.9, 3315608.31; 648109.46, 3315619.96; 648103.56, 3315617.43; 648098.69, 3315605.82; 648092.22, 3315610.01; 648086.57, 3315597.58; 648073.99, 3315592.11; 648076.26, 3315581.07; 648085.34, 3315583.28; 648091.91, 3315575.12; 648080.14, 3315568.88; 648068.63, 3315568.19; 648060.71, 3315551.35; 648056.63, 3315539.75; 648060.96, 3315525.59; 648054.89, 3315514.34; 648063.08, 3315505.03; 648057.4, 3315493.79; 648051.59, 3315487.69; 648048.66, 3315477.71; 648048.49, 3315453.13; 648048.38, 3315441.63; 648059.68, 3315419.32; 646910.66, 3315364.79; 646908.88, 3315325.1; 646929.46, 3315312.94; 646925.82, 3315299.76; 646978.44, 3315293.96; 647005.4, 3315281.16; 647022.45, 3315282.78; 647045.72, 3315258.79; 647063.48, 3315263.6; 647067.55, 3315259.74; 647079.84, 3315261.24; 647113.96, 3315248.22; 647142.77, 3315256.48; 647160.15, 3315245.03; 647184.49, 3315241.28; 647215.73, 3315248.02; 647235.25, 3315246.13; 647243.83, 3315239.33; 647260.93, 3315236.87; 647307.39, 3315238.83; 647317, 3315235.9; 647353.4, 3315244.74; 647380, 3315244.23; 647390.19, 3315234.18; 647375.85, 3315203.7; 647399.88, 3315196.77; 647407.61, 3315218.1; 647421.94, 3315217.4; 647437.9, 3315217.95; 647432.87, 3315196.81; 647450.87, 3315192.51; 647467.65, 3315173.51; 647520.17, 3315166.1; 647525.83, 3315167.84; 647571.39, 3315173.75; 647592.9, 3315171.91; 647567.78, 3315159.39; 647551.43, 3315145.89; 647425.41, 3315101.21;

647373.07, 3315095.67; 647331.6, 3315082.87; 647339.08, 3315070.38; 647369.68, 3315070.75; 647421.77, 3315070.08; 647454.67, 3315073.69; 647450.37, 3315086.66; 647501.68, 3315082; 647583.34, 3315125.69; 647595.69, 3315124.81; 647608.34, 3315142.97; 647618.19, 3315146.78; 647646.82, 3315146.32; 647666.44, 3315140.87; 647679.59, 3315139.61; 647688.61, 3315144.2; 647696.84, 3315148.77; 647712.03, 3315114.27; 647731.81, 3315102.08; 647742.09, 3315104.32; 647761.96, 3315104.83; 647785.02, 3315088.76; 647815.44, 3315096.27; 647824.59, 3315110.66; 647819.46, 3315140.26; 647775.82, 3315137.17; 647719.82, 3315150.82; 647710.79, 3315162.09; 647730.83, 3315171.32; 647752.58, 3315175.83; 647799.26, 3315184.54; 647830.33, 3315198.01; 647852.3, 3315209.26; 647878.84, 3315216.24; 647909.85, 3315213.09; 647915.82, 3315228.31; 647934.35, 3315234.32; 647940.83, 3315229.73; 647955.27, 3315240.4; 647974.29, 3315242.47; 647996.4, 3315264.43; 647994.79, 3315280.64; 647981.05, 3315289.81; 647969.45, 3315292.68; 647967.66, 3315300.57; 647958.41, 3315304.69; 647947.79, 3315300.07; 647935.88, 3315283.91; 647925.62, 3315280.88; 647912.6, 3315276.98; 647893.13, 3315276.89; 647885.83, 3315282.25; 647894.3, 3315293.17; 647909.32, 3315296.72; 647907.4, 3315309.75; 647912.3, 3315320.18; 647933.77, 3315320.32; 647942.31, 3315328.47; 647956.86, 3315334.38; 647984.67, 3315335.09; 648004.42, 3315324.48; 648033.41, 3315325.61; 648056.06, 3315325.79; 648068.68, 3315329.67; 648075.75, 3315317.56; 648086.79, 3315321.01; 648120.39, 3315312.74; 648176.28, 3315350.62; 648203.53, 3315357.65; 648219, 3315358.84; 648230.37, 3315365.07; 648234.5, 3315374.69; 648226.53, 3315376.58; 648211.27, 3315382.93; 648193.11, 3315377.72; 648177.47, 3315383.27; 648153.34, 3315378.69; 648146.42, 3315384.86; 648130.38, 3315374.94; 648111.14, 3315381.2; 648100.15, 3315375.37; 648083.27, 3315382.26; 648060.45, 3315389.43; 648059.15, 3315377.9; 648049.7, 3315374.1; 648032.62, 3315370.55; 648022.32, 3315356.76; 648001.5, 3315362.58; 648019.25, 3315367.78; 648011.11, 3315380.12; 647995.03, 3315382.63; 647972.84, 3315395.54; 647958.81, 3315384.49; 647943.33, 3315398; 647937.66, 3315403.38; 647929.57, 3315393.26; 647920.49, 3315390.66; 647893.83, 3315391.57; 647879.55, 3315390.42; 647871.89, 3315394.58; 647872.84, 3315388.66; 647865.06, 3315381.73; 647855.83, 3315385.46; 647846.82, 3315380.08; 647830.94, 3315379.28; 647817.41, 3315379.73; 647809.01, 3315381.9; 647790.89, 3315375.5; 647780.6, 3315373.65; 647750.03, 3315372.09; 647746.68, 3315378.74; 647742.42, 3315374.27; 647726.95, 3315373.09; 647717.08, 3315370.07; 647706.29, 3315372.57; 647701.32, 3315364.52; 647694.05, 3315369.09; 647679.16, 3315360.78; 647667.11, 3315365.63; 647646.91, 3315362.75; 647623.2, 3315372.85; 647615.33, 3315369.88; 647605.73, 3315372.01; 647583.08, 3315371.84; 647567.93, 3315373.44; 647555.94, 3315375.91; 647547.46, 3315381.25; 647535.39, 3315355.57; 647523.98, 3315366.78; 647515.12, 3315355.46; 647508.19, 3315362.42; 647503.97, 3315356.37; 647494.19, 3315365.63; 647491.73, 3315352.89; 647483.59, 3315360.61; 647470.61, 3315339.27; 647452.97, 3315345.17; 647442.05, 3315336.97; 647431.07, 3315346.6; 647419.45, 3315350.27; 647404.7, 3315351.88; 647399.58, 3315365.62; 647388.64, 3315358.21; 647383.15, 3315370.76; 647355.6, 3315360.15; 647348.05, 3315344.11; 647342.33, 3315350.31; 647328.64, 3315341.64; 647321.28, 3315349.77; 647321.83, 3315343.45; 647307.09, 3315344.66; 647244.34, 3315342.68; 647238.92, 3315336.99; 647220.78, 3315346.84; 647212.39, 3315364.07; 647198.21, 3315374.81; 647194.98, 3315360.86; 647173.94, 3315359.93; 647163.76, 3315369.58; 647150.61, 3315386.3; 647133.22, 3315382.29; 647130.74, 3315370.34; 647119.33, 3315381.54; 647110.49, 3315385.29; 647100.65, 3315381.47; 647100.71, 3315363.24; 647087.88, 3315351.81; 647078.33, 3315368.22; 647074.25, 3315356.62; 647067.43, 3315390.54; 647051.03, 3315388.75; 647041.59, 3315374.83; 647037.66, 3315351.42; 647004.98, 3315360.43; 646958.51, 3315358.86; 646910.66, 3315364.79.

650900.13, 3314517.96; 650230.78, 3315121.93; 650241.21, 3315144.07; 650258.29, 3315137.55; 650291.1, 3315122.21; 650293.24, 3315102.06; 650230.78, 3315121.93; 647384.03, 3316103.96; 647396.95, 3316111.82; 647395.11, 3316121.68; 647443.6, 3316121.71; 647689.9, 3316118.94; 647718.42, 3316116.36; 647738.77, 3316113.31; 647731.55, 3316100.04; 647722.43, 3316099.02; 647714.69, 3316075.04; 647691.91, 3316064.16; 647680.66, 3316053.17; 647670.55, 3316044.2; 647662.8, 3316036.47; 647652.64, 3316029.48; 647644.46, 3316022.93; 647632.56, 3316021.84; 647617.97, 3316017.11; 647610.04, 3316016.51; 647599.98, 3316021.41; 647597.7, 3316031.68; 647609.44, 3316102.91; 647602.45, 3316112.24; 647589.52, 3316026.3; 647585.03, 3316030.94; 647571.44, 3316033.77; 647560.04, 3316028.73; 647548.23, 3316024.07; 647538.64, 3316026.2; 647530.6, 3316029.57; 647524.52, 3316034.17; 647517.78, 3316033.61; 647512.98, 3316034.67; 647505.42, 3316035.28; 647496.64, 3316036.64; 647500.83, 3316043.48; 647491.11, 3316050.77; 647482.46, 3316046.98; 647478.65, 3316056.01; 647472.67, 3316057.04; 647471.98, 3316068.52; 647463.89, 3316073.87; 647453.71, 3316067.66; 647441.99, 3316075.3; 647402.16, 3316078.65; 647384.03, 3316103.96; 647912.59, 3316172.99; 647916.26, 3316200.83; 647919.83, 3316263.95; 647928.37, 3316303.41; 647942.57, 3316339.05; 647948.41, 3316343.95; 647949.78, 3316336.85; 647958.22, 3316333.49; 647965.77, 3316333.29; 647979.66, 3316334.43; 647990.99, 3316342.25; 648008.01, 3316345.06; 648017.55, 3316344.9; 648023.56, 3316343.07; 648032.46, 3316336.95; 648038.39, 3316338.29; 648041.75, 3316331.24; 648046.24, 3316326.6; 648064.6, 3316323.89; 648071.55, 3316331.99; 648076.41, 3316328.15; 648082.09, 3316323.54; 648088.2, 3316317.75; 648096.16, 3316317.55; 648102.15, 3316316.51; 648107.69, 3316317.45; 648119.45, 3316324.09; 648124.29, 3316321.04; 648123.22, 3316253.62; 648123.18, 3316239.35; 648114.01, 3316224.85; 647961.1, 3316172.24; 647922.87, 3316159.38; 647912.59, 3316172.99; 648144.03, 3316241.5; 648149.29, 3316270.56; 648203.01, 3316256.73; 648212.22, 3316281.67; 648287.3, 3316252.24; 648394.42, 3316213.33; 648447.43, 3316192.07; 648526.65, 3316203.19; 648542.72, 3316196.46; 648545.88, 3316153.86; 648553.39, 3316150.35; 648568.79, 3316155.89; 648603.36, 3316156.37; 648629.4, 3316148.3; 648695.02, 3316115.87; 648703.77, 3316099.84; 648764.73, 3316078.78; 648771.73, 3316100.76; 648788.06, 3316099.19; 648820.51, 3316089.31; 648859.3, 3316064.52; 648935.31, 3316061.29; 648963.85, 3316064.39; 648995.24, 3316049.32; 649026.4, 3316042.97; 649094.48, 3316007.43; 649189.88, 3315976.15; 649181.24, 3315946.69; 649199.27, 3315951.01; 649213.66, 3315947.81; 649219.2, 3315932.89; 649204.04, 3315936; 649195.54, 3315925.55; 649174.88, 3315925.03; 649159.43, 3315923.05; 649142.69, 3315924.61; 649116.06, 3315924.73; 649091.65, 3315930.86; 649058.62, 3315932.4; 649048.83, 3315957.92; 649026.12, 3315960.12; 648995.72, 3315967.28; 648976.81, 3315960.86; 648945.44, 3315975.13; 648928.54, 3315967.57; 648906.29, 3315982.86; 648863.36, 3315982.57; 648850.02, 3315991.35; 648833.59, 3315981.03; 648817.03, 3316007.17; 648779.48, 3316014.15; 648757.26, 3316028.25; 648731.86, 3316026.82; 648692.34, 3316033.35; 648642.55, 3316068.56; 648630.14, 3316087.67; 648611.05, 3316088.38; 648580.51, 3316085.63; 648541.19, 3316099.7; 648447.74, 3316101.31; 648413.73, 3316109.96; 648374.42, 3316108.18; 648371.15, 3316080.35; 648415.38, 3316060.45; 648423.32, 3316045.19; 648371.73, 3316057.37; 648368.94, 3316050.04; 648408.43, 3316036.49; 648425, 3316025.81; 648431.5, 3316035.89; 648442.34, 3316031.8; 648445.69, 3316041; 648473.31, 3316048.83; 648482.48, 3316016.56; 648467.46, 3316003.86; 648480.39, 3315998.45; 648489.07, 3316007.21; 648497.84, 3316022.1; 648510.43,

3316027.18; 648525.15, 3316026.76; 648551.52, 3316005.62; 648553.61, 3316017.56; 648561.84, 3316022.13; 648616.52, 3315997.75; 648680.93, 3315997.39; 648709.8, 3316002.88; 648755.37, 3315977.47; 648788.85, 3315958.1; 648820.73, 3315923.62; 648866.98, 3315918.05; 648916.64, 3315919.3; 648966.27, 3315921.75; 648978.87, 3315894.5; 649007.54, 3315893.06; 649023.56, 3315904.17; 649036.88, 3315896.18; 649074.21, 3315881.66; 649085.78, 3315879.97; 649100.86, 3315881.14; 649110.68, 3315870.29; 649124.54, 3315872.23; 649124.02, 3315892.83; 649138.26, 3315895.57; 649150.94, 3315881.61; 649151.56, 3315857.05; 649164.9, 3315832.42; 649186.43, 3315829.79; 649209.44, 3315847.42; 649185.96, 3315864.26; 649192.41, 3315876.32; 649235.07, 3315873.39; 649243.93, 3315882.38; 649265.13, 3315877.36; 649279.5, 3315874.95; 649294.23, 3315858.28; 649291.17, 3315846.64; 649297.29, 3315831.8; 649266.79, 3315843.31; 649220.28, 3315843.33; 649200.28, 3315832.52; 649197.77, 3315821.75; 649193.77, 3315791.13; 649203.58, 3315780.67; 649215.73, 3315771.86; 649247.1, 3315757.2; 649263.72, 3315760.39; 649258.29, 3315755.1; 649269.14, 3315750.22; 649275.38, 3315755.14; 649287.53, 3315746.33; 649294.69, 3315746.11; 649304.04, 3315753.48; 649321.68, 3315747.58; 649336.07, 3315744.38; 649347.95, 3315730.41; 649365.46, 3315714.2; 649365.88, 3315697.57; 649354.73, 3315666.76; 649354.11, 3315660.01; 649345.39, 3315658.99; 649339.83, 3315658.85; 649332.29, 3315658.27; 649322.45, 3315654.45; 649322.12, 3315651.67; 649314.03, 3315657.41; 649315.89, 3315662.21; 649323.36, 3315665.57; 649320.38, 3315673.43; 649309.73, 3315669.99; 649302.36, 3315662.67; 649303.41, 3315652.78; 649299.53, 3315649.12; 649294.56, 3315656.92; 649292.04, 3315662.41; 649287.19, 3315665.45; 649281.61, 3315666.11; 649277.19, 3315667.98; 649272.14, 3315678.95; 649277.67, 3315680.28; 649279.47, 3315687.85; 649277.34, 3315693.35; 649270.62, 3315691.99; 649265.64, 3315684.33; 649262.65, 3315676.73; 649257.51, 3315675.8; 649254.18, 3315681.67; 649256.47, 3315685.69; 649253.54, 3315691.16; 649245.86, 3315696.52; 649239.22, 3315691.59; 649234.19, 3315686.31; 649234.49, 3315674.43; 649233.08, 3315667.26; 649220.28, 3315670.5; 649216.53, 3315677.15; 649207.53, 3315671.77; 649200.46, 3315668.02; 649193.31, 3315667.84; 649184.72, 3315661.68; 649175.4, 3315668.97; 649162.72, 3315667.07; 649152.1, 3315662.84; 649143.43, 3315659.84; 649101.64, 3315661.96; 649056.02, 3315673.89; 649074.22, 3315708.44; 649068.53, 3315729.3; 649110.46, 3315768.81; 649100.78, 3315805.83; 649116.35, 3315818.91; 649064.62, 3315836.63; 649066.04, 3315859.26; 649048.21, 3315872.28; 649032.53, 3315879.42; 649020.46, 3315885.06; 649002.66, 3315881.84; 648971.13, 3315885.57; 648957.69, 3315868.02; 648834.4, 3315901.77; 648812.47, 3315904.39; 648757.71, 3315916.48; 648739.23, 3315908.09; 648710.07, 3315929.55; 648686.97, 3315947.2; 648603.63, 3315957.39; 648608.99, 3315965.45; 648611.55, 3315974.23; 648541.57, 3315990.7; 648533.86, 3315996.85; 648520.85, 3315992.56; 648516.55, 3315973.82; 648500.33, 3315971.03; 648475.24, 3315972.78; 648468.53, 3315986.48; 648438.88, 3316011.5; 648406.77, 3316023.77; 648350.29, 3316056.43; 648276.74, 3316088.27; 648220.11, 3316095.56; 648195.45, 3316096.13; 648181.49, 3316113.61; 648175.95, 3316128.14; 648158.39, 3316130.87; 648162.17, 3316154.35; 648209.65, 3316163.08; 648213.65, 3316193.7; 648230.16, 3316185.4; 648244.95, 3316191.19; 648231.77, 3316209.36; 648182.78, 3316218.17; 648147.79, 3316220.18; 648144.03, 3316241.5; 650174.08, 3315002.28; 650174.41, 3315002.97; 650212.59, 3315083.21; 650218.44, 3315095.67; 650241.58, 3315081.86; 650290.89, 3315059.85; 650315.41, 3315033.51; 650334.61, 3315028.71; 650353.26, 3315024.95; 650391.97, 3315003.2; 650399.67, 3314992.3; 650418.36, 3314986.96; 650442.33, 3314982.28; 650458.85, 3314978.47; 650467.13, 3314965.46; 650486.72, 3314966.49; 650490.59, 3314960.24; 650486.02, 3314952.2; 650489.87, 3314946.48; 650499.35, 3314948.84; 650509.45, 3314931.12; 650526.3, 3314956.52; 650532.87, 3314979.68; 650514.25, 3315008.54; 650490.06, 3315001.98; 650482.77, 3315017.65; 650455.01, 3315025.41; 650446.27, 3315035.76; 650415.65, 3315051.9; 650391.47, 3315053.41; 650367.31, 3315065.48; 650357.84, 3315074.22; 650367.22, 3315080.8; 650346, 3315090.71; 650308.94, 3315109.99; 650302.24, 3315114.04; 650305.31, 3315118.35; 650319.65, 3315114.85; 650358.8, 3315099.09; 650393.47, 3315080.34; 650422.13, 3315068.95; 650446.73, 3315057.44; 650479.64, 3315038.07; 650492.1, 3315026.26; 650536.95, 3315015.27; 650573.81, 3315000.04; 650595.04, 3314989.18; 650619.37, 3314969.97; 650647.84, 3314957.45; 650676.39, 3314950.09; 650685.6, 3314960.54; 650703.1, 3314960.19; 650717.36, 3314962.14; 650734.16,

3314950.01; 650750.69, 3314949.11; 650756.55, 3314937.36; 650767.67, 3314937.64; 650778.68, 3314926.82; 650798.93, 3314927.73; 650804.8, 3314915.59; 650819.27, 3314909.22; 650856.74, 3314889.55; 650857.34, 3314881.64; 650864.02, 3314884.58; 650876.88, 3314878.96; 650893.56, 3314879.78; 650914.77, 3314858.51; 650944.94, 3314844.61; 650979.15, 3314827.63; 650998.33, 3314823.76; 651002.37, 3314852.8; 651016.02, 3314847.59; 650974.02, 3314888.94; 650992.75, 3314887.43; 651012.75, 3314866.53; 651039.19, 3314845.89; 651067.08, 3314871.87; 651016.61, 3314886.85; 651003.91, 3314901.99; 650987.44, 3314908.71; 650950.16, 3314936.7; 650896.14, 3314966.26; 650833.49, 3314991.63; 650759.89, 3315040.9; 650722.96, 3315055.04; 650735.63, 3315065.39; 650714.84, 3315077.42; 650730.57, 3315084.16; 650712.22, 3315102.33; 650693.75, 3315093.94; 650612.31, 3315154.91; 650514.42, 3315221.41; 650517.25, 3315251.16; 650432.7, 3315293.47; 650390.45, 3315313.41; 650338.03, 3315348.3; 650368.11, 3315412.03; 650411.92, 3315376.19; 650443.93, 3315367.88; 650462.96, 3315354.09; 650502.56, 3315344.39; 650530.44, 3315311; 650547.01, 3315300.32; 650657.28, 3315200.04; 650718.82, 3315187.33; 650775.47, 3315147.93; 650815.71, 3315112.87; 650872.67, 3315077.05; 650903.23, 3315047.3; 650921.02, 3315051.32; 650963.92, 3315021.08; 650971.11, 3315004.22; 651027.48, 3314975.91; 651071.31, 3314967.5; 651024.79, 3315004; 650974.68, 3315036.94; 650953.94, 3315070.39; 650970.05, 3315077.94; 651004.33, 3315042.73; 651063.88, 3314998.65; 651098.03, 3314968.59; 651115.44, 3314956.35; 651139.33, 3314939.11; 651174.38, 3314971.98; 651075.68, 3315035.02; 651034.68, 3315068.47; 650953.07, 3315136.17; 650937.91, 3315154.02; 651041.5, 3315081.72; 651086.64, 3315057.49; 651096.91, 3315044.28; 651110.41, 3315029.16; 651183.21, 3314980.26; 651199.33, 3314971.55; 651216.82, 3314971.59; 651225.71, 3314965.87; 651232.27, 3314957.71; 651245.96, 3314966.78; 651266.55, 3314970.07; 651274.89, 3314954.43; 651276.59, 3314934.26; 651308.16, 3314927.92; 651330.18, 3314921.73; 651350.65, 3314913.93; 651351.06, 3314904.02; 651374.47, 3314883.61; 651351.67, 3314889.38; 651305.54, 3314905.65; 651261.37, 3314923.17; 651206.62, 3314919.01; 651200.22, 3314904.98; 651159.93, 3314910.3; 651139.12, 3314900.26; 651139.83, 3314919.31; 651102.54, 3314931.84; 651071.63, 3314943.34; 651035.5, 3314941.33; 651011.64, 3314927.18; 651022.98, 3314917.93; 651089.57, 3314894.24; 651116.11, 3314898.49; 651136.51, 3314908.92; 651136.77, 3314898.62; 651127.22, 3314883.31; 651117.59, 3314871.18; 651127.01, 3314844.46; 651094.1, 3314841.25; 651081.16, 3314865.09; 651055.96, 3314839.88; 651059.76, 3314831.25; 651099, 3314819.96; 651126.66, 3314795.7; 651095.75, 3314807.19; 651039.97, 3314812.12; 651030.34, 3314799.99; 651114.13, 3314787.38; 651126.11, 3314786.17; 651159.4, 3314760.24; 651176.5, 3314758.5; 651184.84, 3314758.72; 651188.07, 3314740.96; 651219.15, 3314722.32; 651244.84, 3314712.66; 651236.88, 3314697.4; 651211.72, 3314701.92; 651203.6, 3314692.99; 651156.51, 3314700.13; 651137.11, 3314681.4; 651104.92, 3314680.99; 651104.99, 3314662.87; 651098.75, 3314658.48; 651077.69, 3314673.16; 651086.14, 3314700.33; 651071.48, 3314698.38; 651063.52, 3314683.11; 651053.84, 3314672.96; 651041.57, 3314686.52; 651009.55, 3314695.23; 650997.41, 3314687.79; 650973.68, 3314698.68; 650916.7, 3314719.84; 650874.99, 3314734.24; 650848.51, 3314744.66; 650821.3, 3314751.12; 650807.09, 3314731.34; 650783.77, 3314741.85; 650777.29, 3314762.3; 650763.41, 3314760.76; 650720.89, 3314791.79; 650694.57, 3314810.95; 650644.7, 3314818.01; 650630.79, 3314817.66; 650614.88, 3314818.05; 650592.9, 3314822.65; 650562.01, 3314833.76; 650531.98, 3314842.52; 650500.1, 3314845.28; 650452.09, 3314873.4; 650392.21, 3314898.85; 650339.88, 3314909.02; 650314.56, 3314919.88; 650273.02, 3314943.4; 650259.37, 3314964.97; 650243.24, 3314974.08; 650245.73, 3314980.49; 650240.17, 3314990.92; 650223.68, 3314993.14; 650223.97, 3314981.52; 650232.55, 3314971.24; 650227.7, 3314959.95; 650215.6, 3314956.47; 650207.46, 3314958; 650215.05, 3314978.13; 650212.7, 3314987.05; 650224.61, 3314998.45; 650214.39, 3315004.01; 650206.08, 3314996.81; 650174.08, 3315002.28; 650750.5, 3315110.02; 650749.36, 3315111.2; 650751.24, 3315099.75; 650765.02, 3315089.39; 650787.73, 3315055.88; 650822, 3315036.92; 650844.96, 3315025.22; 650875.15, 3315010.12; 650918.57, 3314975.15; 650990.91, 3314944.07; 651000.03, 3314936.64; 651032.75, 3314949.25; 650959.61, 3314983.18; 650946.01, 3314997.11; 650919.93, 3315001.21; 650913.5, 3315018.62; 650902.47, 3315020.85; 650893.13, 3315013.21; 650879.03, 3315029.64; 650850.24, 3315052.3; 650816.56, 3315063.34; 650790.28, 3315065.06; 650760.48,

3315099.61; 650759.96, 3315100.76; 650759.47, 3315100.78; 650750.5, 3315110.02; 644789.78, 3317588.23; 644793.89, 3317598.64; 644807.03, 3317597.79; 644830.14, 3317595.59; 644843.69, 3317593.95; 644856.43, 3317593.48; 644880.71, 3317592.11; 644892.05, 3317599.53; 644913.45, 3317570.74; 644919.72, 3317574.07; 644910.25, 3317587.31; 644941.94, 3317622.99; 644953.83, 3317624.48; 644963.79, 3317639; 644974.83, 3317642.85; 644977.13, 3317630.22; 644975.15, 3317623.75; 644971.11, 3317616.99; 644977.65, 3317609.62; 644979.4, 3317619.18; 644988.01, 3317624.55; 644994.45, 3317621.54; 645003.22, 3317620.57; 645000.94, 3317632.01; 645003.11, 3317640.39; 645015.02, 3317641.08; 645029.88, 3317603.8; 645027.88, 3317588.29; 645020.18, 3317589.08; 645014.61, 3317610.16; 644989.14, 3317611.5; 644987.63, 3317592.43; 644976.19, 3317588.97; 644967.27, 3317580.03; 644982.38, 3317580.01; 644979.69, 3317560.52; 645004.05, 3317555.98; 645033, 3317574.55; 645045.2, 3317563.76; 645053.4, 3317553.66; 645056.14, 3317539.85; 645066.54, 3317537.34; 645070.01, 3317529.22; 645083.32, 3317533.8; 645097.23, 3317534.15; 645109.05, 3317522.56; 645113.45, 3317505.62; 645100.32, 3317490.23; 645105.54, 3317472.52; 645101.6, 3317455.38; 645094, 3317434.41; 645116.24, 3317395.1; 645110.08, 3317387.41; 645131.04, 3317376.05; 645140.41, 3317366.77; 645152.94, 3317374.23; 645167.96, 3317361.92; 645180.18, 3317369.14; 645178.07, 3317379.79; 645167.01, 3317384.09; 645161.99, 3317393.88; 645152.63, 3317405.69; 645138.69, 3317403.6; 645137.35, 3317424.97; 645134.8, 3317447.1; 645160.2, 3317448.93; 645168.89, 3317435.28; 645182, 3317419.75; 645172.8, 3317406.44; 645191.07, 3317375.58; 645209.52, 3317369.31; 645234.24, 3317350.51; 645229.25, 3317343.25; 645214.16, 3317342.87; 645214.04, 3317300.45; 645197.26, 3317288.14; 645235.08, 3317254.21; 645251.32, 3317240.75; 645269, 3317231.59; 645281.17, 3317223.66; 645278.3, 3317243.01; 645288.34, 3317254.76; 645299.39, 3317261.74; 645306.22, 3317277.14; 645305.68, 3317282.96; 645297.55, 3317283.53; 645300.29, 3317292.12; 645295.47, 3317297.58; 645286.16, 3317293.55; 645279.24, 3317315.97; 645303.81, 3317303.11; 645314.34, 3317295.45; 645328.24, 3317279.95; 645340.05, 3317269.15; 645334.54, 3317251.17; 645327.6, 3317242.67; 645316.54, 3317239.62; 645307.71, 3317242.96; 645300.75, 3317251.11; 645289.57, 3317237.35; 645293.62, 3317218.82; 645297.82, 3317209.81; 645294.47, 3317204.18; 645295.02, 3317194.68; 645269.44, 3317215.83; 645247.21, 3317230.73; 645216.73, 3317256.92; 645188.64, 3317283.16; 645187.31, 3317304.14; 645175.3, 3317307.8; 645167.98, 3317313.96; 645160.57, 3317308.62; 645146.45, 3317316.59; 645142.85, 3317301.83; 645136.99, 3317297.72; 645131.8, 3317314.23; 645123.14, 3317315.31; 645120.39, 3317294.13; 645107.74, 3317306.89; 645101.43, 3317320.6; 645091.34, 3317310.84; 645080.92, 3317314.54; 645082.54, 3317328.85; 645093.21, 3317331.5; 645096.08, 3317343.46; 645087.27, 3317361.87; 645074.48, 3317380.57; 645038.69, 3317396.71; 645006.84, 3317430; 644949.07, 3317466.6; 644936.8, 3317480.56; 644936.74, 3317498.39; 644886.58, 3317532.8; 644866.9, 3317509.32; 644895.72, 3317485.86; 644915.07, 3317459.4; 644938.72, 3317435.81; 644961, 3317419.33; 644979.2, 3317407.1; 645014.8, 3317382.63; 645042.11, 3317371.43; 645051.61, 3317357.4; 645045.46, 3317348.92; 645029.07, 3317352.87; 645020.15, 3317343.92; 645024.46, 3317329.36; 645047.2, 3317310.11; 645052.4, 3317285.05; 645073.34, 3317266.77; 645086.77, 3317270.28; 645083.17, 3317256.74; 645089.26, 3317250.53; 645117.8, 3317253.62; 645145.13, 3317272.94; 645162.77, 3317251.59; 645173.24, 3317230.45; 645186.04, 3317227.2; 645216.58, 3317229.95; 645246.27, 3317187.5; 645276.86, 3317172.81; 645293.02, 3317162.51; 645304.59, 3317169.74; 645306.51, 3317180.7; 645318.29, 3317186.15; 645322.49, 3317192.99; 645324.73, 3317199.23; 645313.54, 3317201.09; 645314.04, 3317212.99; 645328.81, 3317210.59; 645339.83, 3317198.98; 645351.21, 3317189.36; 645352.56, 3317177.88; 645372.65, 3317158.58; 645369.62, 3317152.96; 645353.73, 3317168.01; 645343.09, 3317167.32; 645335.58, 3317146.95; 645320.6, 3317157.67; 645307.48, 3317162.25; 645300.36, 3317147.94; 645306.83, 3317135.11; 645294.77, 3317124.5; 645317.21, 3317117.54; 645343.23, 3317110.27; 645367.51, 3317108.9; 645381.96, 3317103.71; 645397.61, 3317113.62; 645427.24, 3317104.85; 645482.96, 3317119.35; 645497.81, 3317097.92; 645547.52, 3317144.36; 645560.43, 3317136.76; 645562.77, 3317122.95; 645593.36, 3317092.01; 645603.67, 3317093.06; 645604.24, 3317079.6; 645616.71, 3317080.7; 645624.65, 3317080.9; 645628.36, 3317071.94; 645637.13, 3317074.88; 645636.04, 3317086.34; 645641.12, 3317089.64; 645643.4, 3317078.21; 645634.39, 3317057.37; 645632.81,

3317025.62; 645627.76, 3317020.73; 645619.56, 3317058.44; 645610.1, 3317059.13; 645605.67, 3317045.54; 645591.77, 3317060.65; 645577.37, 3317048.4; 645560.77, 3317060.66; 645551.62, 3317060.85; 645547.85, 3317036.95; 645535.45, 3317040.2; 645533.37, 3317059.57; 645512.84, 3317069.76; 645504.77, 3317058.46; 645498.47, 3317071.78; 645472.56, 3317080.71; 645470.61, 3317073.45; 645451.86, 3317090.41; 645438.91, 3317083.74; 645413.35, 3317090.12; 645425.28, 3317072.3; 645436.51, 3317052.77; 645461.32, 3317030.4; 645483.51, 3317017.48; 645505.57, 3317009.72; 645560.09, 3316960.35; 645540.33, 3316955.49; 645501.35, 3316977.67; 645499.65, 3316964.72; 645516.38, 3316947.7; 645533.03, 3316933.45; 645530.34, 3316914.36; 645523.22, 3316897.14; 645543.89, 3316897.26; 645547.71, 3316887.45; 645563.65, 3316885.87; 645570.46, 3316899.52; 645588.92, 3316892.85; 645617.48, 3316883.69; 645614.52, 3316891.83; 645605.44, 3316899.61; 645583.35, 3316908.56; 645591.34, 3316922.64; 645607.06, 3316914.31; 645630.65, 3316893.11; 645659.74, 3316874.42; 645682.14, 3316853.18; 645689.93, 3316859.72; 645708.62, 3316859.4; 645778.33, 3316822.31; 645829.76, 3316800.62; 645882.79, 3316778.17; 645958.79, 3316759.48; 646015.62, 3316712.95; 646062.72, 3316673.7; 646125.76, 3316649.13; 646169.43, 3316629.94; 646186.96, 3316628.4; 646202.12, 3316641.86; 646223.59, 3316642.01; 646245.5, 3316624.33; 646265.41, 3316606.99; 646302.01, 3316590.47; 646306.19, 3316598.11; 646327.77, 3316593.5; 646340.74, 3316599.38; 646312.14, 3316614.12; 646278.75, 3316645.38; 646237.43, 3316691.91; 646218.24, 3316696.18; 646175.65, 3316714.13; 646197.89, 3316683.38; 646190.09, 3316677.63; 646159.36, 3316698.26; 646112.79, 3316716.11; 646085.67, 3316724.53; 646097.07, 3316740.69; 646069.42, 3316764.96; 646058.07, 3316773.79; 646054.78, 3316762.22; 646030.21, 3316775.07; 646014.29, 3316775.86; 645989.24, 3316791.88; 645974.54, 3316791.51; 645959.05, 3316775.26; 645946.56, 3316782.08; 645938.34, 3316804.43; 645921.68, 3316806.82; 645896.25, 3316806.58; 645889.6, 3316817.9; 645902.19, 3316822.98; 645903.16, 3316833.26; 645882.54, 3316830.01; 645857.59, 3316842.07; 645783.11, 3316863.58; 645725.28, 3316886.7; 645734.27, 3316892.87; 645796.13, 3316881.67; 645804.61, 3316893.45; 645770.21, 3316917.56; 645723.46, 3316942.94; 645713.78, 3316964.1; 645774.88, 3316937.5; 645844.91, 3316903.19; 645877.76, 3316893.32; 645908.14, 3316886.55; 645929.73, 3316881.55; 645951.99, 3316865.86; 645965.57, 3316847.57; 645970.05, 3316859.18; 645985.2, 3316857.18; 645979.15, 3316829.28; 645996.38, 3316839.62; 646008.72, 3316838.75; 646015.11, 3316821.86; 646005.63, 3316819.64; 645991.23, 3316823.24; 645997.41, 3316814.68; 646011.12, 3316807.1; 646028.14, 3316809.9; 646052, 3316825.17; 646063.37, 3316815.55; 646087.58, 3316801.49; 646094.06, 3316812.36; 646112.58, 3316803.31; 646139.97, 3316788.94; 646162.76, 3316768.11; 646198.86, 3316755.15; 646197.21, 3316773.34; 646218.76, 3316754.06; 646260.76, 3316728.17; 646278.09, 3316703.24; 646275.83, 3316682.57; 646279.73, 3316669.59; 646308.08, 3316664.75; 646336.3, 3316664.67; 646360.1, 3316682.32; 646371.26, 3316681.41; 646390.74, 3316665.65; 646416.74, 3316659.17; 646437.21, 3316635.51; 646442.71, 3316590.85; 646471.51, 3316573.82; 646481.02, 3316511.83; 646516.92, 3316507.18; 646542.26, 3316495.53; 646567.38, 3316476.74; 646579.76, 3316476.52; 646595.37, 3316477.49; 646604.26, 3316464.2; 646621.74, 3316464.64; 646631.48, 3316456.96; 646642.2, 3316441.77; 646659.03, 3316436.25; 646682.33, 3316427.14; 646688.67, 3316428.46; 646689.02, 3316437.7; 646699.53, 3316433.93; 646714.83, 3316424.5; 646726.27, 3316406.89; 646744.88, 3316403.89; 646757.86, 3316394.4; 646752.94, 3316382.73; 646754.94, 3316372.39; 646769.15, 3316373.22; 646800.57, 3316341.12; 646818.72, 3316330.47; 646855.72, 3316329.43; 646870.02, 3316313.93; 646881.77, 3316305.51; 646885.58, 3316311.95; 646893.13, 3316312.14; 646896.94, 3316302.72; 646904.98, 3316299.35; 646912.05, 3316302.7; 646918.82, 3316302.08; 646935.26, 3316296.55; 646940.6, 3316289.55; 646949.3, 3316291.36; 646962.3, 3316280.58; 646973.54, 3316276.11; 646977.63, 3316271.46; 646988.08, 3316266.96; 647005.37, 3316259.08; 647018.26, 3316252.66; 647036.11, 3316253.91; 647043.69, 3316252.91; 647056.11, 3316249.26; 647081.07, 3316236.81; 647119.99, 3316224.55; 647080.88, 3316197.16; 647031.14, 3316167.76; 647017.38, 3316177.33; 647009.55, 3316172.37; 647006.65, 3316177.06; 647003.66, 3316185.31; 646995.09, 3316194.21; 646988.5, 3316203.16; 646977.42, 3316201.29; 646967.57, 3316197.87; 646961.43, 3316189; 646954.73, 3316186.85; 646950.27, 3316190.3; 646943.17, 3316188.14; 646937.79, 3316180.87; 646933.39, 3316181.95; 646929.7, 3316186.21; 646925.87, 3316196.42;

646928.89, 3316202.45; 646929.01, 3316213.55; 646929.59, 3316221.89; 646924.98, 3316231.28; 646917.24, 3316239.02; 646911.64, 3316240.06; 646909.47, 3316231.68; 646901.38, 3316221.57; 646896.79, 3316214.32; 646892.28, 3316204.3; 646883.81, 3316208.84; 646876.89, 3316215.4; 646870.41, 3316220; 646864.41, 3316221.43; 646861.84, 3316228.9; 646857.08, 3316228.38; 646849.39, 3316234.13; 646847.92, 3316244.8; 646841.67, 3316256.14; 646835.13, 3316263.5; 646828.3, 3316266.1; 646812.64, 3316265.87; 646806.06, 3316281; 646796.93, 3316296.23; 646791.32, 3316307.48; 646778.5, 3316310.62; 646758.21, 3316334.1; 646737, 3316355.37; 646703.99, 3316371.98; 646689.12, 3316378.34; 646682.69, 3316365.49; 646648.79, 3316385.25; 646641.18, 3316403.29; 646632.97, 3316413.79; 646621.61, 3316407.16; 646608.85, 3316408.82; 646597.47, 3316418.44; 646586.63, 3316422.92; 646565.51, 3316424.77; 646531.64, 3316443.73; 646511.15, 3316452.33; 646487.48, 3316460.85; 646471.56, 3316477.5; 646449.36, 3316474.96; 646448.13, 3316492.37; 646419.83, 3316479.36; 646407.39, 3316484.2; 646343.22, 3316490.91; 646266.9, 3316490.97; 646264.94, 3316505.58; 646256.44, 3316527.17; 646240.55, 3316542.62; 646214.14, 3316549.49; 646181.09, 3316551.43; 646154.61, 3316561.46; 646135.24, 3316557.01; 646122.38, 3316546.78; 646097.05, 3316558.03; 646070.92, 3316569.66; 646031.23, 3316598.78; 646000.38, 3316624.17; 645964.5, 3316643.88; 645885.45, 3316689.05; 645811.01, 3316740.29; 645759.15, 3316779.02; 645731.47, 3316789.02; 645705.83, 3316781.24; 645721.39, 3316747.54; 645693.48, 3316766.26; 645687.45, 3316784.74; 645681.13, 3316798.85; 645660.63, 3316807.85; 645656.72, 3316821.23; 645644.43, 3316819.73; 645628.26, 3316830.42; 645622.86, 3316855.25; 645635.36, 3316848.43; 645642.46, 3316834.74; 645656.42, 3316832.71; 645668.41, 3316846.1; 645656.15, 3316859.26; 645623.77, 3316866.38; 645621.46, 3316872.74; 645603.96, 3316863.89; 645580.36, 3316869.64; 645576.82, 3316852.51; 645564.7, 3316860.13; 645543.98, 3316861.98; 645526.23, 3316872.64; 645518.54, 3316886.82; 645506.69, 3316890.77; 645497.88, 3316893.33; 645474.88, 3316903.11; 645444, 3316913.82; 645415.14, 3316954.72; 645390.96, 3316983.44; 645396.47, 3317016.87; 645387.72, 3317032.9; 645379.52, 3317043; 645377.95, 3317051.6; 645366.96, 3317052.2; 645376.9, 3317036.6; 645374.1, 3317021.46; 645354.74, 3317048.32; 645316.03, 3317085.4; 645309.07, 3317109.41; 645304.99, 3317113.71; 645303.15, 3317091.82; 645293.13, 3317110.99; 645281.95, 3317112.69; 645242.5, 3317132.3; 645205.02, 3317152.76; 645173.69, 3317165.45; 645165.49, 3317175.55; 645148.76, 3317176.71; 645139.22, 3317176.87; 645136.12, 3317189.47; 645121.24, 3317196.23; 645129.43, 3317201.62; 645119.9, 3317217.61; 645107.96, 3317202.64; 645097.22, 3317218.62; 645081.05, 3317229.31; 645072.64, 3317216.02; 645059.24, 3317227.17; 645050.77, 3317247.57; 645036.59, 3317242.46; 645023.3, 3317265.11; 645006.34, 3317275.39; 644993.53, 3317279.03; 644975.7, 3317278.19; 644957.71, 3317297.95; 644960.08, 3317314.26; 644953.73, 3317329.56; 644940.64, 3317328.44; 644928.87, 3317338.05; 644912.8, 3317344.78; 644910.97, 3317354.25; 644900.93, 3317358.36; 644887.43, 3317373.48; 644873.93, 3317404.45; 644860.28, 3317425.51; 644848.43, 3317438.29; 644846.04, 3317454.09; 644833.39, 3317482.71; 644816.93, 3317520.74; 644801.53, 3317548.1; 644793.43, 3317569.7; 644789.78, 3317588.23; 650044.52, 3314728.63; 650129.41, 3314907.09; 650130.75, 3314909.94; 650146.98, 3314913.27; 650166.36, 3314916.93; 650189.16, 3314895.7; 650208.91, 3314885.1; 650278.63, 3314863.08; 650302.7, 3314854.57; 650354.92, 3314833.29; 650437.6, 3314801.69; 650455.95, 3314779.14; 650500.56, 3314780.29; 650543.08, 3314765.11; 650581.08, 3314755.76; 650626.86, 3314737.49; 650675.27, 3314709.38; 650719.36, 3314695.04; 650740.14, 3314691.71; 650756.11, 3314688.94; 650767.48, 3314679.19; 650787.77, 3314673.36; 650810.7, 3314668.12; 650821.9, 3314648.87; 650853.66, 3314650.46; 650882.06, 3314643.65; 650899.84, 3314632.21; 650927.24, 3314628.78; 650933.41, 3314615.2; 650950.21, 3314620.79; 650975.44, 3314629.36; 650997.62, 3314616.84; 651034.11, 3314620.14; 651049.14, 3314607.44; 651077.53, 3314632.33; 651092.73, 3314628.36; 651111.55, 3314638.74; 651106.98, 3314646.53; 651117.13, 3314644.15; 651125.72, 3314639.61; 651134.41, 3314631.37; 651140.56, 3314639.98; 651159.33, 3314635.59; 651197.58, 3314669.43; 651217.58, 3314675.22; 651225.03, 3314663.01; 651251.61, 3314649.41; 651275.94, 3314673; 651291.71, 3314678.15; 651318.87, 3314651.89; 651333.07, 3314635.33; 651349.27, 3314622.94; 651365.43, 3314644.36; 651376.86, 3314664.45; 651389.14, 3314661.06; 651429.84, 3314643.61; 651455.95, 3314638.96; 651449.92, 3314646.74; 651469.85, 3314649.37; 651456.49,

3314658.95; 651437.39, 3314659.65; 651438.25, 3314672.75; 651446.44, 3314678.91; 651466.38, 3314676.24; 651470.89, 3314686.66; 651458.64, 3314699.43; 651440.75, 3314699.38; 651419.04, 3314709.13; 651394.37, 3314710.1; 651392.14, 3314719.55; 651371.8, 3314722.21; 651370.45, 3314712.66; 651360.21, 3314709.23; 651347.68, 3314717.24; 651309, 3314721.82; 651292.73, 3314736.47; 651262.96, 3314723.05; 651240.78, 3314747.44; 651228.44, 3314769.58; 651214.53, 3314774.51; 651211.14, 3314782.88; 651222.16, 3314787.39; 651242.3, 3314787.37; 651237.83, 3314804.86; 651224.1, 3314815.45; 651221.24, 3314823.83; 651239.35, 3314820.06; 651265.81, 3314814.29; 651304.48, 3314792.19; 651279.49, 3314825.83; 651258.96, 3314841.17; 651249.84, 3314866.31; 651254.94, 3314874.36; 651270.42, 3314870; 651284.67, 3314872.47; 651278.07, 3314860.11; 651299.57, 3314846.85; 651317.13, 3314839.62; 651326.15, 3314846.04; 651334.64, 3314845.72; 651341.29, 3314834.26; 651374.99, 3314821.9; 651414.83, 3314816.47; 651446.21, 3314817.26; 651466.75, 3314819.46; 651490, 3314822.16; 651525.93, 3314805.63; 651527.3, 3314793.51; 651535.9, 3314788.97; 651545.26, 3314774.93; 651557.85, 3314780.01; 651559.63, 3314793.79; 651569.33, 3314790.24; 651595.34, 3314752.45; 651654.51, 3314732.33; 651675.17, 3314716.69; 651710.59, 3314690.75; 651755.74, 3314666.12; 651681.62, 3314664.74; 651682.57, 3314690.14; 651629, 3314712.57; 651616.58, 3314700.63; 651577.42, 3314698.05; 651572.01, 3314660.39; 651523.63, 3314664.23; 651513.12, 3314655.24; 651502.68, 3314612.56; 651491.08, 3314573.93; 651474.25, 3314586.04; 651467.85, 3314587.47; 651457.34, 3314584.03; 651442.07, 3314517.05; 651450.15, 3314511.97; 651459.65, 3314513.8; 651466.07, 3314511.32; 651470.58, 3314505.58; 651446.59, 3314425.64; 651431.54, 3314344.79; 651360.98, 3314349.58; 651301.83, 3314341.21; 651205.54, 3314355.17; 651111.26, 3314373.4; 650992.04, 3314393.11; 650860.74, 3314408.3; 650725.02, 3314451.38; 650637.55, 3314493.57; 650475.07, 3314547.08; 650401.15, 3314577.98; 650313.19, 3314618.57; 650205.5, 3314664.47; 650117.73, 3314697.67; 650044.52, 3314728.63.

649974.74, 3314867.18; 649799.35, 3315579.31; 649802.38, 3315585.95; 649824.27, 3315594.46; 649868.68, 3315598.75; 649889.14, 3315607.19; 649893.53, 3315600.96; 649901.53, 3315599.05; 649939.11, 3315601.05; 649948.24, 3315596.53; 649960.19, 3315585.2; 649982.51, 3315582.6; 649998.95, 3315578.23; 650094.64, 3315535.45; 650147.89, 3315520.55; 650152.78, 3315511.95; 650162.3, 3315512.71; 650191.75, 3315500.77; 650201.65, 3315486.75; 650226.96, 3315490.83; 650258.45, 3315471.41; 650319.39, 3315435.29; 650334.46, 3315432.5; 650358.38, 3315418.44; 650368.15, 3315410.44; 650338.07, 3315346.71; 650337.12, 3315347.34; 650286.94, 3315366.69; 650167.58, 3315433.84; 650123.06, 3315433.51; 650037.21, 3315464.64; 649942.84, 3315486.43; 649924.63, 3315482.3; 649913.35, 3315487.6; 649885.24, 3315488.71; 649863.84, 3315496.62; 649831.87, 3315503.21; 649803.15, 3315492.82; 649802.4, 3315493.45; 649799.35, 3315579.31; 649812.15, 3315231.74; 649846.73, 3315226.6; 649888.12, 3315229.78; 649927.67, 3315222.05; 649984.94, 3315209.88; 650021.49, 3315206.76; 650058.35, 3315191.53; 650073.85, 3315194.83; 650110.99, 3315172.38; 650121.34, 3315171.85; 650141.34, 3315182.66; 650159.45, 3315189.46; 650170.38, 3315181.8; 650171.48, 3315169.54; 650217.55, 3315151.54; 650241.25, 3315142.49; 650230.82, 3315120.34; 650205.52, 3315128.39; 650166.55, 3315144.45; 650142.7, 3315144.64; 650126.16, 3315139.72; 650134.92, 3315128.32; 650153.12, 3315121.38; 650179.78, 3315115.18; 650203.41, 3315103.09; 650218.48, 3315094.09; 650212.63, 3315081.62; 650174.45, 3315001.39; 650174.12, 3315000.69; 650173.78, 3315000.75; 650141.35, 3314993.99; 650116.08, 3315003.26; 650097.95, 3314996.86; 650079.63, 3315013.84; 650058.62, 3315011.72; 650033.93, 3315013.48; 649988.17, 3315015.1; 649983.43, 3315028.97; 650002.13, 3315028.92; 649996.61, 3315043.06; 649974.87, 3315054; 649931.63, 3315065.99; 649890.88, 3315074.59; 649880.99, 3315088.61; 649858.14, 3315095.45; 649849.55, 3315088.41; 649829.82, 3315099.1; 649817.14, 3315100.29; 649812.15, 3315231.74; 649818.69, 3315059.73; 649838.67, 3315079.5; 649837.11, 3315062.42; 649862.35, 3315038.87; 649887.54, 3315033.17; 649903.06, 3315016.91; 649928.55, 3315033.49; 649951.63, 3315013.78; 649955.22, 3314997.62; 649969.26, 3314976.96; 650006.49, 3314982.66; 650026.21, 3314957.39; 650034.53, 3314989.71; 650058.54, 3314983.57; 650083.37, 3314973.67; 650075.41, 3314961.01; 650087.48, 3314939.51; 650116.36, 3314929.14; 650120.52, 3314906.26; 650130.79, 3314908.36; 650129.45, 3314905.51; 650044.56, 3314727.04; 649965.62, 3314760.42; 649828.47, 3314804.48; 649818.69, 3315059.73.

(iii) Note: Map 2 of Unit 1 follows:

BILLING CODE 4310-55-P

BILLING CODE 4310-55-C

(7) SABM—Unit 2: Palm Point Unit, Gulf County, Florida.

(i) General Description: Unit 2 consists of 139 ac (56 ha) in Gulf County, Florida. This unit encompasses habitat from Palm Point 1.25 miles northwest of the inlet of the Gulf County Canal to St. Joe Beach and the area from the MHWL to the seaward extent of the maritime forest.

(ii) Coordinates: From USGS 1:24,000 quadrangle maps Overstreet, and Port St. Joe, Florida, land bounded by the following UTM 16 NAD 83 coordinates (E,N): 659796.42, 3305196.68; 660907.34, 3303158.99; 660909.34, 3303174.1; 660917.79, 3303164.76; 660905.4, 3303151.76; 660907.34, 3303158.99; 660636.45, 3303536.2; 660640.61, 3303544.63; 660657.52, 3303536.33; 660657.64, 3303531.57; 660663.36, 3303509.92; 660675.54, 3303489.26; 660665.45, 3303490.15; 660657.61, 3303490.79; 660645.12, 3303507.88; 660638.21, 3303529.5; 660631, 3303531.7; 660636.45, 3303536.2; 660753.22, 3303305.28; 660770.07, 3303317.79; 660776.95, 3303315.44; 660780.34, 3303322.66; 660787.9, 3303322.45; 660789.33, 3303313.37; 660788.37, 3303303.83; 660796.56, 3303294.53; 660812.8, 3303281.06; 660828.08, 3303269.91; 660834.67, 3303260.96; 660849.39, 3303244.68; 660855.21, 3303234.92; 660850.57, 3303229.65; 660843.08, 3303227.08; 660838.41, 3303243.26; 660821.91, 3303251.17; 660817.29, 3303260.96; 660810.82, 3303265.16; 660804.26, 3303272.92; 660793.02, 3303277.39; 660788.88, 3303284.03; 660781.75, 3303282.66; 660778.81, 3303288.93; 660774.19, 3303298.72; 660778, 3303305.16; 660763.47, 3303308.71; 660757.73, 3303305.04; 660753.22, 3303305.28; 660788.8, 3303470.28; 660801.51, 3303470.6; 660817.9, 3303467.05; 660852.34, 3303457.22; 660858.65, 3303448.7; 660868.8, 3303440.63; 660875.56, 3303424.55; 660893.42, 3303420.6; 660863.1, 3303393.67; 660854.4, 3303412.52; 660846.76, 3303415.9; 660843.69, 3303427.31; 660834.18, 3303441.74; 660825.92, 3303453.82; 660803.85, 3303461.98; 660804.44, 3303454.47; 660798.29, 3303461.84; 660788.8, 3303470.28; 660739.68, 3303447.63; 660740.33, 3303453.2; 660751.62, 3303462.6; 660762.22, 3303468.02; 660769.73, 3303469.8; 660774.4, 3303447.36; 660782.55, 3303434.45; 660782.92, 3303424.99; 660799.19, 3303420.99; 660814.48, 3303397.99; 660809.1, 3303390.72; 660801.36, 3303398.06; 660794.35, 3303408.19; 660777.31, 3303410.97; 660779.95, 3303401.13; 660779.78, 3303392.01; 660780.8, 3303383.31; 660792.2, 3303372.5; 660807.9, 3303364.97; 660805.54, 3303358.53; 660802.57, 3303350.52; 660804.93, 3303351.38; 660809.6, 3303355.46; 660816.67, 3303358.81; 660821.08, 3303357.33; 660810.33, 3303347.2; 660796.04, 3303338.47; 660786.1, 3303357.64; 660778.53, 3303373.3; 660773.75, 3303389.43; 660768.65, 3303402.38; 660761.96, 3303415.3; 660755.8, 3303423.07; 660746.73, 3303435.92; 660739.68, 3303447.63; 660866.96, 3303383.07; 660886.37, 3303401.39; 660892.55, 3303392.83; 660881.96, 3303387.41; 660879.06, 3303376.24; 660892.86, 3303365.09; 660898, 3303366.01; 660904.23, 3303371.32; 660905.48, 3303384.83; 660903.66, 3303393.9; 660890.46, 3303405.22; 660897.24, 3303411.98; 660904.84, 3303410.19; 660900.63, 3303403.74; 660904.84, 3303398.73; 660914.04, 3303396.59; 660919.87, 3303386.03; 660931.29, 3303374.83; 660935.16, 3303363.43; 660944.72, 3303362.48; 660948.91, 3303354.26; 660958.59, 3303348.56; 660960.42, 3303339.1; 660969.86, 3303327.44; 660972.4, 3303321.17; 660982.58, 3303322.96; 660987.61, 3303317.19; 660976.96, 3303309.61; 660963.29, 3303320.14; 660955.32, 3303320.73; 660943.55, 3303330.35; 660941.13, 3303316.02; 660929.22, 3303326.37; 660924.33, 3303335.81; 660933.95, 3303348.34; 660922.42, 3303348.44; 660906.12, 3303343.63; 660899.93, 3303352.59; 660892.07, 3303353.62; 660880.7, 3303362.85; 660867.96, 3303375.17; 660866.96, 3303383.07; 660799.14, 3303329.43; 660828.49, 3303352.41; 660832.75, 3303341.02; 660836.15, 3303332.39; 660849.33, 3303330.34; 660852.41, 3303318.53; 660861.09, 3303305.27; 660869.72, 3303294.39; 660867.45, 3303289.58; 660876.38, 3303282.27; 660892.6, 3303270; 660896.85, 3303254.6; 660874.27, 3303235.8; 660864.53, 3303243.48; 660851.48, 3303256.63; 660838.84, 3303268.99; 660828.6, 3303281.02; 660822.36, 3303291.57; 660817.41, 3303298.97; 660814.1, 3303308.45; 660808.31, 3303312.62; 660803.33, 3303321.21; 660799.14, 3303329.43; 660977.54, 3303039.87; 661017.29, 3303085.31; 661041.61, 3303064.43; 661063.53, 3303046.75; 661093.03, 3303027.68; 661109.37, 3303023.98; 661092.75, 3302990.81; 661081.01, 3302988.97; 661064.73, 3302988.16; 661058.64, 3302993.16; 661054.52, 3302998.61; 661044.82, 3303005.1; 661030.78, 3303009.9; 661023.84, 3303016.86; 661010.75, 3303027.19; 661003.87, 3303031.77; 660991.14, 3303036.64; 660985.45, 3303041.65; 660977.54, 3303039.87; 660885.69, 3303229; 660908.39, 3303243.05; 660916.26, 3303230.56; 660920.84, 3303222.35; 660939.28, 3303216.48; 660946.37, 3303203.18; 660954.57, 3303193.48; 660965.31, 3303193.35; 660972.28, 3303184.81; 660982.28, 3303182.29; 660991.6, 3303175.39; 660999.07, 3303162.89; 661025.78, 3303144.54; 661045.58, 3303131.96; 661051.32, 3303125.42; 661017.26, 3303093.12; 661006.9, 3303100.81; 660975.77, 3303121.04; 660952.61, 3303140.67; 660915.75, 3303183.34; 660912.39, 3303190.39; 660914.21, 3303197.17; 660907.71, 3303202.56; 660901.97, 3303213.95; 660897.87, 3303219; 660890.59, 3303223.57; 660885.69, 3303229; 661023.14, 3303088.76; 661042.49, 3303108.06; 661056.52, 3303119.51; 661066.8, 3303110.3; 661073.7, 3303104.92; 661088.05, 3303103.31; 661109.17, 3303096.66; 661131.39, 3303082.95; 661136.41, 3303077.57; 661150.96, 3303068.03; 661167.87, 3303059.74; 661174, 3303053.15; 661186.13, 3303045.14; 661201.61, 3303030.47; 661217.41, 3303018.97; 661251.3, 3303015.07; 661239.11, 3303013.14; 661232.45, 3303009; 661220.73, 3303000.78; 661211.2, 3302997.02; 661190.29, 3303001.99; 661181.8, 3303004.22; 661171.91, 3303005.49; 661160.58, 3303013.53; 661145.62, 3303023.46; 661129.98, 3303028.61; 661104.41, 3303033.52; 661093.99, 3303036.82; 661079.07, 3303045.16; 661050.71, 3303066.25; 661027.56, 3303085.48; 661023.14, 3303088.76; 661097.84, 3302988.14; 661115.67, 3303022.56; 661119.82, 3303021.62; 661139.09, 3303018.42; 661147.03, 3303014.77; 661164.85, 3303001.75; 661175.32, 3302996.46; 661179.44,

3302993.59; 661206.97, 3302986.96; 661228.17, 3302981.94; 661245.66, 3302981.99; 661259.84, 3302987.1; 661265.56, 3303001.16; 661273.97, 3302983.14; 661287.82, 3302985.87; 661297.92, 3302990.84; 661319.13, 3302989.44; 661321.62, 3302969.68; 661314.49, 3302953.25; 661297.06, 3302950.43; 661290.39, 3302962.95; 661281.7, 3302960.75; 661266.25, 3302969.82; 661252.03, 3302965.9; 661258.65, 3302955.76; 661263.4, 3302945.22; 661270.19, 3302939.8; 661282.63, 3302939.36; 661288.93, 3302941.9; 661293.5, 3302934.09; 661304.02, 3302926.82; 661312.82, 3302924.67; 661327, 3302914.32; 661320.44, 3302906.63; 661304.03, 3302910.97; 661298.65, 3302919.16; 661287.38, 3302924.82; 661263.07, 3302926.98; 661257, 3302931.19; 661248.35, 3302943.25; 661236.4, 3302939.34; 661230.11, 3302941.21; 661217.71, 3302944.07; 661209.54, 3302937.12; 661204.39, 3302936.2; 661197.83, 3302944.36; 661183.26, 3302938.84; 661175.93, 3302945.39; 661170.46, 3302957.54; 661162.48, 3302958.53; 661154.7, 3302963.04; 661146.39, 3302966.05; 661140.34, 3302969.46; 661130.56, 3302978.73; 661118.93, 3302982.79; 661107.8, 3302982.91; 661097.84, 3302988.14; 661037.61, 3303308.89; 661039.57, 3303322.07; 661047.73, 3303313.95; 661056.25, 3303307.03; 661068.91, 3303293.88; 661083.78, 3303287.51; 661092.13, 3303287.33; 661101.71, 3303285.98; 661115.42, 3303278.4; 661123.45, 3303259.58; 661120.54, 3303248.8; 661118.69, 3303243.6; 661129.92, 3303239.53; 661140.13, 3303228.69; 661163.23, 3303227.29; 661165.81, 3303219.43; 661176.76, 3303210.98; 661195.51, 3303192.83; 661202.04, 3303186.25; 661205.44, 3303177.62; 661216.6, 3303176.32; 661228.1, 3303177.4; 661247.7, 3303172.74; 661259.05, 3303164.31; 661268.41, 3303155.82; 661289.76, 3303144.47; 661301.53, 3303119.4; 661271.37, 3303132.91; 661250.06, 3303142.28; 661237.71, 3303143.55; 661217.65, 3303150.58; 661208.67, 3303159.86; 661200.82, 3303171.56; 661189.93, 3303177.62; 661184.13, 3303186.99; 661179.98, 3303193.62; 661168.72, 3303198.89; 661162.61, 3303188.83; 661139.32, 3303166.83; 661139.23, 3303154.54; 661144.57, 3303147.54; 661162.97, 3303143.25; 661170.32, 3303135.51; 661167.31, 3303128.08; 661177.92, 3303118.26; 661196.35, 3303112.38; 661193, 3303103.58; 661204.55, 3303102.68; 661215.3, 3303102.16; 661218.35, 3303091.54; 661234.74, 3303087.99; 661247.76, 3303091.88; 661252.25, 3303087.24; 661263.31, 3303090.29; 661275.9, 3303079.51; 661285.22, 3303072.61; 661307.29, 3303064.85; 661325.68, 3303060.55; 661339.3, 3303056.54; 661345.86, 3303048.78; 661362.18, 3303048; 661364.11, 3303034.57; 661375.91, 3303039.63; 661385.54, 3303035.91; 661390.2, 3303024.93; 661406.32, 3303016.22; 661413.62, 3303010.45; 661415.29, 3302991.47; 661375.53, 3303007.51; 661378.55, 3303013.93; 661379, 3303027.42; 661372.16, 3303030.81; 661365.31, 3303018.75; 661357.27, 3303022.11; 661348.04, 3303025.45; 661334.83, 3303029.08; 661324.51, 3303028.42; 661318.22, 3303041.34; 661309.54, 3303054.2; 661298.04, 3303053.12; 661297.86, 3303060.25; 661280.61, 3303066.55; 661265.09, 3303066.95; 661257.76, 3303073.9; 661247, 3303074.82; 661234.29, 3303074.5; 661217.15, 3303076.05; 661194.16, 3303088.94; 661180.54, 3303093.35; 661172.64, 3303107.03; 661162.84, 3303117.09; 661157.71, 3303131.23; 661146.82, 3303137.29; 661131.53, 3303144.44; 661121.21, 3303159.64; 661132.66, 3303162.7; 661160.59, 3303190.36; 661156.42, 3303197.79; 661160.13, 3303208.18; 661153.25, 3303213.16; 661150.27, 3303221.02; 661143.9, 3303221.25; 661130.97, 3303213.79; 661123.23, 3303221.13; 661116.02, 3303223.32; 661112.08, 3303237.49; 661110.96, 3303250.54; 661114.28, 3303260.54; 661111.98, 3303272.77; 661103.77, 3303283.26; 661096.71, 3303279.12; 661093.64, 3303275.08; 661087.53, 3303280.87; 661078.32, 3303283.41; 661067.06, 3303288.28; 661062.59, 3303292.13; 661051.15, 3303304.53; 661046.75, 3303305.6; 661046.09, 3303300.04; 661038.59, 3303301.39; 661037.61, 3303308.89; 660691.76, 3303549.88; 660684.96, 3303551.69; 660674.35, 3303546.66; 660673.03, 3303535.93; 660676.41, 3303528.08; 660668.92, 3303525.91; 660668.57, 3303539.38; 660668.2, 3303554.04; 660678.98, 3303583.64; 660693.41, 3303610.56; 660711.33, 3303602.68; 660707.65, 3303590.7; 660717.14, 3303577.07; 660727.18, 3303573.36; 660733.46, 3303560.83; 660734.87, 3303552.15; 660729.08, 3303545.26; 660730.66, 3303536.59; 660732.25, 3303529.88; 660740.68, 3303518.99; 660760.7, 3303517.57; 660762.32, 3303526.69; 660756.12, 3303536.04; 660745.44, 3303534.19; 660740.65, 3303534.86; 660740.45, 3303542.78; 660746.49, 3303544.96; 660749.4, 3303555.34; 660741.14, 3303567.82; 660737.92, 3303584.78; 660726.85, 3303598.37; 660783.34, 3303581.17; 660774.28, 3303561.92; 660780.02, 3303555.32; 660785.89, 3303543.18; 660797.11, 3303539.5; 660808.61, 3303525.13;

660814.9, 3303512.21; 660822.75, 3303500.51; 660838.63, 3303485.85; 660848.11, 3303467.42; 660824.08, 3303474.34; 660798.49, 3303480.04; 660784.19, 3303479.67; 660776.8, 3303493.8; 660770.3, 3303499.58; 660762.66, 3303497.76; 660763.26, 3303489.85; 660767.53, 3303478.06; 660748.28, 3303468.86; 660736.58, 3303459.84; 660730.29, 3303457.3; 660719.27, 3303468.52; 660701.05, 3303481.54; 660690.92, 3303489.21; 660681.19, 3303496.49; 660693.88, 3303513.46; 660689.86, 3303515.34; 660686.9, 3303522.01; 660696, 3303523.82; 660702.93, 3303532.72; 660700.32, 3303541.77; 660691.76, 3303549.88; 658910.47, 3307303.38; 658937.87, 3307257.7; 658991.03, 3307152.02; 659047.09, 3307042.05; 659077.93, 3306986.15; 659090.78, 3306965.07; 659123.34, 3306904.06; 659158.85, 3306820.52; 659179.95, 3306763.2; 659183.84, 3306751.01; 659185.09, 3306741.91; 659195.63, 3306725.15; 659183.92, 3306716.53; 659181.43, 3306720.43; 659174.64, 3306721.84; 659161.51, 3306715.55; 659157.78, 3306705.94; 659164.34, 3306704.54; 659180.24, 3306713.64; 659187.57, 3306713.45; 659197.67, 3306722.82; 659216.24, 3306705.04; 659192.41, 3306672.73; 659180.57, 3306653.8; 659176.04, 3306635.07; 659196.02, 3306615.36; 659197.84, 3306637.6; 659199.3, 3306642.79; 659215.39, 3306635.67; 659225.83, 3306640.28; 659220.5, 3306646.88; 659224.2, 3306657.67; 659229.51, 3306651.86; 659254.62, 3306618.01; 659290.58, 3306548.36; 659358.41, 3306412.93; 659387.11, 3306347.06; 659386.68, 3306332.78; 659387.86, 3306317.75; 659396.59, 3306302.51; 659394.9, 3306297.73; 659384.52, 3306299.45; 659378.89, 3306310.78; 659371.6, 3306322.9; 659359.86, 3306324.18; 659356.59, 3306318.96; 659359.55, 3306305.14; 659368.09, 3306281.97; 659378.19, 3306275.49; 659383.64, 3306264.53; 659392.01, 3306263.55; 659393.23, 3306278.25; 659402.79, 3306277.7; 659410.69, 3306264.02; 659414.47, 3306271.65; 659417.81, 3306265.39; 659418.45, 3306255.5; 659431.7, 3306241.58; 659432.84, 3306236.83; 659462.14, 3306178.91; 659533.7, 3306037.62; 659583.51, 3305923.14; 659645.63, 3305793.51; 659701.75, 3305649.85; 659765.32, 3305494.49; 659812.66, 3305367.65; 659834.31, 3305304.4; 659794.15, 3305304.57; 659798.46, 3305291.6; 659800.4, 3305277.78; 659804.44, 3305275.1; 659810.21, 3305228.86; 659862.8, 3305231.39; 659902.72, 3305108.32; 659927.65, 3305025.32; 659888.22, 3305021.54; 659895.09, 3305008.25; 659896.38, 3304988.46; 659904.84, 3304984.32; 659907, 3304961.78; 659912.25, 3304958.34; 659913.27, 3304949.65; 659934.32, 3304950.18; 659944.47, 3304957.57; 659951.23, 3304957.74; 659987.21, 3304848.84; 660038.45, 3304693.56; 660088.68, 3304546.98; 660138.42, 3304403.96; 660145.03, 3304378.36; 660136.8, 3304380.55; 660140.53, 3304367.94; 660137.82, 3304364.7; 660127, 3304375.14; 660122.03, 3304382.95; 660114.92, 3304374.43; 660121.64, 3304344.47; 660128.98, 3304337.13; 660137.28, 3304323.46; 660141.93, 3304312.48; 660149.7, 3304303.96; 660155.93, 3304293.41; 660154.37, 3304276.73; 660163.34, 3304258.73; 660167.72, 3304251.7; 660166.79, 3304241.37; 660172.94, 3304233.99; 660181.69, 3304224.71; 660193.59, 3304219.05; 660196.89, 3304230.24; 660187.84, 3304242.29; 660190.1, 3304262.96; 660256.21, 3304132.64; 660311.79, 3304010.37; 660361.84, 3303902.24; 660411.44, 3303843.24; 660447.63, 3303795.4; 660528.34, 3303716.97; 660540.61, 3303703.41; 660532.93, 3303692.52; 660546.31, 3303682.15; 660557.34, 3303670.54; 660556.96, 3303654.28; 660553.23, 3303644.67; 660560.02, 3303627.4; 660574.47, 3303613.11; 660579.99, 3303614.84; 660580.98, 3303623.19; 660587.62, 3303627.72; 660594.96, 3303604.91; 660586.42, 3303596.77; 660582.69, 3303595.87; 660579.41, 3303590.65; 660580.96, 3303585.52; 660589.64, 3303572.66; 660599.01, 3303554.67; 660591.52, 3303552.11; 660588.32, 3303552.82; 660581.67, 3303564.54; 660560.5, 3303552.51; 660566.54, 3303534.03; 660600.3, 3303550.74; 660607.78, 3303538.25; 660613.11, 3303531.64; 660621.56, 3303527.89; 660598.24, 3303506.69; 660599.88, 3303504.75; 660625.96, 3303526.82; 660628.46, 3303521.72; 660634.94, 3303517.53; 660635.49, 3303511.6; 660636.9, 3303502.91; 660649.97, 3303488.97; 660654.39, 3303484.38; 660659.97, 3303476.18; 660670.19, 3303464.95; 660677.23, 3303454.03; 660680.2, 3303446.57; 660673, 3303432.52; 660669.36, 3303419.34; 660678.69, 3303412.05; 660673.24, 3303407.55; 660683.4, 3303398.69; 660686.49, 3303386.48; 660696.2, 3303379.99; 660702.45, 3303368.65; 660704.71, 3303358; 660713.92, 3303355.07; 660702.17, 3303343.23; 660711.6, 3303331.97; 660712.08, 3303328.42; 660716.58, 3303323.38; 660723.6, 3303329.11; 660730.19, 3303319.76; 660744.88, 3303305.07; 660748.94, 3303301.6; 660749.59, 3303296.91; 660755.77, 3303288.34; 660758.77, 3303279.7; 660769.79, 3303268.48; 660774.36, 3303260.67; 660761.66,

3303259.95; 660765.52, 3303248.56; 660769.87, 3303234; 660780.67, 3303215.64; 660787.97, 3303209.88; 660789.53, 3303203.54; 660798.17, 3303199.44; 660812.02, 3303186.31; 660815.01, 3303173.26; 660811.94, 3303168.82; 660815.17, 3303166.92; 660825.55, 3303165.2; 660833.38, 3303169.76; 660841.56, 3303176.71; 660847.16, 3303180.46; 660854.48, 3303173.91; 660851.96, 3303163.54; 660855.75, 3303155.31; 660865.51, 3303146.44; 660869.4, 3303134.25; 660881.8, 3303131.39; 660865.01, 3303113.88; 660867.89, 3303110.38; 660886.07, 3303130.26; 660891.39, 3303129.25; 660883.6, 3303118.31; 660886.59, 3303110.46; 660892.64, 3303107.04; 660896.56, 3303109.13; 660896.81, 3303115.08; 660901.71, 3303114.45; 660908.34, 3303103.52; 660912.77, 3303096.45; 660921.68, 3303089.94; 660955.76, 3303067.86; 660960.77, 3303069.13; 660959.57, 3303074.29; 660943.12, 3303096.08; 660933.28, 3303107.72; 660929.99, 3303112.39; 660925.84, 3303119.03; 660923.71, 3303124.52; 660919.81, 3303133.1; 660916.55, 3303140.59; 660908.36, 3303148.8; 660922.25, 3303161.3; 660948.77, 3303135.42; 660975.61, 3303111.52; 661002.6, 3303097.93; 661013.67, 3303088.43; 660974.51, 3303042.08; 660977.54, 3303039.87; 660962.56, 3303050.59; 660949.61, 3303043.92; 660956.68, 3303031.81; 660969.13, 3303021.38; 660972.15, 3303012.34; 660978.45, 3303014.48; 660996.83, 3303000.32; 661011.71, 3302993.56; 661029.63, 3302976.97; 661040.82, 3302974.48; 661053.42, 3302963.7; 661062.63, 3302961.16; 661080.73, 3302952.89; 661093.77, 3302940.14; 661102.14, 3302939.56; 661128.09, 3302935.06; 661143.07, 3302924.34; 661155.47, 3302921.49; 661164.38, 3302914.97; 661222.28, 3302904.94; 661239.9, 3302899.84; 661258.68, 3302896.35; 661265.47, 3302894.93; 661295.59, 3302898.86; 661299.02, 3302889.04; 661306.92, 3302890.83; 661317.34, 3302887.52; 661326.72, 3302862.79; 661288.04, 3302870.49; 661224.73, 3302886.77; 661147.52, 3302908.95; 661107.38, 3302924.19; 661065.22, 3302940.57; 660989.51, 3302991.02; 660940.64, 3303021.49; 660908.9, 3303053.55; 660840.82, 3303120; 660798.16, 3303168.52; 660741.91, 3303242.36; 660727.87, 3303263.02; 660705.44, 3303316.76; 660632.82, 3303405.69; 660570.32, 3303503.21; 660536.64, 3303545.56; 660509.67, 3303574.61; 660449.97, 3303671.4; 660370.89, 3303764.14; 660279.09, 3303888.26; 660182.87, 3304014.26; 660131.41, 3304099.77; 660089.85, 3304186.32; 660063.06, 3304270.86; 660014.03, 3304433.33; 659983.08, 3304556.22; 659943.6, 3304686.82; 659898.04, 3304821.62; 659832.7, 3304968.62; 659798.66, 3305088.26; 659757.46, 3305223.57; 659716.38, 3305354.53; 659674.84, 3305487.45; 659626.78, 3305611.5; 659551.13, 3305772.89; 659470.72, 3305902.46; 659419.27, 3306018.89; 659330.07, 3306181.53; 659299.31, 3306250.12; 659250.2, 3306368.58; 659217.01, 3306438.7; 659177.94, 3306521.74; 659155.42, 3306594.51; 659107.55, 3306648; 659045.42, 3306746.71; 658975.27, 3306863.85; 658934.56, 3306917.13; 658883.34, 3307008.59; 658845.43, 3307077; 658814.08, 3307137.65; 658796.12, 3307171.68; 658761.89, 3307236.22; 658699.43, 3307347.61; 658641.08, 3307485.66; 658618.49, 3307545.34; 658576.59, 3307661.61; 658498.2, 3307837.21; 658453.55, 3307952.22; 658387.87, 3308080.97; 658359.61, 3308113.95; 658316.82, 3308186.59; 658266.12, 3308273.31; 658312.81, 3308297.88; 658357.07, 3308228.19; 658340.36, 3308214.15; 658342.1, 3308208.25; 658351.38, 3308202.93; 658367.72, 3308211.43; 658381.95, 3308189.03; 658417.46, 3308136.82; 658393.96, 3308122.75; 658385.3, 3308119.36; 658400.65, 3308093.98; 658407.82, 3308093.37; 658420.01, 3308098.83; 658435.08, 3308100.4; 658524.07, 3307961.93; 658615.6, 3307816.78; 658690, 3307689.05; 658778.02, 3307541.44; 658850.63, 3307405.73; 658901.14, 3307326.54; 658892.91, 3307321.97; 658875.12, 3307317.95; 658863.56, 3307319.24; 658853.93, 3307322.57; 658844.02, 3307305.67; 658845.59, 3307291.04; 658852.42, 3307272.19; 658848.27, 3307263.36; 658848.41, 3307249.11; 658835.09, 3307241.24; 658820.5, 3307229.76; 658833.67, 3307234.47; 658849.15, 3307244.36; 658852.04, 3307255.93; 658855.17, 3307257.99; 658868.54, 3307248.02; 658873.6, 3307236.65; 658873.37, 3307214.45; 658878.27, 3307209.42; 658887.95, 3307203.72; 658891.42, 3307192.31; 658894.18, 3307184.47; 658898.22, 3307181.8; 658889.58, 3307208.93; 658882.11, 3307230.13; 658874.47, 3307249.36; 658864.7, 3307258.23; 658861.28, 3307274.81; 658854.47, 3307285.72; 658853.87, 3307300.38; 658864.54, 3307303.03; 658872.16, 3307309.15; 658878.91, 3307309.33; 658889.07, 3307300.86; 658895.24, 3307292.69; 658900.67, 3307297.98; 658910.47, 3307303.38; 658894.77, 3307284.32; 658894.42, 3307278.01; 658901.47, 3307266.29; 658906.23, 3307250.95; 658914.72, 3307245.62; 658920.18, 3307249.72; 658921.5, 3307260.46; 658915.54, 3307275.77; 658907.78, 3307284.29; 658894.77, 3307284.32; 658918.52, 3307236.6; 658916.35, 3307228.22; 658928.12, 3307203.15; 658945.58, 3307173.07; 658969.21, 3307134.82; 658973.22, 3307149.19; 658956.68, 3307174.14; 658952.92, 3307181.58; 658948.47, 3307184.24; 658947.72, 3307198.49; 658943.25, 3307202.34; 658933.62, 3307221.52; 658933.77, 3307231.04; 658932.34, 3307240.52; 658923.66, 3307237.92; 658918.52, 3307236.6.

(8) SABM—Unit 3: St. Joseph Peninsula, Gulf County, Florida.

(i) General Description: Unit 3 consists of 1,501 ac (607 ha) in Gulf County, Florida. This unit encompasses essential features of beach mouse habitat within the boundary of St. Joseph Peninsula State Park (Park) as well as south of the Park to the peninsula's constriction north of Cape San Blas (also known as the “stumphole” region) and area from the MHWL to the seaward extent of the maritime forest.

(ii) Coordinates: From USGS 1:24,000 quadrangle maps Beacon Hill, St. Joseph Point, St. Joseph Peninsula, Cape San Blas, Florida, land bounded by the following UTM 16 NAD 83 coordinates (E,N): 655701.41, 3289444.44; 655563.64, 3289904.3; 655566.88, 3289886.15; 655573.99, 3289872.46; 655577.86, 3289860.67; 655599.16, 3289867.54; 655630.56, 3289867.94; 655639.95, 3289873.72; 655642.12, 3289882.5; 655646.73, 3289888.96; 655648.92, 3289896.54; 655666.68, 3289901.74; 655684.38, 3289862.16; 655703.42, 3289816.66; 655719.54, 3289776.64; 655758.42, 3289685.27; 655724.83, 3289677.29; 655706.23, 3289673.66; 655707.11, 3289686.36; 655712.46, 3289694.82; 655710.46, 3289705.45; 655703.43, 3289706.09; 655702.37, 3289716.36; 655707.41, 3289721.64; 655707.94, 3289731.96; 655702.12, 3289742.12; 655694.38, 3289749.45; 655707.49, 3289765.64; 655687.78, 3289774.65; 655679.46, 3289789.11; 655668.51, 3289813.41; 655653.23, 3289836.01; 655626.23, 3289819.08; 655644.29, 3289780.69; 655633.94, 3289781.23; 655625.75, 3289775.07; 655624.47, 3289762.76; 655633.87, 3289752.69; 655624.25, 3289739.76; 655630.94, 3289726.85; 655636, 3289715.48; 655644.52, 3289708.57; 655643.19, 3289698.23; 655643.89, 3289686.35; 655650.79, 3289680.58; 655650.2, 3289672.64; 655640.92, 3289662.1; 655643.89, 3289654.65; 655648.92, 3289644.47; 655642.66, 3289640.74; 655639.22, 3289635.11; 655597.13, 3289617.01; 655591.32, 3289626.77; 655584.2, 3289625.4; 655582.77, 3289619.02; 655568.4, 3289605.58; 655580.45, 3289584.88; 655597.74, 3289593.24; 655605.88, 3289601.37; 655603.25, 3289610.82; 655636.65, 3289626.72; 655648.97, 3289627.03; 655641.77, 3289612.98; 655635.21, 3289604.89; 655628.46, 3289588.86; 655633.24, 3289572.73; 655653.88, 3289574.05; 655669.73, 3289576.03; 655698.95, 3289584.3; 655709.87, 3289577.04; 655723.5, 3289588.08; 655788.29, 3289620.23; 655820.17, 3289538.6; 655848.15, 3289469.94; 655886.33, 3289390.45; 655894.52, 3289365.29; 655906.16, 3289345.37; 655934.16, 3289322.69; 655935.76, 3289323.55; 655935.63, 3289310.24; 655931.91, 3289317.48; 655919.27, 3289314.39; 655935.21, 3289269.88; 655929.57, 3288719.84; 655922.07, 3288746.5; 655903.78, 3288794; 655868.62, 3288863.66; 655850.75, 3288909.98; 655836.63, 3288965.51; 655831.18, 3288992.32; 655806.89, 3289041.25; 655787.41, 3289088.32; 655773.35, 3289141.08; 655747.87, 3289205.44; 655722.41, 3289253.55; 655707.05, 3289294.78; 655682.75, 3289344.1; 655632.18, 3289457.37; 655604.69, 3289538.33; 655574.82, 3289556.2; 655556.11, 3289604.08; 655539.79, 3289683.73; 655525.21, 3289741.63; 655508.96, 3289770.94; 655485.78, 3289838.53; 655484.05, 3289859.89; 655476.66, 3289885.07; 655467.68, 3289909.81; 655467.06, 3289912.69; 655553.51, 3289913.91.

656482.55, 3287452.66; 654486.56, 3293189.35; 654502.55, 3293188.2; 654526.42, 3293185.79; 654528.36, 3293157.15; 654529.31, 3293119.39; 654529.95, 3293094.22; 654520.3, 3293090.6; 654523.95, 3293094.57; 654523.66, 3293106.05; 654517.61, 3293172.49; 654512.09, 3293172.35; 654510.64, 3293180.64; 654493.54, 3293179.95; 654494.16, 3293172.29; 654481.07, 3293171.17; 654477.29, 3293179; 654457.45, 3293177.31; 654455.98, 3293157.06; 654462.07, 3293152.06; 654471.97, 3293153.5; 654480.37, 3293167.19; 654510.96, 3293167.96; 654513.09, 3293162.46; 654515.48, 3293146.67; 654516.74, 3293096.76; 654499.84, 3293088.81; 654494.89, 3293080.36; 654475.97, 3293073.94; 654466.66, 3293064.59; 654448.47, 3293060.56; 654451.89, 3293035.68; 654457.73, 3293027.93; 654466.21, 3293005.76; 654477.09, 3292968.38; 654489.51, 3292933.02; 654493.75, 3292922.43; 654496.77, 3292913.39; 654498.39, 3292896.39; 654511.53, 3292864.22; 654529.76, 3292803.24; 654535.6, 3292775.01; 654541.54, 3292775.95; 654549.03, 3292746; 654562.49, 3292749.13; 654569.19, 3292719.97; 654595.27, 3292726.57; 654617.72, 3292658.02; 654620.18, 3292653.08; 654600.85, 3292647.05; 654607.71, 3292627.4; 654629, 3292634.28; 654652.48, 3292617.83; 654644.25, 3292613.26; 654625.08, 3292602.71; 654617.34, 3292610.05; 654595.19, 3292605.53; 654606.27, 3292576.08; 654621.03, 3292574.08; 654638.23, 3292554.3; 654648.57, 3292552.33; 654649.38, 3292536.11; 654656.55, 3292535.49; 654655.3, 3292521.99; 654652.95, 3292504.88; 654681.19, 3292504.41; 654693.43, 3292507.49; 654717.66, 3292508.5; 654715.6, 3292527.07; 654684.86, 3292532.24; 654682.35, 3292536.94; 654677.63, 3292550.69; 654684.67, 3292555.23; 654689.78, 3292557.73; 654684.16, 3292591.28; 654726.06, 3292585.2; 654726.18, 3292550.96; 654730.62, 3292532.45; 654731.48, 3292512.41; 654733.33, 3292486.3; 654731.97, 3292477.15; 654725.56, 3292478.97; 654718.9, 3292475.23; 654716.25, 3292470.01; 654716.04, 3292462.48; 654718.93, 3292458.19; 654725.4, 3292453.99; 654732.12, 3292455.35; 654735.76, 3292453.07; 654742.31, 3292445.7; 654744.09, 3292438.22; 654748.85, 3292422.88; 654750.28, 3292413.4; 654752.46, 3292405.53; 654760.26, 3292397.64; 654769.11, 3292376.22; 654766.84, 3292371.41; 654755.7, 3292371.92; 654731.12, 3292368.92; 654724.29, 3292356.07; 654727.72, 3292346.25; 654734.67, 3292338.89; 654747.39, 3292322.96; 654755.47, 3292302.16; 654766.66, 3292284.21; 654771.68, 3292274.43; 654776.86, 3292258.31; 654766.53, 3292242.19; 654750.56, 3292229.11; 654736.25, 3292227.66; 654677.6, 3292223.15; 654671.47, 3292261.44; 654653.65, 3292319.58; 654625.17, 3292404.81; 654603.88, 3292492.18; 654585.24, 3292552.73; 654534.96, 3292719.41; 654519.09, 3292769.28; 654498.45, 3292810.34; 654490.2, 3292842.67; 654455.39, 3292961.89; 654442.59, 3293015.6; 654416.77, 3293121.44; 654403.02, 3293161.91; 654397.66, 3293187.82; 654486.56, 3293189.35; 654967.27, 3291678.94; 655027.24, 3291681.65; 655107.15, 3291681.78; 655107.24, 3291663.89; 655060.71, 3291663.26; 655029.2, 3291660; 654994.6, 3291662.08; 654968.85, 3291665.37; 654950.1, 3291664.9; 654924.44, 3291664.75; 654911.74, 3291658.99; 654905.57, 3291651.7; 654913.14, 3291643.3; 654929.41, 3291643.71; 654947.6, 3291646.63; 654966.62, 3291655.97; 655001.13, 3291657.33; 655037.7, 3291655.79; 655077.6, 3291658.76; 655107.28, 3291657.96; 655107.42, 3291631.47; 655041.51, 3291633.32; 654994.15, 3291635.3; 654967.57, 3291633.04; 654951.37, 3291629.07; 654944.6, 3291629.29; 654941.98, 3291638.74; 654931.99, 3291640.87; 654909.37, 3291639.11; 654908.12, 3291626.94; 654918.59, 3291620.32; 654944.07, 3291618.98; 654945.54, 3291623.77; 654962.49, 3291629.35; 655010.14, 3291631.74; 655033.62, 3291630.74; 655102.98, 3291627.26; 655107.48, 3291621.16; 655107.56, 3291605.26; 655071.02, 3291602.75; 655039.44, 3291606.61; 654967.34, 3291614.81; 654947.4, 3291613.11; 654936.8, 3291607.7; 654931.42, 3291615.88; 654909.97, 3291615.34; 654909.79, 3291606.62; 654914.87, 3291594.46; 654920.47, 3291577.16;

654950.39, 3291577.52; 654955.1, 3291580.02; 654992.93, 3291582.62; 655035.93, 3291580.54; 655063.62, 3291580.77; 655087.49, 3291585.4; 655107.68, 3291582.31; 655107.94, 3291536.49; 655148.58, 3291536.03; 655148.93, 3291522.67; 655024.98, 3291520.74; 655023.6, 3291544.09; 655015.17, 3291547.05; 654994.97, 3291544.16; 654993.07, 3291540.55; 654990.8, 3291520.27; 654956.21, 3291520.2; 654957.19, 3291513.09; 655073.23, 3291515.22; 655149.13, 3291515.08; 655144.18, 3291495.97; 655122.17, 3291497.82; 655080.25, 3291488.84; 655050.06, 3291488.08; 655030.93, 3291489.97; 655008.52, 3291495.35; 654988.25, 3291495.24; 654978.55, 3291501.73; 654968.96, 3291503.47; 654964.03, 3291509.69; 654951.71, 3291509.38; 654949.3, 3291494.66; 654953.32, 3291482.54; 654975.11, 3291485.47; 654999.46, 3291492.35; 655036.6, 3291485.76; 655052.15, 3291483.77; 655083.92, 3291485.36; 655108.82, 3291491.14; 655117.91, 3291493.35; 655142.64, 3291490.01; 655142.18, 3291459.42; 655142.58, 3291459.43; 655145.47, 3291439.55; 655138.3, 3291440.16; 655118.25, 3291446.79; 655104.77, 3291445.26; 655077.46, 3291440.61; 655056.31, 3291443.64; 655046.77, 3291443.4; 655032.2, 3291437.89; 655018.75, 3291435.17; 654998.83, 3291437.04; 654995.33, 3291449.64; 654972.29, 3291448.66; 654971.56, 3291430.41; 654997.78, 3291431.07; 655010.11, 3291430.99; 655020.84, 3291431.26; 655055.97, 3291441.26; 655060.78, 3291439.79; 655070.03, 3291435.67; 655085.5, 3291436.85; 655101.3, 3291441.21; 655121.5, 3291444.1; 655132.44, 3291436.05; 655146.37, 3291435.11; 655150.16, 3291410.73; 655110.04, 3291409.33; 655092.32, 3291402.54; 655085.56, 3291402.77; 655076.99, 3291411.27; 655071.57, 3291426.46; 655044.49, 3291425.31; 655013.61, 3291419.78; 654995.66, 3291422.1; 654975, 3291421.58; 654973.74, 3291408.47; 654976.02, 3291397.04; 654999.03, 3291399.2; 655004.05, 3291404.88; 655009.75, 3291415.32; 655044.59, 3291421.35; 655066.37, 3291422.5; 655073.92, 3291406.83; 655080.89, 3291398.68; 655086.92, 3291396.06; 655095.23, 3291397.46; 655105.04, 3291402.86; 655118.08, 3291405.96; 655150.27, 3291406.38; 655152.17, 3291394.67; 655160.56, 3291329.88; 655165.91, 3291314.36; 655105.72, 3291313.3; 655090.19, 3291314.1; 655080.38, 3291309.1; 655066.77, 3291296.87; 655048.95, 3291294.04; 655037, 3291294.93; 655034.77, 3291304.78; 655012.13, 3291303.81; 655012.45, 3291291.14; 655034.31, 3291291.29; 655046.66, 3291290.41; 655058.16, 3291291.5; 655070.83, 3291293.8; 655085.98, 3291307.65; 655149.12, 3291310.83; 655167.04, 3291309.69; 655173.89, 3291290.45; 655151.71, 3291286.72; 655095.69, 3291285.31; 655062.71, 3291284.48; 655019.79, 3291283.79; 655003.19, 3291279.81; 654994.94, 3291276.03; 654993.52, 3291269.26; 654994.61, 3291257.79; 655016.8, 3291260.73; 655015.25, 3291274.56; 655019.92, 3291278.64; 655031.01, 3291280.51; 655058.42, 3291281.2; 655068.33, 3291282.64; 655094.6, 3291281.32; 655151.44, 3291281.95; 655175.22, 3291284.93; 655182.23, 3291259.09; 655188.2, 3291243.24; 655101.57, 3291241.45; 655073.54, 3291241.21; 655073.05, 3291260.58; 655041.96, 3291256.97; 655042.29, 3291243.65; 655032.54, 3291245.02; 655023.94, 3291248.84; 655013.8, 3291249.4; 655013.8, 3291233.25; 655025.13, 3291233.62; 655042.86, 3291237.21; 655044.86, 3291222.32; 655073.55, 3291224.66; 655072.85, 3291236.35; 655191.13, 3291237.36; 655216.91, 3291165.15; 655108.47, 3291161.23; 655078.79, 3291171.59; 655065.09, 3291178.77; 655053.64, 3291175.71; 655048.8, 3291162.51; 655030.23, 3291158.08; 655038.44, 3291132.12; 655055.12, 3291132.54; 655079.84, 3291130; 655091.22, 3291135.83; 655086.33, 3291156.32; 655105.81, 3291156.41; 655180.86, 3291159.89; 655219.04, 3291160.53; 655231.15, 3291116.45; 655244.6, 3291087.85; 655252.73, 3291065.07; 655202.4, 3291063.83; 655203.3, 3291038.85; 655207.16, 3291016.79; 655216.19, 3291005.52; 655222.29, 3290979.48; 655231.77, 3290971.43; 655247.23, 3290973.01; 655286.46, 3290973.17; 655303.61, 3290923.67; 655205.87, 3290921.21; 655196.09, 3290919.88; 655184.92, 3290921.58; 655178.57, 3290921.02; 655172.74, 3290931.58; 655165.94, 3290948.85; 655178.62, 3290950.35; 655181.55, 3290944.88; 655195.83, 3290946.03; 655207, 3290944.33; 655220.17, 3290942.68; 655220.92, 3290960.14; 655206.99, 3290960.58; 655198.69, 3290958.79; 655191.04, 3290962.56; 655182.27, 3290963.53; 655180.04, 3290957.13; 655163.61, 3290954.41; 655158.31, 3290967.68; 655155.54, 3290976; 655165.98, 3290978.57; 655168.94, 3290971.91; 655176.49, 3290972.1; 655180.77, 3290975.77; 655187.44, 3290979.11; 655182.62, 3290996.83; 655162.75, 3290996.33; 655164.24, 3290984.87; 655153.33, 3290982.67; 655130.77, 3291050.61; 655120.14, 3291046.38; 655114.15, 3291047.42; 655106.72, 3291058.33; 655100.22, 3291063.72; 655091.01, 3291066.26; 655066.11,

3291060.48; 655070.64, 3291038.4; 655075.61, 3291015.14; 655094.61, 3291017.41; 655108.55, 3291016.57; 655117.98, 3291020.77; 655115.92, 3291039.35; 655121.87, 3291039.9; 655127.43, 3291040.04; 655132.27, 3291021.93; 655142.7, 3290986.52; 655155.91, 3290951.58; 655138.45, 3290950.34; 655131.61, 3290953.34; 655120.74, 3290958.93; 655115.57, 3290974.74; 655093.02, 3290970.21; 655102.14, 3290951.06; 655116.08, 3290954.46; 655124.13, 3290950.3; 655137.3, 3290948.65; 655140.23, 3290942.78; 655133.89, 3290941.83; 655127.05, 3290945.22; 655115.18, 3290942.94; 655119.06, 3290930.75; 655122.84, 3290922.92; 655127.99, 3290923.45; 655136.64, 3290927.23; 655147.56, 3290919.97; 655165.84, 3290920.43; 655167.64, 3290912.16; 655172.43, 3290895.63; 655156.5, 3290896.82; 655148.09, 3290898.98; 655143.83, 3290910.37; 655135.7, 3290917.3; 655119.07, 3290914.5; 655115.62, 3290909.66; 655119.99, 3290893.91; 655174.91, 3290891.73; 655179.63, 3290877.98; 655159.35, 3290878.26; 655143.82, 3290879.06; 655140.39, 3290889.28; 655122.57, 3290886.45; 655126.92, 3290871.5; 655143.12, 3290875.47; 655149.15, 3290872.85; 655183.34, 3290872.92; 655186.51, 3290857.54; 655164.19, 3290859.75; 655150.64, 3290861; 655140.32, 3290860.34; 655136.53, 3290853.11; 655146.48, 3290836.72; 655159.91, 3290840.22; 655165.66, 3290848.69; 655171.53, 3290852.41; 655187.86, 3290851.23; 655196.82, 3290827.28; 655172.65, 3290823.9; 655164.98, 3290828.46; 655156.14, 3290832.2; 655148.19, 3290832; 655144.32, 3290827.94; 655144.45, 3290822.79; 655149.56, 3290809.45; 655200.11, 3290823; 655206.99, 3290802.17; 655202.35, 3290797.3; 655191.27, 3290795.04; 655185.3, 3290795.28; 655176.79, 3290801.81; 655164.46, 3290801.89; 655153.33, 3290797.41; 655159.49, 3290774.18; 655176.54, 3290780; 655190.64, 3290788.68; 655198.94, 3290790.48; 655203.45, 3290785.04; 655203.31, 3290774.73; 655199.8, 3290772.27; 655203.43, 3290754.52; 655209.08, 3290751.1; 655213.36, 3290734.72; 655207.9, 3290734.82; 655199.03, 3290739.75; 655185.74, 3290746.55; 655183.37, 3290761.55; 655171.71, 3290766.8; 655165.3, 3290768.62; 655154.2, 3290767.15; 655156.42, 3290758.09; 655163.84, 3290747.58; 655170.08, 3290728.71; 655171.6, 3290716.07; 655175.5, 3290711.01; 655213.37, 3290722.67; 655214.31, 3290701.29; 655183.03, 3290696.14; 655191.33, 3290682.48; 655196.4, 3290670.72; 655199.56, 3290647.81; 655204.64, 3290635.65; 655207.84, 3290631.33; 655212.37, 3290620.78; 655236.48, 3290626.54; 655238.64, 3290619.46; 655237.96, 3290615.09; 655234.44, 3290612.62; 655228.77, 3290616.84; 655215.7, 3290614.92; 655219.22, 3290601.53; 655229.29, 3290580.39; 655248.16, 3290588.79; 655258.44, 3290575.57; 655286.46, 3290567.95; 655309.95, 3290566.56; 655429.61, 3290567.2; 655439.81, 3290536.7; 655449.8, 3290503.26; 655469.52, 3290446.68; 655486.61, 3290399.55; 655498.95, 3290363.8; 655474.44, 3290358.42; 655462.4, 3290362.88; 655439.39, 3290353.18; 655449.94, 3290336.8; 655460.53, 3290342.62; 655469.68, 3290342.05; 655476.3, 3290347.77; 655499.92, 3290357.08; 655502.89, 3290349.63; 655509.85, 3290326.02; 655487.2, 3290325.45; 655484.68, 3290330.94; 655468.77, 3290330.93; 655462.93, 3290326.03; 655466.91, 3290310.28; 655489.2, 3290309.25; 655488.16, 3290318.74; 655513.17, 3290320.56; 655522.71, 3290289.09; 655514.42, 3290286.5; 655506.86, 3290286.71; 655506.3, 3290293.43; 655491.61, 3290292.67; 655480.61, 3290287.24; 655488.92, 3290273.18; 655518.34, 3290281.05; 655526.79, 3290284.83; 655531.09, 3290275.83; 655539.73, 3290248.3; 655556.08, 3290199.17; 655536.24, 3290197.88; 655519.54, 3290229.16; 655503.25, 3290228.75; 655500.33, 3290218.37; 655511.24, 3290195.66; 655444.09, 3290193.97; 655435.09, 3290192.56; 655411.64, 3290255.38; 655433.6, 3290260.29; 655430.64, 3290282.41; 655409.66, 3290278.71; 655410.96, 3290274.39; 655405.01, 3290273.84; 655401.99, 3290283.28; 655418.6, 3290286.87; 655424.16, 3290287.01; 655431.99, 3290291.96; 655431.18, 3290324.04; 655412.9, 3290323.58; 655411.31, 3290307.69; 655418.08, 3290307.46; 655416.8, 3290295.14; 655422.34, 3290296.08; 655419.66, 3290292.04; 655401.05, 3290288.8; 655387.92, 3290320.97; 655388.52, 3290328.52; 655411.83, 3290334.26; 655418.36, 3290343.54; 655399.6, 3290362.09; 655392.93, 3290358.75; 655388.31, 3290352.69; 655400.21, 3290337.93; 655383.25, 3290332.74; 655371.51, 3290348; 655360.54, 3290365.86; 655353, 3290365.27; 655335.52, 3290364.83; 655340.86, 3290342.38; 655358.55, 3290350.35; 655373.15, 3290338.83; 655370.14, 3290332.02; 655370.29, 3290326.08; 655373.17, 3290322.58; 655379.56, 3290321.16; 655385.51, 3290306.25; 655380.39, 3290304.14; 655372.71, 3290309.09; 655352.41, 3290310.17; 655351.7, 3290306.58; 655344.57, 3290305.61; 655345.46, 3290302.07; 655350.62, 3290302.2;

655351.78, 3290287.96; 655390.25, 3290291.7; 655392.07, 3290282.63; 655365.11, 3290279.57; 655363.99, 3290260.92; 655387.77, 3290263.89; 655391.51, 3290273.1; 655397.48, 3290272.86; 655402.09, 3290263.46; 655410.37, 3290234.74; 655397.67, 3290234.02; 655387.27, 3290236.53; 655384.39, 3290255.88; 655372.02, 3290257.95; 655365.2, 3290254.65; 655368.23, 3290234.47; 655373.81, 3290234.22; 655374.39, 3290226.7; 655414.95, 3290226.53; 655419.75, 3290209.61; 655405.84, 3290209.65; 655393.48, 3290210.93; 655391.62, 3290221.58; 655371.33, 3290222.26; 655373.01, 3290202.88; 655422.9, 3290202.95; 655426.79, 3290190.76; 655415.75, 3290187.23; 655410.84, 3290192.66; 655385.01, 3290192.01; 655385.51, 3290172.2; 655411.29, 3290174.83; 655422.26, 3290181.06; 655429.38, 3290182.42; 655431.12, 3290176.52; 655436.61, 3290161.85; 655418.73, 3290163.53; 655409.01, 3290170.42; 655391.14, 3290169.57; 655395.64, 3290149.07; 655440.91, 3290150.34; 655448.18, 3290130.98; 655430.16, 3290136.07; 655412.95, 3290140.39; 655407.08, 3290136.68; 655409.81, 3290123.27; 655433.67, 3290123.08; 655425.21, 3290111.77; 655419.61, 3290112.82; 655410.99, 3290107.84; 655412.49, 3290095.6; 655416.94, 3290092.54; 655424.06, 3290094.3; 655427.56, 3290097.16; 655426.87, 3290108.64; 655433.15, 3290111.97; 655443.47, 3290112.63; 655453.72, 3290116.05; 655466.92, 3290077.64; 655452.37, 3290075.2; 655451.48, 3290078.74; 655433.25, 3290076.7; 655439.65, 3290059.42; 655470.67, 3290066.73; 655475.36, 3290053.09; 655465.74, 3290049.38; 655453.96, 3290043.53; 655452.57, 3290051.42; 655438.29, 3290050.27; 655432.5, 3290043.39; 655435.23, 3290029.58; 655453.82, 3290033.62; 655454.04, 3290040.36; 655472.18, 3290046.37; 655477.75, 3290046.11; 655488.06, 3290015.85; 655484.56, 3290012.59; 655474.94, 3290015.92; 655467.53, 3290026.04; 655451.63, 3290025.64; 655456.18, 3290003.16; 655487.54, 3290005.14; 655491.89, 3289990.19; 655470.52, 3289986.08; 655469.12, 3289978.52; 655475.23, 3289972.72; 655494.2, 3289977.56; 655496.29, 3289973.25; 655504.58, 3289975.84; 655480.42, 3290058.81; 655510.98, 3290068.75; 655531.95, 3290072.84; 655531.7, 3290082.74; 655510.25, 3290081.81; 655504.48, 3290074.13; 655497.06, 3290068.79; 655477.6, 3290068.31; 655464.04, 3290113.92; 655471.24, 3290115.31; 655474.7, 3290103.9; 655495.7, 3290106.81; 655488.64, 3290134.77; 655470.43, 3290131.54; 655468.55, 3290127.13; 655460.94, 3290124.34; 655443.23, 3290183.89; 655487.79, 3290183.82; 655501.62, 3290183.13; 655521.16, 3290185.05; 655537.46, 3290180.86; 655549.15, 3290178.62; 655554.34, 3290173.76; 655568.95, 3290161.84; 655576.08, 3290147.36; 655580.65, 3290123.69; 655596.45, 3290080.49; 655615.97, 3290031.84; 655622.42, 3290012.31; 655615.11, 3290007.16; 655591.45, 3289999.43; 655583.86, 3290000.83; 655572.76, 3289999.36; 655578.93, 3289991.19; 655581.96, 3289981.75; 655590.81, 3289977.62; 655602.7, 3289979.1; 655611.52, 3289989.26; 655609.76, 3289998.7; 655624.94, 3290004.7; 655631.04, 3289986.24; 655646.87, 3289957.31; 655602.4, 3289939.54; 655578.9, 3289925.48; 655560.9, 3289918.28; 655556.22, 3289914.6; 655466.54, 3289912.86; 655461.77, 3289934.81; 655438.56, 3289956.42; 655414.21, 3289991.88; 655407.85, 3290038.88; 655397.62, 3290066.37; 655386.16, 3290110.87; 655378.01, 3290150.29; 655358.76, 3290188.26; 655346.57, 3290245.81; 655328.21, 3290280.23; 655299.28, 3290355.2; 655281.08, 3290398.74; 655260.54, 3290440.63; 655225.77, 3290511.1; 655207.6, 3290553.44; 655180.09, 3290619.34; 655169.43, 3290648; 655157.73, 3290686.15; 655141.08, 3290731.71; 655129.67, 3290774.23; 655114.75, 3290813.88; 655089.18, 3290865.95; 655079.26, 3290912.47; 655069.09, 3290937.18; 655054.74, 3290970.51; 655039.49, 3291007.38; 655025.55, 3291055.78; 655012.16, 3291082; 655011.03, 3291110.9; 655002.39, 3291169.74; 654971.25, 3291269.09; 654960.3, 3291309.38; 654936.51, 3291385.14; 654934.25, 3291428.03; 654917.71, 3291484.68; 654912.14, 3291500.4; 654887.53, 3291546.15; 654868.22, 3291602.34; 654859.05, 3291619.15; 654841.67, 3291724.93; 654837.87, 3291733.56; 654833, 3291753.25; 654814.66, 3291786.88; 654799.27, 3291829.29; 654792.97, 3291874.32; 654792.8, 3291881.05; 654841.53, 3291871.97; 654854.03, 3291865.15; 654854.96, 3291859.63; 654852.23, 3291857.58; 654853.91, 3291854.05; 654851.59, 3291851.62; 654856.16, 3291843.81; 654852.68, 3291839.75; 654855.98, 3291835.08; 654860.08, 3291830.03; 654862.54, 3291827.32; 654869.29, 3291827.49; 654871.77, 3291823.99; 654875.84, 3291820.12; 654867.14, 3291819.37; 654865.71, 3291812.99; 654867.51, 3291804.72; 654867.77, 3291794.42; 654869.51, 3291788.12; 654888.99, 3291788.21; 654889.53, 3291782.68; 654895.17, 3291778.99; 654889.31, 3291774.88; 654895.42, 3291769.09; 654902.36, 3291761.74; 654908.04,

3291757.12; 654917.77, 3291749.84; 654921.43, 3291746.76; 654929.49, 3291742.21; 654933.99, 3291737.17; 654936.79, 3291720.99; 654942.58, 3291712.02; 654952.53, 3291711.48; 654962.8, 3291688.49; 654954.09, 3291688.26; 654920.88, 3291690.72; 654901.68, 3291695; 654891, 3291693.14; 654892.78, 3291685.66; 654893.39, 3291676.95; 654898.83, 3291666.39; 654916.61, 3291670.8; 654923.37, 3291686.43; 654964.77, 3291684.06; 654967.1, 3291678.85; 654967.35, 3291678.87; 654967.27, 3291678.94; 655106.06, 3291883.69; 655106.42, 3291817.02; 655087.43, 3291817.78; 655076.38, 3291814.73; 655063.86, 3291806.49; 655048.56, 3291798.57; 655034.66, 3291797.83; 655028.31, 3291797.67; 655014.66, 3291802.87; 655003.79, 3291808.14; 654997.25, 3291815.12; 654986.53, 3291817.9; 654980.36, 3291819.5; 654981.05, 3291825.94; 654981.24, 3291834.27; 654980.64, 3291842.18; 654974.87, 3291850.36; 654968.81, 3291854.17; 654962.12, 3291851.23; 654957.66, 3291839.23; 654958.71, 3291828.95; 654961.28, 3291821.48; 654955.73, 3291820.95; 654951.97, 3291828.38; 654949.05, 3291833.46; 654943.17, 3291830.54; 654936.24, 3291837.1; 654932.32, 3291851.53; 654939.33, 3291857.26; 654944.66, 3291866.9; 654956.55, 3291868.39; 654975.36, 3291863.32; 654993.15, 3291851.48; 655001.19, 3291848.11; 655007.16, 3291847.87; 655020.61, 3291850.58; 655058.16, 3291874.91; 655075.56, 3291878.52; 655095.35, 3291882.19; 655106.06, 3291883.69; 654960.75, 3291875.23; 654972.69, 3291873.69; 654989.8, 3291872.93; 654998.07, 3291876.31; 655004.68, 3291882.03; 655010.41, 3291891.29; 655016.3, 3291894.21; 655024.66, 3291894.02; 655032.1, 3291898.57; 655037.93, 3291904.53; 655032.01, 3291917.59; 655023.14, 3291938.38; 655041.73, 3291942.02; 655052.73, 3291931.59; 655060.95, 3291921.1; 655073.41, 3291900.66; 655072.18, 3291886.36; 655074.19, 3291885.72; 655071.79, 3291886.35; 655063.87, 3291884.97; 655048.11, 3291879.42; 655036.42, 3291870.01; 655019.6, 3291858.88; 655003, 3291855.29; 654992.16, 3291859.38; 654960.75, 3291875.23; 654968.17, 3291784.8; 654972.33, 3291793.62; 654977.65, 3291803.27; 654974.29, 3291811.37; 654985.8, 3291812.05; 654996.25, 3291807.56; 655016.47, 3291794.2; 655021.24, 3291793.92; 655029.67, 3291790.96; 655040.81, 3291790.45; 655053.82, 3291794.74; 655070.66, 3291805.08; 655079.27, 3291810.44; 655098.27, 3291813.7; 655106.45, 3291812.3; 655107.12, 3291687.35; 655051.32, 3291687.14; 655026.59, 3291690.13; 655024.86, 3291712.9; 655015.43, 3291724.16; 655003.71, 3291731.79; 654997.14, 3291739.95; 654998.22, 3291744.33; 655000.11, 3291748.34; 654996.42, 3291752.61; 654986.51, 3291751.57; 654982.79, 3291757.02; 654985.45, 3291761.85; 654986.49, 3291767.82; 654981.23, 3291771.65; 654979.79, 3291765.67; 654973.05, 3291765.1; 654971.62, 3291774.18; 654970.74, 3291777.73; 654968.17, 3291784.8; 655074.19, 3291885.72; 655078.59, 3291884.54; 655079.55, 3291884.89; 655079, 3291884.16; 655074.19, 3291885.72; 655079.55, 3291884.89; 655086.31, 3291893.85; 655082.18, 3291915.55; 655086.81, 3291936.02; 655105.49, 3291937.14; 655105.86, 3291921.44; 655102.96, 3291910.66; 655105.96, 3291901.86; 655106.02, 3291890.38; 655092.8, 3291888.87; 655086.87, 3291887.53; 655079.55, 3291884.89; 655106.06, 3291883.69; 655106.02, 3291890.38; 655106.08, 3291883.7; 655106.06, 3291883.69; 655180.94, 3290905.86; 655180.77, 3290912.6; 655187.04, 3290916.08; 655200.98, 3290915.25; 655270.87, 3290917.32; 655259.19, 3290907.72; 655261.12, 3290894.3; 655263.01, 3290882.45; 655268.62, 3290881.01; 655269.54, 3290875.88; 655270.29, 3290862.03; 655275.2, 3290856.6; 655279.3, 3290835.7; 655288.11, 3290833.15; 655298.16, 3290829.04; 655315.2, 3290846.91; 655323.81, 3290852.28; 655346.2, 3290800.13; 655301.68, 3290799.8; 655303.92, 3290774.09; 655292.78, 3290774.21; 655275.32, 3290772.98; 655264.19, 3290772.7; 655258.8, 3290781.68; 655258.53, 3290792.37; 655241.98, 3290802.26; 655219.35, 3290800.9; 655216.72, 3290811.67; 655199.75, 3290853.62; 655180.94, 3290905.86; 655220.45, 3290724.9; 655231.12, 3290728.27; 655240.63, 3290729.7; 655241.99, 3290707.14; 655257.12, 3290706.33; 655256.98, 3290727.73; 655273.21, 3290730.52; 655274.41, 3290698.84; 655312.1, 3290701.77; 655313.47, 3290695.07; 655346.49, 3290693.92; 655345.8, 3290705.79; 655340.58, 3290707.64; 655341.18, 3290731.04; 655359.06, 3290731.49; 655369.13, 3290726.59; 655376.44, 3290704.58; 655387.12, 3290675.52; 655390.69, 3290659.75; 655393.75, 3290649.13; 655355.25, 3290645.74; 655331.04, 3290644.78; 655327.52, 3290658.16; 655314.21, 3290665.76; 655307.64, 3290673.91; 655298.15, 3290671.69; 655281.89, 3290670.09; 655274.36, 3290669.11; 655278.25, 3290656.92; 655287.83, 3290655.58; 655302.05, 3290659.11; 655305.69, 3290656.82; 655303.87, 3290650.04; 655288.75, 3290650.45; 655276.99,

3290643.81; 655272.31, 3290655.98; 655263.29, 3290682.71; 655246.25, 3290680.29; 655237.94, 3290678.9; 655238.85, 3290674.16; 655231.77, 3290671.21; 655229.66, 3290675.91; 655224.02, 3290694.8; 655220.45, 3290724.9; 655242.13, 3290638.97; 655278.79, 3290635.53; 655283.77, 3290627.34; 655300, 3290630.12; 655310.09, 3290624.04; 655324.17, 3290601.8; 655332.18, 3290583.77; 655339.42, 3290580.38; 655347.63, 3290586.14; 655367.69, 3290594.57; 655363.87, 3290603.99; 655345.67, 3290600.76; 655337.98, 3290606.11; 655321.49, 3290629.08; 655320.09, 3290637.37; 655323.19, 3290640.62; 655353.83, 3290639.8; 655364.51, 3290641.66; 655368.13, 3290608.45; 655388.76, 3290610.56; 655408.85, 3290617.8; 655412.93, 3290609.35; 655428.9, 3290575.27; 655349.85, 3290572.48; 655326.8, 3290572.3; 655297.31, 3290574.73; 655275.41, 3290576.16; 655265.34, 3290581.45; 655257.73, 3290599.49; 655246.48, 3290624.02; 655242.13, 3290638.97; 655554.39, 3290564.75; 655700.04, 3290575.16; 655708.8, 3290574.58; 655717.66, 3290570.05; 655723.44, 3290561.48; 655730.43, 3290552.54; 655735.44, 3290543.15; 655738.87, 3290532.93; 655731.31, 3290533.14; 655728.57, 3290531.48; 655724.39, 3290539.7; 655718.39, 3290541.14; 655713.49, 3290546.16; 655709.57, 3290544.08; 655706.2, 3290535.68; 655708.02, 3290526.61; 655710.69, 3290515.58; 655712.51, 3290506.51; 655714.72, 3290497.45; 655714.45, 3290492.68; 655711.76, 3290488.65; 655714.44, 3290477.22; 655719.43, 3290468.63; 655721.97, 3290462.35; 655724.88, 3290457.27; 655720.71, 3290449.24; 655718.47, 3290443.64; 655719.01, 3290437.71; 655714.66, 3290436.8; 655712.23, 3290438.72; 655709.1, 3290436.66; 655709.85, 3290422.81; 655719.77, 3290423.46; 655720.77, 3290415.55; 655721.55, 3290400.12; 655716.3, 3290387.7; 655710.88, 3290379.04; 655701.39, 3290376.82; 655696.12, 3290381.05; 655686.62, 3290382.2; 655677.61, 3290376.82; 655668.84, 3290377.78; 655661.82, 3290369.48; 655649.56, 3290369.77; 655631.04, 3290363.36; 655627.21, 3290373.17; 655619.7, 3290371.39; 655627.88, 3290393.8; 655624.19, 3290398.46; 655618.79, 3290391.58; 655613.18, 3290393.43; 655603.48, 3290384.06; 655593.43, 3290372.71; 655587.51, 3290368.01; 655571.96, 3290369.6; 655542.92, 3290370.45; 655513.52, 3290369.71; 655495.02, 3290428.1; 655443.89, 3290563.55; 655554.39, 3290564.75; 655929.06, 3288720.01; 655934.7, 3289270.05; 655951.69, 3289222.64; 656001.22, 3289118.85; 655993.32, 3289115.25; 655985.19, 3289106.72; 655980.33, 3289094.31; 655984.16, 3289084.5; 655996.32, 3289075.29; 656008.96, 3289062.53; 656013.77, 3289045.21; 656012.3, 3289040.42; 656002.87, 3289036.22; 656001.85, 3289013.6; 656008.72, 3288993.56; 656016.77, 3288989.4; 656015.12, 3288976.28; 656014.2, 3288933.85; 656016.52, 3288904.98; 656016.88, 3288874.86; 656013.53, 3288850.21; 656009.8, 3288824.75; 655994.27, 3288809.69; 655987.33, 3288801.19; 655993.3, 3288785.49; 655982.31, 3288779.66; 655977.47, 3288782.32; 655968.45, 3288777.33; 655967.99, 3288764.24; 655972.74, 3288765.16; 655979.7, 3288772.86; 655993.85, 3288779.16; 656013.15, 3288786.39; 656020.68, 3288787.37; 656029.1, 3288784.81; 656038.9, 3288790.21; 656055.64, 3288804.1; 656059.85, 3288810.55; 656053.23, 3288821.08; 656052.36, 3288839.69; 656048.56, 3288864.17; 656047.29, 3288883.16; 656047.37, 3288895.45; 656053.15, 3288902.73; 656049.55, 3288919.68; 656046.58, 3288942.59; 656051.63, 3288947.48; 656071.04, 3288950.34; 656095.73, 3288902.85; 656126.32, 3288841; 656157.6, 3288772.09; 656043.44, 3288720.56; 656011.65, 3288704.31; 655998.99, 3288701.61; 656002.03, 3288691.38; 656020.13, 3288683.12; 656041.56, 3288684.85; 656054.64, 3288686.36; 656056.83, 3288693.95; 656050.6, 3288704.49; 656047.28, 3288710.36; 656081.86, 3288726.29; 656087.19, 3288720.08; 656090.99, 3288711.06; 656102.19, 3288708.57; 656108.32, 3288701.98; 656118.23, 3288703.03; 656122.84, 3288693.63; 656134.28, 3288697.49; 656138.15, 3288701.55; 656148, 3288704.96; 656150.27, 3288709.78; 656149.66, 3288718.09; 656155.81, 3288726.56; 656173.72, 3288734.09; 656172.3, 3288739.21; 656174.22, 3288733.62; 656186.1, 3288707.91; 656077.52, 3288653.93; 656072.79, 3288665.13; 656063.75, 3288671.3; 656045.12, 3288666.4; 656043.49, 3288652.58; 656044.41, 3288635.88; 656050.88, 3288633.58; 656084.07, 3288648.68; 656094.88, 3288630.75; 656105.17, 3288633.96; 656109.05, 3288636.52; 656107.84, 3288645.34; 656103.04, 3288659.49; 656140.64, 3288675.69; 656141.74, 3288671.29; 656146.35, 3288670.02; 656149.06, 3288663.48; 656155.07, 3288651.45; 656145.36, 3288645.31; 656074.59, 3288613.51; 656054.6, 3288609.27; 656037.27, 3288609.34; 656019.71, 3288618.05; 655994.92, 3288610.82; 656007.43, 3288579.63; 656014.81, 3288579.41; 656022.69, 3288582.39; 656049.12, 3288595.98; 656053.14,

3288586.37; 656057.64, 3288578.92; 656054.97, 3288574.22; 656049.47, 3288570.01; 656042.3, 3288571.36; 656032.57, 3288573.15; 656019.57, 3288563.16; 656011.81, 3288557.9; 656012.3, 3288552.8; 655999, 3288544.53; 656001.53, 3288538.65; 656012.33, 3288521.45; 656019.17, 3288486.75; 656026.18, 3288475.46; 656032.95, 3288460.54; 656043.87, 3288436.27; 656059.76, 3288422.38; 656071.12, 3288413.15; 656084.1, 3288418.63; 656092.47, 3288416.89; 656096.81, 3288418.19; 656113.33, 3288425.34; 656106.94, 3288442.22; 656129.7, 3288453.89; 656220.85, 3288497.41; 656249.13, 3288510.8; 656258.94, 3288516.2; 656278.88, 3288520.34; 656311.12, 3288450.5; 656253.13, 3288421.49; 656204.7, 3288396.73; 656191.89, 3288415.82; 656191.67, 3288424.54; 656193.12, 3288430.12; 656180.74, 3288448.04; 656173.18, 3288448.25; 656168.92, 3288443.78; 656168.69, 3288437.43; 656172.89, 3288428.42; 656178.54, 3288425; 656189.16, 3288413.77; 656199.58, 3288395.01; 656170.95, 3288379.23; 656164.21, 3288378.66; 656159.71, 3288383.7; 656154.06, 3288402.59; 656144.98, 3288415.83; 656133.64, 3288423.87; 656122.55, 3288422.4; 656109.21, 3288415.33; 656100.16, 3288411.53; 656101.56, 3288403.25; 656107.38, 3288393.09; 656114.49, 3288395.25; 656131.37, 3288403.6; 656136.37, 3288410.46; 656140.95, 3288411.91; 656144.84, 3288405.52; 656152.72, 3288382.13; 656145.31, 3288379.46; 656116.65, 3288372.71; 656104.8, 3288369.64; 656092.63, 3288363.39; 656093.64, 3288354.69; 656097.84, 3288346.08; 656125.33, 3288359.45; 656131.45, 3288369.12; 656147.14, 3288376.03; 656155.25, 3288377.96; 656158.85, 3288370.21; 656166.86, 3288355.64; 656136.74, 3288343.7; 656131.61, 3288349.28; 656125.92, 3288347.65; 656122.82, 3288351.55; 656100.36, 3288342.53; 656110.56, 3288323.9; 656119.93, 3288327.86; 656138.38, 3288338.02; 656168.71, 3288351.46; 656170.31, 3288347.28; 656138.53, 3288331.81; 656135.01, 3288333.21; 656111.33, 3288322.67; 656119.01, 3288305.22; 656113.41, 3288299.61; 656114.06, 3288293.66; 656124.7, 3288287.21; 656133.15, 3288288.42; 656138.75, 3288293.53; 656143.78, 3288301.86; 656160.31, 3288308.99; 656174.85, 3288315.57; 656187.18, 3288321.1; 656188.83, 3288324.87; 656185.59, 3288334.73; 656179.13, 3288353.46; 656174.94, 3288361.56; 656177.7, 3288370.83; 656197.82, 3288385.85; 656227.69, 3288399.68; 656257.58, 3288412.33; 656267.67, 3288391.94; 656277.48, 3288333.92; 656280.67, 3288317.75; 656272.73, 3288317.55; 656267.03, 3288322.96; 656262.89, 3288329.2; 656257.22, 3288333.41; 656253.21, 3288335.04; 656246.95, 3288330.78; 656240.83, 3288321.11; 656241.95, 3288308.46; 656251.63, 3288302.76; 656261.64, 3288284.38; 656272, 3288283.45; 656275.88, 3288271.26; 656288.52, 3288258.9; 656276.47, 3288263.75; 656255.67, 3288268.77; 656250.65, 3288278.55; 656241.19, 3288275.54; 656250.74, 3288259.53; 656250.67, 3288246.45; 656249.84, 3288232.16; 656264.31, 3288224.63; 656251.26, 3288221.92; 656235.03, 3288234.99; 656200.52, 3288215.89; 656215.18, 3288201.99; 656225.67, 3288195.91; 656234, 3288196.92; 656276.83, 3288218.18; 656270.32, 3288208.1; 656278.57, 3288180.57; 656268.41, 3288173.58; 656273.48, 3288161.81; 656265.83, 3288149.73; 656274.24, 3288131.71; 656284.06, 3288120.86; 656299.14, 3288121.64; 656301.46, 3288108.62; 656301.06, 3288093.15; 656309.51, 3288089; 656314.17, 3288077.62; 656323.58, 3288067.16; 656330.03, 3288063.76; 656324.31, 3288054.1; 656323.81, 3288042.2; 656316.09, 3288033.28; 656320.9, 3288015.97; 656320.75, 3288006.05; 656326.84, 3288001.05; 656332.89, 3287997.64; 656351.41, 3287988.59; 656339.25, 3287981.95; 656332.23, 3287976.62; 656341.16, 3287969.31; 656346.56, 3287959.93; 656367.35, 3287955.7; 656378.05, 3287956.76; 656382.66, 3287947.37; 656382.79, 3287941.46; 656373.47, 3287932.5; 656369.71, 3287924.09; 656376.09, 3287907.6; 656383.18, 3287894.3; 656385.31, 3287888.81; 656394.98, 3287883.5; 656400.17, 3287866.99; 656410.33, 3287842.67; 656413.8, 3287831.26; 656424.65, 3287810.93; 656433.12, 3287790.13; 656443.42, 3287760.27; 656450.54, 3287745.79; 656464.65, 3287722.36; 656469.25, 3287697.9; 656471.86, 3287688.85; 656462.42, 3287685.05; 656457.11, 3287690.46; 656452.04, 3287686.37; 656440.14, 3287685.28; 656428.22, 3287684.98; 656422.97, 3287672.56; 656423.06, 3287669; 656424.08, 3287660.3; 656475.67, 3287679.83; 656477.39, 3287674.73; 656454.61, 3287663.45; 656450.54, 3287667.31; 656425.7, 3287659.16; 656429.42, 3287653.3; 656433.19, 3287645.87; 656459.43, 3287661.59; 656479.88, 3287670.43; 656489.87, 3287652.84; 656488.17, 3287641.31; 656469.11, 3287640.43; 656466.23, 3287644.32; 656459.94, 3287641.39; 656441.11, 3287631.4; 656443.65, 3287625.13; 656447.37, 3287619.67; 656451.84, 3287615.82; 656476.12, 3287630.3; 656492.74, 3287635.32; 656502.79, 3287613.54; 656490.98,

3287608.88; 656469.99, 3287605.58; 656462.77, 3287608.17; 656455.61, 3287607.99; 656453.81, 3287600.81; 656456.02, 3287591.75; 656457.3, 3287572.76; 656459.51, 3287548.24; 656476.26, 3287546.28; 656478.59, 3287532.47; 656496.32, 3287538.86; 656501.68, 3287531.47; 656508.08, 3287530.04; 656519.86, 3287535.89; 656520.13, 3287540.65; 656532.39, 3287543.34; 656534.88, 3287539.04; 656521.51, 3287533.15; 656514.14, 3287526.23; 656502.61, 3287525.94; 656499.36, 3287531.03; 656492.99, 3287530.26; 656484.23, 3287527.61; 656486.76, 3287511.59; 656490.97, 3287498.7; 656497.85, 3287478.26; 656503.98, 3287471.68; 656518.07, 3287480.75; 656516.74, 3287485.87; 656552.67, 3287497.24; 656596.77, 3287388.56; 656571.38, 3287386.34; 656568.65, 3287399.75; 656559.91, 3287399.52; 656553.49, 3287402.14; 656547.91, 3287402.39; 656537.26, 3287398.95; 656542.59, 3287376.89; 656554.03, 3287380.35; 656563.17, 3287380.58; 656561.89, 3287384.12; 656572.65, 3287383.2; 656598.93, 3287381.48; 656609.31, 3287356.77; 656588.58, 3287350.7; 656583.26, 3287358.28; 656573.88, 3287356.71; 656572.85, 3287359.42; 656557.48, 3287354.28; 656561.4, 3287340.51; 656560.69, 3287337.32; 656541.84, 3287328.13; 656537.78, 3287331.19; 656531.11, 3287327.86; 656534.8, 3287323.19; 656553.58, 3287330.19; 656564.49, 3287334.49; 656569.91, 3287333.01; 656592.76, 3287342.49; 656591.84, 3287347.62; 656610.78, 3287353.25; 656620.98, 3287327.34; 656583.93, 3287314.52; 656575.33, 3287324.21; 656556.36, 3287319.77; 656558.39, 3287302.38; 656565.25, 3287298.2; 656579.95, 3287298.96; 656582.89, 3287308.15; 656591.92, 3287312.74; 656601.73, 3287318.14; 656623.06, 3287323.43; 656628.41, 3287311.28; 656636.41, 3287298.8; 656649.64, 3287294.38; 656662.38, 3287293.51; 656769.8, 3287334.36; 656774.72, 3287314.54; 656763.58, 3287314.65; 656758.35, 3287303.27; 656760.28, 3287289.84; 656755.65, 3287282.35; 656756.99, 3287276.44; 656744.41, 3287270.97; 656691.67, 3287249.02; 656683.31, 3287250.01; 656677.86, 3287261.37; 656683.69, 3287266.66; 656679.88, 3287275.68; 656670.07, 3287286.14; 656660.97, 3287284.72; 656654.31, 3287280.59; 656627.1, 3287271.58; 656610.15, 3287267.43; 656583.37, 3287257.64; 656585.55, 3287248.34; 656592.05, 3287242.56; 656607.76, 3287250.49; 656606.69, 3287261.16; 656621.74, 3287263.52; 656623.21, 3287258.28; 656634.02, 3287260.52; 656633.55, 3287268.18; 656642.22, 3287271.17; 656657.98, 3287277.12; 656658.68, 3287266.67; 656667.96, 3287259.53; 656673.61, 3287242.08; 656641.29, 3287229.53; 656632.54, 3287229.71; 656624.1, 3287233.06; 656596.88, 3287224.45; 656601.62, 3287210.3; 656619.7, 3287218.29; 656620.18, 3287215.13; 656608.38, 3287210.07; 656615.62, 3287190.84; 656622.12, 3287169.6; 656635.83, 3287177.87; 656648.45, 3287182.15; 656655.54, 3287184.71; 656666.67, 3287184.33; 656667.74, 3287189.77; 656670.74, 3287196.58; 656672.16, 3287203.36; 656691.9, 3287209.01; 656702.08, 3287215.21; 656698.59, 3287227.41; 656697.98, 3287236.11; 656731.07, 3287248.04; 656744.92, 3287250.77; 656759.83, 3287258.67; 656760.41, 3287251.55; 656751.6, 3287238.25; 656744.58, 3287232.53; 656743.6, 3287224.18; 656742.7, 3287212.66; 656732.47, 3287208.44; 656726.27, 3287201.94; 656718.6, 3287191.05; 656718.57, 3287176.39; 656690.59, 3287166.57; 656695.92, 3287159.96; 656692.5, 3287153.93; 656699.6, 3287140.24; 656716.14, 3287146.6; 656720.1, 3287147.1; 656716.78, 3287137.1; 656712.87, 3287134.23; 656709.26, 3287135.72; 656705.75, 3287132.86; 656705.94, 3287125.34; 656699.15, 3287126.75; 656691.63, 3287125.37; 656684.52, 3287123.21; 656679.47, 3287118.73; 656687.01, 3287103.46; 656684.78, 3287097.46; 656680.06, 3287095.36; 656672.97, 3287108.26; 656669.08, 3287120.84; 656664.87, 3287130.25; 656670.04, 3287129.98; 656679.15, 3287131.4; 656681.76, 3287138.2; 656675.13, 3287148.74; 656656.26, 3287140.34; 656649.15, 3287154.42; 656648.54, 3287162.73; 656641.07, 3287175.23; 656632.75, 3287173.83; 656624.96, 3287167.69; 656632.07, 3287153.6; 656626.25, 3287147.9; 656622.91, 3287138.31; 656626.58, 3287134.83; 656630.26, 3287130.96; 656636.82, 3287122.8; 656654.54, 3287128.13; 656660.82, 3287115.61; 656637.91, 3287111.34; 656627.7, 3287110.96; 656622.04, 3287103.94; 656627.61, 3287094.04; 656638.28, 3287096.68; 656646.6, 3287097.16; 656652.75, 3287084.64; 656654.05, 3287075.16; 656661.28, 3287061.6; 656674.09, 3287030.73; 656664.98, 3287029.31; 656651.43, 3287030.56; 656645.5, 3287029.22; 656642.49, 3287024.26; 656643.86, 3287017.16; 656648.69, 3287014.9; 656653.77, 3287018.6; 656661.32, 3287020.11; 656668.27, 3287011.04; 656673.4, 3286995.04; 656688.47, 3286998.47; 656690.92, 3286995.75; 656683.87, 3286991.61; 656680.02, 3286986.76; 656687.67, 3286969.32; 656696.8, 3286953.73; 656708.46, 3286962.51; 656738.04,

3286971.97; 656744.21, 3286947.43; 656727.91, 3286947.93; 656721.61, 3286939.99; 656715.43, 3286938.5; 656715.74, 3286910.37; 656734.86, 3286907.02; 656741.85, 3286884.08; 656753.41, 3286882.78; 656753.55, 3286877.24; 656709, 3286859.44; 656722.04, 3286834.04; 656737.79, 3286840.38; 656755.51, 3286799.61; 656761.84, 3286795.15; 656769.19, 3286797.98; 656776.54, 3286800.8; 656786.21, 3286774.63; 656803.43, 3286775.84; 656812.3, 3286772.34; 656848.4, 3286789.4; 656859.52, 3286768.54; 656869.05, 3286748.17; 656868.76, 3286740.87; 656869.9, 3286727.42; 656823.3, 3286712.67; 656813.97, 3286725.12; 656801.91, 3286727.3; 656791.08, 3286728.77; 656774.26, 3286723.06; 656787.31, 3286689.04; 656792.5, 3286673.05; 656810.03, 3286667.92; 656816.95, 3286678.33; 656833.78, 3286675.34; 656834.64, 3286662.23; 656848.46, 3286639.85; 656849.92, 3286624.04; 656844.84, 3286615.71; 656844.1, 3286603.01; 656847.3, 3286581.42; 656865.07, 3286548.85; 656875.01, 3286505.34; 656880.01, 3286482.11; 656893.44, 3286484.01; 656905.38, 3286483.52; 656920.65, 3286445.46; 656924.2, 3286433.28; 656934, 3286422.96; 656944, 3286425.85; 656951.31, 3286429.48; 656962.63, 3286401.23; 656967.89, 3286401.61; 656970.54, 3286390.98; 656974.62, 3286387.12; 656979.06, 3286368.6; 656983.16, 3286364.75; 657008.55, 3286367.76; 657011.93, 3286359.92; 657015.15, 3286356.43; 657021.58, 3286355.41; 657027.99, 3286353.45; 657036.04, 3286349.96; 656997.26, 3286332.07; 657006.58, 3286317.77; 657016.88, 3286319.61; 657017.88, 3286311.32; 656968.1, 3286289.33; 656909.99, 3286411.1; 656869.04, 3286473.88; 656848.67, 3286527.03; 656805.16, 3286630.28; 656740.39, 3286738.83; 656704.96, 3286822.25; 656674.12, 3286889.12; 656657.53, 3286937.32; 656618.43, 3287034.2; 656565.54, 3287137.4; 656531.34, 3287237.86; 656520.88, 3287291.74; 656448.66, 3287441.87; 656379.89, 3287584.65; 656350.8, 3287695.84; 656294.35, 3287807.62; 656273.22, 3287857.02; 656255.35, 3287903.34; 656227.5, 3287965.42; 656196.62, 3288023.3; 656160.47, 3288118.15; 656136.76, 3288159.96; 656092.12, 3288256.88; 656065.53, 3288351.18; 656047.53, 3288387.19; 656008.77, 3288473.41; 655986.34, 3288527.14; 655970.51, 3288571.53; 655956.63, 3288633.01; 655937.72, 3288689.21; 655929.06, 3288720.01; 655935.25, 3289323.71; 655961.5, 3289337.82; 655969, 3289324.14; 655974.86, 3289296.94; 655972.1, 3289280.22; 655982.72, 3289269; 655961.92, 3289258.17; 655935.11, 3289310.41; 655935.25, 3289323.71; 656045.86, 3288531.81; 656038.16, 3288553.42; 656025.81, 3288554.29; 656041.44, 3288565.24; 656047.41, 3288564.25; 656061.69, 3288570.83; 656060.04, 3288575.36; 656060.83, 3288584.53; 656053.94, 3288597.87; 656077.71, 3288607.19; 656119.93, 3288626.16; 656123.57, 3288623.2; 656117.04, 3288619.48; 656113.73, 3288609.24; 656116.47, 3288601.68; 656124.13, 3288601.37; 656132.34, 3288599.03; 656132.71, 3288604.63; 656135.77, 3288617.27; 656131.79, 3288620.87; 656130.58, 3288628.46; 656153.29, 3288644.03; 656208.5, 3288662; 656228.67, 3288619.75; 656211.15, 3288607.12; 656191.93, 3288601.04; 656178.06, 3288605.27; 656177.8, 3288615.42; 656160.48, 3288614.99; 656150.33, 3288613.21; 656144.85, 3288608.49; 656147.56, 3288601.96; 656156.78, 3288600.16; 656158.56, 3288595.77; 656152.87, 3288593.45; 656151, 3288586.8; 656138.99, 3288577.86; 656127.9, 3288573.01; 656117.22, 3288578.12; 656119.96, 3288584.49; 656109.69, 3288587.79; 656104.91, 3288586.92; 656098.47, 3288587.03; 656091.79, 3288585.19; 656087.6, 3288584.81; 656085.43, 3288582.24; 656086.72, 3288575.58; 656092.33, 3288575.16; 656101.41, 3288572.34; 656105.22, 3288562.78; 656100.69, 3288560.63; 656090.38, 3288564.95; 656086.64, 3288571.97; 656075.81, 3288576.78; 656064.32, 3288567.34; 656063.71, 3288555.46; 656060.9, 3288555.95; 656056.87, 3288560.32; 656053.33, 3288558.42; 656052.95, 3288553.33; 656057.18, 3288547.34; 656055.29, 3288541.7; 656045.86, 3288531.81; 656048.86, 3288525.11; 656066.66, 3288535.39; 656073.33, 3288533.52; 656078.19, 3288522.97; 656080.88, 3288517.45; 656095.43, 3288526.45; 656081.59, 3288517.28; 656086.89, 3288511.87; 656089.87, 3288504.02; 656066.64, 3288495.11; 656058.62, 3288492.04; 656054.29, 3288513; 656048.86, 3288525.11; 656061.54, 3288477.91; 656064.61, 3288481.19; 656078.75, 3288487.88; 656088.66, 3288488.93; 656092.01, 3288482.27; 656096.41, 3288481.19; 656113.43, 3288489.79; 656115.12, 3288494.55; 656112.63, 3288505.25; 656138.14, 3288515; 656219.7, 3288552.94; 656255.59, 3288571.18; 656266.95, 3288545.33; 656236.82, 3288541.8; 656222.1, 3288543.38; 656218.73, 3288534.97; 656206.13, 3288529.14; 656203.78, 3288525.49; 656209.13, 3288522.03; 656177.74, 3288503.85; 656145.48, 3288487.31; 656132.08, 3288480.62; 656128.93, 3288484.68; 656127.97,

3288489.9; 656119.14, 3288488.58; 656115.57, 3288487.38; 656106.33, 3288483; 656096.92, 3288478.01; 656099.97, 3288467.38; 656106.85, 3288464.68; 656118.2, 3288470.81; 656137.78, 3288481.41; 656165.29, 3288493.23; 656214.01, 3288516.26; 656219.46, 3288506.06; 656224.85, 3288512.17; 656243.83, 3288516.22; 656242.68, 3288530.06; 656257.27, 3288535.18; 656271.13, 3288537.12; 656274.78, 3288529.22; 656174.58, 3288479.49; 656150.87, 3288469.53; 656147.19, 3288475.99; 656143.01, 3288474.25; 656147.51, 3288467.34; 656124.48, 3288456.14; 656110.5, 3288451.27; 656092.9, 3288440.21; 656086.31, 3288440.98; 656079.39, 3288445.26; 656075.26, 3288454.08; 656061.54, 3288477.91; 656092.76, 3288531.47; 656096.78, 3288533.6; 656092.49, 3288542.13; 656101.54, 3288546.93; 656108.62, 3288539.57; 656122.79, 3288533.24; 656128.91, 3288532.89; 656131.82, 3288539.06; 656139.44, 3288539.76; 656155.52, 3288549.31; 656164.19, 3288549.02; 656173.22, 3288554.84; 656184.41, 3288555.63; 656192.41, 3288561.93; 656197.4, 3288566.12; 656201.95, 3288567.76; 656204.88, 3288572.91; 656202.19, 3288578.43; 656188.66, 3288589.27; 656234.01, 3288610.48; 656248.83, 3288583.5; 656233.72, 3288570.26; 656224.31, 3288564.87; 656207.03, 3288556.51; 656186.59, 3288547.28; 656166.91, 3288539.25; 656138.24, 3288525.45; 656131.55, 3288522.51; 656132.15, 3288530.45; 656118.24, 3288530.1; 656117.22, 3288523.33; 656109.53, 3288528.69; 656104.43, 3288525.79; 656095.43, 3288526.45; 656092.76, 3288531.47; 656113.48, 3288733.82; 656116.49, 3288740.63; 656132.56, 3288749.76; 656163.63, 3288758.82; 656171.35, 3288741.81; 656151.32, 3288731.21; 656138.35, 3288724.94; 656121.77, 3288720.55; 656117.17, 3288729.16; 656113.48, 3288733.82; 656160.97, 3288682.25; 656173.37, 3288689.31; 656192.27, 3288696.02; 656202.85, 3288673.84; 656190.27, 3288665.13; 656174.14, 3288658.82; 656168.11, 3288676.16; 656160.97, 3288682.25; 656171.35, 3288741.81; 656171.55, 3288741.91; 656172.3, 3288739.21; 656171.57, 3288741.33; 656171.35, 3288741.81; 656502.52, 3287639.69; 656503.94, 3287646.46; 656526.33, 3287657.33; 656574.8, 3287660.1; 656587.81, 3287648.54; 656579.27, 3287640.4; 656571.16, 3287646.54; 656562.5, 3287643.15; 656562.67, 3287636.42; 656581.32, 3287622.22; 656597.43, 3287613.91; 656592, 3287592.76; 656576.82, 3287580.09; 656573.97, 3287566.94; 656566.23, 3287558.43; 656582.4, 3287547.74; 656591.42, 3287536.87; 656606.23, 3287533.27; 656610.54, 3287519.91; 656626.56, 3287515.16; 656629.04, 3287527.11; 656636.39, 3287535.22; 656636.54, 3287509.43; 656650.37, 3287501.49; 656662.92, 3287492.29; 656708.44, 3287453.41; 656713.43, 3287444.42; 656705.53, 3287442.64; 656692.72, 3287445.88; 656689.31, 3287454.91; 656674.32, 3287450.17; 656674.49, 3287443.44; 656684.33, 3287447.65; 656686.49, 3287440.57; 656674.01, 3287431.14; 656665.3, 3287429.73; 656659.96, 3287436.34; 656655.67, 3287433.06; 656651.39, 3287429.38; 656654.78, 3287421.14; 656664.4, 3287418.22; 656667.7, 3287413.54; 656655.75, 3287398.58; 656653.69, 3287385.45; 656649.17, 3287375.82; 656645.09, 3287363.83; 656659.77, 3287365.39; 656662.12, 3287350.78; 656666.13, 3287333.84; 656676.18, 3287329.34; 656709.06, 3287334.13; 656738.06, 3287335.25; 656759.34, 3287342.53; 656770.03, 3287341.1; 656703.21, 3287315.4; 656684.16, 3287307.54; 656669.99, 3287301.77; 656651.35, 3287305.52; 656635.63, 3287313.84; 656535.86, 3287563.24; 656512.12, 3287621.7; 656502.52, 3287639.69; 657346.27, 3285870.35; 657321.88, 3285859.83; 657310.39, 3285855.24; 657304.46, 3285859.32; 657296.54, 3285857.93; 657287.5, 3285858.89; 657275.94, 3285854.9; 657267.61, 3285848.88; 657261.77, 3285849.26; 657259.35, 3285840.21; 657262.73, 3285832.37; 657263.54, 3285821.3; 657278.91, 3285829.81; 657285.91, 3285835.93; 657301.6, 3285844.25; 657306.98, 3285838.31; 657314.97, 3285842.01; 657312.18, 3285850.47; 657328.32, 3285858.86; 657348.79, 3285864.86; 657359.94, 3285833.04; 657369.29, 3285809.1; 657333.22, 3285797.43; 657327.21, 3285806.45; 657316.56, 3285803.02; 657308.06, 3285803.35; 657289.57, 3285801.15; 657293.53, 3285786.19; 657298.36, 3285770.31; 657307.08, 3285763.97; 657316.91, 3285765.53; 657326.53, 3285775.61; 657333.06, 3285779.25; 657342.92, 3285777.99; 657338.61, 3285792.31; 657348.35, 3285797.81; 657369.78, 3285805.15; 657379.99, 3285765.04; 657363.62, 3285749.9; 657340.23, 3285731.48; 657313.37, 3285709.44; 657304.53, 3285728.64; 657285.39, 3285721.53; 657285.1, 3285722.08; 657285.12, 3285721.43; 657285.39, 3285721.53; 657290.78, 3285706.06; 657300.18, 3285692.75; 657316.59, 3285707.93; 657343.91, 3285728.04; 657354.41, 3285736.99; 657372.67, 3285753.7; 657382.06, 3285759.88; 657406.45, 3285707.82; 657369.03, 3285695.54; 657350.59, 3285683.82; 657326.56, 3285674.46; 657323.32,

3285677.15; 657295.86, 3285662.63; 657265.72, 3285722.51; 657247.39, 3285771.59; 657230.99, 3285791.39; 657211.88, 3285851.57; 657182.1, 3285897.33; 657123.8, 3286001.55; 657108.74, 3286031.29; 657072.52, 3286101.19; 657011.95, 3286215.1; 657068.8, 3286227.4; 657085.66, 3286224.89; 657094.3, 3286229.07; 657095.24, 3286223.15; 657092.64, 3286215.95; 657087.52, 3286213.84; 657091.24, 3286208.38; 657094.46, 3286206.88; 657101.37, 3286200.71; 657103.52, 3286194.42; 657104.12, 3286186.51; 657098.69, 3286181.22; 657095.25, 3286175.59; 657089.84, 3286170.85; 657085.22, 3286164.93; 657088.52, 3286158.77; 657098.99, 3286153.49; 657106.59, 3286151.7; 657099.97, 3286145.98; 657092.14, 3286142.9; 657089.27, 3286128.63; 657091.06, 3286120.35; 657094.64, 3286104.59; 657095.53, 3286085.63; 657110.18, 3286079.42; 657130.56, 3286084.13; 657137.75, 3286082.72; 657155.17, 3286038.38; 657159.35, 3286030.16; 657161.54, 3286018.88; 657174.81, 3286018.16; 657175.05, 3286008.65; 657194.23, 3285962.63; 657184.8, 3285958.17; 657203.42, 3285913.72; 657236.98, 3285931.84; 657271.16, 3285948.16; 657309.02, 3285960.6; 657333.59, 3285902.2; 657326.27, 3285898.31; 657289.21, 3285896.32; 657278.16, 3285892.88; 657278.96, 3285882.33; 657273.25, 3285877.43; 657275.72, 3285863.75; 657283.15, 3285863.41; 657290.08, 3285862; 657298.43, 3285866.96; 657297.13, 3285879.81; 657292.95, 3285887.63; 657307.93, 3285892.77; 657337.69, 3285895.1; 657346.27, 3285870.35; 657355.39, 3285556.72; 657391.89, 3285566.64; 657402.31, 3285553.17; 657411.55, 3285552.98; 657418.06, 3285547.2; 657425.7, 3285550.58; 657429.67, 3285559.78; 657433.11, 3285565.02; 657448.49, 3285570.16; 657456.41, 3285571.55; 657460.96, 3285564.53; 657464.92, 3285565.02; 657465.15, 3285555.91; 657467.8, 3285545.28; 657469.6, 3285537; 657464.96, 3285531.73; 657452.74, 3285527.86; 657441.84, 3285534.32; 657430.04, 3285529.27; 657428.65, 3285521.31; 657423.24, 3285515.23; 657425.07, 3285505.76; 657441.02, 3285489.67; 657446.25, 3285485.25; 657451.26, 3285475.47; 657455.75, 3285470.82; 657462.22, 3285466.63; 657468.46, 3285471.54; 657488.01, 3285484.71; 657527.86, 3285386.63; 657503.03, 3285375.74; 657513.45, 3285359.36; 657532.81, 3285368.24; 657542.39, 3285354.53; 657528.22, 3285348.46; 657534.58, 3285336.25; 657529.6, 3285333.17; 657532.15, 3285326.9; 657530.17, 3285321.86; 657538.43, 3285309.7; 657544.53, 3285307.32; 657540.74, 3285293.9; 657523.76, 3285281.54; 657483.12, 3285347.89; 657388.97, 3285486.62; 657355.39, 3285556.72; 657586.18, 3285171.35; 657627.55, 3285198.44; 657623.81, 3285207.92; 657626.43, 3285214.73; 657620.21, 3285224.88; 657625.56, 3285233.33; 657638.36, 3285230.09; 657657.42, 3285215.51; 657661.13, 3285210.45; 657639.77, 3285190.1; 657653.56, 3285176.37; 657639.67, 3285163.18; 657634.72, 3285154.34; 657647.49, 3285136.82; 657666.3, 3285147.6; 657675.07, 3285162.49; 657684.48, 3285167.87; 657695.32, 3285179.25; 657716.69, 3285153.65; 657688.72, 3285127.58; 657692.14, 3285118.15; 657695.45, 3285111.08; 657693.8, 3285097.96; 657688.59, 3285090.58; 657719.11, 3285078.67; 657718.42, 3285063.86; 657723.32, 3285058.7; 657729.08, 3285061.48; 657733.02, 3285052.6; 657753.09, 3285055.75; 657754.25, 3285051.55; 657745.01, 3285039.69; 657751.7, 3285026.65; 657757.06, 3285024.14; 657765.03, 3285002.67; 657784.54, 3284985.73; 657795.36, 3284998.15; 657803.81, 3284999.42; 657792.08, 3284981.16; 657799.39, 3284964.43; 657804.11, 3284948.94; 657820.75, 3284935.88; 657839.37, 3284934.79; 657839.03, 3284927.38; 657847.49, 3284928.12; 657850.4, 3284917.63; 657859.43, 3284896.19; 657879.94, 3284860.77; 657895.09, 3284848.47; 657904.56, 3284830.21; 657906.47, 3284817.58; 657953.41, 3284764.33; 657953.57, 3284757.99; 657949.06, 3284751.25; 657957.97, 3284728.88; 657914.38, 3284691.72; 657832.12, 3284831.93; 657779.29, 3284924.14; 657707.34, 3285002.39; 657641.83, 3285093.08; 657586.18, 3285171.35; 658131.49, 3284454.63; 658134.5, 3284461.44; 658140.75, 3284465.96; 658148.44, 3284460.6; 658159.09, 3284464.04; 658164.1, 3284454.26; 658171.74, 3284450.89; 658182.91, 3284449.58; 658185.91, 3284440.94; 658182.61, 3284429.76; 658189.43, 3284427.55; 658196.47, 3284432.09; 658202.2, 3284425.49; 658202.57, 3284410.84; 658210.18, 3284408.65; 658221.02, 3284404.57; 658231.17, 3284396.5; 658237, 3284385.94; 658240.92, 3284372.17; 658249.73, 3284370.02; 658260.71, 3284359.99; 658265.67, 3284352.58; 658273.73, 3284348.42; 658282.29, 3284341.36; 658235.9, 3284312.54; 658200.33, 3284298.97; 658179.41, 3284295.69; 658168.31, 3284328.54; 658127.98, 3284451.77; 658131.49, 3284454.63.

654468.03, 3293288.68; 653416.32, 3298411.35; 653417.55, 3298412.48; 653416.9, 3298412.33; 653416.52, 3298412.31; 653416.95, 3298412.79; 653416.81, 3298412.87; 653419.75, 3298415.96; 653493.7, 3298415.84; 653497.66, 3298430.81; 653480.82, 3298437.71; 653463.05, 3298448.76; 653463.76, 3298467.8; 653451.71, 3298472.65; 653451.34, 3298487.3; 653477.74, 3298496.69; 653465.55, 3298507.08; 653473.08, 3298523.92; 653464.24, 3298527.66; 653453.11, 3298543.24; 653446.67, 3298546.24; 653440.49, 3298539.35; 653368.09, 3298525.24; 653396.54, 3298493.82; 653402.64, 3298479.34; 653384.84, 3298460.26; 653400.52, 3298437.67; 653394.89, 3298424.45; 653416.81, 3298412.87; 653416.26, 3298412.3; 653416.12, 3298412.16; 653386.14, 3298405.39; 653355.22, 3298379.42; 653362.64, 3298335.53; 653360.25, 3298316.16; 653382.38, 3298304.54; 653400.7, 3298288.64; 653400.16, 3298262.87; 653429.51, 3298250.13; 653447.6, 3298226.41; 653441.29, 3298211.16; 653426.51, 3298211.21; 653410.93, 3298182.68; 653397.16, 3298177.18; 653380.15, 3298158.12; 653371.68, 3298147.21; 653370.94, 3298128.96; 653372.16, 3298096.48; 653393.86, 3298087.52; 653392.71, 3298070.05; 653385.04, 3298058.76; 653392.16, 3298028.82; 653443.67, 3298003.8; 653470.19, 3297954.09; 653470.83, 3297928.92; 653458.68, 3297909.72; 653447.32, 3297859.05; 653460.9, 3297821.61; 653493.74, 3297772.06; 653510.8, 3297738.9; 653499.09, 3297714.82; 653486.43, 3297696.67; 653485.06, 3297672.06; 653471.35, 3297658.14; 653497.4, 3297627.31; 653510.1, 3297609.27; 653601.98, 3297607.63; 653618.92, 3297598.14; 653626.88, 3297582.09; 653616.46, 3297569.54; 653610.19, 3297550.36; 653612.54, 3297535.76; 653635.58, 3297520.88; 653626.54, 3297516.69; 653609.87, 3297515.87; 653608.02, 3297494.42; 653617.93, 3297480; 653641.02, 3297478.6; 653642.86, 3297468.74; 653646.53, 3297449.41; 653669.06, 3297454.74; 653672.85, 3297444.11; 653691.38, 3297452.53; 653696.01, 3297442.34; 653676.76, 3297433.13; 653667.67, 3297415.07; 653676.87, 3297397.46; 653666, 3297371.03; 653666.63, 3297361.93; 653664.05, 3297322.63; 653656.36, 3297280.81; 653648.36, 3297282.59; 653647.4, 3297304.77; 653635.57, 3297316.76; 653649.06, 3297326.64; 653643.6, 3297360.95; 653645.04, 3297382.39; 653641.67, 3297390.23; 653614.42, 3297398.66; 653573.18, 3297441.62; 653556.44, 3297474.89; 653554.51, 3297503.77; 653571.37, 3297513.31; 653552.03, 3297523.53; 653563.32, 3297532.93; 653549.45, 3297546.85; 653551, 3297563.93; 653534.88, 3297572.64; 653533.16, 3297593.6; 653503.73, 3297594.05; 653486.2, 3297595.59; 653465.47, 3297581.99; 653467.89, 3297565.01; 653470.42, 3297543.27; 653483.51, 3297544.39; 653488.1, 3297520.33; 653501.68, 3297517.9; 653505.56, 3297505.71; 653517.68, 3297482.63; 653529.51, 3297486.5; 653571.22, 3297440.38; 653599.56, 3297333.91; 653575.93, 3297316.84; 653553.34, 3297314.29; 653562.64, 3297295.19; 653587.28, 3297276.7; 653632.87, 3297265.47; 653620.74, 3297258.51; 653606.98, 3297252.62; 653596.79, 3297230.96; 653581.92, 3297190.16; 653582.41, 3297139.04; 653600.86, 3297101.45; 653631.93, 3297083.21; 653653.05, 3297096.82; 653665.25, 3297075.62; 653656.24, 3297065.2; 653689.25, 3297033.89; 653709.43, 3297012.04; 653718.27, 3297033.07; 653734.39, 3297040.21; 653748.64, 3297058.41; 653762.7, 3297068.67; 653769.54, 3297065.28; 653758.41, 3297080.85; 653745, 3297076.94; 653736.31, 3297090.2; 653733.35, 3297113.12; 653714.19, 3297116.2; 653711.79, 3297163.7; 653711.55, 3297173.21; 653700.6, 3297166.19; 653689.55, 3297147.29; 653674.84, 3297162.77; 653685.51, 3297181.27; 653693.25, 3297189.39; 653703.27, 3297186.48; 653716.82, 3297185.23; 653734.32, 3297184.88; 653739.69, 3297176.69; 653748.8, 3297178.11; 653757.54, 3297210.04; 653768.91, 3297200.42; 653782.78, 3297202.35; 653789.43, 3297206.48; 653798.52, 3297192.84; 653810.9, 3297190.77; 653814.18, 3297171.04; 653802.4, 3297165.19; 653803.02, 3297156.49; 653810.89, 3297128.15; 653818.38, 3297099.4; 653812.38, 3297084.98; 653809.62, 3297068.27; 653823.36, 3297059.5; 653836.95, 3297072.52; 653846.18, 3297068.79; 653845.03, 3297051.32; 653836.17, 3297040.4; 653844.24, 3297019.99; 653868.42, 3297022.58; 653871.72, 3297002.06; 653893.08, 3296990.7; 653896.53, 3296964.23; 653911.68, 3296962.63; 653915.61, 3296948.86; 653928.58, 3296923.03; 653915.91, 3296921.12; 653906.33, 3296938.32; 653879.88, 3296946.77; 653890.79, 3296924.06; 653909.12, 3296890.83; 653917.74, 3296864.49; 653930.46, 3296848.96; 653921.62, 3296836.84; 653907.96, 3296842.45; 653899.83, 3296833.92; 653897.03, 3296818.79; 653904.66, 3296784.1; 653928.52, 3296799.76; 653949.92, 3296802.28; 653932.25, 3296778.06; 653911.22, 3296760.48; 653905.27, 3296744.48; 653865.37, 3296757.47; 653843.54, 3296748.47; 653827.55, 3296736.18; 653821.81, 3296727.31; 653828.03, 3296685.85; 653822.85, 3296654.81; 653834.96,

3296631.73; 653820.71, 3296613.53; 653786.55, 3296628.13; 653777.83, 3296658.43; 653771.18, 3296670.15; 653773.98, 3296684.89; 653755.93, 3296696.53; 653741.83, 3296714.6; 653738.55, 3296707.67; 653727.8, 3296703.15; 653745.82, 3296670.07; 653737.9, 3296649.5; 653742.08, 3296625.82; 653731.72, 3296610.9; 653748.05, 3296581.96; 653746.3, 3296553.4; 653758.88, 3296574.72; 653777.32, 3296584.3; 653811.37, 3296589.91; 653828.53, 3296555.86; 653830.59, 3296521.43; 653835.24, 3296479.14; 653835.58, 3296449.82; 653834.78, 3296434.34; 653850.66, 3296387.97; 653823.94, 3296407.12; 653823.37, 3296382.53; 653805.44, 3296384.06; 653806.74, 3296363.88; 653817.06, 3296350.7; 653822.45, 3296308.78; 653803.29, 3296264.7; 653811.63, 3296249.06; 653799.42, 3296228.93; 653804.47, 3296217.96; 653827.64, 3296213.39; 653830.82, 3296181.77; 653810.7, 3296191.56; 653803.54, 3296175.93; 653813.79, 3296163.5; 653837.79, 3296157.76; 653847.14, 3296149.68; 653837.2, 3296133.97; 653840.1, 3296113.43; 653873.14, 3296096.03; 653874.24, 3296084.17; 653892.42, 3296072.74; 653894.24, 3296063.66; 653907.98, 3296054.89; 653901.39, 3296047.99; 653882.47, 3296041.57; 653883.77, 3296021.78; 653912.43, 3296004.67; 653919.16, 3295989.78; 653921.08, 3295945.44; 653910.18, 3295920.59; 653916, 3295879.12; 653928.93, 3295807.7; 653933.75, 3295789.99; 653925.61, 3295793.06; 653920.41, 3295787.18; 653935.81, 3295755.56; 653949.53, 3295747.58; 653956.62, 3295718.83; 653953.83, 3295703.3; 653940, 3295684.32; 653948.81, 3295665.91; 653943.02, 3295659.03; 653926.33, 3295643.15; 653893.58, 3295649.07; 653894.46, 3295661.37; 653928.09, 3295667.77; 653911.29, 3295687.56; 653902.85, 3295691.31; 653894.08, 3295692.28; 653898.47, 3295707.45; 653890.35, 3295713.99; 653904.53, 3295719.1; 653897.74, 3295751.83; 653896.62, 3295764.88; 653903.3, 3295767.82; 653904.66, 3295792.82; 653912.08, 3295798.16; 653909.6, 3295817.52; 653867.14, 3295829.93; 653845.32, 3295812.73; 653833.24, 3295802.91; 653829.87, 3295779.05; 653836.41, 3295756.23; 653855.42, 3295743.23; 653858.68, 3295703.12; 653837.21, 3295692.83; 653836.87, 3295659.13; 653844.41, 3295628.41; 653856.41, 3295577.98; 653855.31, 3295563.63; 653842.6, 3295558.21; 653850.7, 3295536.61; 653857.36, 3295509.03; 653852.82, 3295468.49; 653856.4, 3295436.87; 653869.31, 3295407.41; 653888.25, 3295407.89; 653884.94, 3295424.51; 653878.9, 3295443.39; 653898.19, 3295451.01; 653917.28, 3295450.69; 653931.52, 3295437.58; 653931.84, 3295426.88; 653923.9, 3295408.85; 653932.91, 3295390.12; 653930.71, 3295359.48; 653949.74, 3295346.08; 653928.51, 3295314.44; 653916.58, 3295289.36; 653921.55, 3295265.71; 653969.63, 3295251.06; 653985.27, 3295230.06; 654004.85, 3295226.19; 654005.04, 3295202.81; 653984.57, 3295163.06; 653993.99, 3295152.19; 653990.53, 3295116.04; 653989.91, 3295093.43; 654003.67, 3295054.53; 653995.58, 3295042.05; 653991.58, 3295027.28; 653986.64, 3295013.63; 653982.94, 3294991.79; 653999.6, 3294993; 654019.55, 3294995.09; 654034.33, 3294992.3; 654042.69, 3294991.71; 654066.11, 3294988.73; 654077.07, 3294979.5; 654083.7, 3294968.96; 654086.86, 3294953.98; 654095.71, 3294947.11; 654110.49, 3294931.59; 654114.42, 3294917.42; 654133.94, 3294900.47; 654135.22, 3294881.08; 654121.52, 3294856.96; 654118.86, 3294836.28; 654112.09, 3294805.19; 654090.12, 3294762.23; 654089.06, 3294741.2; 654114.42, 3294712.9; 654114.85, 3294689.4; 654115.48, 3294664.23; 654135.38, 3294626.94; 654121.24, 3294600.51; 654139.74, 3294564.91; 654133.07, 3294561.57; 654111.21, 3294608.59; 654084.04, 3294676.87; 654074.57, 3294721.02; 654065.23, 3294760.42; 654098.05, 3294814.75; 654109.02, 3294836.83; 654111.5, 3294848.78; 654115.12, 3294878.6; 654116.07, 3294888.13; 654112.1, 3294903.89; 654106.59, 3294917.22; 654099.53, 3294929.33; 654090.11, 3294940.19; 654082.52, 3294941.59; 654073.07, 3294937.78; 654062.84, 3294933.56; 654040.41, 3294924.67; 654025.76, 3294922.32; 654015.73, 3294925.64; 654013.23, 3294930.33; 654017.85, 3294936.39; 654033.16, 3294943.91; 654040.62, 3294947.67; 654038.13, 3294951.96; 654032.97, 3294951.44; 654020.45, 3294943.59; 654011.43, 3294938.61; 653999.97, 3294967.25; 654008.85, 3294975.47; 654033.7, 3294985.54; 654032.98, 3294987.84; 654026.39, 3294987.34; 653997.73, 3294977.5; 653992.26, 3294973.4; 653998.14, 3294961.26; 654006.49, 3294929.76; 654009.69, 3294913.2; 654008.86, 3294898.51; 654014.86, 3294879.46; 654007.84, 3294876.29; 654009.3, 3294865.63; 654018.39, 3294867.84; 654033.5, 3294820.26; 654058.09, 3294759.84; 654068.24, 3294720.07; 654077.78, 3294672.74; 654105.84, 3294600.52; 654126.45, 3294555.86; 654108.65, 3294532.02; 654106.87, 3294524.05; 654113.05, 3294515.49; 654121.46, 3294497.07; 654127.64, 3294457.19; 654142.38,

3294408.82; 654154.25, 3294360.65; 654166.93, 3294320.28; 654191.67, 3294220.21; 654199.42, 3294180.77; 654209.15, 3294094.61; 654218.28, 3294050.47; 654234.73, 3293994.98; 654245.9, 3293961.96; 654255.53, 3293942.79; 654269.46, 3293910.64; 654290.49, 3293865.19; 654306.85, 3293831.12; 654324.21, 3293773.69; 654331.82, 3293744.95; 654295.46, 3293736.51; 654291.5, 3293751.47; 654280.8, 3293750.4; 654286.02, 3293732.3; 654305.8, 3293736.37; 654333.08, 3293742.61; 654350.29, 3293685.57; 654367.76, 3293623.38; 654376.72, 3293603.79; 654383.38, 3293592.07; 654390.43, 3293576; 654377.69, 3293576.47; 654365.55, 3293553.57; 654379.6, 3293547.98; 654367.29, 3293531.82; 654373.13, 3293520.86; 654386.28, 3293516.85; 654403.95, 3293525.14; 654416.34, 3293522.76; 654428.14, 3293530.97; 654433.07, 3293540.61; 654441.63, 3293539.04; 654443.8, 3293529.39; 654438.96, 3293516.58; 654435.01, 3293499.44; 654439.55, 3293477.36; 654437, 3293468.18; 654426.69, 3293467.12; 654429.59, 3293446.59; 654424.95, 3293433.8; 654417.05, 3293431.62; 654412.49, 3293439.04; 654414.42, 3293457.32; 654412.38, 3293475.1; 654401.43, 3293467.69; 654391.71, 3293474.98; 654380.54, 3293476.28; 654379.45, 3293456.44; 654392.2, 3293439.71; 654386.26, 3293438.77; 654389.82, 3293423.8; 654395.8, 3293423.16; 654391.95, 3293417.91; 654394.94, 3293409.64; 654426.3, 3293419.55; 654432.45, 3293412.18; 654436.31, 3293385.32; 654437.7, 3293377.43; 654450.32, 3293381.32; 654463.7, 3293386.81; 654475.51, 3293391.46; 654474.03, 3293418.77; 654459.94, 3293425.55; 654456.21, 3293447.26; 654452.28, 3293461.43; 654446.56, 3293483.08; 654442.63, 3293496.86; 654444.61, 3293513.16; 654452.53, 3293530; 654460.08, 3293530.19; 654491.94, 3293507.61; 654514.53, 3293479.24; 654550.35, 3293446.06; 654529.01, 3293441.16; 654521.57, 3293440.98; 654516.09, 3293433.75; 654511.5, 3293410.2; 654513.23, 3293357.53; 654520.12, 3293352.16; 654520.87, 3293338.3; 654513.91, 3293269.96; 654494.43, 3293283.34; 654493.01, 3293260.71; 654495.68, 3293249.68; 654483.11, 3293243.42; 654488.97, 3293231.68; 654504.44, 3293233.25; 654513.67, 3293214.07; 654499.6, 3293204.6; 654483.67, 3293205.38; 654487.26, 3293189.22; 654487.6, 3293189.2; 654399.29, 3293187.61; 654384.88, 3293233.75; 654375.37, 3293274.21; 654365.49, 3293303.87; 654335.92, 3293420.05; 654307.59, 3293544.13; 654285.44, 3293602.76; 654277.13, 3293637.96; 654278.45, 3293669.7; 654276.23, 3293694.48; 654261.81, 3293740.62; 654242.64, 3293786.11; 654236.48, 3293820.31; 654228.26, 3293851.81; 654219.94, 3293887.53; 654215.68, 3293909.09; 654201.42, 3293948.9; 654188.68, 3293991.91; 654171.24, 3294052.77; 654155.93, 3294113.16; 654147.88, 3294180.07; 654118.9, 3294298.78; 654098.81, 3294372.05; 654073.2, 3294492.1; 654061.19, 3294537.96; 654017.07, 3294678.82; 654002.06, 3294738.21; 653972.81, 3294826.26; 653941.58, 3294960.17; 653925.13, 3295023.7; 653898.59, 3295130.31; 653851.07, 3295311.44; 653830.04, 3295409.73; 653815.01, 3295480.17; 653799.14, 3295541.6; 653793.74, 3295587.44; 653777.59, 3295639.35; 653756.23, 3295771.46; 653736.12, 3295838.91; 653712.29, 3295979.41; 653675.58, 3296110.87; 653638.24, 3296266.3; 653618.23, 3296386.82; 653599.35, 3296462.97; 653598.89, 3296502.06; 653591.23, 3296553.66; 653576.13, 3296605.6; 653564.47, 3296647.58; 653546.43, 3296711.07; 653540.65, 3296772.23; 653535.83, 3296837.11; 653519.37, 3296901.17; 653506.76, 3296959.51; 653485.74, 3297036.14; 653470.55, 3297134.05; 653457.77, 3297178.12; 653447.3, 3297235.99; 653435.29, 3297291.7; 653434.64, 3297338.19; 653420.56, 3297376.74; 653416.38, 3297416.27; 653414.81, 3297447.14; 653400.54, 3297476.91; 653390.96, 3297514.66; 653379.52, 3297568.8; 653365.7, 3297612.32; 653353.12, 3297669.6; 653344.35, 3297722.76; 653330.76, 3297820.18; 653325.26, 3297875.72; 653320.1, 3297938.61; 653285.2, 3298029.29; 653285.46, 3298050.7; 653281.28, 3298100.08; 653269.27, 3298155.8; 653256.64, 3298194.06; 653238.59, 3298279.22; 653229.72, 3298378.35; 653221.85, 3298459.72; 653196.09, 3298598.19; 653174.9, 3298760.17; 653173.45, 3298817.6; 653168.29, 3298837.63; 653156.22, 3298895.99; 653138.69, 3299002.3; 653131.64, 3299089.32; 653108.71, 3299257.2; 653101.64, 3299427.06; 653075.63, 3299559.58; 653061.89, 3299694.39; 653035.75, 3299894.68; 653010.44, 3300172.69; 653005.48, 3300236.03; 652991.87, 3300302.35; 652992.16, 3300374.76; 652984.75, 3300465.74; 652981.07, 3300519.81; 652981.45, 3300659.08; 652966.15, 3300760.96; 652958, 3300941.89; 652960.6, 3301077.9; 652956.92, 3301160.78; 652955.06, 3301255.33; 652955.98, 3301320.76; 652954.04, 3301379.5; 652954.23, 3301476.74; 652955.36, 3301565.3; 652959.11, 3301668.84; 652985.38, 3301817.34; 653002.37, 3301941.96; 653002.11, 3302015.42;

653005.29, 3302099; 653015.99, 3302179.07; 653024.28, 3302249.56; 653041.39, 3302369.43; 653065.77, 3302459.21; 653085.09, 3302653.8; 653192.15, 3303331.46; 653275.38, 3303786.99; 653286.09, 3303844.8; 653318.2, 3304021.07; 653349.96, 3304148.71; 653383.05, 3304244.67; 653445.35, 3304401.09; 653482.07, 3304479.18; 653559.58, 3304621.18; 653629.65, 3304742.92; 653685.29, 3304827.3; 653725.4, 3304897.01; 653797.23, 3305011.92; 653873.79, 3305107.92; 653957.79, 3305223.67; 653996.4, 3305269.04; 654042.16, 3305324.63; 654091.82, 3305373.45; 654163.23, 3305441.84; 654246.2, 3305514.75; 654328.93, 3305576.03; 654410.47, 3305642.56; 654544.88, 3305735.27; 654677.32, 3305822.12; 654797.76, 3305880.12; 654843.51, 3305884.09; 654882.41, 3305876.08; 654923.53, 3305905.66; 654988.93, 3305960.69; 655164.9, 3306044.93; 655285.6, 3306092.9; 655433.34, 3306161.64; 655518.32, 3306217.69; 655601.65, 3306255.2; 655650.5, 3306272.82; 655749.22, 3306309.66; 655855.5, 3306320.28; 655891.04, 3306319.06; 655945.25, 3306292.42; 655974.94, 3306250.36; 655982.02, 3306222; 655981.26, 3306168.07; 655952.41, 3306113.54; 655823.27, 3306022.97; 655736.23, 3305985.36; 655667.71, 3305958.5; 655564.78, 3305910.75; 655507.2, 3305882.34; 655419.14, 3305821.98; 655364.33, 3305767.75; 655350.41, 3305752.07; 655328.18, 3305729.84; 655298.95, 3305691.05; 655260.48, 3305640.4; 655234.82, 3305606.99; 655187, 3305548.7; 655160.58, 3305503.64; 655148.18, 3305468.93; 655136.3, 3305436.44; 655139.88, 3305420.67; 655104.23, 3305351.68; 655084.98, 3305307.24; 655059.98, 3305309.34; 655015.16, 3305305.43; 654980.33, 3305292.8; 654940.15, 3305284.91; 654913.69, 3305293.36; 654895.57, 3305302.42; 654897.16, 3305287; 654914.03, 3305279.89; 654913.41, 3305273.14; 654883.99, 3305257.33; 654843.67, 3305248.39; 654827.36, 3305248.77; 654825.22, 3305270.52; 654822.54, 3305282.34; 654815.38, 3305266.7; 654806.78, 3305276.39; 654800.59, 3305269.89; 654804.7, 3305248.59; 654814.21, 3305234.17; 654799.77, 3305223.5; 654767.21, 3305222.28; 654761.28, 3305205.09; 654753.47, 3305199.34; 654733.63, 3305198.05; 654691.82, 3305172.29; 654681.8, 3305156.7; 654692.98, 3305139.15; 654688.36, 3305133.09; 654671.23, 3305134.64; 654659.21, 3305138.3; 654643.79, 3305134.74; 654644.73, 3305145.07; 654636.64, 3305134.56; 654623.45, 3305137.4; 654613.56, 3305135.56; 654614.68, 3305122.9; 654597.2, 3305122.07; 654587.05, 3305130.53; 654555.45, 3305091.29; 654564.5, 3305079.23; 654557.86, 3305058.84; 654566.48, 3305047.96; 654582.26, 3305037.26; 654592.42, 3305028.4; 654597.44, 3305018.62; 654583.45, 3305005.58; 654564.11, 3305000.34; 654534.22, 3305003.15; 654522.13, 3304993.73; 654518.88, 3304980.96; 654507.01, 3304978.68; 654486.83, 3304975; 654470.4, 3304964.28; 654461.48, 3304971.19; 654449.85, 3304959.4; 654440.39, 3304956.39; 654432.24, 3304932.8; 654410.54, 3304926.31; 654406.87, 3304914.32; 654396.76, 3304905.35; 654387.94, 3304908.3; 654384.21, 3304914.15; 654377.84, 3304898.92; 654367.8, 3304887.18; 654360.17, 3304890.15; 654354.69, 3304902.3; 654363.33, 3304906.49; 654354.71, 3304917.37; 654356.71, 3304932.48; 654400.73, 3304952.62; 654435.35, 3304966.97; 654434.26, 3304978.83; 654443.21, 3304986.19; 654461.11, 3304985.85; 654472.4, 3305011.1; 654484.75, 3304994.37; 654501.96, 3304989.65; 654503.27, 3305000.79; 654539.48, 3305015.18; 654566.19, 3305028.14; 654550.19, 3305031.7; 654512.76, 3305018.47; 654490.09, 3305034.54; 654456.47, 3305038.53; 654436.3, 3305039.53; 654411.87, 3305015.13; 654394.51, 3304994.08; 654383.63, 3304999.75; 654365.5, 3304993.74; 654360.06, 3304972.99; 654354.56, 3304954.62; 654343.25, 3304961.87; 654318.14, 3304964.4; 654303.31, 3304953.33; 654288.54, 3304939.88; 654269.49, 3304938.6; 654268.27, 3304924.3; 654291.18, 3304930.03; 654295.51, 3304915.87; 654283.52, 3304918.34; 654275.61, 3304901.1; 654273.11, 3304889.94; 654263, 3304896.82; 654251.87, 3304896.54; 654242.11, 3304888.1; 654241.33, 3304873.28; 654252.91, 3304871.2; 654253.59, 3304860.12; 654240.34, 3304849.48; 654221.7, 3304847.82; 654204.45, 3304838.26; 654196.78, 3304826.97; 654182.09, 3304826.21; 654167.92, 3304820.7; 654155.17, 3304806.1; 654141.95, 3304794.28; 654095.1, 3304776.45; 654070.76, 3304795.65; 654098.16, 3304812.59; 654122.37, 3304829.85; 654135.4, 3304849.21; 654166.61, 3304856.73; 654177.17, 3304863.74; 654186.22, 3304882.99; 654181.18, 3304893.96; 654165.58, 3304897.53; 654160.64, 3304888.69; 654154.6, 3304875.85; 654147.93, 3304872.51; 654135.97, 3304873.8; 654119.47, 3304865.85; 654106.95, 3304873.46; 654098.77, 3304866.91; 654070.39, 3304841.62; 654056.77, 3304830.18; 654037.4, 3304825.73; 654044.12, 3304811.63; 654038.79, 3304801.98; 654015.75, 3304801.4; 654000.76,

3304781.2; 653985.5, 3304787.16; 653971.91, 3304805.84; 653958.04, 3304819.76; 653940.34, 3304812.18; 653930.94, 3304790.93; 653900.3, 3304776.29; 653904.72, 3304758.96; 653928.16, 3304755.56; 653920.21, 3304743.5; 653918.5, 3304739.98; 653902.6, 3304748.2; 653894.63, 3304749.19; 653870.43, 3304731.54; 653855.78, 3304729.19; 653834.15, 3304735.38; 653854.38, 3304705.77; 653866.8, 3304702.11; 653870.74, 3304687.55; 653864.78, 3304671.94; 653851.79, 3304666.86; 653821.17, 3304666.88; 653854.25, 3304647.89; 653863.68, 3304636.64; 653882.03, 3304634.32; 653892.24, 3304639.34; 653891.06, 3304654.37; 653902.88, 3304674.49; 653919.15, 3304675.69; 653924.58, 3304665.12; 653938.89, 3304665.09; 653949.35, 3304676.06; 653939.6, 3304684.13; 653929.78, 3304679.53; 653916.92, 3304701; 653899.4, 3304701.75; 653880.51, 3304725.85; 653890.8, 3304727.69; 653904.22, 3304715.74; 653914.54, 3304731.86; 653926.73, 3304737.32; 653943.72, 3304725.86; 653968.11, 3304720.13; 653983.14, 3304723.28; 653989.86, 3304740.5; 654005.61, 3304746.44; 654016.23, 3304766.93; 654028.9, 3304784.69; 654040.73, 3304788.16; 654039.21, 3304801.2; 654049.06, 3304808.52; 654064.72, 3304798.67; 654093.22, 3304772.04; 654093.19, 3304757.37; 654081, 3304752.31; 654092.95, 3304735.57; 654074.1, 3304726.37; 654097.09, 3304713.47; 654118.36, 3304721.15; 654114.48, 3304701.63; 654078.75, 3304668.22; 654047.91, 3304661.5; 654047.72, 3304653.57; 654023.79, 3304640.67; 653991.4, 3304632.33; 653972.87, 3304610.85; 653978.24, 3304586.81; 653957.59, 3304570.43; 653933.3, 3304540.49; 653909.71, 3304545.84; 653897.64, 3304535.62; 653874, 3304527.5; 653840.46, 3304485.83; 653814.63, 3304442.95; 653808.48, 3304429.92; 653816.73, 3304418.24; 653814.27, 3304405.49; 653813.77, 3304393.59; 653794.32, 3304392.7; 653786.55, 3304369.91; 653768.54, 3304374.61; 653752.64, 3304374.21; 653757.71, 3304362.45; 653768.9, 3304360.35; 653781.99, 3304345.62; 653753.14, 3304307.63; 653733.96, 3304311.51; 653735.59, 3304294.11; 653720.8, 3304297.31; 653717.56, 3304283.75; 653702.67, 3304275.44; 653696.79, 3304259.75; 653682.36, 3304245.2; 653678.83, 3304227.68; 653666.25, 3304222.2; 653666.28, 3304205.16; 653637.87, 3304181.06; 653599.77, 3304146.8; 653585.32, 3304136.53; 653583.17, 3304111.5; 653581.64, 3304093.63; 653598.08, 3304103.56; 653604.44, 3304087.86; 653617.36, 3304096.12; 653615.45, 3304108.75; 653636.02, 3304144.15; 653681.44, 3304203.17; 653730.02, 3304262.66; 653791.46, 3304332.78; 653816.12, 3304363.92; 653851.62, 3304390.58; 653873.95, 3304387.97; 653888.62, 3304389.53; 653910.06, 3304421.78; 653920.67, 3304426.81; 653926.35, 3304422.19; 653916.17, 3304400.53; 653905.45, 3304402.44; 653901.8, 3304387.09; 653876.77, 3304370.6; 653866.91, 3304351.73; 653851.08, 3304348.95; 653838.59, 3304324.06; 653809.98, 3304307.88; 653780.9, 3304278.36; 653747.01, 3304235.34; 653722.54, 3304212.53; 653701.46, 3304181.47; 653693.83, 3304153.14; 653713.53, 3304128.67; 653708.49, 3304121.55; 653685.77, 3304141.84; 653675.83, 3304126.13; 653653.61, 3304108.92; 653654.05, 3304099; 653639.17, 3304082.4; 653621.79, 3304077.99; 653622.51, 3304049.47; 653622.99, 3304030.46; 653606.07, 3304039.15; 653606.39, 3304058.18; 653592.29, 3304049.9; 653582.21, 3304039.74; 653572.43, 3304033.15; 653577.13, 3304020.58; 653589.22, 3304013.75; 653606.25, 3304016.56; 653615.36, 3304017.98; 653612.89, 3304005.63; 653585.35, 3303993.84; 653580.47, 3303982.62; 653589.67, 3303964.62; 653603.51, 3303951.88; 653606.79, 3303932.15; 653594.1, 3303931.04; 653578.04, 3303905.66; 653571.77, 3303886.48; 653549.61, 3303882.35; 653543.97, 3303869.52; 653548.52, 3303847.05; 653557.04, 3303840.13; 653571.44, 3303836.53; 653581.02, 3303829.44; 653578.51, 3303818.98; 653555.62, 3303833.35; 653536.88, 3303835.65; 653527.32, 3303820.75; 653533.89, 3303796.73; 653515, 3303773.27; 653508.08, 3303748.12; 653491.9, 3303727.9; 653507.94, 3303722.35; 653514.17, 3303695.96; 653501.26, 3303672.24; 653491.06, 3303650.98; 653488.23, 3303637.04; 653474.58, 3303626.78; 653472.85, 3303616.43; 653451.3, 3303619.85; 653452.84, 3303606.02; 653469.03, 3303594.54; 653459.15, 3303576.45; 653444.35, 3303517.41; 653432.7, 3303474.71; 653444.16, 3303461.92; 653448.63, 3303473.92; 653460.89, 3303507.92; 653487.03, 3303574.38; 653494.34, 3303584.08; 653497.91, 3303600.02; 653510.21, 3303616.98; 653516.4, 3303639.33; 653523.48, 3303658.14; 653529.92, 3303670.59; 653538, 3303681.1; 653546.13, 3303705.48; 653555.28, 3303736.63; 653566.05, 3303767.02; 653584.17, 3303789.28; 653593.73, 3303820.04; 653603.8, 3303830.21; 653603.06, 3303844.06; 653595.8, 3303848.24; 653582.7, 3303847.11; 653576.95, 3303854.5; 653585.86, 3303863.84; 653589.71, 3303884.55; 653611.67,

3303896.6; 653625.95, 3303897.75; 653630.31, 3303914.11; 653631.54, 3303928.41; 653644.45, 3303936.67; 653650.67, 3303952.67; 653660.24, 3303956.49; 653663.84, 3303987.1; 653675.32, 3303988.97; 653670.17, 3304004.3; 653681.96, 3304009.35; 653688.9, 3304002.4; 653678.57, 3303970.82; 653692.22, 3303981.07; 653703.43, 3303993.65; 653713.37, 3303993.5; 653707.88, 3304006.44; 653697.2, 3304020.04; 653687.83, 3304028.92; 653687.75, 3304047.95; 653705.19, 3304065.43; 653714.78, 3304079.55; 653730.73, 3304108.88; 653750.48, 3304129.6; 653778.72, 3304114.57; 653798.92, 3304116.55; 653820.29, 3304136.11; 653817.39, 3304156.26; 653830.2, 3304168.47; 653839.23, 3304157.2; 653838.66, 3304132.61; 653820.95, 3304109.97; 653801.04, 3304079.74; 653790.51, 3304056.09; 653790.9, 3304032.72; 653775.83, 3304007.76; 653754.12, 3303969.95; 653720.76, 3303937.4; 653740.77, 3303931.96; 653727.27, 3303915.77; 653716.99, 3303897.67; 653712.61, 3303882.1; 653691.66, 3303830.44; 653681.24, 3303817.89; 653670.1, 3303802.55; 653651.69, 3303791.78; 653649.86, 3303769.53; 653636.03, 3303750.56; 653616.07, 3303690.99; 653609.98, 3303680.54; 653605.33, 3303659.81; 653592.03, 3303635.69; 653594.43, 3303619.1; 653602.43, 3303617.32; 653616.2, 3303638.68; 653609.2, 3303648.41; 653621.43, 3303651.89; 653624.19, 3303668.61; 653631.19, 3303690.58; 653652.81, 3303700.24; 653656.91, 3303711.05; 653670.15, 3303737.54; 653677.73, 3303752.4; 653696.22, 3303744.54; 653694.65, 3303759.17; 653688.41, 3303770.11; 653698.63, 3303790.58; 653704.46, 3303811.34; 653711.48, 3303832.53; 653722.21, 3303848.65; 653725.51, 3303875.29; 653731.93, 3303888.53; 653757.57, 3303928.02; 653766.46, 3303953.62; 653783.68, 3303980.21; 653803.17, 3304011.22; 653826.96, 3304045.12; 653842.48, 3304060.18; 653855.22, 3304059.7; 653874.9, 3304067.33; 653883.87, 3304105.61; 653894.45, 3304143.14; 653893.89, 3304165.32; 653886.55, 3304172.67; 653865.53, 3304170.55; 653856.93, 3304180.64; 653862.24, 3304206.54; 653910.36, 3304252.94; 653920.92, 3304244.09; 653930.43, 3304229.66; 653945.03, 3304218.14; 653966.81, 3304221.46; 654000.15, 3304255.2; 654012.4, 3304257.89; 654035.26, 3304281.46; 654056.72, 3304282; 654023.39, 3304247.86; 654018.11, 3304236.63; 654005.07, 3304233.53; 653988.61, 3304223.99; 653974.66, 3304209.77; 653955.85, 3304183.13; 653939.91, 3304169.26; 653917.26, 3304152.83; 653914.05, 3304122.62; 653907.83, 3304101.46; 653896.58, 3304090.47; 653887.82, 3304075.19; 653889.84, 3304058.2; 653918.08, 3304089.04; 653944.49, 3304113.88; 653958.47, 3304126.92; 653977.3, 3304152.76; 654009.43, 3304186.86; 654010.74, 3304198; 654031.06, 3304211.98; 654064.87, 3304242.57; 654082.98, 3304265.22; 654132.32, 3304295; 654160.4, 3304316.72; 654168.37, 3304315.73; 654175.98, 3304329.4; 654188.83, 3304324.17; 654186.58, 3304334.42; 654200.35, 3304340.32; 654207.81, 3304328.22; 654218.77, 3304334.84; 654225.84, 3304354.04; 654240.92, 3304355.22; 654263.93, 3304372.84; 654266.69, 3304389.56; 654288.8, 3304395.27; 654308.99, 3304398.95; 654325.77, 3304411.26; 654346.91, 3304408.63; 654367.32, 3304419.05; 654386.75, 3304420.73; 654403.98, 3304415.61; 654416.74, 3304413.95; 654425.52, 3304428.45; 654436.43, 3304437.04; 654450.71, 3304438.2; 654455.87, 3304422.87; 654474.8, 3304428.9; 654485.58, 3304443.04; 654495.85, 3304429.82; 654506.17, 3304446.33; 654520.3, 3304453.43; 654522.47, 3304477.66; 654501.04, 3304475.93; 654455.53, 3304468.05; 654451.84, 3304480.3; 654475.39, 3304484.4; 654483.87, 3304494.92; 654497.2, 3304486.54; 654521.96, 3304482.01; 654541.07, 3304496.76; 654589.55, 3304497.59; 654580.11, 3304509.24; 654587, 3304519.72; 654621.28, 3304516.23; 654619.67, 3304548.29; 654605.15, 3304556.64; 654601.96, 3304541.11; 654587.87, 3304548.28; 654572.71, 3304534.42; 654553.99, 3304535.93; 654540.75, 3304524.9; 654527.47, 3304531.3; 654511.52, 3304533.27; 654508.88, 3304527.66; 654495.09, 3304522.55; 654468.11, 3304520.68; 654442.5, 3304511.32; 654422.1, 3304500.89; 654407.94, 3304494.59; 654417.62, 3304473.43; 654427.81, 3304479.24; 654435.34, 3304464.37; 654416.8, 3304458.75; 654396.89, 3304460.23; 654369.76, 3304448.05; 654361, 3304448.62; 654338.97, 3304455.2; 654324.84, 3304448.1; 654300.2, 3304432.02; 654279.78, 3304421.99; 654255.91, 3304422.58; 654220.39, 3304412.57; 654192.88, 3304399.98; 654162.85, 3304392.49; 654173.75, 3304370.17; 654146.3, 3304371.06; 654131.9, 3304358.81; 654111, 3304351.94; 654109.34, 3304339.21; 654079.89, 3304324.6; 654057.47, 3304303.46; 654057.77, 3304311.97; 654071.01, 3304329.92; 654072.69, 3304352.85; 654092.06, 3304362.16; 654094.23, 3304370.54; 654088.46, 3304378.72; 654074.56, 3304378.37; 654049.21, 3304374.56; 654038.85, 3304359.63; 654012.76,

3304337.97; 654027.48, 3304322.09; 654015.14, 3304306.71; 654005.04, 3304297.74; 654000.44, 3304290.88; 653979.86, 3304287.19; 653969.47, 3304273.45; 653963.69, 3304266.17; 653950.93, 3304267.83; 653943.87, 3304248.23; 653930.29, 3304250.67; 653921.36, 3304257.97; 653934.44, 3304275.35; 653970.96, 3304308.77; 653991.52, 3304329.11; 654017.77, 3304360.29; 654046.56, 3304384.8; 654079.7, 3304395.15; 654126.8, 3304434.78; 654166.76, 3304457.99; 654220.67, 3304479.96; 654259.9, 3304500.77; 654279.11, 3304511.16; 654294.7, 3304492.13; 654340.34, 3304511.12; 654362.03, 3304518.01; 654428.07, 3304547.42; 654487.19, 3304573.28; 654511.97, 3304592.8; 654540.32, 3304604.95; 654576.64, 3304615.16; 654599.1, 3304623.25; 654615.66, 3304628.43; 654635.3, 3304638.04; 654613.94, 3304649.39; 654610.7, 3304663.25; 654572.64, 3304647.56; 654527.91, 3304640.09; 654510.58, 3304633.71; 654504.04, 3304640.68; 654563.86, 3304664.78; 654605.47, 3304685.65; 654625.04, 3304697.63; 654608.83, 3304709.91; 654572.2, 3304728.01; 654572.82, 3304734.77; 654553.24, 3304738.63; 654526.3, 3304735.18; 654519.97, 3304717.97; 654524.99, 3304711.42; 654560.68, 3304711.87; 654561.2, 3304706.73; 654528.61, 3304706.7; 654510.41, 3304703.07; 654488.25, 3304698.94; 654459.95, 3304686.33; 654423.1, 3304665.59; 654426.53, 3304655.76; 654418.85, 3304645.26; 654403.98, 3304635.77; 654379.41, 3304632.77; 654350.88, 3304628.88; 654332.66, 3304626.44; 654321.38, 3304616.64; 654312.6, 3304617.61; 654297.76, 3304607.33; 654281.35, 3304595.82; 654270.94, 3304598.72; 654292.77, 3304615.92; 654318.58, 3304632.83; 654329.07, 3304642.6; 654363.79, 3304652.99; 654427.71, 3304687.9; 654467.35, 3304707.93; 654493.03, 3304729.98; 654512.76, 3304751.48; 654525.91, 3304765.66; 654494.34, 3304772.42; 654473.07, 3304764.75; 654454.63, 3304770.63; 654437.62, 3304767.42; 654421.48, 3304761.07; 654409.51, 3304747.29; 654392.29, 3304736.55; 654334.64, 3304705.37; 654307.25, 3304688.03; 654287.53, 3304681.59; 654279.46, 3304686.14; 654263.2, 3304684.94; 654263.13, 3304671.86; 654238.86, 3304672.43; 654230.61, 3304680.44; 654225.69, 3304659.02; 654218.09, 3304644.96; 654201.14, 3304639.38; 654196.18, 3304646.78; 654188.49, 3304652.14; 654182.05, 3304639.69; 654183.89, 3304629.82; 654168.21, 3304621.1; 654162.53, 3304625.32; 654139.64, 3304602.94; 654121.8, 3304601.3; 654123.51, 3304580.74; 654106.95, 3304559.71; 654066.78, 3304544.42; 654050.2, 3304524.19; 654033.92, 3304507.53; 654003.88, 3304500.82; 653981.15, 3304487.96; 653984.01, 3304469.01; 653968.7, 3304461.49; 653951, 3304453.91; 653938.47, 3304477.77; 653960.83, 3304521.14; 653982.17, 3304526.04; 653986.27, 3304536.84; 654013.6, 3304556.56; 654019.24, 3304569.39; 654041.53, 3304584.22; 654064.83, 3304574.5; 654076.34, 3304575.19; 654083.3, 3304582.89; 654077.86, 3304593.85; 654069.48, 3304610.69; 654092.45, 3304629.89; 654126.48, 3304651.76; 654139.88, 3304640.6; 654152.41, 3304663.91; 654173.82, 3304681.89; 654198.97, 3304693.62; 654205.04, 3304705.27; 654227.86, 3304714.57; 654225.01, 3304732.73; 654242.03, 3304735.93; 654248.93, 3304746.02; 654336.2, 3304800.54; 654380.85, 3304827.03; 654389.76, 3304820.52; 654428.28, 3304822.28; 654439.3, 3304826.92; 654431.14, 3304803.73; 654459.98, 3304810.8; 654493.15, 3304804.1; 654500.17, 3304824.89; 654473.55, 3304840.07; 654453.71, 3304838.78; 654460.04, 3304855.59; 654489.43, 3304856.73; 654474.74, 3304871.81; 654477.14, 3304886.94; 654500.14, 3304889.1; 654513.71, 3304902.52; 654531.61, 3304918.04; 654570.66, 3304945.98; 654641.29, 3304982.64; 654662.65, 3305002.6; 654694.62, 3305011.73; 654723.89, 3305033.08; 654748.51, 3305049.95; 654761.78, 3305059.8; 654773.11, 3305067.62; 654766.9, 3305079.99; 654751.78, 3305076.02; 654747.91, 3305058.26; 654732.48, 3305070.95; 654737.89, 3305077.04; 654763.48, 3305086.8; 654778.52, 3305089.56; 654791.05, 3305097.01; 654821.55, 3305110.42; 654836.91, 3305115.96; 654851.39, 3305125.05; 654874.67, 3305131.98; 654887.19, 3305139.82; 654916.02, 3305131.83; 654925.49, 3305118.99; 654937.65, 3305125.24; 654961.2, 3305121.48; 654978.24, 3305123.89; 654981.57, 3305133.49; 654981.34, 3305142.6; 654942.42, 3305141.22; 654935.19, 3305144.21; 654967.02, 3305158.88; 654978.11, 3305160.35; 654988.18, 3305155.06; 654999.95, 3305161.3; 654989.31, 3305173.32; 654968.84, 3305165.27; 654951.4, 3305163.24; 654947.63, 3305171.08; 654958.89, 3305181.67; 654947.97, 3305188.92; 654934.41, 3305190.56; 654925.13, 3305180.42; 654912.31, 3305184.06; 654892.99, 3305178.02; 654886.66, 3305176.67; 654879.8, 3305180.46; 654871.22, 3305173.91; 654853.97, 3305180.21; 654832.48, 3305165.4; 654821.08, 3305160.35; 654809.35, 3305152.53; 654805.65, 3305141.73; 654786.79, 3305132.93; 654766.26,

3305127.26; 654761.04, 3305129.11; 654757.25, 3305121.88; 654734.17, 3305107.03; 654727.17, 3305116.76; 654723.47, 3305105.57; 654713.76, 3305096.6; 654702.15, 3305099.88; 654691.18, 3305093.65; 654680.05, 3305093.37; 654660.56, 3305078.22; 654658.41, 3305069.05; 654654.59, 3305062.61; 654637.42, 3305049.89; 654631.84, 3305050.54; 654623.41, 3305038.04; 654611.85, 3305039.33; 654608.19, 3305042.41; 654600.49, 3305032.7; 654595.09, 3305041.68; 654606.38, 3305051.09; 654618.35, 3305065.26; 654635.81, 3305066.49; 654642.61, 3305080.54; 654657.15, 3305087.25; 654683.68, 3305107.34; 654705.69, 3305117.01; 654719.89, 3305121.73; 654735.93, 3305131.65; 654757.84, 3305145.68; 654785.81, 3305155.9; 654795.11, 3305165.25; 654817.64, 3305172.62; 654831.35, 3305178.45; 654832.63, 3305190.77; 654853.98, 3305195.67; 654873.01, 3305197.73; 654887.58, 3305187.4; 654901.23, 3305198.05; 654916.53, 3305205.97; 654927.43, 3305214.96; 654939.07, 3305210.5; 654944.33, 3305222.92; 654965.36, 3305208.78; 654987.35, 3305219.25; 654981.01, 3305234.15; 654983.57, 3305242.94; 654995.1, 3305247.87; 655015.87, 3305243.64; 655047.9, 3305266.25; 655079.6, 3305289.14; 655047.85, 3305203.25; 655029.28, 3305162.09; 654992, 3305106.18; 654966.35, 3305106.54; 654951.84, 3305098.65; 654937.4, 3305103.83; 654929.94, 3305100.08; 654916.36, 3305102.51; 654900.38, 3305105.67; 654886.55, 3305102.55; 654870.58, 3305104.92; 654857.45, 3305105.38; 654840.67, 3305108.92; 654837.59, 3305104.88; 654835.12, 3305092.53; 654818.37, 3305085.81; 654816.14, 3305079.8; 654794.61, 3305082.35; 654797.27, 3305071.4; 654796.46, 3305056.32; 654786.77, 3305046.16; 654753.83, 3305028.29; 654721.73, 3305008.45; 654731.54, 3304998; 654774.17, 3305025.63; 654798.09, 3305023.06; 654820.84, 3305035.13; 654859.12, 3305046.4; 654902.16, 3305042.34; 654927.74, 3305045.72; 654930.73, 3305053.32; 654924.6, 3305059.91; 654940.71, 3305067.45; 654944.51, 3305074.28; 654955.61, 3305075.36; 654964.79, 3305089.86; 654975.08, 3305083.56; 654949.64, 3305041.69; 654924.45, 3304989.79; 654891.55, 3304949.33; 654862.01, 3304901.55; 654786.08, 3304790.88; 654763.39, 3304755.83; 654720.47, 3304692.39; 654709.04, 3304662.5; 654697.54, 3304635.26; 654687.13, 3304606.46; 654665.25, 3304553.8; 654649.23, 3304512.49; 654636.36, 3304476.23; 654632.44, 3304463.44; 654623.45, 3304414.81; 654604.21, 3304436.52; 654592.37, 3304448.91; 654562.92, 3304466; 654536.52, 3304456.61; 654528.04, 3304446.09; 654533.64, 3304428.79; 654538.39, 3304413.85; 654530.25, 3304405.72; 654505.02, 3304397.16; 654486.31, 3304398.27; 654471.35, 3304408.2; 654446.85, 3304402.43; 654426.24, 3304399.92; 654419.37, 3304372.8; 654426.09, 3304358.7; 654410.55, 3304357.22; 654401.38, 3304361.25; 654399.25, 3304350.89; 654416.82, 3304332.3; 654417.52, 3304320.43; 654394.36, 3304324.21; 654369.21, 3304312.87; 654330.89, 3304319.04; 654313.66, 3304308.69; 654299.55, 3304300.41; 654287.35, 3304296.81; 654279.99, 3304303.88; 654262.51, 3304287.58; 654241.05, 3304287.04; 654234.49, 3304295.2; 654224.78, 3304285.84; 654214.25, 3304278.04; 654195.61, 3304291.84; 654176.87, 3304262.83; 654148.73, 3304259.35; 654092.93, 3304217.91; 654073.5, 3304197.58; 654096.53, 3304200.95; 654115.69, 3304198.26; 654149.03, 3304215.75; 654222.25, 3304244.55; 654261.79, 3304253.08; 654292.76, 3304254.66; 654315.04, 3304269.49; 654322.81, 3304260.96; 654341.83, 3304263.43; 654356.18, 3304277.66; 654384.05, 3304275.99; 654412.14, 3304265.99; 654432.67, 3304271.27; 654463.67, 3304271.65; 654480.89, 3304266.93; 654498.89, 3304262.63; 654509.05, 3304253.77; 654514.71, 3304234.49; 654568.85, 3304215.64; 654581.43, 3304205.65; 654592.85, 3304194.05; 654608.04, 3304190.87; 654608.23, 3304199.2; 654602.33, 3304212.13; 654589.91, 3304216.17; 654585.64, 3304227.56; 654571.57, 3304233.94; 654562.21, 3304258.28; 654561.33, 3304245.97; 654553.25, 3304250.92; 654546.96, 3304263.84; 654543.08, 3304275.64; 654554.42, 3304283.06; 654562.96, 3304291.2; 654562.25, 3304303.87; 654573.89, 3304299.4; 654595.59, 3304290.04; 654616.34, 3304282.82; 654624.6, 3304228.59; 654630.2, 3304195.97; 654632.79, 3304159.04; 654640.71, 3304136.51; 654625.36, 3304135.02; 654617.06, 3304148.68; 654591.13, 3304151.99; 654569.84, 3304176.43; 654553.03, 3304181.16; 654553.39, 3304198.21; 654555.42, 3304212.13; 654514.84, 3304229.34; 654494.05, 3304233.97; 654476.52, 3304235.11; 654464.4, 3304232.04; 654464.73, 3304214.21; 654481.98, 3304207.9; 654478.56, 3304201.87; 654462.87, 3304209.01; 654452.13, 3304209.53; 654452, 3304198.82; 654433.73, 3304197.96; 654393.54, 3304215.18; 654381.69, 3304227.96; 654371.42, 3304225.33; 654356.16, 3304231.28; 654347.24, 3304222.74; 654309.54, 3304219.8; 654287.91, 3304210.54; 654263.15,

3304215.07; 654212.4, 3304193.97; 654176.88, 3304168.1; 654174.99, 3304148.23; 654147.02, 3304138.41; 654132.38, 3304117.19; 654115.98, 3304107.9; 654084.66, 3304057.56; 654067.27, 3304053.56; 654037.88, 3304020.71; 653997.32, 3303962.64; 653983.77, 3303944.04; 653965.51, 3303927.32; 653964.74, 3303910.26; 653971.71, 3303902.11; 653963.12, 3303880.1; 653945.22, 3303864.98; 653929.44, 3303844.37; 653918.11, 3303820.69; 653913.86, 3303799.98; 653899.35, 3303792.08; 653897.71, 3303778.56; 653898.1, 3303763.11; 653896.42, 3303750.78; 653882.48, 3303752.02; 653870.76, 3303743.79; 653867.17, 3303728.64; 653853.03, 3303721.55; 653840.25, 3303724; 653828.33, 3303723.7; 653835.1, 3303738.93; 653844.17, 3303741.93; 653833.58, 3303751.97; 653822.02, 3303753.27; 653811.88, 3303745.48; 653801.56, 3303744.82; 653803.56, 3303728.62; 653788.42, 3303729.83; 653784.84, 3303714.28; 653765.25, 3303703.08; 653758.87, 3303687.86; 653758.06, 3303672.78; 653742.89, 3303643.85; 653712.26, 3303628.81; 653710.29, 3303612.51; 653734.27, 3303607.57; 653751.2, 3303613.94; 653780.47, 3303635.69; 653785.08, 3303657.6; 653781.51, 3303672.97; 653781.16, 3303686.83; 653803.53, 3303703.62; 653824.77, 3303691.5; 653831.51, 3303707.92; 653840.17, 3303695.85; 653824.54, 3303670.43; 653811.74, 3303657.82; 653816.62, 3303653.18; 653805.29, 3303645.37; 653800.94, 3303644.46; 653800, 3303634.53; 653795.8, 3303627.69; 653780.31, 3303611.44; 653767.41, 3303602.79; 653758.37, 3303598.6; 653767.71, 3303590.91; 653751.55, 3303585.35; 653741.25, 3303568.05; 653731.65, 3303570.58; 653720.61, 3303551.27; 653713.41, 3303542.14; 653702.91, 3303543.69; 653692.87, 3303516.09; 653683.14, 3303523.77; 653681.59, 3303506.29; 653686, 3303504.82; 653682.02, 3303489.26; 653669.58, 3303478.24; 653665.02, 3303469.81; 653663.7, 3303459.07; 653641.61, 3303436.71; 653607.66, 3303395.82; 653594.88, 3303382.42; 653580.24, 3303363.82; 653570.52, 3303339.4; 653534.11, 3303285.76; 653534.05, 3303272.68; 653552.61, 3303277.51; 653613.46, 3303355.89; 653615.8, 3303356.79; 653626.1, 3303358.24; 653640.33, 3303361.37; 653647.15, 3303359.16; 653651.74, 3303350.56; 653645.49, 3303330.58; 653634.26, 3303318.41; 653621.68, 3303297.09; 653592.65, 3303250.37; 653579.5, 3303220.32; 653555.67, 3303188.01; 653553.81, 3303166.95; 653534.29, 3303152.98; 653526, 3303134.94; 653512.31, 3303094.56; 653490.86, 3303078.16; 653482.2, 3303058.92; 653478.59, 3303044.56; 653464.14, 3303034.28; 653469.91, 3303026.11; 653473.49, 3303010.34; 653484.15, 3303013.39; 653496.55, 3303025.99; 653508.92, 3303040.17; 653511.09, 3303048.55; 653520.2, 3303049.97; 653523.11, 3303076.2; 653533.83, 3303076.87; 653534.28, 3303090.36; 653554.21, 3303119.79; 653562.21, 3303133.47; 653571.02, 3303162.63; 653584.35, 3303170.1; 653602.01, 3303210.58; 653618.76, 3303239.93; 653630.69, 3303239.84; 653639.47, 3303253.93; 653633.54, 3303268.45; 653646.14, 3303273.13; 653652.63, 3303299.45; 653669.37, 3303313.75; 653683.37, 3303341.84; 653677.63, 3303364.29; 653663.27, 3303366.31; 653657.13, 3303373.29; 653651.76, 3303365.62; 653646.78, 3303373.82; 653635.27, 3303373.13; 653630.12, 3303383.68; 653637.13, 3303393.79; 653647.91, 3303407.54; 653654.95, 3303398.75; 653658.32, 3303389.17; 653668.41, 3303383.09; 653671.89, 3303395.77; 653676.38, 3303397.95; 653672.21, 3303405.78; 653676.36, 3303414.6; 653674.99, 3303421.7; 653679.65, 3303424.06; 653688.12, 3303421.24; 653684.27, 3303431.84; 653691.23, 3303439.55; 653697.43, 3303446.05; 653708.85, 3303450.3; 653715.89, 3303454.84; 653722.73, 3303451.44; 653722.51, 3303460.16; 653716.32, 3303469.12; 653728.57, 3303488.06; 653746.19, 3303514.26; 653770.93, 3303542.24; 653778.09, 3303542.02; 653787.38, 3303536.31; 653788.82, 3303557.75; 653790.98, 3303566.92; 653811.94, 3303586.87; 653822.38, 3303598.63; 653827.64, 3303610.65; 653838.62, 3303616.48; 653847.5, 3303627.01; 653855.39, 3303629.59; 653851.58, 3303638.61; 653861.28, 3303647.97; 653881.07, 3303681.82; 653895.84, 3303680.55; 653894.5, 3303701.19; 653909.32, 3303712.26; 653919.27, 3303727.58; 653941.8, 3303748.76; 653971.13, 3303783.58; 653984.47, 3303806.12; 653994.13, 3303817.06; 654006.88, 3303832.05; 654017.36, 3303857.68; 654037.91, 3303878.02; 654051.32, 3303898.18; 654077.73, 3303922.62; 654094.34, 3303942.07; 654118.44, 3303947.83; 654134.14, 3303971.61; 654160.71, 3303990.12; 654185.36, 3303989.95; 654201.62, 3304007; 654220.92, 3304014.23; 654227.46, 3304007.26; 654238.94, 3304024.99; 654255.63, 3304025.01; 654275.43, 3304028.29; 654275.05, 3304043.34; 654298.93, 3304057.82; 654330.95, 3304080.82; 654339.09, 3304088.95; 654347.56, 3304068.56; 654357.37, 3304057.71; 654369.01, 3304053.64; 654384.46, 3304055.61; 654404.33, 3304055.72; 654420.94, 3304059.31; 654428.62,

3304054.35; 654446.46, 3304056.39; 654455.89, 3304060.59; 654466.93, 3304048.58; 654475.73, 3304046.42; 654481.56, 3304051.72; 654490.2, 3304040.05; 654497.21, 3304046.17; 654509.38, 3304036.57; 654520.68, 3304045.57; 654562.83, 3304029.2; 654607.16, 3304021.2; 654633.67, 3304010.77; 654631.57, 3303983.76; 654638.56, 3303958.57; 654628.6, 3303896.88; 654622.44, 3303832.17; 654623.59, 3303786.75; 654622.98, 3303727.01; 654621.15, 3303673.59; 654610.27, 3303642.66; 654603.36, 3303622.4; 654600.88, 3303592.12; 654593.04, 3303548.68; 654579.95, 3303500.26; 654567.99, 3303424.93; 654567.15, 3303356.72; 654557.18, 3303356.81; 654544.25, 3303380.66; 654526.33, 3303381.8; 654513.08, 3303402.87; 654502.05, 3303399.02; 654495.76, 3303411.94; 654472.38, 3303408.98; 654455, 3303420.03; 654439.47, 3303421.23; 654431.65, 3303415.88; 654438.54, 3303410.5; 654465.29, 3303406.02; 654448.77, 3303399.26; 654401.43, 3303400.45; 654373.63, 3303399.35; 654350.58, 3303398.77; 654343.26, 3303405.32; 654348.65, 3303412.2; 654339.78, 3303417.13; 654332.97, 3303419.33; 654323.22, 3303427.41; 654316.93, 3303424.87; 654298.29, 3303422.82; 654292.22, 3303411.57; 654278.56, 3303417.17; 654269.32, 3303420.9; 654258.52, 3303407.94; 654220.03, 3303404.99; 654183.36, 3303392.96; 654156.49, 3303386.74; 654120.66, 3303374.6; 654116.38, 3303369.08; 654109.18, 3303370.88; 654096.8, 3303372.94; 654081.94, 3303363.45; 654054.08, 3303333.02; 654020.36, 3303314.73; 653979.48, 3303296.26; 653971.85, 3303283.39; 653968.15, 3303272.59; 653972.79, 3303262.01; 653984.89, 3303255.18; 653991.43, 3303263.66; 654002.26, 3303275.83; 654027.44, 3303280.66; 654070.42, 3303294.83; 654080.09, 3303305.37; 654097.79, 3303312.96; 654118.87, 3303312.3; 654178.35, 3303318.55; 654222.05, 3303319.66; 654239.36, 3303326.83; 654255.5, 3303333.18; 654271.25, 3303339.13; 654288.56, 3303346.31; 654309.33, 3303342.47; 654317.1, 3303333.95; 654334.27, 3303331.21; 654355.97, 3303337.7; 654357.72, 3303362.72; 654375.36, 3303341.36; 654406.73, 3303342.55; 654436.8, 3303332.61; 654452.58, 3303337.36; 654480.9, 3303333.72; 654498.12, 3303329; 654488.56, 3303345.41; 654498.12, 3303344.46; 654507.12, 3303334.38; 654519.95, 3303330.34; 654517.42, 3303320.37; 654508.01, 3303314.98; 654496.8, 3303318.26; 654486.69, 3303309.29; 654461.26, 3303324.5; 654452.38, 3303313.97; 654436.73, 3303319.52; 654419.6, 3303321.07; 654392.04, 3303326.32; 654365.79, 3303326.45; 654316.96, 3303324.03; 654304.16, 3303326.88; 654289.27, 3303318.58; 654267.44, 3303316.84; 654248.88, 3303310.56; 654249.77, 3303292.61; 654310.37, 3303301.67; 654330.7, 3303299.41; 654371.85, 3303291.33; 654402.97, 3303286.96; 654417.44, 3303280.59; 654434.33, 3303273.09; 654449.02, 3303258; 654478.03, 3303258.73; 654475.46, 3303250.34; 654489.31, 3303237.22; 654492.77, 3303210.35; 654480.94, 3303175.17; 654456.93, 3303145.71; 654433.4, 3303111.82; 654415, 3303084.93; 654389.63, 3303039.9; 654377.32, 3303043.74; 654373.48, 3303053.95; 654388.19, 3303069.78; 654387.54, 3303079.67; 654378.57, 3303072.7; 654369.52, 3303069.3; 654365.69, 3303079.12; 654353.43, 3303076.43; 654343.88, 3303061.13; 654338.87, 3303070.51; 654319.82, 3303053.78; 654282.06, 3303053.23; 654287.68, 3303066.84; 654291.81, 3303076.46; 654277.54, 3303090.77; 654281.08, 3303107.9; 654266.12, 3303117.83; 654238.97, 3303106.44; 654194.61, 3303100.17; 654179.34, 3303106.52; 654222.68, 3303121.89; 654242.37, 3303129.52; 654260.41, 3303139.7; 654255.11, 3303159.96; 654239.05, 3303166.3; 654240.86, 3303173.48; 654248.68, 3303178.43; 654249.57, 3303190.34; 654269.07, 3303189.65; 654279.58, 3303198.63; 654297.4, 3303201.46; 654310.25, 3303196.23; 654334.02, 3303199.61; 654365.46, 3303198.02; 654385.12, 3303206.84; 654409.5, 3303201.91; 654406.86, 3303227.6; 654388.78, 3303235.08; 654376.38, 3303237.93; 654365.54, 3303226.56; 654339.83, 3303237.01; 654347.19, 3303244.73; 654367.29, 3303251.58; 654354.74, 3303260.38; 654340.99, 3303254.09; 654331.56, 3303265.34; 654305.04, 3303260.71; 654286.87, 3303256.29; 654267.15, 3303249.84; 654218.33, 3303246.63; 654193.74, 3303228.57; 654161.41, 3303218.24; 654138.07, 3303213.69; 654138.46, 3303198.24; 654128.71, 3303190.47; 654104.72, 3303180.35; 654091.23, 3303163.36; 654105.31, 3303156.98; 654114.33, 3303161.96; 654120.98, 3303166.09; 654132.1, 3303150.91; 654151.61, 3303149.82; 654170.89, 3303141.98; 654165.35, 3303125.2; 654145.62, 3303119.15; 654107.34, 3303123.73; 654094.36, 3303102.79; 654080.64, 3303110.77; 654058.77, 3303095.16; 654005.91, 3303078.76; 653980.57, 3303074.95; 653963.35, 3303063.82; 653927.99, 3303047.47; 653919.18, 3303034.16; 653944.11, 3303022.9; 653963.97, 3303023.8; 653979.08, 3303023.78; 653998.07, 3303027.43; 654015.03,

3303016.76; 654037.61, 3303020.11; 654051.26, 3303030.36; 654058.02, 3303030.53; 654082.68, 3303029.96; 654108.73, 3303021.9; 654100.23, 3303012.17; 654100.09, 3302986.01; 654108.4, 3302971.95; 654126.69, 3302972.02; 654138.85, 3302962.41; 654136.77, 3302950.47; 654129.5, 3302923.73; 654130.59, 3302896.41; 654157.33, 3302907.78; 654175.5, 3302912.6; 654187.07, 3302926.77; 654207.42, 3302939.17; 654220.41, 3302944.26; 654243.21, 3302938.89; 654255.36, 3302945.93; 654267.79, 3302941.49; 654286.78, 3302945.14; 654283.85, 3302966.86; 654319.61, 3302983.22; 654351.35, 3302981.86; 654333.82, 3302941.25; 654305.81, 3302875.01; 654269.93, 3302888.43; 654255.56, 3302906.3; 654245.41, 3302914.76; 654219.18, 3302914.5; 654195.47, 3302908.75; 654193.03, 3302897.23; 654200.77, 3302887.87; 654219.2, 3302882.39; 654223.49, 3302869.82; 654191.49, 3302861.87; 654176.58, 3302869.82; 654137.45, 3302876.37; 654121.12, 3302862.08; 654100.71, 3302851.66; 654079.87, 3302842.41; 654123.88, 3302847.09; 654143.44, 3302844.02; 654134.53, 3302834.67; 654125.96, 3302827.72; 654134.53, 3302803.36; 654122.45, 3302793.54; 654107.4, 3302791.58; 654110.61, 3302774.62; 654133.51, 3302764.89; 654131.08, 3302750.95; 654094.32, 3302742.5; 654048.97, 3302728.27; 654035.74, 3302730.43; 654023.16, 3302726.83; 654012.8, 3302711.9; 653997.55, 3302686.15; 653993.32, 3302665.04; 653980.17, 3302666.29; 653983.12, 3302675.08; 653964.82, 3302675.81; 653968.52, 3302686.61; 653960.53, 3302697.1; 653944.28, 3302692.82; 653939.17, 3302668.03; 653926.88, 3302651.07; 653918.31, 3302659.97; 653900.29, 3302665.07; 653913.57, 3302689.98; 653932.61, 3302691.65; 653934.26, 3302705.16; 653953.72, 3302706.05; 653963.09, 3302712.63; 653968.46, 3302704.84; 653986.16, 3302712.42; 653992.28, 3302721.69; 654017.43, 3302733.42; 654036.94, 3302747.79; 654065.97, 3302747.73; 654072.74, 3302762.96; 654053.79, 3302789.04; 654073.81, 3302799.06; 654088.55, 3302813.7; 654068.52, 3302819.53; 654050.27, 3302818.28; 654038.04, 3302814.4; 654016.44, 3302803.95; 654005.49, 3302812.39; 654044.95, 3302855.8; 654005.23, 3302838.55; 653996.85, 3302824.07; 653966.88, 3302814.2; 653949.97, 3302854.2; 653955.97, 3302884.08; 653958.1, 3302909.89; 654010.09, 3302929.44; 654014.08, 3302944.6; 654047.77, 3302948.62; 654082.75, 3302964.57; 654086.8, 3302977.35; 654085.37, 3303018.1; 654048.15, 3303012.05; 654025.43, 3302998.79; 654008.31, 3302984.09; 654000.57, 3302991.43; 653965.04, 3302997.27; 653951.19, 3302994.54; 653914.1, 3302999.16; 653902.83, 3303004.82; 653895.64, 3303021.68; 653919.34, 3303059.14; 653940.06, 3303073.14; 653964.28, 3303090; 653977.46, 3303087.56; 654023.35, 3303096.64; 654042.79, 3303113.78; 654054.24, 3303117.24; 654055.14, 3303128.76; 654065.54, 3303141.7; 654071.15, 3303155.72; 654073.36, 3303162.91; 654061.3, 3303168.15; 654051.2, 3303174.24; 654050.06, 3303188.09; 654066.48, 3303199.2; 654097.34, 3303204.74; 654115.32, 3303217.08; 654151.3, 3303240.58; 654183.5, 3303256.46; 654195.08, 3303270.22; 654231.2, 3303272.32; 654243.32, 3303286.67; 654225.66, 3303302.7; 654148.61, 3303308.48; 654111.34, 3303295.86; 654094.54, 3303284.34; 654077.56, 3303279.55; 654047.24, 3303268.08; 654035.53, 3303259.46; 654034.72, 3303249.69; 654013.14, 3303254.3; 654001.43, 3303261.54; 653998.07, 3303252.73; 653996.88, 3303236.85; 653986.87, 3303223.91; 653951.45, 3303225.4; 653897.1, 3303189.54; 653821.31, 3303136.9; 653795.35, 3303094.23; 653788.09, 3303082.55; 653764.11, 3303068.79; 653746.63, 3303039.88; 653730.3, 3303025.6; 653709.07, 3303000.49; 653703.87, 3303017.4; 653701.7, 3303024.48; 653693.73, 3303009.62; 653684.02, 3303016.11; 653681.36, 3303027.14; 653669.67, 3303017.73; 653665.43, 3303012.47; 653651.81, 3303001.03; 653640.29, 3303000.34; 653644.82, 3303009.97; 653648.88, 3303022.36; 653651.69, 3303037.09; 653662.92, 3303064.73; 653677.95, 3303083.34; 653694.56, 3303102.39; 653699.94, 3303125.51; 653688.15, 3303120.06; 653672.32, 3303101.83; 653660.52, 3303080.92; 653646.81, 3303057.19; 653641.45, 3303046.23; 653630.83, 3303044.5; 653619, 3303040.63; 653611.77, 3303027.76; 653594.85, 3303021; 653598.44, 3303004.83; 653591.13, 3302995.14; 653579.5, 3302999.2; 653587.43, 3303015.66; 653597.11, 3303041.66; 653610.61, 3303057.86; 653612.71, 3303069.41; 653622.81, 3303078.78; 653638.44, 3303105.33; 653647.33, 3303130.92; 653661.15, 3303150.3; 653665.55, 3303165.07; 653676.69, 3303173.69; 653687.66, 3303179.91; 653714.56, 3303169.49; 653730.82, 3303186.94; 653739.42, 3303202.7; 653765.44, 3303201.29; 653783.37, 3303215.62; 653789.23, 3303235.19; 653810.42, 3303246.03; 653808.22, 3303270.15; 653819.9, 3303279.96; 653818.76, 3303293.8; 653807.98, 3303311.37; 653803.02, 3303302.92; 653792.07, 3303295.9;

653777.96, 3303288.02; 653767.03, 3303264.36; 653745.42, 3303238.44; 653739.45, 3303222.83; 653726.51, 3303215.77; 653706.71, 3303212.89; 653700.24, 3303201.23; 653681.52, 3303202.74; 653665.27, 3303201.87; 653670.96, 3303211.59; 653675.92, 3303219.65; 653686.2, 3303221.89; 653698.46, 3303224.57; 653696.97, 3303236.43; 653701.66, 3303239.72; 653715.34, 3303232.93; 653731.95, 3303236.52; 653718.47, 3303250.84; 653724.29, 3303272; 653747.01, 3303285.65; 653737.32, 3303307.21; 653757.78, 3303315.65; 653760.59, 3303330.39; 653775.62, 3303333.14; 653793.45, 3303351.43; 653802.6, 3303382.58; 653819.75, 3303396.09; 653821.33, 3303412.38; 653839.94, 3303430.69; 653845.83, 3303449.46; 653860.11, 3303466.47; 653879.43, 3303488.36; 653898.92, 3303503.92; 653913.4, 3303528.46; 653936.01, 3303546.47; 653951.47, 3303563.9; 653983.97, 3303583.35; 654017.38, 3303614.32; 654033.53, 3303635.74; 654053.57, 3303660.82; 654088.7, 3303670.82; 654119.54, 3303693.4; 654159.64, 3303711.06; 654163.3, 3303723.44; 654178.33, 3303726.59; 654193.77, 3303729.36; 654189.34, 3303715.77; 654175.23, 3303692.03; 654202.45, 3303684.79; 654222.03, 3303696.38; 654231.64, 3303709.3; 654250.78, 3303722.87; 654260.02, 3303734.6; 654281.1, 3303734.33; 654304.06, 3303738.08; 654322.23, 3303742.9; 654337.96, 3303749.64; 654354.84, 3303758.39; 654332.96, 3303758.63; 654304.09, 3303752.75; 654282.13, 3303756.56; 654286.47, 3303773.71; 654310.23, 3303777.08; 654382.46, 3303797.93; 654411.11, 3303796.67; 654428.45, 3303787.2; 654452.4, 3303798.9; 654452.61, 3303822.29; 654417.49, 3303827.35; 654394.34, 3303815.28; 654341.13, 3303797.29; 654307.71, 3303798.42; 654297.05, 3303811.24; 654267.4, 3303820.4; 654271.4, 3303835.16; 654309.86, 3303854.76; 654387.35, 3303871.78; 654437.58, 3303882.16; 654424.25, 3303890.15; 654411.4, 3303895.38; 654424.76, 3303917.12; 654446.06, 3303924; 654467.65, 3303934.85; 654459.01, 3303946.52; 654432.54, 3303955.36; 654413.96, 3303982.64; 654390.72, 3303989.98; 654397.38, 3303962.41; 654389.52, 3303943.18; 654372.39, 3303944.33; 654348.37, 3303935.4; 654326.21, 3303931.28; 654306.48, 3303941.09; 654315.48, 3303962.72; 654340.92, 3303962.57; 654374.48, 3303971.74; 654383.93, 3303991.4; 654359.95, 3303996.34; 654338.04, 3303998.17; 654313.13, 3303992.78; 654289.36, 3303989.41; 654273.75, 3303977.92; 654262.35, 3303957.02; 654246.95, 3303953.06; 654222.72, 3303952.05; 654191.09, 3303960.77; 654168.48, 3303959.01; 654154.99, 3303942.02; 654144.71, 3303924.32; 654142.47, 3303918.32; 654129.9, 3303912.45; 654117.32, 3303891.13; 654103.99, 3303883.66; 654094.38, 3303870.73; 654080.38, 3303858.49; 654077.31, 3303838.19; 654055.1, 3303820.59; 654053.41, 3303808.66; 654066.16, 3303807.79; 654096.81, 3303821.64; 654125.72, 3303826.34; 654140.02, 3303826.7; 654151.03, 3303831.33; 654167.74, 3303846.82; 654190.94, 3303856.92; 654235.69, 3303879.45; 654266.08, 3303888.14; 654284.88, 3303899.32; 654306.84, 3303895.51; 654331.31, 3303902.47; 654385.07, 3303914.93; 654394.58, 3303931.81; 654413.81, 3303925.96; 654405.65, 3303902.76; 654375.1, 3303884.55; 654304.89, 3303862.57; 654265.32, 3303855.22; 654239.88, 3303839.52; 654204.43, 3303826.34; 654172.17, 3303812.84; 654124.49, 3303796.18; 654100.56, 3303783.69; 654058.65, 3303758.85; 654031.25, 3303741.9; 654056.98, 3303730.27; 654137.53, 3303783.83; 654148.32, 3303781.32; 654151.04, 3303768.31; 654138.95, 3303758.89; 654132.77, 3303752; 654076.77, 3303718.08; 654040.27, 3303699.72; 654020.26, 3303673.45; 653996.83, 3303672.46; 653978.09, 3303643.06; 653932.96, 3303604.26; 653916.46, 3303596.32; 653898.93, 3303582; 653887.53, 3303561.1; 653863.24, 3303547.01; 653840.97, 3303515.93; 653814.84, 3303480; 653788.98, 3303449.62; 653756.13, 3303396.47; 653743.31, 3303384.65; 653735.36, 3303368.99; 653719.2, 3303332.12; 653708.1, 3303315.19; 653687.34, 3303286.92; 653674.44, 3303278.27; 653671.61, 3303264.33; 653666.78, 3303251.13; 653665.88, 3303239.61; 653657.94, 3303239.01; 653658.22, 3303227.92; 653654.12, 3303217.11; 653639.61, 3303200.49; 653634.12, 3303181.72; 653622.86, 3303171.13; 653617.46, 3303148.8; 653606.45, 3303128.31; 653599.36, 3303109.89; 653593.05, 3303092.3; 653581.25, 3303071.39; 653574.55, 3303053.38; 653568.04, 3303043.7; 653552.88, 3302999.66; 653517.87, 3302953.2; 653511.73, 3302928.86; 653490.27, 3302912.86; 653489.1, 3302896.19; 653468.32, 3302884.56; 653458.73, 3302839.53; 653428.27, 3302833.61; 653431.33, 3302791.28; 653411.37, 3302794.34; 653388.63, 3302797.34; 653371.38, 3302772.33; 653361.73, 3302726.19; 653350.34, 3302689.44; 653363.67, 3302681.05; 653372.21, 3302689.19; 653376.14, 3302675.42; 653381.6, 3302648.21; 653378.67, 3302559.35; 653376.1, 3302503.79; 653352.13, 3302508.74; 653342.85,

3302529.51; 653328.57, 3302544.21; 653309.61, 3302539.37; 653281.5, 3302518.85; 653270.24, 3302492.8; 653267.47, 3302444.77; 653247.05, 3302434.74; 653237.68, 3302412.31; 653252.55, 3302405.95; 653277.66, 3302403.41; 653282.93, 3302415.43; 653288.86, 3302416.38; 653289.43, 3302394.19; 653286.03, 3302371.12; 653271.57, 3302392.95; 653254.52, 3302390.93; 653242.09, 3302379.52; 653240.37, 3302368.78; 653265.45, 3302367.43; 653274.12, 3302354.96; 653266.7, 3302333.77; 653263.28, 3302311.88; 653254.92, 3302280.76; 653288.02, 3302308.15; 653295.73, 3302270.69; 653258.9, 3302201.98; 653224.78, 3302151.97; 653204.27, 3302114.19; 653194.7, 3302083.83; 653182.85, 3302065.3; 653165.88, 3302060.11; 653161.71, 3302052.08; 653172.54, 3302048.39; 653174.17, 3302030.99; 653163.51, 3302028.35; 653170.96, 3302016.64; 653186.45, 3302017.03; 653198.69, 3302036.37; 653205.41, 3302053.58; 653221.2, 3302073.8; 653229.87, 3302092.25; 653259.03, 3302134.2; 653266.19, 3302149.45; 653279.5, 3302173.56; 653292.49, 3302194.5; 653305.44, 3302216.63; 653315.86, 3302229.18; 653328.35, 3302238.21; 653333.32, 3302214.56; 653376.56, 3302219.92; 653392.98, 3302213.68; 653388.1, 3302186.61; 653390.49, 3302154.96; 653366.25, 3302138.89; 653358.96, 3302128.4; 653345.55, 3302108.24; 653345.66, 3302088.43; 653313.82,

3302089.61; 653309.12, 3302102.57; 653302.92, 3302111.93; 653305.95, 3302133.8; 653321.16, 3302129.83; 653331.29, 3302137.61; 653321.48, 3302148.46; 653328.58, 3302166.48; 653343.76, 3302179.15; 653370.86, 3302207.97; 653338.35, 3302204.38; 653323.9, 3302194.11; 653308.92, 3302189.37; 653313.55, 3302179.18; 653301.74, 3302174.52; 653284.04, 3302158.08; 653289.07, 3302140.91; 653268.88, 3302136.5; 653272.08, 3302121.06; 653259.81, 3302118.77; 653238.37, 3302086.52; 653235.37, 3302056.34; 653240.34, 3302035.98; 653248.96, 3302044.77; 653252.67, 3302039.71; 653256.51, 3302029.1; 653243.55, 3302022.83; 653230.45, 3302006.65; 653200.54, 3301994.4; 653195.8, 3301976.5; 653181.79, 3301965.78; 653175.04, 3301949.36; 653162.51, 3301926.06; 653155.37, 3301910.02; 653144.14, 3301882.39; 653141.45, 3301862.9; 653125.08, 3301849.81; 653132.91, 3301823.45; 653167.4, 3301842.95; 653173.83, 3301855.79; 653197.82, 3301897.62; 653226.99, 3301923.32; 653257.14, 3301941.52; 653267.04, 3301927.11; 653281.04, 3301939.75; 653296.56, 3301938.95; 653322.89, 3301903.94; 653278.1, 3301914.31; 653254.6, 3301900.24; 653247.33, 3301873.5; 653241.21, 3301848.37; 653231.69, 3301831.49; 653249.04, 3301818.75; 653266.89, 3301854.57; 653312.35, 3301864.83; 653328.54, 3301885.06; 653342.66, 3301860.84; 653362.86, 3301848.27; 653411.31, 3301803.12; 653361.49, 3301826.75; 653359.73, 3301799.04; 653374.98, 3301777.63; 653379.9, 3301755.95; 653381.31, 3301746.03; 653416.15, 3301769.15; 653417.5, 3301731.13; 653399.85, 3301746.67; 653384.26, 3301725.14; 653374.92, 3301701.52; 653359.51, 3301729.28; 653356.72, 3301745.06; 653350.68, 3301763.94; 653333.47, 3301768.65; 653290.58, 3301703.76; 653290.3, 3301683.53; 653277.84, 3301672.92; 653286.28, 3301653.71; 653303.57, 3301645.82; 653332.65, 3301627.92; 653326.96, 3301664.24; 653356.82, 3301678.47; 653328, 3301560.42; 653328.94, 3301538.65; 653300.37, 3301542.23; 653291.64, 3301524.66; 653291.42, 3301503.63; 653302.96, 3301487.27; 653296.36, 3301481.16; 653274.55, 3301479.02; 653277.37, 3301461.65; 653287.54, 3301452.4; 653308.59, 3301453.32; 653316.61, 3301450.75; 653333.98, 3301455.55; 653346.89, 3301463.8; 653340.55, 3301478.7; 653325.09, 3301477.13; 653320.81, 3301488.91; 653341.52, 3301487.45; 653348.08, 3301479.69; 653365.67, 3301459.92; 653357.74, 3301427.61; 653352.7, 3301391.42; 653358.41, 3301369.76; 653368.1, 3301364.06; 653360.96, 3301331.77; 653364.43, 3301320.37; 653377.51, 3301321.88; 653375.24, 3301332.93; 653388.34, 3301334.05; 653401.84, 3301318.93; 653416.49, 3301305.43; 653430.34, 3301292.3; 653453.76, 3301293.68; 653469.42, 3301287.34; 653484.85, 3301274.65; 653494.65, 3301280.45; 653502.74, 3301290.56; 653522.05, 3301297.39; 653525.47, 3301303.42; 653533.26, 3301294.1; 653539.2, 3301294.72; 653544.08, 3301306.27; 653531.42, 3301319.82; 653515.49, 3301336.46; 653511.65, 3301347.07; 653515.7, 3301359.85; 653526.95, 3301354.98; 653531.14, 3301362.22; 653528, 3301376.41; 653534.67, 3301395.61; 653545.5, 3301423.23; 653549.25, 3301447.9; 653551.86, 3301470.56; 653563.31, 3301472.92; 653570.59, 3301499.96; 653589.37, 3301511.93; 653588.57, 3301528.16; 653586.25, 3301541.18; 653597.17, 3301549.39; 653606.52, 3301541.3; 653610.4, 3301560.82; 653619.31, 3301570.16; 653645.33, 3301594.6; 653667.61, 3301625.28; 653676.91, 3301635.03; 653689.05, 3301642.07; 653711.44, 3301652.94; 653724.95, 3301652.78; 653735.68, 3301665.18; 653745.58,

3301676.62; 653733.01, 3301695.9; 653717.31, 3301687.97; 653702.15, 3301674.51; 653696.83, 3301664.47; 653686.63, 3301674.91; 653674.63, 3301693.63; 653670.61, 3301710.97; 653683.06, 3301721.99; 653738.08, 3301747.16; 653759.04, 3301751.25; 653777.63, 3301755.29; 653783.98, 3301771.3; 653818.91, 3301789.23; 653831.51, 3301809.76; 653854.5, 3301844.03; 653846.71, 3301868.8; 653830.4, 3301885.04; 653823.09, 3301891.2; 653808.74, 3301876.96; 653786.6, 3301872.05; 653775.3, 3301878.89; 653785.47, 3301885.49; 653807.09, 3301884.87; 653805.12, 3301894.31; 653818.75, 3301905.75; 653802.73, 3301910.11; 653803.54, 3301916.22; 653794.24, 3301926.43; 653770.55, 3301925.15; 653772.29, 3301935.1; 653784.97, 3301936.61; 653792.73, 3301944.34; 653838.02, 3301960.94; 653856.47, 3301954.67; 653844.49, 3301950.47; 653848.39, 3301944.16; 653875.3, 3301917.49; 653883.4, 3301911.74; 653913.15, 3301947.34; 653914.36, 3301960.88; 653924.69, 3301961.14; 653930.84, 3301940.17; 653900.84, 3301889.74; 653893.67, 3301900.66; 653890.56, 3301895.67; 653873.73, 3301900.8; 653857.74, 3301888.9; 653851.36, 3301873.68; 653886.89, 3301854.51; 653845.81, 3301759.93; 653830.08, 3301732.05; 653803.71, 3301684.88; 653785.1, 3301679.77; 653778.03, 3301660.57; 653752.19, 3301660.71; 653739.16, 3301662.4; 653732.91, 3301652.69; 653733.35, 3301635.26; 653711.4, 3301638.67; 653697.09, 3301622.85; 653679.74, 3301617.26; 653658.36, 3301582.24; 653692.49, 3301584.69; 653699.58, 3301571.39; 653696.65, 3301545.95; 653709.67, 3301549.84; 653723.58, 3301580.92; 653733.85, 3301600; 653755.1, 3301624.32; 653775.47, 3301636.32; 653756.51, 3301584.32; 653728.73, 3301519.41; 653711.66, 3301518.18; 653683.16, 3301497.65; 653695.4, 3301469.42; 653675.06, 3301424.91; 653662.34, 3301435.05; 653654.71, 3301412.11; 653648.02, 3301409.56; 653639.6, 3301396.67; 653633.99, 3301398.51; 653623.46, 3301390.31; 653620.96, 3301379.15; 653612.97, 3301380.54; 653605.64, 3301387.49; 653594.31, 3301395.52; 653588.8, 3301408.86; 653571.52, 3301416.35; 653567.05, 3301404.35; 653560.48, 3301396.65; 653559.14, 3301387.11; 653557.94, 3301371.62; 653564.54, 3301361.88; 653577.12, 3301351.89; 653592.4, 3301329.28; 653583.29, 3301327.87; 653578.53, 3301311.89; 653567.14, 3301306.45; 653568.55, 3301297.77; 653560, 3301274.17; 653573.58, 3301255.88; 653574.63, 3301246; 653557.32, 3301254.68; 653557.07, 3301232.87; 653552.26, 3301234.33; 653526.9, 3301231.32; 653522.67, 3301225.66; 653511.46, 3301228.55; 653505.76, 3301218.1; 653498.81, 3301225.85; 653489.88, 3301233.16; 653486.28, 3301243.19; 653474.66, 3301237.53; 653470.28, 3301253.67; 653478.76, 3301264.19; 653463.67, 3301278.72; 653456.78, 3301268.39; 653447.31, 3301287.74; 653431.23, 3301272.9; 653414.56, 3301255.83; 653407.57, 3301249.32; 653390.64, 3301258.8; 653378.39, 3301239.86; 653376.25, 3301214.44; 653358.06, 3301226.27; 653348.55, 3301225.23; 653337.1, 3301222.17; 653322.91, 3301217.06; 653287.59, 3301214.58; 653305.91, 3301229.31; 653318.38, 3301255.18; 653318.06, 3301267.67; 653338.01, 3301295.92; 653353.74, 3301318.51; 653353.53, 3301342.68; 653336.05, 3301342.24; 653327.83, 3301352.74; 653310.9, 3301377.68; 653297.59, 3301401.12; 653293.96, 3301387.16; 653274.54, 3301400.54; 653278.34, 3301423.23; 653268.1, 3301435.15; 653250.63, 3301434.42; 653250.63, 3301450.28; 653252.6, 3301466.58; 653265.99, 3301487.13; 653291.29, 3301488.99; 653281.47, 3301504.17; 653286.05, 3301526.79; 653280.4, 3301530.7; 653289.46, 3301543.6; 653273.72, 3301584.42; 653278.76, 3301605.16; 653266.49, 3301618.72; 653252.71, 3301613.62; 653238.58, 3301621.98; 653239.13, 3301647.36; 653226.42, 3301662.5; 653223.81, 3301624.39; 653217.09, 3301591.32; 653211.06, 3301625.65; 653202.41, 3301684.49; 653202.86, 3301713.83; 653195.95, 3301735.85; 653197.04, 3301755.3; 653238.73, 3301773.4; 653213.13, 3301779.49; 653202.62, 3301802.22; 653178.83, 3301736.61; 653172.18, 3301700.77; 653170.71, 3301617.5; 653165.15, 3301586.05; 653170.47, 3301548.53; 653164.59, 3301513.5; 653097, 3301545.48; 653091.78, 3301531.48; 653104.02, 3301519.1; 653120.55, 3301478.7; 653122.45, 3301450.6; 653137.22, 3301432.74; 653114.81, 3301359.64; 653089.37, 3301359.79; 653085.15, 3301353.74; 653065.22, 3301355.62; 653059.29, 3301343.51; 653044.05, 3301343.99; 653046.08, 3301326.6; 653030.42, 3301316.69; 653037.51, 3301256.62; 653051.95, 3301220.12; 653076.47, 3301209.25; 653098.34, 3301209.4; 653186.81, 3301216.39; 653187.48, 3301174.39; 653170.42, 3301165.23; 653192.97, 3301145.99; 653205.75, 3301143.54; 653220.54, 3301171.66; 653252.71, 3301141.55; 653220.04, 3301128.84; 653218.99, 3301107.41; 653249.7, 3301103.43; 653295.51, 3301131.14; 653313.71, 3301134.77; 653299, 3301150.65; 653287.08, 3301165.8; 653293.86,

3301181.04; 653325.79, 3301191.75; 653330, 3301151.03; 653336.63, 3301108.79; 653314.31, 3301096.73; 653315.06, 3301049.98; 653282.45, 3301050.35; 653265.15, 3301026.92; 653246.49, 3301041.51; 653221.21, 3301066.64; 653245.78, 3301060.52; 653245.29, 3301073.59; 653230.33, 3301096.03; 653211.9, 3301089; 653184.53, 3301086.72; 653178.84, 3301100.89; 653157.07, 3301103.47; 653169.25, 3301124.78; 653171.53, 3301144.66; 653157.28, 3301158.17; 653171.92, 3301176.38; 653175.35, 3301198.26; 653114.2, 3301195.14; 653098.97, 3301184.45; 653071.32, 3301177.41; 653045.52, 3301136.21; 653065.69, 3301117.02; 653058.69, 3301110.5; 653049.57, 3301109.88; 653067.93, 3301091.31; 653081.6, 3301084.92; 653077.49, 3301074.51; 653037.31, 3301044.17; 653053.61, 3301028.72; 653068.13, 3301004.52; 653061.68, 3300992.46; 653070.51, 3300989.12; 653066.86, 3300976.34; 653077.32, 3300955.6; 653064.61, 3300955.28; 653079.35, 3300938.21; 653072.29, 3300918.61; 653047.25, 3300918.38; 653087.06, 3300900.35; 653117.24, 3300870.59; 653144.85, 3300847.51; 653166.04, 3300842.89; 653204.72, 3300838.32; 653236.2, 3300851; 653243.18, 3300792.83; 653282.22, 3300776.46; 653245.77, 3300771.18; 653225.62, 3300798.02; 653209.12, 3300805.93; 653207.71, 3300767.05; 653193.14, 3300761.53; 653185.92, 3300748.26; 653204.02, 3300740; 653204.47, 3300722.18; 653222.88, 3300717.49; 653240.47, 3300698.11; 653259.62, 3300679.57; 653240.3, 3300673.14; 653219.56, 3300675.79; 653203.08, 3300682.9; 653193.3, 3300676.71; 653184.4, 3300659.15; 653189.23, 3300648.86; 653207.65, 3300659.44; 653253.75, 3300660; 653252.68, 3300623.9; 653235.41, 3300583.44; 653271.12, 3300570.46; 653284.01, 3300602.82; 653260.26, 3300607.05; 653264.94, 3300626.2; 653285.6, 3300642.57; 653292.81, 3300624.92; 653289.83, 3300598.29; 653307.95, 3300592; 653338.74, 3300616.56; 653348.39, 3300580.74; 653337.18, 3300552.31; 653344.21, 3300525.93; 653344.25, 3300492.64; 653346.09, 3300467.32; 653313.3, 3300474.82; 653304.29, 3300471.3; 653316.06, 3300443.97; 653318.07, 3300427.37; 653338.17, 3300418.76; 653335.67, 3300375.89; 653338.05, 3300344.64; 653335.45, 3300274.82; 653343.95, 3300237.38; 653327.68, 3300189.01; 653314.94, 3300190.87; 653304.8, 3300163.72; 653311.62, 3300132.32; 653342.66, 3300131.12; 653347.87, 3300145.12; 653335.86, 3300148.39; 653330.49, 3300156.18; 653331.53, 3300162.55; 653349.92, 3300158.25; 653364.5, 3300163.38; 653357.77, 3300115.25; 653371.49, 3300075.56; 653352.65, 3300050.12; 653376.56, 3300016.63; 653380.1, 3299986.6; 653356.07, 3299962.21; 653337.87, 3299958.58; 653336.21, 3299945.86; 653352.05, 3299932.38; 653329.56, 3299910.02; 653321.88, 3299851.96; 653331.54, 3299831.59; 653330.23, 3299789.14; 653330.69, 3299781.22; 653344.28, 3299783.55; 653364.01, 3299789.6; 653372.73, 3299790.61; 653376.19, 3299779.6; 653367.58, 3299774.23; 653366.62, 3299749.24; 653370.03, 3299740.21; 653362.13, 3299738.03; 653350.99, 3299738.54; 653347.72, 3299726.17; 653356.51, 3299724.41; 653367.99, 3299710.82; 653365.76, 3299704.43; 653358.82, 3299695.93; 653349.29, 3299711.15; 653336.68, 3299706.86; 653336.83, 3299685.07; 653338.14, 3299633.57; 653351.02, 3299627.16; 653345.54, 3299639.31; 653359.07, 3299654.71; 653370.76, 3299648.27; 653368.94, 3299626.03; 653382.15, 3299622.4; 653390.27, 3299631.32; 653387.78, 3299651.47; 653412.04, 3299682.6; 653414.42, 3299698.52; 653398.67, 3299723.88; 653393.51, 3299739.21; 653410.11, 3299743.2; 653407.24, 3299762.15; 653392.37, 3299768.51; 653401.91, 3299800.07; 653407.22, 3299810.11; 653394.48, 3299826.83; 653394.87, 3299842.7; 653405.63, 3299848.6; 653394.27, 3299866.46; 653386.54, 3299873.4; 653381.73, 3299890.72; 653363.75, 3299894.23; 653361.93, 3299919.16; 653375.83, 3299935.36; 653399.56, 3299956.17; 653396.25, 3299976.7; 653403.04, 3299991.14; 653390.91, 3299999.55; 653379.93, 3299993.33; 653377.35, 3300016.65; 653384.87, 3300033.89; 653385.39, 3300060.46; 653383.43, 3300075.07; 653408.64, 3300064.79; 653411.47, 3300082.52; 653388.22, 3300090.25; 653385.63, 3300098.12; 653416, 3300139.31; 653418.08, 3300104.09; 653402.11, 3300106.85; 653395.13, 3300099.94; 653401.44, 3300091.26; 653424.94, 3300081.06; 653464.89, 3300076.73; 653483.71, 3300081.66; 653489.66, 3300103.51; 653501.88, 3300091.53; 653492.28, 3300089.69; 653493.32, 3300084.18; 653491.97, 3300075.03; 653474.57, 3300071.03; 653473.19, 3300063.06; 653463.37, 3300042.6; 653451.79, 3300044.29; 653448.59, 3300058.1; 653432.84, 3300054.91; 653432.94, 3300035.1; 653446.85, 3300035.45; 653466.63, 3300023.66; 653457.72, 3299998.46; 653479.33, 3299993.06; 653503.1, 3300019.37; 653526.72, 3300044.15; 653545.12, 3300055.71; 653555.15, 3300083.31; 653574.84, 3300090.94; 653578.3, 3300111.24; 653557.69,

3300124.59; 653572.2, 3300147.95; 653571.39, 3300164.58; 653583.22, 3300168.44; 653594.34, 3300168.72; 653606.33, 3300166.25; 653604.19, 3300188; 653621.03, 3300197.93; 653631.89, 3300224.37; 653625.26, 3300235.3; 653632.77, 3300237.07; 653641.42, 3300233.69; 653640.92, 3300244.81; 653648.84, 3300261.65; 653659.45, 3300282.53; 653679.88, 3300292.16; 653703.6, 3300312.98; 653719.12, 3300312.57; 653737.38, 3300282.12; 653758, 3300252.52; 653802.62, 3300201.72; 653819.17, 3300176.37; 653813.84, 3300166.72; 653800.67, 3300168.77; 653770.31, 3300190.2; 653740.38, 3300195; 653745.1, 3300181.24; 653746.06, 3300158.67; 653752.27, 3300133.46; 653728.27, 3300139.2; 653752.63, 3300119.2; 653748.76, 3300099.29; 653722.47, 3300116.86; 653720.95, 3300098.59; 653698.97, 3300102.79; 653681.9, 3300086.11; 653654.02, 3300088.18; 653653.54, 3300075.88; 653634.8, 3300077.79; 653616.24, 3300057.1; 653596.3, 3300059.77; 653573.25, 3300043.73; 653556.19, 3300042.11; 653538.79, 3300023.05; 653517.3, 3300007.84; 653492.14, 3299973.57; 653464.92, 3299949.5; 653465, 3299930.87; 653457.61, 3299924.34; 653456.6, 3299901.33; 653460.75, 3299878.84; 653466.67, 3299864.72; 653448.08, 3299845.23; 653457.15, 3299832.38; 653444.22, 3299824.92; 653452.84, 3299814.03; 653445.19, 3299786.49; 653443.01, 3299778.51; 653441.73, 3299766.19; 653448.74, 3299756.06; 653447.32, 3299733.83; 653454.92, 3299716.19; 653437.92, 3299712.19; 653447.26, 3299689.04; 653466.13, 3299650.28; 653466.67, 3299628.89; 653467.5, 3299596.01; 653473.56, 3299576.35; 653464.96, 3299539.27; 653459.25, 3299544.67; 653463.19, 3299579.81; 653452.31, 3299583.44; 653447.25, 3299579.25; 653422.3, 3299575.45; 653402.62, 3299568.65; 653404.71, 3299542.08; 653414.7, 3299532.02; 653429.46, 3299514.55; 653432.33, 3299526.91; 653425.6, 3299541.41; 653439.57, 3299539.38; 653438.93, 3299517.17; 653433.18, 3299507.89; 653443.2, 3299489.93; 653439.99, 3299475.18; 653441.21, 3299456.18; 653447.5, 3299445.64; 653443.28, 3299423.74; 653437.35, 3299438.25; 653426.28, 3299405.61; 653434.98, 3299390.63; 653440.93, 3299375.32; 653442.06, 3299361.87; 653454.21, 3299353.06; 653450.38, 3299347.42; 653451.58, 3299315.74; 653443.71, 3299312.37; 653440.22, 3299301.12; 653457.11, 3299285.76; 653475.07, 3299283.04; 653501.31, 3299282.91; 653489.36, 3299267.94; 653492.69, 3299246.23; 653504.56, 3299217.19; 653515.17, 3299174.65; 653524.11, 3299151.49; 653525.85, 3299113.88; 653534.73, 3299093.1; 653541.69, 3299069.5; 653546.81, 3299039.9; 653563.68, 3299017.33; 653560.73, 3298992.29; 653555.92, 3298962.44; 653576.59, 3298931.25; 653577.53, 3298894.02; 653566.55, 3298872.34; 653550.74, 3298868.37; 653538.41, 3298853; 653522.95, 3298851.42; 653501.8, 3298838.6; 653504.98, 3298854.54; 653513.57, 3298859.52; 653509.13, 3298863.36; 653486.99, 3298873.9; 653483.41, 3298890.06; 653489.09, 3298901.3; 653484.13, 3298908.71; 653476.87, 3298912.89; 653464.74, 3298920.9; 653478.95, 3298956.14; 653485.07, 3298981.66; 653502.44, 3298986.46; 653507.09, 3299022.65; 653505.85, 3299040.05; 653485.92, 3299042.33; 653501.19, 3299057.02; 653496.66, 3299073.51; 653502.95, 3299091.9; 653495.17, 3299100.82; 653495.49, 3299119.86; 653496.64, 3299139.81; 653481.12, 3299153.58; 653464.36, 3299171.79; 653453.37, 3299181.82; 653448.38, 3299206.27; 653460.2, 3299210.53; 653462.13, 3299228.41; 653458.71, 3299237.84; 653469.38, 3299256.34; 653454.91, 3299262.71; 653433.42, 3299279.21; 653437.58, 3299318.96; 653445.29, 3299336.21; 653442.61, 3299355.94; 653430.62, 3299358.42; 653432.49, 3299378.68; 653425.93, 3299386.83; 653423.66, 3299397.88; 653405.23, 3299403.36; 653424.15, 3299408.56; 653425.45, 3299437.16; 653424.31, 3299451; 653437.18, 3299454.07; 653433.28, 3299473.43; 653425.73, 3299489.09; 653405.59, 3299530.99; 653388.11, 3299530.55; 653390.04, 3299564.29; 653404.69, 3299580.16; 653384.67, 3299601.45; 653364.76, 3299586.68; 653372.33, 3299554.77; 653349.6, 3299541.91; 653341.79, 3299552.02; 653334.9, 3299541.54; 653341.93, 3299530.62; 653343.94, 3299514.02; 653336.45, 3299495.6; 653280.05, 3299462.07; 653235.06, 3299509.92; 653235.06, 3299509.93; 653234.92, 3299510.06; 653234.06, 3299510.89; 653223.04, 3299547.04; 653226.28, 3299576.06; 653251.97, 3299598.11; 653277.39, 3299583.29; 653312.38, 3299598.84; 653295.28, 3299645.97; 653276.61, 3299645.5; 653278.53, 3299663.78; 653284.15, 3299677.4; 653273.35, 3299680.3; 653263.31, 3299652.7; 653271.6, 3299636.56; 653258.93, 3299637.13; 653257.06, 3299607.75; 653264.01, 3299593.66; 653246.24, 3299604.31; 653234.99, 3299625.03; 653226.66, 3299639.88; 653227.35, 3299659.72; 653240.65, 3299684.23; 653242.56, 3299702.91; 653253.33, 3299732.91; 653246.71, 3299748.17; 653235.23, 3299741.17; 653229.67, 3299678.01; 653217.73,

3299678.5; 653224.09, 3299709.97; 653223.49, 3299749.59; 653241.09, 3299761.13; 653280.7, 3299766.89; 653297.49, 3299747.49; 653302.68, 3299762.29; 653297.86, 3299795.86; 653302.53, 3299815.4; 653310.06, 3299832.24; 653319.99, 3299832.49; 653310.39, 3299850.48; 653307.36, 3299907.48; 653329.84, 3299920.74; 653330.17, 3299932.93; 653312.67, 3299933.37; 653328.24, 3299946.45; 653325.36, 3299968.5; 653320.43, 3299972.41; 653301.99, 3299978.29; 653276.99, 3299960.62; 653266.59, 3299978.98; 653272.58, 3300025.11; 653294.04, 3300009.8; 653318.46, 3299987.42; 653338.33, 3299987.53; 653326.93, 3300029.65; 653337.59, 3300055.05; 653300.94, 3300067.05; 653305.18, 3300104.01; 653282.89, 3300105.04; 653306.93, 3300192.05; 653311.86, 3300253.04; 653286.37, 3300265.49; 653266.61, 3300245.73; 653254.54, 3300267.23; 653257.5, 3300322.79; 653247.86, 3300342.76; 653252.91, 3300363.11; 653253.47, 3300388.09; 653274.77, 3300394.57; 653290.64, 3300406.03; 653258.03, 3300427.84; 653294.01, 3300467.28; 653265.38, 3300467.27; 653258.91, 3300487.32; 653283.73, 3300480.81; 653296.17, 3300493.81; 653271.94, 3300506.67; 653273.8, 3300527.33; 653245.61, 3300541.68; 653232.84, 3300543.74; 653208.57, 3300508.16; 653221.17, 3300502.22; 653226.84, 3300450.84; 653212.83, 3300375.97; 653206.31, 3300334.98; 653212.81, 3300266.57; 653225.15, 3300218.53; 653220.6, 3300194.23; 653189.5, 3300062.96; 653173.21, 3300055.9; 653152.76, 3300047.06; 653146.86, 3300028.68; 653163.74, 3300021.57; 653174.6, 3300000.84; 653170.45, 3299992.02; 653168.1, 3299974.91; 653148.75, 3299969.67; 653187.01, 3299911.76; 653179.41, 3299905.04; 653161.59, 3299902.22; 653128.64, 3299916.05; 653128.48, 3299906.53; 653154.24, 3299878.25; 653143.93, 3299866.59; 653126.15, 3299857.33; 653138.03, 3299843.36; 653127.24, 3299830.01; 653101.83, 3299828.57; 653097.89, 3299811.43; 653120.43, 3299796.73; 653142.64, 3299770.94; 653143.55, 3299750.75; 653153.15, 3299732.76; 653149.47, 3299721.17; 653177.41, 3299700.87; 653188.21, 3299682.51; 653180.87, 3299674; 653166.85, 3299678.41; 653162.82, 3299664.83; 653181.89, 3299649.46; 653186.21, 3299635.69; 653175.19, 3299631.45; 653160.92, 3299645.36; 653152.96, 3299620.67; 653134.01, 3299609.01; 653153.79, 3299597.22; 653176.82, 3299582.74; 653186.56, 3299559.2; 653213.49, 3299547.59; 653213.11, 3299530.94; 653234.06, 3299510.89; 653234.31, 3299510.07; 653234.92, 3299510.06; 653235.06, 3299509.92; 653280.06, 3299461.68; 653334.5, 3299494.36; 653353.46, 3299499.2; 653363.87, 3299433.27; 653362.07, 3299394.38; 653338.62, 3299378.33; 653329.42, 3299365.02; 653323.28, 3299340.29; 653334.36, 3299342.55; 653367.86, 3299338.24; 653372.07, 3299313.38; 653379, 3299275.11; 653385.61, 3299265.37; 653374.93, 3299263.11; 653373.24, 3299251.18; 653350.57, 3299258.25; 653366.52, 3299218.11; 653343.71, 3299224.28; 653319.15, 3299268.05; 653228.45, 3299285.98; 653212.54, 3299276.36; 653196.09, 3299276.44; 653214.23, 3299250.74; 653258.29, 3299253.44; 653270.07, 3299227.97; 653262.74, 3299187.36; 653275.42, 3299157.55; 653270.66, 3299125.73; 653285.06, 3299122.52; 653305.21, 3299127.39; 653318.74, 3299093.56; 653322.89, 3299071.07; 653329.05, 3299063.3; 653333.81, 3299063.82; 653336.58, 3299079.74; 653347.59, 3299084.77; 653346.71, 3299056.61; 653344.74, 3299040.31; 653354.54, 3299029.86; 653343.6, 3299022.44; 653327.41, 3299018.07; 653332.79, 3299009.49; 653322.25, 3299002.09; 653316.8, 3298981.74; 653316.48, 3298962.7; 653328.56, 3298956.67; 653351.42, 3298933.07; 653340.85, 3298926.46; 653333.12, 3298917.94; 653341.19, 3298912.99; 653353.19, 3298910.12; 653367.78, 3298899.39; 653352.14, 3298873.23; 653372.73, 3298860.67; 653376.87, 3298838.58; 653358.86, 3298827.43; 653367.01, 3298803.85; 653376.85, 3298792.21; 653392.74, 3298776.75; 653391.3, 3298770.77; 653381.25, 3298775.27; 653376.15, 3298756.91; 653379.18, 3298747.08; 653373.64, 3298730.29; 653370.81, 3298716.35; 653375.38, 3298708.54; 653381.86, 3298703.95; 653384.9, 3298693.72; 653378.2, 3298691.57; 653411.2, 3298628.58; 653413.58, 3298612.79; 653425.15, 3298611.5; 653444.73, 3298623.09; 653457.09, 3298621.81; 653468.63, 3298605.46; 653486.74, 3298612.65; 653489.52, 3298565.56; 653513.76, 3298534.46; 653524.88, 3298519.28; 653522.33, 3298494.25; 653524.11, 3298455.45; 653535.46, 3298415.31; 653527.4, 3298372.3; 653496.57, 3298381.03; 653477.37, 3298369.85; 653481.12, 3298347.35; 653470.89, 3298343.13; 653464.83, 3298299.77; 653451.98, 3298320.45; 653453.18, 3298335.94; 653425.05, 3298332.06; 653421.01, 3298350.19; 653427.82, 3298363.84; 653407.59, 3298378; 653414.61, 3298399.18; 653416.32, 3298411.35; 653416.12, 3298412.16; 653416.45, 3298412.23; 653416.32, 3298411.35; 653408.13, 3298403.77; 653416.12, 3298412.16; 653416.45,

3298412.23; 653416.26, 3298412.3; 653416.52, 3298412.31; 653416.45, 3298412.23; 653647.93, 3298892.62; 653643.43, 3298897.66; 653642.45, 3298905.17; 653645.18, 3298907.22; 653654.97, 3298913.01; 653653.46, 3298925.66; 653646.96, 3298931.05; 653643, 3298930.55; 653640.01, 3298938.8; 653643.81, 3298945.63; 653641.63, 3298953.11; 653632.33, 3298959.21; 653625.8, 3298966.18; 653619.5, 3298963.65; 653614.3, 3298965.1; 653620.04, 3298973.57; 653613.93, 3298979.36; 653610.98, 3298986.03; 653614.39, 3298992.85; 653619.87, 3298996.16; 653622.93, 3299000.99; 653622.38, 3299006.92; 653617.83, 3299013.94; 653620.82, 3299021.55; 653616.64, 3299029.77; 653612.52, 3299035.21; 653613.15, 3299041.97; 653615.41, 3299046.78; 653617.08, 3299059.5; 653615.03, 3299077.69; 653611.03, 3299094.23; 653602.39, 3299105.9; 653605.83, 3299111.14; 653618.18, 3299110.27; 653615.05, 3299124.06; 653613.75, 3299143.85; 653604.04, 3299150.73; 653606.66, 3299157.14; 653611.71, 3299161.63; 653607.48, 3299171.83; 653601.94, 3299186.75; 653606, 3299199.14; 653620.75, 3299197.53; 653622.29, 3299215.01; 653612.15, 3299223.08; 653622.48, 3299239.19; 653613.72, 3299255.22; 653626.08, 3299253.95; 653629.09, 3299260.76; 653620.48, 3299270.85; 653610.89, 3299272.99; 653596.31, 3299267.86; 653581.58, 3299252.83; 653572.46, 3299251.8; 653570.35, 3299241.05; 653562.33, 3299243.62; 653567.24, 3299269.51; 653557.35, 3299283.53; 653575.72, 3299295.88; 653584.99, 3299290.96; 653592.31, 3299300.26; 653603.22, 3299308.86; 653618.9, 3299317.58; 653622.61, 3299328.37; 653614.63, 3299345.22; 653603.72, 3299352.08; 653611.16, 3299372.48; 653609.7, 3299382.75; 653613.06, 3299391.55; 653622.4, 3299399.32; 653622.06, 3299412.79; 653622.19, 3299423.49; 653614.47, 3299430.03; 653604.67, 3299424.63; 653593.72, 3299417.62; 653589.12, 3299426.22; 653597, 3299429.2; 653597.69, 3299449.03; 653583.89, 3299476.03; 653589.46, 3299491.63; 653600.76, 3299500.64; 653617.81, 3299486.8; 653621.9, 3299482.14; 653621.77, 3299471.44; 653614.39, 3299464.91; 653630.65, 3299466.51; 653639.67, 3299471.1; 653634, 3299491.17; 653622.28, 3299498.8; 653623.42, 3299516.27; 653621.53, 3299528.11; 653631.8, 3299530.75; 653633.44, 3299544.66; 653635.43, 3299560.17; 653641.92, 3299571.04; 653634.56, 3299579.17; 653624.65, 3299593.59; 653640.47, 3299612.62; 653637.37, 3299625.22; 653624.1, 3299638.59; 653619.94, 3299622.8; 653601.03, 3299631.44; 653611.67, 3299651.13; 653627.55, 3299667.78; 653622.73, 3299685.5; 653619.17, 3299700.47; 653627.03, 3299703.84; 653631.41, 3299688.09; 653640.67, 3299699.03; 653651.92, 3299694.56; 653668.08, 3299700.12; 653658.58, 3299714.15; 653652.28, 3299727.46; 653659.98, 3299737.17; 653670.98, 3299742.6; 653675.08, 3299753.4; 653682.28, 3299767.46; 653691.57, 3299777.21; 653701.16, 3299775.47; 653709.41, 3299779.24; 653719.87, 3299790.21; 653723.22, 3299814.86; 653730.11, 3299825.34; 653757.24, 3299821.67; 653741.91, 3299846.25; 653750.79, 3299856.38; 653762.3, 3299841.61; 653781.2, 3299848.83; 653779.99, 3299865.05; 653802.61, 3299866.81; 653814.93, 3299882.58; 653828.34, 3299902.73; 653845.82, 3299903.17; 653853.47, 3299915.26; 653871.26, 3299919.27; 653861.99, 3299908.34; 653854.83, 3299892.7; 653844.9, 3299892.45; 653827.03, 3299875.75; 653824.07, 3299867.35; 653830.07, 3299850.06; 653833.33, 3299831.12; 653833.82, 3299811.71; 653815.86, 3299798.57; 653807.32, 3299806.28; 653783.38, 3299794.18; 653791.82, 3299774.58; 653780.19, 3299778.65; 653775.37, 3299765.05; 653762.71, 3299778.21; 653755.86, 3299750.29; 653742.32, 3299735.68; 653716.73, 3299725.52; 653715.1, 3299711.21; 653707.05, 3299699.51; 653696.16, 3299690.12; 653697.08, 3299669.53; 653681.55, 3299670.33; 653680.19, 3299661.18; 653673.55, 3299640.8; 653668.82, 3299623.64; 653684.97, 3299613.74; 653691.36, 3299596.86; 653677.43, 3299581.84; 653660.25, 3299584.97; 653644.44, 3299597.26; 653640.71, 3299587.26; 653651.88, 3299570.1; 653658.43, 3299546.88; 653664.86, 3299528.41; 653655.22, 3299532.53; 653649.03, 3299525.63; 653650.96, 3299512.21; 653645.32, 3299499.38; 653647.73, 3299477.93; 653657.63, 3299468.38; 653659.01, 3299445.43; 653646.23, 3299447.48; 653644.21, 3299433.16; 653644.19, 3299418.1; 653635.33, 3299407.17; 653639.88, 3299400.32; 653647.02, 3299400.73; 653642.88, 3299391.51; 653639.64, 3299377.95; 653638.92, 3299359.31; 653654.25, 3299366.43; 653666.77, 3299342.96; 653685.99, 3299352.96; 653694.55, 3299360.31; 653701.15, 3299382.28; 653710.94, 3299388.47; 653721.08, 3299380.4; 653732.04, 3299387.02; 653732.2, 3299396.54; 653724.36, 3299407.83; 653708, 3299426.05; 653706.46, 3299439.88; 653709.34, 3299451.85; 653722.99, 3299446.25; 653728.03, 3299467.38; 653729.65, 3299481.69; 653743.13, 3299499.07; 653739.54, 3299515.23; 653768.95, 3299531.43; 653758.86, 3299552.98; 653734.6, 3299553.16; 653749.81, 3299565.04; 653764.11, 3299565.4; 653766.95, 3299578.94; 653747.56, 3299575.28; 653752.87, 3299601.18; 653762, 3299617.66; 653772.86, 3299612.39; 653776.75, 3299600.2; 653795.74, 3299603.85; 653807.07, 3299595.81; 653814.55, 3299598.77; 653821.46, 3299608.46; 653850.85, 3299625.45; 653850.02, 3299642.47; 653864.96, 3299665.05; 653865.15, 3299688.83; 653881.89, 3299703.13; 653884.61, 3299721.03; 653897.82, 3299733.26; 653895.68, 3299755; 653890.2, 3299767.55; 653904.63, 3299794.07; 653901.75, 3299813.82; 653919.39, 3299792.06; 653918.51, 3299764.3; 653909.41, 3299730.77; 653893.88, 3299684.8; 653882.22, 3299642.89; 653868.27, 3299628.27; 653851.97, 3299612.8; 653836.33, 3299602.49; 653825.57, 3299593.82; 653837.07, 3299588.64; 653843.16, 3299568.18; 653840.29, 3299555.82; 653830.34, 3299540.51; 653844.6, 3299542.45; 653845.96, 3299520.29; 653842.71, 3299507.13; 653817.23, 3299508.47; 653813.48, 3299499.66; 653813.09, 3299483.79; 653824.18, 3299469.41; 653821.98, 3299462.22; 653802.71, 3299469.66; 653798.67, 3299456.48; 653800.38, 3299435.91; 653808.52, 3299428.58; 653786.95, 3299416.94; 653774.16, 3299403.94; 653770.58, 3299387.99; 653768.84, 3299362.58; 653760, 3299350.47; 653753.56, 3299338.02; 653740.69, 3299328.18; 653733.62, 3299308.98; 653712.05, 3299312.79; 653700.74, 3299304.18; 653702.29, 3299321.66; 653698.4, 3299333.85; 653682.95, 3299331.88; 653670.27, 3299314.51; 653675.93, 3299294.84; 653676.06, 3299274.23; 653683.44, 3299265.3; 653691.29, 3299253.61; 653687.58,

3299241.51; 653710.94, 3299215.26; 653696.25, 3299214.49; 653682.84, 3299226.05; 653680.22, 3299219.64; 653677.09, 3299201.72; 653666.52, 3299179.66; 653665.56, 3299170.52; 653665, 3299160.99; 653666.11, 3299148.73; 653668.31, 3299140.07; 653659.87, 3299127.96; 653659.84, 3299113.69; 653660.38, 3299092.3; 653655.09, 3299081.47; 653653.24, 3299060.02; 653659.37, 3299037.98; 653664.6, 3299048.27; 653661.21, 3299059.43; 653672.24, 3299063.27; 653680.24, 3299077.35; 653680.27, 3299091.62; 653685.27, 3299114.34; 653693.25, 3299097.1; 653695.84, 3299089.23; 653702.79, 3299097.34; 653693.13, 3299117.7; 653687.27, 3299129.45; 653694.78, 3299146.68; 653701.74, 3299138.93; 653720.4, 3299139.8; 653713.7, 3299153.5; 653735.89, 3299156.04; 653728.64, 3299128.51; 653726.82, 3299106.6; 653730.38, 3299091.89; 653711.76, 3299052.31; 653705.29, 3299035.77; 653697.39, 3299012.84; 653692.49, 3298996.87; 653684.13, 3298971.29; 653679.32, 3298951.61; 653675, 3298934.07; 653670.67, 3298916.52; 653665.19, 3298881.5; 653647.93, 3298892.62; 653857.76, 3297375.07; 653868.54, 3297372.97; 653861.21, 3297364.06; 653858.34, 3297352.1; 653863.13, 3297351.03; 653860.57, 3297342.25; 653856.01, 3297334.2; 653855.49, 3297323.09; 653851.38, 3297328.54; 653845.03, 3297327.98; 653842.19, 3297314.43; 653840.42, 3297306.07; 653841.88, 3297295.4; 653847.9, 3297293.17; 653854.34, 3297290.17; 653851.36, 3297282.16; 653843.89, 3297278.8; 653833.68, 3297273.79; 653835.73, 3297271.07; 653833.99, 3297261.51; 653826.85, 3297260.94; 653822, 3297263.98; 653815.01, 3297257.47; 653814.88, 3297262.62; 653809.2, 3297266.83; 653805.2, 3297267.92; 653800.26, 3297259.08; 653793.6, 3297270.8; 653792.1, 3297283.05; 653789.79, 3297295.67; 653784, 3297304.64; 653781.51, 3297308.54; 653777.77, 3297315.19; 653779.29, 3297318; 653784.36, 3297321.7; 653782.85, 3297334.34; 653785, 3297343.51; 653784.83, 3297350.25; 653784.32, 3297354.99; 653784.21, 3297359.35; 653785.64, 3297365.33; 653791.97, 3297366.68; 653795.6, 3297364.79; 653798.17, 3297357.32; 653804.65, 3297352.73; 653821.18, 3297359.48; 653829.39, 3297364.84; 653843.59, 3297369.17; 653857.76, 3297375.07; 654015.89, 3294903.84; 654019.32, 3294909.48; 654031.91, 3294914.95; 654059.49, 3294924.76; 654073.54, 3294935.02; 654081.46, 3294936.41; 654089.51, 3294932.25; 654094.82, 3294926.84; 654099.34, 3294921.01; 654098.71, 3294914.65; 654088.68, 3294902.5; 654069.84, 3294877.06; 654045.28, 3294841.96; 654038.44, 3294838.29; 654028.32, 3294852.23; 654018.27, 3294888.05; 654015.89, 3294903.84; 654039.1, 3294819.21; 654051.65, 3294841.72; 654062.03, 3294855.46; 654084.7, 3294839.38; 654090.41, 3294849.44; 654070.57, 3294863.6; 654084.71, 3294886.55; 654101.98, 3294910.77; 654108.17, 3294901.81; 654111.35, 3294886.43; 654109.55, 3294863; 654103.82, 3294838.28; 654062.48, 3294766.6; 654039.1, 3294819.21; 654132.6, 3294481.1; 654133.71, 3294500.15; 654135.11, 3294523.57; 654141.83, 3294550.94; 654154.02, 3294561.7; 654181, 3294571.42; 654205.77, 3294590.93; 654218.5, 3294574.42; 654213.04, 3294553.33; 654222.25, 3294536.47; 654213.69, 3294481.56; 654211.22, 3294453.75; 654192.26, 3294464.37; 654175.19, 3294463.54; 654171.86, 3294453.55; 654179.65, 3294444.24; 654174.78, 3294432.62; 654172.08, 3294428.98; 654178.71, 3294418.45; 654167.36, 3294411.43; 654168.81, 3294401.16; 654170.8, 3294385.35; 654167.79, 3294378.54; 654169.58, 3294370.66; 654179.31, 3294363.37; 654195.44, 3294385.58; 654205.15, 3294394.94; 654217.95, 3294391.69; 654225.19, 3294325.29; 654232.28, 3294296.54; 654238.18, 3294236.04; 654247.99, 3294225.59; 654269.43, 3294132.19; 654275.8, 3294053.09; 654285.32, 3294022.41; 654313, 3293949.78; 654321.57, 3293925.43; 654337.49, 3293877.47; 654350.44, 3293852.83; 654369.01, 3293825.95; 654393.24, 3293795.25; 654417.8, 3293782.79; 654414.46, 3293757.73; 654422.36, 3293728.2; 654393.06, 3293692.19; 654366.44, 3293662.08; 654351.6, 3293703.99; 654327.76, 3293787.41; 654313.55, 3293833.67; 654298.3, 3293862.24; 654282.58, 3293897.25; 654267.42, 3293928.42; 654256.25, 3293953.13; 654245.56, 3293977.7; 654230.11, 3294022.76; 654220.64, 3294061.63; 654215.81, 3294085.29; 654212.58, 3294107.93; 654201.84, 3294197.5; 654192.61, 3294248; 654172.07, 3294326.75; 654154.7, 3294384.97; 654139.08, 3294444.8; 654132.6, 3294481.1; 654134.92, 3296053.16; 654141.26, 3296048.27; 654145.79, 3296042.04; 654150.84, 3296031.07; 654157.91, 3296034.42; 654161.74, 3296040.07; 654161.16, 3296047.58; 654156.6, 3296055; 654156.41, 3296062.53; 654153.84, 3296069.6; 654156.51, 3296074.02; 654160.83, 3296076.11; 654163.89, 3296080.95; 654178.15, 3296083.29; 654184.93, 3296082.27; 654187.09, 3296075.59; 654180.33, 3296075.42; 654169.63,

3296074.35; 654165.39, 3296068.7; 654167.82, 3296067.17; 654171.79, 3296067.27; 654173.93, 3296061.38; 654168.23, 3296050.93; 654167.33, 3296039.42; 654167.79, 3296036.65; 654173.48, 3296032.04; 654175.65, 3296024.56; 654184.44, 3296022.8; 654191.81, 3296014.67; 654197.32, 3296016.79; 654198.65, 3296027.13; 654206.54, 3296029.31; 654213.49, 3296037.8; 654217.74, 3296042.67; 654225.26, 3296044.05; 654229.21, 3296044.94; 654232.64, 3296035.12; 654224.75, 3296032.54; 654219.26, 3296029.63; 654219.41, 3296023.69; 654222.34, 3296017.81; 654225.26, 3296012.34; 654223.04, 3296005.94; 654221.62, 3295999.17; 654220.56, 3295993.99; 654218.68, 3295989.58; 654210.41, 3295986.6; 654210.15, 3295981.04; 654211.48, 3295975.53; 654218.64, 3295975.31; 654221.14, 3295971.01; 654223.67, 3295965.13; 654234.46, 3295963.03; 654235.38, 3295957.9; 654235.5, 3295953.14; 654233.2, 3295949.91; 654226.47, 3295948.95; 654225.79, 3295944.18; 654224.06, 3295933.83; 654229.06, 3295924.84; 654248.18, 3295923.34; 654255.22, 3295912.42; 654264.74, 3295897.6; 654275.61, 3295876.47; 654284.51, 3295854.5; 654292.57, 3295818.63; 654305.47, 3295795.97; 654317.16, 3295758.21; 654318.39, 3295725.35; 654328.79, 3295706.98; 654327.85, 3295697.05; 654305.87, 3295701.65; 654284.3, 3295705.46; 654277.29, 3295715.59; 654284.87, 3295730.05; 654301.7, 3295740.78; 654297.51, 3295749; 654286.16, 3295741.98; 654278.3, 3295738.21; 654274.56, 3295744.85; 654267.02, 3295744.27; 654264.96, 3295731.53; 654258.04, 3295721.85; 654246.07, 3295723.53; 654237.46, 3295734.01; 654230.98, 3295723.15; 654222.13, 3295711.43; 654213.18, 3295703.67; 654195.27, 3295782.47; 654187.7, 3295814.38; 654181.23, 3295835.25; 654171.23, 3295853.63; 654162.18, 3295881.14; 654157.42, 3295912.33; 654157.94, 3295923.05; 654158.55, 3295930.59; 654159.49, 3295940.53; 654159.21, 3295951.62; 654159.87, 3295972.64; 654158.07, 3295980.92; 654155.45, 3295990.37; 654150.36, 3296002.92; 654135.51, 3296045.25; 654125.5, 3296064.02; 654134.92, 3296053.16; 654155.69, 3295524.26; 654163.18, 3295542.68; 654161.65, 3295556.12; 654175.98, 3295571.15; 654186.91, 3295578.95; 654183.09, 3295588.77; 654179.23, 3295599.77; 654166.04, 3295602.6; 654160.29, 3295609.99; 654170.15, 3295628.87; 654164.09, 3295648.14; 654160.1, 3295664.68; 654167.29, 3295678.74; 654164.46, 3295696.5; 654159.75, 3295709.86; 654163, 3295723.02; 654172.34, 3295730.79; 654173.24, 3295742.3; 654178.95, 3295768.21; 654174.73, 3295778.01; 654175.89, 3295810.54; 654165, 3295816.61; 654165.18, 3295825.33; 654176.58, 3295832.38; 654185.93, 3295806.01; 654195.65, 3295767.41; 654204.44, 3295719.31; 654187.82, 3295716.11; 654181.46, 3295700.5; 654192.72, 3295679.38; 654211.42, 3295679.05; 654220.82, 3295668.99; 654240.86, 3295599.34; 654249.98, 3295554.46; 654258.65, 3295528.52; 654247.7, 3295517.47; 654237.7, 3295519.99; 654232.75, 3295511.14; 654227.54, 3295507.45; 654212.45, 3295528.07; 654212.44, 3295496.76; 654191.25, 3295454.61; 654197.53, 3295426.23; 654190.5, 3295421.3; 654183.8, 3295434.6; 654183.25, 3295456.39; 654182.54, 3295484.51; 654178.07, 3295503.82; 654161.63, 3295509.35; 654155.69, 3295524.26; 654246, 3295594.5; 654261, 3295580.4; 654259.83, 3295572.47; 654255.8, 3295558.89; 654264.91, 3295544.45; 654257.15, 3295547.37; 654247.89, 3295577.46; 654246, 3295594.5; 654260.45, 3295539.26; 654265.49, 3295539.34; 654272.3, 3295542.38; 654273.79, 3295544.16; 654278.7, 3295548.74; 654280.39, 3295560.28; 654290.24, 3295564.09; 654301.44, 3295561.2; 654310.64, 3295559.06; 654314.04, 3295550.42; 654313.98, 3295536.94; 654318.17, 3295528.33; 654337.46, 3295535.95; 654329.19, 3295548.82; 654335.43, 3295553.34; 654343.46, 3295551.19; 654349.85, 3295534.31; 654352.15, 3295506.22; 654338.13, 3295494.77; 654332.24, 3295523.16; 654328.47, 3295515.14; 654320.16, 3295513.35; 654308.13, 3295533.26; 654309.97, 3295539.25; 654307.24, 3295552.66; 654299.79, 3295548.9; 654300.52, 3295535.44; 654298.47, 3295522.31; 654280.17, 3295522.64; 654281.62, 3295496.92; 654280.85, 3295480.25; 654295.61, 3295478.24; 654307.04, 3295473.35; 654290.74, 3295473.34; 654271.63, 3295474.44; 654271.33, 3295479.22; 654268.56, 3295510.06; 654263.38, 3295533.29; 654260.45, 3295539.26; 654436.76, 3293553.27; 654438.19, 3293558.17; 654452.35, 3293568.84; 654468.72, 3293566.08; 654487.96, 3293559.83; 654501.03, 3293561.74; 654511.51, 3293556.06; 654520.66, 3293555.89; 654530.76, 3293560.51; 654555.18, 3293553.99; 654550.46, 3293536.43; 654544.96, 3293533.52; 654530.68, 3293538.28; 654530.61, 3293519.28; 654533.59, 3293511.43; 654527.68, 3293482.35; 654516.18, 3293497.12; 654498.39, 3293520.06; 654480.59, 3293532.29; 654436.76, 3293553.27; 654763.98, 3293129.4; 654769.73, 3293122.41; 654765.96, 3293113.99; 654772.09,

3293107.41; 654779.16, 3293110.76; 654784.93, 3293118.44; 654792.56, 3293115.46; 654789.93, 3293109.45; 654782.91, 3293104.12; 654788.52, 3293102.28; 654787.18, 3293092.33; 654782.56, 3293086.67; 654774.69, 3293083.3; 654770.33, 3293082.79; 654775.23, 3293077.76; 654780.33, 3293080.27; 654787.95, 3293077.69; 654794.3, 3293078.24; 654800.06, 3293070.46; 654798.62, 3293064.48; 654797.2, 3293057.71; 654786.88, 3293057.05; 654783.82, 3293052.22; 654785.97, 3293045.93; 654793.57, 3293044.14; 654799.21, 3293041.11; 654804.92, 3293035.31; 654800.07, 3293022.9; 654792.09, 3293023.89; 654791.11, 3293015.54; 654795.6, 3293010.9; 654803.95, 3293011.11; 654811.89, 3293011.31; 654815.81, 3293013.39; 654819.88, 3293009.92; 654814.87, 3293003.46; 654815.83, 3292997.14; 654816.46, 3292987.64; 654820.4, 3292973.47; 654812.02, 3292958.99; 654811.65, 3292942.34; 654810.07, 3292926.05; 654811.55, 3292914.59; 654818.96, 3292889.02; 654802.75, 3292885.44; 654794.8, 3292885.24; 654792.55, 3292895.48; 654783.68, 3292900.41; 654768.43, 3292890.52; 654768.72, 3292863.18; 654757.7, 3292858.54; 654748.13, 3292852.09; 654754.19, 3292840.22; 654759.87, 3292835.61; 654751.48, 3292821.52; 654743.05, 3292793.17; 654747.29, 3292782.97; 654729.78, 3292783.32; 654733.26, 3292803.23; 654733.86, 3292842.48; 654733.8, 3292876.17; 654731.78, 3292909.02; 654734.75, 3292917.41; 654739, 3292922.28; 654744.46, 3292942.23; 654744.57, 3292953.73; 654745.67, 3292972.78; 654742.27, 3292981.81; 654747.02, 3292982.33; 654745.76, 3292985.07; 654744.86, 3292989.41; 654740.35, 3292994.84; 654744.46, 3293005.25; 654750.02, 3293005.39; 654756.81, 3293003.98; 654753.06, 3293011.02; 654751.66, 3293019.3; 654757.3, 3293016.27; 654758.25, 3293025.81; 654760.21, 3293027.05; 654758.44, 3293034.14; 654756.02, 3293035.27; 654751.65, 3293035.16; 654747.19, 3293038.61; 654755.03, 3293043.17; 654761.06, 3293040.55; 654767.34, 3293043.88; 654770.27, 3293038; 654763.77, 3293059.24; 654758.48, 3293063.87; 654758.7, 3293055.15; 654752.36, 3293054.2; 654750.47, 3293050.58; 654743.99, 3293055.18; 654746.18, 3293062.76; 654751.97, 3293069.65; 654755.78, 3293076.48; 654753.66, 3293081.58; 654751.18, 3293085.48; 654747.11, 3293088.95; 654746.19, 3293094.08; 654752.81, 3293099.39; 654759.26, 3293111.84; 654757.58, 3293115.37; 654757.76, 3293124.09; 654757.61, 3293130.03; 654763.98, 3293129.4; 655065.86, 3292801.46; 655066.61, 3292803.33; 655072.15, 3292804.26; 655078.44, 3292791.34; 655081.91, 3292785.44; 654926.19, 3292781.51; 654928.51, 3292793.11; 654928.47, 3292794.7; 654927.63, 3292796.66; 654926.36, 3292799.8; 654928.31, 3292801.03; 654928.64, 3292803.82; 654932.13, 3292807.47; 654937.44, 3292817.51; 654934.56, 3292821.4; 654937.88, 3292831.4; 654941.28, 3292838.62; 654940.34, 3292844.14; 654940.53, 3292852.47; 654940.04, 3292856.03; 654937.09, 3292862.69; 654945.08, 3292861.3; 654946.83, 3292855.01; 654948.17, 3292849.1; 654949.61, 3292839.22; 654947.28, 3292837.18; 654951.14, 3292825.79; 654949.21, 3292823.76; 654944.6, 3292817.3; 654939.95, 3292812.42; 654941.29, 3292806.51; 654940.26, 3292800.15; 654942.74, 3292796.64; 654942.42, 3292793.46; 654937.75, 3292789.38; 654940.59, 3292787.07; 654948.2, 3292784.89; 654953.02, 3292783.03; 654960.09, 3292786.38; 654958.01, 3292789.89; 654956.71, 3292794.22; 654954.14, 3292801.68; 654954.01, 3292806.83; 654957.09, 3292810.87; 654960.68, 3292810.17; 654964.92, 3292815.43; 654968.4, 3292819.48; 654971.14, 3292821.14; 654968.61, 3292827.02; 654963.13, 3292839.17; 654967.49, 3292839.67; 654966.15, 3292845.58; 654967.91, 3292854.75; 654970.69, 3292854.82; 654970.27, 3292855.6; 654969.25, 3292864.69; 654966.41, 3292866.6; 654966.5, 3292878.89; 654971.22, 3292880.99; 654979.91, 3292883.19; 654986.81, 3292877.81; 654989.21, 3292877.08; 654994.61, 3292867.7; 654997.37, 3292868.96; 655000.97, 3292867.86; 655003.46, 3292863.96; 655006.68, 3292862.06; 655009.74, 3292866.9; 655012.84, 3292870.15; 655014.35, 3292873.35; 655018.2, 3292878.21; 655019.94, 3292872.31; 655024.39, 3292869.25; 655028.38, 3292868.95; 655032.06, 3292864.68; 655040.89, 3292861.34; 655045.28, 3292860.66; 655056.18, 3292854.19; 655057.83, 3292851.86; 655061.99, 3292844.83; 655066.05, 3292841.36; 655068.54, 3292837.07; 655065.09, 3292832.22; 655058.72, 3292832.46; 655056.26, 3292835.57; 655054.12, 3292841.46; 655054.81, 3292845.44; 655050.63, 3292853.66; 655042.6, 3292856.63; 655036.33, 3292853.3; 655030.39, 3292852.36; 655027.13, 3292855.44; 655021.11, 3292857.67; 655019.68, 3292851.29; 655016.6, 3292847.25; 655009.3, 3292853.01; 655004.19, 3292850.51; 655007.56, 3292843.06; 655008.19, 3292833.96; 655019.31, 3292834.24; 655026.1, 3292833.22; 655030.13, 3292830.95; 655031.83, 3292826.63; 655031.18,

3292821.06; 655026.76, 3292822.93; 655027.64, 3292819.39; 655029.42, 3292811.9; 655026.33, 3292808.26; 655028.82, 3292804.36; 655035.88, 3292808.1; 655039.16, 3292804.22; 655043.64, 3292799.98; 655051.19, 3292800.17; 655051.64, 3292797.8; 655051.77, 3292792.65; 655062.13, 3292791.72; 655066, 3292796.18; 655065.86, 3292801.46; 655117.14, 3293525.95; 655108, 3293525.72; 655104.43, 3293525.63; 655102.17, 3293520.42; 655101.89, 3293515.66; 655099.64, 3293510.45; 655105.72, 3293505.85; 655108.27, 3293499.57; 655102.31, 3293499.42; 655104.76, 3293496.71; 655101.31, 3293491.47; 655095.67, 3293494.5; 655091.77, 3293491.62; 655095.28, 3293478.63; 655102.54, 3293474.45; 655116.9, 3293472.44; 655128.06, 3293471.53; 655137.6, 3293471.37; 655135.51, 3293475.68; 655140.31, 3293490.07; 655171.63, 3293399.3; 655162.94, 3293397.1; 655159.9, 3293391.48; 655151.8, 3293397.22; 655150.37, 3293390.84; 655150.16, 3293383.31; 655151.53, 3293376.6; 655157.68, 3293369.23; 655150.31, 3293346.05; 655149.5, 3293330.97; 655143.45, 3293318.53; 655135.63, 3293313.18; 655135.56, 3293300.5; 655138.1, 3293278.37; 655133.54, 3293270.32; 655136.24, 3293257.71; 655136.61, 3293243.05; 655126.58, 3293230.91; 655129.73, 3293216.33; 655152.57, 3293225.22; 655168.65, 3293218.1; 655163.06, 3293203.29; 655169.47, 3293185.62; 655161.65, 3293180.27; 655151.99, 3293169.32; 655145.48, 3293175.11; 655150.61, 3293160.97; 655153.96, 3293154.31; 655148.07, 3293135.54; 655146.47, 3293120.43; 655137.48, 3293098.41; 655134.05, 3293092.77; 655119.83, 3293104.7; 655103.3, 3293097.94; 655094.55, 3293082.27; 655089.3, 3293069.85; 655086.09, 3293055.1; 655086.07, 3293040.44; 655081.53, 3293015.35; 655065.84, 3293007.03; 655059.34, 3292993.99; 655063.29, 3292966.14; 655051.84, 3292978.93; 655035.63, 3293006.67; 655037.71, 3293019; 655043.97, 3293022.73; 655038.58, 3293031.71; 655050.79, 3293036.38; 655050.83, 3293050.25; 655063.15, 3293050.56; 655063.66, 3293061.67; 655071.28, 3293059.09; 655065.63, 3293078.37; 655065.35, 3293089.46; 655073.08, 3293097.98; 655070.12, 3293105.04; 655088.66, 3293111.05; 655100.01, 3293149.39; 655092.74, 3293153.96; 655098.09, 3293194.13; 655115.46, 3293214.78; 655107.34, 3293221.31; 655111.14, 3293228.54; 655108.84, 3293240.77; 655114.27, 3293246.06; 655118.29, 3293260.03; 655126.48, 3293266.18; 655124.77, 3293271.29; 655112.86, 3293270.6; 655114.83, 3293286.9; 655122.12, 3293297.38; 655113.91, 3293309.23; 655113.13, 3293322.52; 655116.85, 3293332.92; 655128.7, 3293336; 655121.62, 3293348.5; 655122.64, 3293367.19; 655123.62, 3293379.47; 655127.53, 3293397.8; 655136.53, 3293403.57; 655137.03, 3293415.48; 655144.16, 3293416.45; 655149.54, 3293407.86; 655148.07, 3293434.78; 655147.76, 3293447.06; 655138.72, 3293442.87; 655136.41, 3293455.49; 655130.21, 3293464.85; 655091.62, 3293465.86; 655097.79, 3293457.69; 655094.57, 3293443.74; 655089.64, 3293434.1; 655092.22, 3293426.63; 655084.45, 3293419.3; 655081.5, 3293410.11; 655081.04, 3293397.02; 655073.4, 3293400.4; 655065.05, 3293400.19; 655075.01, 3293383.79; 655075.42, 3293367.55; 655076.1, 3293340.62; 655063.6, 3293331.98; 655058.83, 3293316; 655056.45, 3293300.09; 655060.59, 3293278; 655040.92, 3293269.58; 655034.65, 3293313.02; 655045.61, 3293335.88; 655043.67, 3293365.17; 655043.9, 3293371.91; 655045.53, 3293386.22; 655045.28, 3293396.12; 655048.84, 3293396.61; 655054.85, 3293394.78; 655052.72, 3293400.67; 655051.3, 3293409.35; 655044.07, 3293412.34; 655047.49, 3293418.77; 655046.52, 3293425.48; 655056.21, 3293435.63; 655060.49, 3293439.31; 655064.67, 3293446.95; 655061.27, 3293455.58; 655059.89, 3293463.08; 655067.9, 3293460.5; 655073.81, 3293462.63; 655078.06, 3293467.5; 655080.7, 3293473.51; 655073.81, 3293478.49; 655068.11, 3293483.89; 655063.99, 3293489.34; 655072.29, 3293491.53; 655075.77, 3293495.18; 655084.13, 3293495; 655088.12, 3293494.31; 655090.41, 3293498.33; 655083.88, 3293504.9; 655079.5, 3293505.19; 655076.21, 3293509.46; 655085.66, 3293512.87; 655084.46, 3293513.24; 655087.92, 3293518.08; 655100.23, 3293534.25; 655101.82, 3293534.29; 655104.53, 3293537.13; 655117.14, 3293525.95; 655065.82, 3292803.31; 655065.86, 3292801.46; 655065.49, 3292800.53; 655065.82, 3292803.31; 655108.97, 3291537.58; 655108.72, 3291583.4; 655117.05, 3291582.45; 655127.05, 3291579.92; 655126.99, 3291567.06; 655136.9, 3291552.25; 655149.61, 3291537.11; 655108.97, 3291537.58; 655108.72, 3291583.4; 655108.69, 3291588.86; 655108.72, 3291583.4; 655108.72, 3291583.4; 655108.69, 3291588.86; 655108.63, 3291600.76; 655126.55, 3291601.36; 655127.11, 3291593.62; 655127.07, 3291585.06; 655117.36, 3291586.02; 655108.69, 3291588.86; 655108.63, 3291600.76; 655108.59, 3291606.35; 655108.6, 3291606.35; 655108.63, 3291600.76; 655108.6,

3291606.35; 655108.51, 3291622.25; 655114.99, 3291616.88; 655125.73, 3291615.19; 655126.35, 3291607.65; 655108.6, 3291606.35; 655108.51, 3291622.25; 655108.46, 3291632.56; 655108.51, 3291622.25; 655108.51, 3291622.25; 655108.46, 3291632.56; 655108.31, 3291659.04; 655122.64, 3291659.88; 655125.21, 3291621.5; 655117.64, 3291622.1; 655110.82, 3291624.7; 655108.46, 3291632.56; 655108.31, 3291659.04; 655108.28, 3291664.98; 655108.28, 3291664.98; 655108.31, 3291659.04; 655108.31, 3291659.04; 655108.28, 3291664.98; 655108.19, 3291682.87; 655121.08, 3291683.25; 655122.32, 3291664.65; 655108.28, 3291664.98; 655108.18, 3291682.87; 655108.15, 3291688.44; 655108.16, 3291688.44; 655108.19, 3291682.87; 655108.18, 3291682.87; 655108.16, 3291688.44; 655107.48, 3291813.38; 655120.5, 3291808.91; 655117.81, 3291741.62; 655120.11, 3291697.68; 655120.76, 3291687.97; 655108.16, 3291688.44; 655107.48, 3291813.38; 655107.45, 3291818.11; 655107.46, 3291818.11; 655107.48, 3291813.38; 655107.48, 3291813.38; 655107.09, 3291884.78; 655113.83, 3291883.19; 655123.42, 3291881.67; 655120.77, 3291815.65; 655107.46, 3291818.11; 655107.09, 3291884.78; 655243.24, 3292550.97; 655239.31, 3292564.74; 655263.15, 3292565.34; 655258.5, 3292560.47; 655250.75, 3292552.34; 655254.07, 3292546.88; 655259.73, 3292543.45; 655261.82, 3292539.15; 655254.74, 3292536.19; 655252.04, 3292532.96; 655257.34, 3292527.54; 655263.81, 3292523.34; 655258.31, 3292520.83; 655262.02, 3292515.77; 655263.9, 3292503.92; 655260.41, 3292500.67; 655254.11, 3292498.13; 655248.7, 3292492.05; 655245.53, 3292491.57; 655244.59, 3292481.64; 655238.7, 3292478.72; 655237.84, 3292465.62; 655241.54, 3292460.56; 655242.54, 3292452.65; 655244.7, 3292445.57; 655239.57, 3292444.26; 655240.92, 3292437.95; 655242.74, 3292428.88; 655243.69, 3292422.96; 655238.21, 3292419.25; 655242.01, 3292410.63; 655243.01, 3292402.33; 655251.62, 3292392.24; 655260.8, 3292390.89; 655273.23, 3292402.3; 655277.73, 3292413.11; 655277.48, 3292423.02; 655277.62, 3292433.32; 655283.69, 3292429.12; 655289.82, 3292422.53; 655298.2, 3292421.16; 655300.77, 3292429.55; 655300.1, 3292440.23; 655299.52, 3292447.75; 655296.66, 3292450.45; 655290.54, 3292456.64; 655289.56, 3292464.14; 655292.25, 3292467.78; 655297.36, 3292470.29; 655301.71, 3292471.19; 655306.49, 3292470.52; 655315.36, 3292465.98; 655320.61, 3292462.55; 655317.55, 3292457.71; 655312.11, 3292452.82; 655311.49, 3292446.07; 655314.08, 3292437.81; 655307.41, 3292434.07; 655310.03, 3292425.02; 655301.56, 3292414.11; 655294.92, 3292409.19; 655285.97, 3292401.43; 655280.15, 3292395.74; 655268.93, 3292383.56; 655257.1, 3292364.24; 655259.31, 3292355.18; 655269.85, 3292347.12; 655267.72, 3292337.16; 655266.69, 3292330.79; 655271.37, 3292318.62; 655274.02, 3292307.99; 655274.72, 3292296.12; 655272.48, 3292274.66; 655273.21, 3292261.6; 655262.61, 3292256.18; 655275.76, 3292239.07; 655266.06, 3292229.71; 655253.68, 3292231.77; 655245.16, 3292222.84; 655233.03, 3292230.86; 655228.26, 3292246.59; 655224.42, 3292256.8; 655233.14, 3292258.21; 655239.66, 3292267.49; 655235.39, 3292279.27; 655236.35, 3292288.41; 655236.47, 3292299.51; 655230.39, 3292319.57; 655236.16, 3292327.25; 655243.96, 3292333.39; 655236.23, 3292340.33; 655241.88, 3292352.76; 655239.99, 3292364.6; 655230.02, 3292365.94; 655234.72, 3292384.29; 655232.5, 3292393.74; 655231.59, 3292398.08; 655230.99, 3292405.99; 655227.69, 3292411.06; 655230.2, 3292421.82; 655226.5, 3292426.49; 655225.5, 3292434.79; 655231.82, 3292436.13; 655235.31, 3292439.79; 655235.56, 3292445.74; 655231.22, 3292459.9; 655231.79, 3292469.03; 655231.49, 3292480.91; 655235.61, 3292490.93; 655231.91, 3292495.59; 655235.03, 3292498.04; 655236.83, 3292505.62; 655229.97, 3292509.41; 655221.82, 3292517.53; 655229.8, 3292516.14; 655232.34, 3292525.72; 655237.56, 3292523.87; 655239, 3292529.85; 655242.96, 3292530.35; 655249.24, 3292533.68; 655246.96, 3292545.11; 655247.51, 3292555.04; 655243.24, 3292550.97.

656164.41, 3288326.62; 656168, 3288342.15; 656172.73, 3288342.27; 656175.07, 3288338.36; 656179.7, 3288332.75; 656180.35, 3288327.05; 656178.75, 3288321.3; 656172.11, 3288317.4; 656166.18, 3288315.26; 656157.28, 3288312.3; 656152.83, 3288310.7; 656150.78, 3288312.88; 656150.37, 3288319.09; 656150.29, 3288322.57; 656148.47, 3288325.26; 656148.62, 3288329.24; 656156.7, 3288335.16; 656162.4, 3288336.54; 656168, 3288342.15.

655024.14, 3291594.68; 655108.1, 3291600.74; 655108.16, 3291588.84; 655086.94, 3291590.7; 655080.65, 3291587.76; 655069.99, 3291584.72; 655042.58, 3291584.03; 655021.89, 3291584.7; 655001.58, 3291585.77; 654980.82, 3291589.21; 654970.5, 3291588.56; 654957.4, 3291587.83; 654945.02, 3291589.9; 654940.11, 3291595.32; 654943.1, 3291602.93; 654949.74, 3291607.85; 654955.74, 3291608.46; 654954.87, 3291593.32; 654965.99, 3291593.99; 654966.39, 3291609.37; 654981.13, 3291608.64; 655009, 3291606.97; 655029.75, 3291603.92; 655049.71, 3291600.86; 655067.28, 3291597.73; 655081.57, 3291598.49; 655096.2, 3291601.63; 655108.1, 3291600.74.

(iii) Note: Map 3 of Units 2 and 3 follows:

BILLING CODE 4310-55-P

Dated: November 30, 2005.
Craig Manson,
Assistant Secretary for Fish and Wildlife and Parks.

[FR Doc. 05-23695 Filed 12-14-05; 8:45 am]

BILLING CODE 4310-55-C